DEPARTMENT OF HEALTH AND HUMAN SERVICES

Centers for Medicare & Medicaid Services

42 CFR Parts 410 and 414

[CMS-1476-P]

RIN 0938-AL96

Medicare Program; Revisions to Payment Policies Under the Physician Fee Schedule for Calendar Year 2004

AGENCY: Centers for Medicare & Medicaid Services (CMS), HHS.

ACTION: Proposed rule.

SUMMARY: This proposed rule would refine the resource-based practice expense relative value units (RVUs) and make other changes to Medicare Part B payment policy. The policy changes concern: Medicare Economic Index, practice expense for professional component services, definition of diabetes for diabetes self-management training, supplemental survey data for practice expense, geographic practice cost indices, and several coding issues.

We are proposing these changes to ensure that our payment systems are updated to reflect changes in medical practice and the relative value of services. We solicit comments on these proposed policy changes.

We also discuss the non-physician work-pool, the 5-year review of anesthesia services, and outpatient therapy services performed “incident to” physician services.

DATES: We will consider comments if we receive them at the address, provided below, no later than 5 p.m. on October 7, 2003.

ADDRESSES: In commenting, please refer to file code CMS-1476-P. Because of staff and resource limitations, we cannot accept comments by facsimile (FAX) transmission or e-mail. Mail written comments (one original and two copies) to the following address ONLY: Centers for Medicare & Medicaid Services, Department of Health and Human Services, Attention: CMS-1476-P, P.O. Box 8013, Baltimore, MD 21244-8013. Please allow sufficient time for us to receive mailed comments on time in the event of delivery delays.

If you prefer, you may deliver (by hand or courier) your written comments (one original and two copies) to one of the following addresses: Room 445-G, Hubert H. Humphrey Building, 200 Independence Avenue, SW., Washington, DC 20201, or Room C5-14-03, 7500 Security Boulevard, Baltimore, MD 21244-1850.

(Because access to the interior of the HHH Building is not readily available to persons without Federal Government identification, commenters are encouraged to leave their comments in the CMS drop slots located in the main lobby of the building. A stamp-in clock is available for persons wishing to retain a proof of filing by stamping in and retaining an extra copy of the comments being filed.)

Comments mailed to the addresses indicated as appropriate for hand or courier delivery may be delayed and could be considered late.

For information on viewing public comments, see the beginning of the SUPPLEMENTARY INFORMATION section.

FOR FURTHER INFORMATION CONTACT: Gail Addis (410) 786-4522 (for issues related to repricing of supplies for practice expense inputs.)

Pam West (410) 786-2302 (for issues related to Practice Expense Advisory Committee (PEAC) recommendations.)

Jim Menas (410) 786-4507 (for issues related to anesthesia).

Rick Ensor (410) 786-5617 (for issues related to Geographic Cost Price Index (GPCI)).

Mary Stojak (410) 786-6939 (for issues related to the definition of diabetes for diabetes self-management training (DSMT)).

Shannon Martin (410) 786-7939 (for issues related to rebasing of the Medicare Economic Index (MEI)).

Dorothy Shannon (410) 786-3396 (for issues related to the “Incident To” Therapy Discussion).

Diane Milstead (410) 786-3355, Latesha Walker (410) 786-1101, or Gaysha Brooks (410) 786-3355 (for all other issues).

SUPPLEMENTARY INFORMATION: Inspection of Public Comments: Comments received timely will be available for public inspection as they are processed, generally beginning approximately 3 weeks after publication of a document, at the headquarters of the Centers for Medicare & Medicaid Services, 7500 Security Boulevard, Baltimore, Maryland 21244, Monday through Friday of each week from 8:30 a.m. to 4 p.m. To schedule an appointment to view public comments, phone (410) 786-7197.

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 (or toll-free at 1-888-293-6498) or by faxing to (202) 512-2250. The cost for each copy is $10. As an alternative, you can view and photocopy the Federal Register document at most libraries designated as Federal Depository Libraries and at many other public and academic libraries throughout the country that receive the Federal Register.

This Federal Register document is also available from the Federal Register online database through GPO Access, a service of the U.S. Government Printing Office. The Web site address is: http://www.access.gpo.gov/nara/index.html.

Information on the physician fee schedule can be found on our homepage. You can access this data by using the following directions:

1. Go to the CMS homepage (http://www.cms.hhs.gov).

2. Place your cursor over the word “Professionals” in the blue area near the top of the page. Select “physicians” from the drop-down menu.

3. Under “Policies/Regulations” select “Physician Fee Schedule.”

Or, you can go directly to the Physician Fee Schedule page by typing the following: http://www.cms.hhs.gov/physicians/pfs.

To assist readers in referencing sections contained in this preamble, we are providing the following table of contents. Some of the issues discussed in this preamble affect the payment policies but do not require changes to the regulations in the Code of Federal Regulations. Information on the regulation's impact appears throughout the preamble and is not exclusively in section VII.

Table of Contents

I. Background

A. Legislative History

B. Published Changes to the Fee Schedule

II. Provisions of the Proposed Regulation

A. Resource-Based Practice Expense Relative Value Units

1. Resource-Based Practice Expense Legislation

2. Current Methodology

3. Practice Expense Proposals for Calendar Year 2004

B. Geographic Practice Cost Indices (GPCIs)

C. Coding Issues

III. Other Issues

A. Rebasing of the Medicare Economic Index (MEI)

B. Definition of Diabetes for Diabetes Self-Management Training (DSMT)

C. Outpatient Therapy Services Performed “Incident To” Physicians Services

D. Status of Anesthesia Work and 5-Year Review

E. Payment Policies for Anesthesia Services

F. Technical Correction

IV. Collection of Information Requirements

V. Response to Comments

VI. Regulatory Impact Analysis

Addendum A—Explanation and Use of Addendum B

Addendum B—2004 Relative Value Units and Related Information Used in Determining Medicare Payments for 2004.

Addendum C—Codes for Which We Received PEAC Recommendations on Practice Expense Direct Cost Inputs.

Addendum D—Proposed Changes to Practice Expense Supply Description and Pricing.

In addition, because of the many organizations and terms to which we refer by acronym in this proposed rule, we are listing these acronyms and their corresponding terms in alphabetical order below:

AMA American Medical Association

BBA Balanced Budget Act of 1997

BBRA Balanced Budget Refinement Act of 1999

CF Conversion factor

CFR Code of Federal Regulations

CMS Centers for Medicare & Medicaid Services

CNS Clinical Nurse Specialist

CPT [Physicians'] Current Procedural Terminology [4th Edition, 2002, copyrighted by the American Medical Association]

CPEP Clinical Practice Expert Panel

CRNA Certified Registered Nurse Anesthetist

E/M Evaluation and management

FMR Fair market rental

GAF Geographic adjustment factor

GPCI Geographic practice cost index

HCPCS Healthcare Common Procedure Coding System

HHA Home health agency

HHS [Department of] Health and Human Services

IDTFs Independent Diagnostic Testing Facilities

MCM Medicare Carrier Manual

MedPAC Medicare Payment Advisory Commission

MEI Medicare Economic Index

MGMA Medical Group Management Association

MPFS Medicare Physician Fee Schedule

MSA Metropolitan Statistical Area

NAMCS National Ambulatory Medical Care Survey

PC Professional component

PEAC Practice Expense Advisory Committee

PPS Prospective payment system

RUC [AMA's Specialty Society] Relative [Value] Update Committee

RVU Relative value unit

SGR Sustainable growth rate

SMS [AMA's] Socioeconomic Monitoring System

SNF Skilled Nursing Facility

TC Technical component

I. Background

A. Legislative History

Since January 1, 1992, Medicare has paid for physicians' services under section 1848 of the Social Security Act (the Act), “Payment for Physicians' Services.” This section provides for three major elements: (1) A fee schedule for the payment of physicians' services; (2) limits on the amounts that nonparticipating physicians can charge beneficiaries; and (3) a sustainable growth rate for the rates of increase in Medicare expenditures for physicians' services. The Act requires that payments under the fee schedule be based on national uniform relative value units (RVUs) based on the resources used in furnishing a service. Section 1848(c) of the Act requires that national RVUs be established for physician work, practice expense, and malpractice expense. Section 1848(c)(2)(B)(ii)(II) of the Act provides that adjustments in RVUs may not cause total physician fee schedule payments to differ by more than $20 million from what they would have been had the adjustments not been made. If adjustments to RVUs cause expenditures to change by more than $20 million, we must make adjustments to ensure that they do not increase or decrease by more than $20 million.

B. Published Changes to the Fee Schedule

In the July 2000 proposed rule, (65 FR 44177), we listed all of the final rules published through November 1999. In the August 2001 proposed rule (66 FR 40372) we discussed the November 2000 final rule relating to the updates to the RVUs and revisions to payment policies under the physician fee schedule.

In the November 2001 final rule with comment period (66 FR 55246), we made revisions to resource-based practice expense RVUs; services and supplies incident to a physician's professional service; anesthesia base unit variations; recognition of CPT tracking codes; and nurse practitioners, physician assistants, and clinical nurse specialists performing screening sigmoidoscopies. We also addressed comments received on the June 8, 2001 proposed notice (66 FR 31028) for the 5-year review of work RVUs and finalized these work RVUs. In addition, we acknowledged comments received in response to a discussion of modifier-62, which is used to report the work of co-surgeons. The November 2001 final rule also updated the list of services that are subject to the physician self-referral prohibitions in order to reflect CPT and Healthcare Common Procedure Coding System (HCPCS) code changes that were effective January 1, 2002. All these revisions ensure that our payment systems are updated to reflect changes in medical practice and the relative value of services. This final rule also conformed our regulations to reflect statutory provisions of Medicare, Medicaid, and State Child Health Insurance Program (SCHIP) Benefits Improvement and Protection Act of 2000 (Pub. L. 106-554) (BIPA) concerning: The mammography screening benefit; biennial screening pelvic examinations for certain beneficiaries; expanded coverage for screening colonoscopies to all beneficiaries; provided for annual glaucoma screenings for high-risk beneficiaries; established coverage for medical nutrition therapy services for certain beneficiaries; expanded payment for telehealth services; required certain Indian Health Service providers to be paid for some services under the physician fee schedule; and revised the payment for certain physician pathology services.

In the December 31, 2002 final rule with comment period (67 FR 79966), we refined resource-based practice expense RVUs and made other changes to Medicare Part B policy. These included: The pricing of the technical component for positron emission tomography (PET) scans, Medicare qualifications for clinical nurse specialists, a process to add or delete services to the definition of telehealth, the definition for ZZZ global periods, global period for surface radiation, and application of endoscopic reduction rules for certain codes. In addition, this rule: Updated the codes subject to physician self-referral prohibitions, expanded the definition of a screening fecal-occult blood test, and modified our regulations to expand coverage for additional colorectal cancer screening tests through our national coverage determination process. We also made revisions to the sustainable growth rate, the anesthesia conversion factor (CF), and the work values for some gastroenterologic services. We finalized the CY 2002 interim RVUs and assigned interim RVUs for new and revised procedure codes for calendar year CY 2003, clarified the enrollment of therapists in private practice and the policy regarding services and supplies incident to a physician's professional services, and made technical changes to the definition of outpatient rehabilitation services.

This final rule also revised the regulations at 42 CFR 485.618 to allow registered nurses (RNs) to provide emergency care in certain critical access hospitals (CAHs) in frontier areas (an area with fewer than six residents per square mile) or remote locations (locations designated in a State's rural health plan that we have approved).

As required by statute this final rule also announced that the physician fee schedule update for CY 2003 was −4.4 percent, the initial estimate of the sustainable growth rate (SGR) for CY 2003 was 7.6 percent, and the CF for CY 2003 was $34.5920, effective March 1, 2003. However, on February 28, 2003 (68 FR 9567), after enactment of the Consolidated Appropriations Resolution of 2003 (Pub. L. 108-7), we published a final rule that revised the estimates used to establish the SGRs for fiscal years 1998 and 1999 and announced a 1.6 percent increase in the CY 2003 physician fee schedule CF for March 1 to December 31, 2003. The CF from March 1 to December 31, 2003 is $36.7856. The anesthesia CF for this period is $17.05. All other provisions of the December 31, 2002 final rule were unchanged by the rule published February 28, 2003.

II. Provisions of the Proposed Rule

This proposed rule would affect the regulations set forth at Part 410, Supplementary medical insurance (SMI) benefits and part 414, Payment for Part B and other health services.

A. Resource-Based Practice Expense Relative Value Units

1. Resource-Based Practice Expense Legislation

Section 121 of the Social Security Act Amendments of 1994 (Pub. L. 103-432), enacted on October 31, 1994, required us to develop a methodology for a resource-based system for determining practice expense RVUs for each physician's service beginning in 1998. In developing the methodology, we were to consider the staff, equipment, and supplies used in providing medical and surgical services in various settings. The legislation specifically required that, in implementing the new system of practice expense RVUs, we apply the same budget-neutrality provisions that we apply to other adjustments under the physician fee schedule.

Section 4505(a) of the Balanced Budget Act of 1997 (BBA) (Pub. L. 105-33), enacted on August 5, 1997, amended section 1848(c)(2)(ii) of the Act and delayed the effective date of the resource-based practice expense RVU system until January 1, 1999. In addition, section 4505(b) of the BBA provided for a 4-year transition period from charge-based practice expense RVUs to resource-based RVUs.

Further legislation affecting resource-based practice expense RVUs was included in the Medicare, Medicaid and State Child Health Insurance Program (SCHIP) Balanced Budget Refinement Act of 1999 (BBRA) (Pub. L. 106-113) enacted on November 29, 1999. Section 212 of the BBRA amended section 1848(c)(2)(ii) of the Act by directing us to establish a process under which we accept and use, to the maximum extent practicable and consistent with sound data practices, data collected or developed by entities and organizations. These data would supplement the data we normally collect in determining the practice expense component of the physician fee schedule for payments in CY 2001 and CY 2002. (In the 1999 final rule (64 FR 59380), we extended, for an additional 2 years, the period during which we would accept supplementary data.)

2. Current Methodology for Computing the Practice Expense Relative Value Unit System

Effective with services furnished on or after January 1, 1999, we established a new methodology for computing resource-based practice expense RVUs that used the two significant sources of actual practice expense data we have available—the Clinical Practice Expert Panel (CPEP) data and the American Medical Association's (AMA) Socioeconomic Monitoring System (SMS) data. The methodology was based on an assumption that current aggregate specialty practice costs are a reasonable way to establish initial estimates of relative resource costs for physicians' services across specialties. The methodology allocated these aggregate specialty practice costs to specific procedures and, thus, can be seen as a “top-down” approach.

a. Major Steps

A brief discussion of the major steps involved in the determination of the practice expense RVUs follows. (Please see the November 1, 2001 final rule (66 FR 55249) for a more detailed explanation of the top-down methodology.)

• Step 1—Determine the specialty specific practice expense per hour of physician direct patient care. We used the AMA's SMS survey of actual aggregate cost data by specialty to determine the practice expenses per hour for each specialty. We calculated the practice expenses per hour for the specialty by dividing the aggregate practice expenses for the specialty by the total number of hours spent in patient care activities.

• Step 2—Create a specialty specific practice expense pool of practice expense costs for treating Medicare patients. To calculate the total number of hours spent treating Medicare patients for each specialty, we used the physician time assigned to each procedure code and the Medicare utilization data. We then calculated the specialty specific practice expense pools by multiplying the specialty practice expenses per hour by the total physician hours.

• Step 3—Allocate the specialty specific practice expense pool to the specific services performed by each specialty. For each specialty, we divided the practice expense pool into two groups based on whether direct or indirect costs were involved and used a different allocation basis for each group.

(i) Direct costs—For direct costs (which include clinical labor, medical supplies, and medical equipment), we used the procedure specific CPEP data on the staff time, supplies, and equipment as the allocation basis.

(ii) Indirect costs—To allocate the cost pools for indirect costs, including administrative labor, office expenses, and all other expenses, we used the total direct costs combined with the physician fee schedule work RVUs. We converted the work RVUs to dollars using the Medicare CF (expressed in 1995 dollars for consistency with the SMS survey years).

• Step 4—For procedures performed by more than one specialty, the final procedure code allocation was a weighted average of allocations for the specialties that perform the procedure, with the weights being the frequency with which each specialty performs the procedure on Medicare patients.

b. Other Methodological Issues

(i) Non-Physician Work Pool

For services with physician work RVUs equal to zero (including the technical components of radiology services and other diagnostic tests), we created a separate practice expense pool using the average clinical staff time from the CPEP data and the “all physicians” practice expense per hour.

We then used the adjusted 1998 practice expense RVUs to allocate this pool to each service. We have removed services from the non-physician work pool if the requesting specialty predominates utilization of the service. Also, for all radiology services that are assigned physician work RVUs, we used the adjusted 1998 practice expense RVUs for radiology services as an interim measure to allocate the direct practice expense cost pool for radiology.

(ii) Crosswalks for Specialties Without Practice Expense Survey Data

Since many specialties identified in our claims data did not correspond exactly to the specialties included in the SMS survey data, it was necessary to crosswalk these specialties to the most appropriate SMS specialty.

(iii) Physical Therapy Services

Because we believe that most physical therapy services furnished in physicians' offices are performed by physical therapists, we crosswalked all utilization for therapy services in the CPT 97000 series to the physical and occupational therapy practice expense pool.

3. Practice Expense Proposals for Calendar Year 2004

a. Non-Physician Work Pool

The non-physician work pool was created as an interim measure until we could further analyze the effect of the top-down methodology on the Medicare payment for services that do not have physician work RVUs (see the November 1998 final rule (63 FR 58841)).

In the June 28, 2002 proposed rule (67 FR 43849), we discussed alternatives that we have considered to address the non-physician work pool issue, including ideas raised by the Lewin Group as well as recommendations in a 2001 GAO report. While we have not reached a final resolution on how to best address this issue, we are continuing to study the alternatives that are available. We also believe that our proposal extending the deadline for the submission of supplemental survey data (see following discussion) will provide an opportunity for specialties whose services are affected by the non-physician work pool to submit practice expense data that can be used for determining practice expense RVUs under the physician fee schedule. Any modifications to the non-physician work pool would be published in proposed rulemaking.

b. Supplemental Practice Expense Survey Data

As required by the BBRA, we established criteria to evaluate data collected by organizations to supplement the data normally used in determining the practice expense component of the physician fee schedule. Due to the time constraints imposed by the statute for publication of the physician fee schedule final rule, we have required supplementary survey data to be submitted by August 1 to be considered for computing practice expense RVUs for the following year. We are proposing to change the required submission date to March 1. This would allow us to publish our decisions regarding survey data in the proposed rule and would provide an opportunity for public comment on survey results.

To continue to ensure the maximum opportunity for specialties to submit supplementary practice expense data, we are again proposing to extend for an additional 2 years the period for accepting survey data that meets the criteria set forth in the November 2000 final rule (as modified in the December 31, 2002 final rule). The deadline for submission of the supplemental data to be considered in CY 2005 and CY 2006 are March 1, 2004 and March 1, 2005, respectively.

In the December 31, 2002 final rule (67 FR 79979), we responded to comments expressing concern about the impact of making the technical component the difference between the global and professional component practice expense RVUs for services that are not affected by the non-physician work pool calculations. We agreed to a one-year moratorium on implementation of the proposed change for pathology services paid under the physician fee schedule to allow for a supplemental survey of independent laboratories. Consistent with the change to making the survey deadline March 1, we are considering whether to extend the moratorium by one additional year. By extending the moratorium, we can show the impact of the independent laboratory survey in the 2004 proposed rule and allow public comment on its results prior to making changes to the practice expense RVUs on January 1, 2005. We welcome public comment on whether we should adopt the proposed change for 2004 in this year's final rule or extend the moratorium by 1 year.

c. Oncology Survey Data

In the December 31, 2002 final rule (67 FR 79973), we indicated that the American Society of Clinical Oncology (ASCO) submitted a supplemental practice expense survey. Our contractor, the Lewin Group, raised specific concerns to us about the survey results. Consequently, we did not incorporate the survey into the practice expense methodology but indicated that we would further examine its results with the Lewin Group and confer with ASCO about our concerns. We have discussed the oncology survey together with the Lewin Group and ASCO. These discussions were useful in providing us with more information upon which to make a final decision regarding incorporation of the oncology survey into the practice expense methodology. We expect to make our decision known in a subsequent proposed rule that will address Medicare payment for drugs currently paid based on 95 percent of the average wholesale price.

d. Practice Expense for a Professional Component Service

Since the inception of the resource-based practice expense methodology, we have assigned all staff equipment and supply costs for services with professional and technical components (PC and TC) to the technical portion of the service. We have done this because we believe that generally all of these direct cost inputs are associated with obtaining the diagnostic information and there would be no direct costs associated with the physician interpretation. However, we now believe that there may be limited exceptions where it is appropriate to assign direct inputs to a PC service. For instance, the Practice Expense Advisory Committee (PEAC) recommended that we include clinical staff time in certain codes that have both a PC and TC component for activities such as scheduling the procedure and educating the patient when the procedure is done in the facility setting. We accepted these recommendations but, because the practice expense methodology currently does not assign direct inputs to PC services and the TC is not paid in the facility setting, these procedures were not credited with the recommended practice expense inputs.

We propose to modify the practice expense methodology to allow direct inputs to be added to PC services when these inputs are clearly associated with the professional service, including when the PEAC makes such recommendations. We are proposing to add the PEAC recommended staff times to the PC of the following cardiac services: CPT codes 93508, 93510, 93511, 93514, 93524, 93526, 93527, 93528, 93529, 93530, 93531, 93532, 93533 and 93624. The practice expense RVUs for these codes will increase slightly from this change resulting in minor reductions in practice expense RVUs for some other services performed by cardiologists. There will be no impact on the practice expense RVUs for any other specialty.

e. Utilization Data

We use Medicare utilization data in the development of specialty-specific practice expense RVUs that are then weight averaged to determine a single practice expense RVU per code. Prior to 2003, we used the most recent complete year of utilization data to determine the practice expense RVUs. For instance, we determined the 2001 practice expense RVUs using Medicare utilization data from 1999 for most procedure codes. However, if a procedure code was new in 2000, we did not have any 1999 utilization data to determine its 2001 practice expense RVU and could not use specialty-specific data until 2000 utilization data was available to us. In some cases, the new code was clearly related to an older code or codes and we were able to use an estimation of the probable specialty utilization for 2001 until actual specialty-specific utilization was available for 2002. Where we were not able to determine the probable specialty-specific utilization we assigned the “all physician” average practice expenses to the service until we obtained specialty-specific utilization. Thus, in this case, we used the “all physician average” to determine the code's 2001 practice expense RVU and specialty-specific utilization to determine the 2002 practice expense RVU.

In the December 31, 2002 final rule (67 FR 79982), we adopted a policy of using the 1997 through 2000 Medicare utilization in the practice expense methodology. For new codes created since 2000, there are no Medicare utilization data in the 1997 through 2000 period upon which to determine specialty-specific practice expenses. We are proposing to follow a similar practice to the one described above and use specialty-specific Medicare utilization data for codes created after 2000 at the first opportunity they become available to us. Therefore, we are proposing to use 1997 through 2000 Medicare utilization data for all codes that were in existence at that time. If a code did not exist during the 1997 through 2000 period, we propose using the first available utilization data for the code in order to develop the practice expense RVU. Since we will not have any utilization data at the time we first establish practice expense RVUs for a new code, we propose that we continue, whenever possible, to make an assumption about the specialty that will likely provide the service or to use the “all physician” average when we do not have sufficient information to assign any given specialty. We will make available on the CMS web site (http://cms.hhs.gov) files containing the data that we will use in determining the proposed rule practice expense RVUs. We propose in each year's proposed rule to substitute actual for estimated utilization once the data become available. For instance, in this proposed rule, we will substitute actual 2002 utilization data for estimated 2002 utilization data to determine the 2004 practice expense RVUs for codes that were new in 2002. Practice expense RVUs may change as we make updates to the utilization data that we use in the practice expense methodology. We encourage the AMA's Specialty Society Relative Value Update Committee (RUC) and other interested parties to provide information on the specialties that will likely perform a new service to minimize the potential changes to the practice expense RVUs that will occur when we substitute actual for estimated utilization.

For the proposed rule, the utilization data from the prior year are 96 percent complete. In the past, we used 100 percent complete data from a prior year in the proposed rule (for example, we used 2000 utilization data to simulate impacts for the June 28, 2002 proposed rule) and did not use the preceding year's utilization data until the final rule (for example, we used 2001 utilization data to simulate impacts for the December 31, 2002 final rule). Beginning with this year's proposed rule, we are using the prior year's utilization data for developing practice expense RVUs and simulating impacts. Because the utilization file that we are using for the proposed rule is only 96 percent complete, there may be minor changes to the payment impacts and practice expense RVUs between the proposed rule and the final rule for which we will use 100 percent complete data from the prior year.

f. Practice Expense Advisory Committee (PEAC)

Recommendations on CPEP Inputs for 2004

The PEAC, a subcommittee of the RUC, has, since 1999, been providing us with recommendations for refining the direct practice expense inputs (clinical staff, supplies, and equipment) for existing CPT codes. In the past, our actions on these PEAC recommendations have been incorporated into the physician fee schedule final rule and have been used as interim values for services provided in the following calendar year. We have accepted comments on these refinements and addressed them in rulemaking the following year. This year we are including the PEAC recommendations in the proposed rule, which will enable specialty groups to assess the impact of these changes on their services and make comments on the recommendations before the final rule.

These PEAC recommendations are the result of meetings held in September of 2002 and January 2003 and account for approximately 772 codes from many specialties. (A list of these codes can be found in Addendum C.) The PEAC has also submitted recommendations on the refinements to the clinical staff time for all 90-day global services (accounting for a further 3,604 CPT codes).

This massive refinement was possible because the PEAC adopted a standardized approach to the refinement of the clinical staff times for 90-day global codes. The PEAC has recommended that the following standard clinical staff times be applied to all 90-day codes, except for those in which the specialty argued for an exception to the standard:

• Pre-service time—35 minutes of pre-service clinical staff time in the office and 60 minutes for services performed in the facility setting;

• Discharge day management time—6 minutes of clinical staff time if the procedure is performed predominantly in the outpatient facility setting and 12 minutes if performed predominantly in the inpatient setting. (This standard is also recommended for all of the 10-day global procedures); and

• Post-service office visit time—equal to the clinical staff times associated with the evaluation and management visit codes assigned to each service.

Several specialties, including the neurosurgeons/spine surgeons, thoracic surgeons and colorectal surgeons requested and received increased pre-service times for some of their services. There were also a few services that are usually performed on an emergent basis when the pre-service time was reduced or omitted altogether. We believe that the standards recommended by the PEAC are appropriate and that the exceptions to these standards are also reasonable. Therefore, we are proposing to use the PEAC's recommendations for the clinical staff time for these global codes.

In addition, the PEAC convened a workgroup to make recommendations on the refinement of all the 116 remaining evaluation and management codes. These are important achievements that have significantly advanced the pace of the refinement process. A total of 5358 codes have been refined; these codes represent 87 percent of physician fee schedule dollars. We greatly appreciate the dedication and hard work of the specialty societies and the AMA that are helping to ensure that this refinement process is successful.

We have reviewed the submitted PEAC recommendations and propose to accept them. The complete PEAC recommendations and the revised CPEP database can be found on our web site. (See the Supplementary Information section of this proposed rule for directions on accessing our web site.)

g. Repricing of Clinical Practice Expense Inputs—Supplies

We use the practice expense inputs (the clinical staff, supplies, and equipment assigned to each procedure) to allocate the specialty-specific practice expense cost pools to the procedures performed by each specialty. The costs of the original inputs assigned by the CPEP were determined by our contractor, Abt Associates, based primarily on 1994 and 1995 pricing data from supply catalogs. In addition, for many items on the equipment and supply list, the associated costs were based on the recommendations of a CPEP panel member, rather than on actual catalog prices. Subsequent to the CPEP panels, equipment and supply items have also been added to the CPEP data, with the costs of the inputs provided by the relevant specialty society.

In the August 2, 2001 proposed rule (66 FR 40378), we proposed updates and revisions to the clinical staff salary data which were finalized in the final rule published November 1, 2001 (66 FR 55255). In that final rule, we also indicated that in future rulemaking we would be proposing updates to the supply and equipment inputs that are used in the CPEP database. We, therefore, contracted with a consultant to assist us in obtaining the current price for each supply item in our CPEP database. The consultant has been able to determine the current prices for most of the supply inputs and has submitted documentation for the proposed new pricing from vendor catalogs or websites. Whenever possible, multiple sources were obtained for frequently used supplies so that a typical price could be determined.

In addition, we asked the consultant to help identify and clarify those supplies for which the original descriptions in the CPEP database are too general to price (for example “laser” or “antigen”) or are otherwise unidentifiable. Our consultant worked closely with the specialty societies to ensure that accurate information was obtained in identifying as many of these supplies as possible.

Addendum D contains the proposed new unit prices for supply items when current pricing was obtained, as well as new descriptions when needed. A more detailed spreadsheet can be found on our Web site, (http://www.cms.hhs.gov/physicians/pfs), that contains additional information regarding the sources used to price each item.

There are items that have either not yet been identified or for which pricing information has not yet been found. These supply items are included in Table 1 below. In this table we have identified the supply code (if assigned), the existing item description, unit and price, the procedures or specialties associated with the item, as well as the proposed new description and standardized unit of use. We have also identified items for deletion from the database. We are requesting that commenters, particularly the relevant specialty groups, provide us with the needed pricing information with appropriate documentation. Whenever possible, multiple sources of documentation should be provided so that a typical price can be determined. If we are not able to obtain any verified pricing information for an item, we may eliminate it from the database.

BILLING CODE 4120-01-P

BILLING CODE 4120-01-C

In addition to reviewing and updating the cost information for supplies in the database, our contractor also recommended database revisions to provide uniformity and consistency in the CPEP supply database. All of the following recommendations are noted in Addendum D:

• Assignment of supply categories. In the original CPEP data, a number was assigned to each supply. The contractor has recommended that each supply item also be assigned a “category” to allow for easier selection and sorting of items. We agree and are proposing that supplies be assigned to one of the following 14 categories:

Accessory, Diagnostics;

Accessory, Equipment;

Accessory, Procedure;

Booklets/Forms;

Cutters, Closures/Cautery;

Gown, Drape;

Hypodermic/IV;

Infection Control;

Kit, Pack, Tray;

Lab;

Office, Grocery;

Pharmacy, NonRx;

Pharmacy, Rx; and

Wound Care, Dressings.

These categories could also be used to establish a new numbering system for supplies. We would assign a letter to each supply category and use this in conjunction with a number (000 through 999) to identify each supply. This would enable specialty groups to identify more easily whether a supply has already been included in the CPEP database and would help ensure uniformity in the items used for calculating practice expenses. If we proceed in the final rule with this proposed method for categorizing supplies, we will assign new identifying numbers to each supply input item and these will be available on our website.

• Consolidation/standardization of item descriptions.

When items appear to be duplicative, we are proposing to combine the items. For example, “Mayo stand cover” and “drape, sterile Mayo” have both been changed to “drape, sterile, for Mayo stand”. We also have attempted to better describe the supply items in a way that will make identification easier, using a key first word when possible. For example, all catheters are described as “catheter, * * *”, all needles are described as “needle * * *.” In addition, references to proprietary or trademark names for multisource items have been included as parenthetical references (for example, “Polibar ™” is renamed barium suspension “(Polibar ™ ).”

• Standardization of unit descriptions.

The current CPEP database contains over 72 unit descriptions associated with supplies (for example, item, gram, and cup). To provide consistency and ensure that inputs in the database accurately reflect the quantity of an item used, we are proposing to standardize the unit description of items. If an item is intended for single use, even if it is not completely used, we propose to identify this by indicating the item size followed by “uou” (unit of use). For example “soap bath” has been renamed “bath soap (one bar uou)” and “bacitracin unit dose pack, 9g” has been renamed “bacitracin oint (0.9 gm uou)”.

We welcome any comments on the proposed pricing and all other proposed revisions. To help us evaluate the information provided, comments should include documentation such as information from a supply catalog or website or from a current invoice.

h. Miscellaneous Practice Expense Issues

Hyperbaric Oxygen Services

We have received a request from a freestanding hyperbaric oxygen center to price the service in the office setting, so that those providing this service in a nonfacility can receive an appropriate payment. Therefore, we are proposing to assign on an interim basis the following practice expense inputs to CPT code 99183, Physician attendance and supervision of hyperbaric oxygen therapy, per session:

Staff: Respiratory Therapist for 135 minutes (for a 2 hour treatment).

Supplies: Minimum Visit Supply Package, 180 liters of oxygen, 187 cubic feet of air.

Equipment: Hyperbaric chamber.

We will request that the Practice Expense Advisory Committee review these inputs at a meeting in the near future.

Maxillofacial Prosthetics PE/hour

In the November 2, 1998 final rule (63 FR 58824), we created a special practice expense pool for maxillofacial prosthetics (CPT codes 21076 through 21087) using the “all physician” practice expense per hour. Because the practice expense survey submitted in 1998 by the American Academy of Maxillofacial Prosthetics (AAMP) differed significantly in format and content from the SMS survey, we were not able to use the submitted data to calculate a practice expense per hour for maxillofacial prosthetics. AAMP has contended that the “all physician” rate underestimates the high costs for the staff, supplies and equipment associated with the provision of maxillofacial prosthetic services.

We have asked our contractor, The Lewin Group, to analyze the submitted survey data to determine if the data would or would not support a change in the crosswalk for this specialty. The Lewin Group's finding suggests, “the all-physician average may underestimate the practice expense per hour for maxillofacial prosthodontists.” Based on the Lewin Group's finding, we reviewed the Medicare utilization of the maxillofacial prosthetics codes. Oral surgeons (specialty code 19) and maxillofacial surgeons (specialty code 85) overwhelmingly provide these services. We believe the practice expenses for these practitioners are likely to be similar to otolaryngologists since these physicians also provide office procedures affecting the head and face. We are proposing to eliminate the special practice expense pool for procedure codes 21076 through 21087 and use otolaryngology as the crosswalk for oral surgeons and maxillofacial surgeons as a more appropriate approximation of the specialties' practice expense per hour. This proposal will increase payment for the maxillofacial prosthetics and other services that are predominantly billed by oral and maxillofacial surgeons. There will be no impact on payment for services provided by any other specialty from this change.

Holter Monitoring Codes

A representative of an independent diagnostic testing facility has communicated to us that their review of the practice expense inputs for the holter monitoring codes, CPT 93225, 93226, 93231, and 93232 has revealed the inclusion of items that are not needed to perform these services. The correspondent suggested the following deletions:

• For CPT codes 93225 and 93231 delete the ECG electrodes and laser paper, as well as the electric bed, computer and holter monitor; and

• For CPT codes 93226 and 93232 delete the razor, nonsterile gloves, alcohol swab and tape, as well as the electric bed and exam table.

We agree that these revisions appear reasonable and will make the above deletions on an interim basis until the PEAC can review these codes. It should be noted these codes are currently in the nonphysician work pool and that the CPEP data is not currently used to calculate their practice expense RVUs. Therefore, these changes will not at this time have any effect on the payment for these codes.

B. Geographic Practice Cost Index Changes

1. Background

The Act requires that payments vary among Medicare physician fee schedule (MPFS) areas according to the extent that resource costs vary as measured by the Geographic Practice Cost Indices (GPCIs). In general, the MPFS areas that existed under the prior reasonable charge system were retained under the MPFS from calendar years 1992 through 1996. We implemented a comprehensive revision in MPFS payment areas (localities) in 1997, reducing the number of localities from 210 to 89. Thirty-four states have a single statewide locality. In contrast, under the hospital inpatient prospective payment system (IPPS), costs are adjusted across more than 350 metropolitan statistical areas (MSAs).

A detailed discussion of the MPFS payment localities can be found in the July 2, 1996 proposed rule (61 FR 34615) and the November 22, 1996 final rule (61 FR 59494).

2. Implication of GPCIs for Rural Areas

The GPCIs do not affect total national payments under the MPFS, but instead distribute payments among areas according to area cost differences. In general, the data show that urban areas usually have higher costs, while rural areas have generally lower costs. Thus, on average the costs associated with operating a private medical practice, as measured by factors such as wages and rent, are higher in urban areas. Alternatively, the average costs associated with the operation of a private medical practice in a rural area are lower. Since the costs associated with operating a private medical practice are measurably different based upon geographic location, varying payments according to the GPCIs will benefit lower cost areas, usually rural, since the law provides that only one-quarter of the area cost difference in physician work, the largest of the three fee schedule GPCI components, be recognized. We believe this was an attempt by the Congress to shift payments to rural areas. Thus, about 40 percent of MPFS payments (.75 × .52) are by statute not adjusted for area cost differences. Additionally, one component of the practice expense GPCI, supplies, equipment and other, is also, by statute, not adjusted for area cost differences. Supplies, equipment and other represent about 13 percent of total physician resource costs. This means that, effectively, there is a nationwide MPFS for about 53 percent of the average physician payment (40 percent physician work, 13 percent supplies, equipment and other). That is, only about 47 percent of overall physician payment is adjusted for area resource cost differences. In addition, 34 states are statewide payment localities in which all physicians, whether urban or rural, are paid the same. All of these factors shift payments from higher cost, usually urban, areas to lower cost, usually rural areas.

3. GPCI Composition

Section 1848(e)(1)(C) of the Act requires us to review, and if necessary, adjust the GPCIs at least every 3 years. This section of the Act also requires us to phase in the adjustment over 2 years and implement only one-half of any adjustment if more than 1 year has elapsed since the last GPCI revision. The GPCIs were first implemented in 1992. The first review and revision was implemented in 1995, the second review was implemented in 1998, and the third review was implemented in 2001. The next GPCI review and revision is scheduled for implementation in 2004. However, as will be discussed in more detail, because the work and practice expense GPCIs rely primarily on special tabulations of U.S. Census data not yet available, review and revision of only the malpractice GPCI component will be implemented in 2004. Review and revision of the work and practice expense GPCIs will be implemented in 2005.

Currently, only one data source is available for the practice expense GPCI (relative cost of office rent space collected by the Department of Housing and Urban Development (HUD)). Since we have not received the primary data upon which practice expense GPCIs are calculated and since the office rent component of the practice expense GPCI has proven not to be very substantial in past GPCI updates (it accounts for approximately 11.0 percent of the total GPCI calculation and is phased in over a two year period), we have decided not to revise the practice expense GPCIs for 2004. The work GPCI relies solely on data collected from the 2000 U.S. Census that is not yet available, so we are not able to propose updates to the work GPCI in this proposed rule.

Although there are general discussions of both the background and composition of all three GPCI components in this proposed rule, a detailed discussion of only the 2004 revised malpractice GPCI is included in this proposal while a detailed discussion of the revised work and practice expense GPCIs will be included in the 2005 proposed rule.

4. Development of the Geographic Practice Cost Indices

The GPCIs were developed by a joint effort of the Urban Institute and the Center for Health Economics Research under contract to CMS. The resource inputs and their weights are obtained from the AMA's Socioeconomic Characteristics of Medical Practices Survey. Indices were developed that measured the relative cost differences among areas compared to the national average in a “market basket” of goods. In this case, the market basket consists of the resources involved in operating a private medical practice. The resource inputs are physician work or net income; employee wages; office rents; medical equipment, supplies, other miscellaneous expenses; and malpractice insurance. Employee wages, rents, and miscellaneous expenses are combined to comprise the practice expense component of the GPCI. Table 2 below illustrates the cost share weights that have been utilized for each GPCI update:

Table 2.—GPCI (Medicare Economic Index) Cost Share Weights
Expense category | 1992-94* | 1995-97** | 1998-00** | 2001-03*** | 2004-07****
Physician Earnings | 54.2 | 54.2 | 54.2 | 54.5 | 52.466
Practice Expenses | 40.2 | 41.0 | 41.0 | 42.3 | 43.669
Employee Wages | 15.7 | 16.3 | 16.3 | 16.8 | 18.654
Rents | 11.1 | 10.3 | 10.3 | 11.6 | 12.209
Equip., Supplies, Other | 13.4 | 14.4 | 14.4 | 13.9 | 12.807
Malpractice Insurance | 5.6 | 4.8 | 4.8 | 3.2 | 3.865
| 100.0 | 100.0 | 100.0 | 100.0 | 100.000
*Weights from 1987 AMA survey.
**Weights from 1989 AMA survey.
***Weights from 1997 AMA survey
****Weights from Physician Socioeconomic Statistics, 2000-2002 Edition (SMS Survey), Physician Socioeconomic Statistics, 2003 Edition (PCPS Survey), Center for Health Policy Research, American Medical Association; 2003 Employment Cost Index, U.S. Department of Labor, Bureau of Labor Statistics; U.S. Department of Commerce, Bureau Economic Analysis 1997 Benchmark Input Output Tables, and U.S. Department of Commerce, Bureau of the Census, 2002 Current Population Survey. (See section III.A. Rebasing and Revising of the Medicare Economic Index.)

The Medicare economic index (MEI) is a measure of the average increases in the price of inputs used in operating a private medical practice and is used in the annual update of the MPFS CF. Because the GPCIs and the MEI use the same resource inputs to measure the costs of a private medical practice (the GPCIs measure relative costs among areas while the MEI measures the national average rate of increase in prices), as in the past, the same weights will be used for both the MEI and the GPCIs.

Once the components and their weights were determined, we had to find data sources that were widely and consistently available to measure costs in all MPFS payment areas. After examining many sources, the following proxies were selected as the best available sources for measuring each component of the original 1992 through 1994 GPCIs:

• Physician work—The median hourly earnings, based on a 20 percent sample of 1980 census data, of workers in six professional specialty occupation categories (engineers, surveyors, and architects; natural scientists and mathematicians; teachers, counselors, and librarians; social scientists, social workers, and lawyers; registered nurses and pharmacists; writers, artists, and editors) with 5 or more years of college. Adjustments were made to produce a standard occupational mix in each area. The actual reported earnings of physicians were not used to adjust geographical differences in fees because these fees are, in large part, the determinants of the earnings. We believe that the earnings of physicians will vary among areas to the same degree that the earnings of other professionals vary.

• Employee wages—Median hourly wages of clerical workers, registered nurses, licensed practical nurses, and health technicians were also based on a 20 percent sample of 1980 census data.

• Office rents—Residential apartment rental data produced annually by the Department of Housing and Urban Development (HUD) were used because there were insufficient data on commercial rents across all physician fee schedule areas.

• Equipment, supplies, other expenses—The Urban Institute and the Center for Health Economics research assumed that a national market represents this component and that costs do not vary appreciably among areas. This component's index is 1.000 for all areas to indicate no variation from the national average.

• Malpractice—Premiums in 1985 and 1986 for a mature “claims made” policy (a policy that covers malpractice claims made during the covered period) providing $100,000 to $300,000 of coverage were used. Adjustments were made to incorporate the costs of $1 million to $3 million coverage and mandatory patient compensation fund (PCF) requirements. Some States legally require physicians to join a PCF that provides coverage for catastrophic claims. Premium data were collected for physicians in three risk classes: low-risk (general practitioners who do not perform surgery), moderate risk (general surgeons), and high-risk (orthopedic surgeons).

The areas selected for measurement purposes were the MSAs. Non-MSA areas within a State were aggregated into one residual area. Using MSAs for measurement satisfied our criteria to have (1) areas in which resource input prices were homogenous, and (2) areas of a large enough size so that market areas are self-contained to minimize border crossing; that is, physicians would probably not move their offices a few miles to secure higher payments and patients who would tend to receive services within their area.

The Act requires, however, that the GPCIs reflect cost differences among MPFS payment areas. Thus, it was necessary to map Medicare localities to the MSA and non-MSA aggregation of GPCI data. Where localities crossed MSA boundaries, MSA indices were converted to Medicare locality indices by population weights.

Detailed discussions of the methodology and data sources of the 1992 through 1994 GPCIs can be obtained by requesting studies from the National Technical Information Service by calling 1-800-553-NTIS, or, for residents of Springfield, Virginia, (703) 487-4650. The studies are as follows:

• The Urban Institute report “The Geographic Medicare Index: Alternative Approaches,” NTIS PB89-216592;

• The supplement to “The Geographic Medicare Index: Alternative Approaches,” NTIS PB91-113506. This was published in the Federal Register in the September 4, 1990 notice (55 FR 36238) for the model fee schedule; and

• The Urban Institute report, “Refining the Malpractice Geographic Practice Cost Index,” February 1991, NTIS PB91-155218. The related diskette is NTIS PB91-507491. This is the final version of the 1992 through 1994 GPCIs as published in the Federal Register in the November 25, 1991 final rule (56 FR 59785).

5. Revised 1995 Through 1997 Geographic Practice Cost Indices

The main criticism of the original GPCIs, that existed from 1992 until 1994, was that they were outdated because they were based on old data; for example, 1980 census data and 1985 and 1986 malpractice premium data, was the most recent data available when the GPCIs were established. The revised 1995 through 1997 GPCIs were based on the most current data available when they were developed in 1993 and 1994. We also made some minor changes from the original GPCI methodology in calculating some of the revised 1995 through 1997 indices.

One methodological change was made that applied across all indices. As mentioned earlier, under the original GPCIs, where Medicare payment localities crossed MSA boundaries, MSA indices were converted to locality indices by population weights. Medicare expenditure weights were not used because the expenditures under the reasonable charge system contained large differences unrelated to actual resource cost differences among areas. In calculating the revised GPCIs, where payment localities crossed MSA boundaries, locality indices were calculated by weights based on full MPFS RVUs, which reflect resource cost differences among areas. Full MPFS RVUs were used rather than actual 1993 payments because 1993 fee schedule payments still reflected some reasonable charge payment levels. The advantages of RVU weighting are (1) the GPCIs will more closely reflect physician practice costs in the area where the services are provided rather than where the population lives, and (2) budget neutrality is preserved when we combine multiple payment localities into larger areas, such as statewide localities.

a. Work Geographic Practice Cost Indices

Data from the 20 percent sample of census data of median hourly earnings for the same six categories of professional specialty occupations as used in the 1992 through 1994 work GPCIs were used in calculating the 1995 through 1997 work GPCIs. The 1992 through 1994 work GPCIs were calculated using 1980 census data of earnings for professionals with 5 or more years of college. That sample was no longer available with the 1990 census. The 1990 census educational classifications are by highest degree earned, rather than the 1980 census classification by years of schooling. Thus, it was not possible to obtain earnings data exactly comparable to the 1980 data.

For 1990, data were available for all-education and advanced-degree samples, but not for 5 or more years of college. We elected to use the all-education sample because its larger sample sizes made it more stable and accurate in the less populous areas. Although it could be argued that physicians' earnings might more closely approximate the earnings of professionals with advanced degrees, the differences between the all-education and advanced-degree indices were negligible in all but a few of the smallest localities. We believed that the small sample sizes of advanced-degree occupations in these small localities would produce inaccurate results.

The 1992 through 1994 work GPCIs used metropolitan-wide median wages for each county within an MSA. That is, all counties within an MSA were assigned the MSA-wide median wage even if there were wage variations within the MSA. We believed that this was appropriate for all but Consolidated Metropolitan Statistical Areas (CMSAs), the largest of the MSAs, such as New York. In these CMSAs, we replaced metropolitan-wide earnings with county-specific earnings. We believed this change was appropriate because costs were, in fact, higher in central city areas (for example, Manhattan and San Francisco) than in the rest of the CMSA. County earnings were a better account of the cost variation within these large metropolitan areas.

b. Practice Expense Geographic Practice Cost Indices

(1) Employee Wage Indices.

Data from the 20 percent sample of census data of median hourly earnings for the same categories of medical and clerical occupations used in the 1992 through 1994 practice expense GPCIs were also used in the 1995 through 1997 practice expense GPCIs. The 1995 through 1997 practice expense GPCIs used 1990 rather than 1980 census data. As with the work GPCIs, county level data were used for CMSAs to better reflect the cost variations within these large metropolitan areas.

(2) Rent Indices.

As with the original rent indices, the HUD fair market rental (FMR) data for residential rents were again used as the proxy for physician office rents. The 1995 through 1997 practice expense GPCIs reflect 1994 HUD FMRs. Like the work GPCI and the employee wage index of the practice expense GPCIs, county level data were used in CMSAs to recognize the variations within the CMSA.

The major criticism of the rent indices was that residential rather than commercial rent data were used. As mentioned earlier, for constructing the GPCIs we needed data that were widely and consistently available across all physician fee schedule areas.

As with the original GPCIs, we again searched for private sources of commercial rent data that were widely and consistently available. The private sources we found were not adequate. None of the sources collected data for non-metropolitan areas, nor did any collect data for all metropolitan areas. The sources did not reflect the average commercial space in the area, but rather the particular type of space most relevant to the needs of a particular source's clients. In addition, the sample sizes were small. A comparison of the average rental for any particular city showed significant variation depending upon the source. Also, the private commercial rent data tended to be for very high priced real estate of the type likely to be used by large institutions such as banks, insurance companies, or financial firms and not for the type of office space most likely used by physicians.

Among the sources of commercial rent data that were available, the most promising were data from the Building Owners and Managers Association, the General Services Administration, and the U.S. Postal Service. These data were analyzed in depth. We did not use data from the Building Owners and Managers Association and the General Services Administration because of poor geographic coverage, especially outside of large metropolitan areas. That is, data were not widely and consistently available for all physician fee schedule areas. The U.S. Postal Service data had much better geographic coverage, but sample sizes in many areas were unacceptably small and could have led to erroneous results.

No acceptable national commercial rent data were readily available for physician office rents. Thus, some proxy needed to be used for this portion of the index. In addition, commercial rent data were not available for all areas from published statistical sources. We believed that the HUD FMR data remained the best available data for constructing the office rental index. HUD FMR data were available for all areas, were updated on an annual basis, and were consistent among areas and from year to year. Moreover, we believed that physicians frequently locate in areas and office space that are residential rather than commercial, for example, in apartment complexes and small strip commercial centers adjacent to residential areas. Residential rents may, in fact, be a better measure of the differences among areas in the physician office market than a general commercial rental index.

(3) Medical Equipment, Supplies, and Miscellaneous Expenses.

Consistent with the original 1992 through 1994 update for medical equipment, supplies, and miscellaneous, this index assumes a national market in which input prices do not vary among geographic areas. We were unable to find any data sources that demonstrated price differences by geographic area. Anecdotal and interview data with suppliers and manufacturers were inconclusive. While some price differences may exist, we believed they were more likely to be based on volume discounts rather than on geographic areas. Generally, it appears that manufacturers' prices do not vary among areas except for shipping costs. Since manufacturers and suppliers are located all over the country, shipping costs do not vary significantly.

c. Malpractice Geographic Practice Cost Indices

Again, malpractice premium data for a $1 million to $3 million mature “claims made” policy were collected, with mandatory Patient Compensation Funds (PCFs) considered. Some States have legally required physicians to join PCFs that provide coverage for catastrophic claims. The PCF charges a premium or surcharge just as any other insurer. However, more recent and more comprehensive malpractice insurance data were used in calculating the 1995 through 1997 malpractice GPCIs. The 1995 through 1997 malpractice GPCIs were based on 1990 through 1992 malpractice premium data. Since malpractice premiums may change significantly from year to year, we decided to use the most recent 3-year average available rather than just the most recent single year to smooth out this volatility and present a more accurate indication of malpractice premium trends over time.

We collected data on more specialties and from more insurers. We collected data on 20 specialties, rather than on only 3 as in the 1992 through 1994 malpractice GPCIs. The 1992 through 1994 malpractice GPCI data were largely drawn from a single nationwide insurer (St. Paul Fire and Marine) and were supplemented by several State-specific carriers in States in which St. Paul did not offer coverage. Subsequent analyses suggest that these data may not be representative of insurers operating in many States. For the revised malpractice GPCI, data were collected from insurers that, on average, represented 82 percent of the market in each State, with the lowest State market share being 60 percent. We believed that the more recent and much more comprehensive data greatly improved the accuracy of the malpractice GPCIs for 1995 through 1997.

Detailed discussions of the methodology and data sources of the 1995 through 1997 GPCIs can be obtained by requesting the following studies from NTIS by calling 1-800-553-NTIS, or (703) 487-4650 in Springfield, Virginia:

• “Updating the Geographic Practice Cost Index: Revised Cost Shares.” Debra A. Dayhoff, John E. Schneider, and Gregory C. Pope. NTIS PB94-161072.

• “Updating the Geographic Practice Cost Index: The Physician Work GPCI.” Gregory C. Pope and Deborah A. Dayhoff. NTIS PB94-161080.

• “Updating the Geographic Practice Cost Index: The Practice Expense GPCI.” Gregory C. Pope, Deborah A. Dayhoff, Angella R. Merrill, and Killard W. Adamache. NTIS PB94-161098.

“Updating the Geographic Practice Cost Index: The Malpractice GPCI.” Stephen Zuckerman and Stephen Norton. NTIS PB94-161106.

6. Revised 1998 Through 2000 Geographic Practice Cost Indices

The same data sources and methodology used for the 1995 through 1997 GPCIs were also used for the revised 1998 through 2000 GPCIs with a few very minor modifications. No acceptable additional data sources were found. The cost shares were the same as in the 1995 through 1997 GPCIs because no changes were made in the MEI weights. Indices for fee schedule areas were based on the indices for the individual counties within the fee schedule area. Fee schedule RVUs were again used to weight the county indices (to reflect volumes of services within counties) when mapping to MPFS payment areas and in constructing the national average indices. However, we used more recent data, 1994 rather than 1992 RVUs, in the county, locality, and national mapping for the proposed GPCIs. The payment effect of using more current RVU weights was negligible in most cases and generally resulted in changes at the third decimal point if at all.

a. Work Geographic Practice Cost Indices

The work GPCIs were based on the decennial census. The 1992 through 1994 work GPCIs were based on 1980 census data, because 1990 census data were not yet available. The work GPCIs were revised in 1995 with new data from the 1990 census. New census data will not be available again until sometime after the 2000 census is compiled. We searched for other data that would enable us to update the work GPCIs between the decennial censuses. No acceptable data sources were found. The most promising sources of data were the hospital wage data collected by us to calculate the IPPS hospital wage index and the payroll per worker data collected by the U.S. Bureau of Labor Statistics from State unemployment insurance agencies (the ES-202 data).

The IPPS hospital wage data were examined when we constructed the original GPCIs. They were rejected as a physician fee schedule data source in favor of census data because of their lack of an occupation mix adjustment and their unrepresentative occupational composition (hospital employees rather than professionals or physician office employees). ES-202 data consist of total payroll divided by counts of wage and salary workers. The major disadvantage we identified was that they do not measure hourly earnings, only payroll per employee, and no occupational detail is available. Also, they did not adjust for part-time or full-time and hours worked, and the numbers of workers was too small for certain States, all of which led to unstable estimates of payroll per worker. We compared the changes by State from 1989 to 1993 in the IPPS wage data and the ES-202 data to see if there was any correlation between the two series. The correlation between the two was only moderate, 0.55. The changes indicated by both series were generally small, for example, a few percentage points. The difference between the two series by State was in many cases as large as or greater than the change indicated by either series. The average difference between the two series (2.1 percent) is as large as the change indicated by either series. In addition, changes for particular States were substantially different between the two series. For example, Indiana relative wages rose by 1.9 percent according to the IPPS data, but fell 5.7 percent according to the ES-202 data.

Since we were unable to find an acceptable data source for updating the work GPCIs, we examined the consequences of not updating the work GPCIs between the decennial censuses. We compared the changes between the 1992 through 1994 work GPCIs, based on the 1980 census, and the 1995 through 1997 GPCIs, based on the 1990 census. On average, the full variation in State work GPCIs changed by about 5 percent. This translates to about a 1.2 percent change in the one-quarter work GPCI calculation prescribed by law. Since work makes up about one-half of the GPCI cost shares, this translated into an average payment change per State of about 0.6 percent from updating the work GPCI based on the 10-year change in relative wages indicated by the census data. Even the maximum change in the full variation in State work GPCIs from the 1992 through 1994 to the 1995 through 1997 GPCIs of 14 percent translates into only about a 1.8 percent change in payments. The largest full work GPCI changes for individual payment areas were from 16 to 20 percent, or about a 4 to 5 percent change in the one-quarter work GPCI, or about a 2.4 percent change in payments. However, 80 percent of payment areas experienced payment changes of less than 1 percent, and 50 percent of payment localities experienced payment changes of less than 0.5 percent as a result of changes in the census data from 1980 to 1990.

We, therefore, made no changes in the 1998 through 2000 work GPCIs from the 1995 through 1997 work GPCIs, other than the generally negligible changes resulting from using 1994, rather than 1992, RVUs for this GPCI update because we were unable to find acceptable data for use between the decennial censuses. We believed it is preferable that we make no changes rather than make inaccurate changes based on inappropriate data. We felt that this was a reasonable position given the generally small magnitude of the changes in payments resulting from the changes in the work GPCIs from the 1980 to the 1990 census data.

b. Practice Expense Geographic Practice Cost Indices

(1) Employee Wage Indices.

As with the work GPCIs, the employee wage portion of the practice expense GPCIs were also based on decennial census data. For the same reasons discussed above pertaining to the work GPCIs, we made no changes in the employee wage indices during the 1998 through 2000 GPCI update. The average change from the 1992 through 1994 to 1995 through 1997 employee wage indices across States was about 6 percent. Since the employee wage index has a weight of about 16 percent in the GPCI cost shares, this translates into a 1 percent average change in payments. The maximum payment change in any payment area resulting from changes from the 1992 through 1994 to 1995 through 1997 employee wage indices was about 3.2 percent. Payment changes in over two-thirds of the payment areas were less than 1 percent.

(2) Rent Indices.

The office rental indices were again based on HUD residential rent data. The rental indices were based on 1996 HUD data as opposed to 1994 HUD data in the 1995 through 1997 GPCIs. HUD made two small methodological changes in developing the data. First, HUD used the 40th percentile of area rents rather than the 45th percentile. This did not materially affect the GPCIs, which measure relative rents among areas. Second, HUD established a rental floor for rural counties at the statewide rural average. This had the effect of raising the office rental indices slightly in rural areas.

We made one methodological change in the rent indices. HUD publishes FMRs only for metropolitan areas as a whole. For the 1995 through 1997 GPCIs, HUD used a special tabulation of the 1990 census data to allocate rents by county within CMSAs. In some metropolitan areas, this had the effect of reducing the central city index below the suburban index, probably because of lower unmeasured housing quality in central cities than in suburbs. We did not feel that this was a representative indicator of relative physician rents, since the GPCIs are intended to measure rental costs for offices of similar quality in different areas. The metropolitan-wide rent was most appropriate for measuring the cost of space of an average quality across the metropolitan area, which is why HUD publishes only metropolitan-wide FMRs. Also, the census county adjustments can be updated only once every 10 years. For this reason, we believed that the county-specific adjustment should not be made for all large metropolitan areas but should be retained only for the New York City Primary Metropolitan Statistical Area. Available evidence suggests that rents vary substantially among the boroughs of New York City and that, given the current locality configuration, the county-specific rental adjustment appropriately reflects these patterns in the New York City area, especially the higher rents in Manhattan.

(3) Medical Equipment, Supplies, and Miscellaneous Expenses. As with the 1992 through 1994 and 1995 through 1997 GPCIs, this component was given a national value of 1.000, indicating no measurable difference among areas in costs.

c. Malpractice Geographic Practice Cost Indices.

Again, malpractice premium data were collected for a mature “claims made” policy with $1 million to $3 million limits of coverage, with adjustments made for mandatory patient compensation funds. As with the 1995 through 1997 GPCIs, data were collected for the 20 largest Medicare-billing physician specialties. The premium data represent at least 50 percent of the market in each State. Again, we used an average of the 3 most recent premium years to smooth out the considerable year-to-year fluctuations that can occur in malpractice premiums. The revised 1998 through 2000 malpractice indices were based on 1992 through 1994 premium data, the latest years available when this revision was being conducted in 1995 through 1996, compared to the 1990 through 1992 data used in the current 1995 through 1997 indices. Another change from the 1995 through 1997 indices is that the specialty shares of the 20 specialties were weighted by fee schedule RVUs rather than allowed charges.

Detailed discussions of the methodology and data sources of the 1998 through 2000 GPCIs may be obtained by requesting the following study from NTIS by calling 1-800-533-NTIS, or, for residents of Springfield, Virginia, (703) 487-4650: “Second Update of the Geographic Practice Cost Index.” Gregory C. Pope and Killard W. Adamache.

7. Revised 2001-2003 Geographic Practice Cost Indices

The same data sources and methodology used for the 1998 through 2000 GPCIs were used for the 2001 through 2003 GPCIs. No acceptable additional data sources were found. The only changes from the 1998 through 2000 GPCI were in the cost shares and RVU weighting. As shown in the cost share table in the discussion of the development of the GPCIs, the cost shares were changed to reflect the revisions in the MEI. This does not affect the work or malpractice GPCIs since they are stand-alone indices (not composed of multiple indices). This cost share revision has a slight effect on the practice expense GPCIs because it changes slightly the weights among the employee wage, rents and miscellaneous components of the practice expense index. We used more recent RVU data, 1998 rather than 1994, in the county, locality, and national mapping in the proposed GPCIs. The payment effect of this was generally negligible.

a. Work Geographic Practice Cost Indices.

For the same reasons discussed in the section on the 1998 through 2000 work GPCIs, no changes were proposed in the work GPCIs, other than the generally negligible changes resulting from the use of 1998 rather than 1994 RVUs for weighting, because we were unable to find acceptable data for use between the decennial census.

b. Practice Expense Geographic Practice Cost Indices

(1) Employee Wage Indices.

As with the work GPCIs, the employee wage indices were based on decennial census data. For the same reasons discussed above pertaining to the work GPCIs, we proposed no changes in the employee wage indices during this GPCI update.

(2) Rent Indices.

The office rental indices were again based on HUD residential rent data. No changes were made in the methodology. The proposed rental indices were based on 2000 rather than 1994 HUD data.

(3) Medical Equipment, Supplies, and Miscellaneous Expenses. As with all previous GPCIs, this component is given a national value of 1.000, indicating no measurable differences among areas in costs.

c. Malpractice Geographic Practice Cost Indices

The same methodology described in the 1998 through 2000 malpractice GPCI section was used in the revision of malpractice GPCIs section for 2001 through 2003, the only difference being the use of more recent data. The malpractice indices were based on 1996 through 1998 malpractice premium data rather than the 1992 through 1994 malpractice premium data that was used in the previous GPCI update.

8. Proposed 2004 through 2007 Geographic Practice Cost Indices

The main criticism of the 2001 through 2003 GPCIs was that they were outdated because they were based on old data; for example, 1990 decennial census data and 1996 through 1998 malpractice premiums, the most recent data available when the GPCIs for 2001 through 2003 were established. The calculation of the proposed 2004 through 2007 GPCIs will be based upon the same data sources and methodology, but the 2004 through 2007 GPCIs will utilize more current data: 2000 decennial census data, 2000 HUD fair market rental (FMR) data for residential rents, and 1999 through 2003 malpractice premium data. This should address the criticism of the 2001 through 2003 GPCIs being out of date.

a. Proposed Work Geographic Practice Cost Indices

We have not yet received the 2000 decennial census data that will be utilized for the revision of the work GPCIs. For this reason, revisions to the work GPCIs will be included in the proposed rule for calendar year 2005.

b. Proposed Practice Expense Geographic Practice Cost Indices

We have not yet received the 2000 decennial census data that will be utilized for the revision of the majority of the practice expense GPCI. We have obtained 2000 HUD fair market rental (FMR) data for residential rents that is utilized for a portion of the practice expense revision. Since we have not received the primary data upon which practice expense GPCIs are calculated and since the office rent component of the practice expense GPCI has not proven to be a substantially variable component in past GPCI updates and accounts for only approximately 12.0 percent of the total GPCI calculation (phased in over a two year period), we have decided not to revise the practice expense GPCIs now based on our limited data. For these reasons, revisions to the practice expense GPCIs will be included in the proposed rule for calendar year 2005.

c. Proposed Malpractice Geographic Practice Cost Indices

The malpractice GPCI is the most volatile of the three indexes with relatively large variations existing between localities. Malpractice premium data for a $1 million to $3 million mature “claims made” policy were collected, with mandatory patient compensation funds considered. However, due to the recent concerns regarding the escalating cost of professional liability insurance, especially in 2002 and 2003, we will be collecting more recent malpractice premium data. We propose using actual 1999 through 2002 malpractice premium data and projecting the malpractice premium rates for 2003. The methodology for forecasting 2003 medical malpractice premiums will consist of calculating the geometric mean rate of growth between 1999 through 2002 and applying that rate to the 2002 premium. We will also obtain a national aggregate malpractice premium series with which to benchmark the 2003 forecast. At this point, we are still collecting the 2002 malpractice premium data and are thus unable to project 2003 malpractice premium data in this proposed rule. We are proposing to base the malpractice GPCIs upon actual 2001 and 2002 malpractice premium data and projected 2003 malpractice premium data by January 1, 2004. These revised malpractice GPCIs will be published in this year's final physician fee schedule regulation. They will be considered interim and subject to public comment.

9. Payment Localities

We are also interested in receiving comments on the composition of the current Medicare physician payment localities (89 separate payment localities) to which the GPCIs are applied. For additional information regarding the composition of the 89 Medicare physician payment localities please refer to both the July 2, 1996 proposed rule (61 FR 34615) and the November 22, 1996 final rule (61 FR 59494) for the Medicare physician fee schedule.

C. Coding Issues

1. Payment Policy for CPT Tracking Codes

In the November 1, 2001 final rule (66 FR 55269), we stated that carriers have discretion for coverage and payment of services described by CPT tracking codes, also known as CPT Category III codes, unless we have made a national coverage determination (NCD). (These CPT Category III codes are distinct from the HCPCS Level III codes used by local claims processors which are to be discontinued under HIPAA implementation.) We have received several requests to create national payment amounts for some CPT tracking codes even if there has been no NCD with respect to the services. After review of these requests, we are proposing to change our policy regarding payment for CPT tracking codes.

We propose to create national payment policy and determine national payment amounts for CPT tracking codes when there is a significant programmatic need for us to do so. Such a need could arise, for example, if we receive requests from carrier medical directors that we establish a national payment amount because of carrier inability to do so. This policy change would not change the contractor's discretion over coverage for the CPT tracking codes, but would establish a payment level if the contractor finds that coverage is warranted. Carriers do not need to establish a payment amount for a tracking code until they receive a claim for the code.

2. Excision of Benign and Malignant Lesions

In the CPT 2003 book, the definitions for excision of benign lesions (CPT codes 11400 through 11446 inclusive) and excision of malignant lesions (CPT codes 11600 through 11646 inclusive) were substantively changed. Starting in 2003, these codes are to be reported based on the excised diameter (actual skin removed) rather than on the size of the lesion. We have reviewed the new code descriptors and are proposing to make the work RVUs the same for removal of all skin lesions with the same excised diameters that are from the same area of the body, whether the lesions are benign or malignant For example, the work RVUs for the removal of benign skin lesions from the trunk, arms or legs with excised diameter 1.1-2.0 cm, CPT code 11402, would be the same as the work RVUs for CPT code 11602, which is the removal of malignant skin lesions from trunk, arms or legs with excised diameter of 1.1-2.0 cm. Therefore, to retain budget neutrality within each code pair, the total work RVUs associated with each code pair will be constant both before and after the work adjustment. We will accomplish this by dividing the total 2003 work RVUs (2003 work RVUs for a given code pair multiplied by 2002 utilization) by the total 2002 utilization for the given code pair. For example:

CPT code | 2002 utilization |  | 2003 work RVU |  | Total work RVUs
11400 | 69,041 | × | 0.85 | = | 58,685
11600 | 13,768 | × | 1.31 | = | 18,036
Total | 82,809 |  |  |  | 76,721
76,721 divided by 82,809 = 0.93 work RVU

The proposed work RVUs for these codes follow:

3. Create G Codes for Monitoring Heart Rhythms

Technological advances have made cardiac telemetry equipment, typically used in hospitals, available in the home setting. It is now possible to discharge patients with arrhythmias to a home setting and have them monitored at home in a manner similar to hospital monitoring. This monitoring can be used to diagnose arrhythmias or to monitor patients with known arrhythmias to determine, on a real-time basis, whether the patient is having ongoing arrhythmias. The equipment consists of patient leads and a home telemetry station that is connected to a distant monitoring station via the telephone. The monitoring station is attended twenty-four hours a day, seven days a week by a technician. Upon receipt of rhythm strips, the technician records and formats the strips and faxes them to the treating physician.

This equipment automatically records the patient's heart rhythm and is not triggered by the patient (for example, his response to symptoms). The equipment is pre-set with parameters (for example, heart rate of over 120) that trigger it to transmit the patient's cardiac rhythm to monitoring station. Additionally, the technician at the monitoring station can interrogate the home station and have it transmit rhythm strips upon request even when no arrhythmia has triggered an automatic transmission. These latter transmissions are at the discretion of the technician and may or may not be faxed to the treating physician based on previous orders.

Depending on the clinical need, patients may be monitored by this equipment for varying lengths of time. Furthermore, the frequency of transmission of cardiac rhythms varies, as does the amount of material that must be reviewed by the physician. For example, a patient may have no cardiac rhythms transmitted for one or more days while on other days the patient may have several minutes of arrhythmias transmitted for physician review.

To ensure this technology is available to Medicare beneficiaries for covered indications (coverage is currently at the discretion of the local Medicare contractors because there is no national coverage determination for this service) we are creating several HCPCS G codes to describe this service and are establishing national payment amounts for these services. Currently Medicare contractors are requiring both the PC and TC of this service to be billed under CPT code 93799, Unlisted cardiovascular procedure or service. This service is covered under the diagnostic test benefit category at section 1861(s)(3) of the Act.

Medicare is establishing the following HCPCS codes to describe this service:

GXXX1—Electrocardiographic monitoring for diagnosis of arrhythmias, utilizing a home computerized telemetry station and trans-telephonic transmission, with automatic activation and real time notification of monitoring station, 24-hour attended monitoring, per 30-day period of time; includes recording, monitoring, receipt of transmissions, analysis, and physician review and interpretation. (global)

GXXX2—Electrocardiographic monitoring for diagnosis of arrhythmias, utilizing a home computerized telemetry station and trans-telephonic transmission, with automatic activation and real time notification of monitoring station, 24-hour attended monitoring, per 30-day period of time; recording (includes hook-up, recording and disconnection)

GXXX3—Electrocardiographic monitoring for diagnosis of arrhythmias, utilizing a home computerized telemetry station and trans-telephonic transmission, with automatic activation and real time notification of monitoring station, 24-hour attended monitoring, per 30-day period of time; monitoring, receipt of transmissions, and analysis

GXXX4—Electrocardiographic monitoring for diagnosis of arrhythmias, utilizing a home computerized telemetry station and trans-telephonic transmission, with automatic activation and real time notification of monitoring station, 24-hour attended monitoring, per 30-day period of time; physician review and interpretation.

We are establishing the following payment amounts for these codes:

GXXX1—We are assigning 0.52 physician work RVUs and 0.24 malpractice RVUs which is equivalent to CPT Code, 93268 Patient demand single or multiple event recording with presymptom memory loop, 24-hour attended monitoring, per 30 day period of time; includes transmission physician review and interpretation. We are also crosswalking the practice expense inputs from CPT Code 93268.

GXXX2—We are assigning 0.07 malpractice RVUs which is equivalent to CPT Code 93270, Patient demand single or multiple event recording with presymptom memory loop, 24-hour attended monitoring, per 30 day period of time; recording (includes hook-up, recording, and disconnection) and crosswalking the practice expense inputs from CPT Code 93270.

GXXX3—We are assigning 0.15 malpractice RVUs which is equivalent to CPT Code 93271, Patient demand single or multiple event recording with presymptom memory loop, 24-hour attended monitoring, per 30 day period of time; monitoring, receipt of transmission, and analysis and also are crosswalking the practice expense inputs from CPT Code 93271.

GXXX4—We are assigning 0.52 physician work RVUs and 0.02 malpractice RVUs which is equivalent to CPT Code 93272 Patient demand single or multiple event recording with presymptom memory loop, 24-hour attended monitoring, per 30 day period of time; physician review and interpretation only. We are also crosswalking the practice expense inputs, from CPT Code 93272.

We believe these proposed RVUs and crosswalks are appropriate as the services provided in the new codes are very similar in terms of physician work, resource use, and malpractice risk to the existing CPT Codes.

4. CPT Code 88180 (Flow Cytometry; Each Cell Surface, Cytoplasmic or Nuclear Marker)

Flow cytometry is a technique to analyze single cell suspensions from blood, bone marrow, body fluids, lymph nodes, and other tissues. The technique, currently coded as CPT code 88180, Flow cytometry, each cell surface, cytoplasmic or nuclear marker, quantifies cell surface, cytoplasmic, and nuclear antigens. The results are frequently used to diagnose lymphomas and leukemias. They are also used to monitor lymphocyte subpopulations in patients with HIV infection or solid organ transplantation. For example, in patients with HIV infection, physicians evaluate CD4+ lymphocytes as a measure of the severity of the infection (some physicians also measure other markers although their clinical relevance is not as well established). In patients with solid organ transplantation, physicians measure various lymphocyte subpopulations to help assess early rejection, identify bone marrow toxicity during immunosuppressive therapy, and differentiate infections from transplant rejection. In these cases the treating physician, not the pathologist, makes the diagnosis. It is inappropriate for the pathologist to report the professional component (PC) of this service. In general, flow cytometry results must be utilized along with clinical data to make a diagnosis. Other clinical situations where flow cytometry tests have some value include stem cell transplantation, paroxysmal nocturnal hemoglobinuria, immune deficiency disorders, etc.

When flow cytometry is performed to diagnose lymphoma or leukemia, there is a single interpretation based on the quantification of all markers tested. There is not an interpretation of each marker individually.

Moreover, for a given clinical indication (for example, diagnosis of lymphoma based on lymph node examination) there is variation in the number of markers performed. The number of markers that are necessary depends, in part, on the pathologic information available to the pathologist at the time he/she orders flow cytometry. Therefore, for a given clinical indication (for example, diagnosis of lymphoma from a lymph node) a pathologist who chooses to perform flow cytometry before performing a microscopic examination of the tissue specimen (for example, a lymph node) may order more markers than a pathologist who orders flow cytometry after performing a microscopic examination of the tissue specimen.

The current coding scheme (payment on a per marker basis) may encourage the performance of more markers than may be medically necessary because the pathologist determines what markers to perform and when to perform them.

Our review of flow cytometry reports confirms that markers are interpreted (and reported) on a panel basis. From our review, physicians do not typically interpret individual markers. This is consistent with most of the clinical indications for flow cytometry that require performance of several markers to make a diagnosis. There may also be clinical situations where no professional component is performed although it is appropriate to perform the technical component (TC) (for example, monitoring of HIV infected patients, monitoring of solid organ transplantations).

The fact that markers are generally analyzed on a “panel” basis, not an “individual” basis, means that the current practice and use of flow cytometry is not appropriately reflected by the PC of CPT code 88180.

However, we do believe that it is appropriate to pay for the TC of each marker separately, although at a lower rate of payment (due to economies of scale) when multiple markers are performed. A coding scheme that pays per marker for the TC and per panel for the PC would more accurately reflect the actual practice of flow cytometry.

The laboratory community is aware of our concerns about the coding of flow cytometery and will review this issue and consider whether changes should be made to the current coding for the procedure. If no changes in coding are forthcoming, we would consider creating HCPCS codes for flow cytometry. We welcome comments and recommendations on appropriate values for the procedure that we could use in developing any future proposal.

5. Create G Codes for Dialysis Patient Seeing the Doctor

We have reviewed our current payment policy for the monthly dialysis capitation, CPT codes 90918 through 90921 in response to concerns that have been raised over whether our payment policy is consistent with current medical practice.

Specifically, we understand that physician involvement in dialysis for end stage renal disease (ESRD) varies based on a patient's condition, response to dialysis, and comorbidities. A physician involvement for a single patient may also vary from month to month. It is our intent to ensure that beneficiaries with ESRD receive the highest quality dialysis care available and that physician involvement in dialysis for ESRD patients is appropriate and consistent with the needs of the patient in any month.

Observers of the quality of care for dialysis patients have noted that some dialysis patients may benefit from being evaluated by their physician frequently. A recent international comparison study suggested that longer physician-patient contact time in hemodialysis facilities was associated with lower mortality risk.

To align the payment incentives with the frequency of the physician personally evaluating the dialysis patient, we are proposing to make CPT codes 90918, 90919, 90920, 90921 invalid for Medicare and to create G codes. We are proposing to create 3 new G codes in place of each CPT code with higher payments associated with providing more visits within each month to an ESRD patient. Under our proposal, there will be separate codes when the physician provides 1 visit per month, 2-3 visits per month and 4 or more visits per month. The code for 1 visit per month will have the lowest payment while a higher payment will be provided for 2 to 3 visits per month and the highest payment for 4 or more visits per month. Our methodology for determining payment is described below. These new codes will be reported once per month for services performed in an outpatient setting and related to the patient's ESRD. These physician services will continue to include the establishment of a dialyzing cycle, outpatient evaluation and management of the dialysis visits, telephone calls, and patient management, provided during a full month. These codes would not be used if a hospitalization occurred during the month.

GXXX5—End Stage Renal Disease (ESRD) related services per full month, for patients under 2 years of age to include monitoring for the adequacy of nutrition, assessment of growth and development, and counseling of parents; with 4 or more face-to-face physician visits per month.

GXXX6—End Stage Renal Disease (ESRD) related services per full month, for patients under 2 years of age to include monitoring for the adequacy of nutrition, assessment of growth and development, and counseling of parents; with 2 or 3 face-to-face physician visits per month.

GXXX7—End Stage Renal Disease (ESRD) related services per full month, for patients under 2 years of age to include monitoring for the adequacy of nutrition, assessment of growth and development, and counseling of parents; with 1 face-to-face physician visit per month.

GXXX8—End Stage Renal Disease (ESRD) related services per full month, for patients between 2 and 11 years of age to include monitoring for the adequacy of nutrition, assessment of growth and development, and counseling of parents; with 4 or more face-to-face physician visits per month.

GXXX9—End Stage Renal Disease (ESRD) related services per full month, for patients between 2 and 11 years of age to include monitoring for the adequacy of nutrition, assessment of growth and development, and counseling of parents; with 2 or 3 face-to-face physician visits per month.

GXX10—End Stage Renal Disease (ESRD) related services per full month, for patients between 2 and 11 years of age to include monitoring for the adequacy of nutrition, assessment of growth and development, and counseling of parents; with 1 face-to-face physician visit per month.

GXX11—End Stage Renal Disease (ESRD) related services per full month, for patients between 12 and 19 years of age to include monitoring for the adequacy of nutrition, assessment of growth and development, and counseling of parents; with 4 or more face-to-face physician visits per month.

GXX12—End Stage Renal Disease (ESRD) related services per full month, for patients between 12 and 19 years of age to include monitoring for the adequacy of nutrition, assessment of growth and development, and counseling of parents; with 2 or 3 face-to-face physician visits per month.

GXX13—End Stage Renal Disease (ESRD) related services per full month, for patients between 12 and 19 years of age to include monitoring for the adequacy of nutrition, assessment of growth and development, and counseling of parents; with 1 face-to-face physician visit per month.

GXX14—End Stage Renal Disease (ESRD) related services per full month, for patients 20 years of age and over; with 4 or more face-to-face physician visits per month.

GXX15—End Stage Renal Disease (ESRD) related services per full month, for patients 20 years of age and over; with 2 or 3 face-to-face physician visits per month.

GXX16—End Stage Renal Disease (ESRD) related services per full month, for patients 20 years of age and over; with 1 face-to-face physician visit per month.

We are assuming that most physicians will provide 4 or more visits to their ESRD patients and a small proportion will provide 2-3 visits or only 1 visit per month. Using these assumptions and Medicare utilization data from 2002, we developed relative value units for the new G codes that will make the Medicare's aggregate payments for ESRD related services under the physician fee schedule approximately equal to current payments that are occurring using procedure codes 90918 to 90921. Relative to our current payments, we are proposing to lower payment when the physician provides 1 visit per month or 2-3 visits per month. Since we are proposing to lower payment if the physician provides fewer than 4 visits per month, in order to maintain the same aggregate payments for ESRD related services, we are proposing to increase payment if the physician provides 4 or more visits per month. Using these assumptions, the proposed work, practice expense and malpractice RVUs for procedure codes GXXX5 through GXXX16 are shown below:

Table 4
Code | Physician work | Practice expense | Malpractice
GXXX5 | 12.92 | 8.70 | 0.60
GXXX6 | 5.19 | 3.49 | 0.24
GXXX7 | 3.39 | 2.29 | 0.16
GXXX8 | 9.91 | 4.86 | 0.43
GXXX9 | 3.55 | 1.74 | 0.15
GXX10 | 2.32 | 1.14 | 0.10
GXX11 | 8.47 | 4.54 | 0.35
GXX12 | 3.14 | 1.68 | 0.13
GXX13 | 2.05 | 1.10 | 0.08
GXX14 | 5.16 | 2.94 | 0.22
GXX15 | 1.94 | 1.10 | 0.08
GXX16 | 1.27 | 0.73 | 0.06

We believe that stratifying payment amounts by physician face-to-face involvement would be an improvement over the current method, but still may not be optimal to foster improved outcomes.

Both the Institute of Medicine and Medicare Payment Advisory Commission (MedPAC) have advocated an increased role for CMS in encouraging improved quality outcomes. In their June 2003 Report to Congress (Variation and Innovation in Medicare), MedPAC recommended “the Secretary should conduct demonstrations to evaluate provider payment differentials and structures that reward and improve quality.”

We responded to this call by increasing the focus of our Quality Improvement Organizations (formerly called Peer Review Organizations) and ESRD Networks on developing quality measures and also performing or assisting providers with the performance of quality improvement activities. We have also implemented initiatives to address the quality of care provided in various settings. These include: The Home Health Quality Initiative; the Hospital Quality Initiative; the Nursing Home Quality Initiative; the Home Health Quality Initiative and Doctors Office Quality Project (see http://cms.hhs.gov/quality/ for more information).

Additionally, we have developed various demonstration projects that provide incentives to improve quality. For example, as part of an ongoing effort to achieve improved patient outcomes, we announced the ESRD Disease Management Demonstration in the Federal Register on June 4, 2003. The goal of this demonstration is to achieve improved patient outcomes through disease management services and quality incentives. This demonstration does not directly involve renal physicians, but we are considering the use of quality incentives in potential future payment systems for them as well. Renal physicians play a central role in leading the interdisciplinary team charged with managing an ESRD patient's care.

Thus, we are seeking comment on how to further revise our payment methodology to improve quality of care and outcomes. We are also interested in information that could help us design future demonstrations that would incorporate both dimensions of care (quality and utilization) and help ensure that payment is based on appropriate patient-specific care that has been shown to lead to improved outcomes for this complex patient population.

6. Extracorporeal Shock Wave Lithotripsy for Musculoskeletal Conditions

We received several comments on the G codes for extracorporeal shock wave lithotripsy created in the December 31, 2002 final rule. We will be responding to those comments as part of this year's final rule, but we would appreciate any additional information on the physician work, practice expenses, and duration of treatment and intensity or energy of the shock waves applied for various conditions at various anatomic sites.

7. Late RUC recommendations for 2003 CPT codes.

RUC recommendations for RVUs for approximately 20 new CPT codes for 2003 were received too late for incorporation in the December 31, 2002 final rule. We proposed interim RVUs for these codes and, as with all interim values, these were subject to comment. In their comments on the December 2002 final rule, the AMA-RUC requested that we consider their late recommendations for these codes. We will be addressing these, as well as other comments received on the interim RVUs in the upcoming final rule.

III. Other Issues

A. Rebasing and Revising of the Medicare Economic Index

1. Background

The Medicare Economic Index (MEI) is required by section 1842(b)(3) of the Act, which states that prevailing charge levels beginning after June 30, 1973 may not exceed the level from the previous year except to the extent that the Secretary finds, on the basis of appropriate economic index data, that the higher level is justified by year-to-year economic changes. Beginning July 1, 1975, and continuing through today, the MEI has met this requirement by reflecting the weighted sum of the annual price changes of the inputs used to produce physicians' services. As such, the MEI attempts to be an equitable measure of price changes associated with physician time and operating expenses.

The current form of the MEI was detailed in the November 25, 1992 Federal Register (57 FR 55896) and was based in part on the recommendations of a Congressionally-mandated meeting of experts held in March 1987. Since that time, the structure of the MEI has remained essentially unchanged, with two exceptions. First, the MEI was rebased in 1998 (63 FR 58845), which moved the cost structure of the index from 1992 data to 1996 data. Second, the methodology for the productivity adjustment was revised in 2002 (67 FR 80019) to reflect the percentage change in the 10-year moving average of economy-wide multifactor productivity.

We are proposing to rebase and revise the MEI for the 2004 physician fee schedule update. The terms “rebasing” and “revising”, while often used interchangeably, actually denote different activities. Rebasing means moving the base year for the structure of costs of an input price index, while revising means changing data sources, cost categories, or price proxies used in the input price index. As is always the case with a rebasing and revising exercise, we have attempted to use the most recently available, relevant, and appropriate information to develop the MEI cost category weights and price proxies. We detail below the updated cost weights for the MEI expense categories, our rationale for selecting the price proxies in the MEI, and the results of the proposed rebasing and revising of the MEI.

2. Use of More Current Data

The MEI was last rebased and revised in 1998 for the 1999 physician fee schedule update (63 FR 58845). The current base year for the MEI is 1996, which means that the cost weights in the index reflect physicians' expenses in 1996. However, we believe it is desirable to periodically rebase and revise the index so that the expense shares and proxies reflect more current conditions. For this reason, we propose to rebase the MEI to reflect physicians' expenses in 2000. In addition, we are proposing to revise the cost categories in the MEI and to change three of the proxies we currently use to ensure that the index is appropriately reflecting price changes. We will continue to adjust the MEI for economy-wide multifactor productivity.

The expense categories in the proposed MEI were primarily derived from the 2003 AMA Physician Socioeconomic Characteristics publication (2003 Patient Care Physician Survey data), which measures physicians' earnings and overall practice expenses for 2000. The AMA data were used to determine expenditure weights for total expenses, physicians' earnings, and malpractice expenses, the only information detailed in this survey. To further disaggregate into subcategories reflecting more detailed expenses, we used data from previous AMA surveys, the 1997 Bureau of Economic Analysis Benchmark Input-Output table (I/O), the 2003 Bureau of Labor Statistics (BLS) Employment Cost Index (ECI), and the 2002 Bureau of the Census Current Population Survey (CPS).

3. Rebasing and Revising Expense Categories in the MEI

a. Developing the Weights For Use in the MEI

Developing a rebased and revised MEI requires selecting a base year and determining the number and composition of expense categories. We are proposing to rebase the MEI to CY 2000. CY 2000 was chosen as the base year for two main reasons: (1) CY 2000 was the most recent year for which data were available from the AMA, and (2) we believed that the CY 2000 data were representative of the changing distribution of physicians' earnings and practice expenses over time.

We determined the number and composition of expense categories based on the criteria used to develop the current MEI and other CMS input price index expenditure weights. These criteria are timeliness, reliability, relevance, and public availability. For more information on these criteria, see the May 9, 2002 Federal Register (67 FR 31444) and the detail later in this preamble. Table 5 lists the set of mutually exclusive and exhaustive cost categories that make up the proposed rebased and revised MEI.

Table 5.—Proposed Revised Medicare Economic Index Expenditure Categories, Weights, and Price Proxies
Expense category | Proposed 2000—Expense weights ¹ ² | 1996 Expense weights | Proposed price proxies
Total | 100.000 | 100.000
Physician Earnings ³ | 52.466 | 54.460
Wages and Salaries | 42.730 | 44.197 | AHE—Private.
Benefits ⁴ | 9.735 | 10.263 | ECI—Ben: Private.
Physician Practice Expenses | 47.534 | 45.540
Nonphysician Employee Compensation | 18.654 | 16.812
Employee Wages and Salaries | 13.809 | 12.424
Prof/Tech Wages | 5.887 | 5.662 | ECI-W/S: Private P&T.
Managerial Wages | 3.333 | 2.410 | ECI-W/S: Private Admin.
Clerical Wages | 3.892 | 3.830 | ECI-W/S: Private Clerical.
Services Wages | 0.696 | 0.522 | ECI-W/S: Private Service.
Employee Benefits ⁴ | 4.845 | 4.388 | ECI-Ben: Priv. White Collar.
Office Expenses | 12.209 | 11.581 | CPI(U)—Housing
Professional Liability Insurance | 3.865 | 3.152 | CMS—Prof. Liab. Phys. Premiums.
Medical Equipment | 2.055 | 1.878 | PPI—Medical Instruments & Equip.
Pharmaceuticals and Medical Materials and Supplies | 4.320 | 4.516
Medical Materials and Supplies | 2.011 |  | PPI Surg. Appliances and Supplies/CPI(U) Med Supplies.
Pharmaceuticals | 2.308 |  | PPI Ethical Prescription Preparations.
Other Professional Expenses | 6.433 | 7.601 | CPI-U All Items Less Food and Energy.
¹ Due to rounding, weights may not sum to 100.000 percent.
² Sources: Physician Socioeconomic Statistics, 2000-2002 Edition (SMS Survey), Physician Socioeconomic Statistics, 2003 Edition (PCPS Survey), Center for Health Policy Research, American Medical Association; 2003 Employment Cost Index, U.S. Department of Labor, Bureau of Labor Statistics; U.S. Department of Commerce, Bureau of Economic Analysis 1997 Benchmark Input Output Tables, and U.S. Department of Commerce, Bureau of the Census, 2002 Current Population Survey.
³ Includes employee physician payroll.
⁴ Includes paid leave.

To determine the expenditure weights for the proposed rebased and revised MEI, we used currently available and statistically valid data sources on physician earnings and practice expenses. While we consulted numerous data sources, we used five data sources to determine proposed MEI expenditure weights: (1) The 2003 AMA Physician Socioeconomic Statistics (2000 survey data) for self-employed physicians, (2) the 2000-2002 AMA Physician Socioeconomic Statistics (1998 data) for self-employed physicians, (3) the March 2003 BLS Employment Cost Index, (4) the 2002 Bureau of the Census CPS, and (5) the Bureau of Economic Analysis (BEA) 1997 Benchmark Input-Output tables (I/O). No one data source provided all of the information needed to determine expenditure weights according to our criteria. The development of each of the cost categories using these sources is described in detail below.

b. Physician Earnings

Like the current MEI, the proposed rebased and revised MEI will use AMA data on mean physician net income (physician earnings) for self-employed physicians to develop a weight for physician earnings. The weight for this expense category was based on AMA data for 2000 and was calculated as a percentage of total mean expenses (physician earnings and practice expenses, including malpractice). The physician earnings expenditure category also includes employee physician compensation. Currently, physician earnings and overhead expenses generated by employee physicians are included in the AMA practice expenses category. However, we believe it is appropriate, for our purposes, to place employee physician compensation in the MEI cost category of physician earnings since employee physician compensation represents actual expenditures made in the delivery of services. In addition, including employee physician payroll in physician earnings in the MEI is consistent with the current payment methodologies in accordance with the physician fee schedule, where the work RVU is computed based on what service is provided and not on who provides the service. Since employee physicians perform the same services as self-employed physicians, employee physician time is reflected in the work RVU. By including the compensation of employee physicians in the physician earnings expense category, these expenses will be adjusted by the appropriate price proxies for a physician's own time.

To obtain further detail for both wages/salaries and benefits, the ratio between these categories for 1996 (based on current MEI) was updated to 2000 using the growth in the overall employment cost index for private employees for wages/salaries and benefits. Alternative data for determining this split were not readily available from any other source. The main shortcoming of this method is that any changes in quantity and intensity (mix of physicians) are not reflected. However, faced with the lack of alternative data, we deemed this approach to be the most feasible, and the results appear to be consistent with anecdotal evidence on this ratio. Its application resulted in a wage-fringe benefit split of 81.4 and 18.6 percent, respectively, in the proposed revised and rebased MEI compared with a wage-fringe benefit split of 81.2 and 18.8 percent, respectively in the 1996-based MEI.

c. Physician Practice Expenses

To determine the remaining individual practice expense weights, we updated AMA expense data from 1998 to 2000 using the relative price change in an appropriate price index. After the levels were updated to 2000 values, it was necessary to normalize these levels to equal the 2000 mean total expense data provided by the 2003 AMA survey. The detailed explanations for the derivation of the individual weights are listed below.

(i) Nonphysician Employee Compensation

The cost share for nonphysician employee compensation was developed by updating the 1998 AMA Socioeconomic Survey data on nonphysician employee compensation costs for self-employed physicians to 2000, using the current proxy for this category, and dividing the resulting amount into total expenses (physician earnings plus practice expenses) for 2000 from the AMA survey. We further divided this cost share into wages/salaries and benefits using BLS Employment Cost Index data. The ECI survey contains data on the proportion of total compensation accounted for by wages/salaries and benefits (including paid leave) by private industry health services occupational category. These proportions can be used to distribute the total non-physician employee compensation weight to wages/salaries and benefits for non-physician employees. We used 2000 data from the March 2003 publication. Although this survey does not contain data specifically for offices of physicians, data are available on wage/fringe shares for private industry health services, which include hospitals, nursing homes, offices of physicians, and offices of dentists. We believe the data for health services from the survey do provide a reasonable estimate of the split between wages and fringe benefits for employees in physicians' offices. Data for 2000 in the ECI survey for total health services indicate that wages and fringe benefits are 74.02 percent and 25.98 percent of compensation, respectively.

As in the 1996-based MEI, we are proposing to use CPS data on earnings by occupation to develop cost shares for wages for nonphysician occupational groups shown in Table 6. To arrive at a distribution for these separate categories, we multiplied the overall share for nonphysician employee wages/salaries by each of the occupational proportions from the 2000 CPS. The proposed distribution and the distribution in the current MEI are presented in Table 6.

Table 6.—Percent Distribution of Nonphysician Payroll Expense by Occupational Group: 2000 and 1996
BLS Occupational Group | 2000 Expenditure Shares | 1996 Expenditure Shares
Total | 100.000 | 100.000
Professional & Technical Workers | 42.635 | 45.573
Managers | 24.138 | 19.398
Clerical Workers | 28.187 | 30.827
Service Workers | 5.040 | 4.202
Note: Values may not sum to 100 due to rounding.

(ii) Professional Liability Expense

The weight for professional liability expense was derived from the 2003 AMA survey (2000 data) and was calculated as the mean professional liability expense expressed as a percentage of total expenses (physician earnings plus practice expenses). This calculation resulted in a 3.865 percent share of total costs in 2000 compared to a 3.152 percent share in the 1996-based index. The increase in weight for professional liability insurance represents the increases in premiums and increases in the amount of coverage purchased by physicians in 2000 compared to 1996. Since the data do not reflect any changes caused by increases in these expenses in 2001 and 2002, they do not take into account the recent acceleration in the growth in premiums that physicians have experienced and, therefore, the weights will not reflect these changes. However, the proxy that we currently use in the 1996-based index—and will continue to use in the proposed rebased and revised index—does reflect the price increases associated with the recent rise in malpractice costs.

(iii) Office, Medical Equipment, Pharmaceuticals and Medical Materials and Supplies Expenses, and All Other Expenses

The 2003 AMA survey provides less detail for expenses with respect to prior years' publications. Therefore, we calculated the share of each of the above categories by updating the AMA data for 1998 to 2000 using an appropriate price proxy. The primary reason for using the price proxy was that we lacked other data to develop cost weights for each of these categories. As stated previously, the main deficiency of this method is that it does not account for any changes in the quantity or intensity effects associated with these expenses. Our belief, however, was that it was important to continue using these detailed breakouts so that each would be proxied by an appropriate price index and that the quantity/intensity effects over a short period of time are not likely to be large. In fact, we have found that even over longer periods of time, the distribution of costs tends to be relatively similar.

Office expenses and medical equipment levels were moved to 2000 using the growth from 1998 to 2000 in their respective MEI price proxies. In the case of office expenses, we used the growth in the CPI-U Housing; for medical equipment expenses, we used the growth in the PPI for Medical Instruments and Equipment.

The share for pharmaceuticals (prescription drugs) and medical materials and supplies was calculated by separating out pharmaceuticals and other medical materials and supplies using 1997 BEA Benchmark Input-Output data. First, the sum of all the pharmaceuticals and medical supplies categories from the Benchmark Input-Output tables for 1997 was calculated. The share of pharmaceuticals and medical supplies was then calculated as a percentage of this total and applied to the 1997 AMA medical supplies data. These calculated levels were then inflated to 2000 using the growth in an appropriate price proxy. We thought it was important and appropriate to account for each of these categories separately so that differences in relative price growth between pharmaceuticals (prescription drugs) and other medical materials and supplies would be more accurately represented. The resulting 2000 data for the two separate categories were then aggregated (summed) together to form the overall total for the share for the pharmaceuticals and medical materials and supplies category in the rebased and revised MEI. The pharmaceuticals category was inflated using the Producer Price Index (PPI) for ethical prescription preparations and the medical materials and supplies category was updated using the PPI for surgical appliances and supplies.

Finally, the All Other Expense category was calculated as a residual (total expenses less the percentage of all categories currently accounted for). The additional detail for transportation expenses found in the prior MEI was removed because the data were not readily available for measurement of a cost share for 2000. The effect on the MEI of removing the detail is negligible.

4. Selection of Price Proxies for Use in the MEI

After the 2000 cost weights for the rebased and revised MEI were developed, we reviewed the current set of price proxies to determine whether they were still the most appropriate for each expenditure category. As was the case in the development of the 1996-based MEI (57 FR 55901), most of the indicators we considered are based on BLS data and are grouped into one of the following five categories:

Producer Price Indices (PPIs)

PPIs measure price changes for goods sold in other than retail markets. They are the preferred proxies for physician purchases at the wholesale level. These fixed-weight indices are a measure of price change at the producer or at the intermediate stage of production, a more likely mode of purchase for physicians.

Consumer Price Indices (CPIs)

CPIs measure change in the prices of final goods and services purchased by consumers. Like the PPIs, they are fixed-weight. Since they may not represent the price changes faced by producers, CPIs were used if there were no appropriate PPI or if the expenditure category was similar to expenditure of retail consumers in general.

Average Hourly Earnings (AHEs)

AHEs are available for production and nonsupervisory workers for specific industries as well as for the nonfarm business economy. They are calculated by dividing gross payrolls for wages/salaries by total hours. The series reflects shifts in employment mix and, thus, is representative of actual changes in hourly earnings for industries or for the nonfarm business economy.

ECIs for Wages/Salaries

These ECIs measure the rate of change in employee wage rates per hour worked. These fixed-weight indices are not affected by shifts in industry or occupation employment levels and measure only the pure rate of change in wages.

ECIs for Employee Benefits

These ECIs measure the rate of change in employer costs of employee benefits, such as the employer's share of Social Security taxes, pension and other retirement plans, insurance benefits (life, health, disability, and accident), and paid leave. Like ECIs for wages/salaries, the ECIs for employee benefits are not affected by changes in industry output or occupational shifts.

When choosing wage and price proxies for each expense category, we evaluate the strengths and weaknesses of each proxy variable using four criteria. The first criterion is relevance. The price variable should appropriately represent price changes for specific goods or services within the expense category. Relevance may encompass judgments about relative efficiency of the market generating the price and wage increases.

The second criterion is reliability or low sampling variability. If the proxy wage-price variable has a high sampling variability or inexplicable erratic patterns over time, its value is greatly diminished, since it is unlikely to accurately reflect price changes in its associated expenditure category. Low sampling variability can conflict with relevance, since the more specifically a price variable is defined in terms of service, commodity, or geographic area, the higher the possibility of sampling variability. The length of time the time-series data have been published is also important. A well-established time series is needed to assess the reasonableness of the series and to provide a solid base from which to forecast future price changes in the series. We need to forecast the MEI to make Federal budget and Trustees Report estimates.

The third criterion is timeliness of actual published data. For this reason, we prefer monthly and quarterly data to annual data.

The fourth criterion is public availability. We prefer to use data sources that are publicly available for our indices so that the public may track each of the individual components in the MEI.

The BLS price proxy categories previously described meet the criteria of relevance, reliability and timeliness, and public availability. Below we discuss the price-wage proxies for the rebased and revised MEI (shown in Table 1).

(a) Expense Categories in the MEI

Physician Time

In the proposed revised and rebased MEI, we are using the AHE for the private nonfarm economy as the proxy for the physician wages/salaries component; this is the same price measure used in the 1996-based MEI. In our judgment, this proxy still most closely comports with Congressional intent as expressed in the Senate Finance Committee's 1972 report (S. Rept. No. 92-1230 at 191 (1972)). AHEs change in accordance with changes in the type and mix of workers.

As we discussed extensively in the November 2, 1998 final rule (63 FR 58848) and again in the December 31, 2002 final rule (67 FR 80019), we believe that the current price proxy for physicians' earnings—AHE in the nonfarm business economy—is the most appropriate proxy to use in the MEI. The AHE for the nonfarm business economy reflects the impacts of supply, demand, and economy-wide productivity for the average worker in the economy. Using this measure as the proxy for physicians' earnings captures the parity in the rate of change in wages for the average worker and for physicians. In addition, use of this proxy is consistent with the original legislative intent that the change in the physicians' earnings portion of the MEI parallel the change in general earnings for the economy. Since earnings are expressed per hour, a constant quantity of labor input per unit of time is reflected. The use of the AHE data is also consistent with our using the BLS economy-wide multifactor productivity measures since economy-wide wage increases reflect economy-wide productivity increases.

Using the ECI for professional and technical workers or other occupational-specific wage proxies has a major shortcoming; in many instances, occupations such as engineering, computer science, and nursing have unique characteristics that are not representative of the overall economy or the physician market. Specifically, wage changes for such occupations can be influenced by excess supply or demand for these types of workers. We believe it would not be appropriate to proxy the physician earnings portion of the MEI with a wage proxy that reflects these other occupation's unique characteristics.

The current MEI uses the ECI for fringe benefits for total private industry as the price proxy for physician fringe benefits. We are proposing to use the same proxy for the 2000-based MEI. This means that both the wage and fringe benefit proxies for physician earnings are derived from the nonfarm private sector and are computed on a per-hour basis.

Nonphysician Employee Compensation

As in the 1996-based MEI, we are proposing to use Current Population Survey data on earnings and employment by occupation to develop labor cost shares for the nonphysician occupational groups shown in Table 6. BLS maintains an ECI for each occupational group, and we propose to use these ECIs as price proxies for nonphysician employee wages in the same manner they are used in the current MEI.

The skill mix shift in employees of physician offices in the last few years has been towards managerial occupations. While these skill mix shifts are captured in the expenditure weights, they are appropriately held constant in a Laspeyres price index such as the MEI. Skill mix shifts, which may reflect the changing intensity of services provided in physicians' offices, are accounted for in the payment system outside of the MEI.

The current MEI uses the ECI for fringe benefits for white collar employees in the private sector as a proxy for nonphysician benefits. Since most nonphysician employees in physicians' offices are white-collar employees, we are again proposing to use the ECI for benefits for white collar employees in the proposed rebased and revised MEI.

Office Expense

Office expenses include rent or mortgage for office space, furnishings, insurance, utilities, and telephone. We are proposing the continued use of the CPI-U for housing because it is a comprehensive measure of the cost of housing, including rent, owner's equivalent rent, and the types of goods and services associated with running an office. This proxy covers about 80 percent of the population.

Pharmaceuticals and Medical Materials and Supplies

This cost category includes drugs, outside laboratory work, x-ray films, and other related services. There is not one price proxy that includes this complete mix of materials and supplies. In the absence of one index, we are proposing to separately account for pharmaceuticals and medical materials and supplies in the 2000-based MEI.

• Medical Materials and Supplies

We equally weighted two proxies together (the PPI Surgical Appliances and Supplies and the CPI-U for Medical Equipment and Supplies) since one proxy does not accurately measure the price change associated with these types of products used nor the mode of purchase used in physicians' offices. While both indexes include such items as bandages, dressings, catheters, I.V. equipment, syringes, and other general disposable medical supplies and nonprescription equipment, the indexes reflect significant differences in the mode of purchase. The PPI measures actual transaction prices at the wholesale level, the mode most likely used by physicians, while the CPI measures prices at the retail level or the final stage of production. The price movements in these two indexes can be different and we believe that it is appropriate to combine these indexes into one proxy since physicians likely use both purchasing methods when obtaining medical supplies.

• Pharmaceuticals

The PPI for ethical prescription drugs is used to proxy pharmaceutical prices in other CMS market baskets and reflects the price change associated with the average mix of pharmaceuticals purchased economy-wide. We propose to use the PPI for ethical prescription drugs, rather than the CPI for prescription drugs, because physicians generally purchase drugs directly from a wholesaler. The PPIs that we use measure price changes at the final stage of production.

Professional Liability Insurance

It is vital that the MEI accurately reflect the price changes associated with professional liability costs. Accordingly, we continue to incorporate into the MEI a price proxy that accomplishes this goal by making the maximum use of available data on professional liability premiums.

Each year, we solicit professional liability premium data for physicians from a small sample of commercial carriers. This information is not collected through a survey form, but instead is requested, on a voluntary basis, from a few national commercial carriers via letter. Generally between 5 and 8 carriers volunteer this information. While the sample size certainly does not cover the entire professional liability insurance market, we have attempted to maximize the market share in terms of both national coverage and coverage within States.

As we require for our other price proxies, the professional liability price proxy should reflect the pure price change associated with this particular cost category. Thus, it should not capture changes in the mix or level of liability coverage. To accomplish this result, we obtain premium information from commercial carriers for a fixed level of coverage, currently $1 million per occurrence and a $3 million annual limit. This information is collected for every State by physician specialty and risk class. Finally, the State-level, physician-specialty data are aggregated by effective premium date to compute a national total, using counts of physicians by State and specialty as provided in the AMA publication, Physician Characteristics and Distribution in the U.S.

The resulting data provide a quarterly time series, indexed to a base year consistent with the MEI and reflect the national trend in the average professional liability premium for a given level of coverage. From this series, quarterly and annual percent changes in professional liability insurance are estimated for inclusion in the MEI.

The most comprehensive data on professional liability costs are held by the State insurance commissioners but these data are available only with a substantial time lag and, therefore, the data currently incorporated into the MEI are much more timely. We believe that, given the limited data available on professional liability premiums, this methodology adequately reflects the price trends facing physicians.

Medical Equipment

Medical equipment includes depreciation, leases, and rent on medical equipment. We propose to use the PPI for medical instruments and equipment as the price proxy for this category, consistent with the price proxy used in the 1996-based MEI and other CMS input price indexes.

Other Professional Expenses

This category includes the residual subcategory of other professional expenses such as accounting services, legal services, office management services, continuing education, professional association memberships, journals, professional car expenses, and other professional expenses. In the absence of one price proxy or even a group of price proxies that might reflect this heterogeneous mix of goods and services, we use the CPI-U for all items, less food and energy, consistent with the price proxy used in the 1996-based MEI. We also propose to condense the structure used in the previous 1996-based MEI because we lack the data to develop a representative weight for transportation, as discussed above. This change would result in only a negligible effect on the overall MEI over the past 8 years; the average increase differs by less than a tenth of a percentage point over that time.

(b) Productivity Adjustment to the MEI

In the December 2002 final rule, we indicated that we were changing the methodology for adjusting for productivity in the MEI. The MEI used for the 2003 physician payment update reflected changes in the 10-year moving average of private nonfarm business (economy-wide) multifactor productivity applied to the entire index; we had previously used economy-wide private nonfarm business labor productivity applied to the labor portions of the index. We will continue to use the method of adjusting for multifactor productivity applied to the entire index in the proposed rebased and revised MEI.

As described in the December 31, 2002 final rule, we used multifactor productivity because: (1) it is theoretically more appropriate to explicitly reflect the productivity gains associated with all inputs (both labor and nonlabor); (2) the recent growth rate in economy-wide multifactor productivity appears to be more consistent with the current market conditions facing physicians; and (3) the MEI still uses economy-wide wage changes as a proxy for physician wage changes. We believe that using a 10-year moving average change in economy-wide multifactor productivity produces a stable and predictable adjustment and is consistent with the moving-average methodology used in the current 1996-based MEI. The adjustment will be based on the latest available actual historical economy-wide multifactor productivity data, as measured by BLS.

5. Results of Rebasing

Updating the MEI from a 1996 base year to a 2000 base year resulted in small changes in expense category weights. Physicians' earnings dropped slightly, from 54.5 percent of the index in 1996 to 52.5 percent in 2000. The expense shares for non-physician employee compensation, office expenses, professional liability insurance, and medical equipment all rose slightly, while expense shares for medical materials and supplies and all other expenses declined.

The rebased and revised MEI is similar in structure to the current MEI. Except for two-tenths of a percentage point difference in 2000, the annual percent change in the rebased and revised MEI was within one-tenth of a percentage point of the percent change in the 1996-based MEI each year between 1996 and 2003. Therefore, the revision and rebasing proposed in this rule, while making the expense shares more timely, has little impact on the percent changes in the MEI as a whole. Table 7 below shows the average calendar-year percent change from 1996 to 2003 for both the 1996- and 2000-based MEIs.

Table 7.—Annual Percent Change in the Current and Proposed Revised and Rebased Medicare Economic Index
Update year (A) | Proposed 2000-based MEI | Current 1996-based MEI
1996 | 1.7 | 1.8
1997 | 1.9 | 1.9
1998 | 2.4 | 2.4
1999 | 2.7 | 2.6
2000 | 2.9 | 2.7
2001 | 2.8 | 2.8
2002 | 3.3 | 3.3
2003 | 3.1 | 3.0
Avg Change 1996-2003 | 2.6 | 2.6
(A) Update year based on historical data through the second quarter of the prior calendar year. For example, the 2003 update is based on historical data through the second quarter 2002.

The forecast of the proposed rebased and revised MEI for the 2004 Physician Fee Schedule is an increase of 2.5 percent, nearly identical to the forecasted increase using the previous 1996-based MEI. In the final rule we will incorporate historical data through the second quarter of 2003; therefore, the current estimated increase of 2.5 percent for 2004 may differ in the final rule.

BILLING CODE 4120-01-P

BILLING CODE 4120-01-C

6. Adjustments to RVUs To Match the New MEI Weights

As described in the previous section, we are proposing to rebase the MEI and establish new weights for physician work, practice expense and malpractice. Based on 2002 Medicare utilization data, we compared the proportion of total RVUs attributable to physician work, practice expense and malpractice to the new MEI weights. We show the proportion of total RVUs attributable to work, practice expense and malpractice and their respective proposed new MEI weights across all physicians' services in the following table:

Table 10
| Proposed MEI weight | 2002 RVUs
Physician Work | 52.466% | 52.649%
Practice Expense | 43.669% | 44.175%
Malpractice | 3.865% | 3.176%

The MEI weights for physician work and practice expense are lower than the proportion of 2002 aggregate RVUS attributable to these categories. The malpractice weight within the MEI is higher than its share of total aggregate 2002 RVUs. (The 2002 shares from the Medicare utilization do not match the 1996 MEI weights because deviations occur over time based on changes in the mix of services billed by physicians and other factors).

We believe there is merit in adjusting the RVUs to match the revised MEI weights. By giving more weight to malpractice and less weight to physician work and practice expenses, Medicare's payments will better reflect each component of physician practice expenses. Section 1848(c)(2)(B)(ii)(II) of the Act requires that increases or decreases in RVUs may not cause the amount of expenditures for the year to differ by more than $20 million from what expenditures would have been in the absence of these changes. If this threshold is exceeded, we make across-the-board adjustments to preserve budget neutrality. Therefore, if we adjust the work, practice expense and malpractice RVUs to match the new MEI weights, we are required by statute to ensure that the adjustments do not increase or decrease Medicare expenditures by more than $20 million. To meet the requirements of the statute and ensure that aggregate pools of RVUs match the proposed new MEI weights, we considered two options. We considered making no adjustments to the physician work RVUs and adjusting only the practice expense and malpractice RVUs or adjusting all 3 categories of RVUs. We considered the first option because the medical community, in the past, has expressed interest in avoiding adjustments to physician work RVUs. However, we could only meet the requirements of section 1848(c)(2)(B)(ii)(II) if we reduced the physician fee schedule conversion factor by an additional 0.3 percentage points in addition to the −4.2 percent reduction we are already forecasting. We believe a small reduction to the physician work RVUs is preferable to a reducing the conversion factor by an additional 0.3 percent. For this reason, we are proposing to reduce the physician work RVUs by 0.35 percent (0.9965) and the practice expense RVUs by 1.15 percent (0.9885) and increase the malpractice RVUs by 21.7 percent (1.217) to match the rebased MEI weights. The effects of these adjustments to the RVUs are included in the RVUs shown in Addendum B of this proposed rule and, as explained previously, would not require a compensating adjustment to the conversion factor.

B. Definition of Diabetes for Diabetes Self-Management Training

Section 4105(a) of the Balanced Budget Act of 1997 (BBA) (Pub. L. 105-33, enacted on August 5, 1997) provides coverage for outpatient diabetes self-management training in outpatient settings without limiting this coverage to hospital outpatient departments. The BBA provided that the services would be provided “to an individual with diabetes.” In the December 29, 2000, final rule entitled, “Expanded Coverage for Outpatient Diabetes Self-Management Training and Diabetes Outcome Measurements”, (65 FR 83129) we established criteria to define “an individual with diabetes.” At that time, we did not have a definition of diabetes that had been widely accepted. Therefore, we established a set of medical conditions to determine who should receive the service.

In § 410.141(d), we stated that any beneficiary who has one or more of the following medical conditions occurring within the 12-month period before the physician's order for the training would be eligible for Medicare coverage for training from an approved entity:

• New onset diabetes.

• Inadequate glycemic control as evidenced by a glycosylated hemoglobin (HbA1C) level of 8.5 percent or more on two consecutive HbA1C determinations 3 or more months apart in the year before the beneficiary begins receiving training.

• A change in treatment regimen from no diabetes medications to any diabetes medication, or from oral diabetes medication to insulin.

• High risk for complications based on inadequate glycemic control (documented acute episodes of severe hyperglycemia or acute severe hyperglycemia occurring in the past year during which the beneficiary needed emergency room visits or hospitalization).

• High risk based on at least one of the following documented complications:

—Lack of feeling in the foot or other foot complications such as foot ulcers, deformities, or amputation;

—Pre-proliferative or proliferative retinopathy or prior laser treatment of the eye; and

—Kidney complications related to diabetes, when manifested by albuminuria, without other cause, or elevated creatinine.

These requirements have been shown to be burdensome to the public and to Medicare contractors. Therefore, we are proposing that the requirements be streamlined to use the definition of diabetes that was established in a later regulation at § 410.130 and is used to determine beneficiary eligibility for Medical Nutrition Therapy when the beneficiary has a diagnosis of diabetes. The definition is:

Diabetes means diabetes mellitus consisting of two types. Type 1 is an autoimmune disease that destroys the beta cells of the pancreas, leading to insulin deficiency. Type 2 is familial hyperglycemia that occurs primarily in adults but can also occur in children and adolescents. It is caused by an insulin resistance whose etiology is multiple and not totally understood. Gestational diabetes is any degree of glucose intolerance with onset or first recognition during pregnancy. The diagnostic criterion for a diagnosis of diabetes for a fasting glucose intolerance test is greater than or equal to 126 mg/dL.

C. Outpatient Therapy Services Performed “Incident To” Physicians' Services—Discussion Only

In almost all settings, our policy provides that outpatient therapy services can be delivered only by physical therapists, occupational therapists, physical therapy assistants, occupational therapy assistants, and speech and language pathologists as defined by our regulations at § 484.4. While there are currently no national standards for qualifications of individuals providing outpatient therapy services incident to physicians' services, we believe that standards similar to those in § 484.4 are appropriate. Section 1862(a)(20) of the Act requires that any therapy services furnished incident to a physician's professional services must meet the standards and conditions that would apply to such therapy services if they were furnished by a therapist, with the exception of the licensing requirement.

The OIG conducted a study in March of 1994 (OEI-02-09-00590) which revealed that 78 percent of “incident to” physical therapy services did represent therapy services covered under Medicare (that is, reasonable and necessary as defined in section 1862(a)(1)(A) of the Act). The study also questioned the training of staff providing these services. Also, in 2002 we contracted for a report on the utilization of therapy services. The text of that report is available at www.cms.hhs.gov/medlearn/therapy under Research Tools for Specific Therapy Topics, DynCorp Report—Outpatient Therapy Utilization September 2002. The study found that 25 percent of the beneficiaries in 2000 were treated in the offices of physicians and nonphysician practitioners. There is currently no process to ensure the quality of the services provided in those settings.

The pending implementation of financial limitations on outpatient therapy services emphasizes the need to define the qualifications of those providing therapy services. The limited therapy services covered by Medicare must be provided by people who meet qualifications needed to render skilled services.

In order to conform to section 1862(a)(20) of the Act, we are considering adopting the existing qualification and training standards (with the exception of licensure) in § 484.4 for individuals providing therapy services independently and incident to physicians' services. We are not proposing a change at this time, but are interested in receiving comments from the public, particularly physicians and staff who would be affected, on adoption of the existing standards in § 484.4, to services of independent therapists and “incident to” services as well as alternatives that we might use to ensure that qualified staff are providing “incident to” therapy services. These comments would assist us in the development of any future proposal concerning this issue.

D. Status of Anesthesia Work and Five-Year Review

In the December 2002 final rule, we modestly increased the work of anesthesia services. These changes were based on the analysis submitted by the RUC of its review of the work of 19 high-volume anesthesia codes. The RUC had provided us with its analysis but did not furnish us with a definitive recommendation. The increase in anesthesia work resulted in an increase in the national anesthesia conversion factor. (We increased the physician work component of the anesthesia conversion factor by 2.10 percent to reflect a 9.13 percent increase in anesthesia work applied to 23 percent of anesthesia allowed charges represented by the 19 codes. We applied a 1.6 percent increase to the anesthesia CF.)

The American Society of Anesthesiologists expressed concerns about the completeness of the review of anesthesia under the five-year review, and, in February 2003, we asked the RUC to continue its review of anesthesia work values; we expected to develop a final recommendation for a change in the anesthesia CF involving all anesthesia codes. We asked that the RUC complete this analysis in 2003. The RUC is considering our request and will respond to us about what action they plan to take on this issue.

E. Payment Policies for Anesthesia Services

Currently there are different payment policies for teaching anesthesiologists and teaching certified registered nurse anesthetists (CRNAs). We are seeking comments on the appropriateness of applying the CRNA teaching/resident policy to teaching anesthesiologists.

F. Technical Correction

CPT Code 96155 (Health and behavior intervention, each 15 minutes, face-to-face; family (without the patient present)).

This code describes a visit with a patient's family without the patient being present and was first included in the November 1, 2001 final rule. It was incorrectly listed as an active code for which payment could be made under the physician fee schedule. Our longstanding payment policy is that we do not pay for visits with family where the patient is not present. Payment for such visits is included in the pre- and post-service work of a visit where the patient is present. Consistent with this policy, this code is non-payable under the physician fee schedule.

IV. Collection of Information Requirements

This document does not impose information collection and recordkeeping requirements. Consequently, it need not be reviewed by the Office of Management and Budget under the authority of the Paperwork Reduction Act of 1995.

V. Response to Comments

Because of the large number of items of correspondence we normally receive on Federal Register documents published for comment, we are not able to acknowledge or respond to them individually. We will consider all comments we receive by the date and time specified in the “DATES” section of this preamble, and, if we proceed with a subsequent document, we will respond to the major comments in the preamble to that document.

VI. Regulatory Impact Analysis

We have examined the impact of this rule as required by Executive Order 12866 (September 1993, Regulatory Planning and Review), the Regulatory Flexibility Act (RFA) (September 16, 1980 Pub. L. 96-354), section 1102(b) of the Social Security Act, the Unfunded Mandates Reform Act of 1995 (Pub. L. 104-4), and Executive Order 13132.

Executive Order 12866 directs agencies to assess all costs and benefits of available regulatory alternatives and, when regulation is necessary, to select regulatory approaches that maximize net benefits (including potential economic, environmental, public health and safety effects, distributive impacts, and equity). A regulatory impact analysis must be prepared for proposed rules with economically significant effects (that is, a proposed rule that would have an annual effect on the economy of $100 million or more in any 1 year, or would adversely affect in a material way the economy, a sector of the economy, productivity, competition, jobs, the environment, public health or safety, or State, local, or tribal governments or communities). We have simulated the effect of the proposed changes to the practice expense RVUs described earlier. The net effect of the changes we are proposing will not materially increase or decrease Medicare expenditures for physicians' services because the statute requires that changes to RVUs cannot increase or decrease expenditures more than $20 million. Since increases in payments resulting from RVU changes must be offset by decreases in payments for other services, the proposed practice expense changes will result in a redistribution of payments among physician specialties. The RVU changes in this proposed rule have an estimated aggregate redistributive effect of approximately $190 million dollars. (Tables 11 and 12 which appear later in this section reflect the estimated specialty impacts.) Therefore, we are considering this proposed rule to be a major rule because it is economically significant, and, thus, we have prepared a regulatory impact analysis.

The RFA requires that we analyze regulatory options for small businesses and other entities. We prepare a Regulatory Flexibility Analysis unless we certify that a rule would not have a significant economic impact on a substantial number of small entities. The analysis must include a justification concerning the reason action is being taken, the kinds and number of small entities the rule affects, and an explanation of any meaningful options that achieve the objectives and less significant adverse economic impact on the small entities.

Section 1102(b) of the Act requires us to prepare a regulatory impact analysis for any proposed rule that may have a significant impact on the operations of a substantial number of small rural hospitals. This analysis must conform to the provisions of section 603 of the RFA. For purposes of section 1102(b) of the Act, we define a small rural hospital as a hospital that is located outside a Metropolitan Statistical Area and has fewer than 100 beds.

For purposes of the RFA, physicians, nonphysicians, and suppliers are considered small businesses if they generate revenues of $6 million or less. Approximately 95 percent of physicians (except mental health specialists) are considered to be small entities. There are about 700,000 physicians, other practitioners and medical suppliers that receive Medicare payment under the physician fee schedule. The analysis and discussion provided in this section as well as elsewhere in this proposed rule is intended to comply with the RFA requirements.

Section 202 of the Unfunded Mandates Reform Act of 1995 also requires that agencies assess anticipated costs and benefits before issuing any rule that may result in expenditure in any 1 year by State, local, or tribal governments, in the aggregate, or by the private sector, of $110 million. This proposed rule would not impose unfunded mandates on State, local, or tribal governments, or on the private sector of more than $110 million dollars.

We have examined this proposed rule in accordance with Executive Order 13132 and have determined that this regulation would not have any significant impact on the rights, roles, or responsibilities of State, local, or tribal governments.

We have prepared the following analysis, which together with the rest of this preamble, meets all assessment requirements. It explains the rationale for, and purposes of, the rule, details the costs and benefits of the rule, analyzes alternatives, and presents the measures we propose to use to minimize the burden on small entities. As indicated elsewhere in this proposed rule, we propose to make changes to the Medicare Economic Index, refine resource-based practice based practice expense RVUs and make a variety of other minor changes to our regulations, payments or payment policy to ensure that our payment systems are updated to reflect changes in medical practice and the relative value of services. We provide information for each of the proposed policy changes in the relevant sections in this proposed rule. As discussed elsewhere in this proposed rule, the provisions of this proposed rule, if adopted, would only change Medicare payment rates for physician fee schedule services. While this rule would revise the definition of diabetes for the purposes of outpatient diabetes self-management training, it does not impose reporting, record-keeping and other compliance requirements. We are unaware of any relevant Federal rules that duplicate, overlap or conflict with this proposed rule. The relevant sections of this proposed rule contain a description of significant alternatives.

A. Resource-Based Practice Expense Relative Value Units

Under section 1848(c)(2) of the Act, adjustments to RVUs may not cause the amount of expenditures to differ by more than $20 million from the amount of expenditures that would have resulted without such adjustments. We are proposing several changes that would result in a change of expenditures that would exceed $20 million if we made no offsetting adjustments to either the conversion factor or RVUs.

With respect to practice expense, our policy has been to meet the budget neutrality requirements in the statute by incorporating a rescaling adjustment in the practice expense methodology. That is, we estimate the aggregate number of practice expense relative values that will be paid under current and proposed policy in CY 2004. We apply a uniform adjustment factor to make the aggregate number of proposed practice expense relative values equal the number estimated that would be paid under current policy.

Table 11 shows the specialty level impact on payment of changes being proposed for CY 2004. The payment impacts reflect averages for each specialty based on Medicare utilization. The payment impact for an individual physician would be different from the average, based on the mix of services the physician provides. The average change in total revenues would be less than the impact displayed here since physicians furnish services to both Medicare and non-Medicare patients and specialties may receive substantial Medicare revenues for services that are not paid under the physician fee schedule. For instance, independent laboratories receive more than 80 percent of their Medicare revenues from clinical laboratory services that are not paid under the physician fee schedules. The table shows only the payment impact on physician fee schedule services.

We modeled the impact of four changes to the practice expense methodology and illustrated the effect in table 11 below. The column labeled “Utilization Data” shows the effect of updating the practice expense methodology to add 2002 utilization data for codes that did not exist in the 1997-2000 period. In general, updating the methodology with the latest utilization data will have the largest impact on payment for a new service where a code was established in 2002. In some cases, the practice expense RVU will increase (for example, 64561—Implant Neuroelectrodes and 52001, Cystoscopy Removal of Clots). In other cases, they will go down (96567—photodynamic treatment skin and G0249—Providing test materials and equipment for home INR Monitoring, 77418—Radiation Treatment Delivery—Intensity Modulated Radiation). For most specialties, new codes represent a small proportion of the specialties' revenues and updating the practice expense RVUs with utilization will have little impact on payment across all of the services the specialty provides. However, updating the practice expense methodology with the 2002 utilization data will reduce payment to radiation oncologists by approximately 1 percent. The payment reduction occurs because the practice expense RVUs for radiotherapy dose planning and radiation treatment by intensity modulated radiation are going down. Because this service represents 8 percent of Medicare revenues to radiation oncology in 2002, there is a somewhat larger impact on this specialty than will generally occur for most specialties.

The column labeled “Practice Expense Refinements” shows the impact on payment from proposed refinements to the practice expense RVUs. In general, the largest impact of the refinements is occurring to surgical procedures with 10 and 90-day global periods. Most of the impacts on these procedures will occur because of the standardization of the intra and post period time for clinical staff. There are also modest impacts on some specialties in the non-facility practice expense RVUs from the refinements to clinical staff and medical supplies. Orthopedic surgery and hand surgery will experience an approximate reduction of 2 percent from the practice expense refinements while payments to otolaryngology will increase by nearly 2 percent. There will be more modest payment increases or decreases for all other specialties from the practice expense refinements.

The column labeled “Maxillofacial Prosthetics” shows the impact on payment from changing the specialty practice expense per hour crosswalk for oral surgery (specialty 19) and maxillofacial surgery (specialty 85) to otolaryngology. Payments to these specialties will increase from this change and there will be virtually no impact on payment to any other specialty.

As indicated earlier, we are also adding clinical staff time to the professional component of several cardiac catheterization services increasing payments for these services by a small amount. The proposed change will cause minor payment reductions for a few other cardiology services. All other services are unaffected by this proposal. The column labeled “Professional Component of a Diagnostic Test” shows the payment impact of the proposed change.

The column labeled “Total” in table 11 below shows the payment impact by specialty of all the changes described above. If we change any of these proposals following our consideration of comments, these figures may change.

BILLING CODE 4120-01-P

The statutory methodology for updating physician fee schedule conversion factor is specified in section 1848(d)(4) of the Act. Consistent with the requirements of section 1848(d)(1)(E) of the Act, we made an estimate of the physician fee schedule update for CY 2004 available to the Medicare Payment Advisory Commission (MedPAC) and the public in March of this year. Using our point estimate of −4.2 percent, on table 12, we are showing the estimated change in average payments by specialty based on provisions of this proposed rule and the estimated physician fee schedule update. As indicated above, figures will change if we change any of our proposals following consideration of public comment. Further, we believe it is highly likely that our estimate of the 2004 physician fee schedule update will change before we determine the final figure later this year.

BILLING CODE 4120-01-P

Table 13 shows the impact on payments for selected high volume procedures of all of the changes previously discussed. This table shows the combined impact of the change in the practice expense RVUs and the estimated physician fee schedule update on total payment for the procedure. There are separate columns that show the change in the facility rates and the non-facility rates. For an explanation of facility and non-facility practice expense refer to § 414.22(b)(5)(i). The table shows the estimated change in payment rates based on provisions of this proposed rule and the estimated physician fee schedule update. If we change any of the provisions following the consideration of public comments, these figures may change. Further, the payment amounts shown for 2003 will change once we determine the final figure for the physician fee schedule update.

BILLING CODE 4120-01-C

B. Geographic Practice Cost Indices

As discussed in section II.B., we are proposing to revise the malpractice GPCIs based upon actual 2001 and 2002 malpractice premium data and projected 2003 malpractice premium data. Data collection is not yet complete therefore we were unable to include the proposed malpractice GPCIs in this proposed rule. The revised malpractice GPCIs in the final rule will be subject to public comment. Any changes in the GPCIs will redistribute payments among geographic areas and will not increase or decrease Medicare expenditures. Because the malpractice RVUs only represent 3.9 percent on total payments on average across all physician fee schedule services, we expect any payment impact to be modest. We will illustrate the change in the GPCIs from use of the new malpractice data in the final rule.

C. Tracking Codes

We are proposing a change in policy that will allow CMS to create national payment policy and determine national payment amounts for CPT tracking codes regardless of whether a national coverage determination for a specific service has been made. This proposal will have no effect on Medicare expenditures but will allow for more flexibility in determining payment rates for new services.

D. Excision of Lesions

We are proposing to make the work RVUs the same for removal of benign and malignant skin lesions that have the same excised diameters that are from similar locations (for example, torso, arms, and legs). This would result in minor redistribution in payment of these services. Any impact on payment from this proposal is included in the specialty and code level impacts shown above.

E. G Codes for Monitoring Heart Rhythms

As discussed earlier, we are creating several HCPCS G codes and establishing national payment for new technology services that allow patients with cardiac arrhythmias to be monitored in a home setting. Currently, Medicare is making payment for these services under CPT code 93799, Unlisted cardiovascular procedure or service. Medicare carriers make local payment determinations for unlisted procedure codes. Our proposal will have no impact on Medicare payment for these services since national payment will replace local carrier payment.

F. G Codes for Managing Dialysis Patients

As we previously discussed in section II.C., we have reviewed our current payment policy for the monthly dialysis capitation payment in response to concerns that have been raised over whether our payment policy is consistent with current medical practice. We are proposing new G codes for these services that would allow us to align the payment incentives to match the frequency of the physician personally evaluating the dialysis patient. We believe that this restructuring of payment will assist in assuring that beneficiaries with ESRD receive the highest quality dialysis care available as the proposed codes provide for reimbursement for physician involvement that is consistent with the needs of the patient in any specific month. Our proposal will not increase or decrease Medicare payments for treatment of dialysis patients. We are decreasing our current payment to the physician for providing fewer than four visits per month. If the physician provides four or more visits per month, we are increasing our current payment.

G. Rebasing and Revising the MEI

As indicated in section III.A. of this proposed rule, we are proposing to rebase and revise the MEI for the CY 2004 physician fee schedule. Substituting the 2000 MEI weights in place of the 1996 weights currently in use will increase the MEI by approximately 0.1 percent for 2004. Based on our current estimates, we expect no impact from this proposal on any subsequent year MEI.

H. Definition of Diabetes for Diabetes Self-Management Training

We are proposing to revise the definition of diabetes for purposes of the Outpatient Diabetes Self-Management Training benefit and use the definition established to determine beneficiary eligibility for Medical Nutrition Therapy when the beneficiary has a diagnosis of diabetes. The streamlining of the beneficiary eligibility requirements for Outpatient Diabetes Self-Management Training will reduce administrative burden for the referring physician or qualified non-physician practitioner and for the accredited Outpatient Diabetes Self-Management Training programs by simplifying documentation requirements and eliminating the need for reconsiderations and appeals to clarify that the requirements have been met. As indicated in the February 28, 2003 Federal Register (68 FR 9572), we incorporated an adjustment to the SGR consistent with our original estimates of expenditures associated with this new benefit. Our experience is that expenditures have been less than originally estimated. We expect that simplifying administrative requirements associated with this new benefit will make it more likely that expenditures for diabetes self-management training will be consistent with original estimates and there will be no increase in Medicare expenditures from making these modifications.

I. Alternatives Considered

This proposed rule contains a range of policies. The preamble identifies those policies when discretion has been exercised and presents rationale for our decisions, including a presentation of nonselected options.

J. Impact on Beneficiaries

Although changes in physicians' payments were large when the physician fee schedule was implemented in 1992, we detected no problems with beneficiary access to care. We do not believe that there would be any problem with access to care as a result of the proposed changes in this rule. While it has been suggested that the negative update for 2004 may affect beneficiary access to care, we note that the formula to determine this update is set by statute and this regulation cannot, and does not, change it. Furthermore, since beginning our transition to a resource-based practice expense system in CY 1999, we have not found that there are problems with beneficiary access to care.

In accordance with the provisions of Executive Order 12866, this regulation was reviewed by the Office of Management and Budget.

List of Subjects

42 CFR Part 410

Health facilities, Health professions, Kidney diseases, Laboratories, Medicare, Rural areas, X-rays.

42 CFR Part 414

Administrative practice and procedure, Health facilities, Health professions, Kidney diseases, Medicare, Reporting and recordkeeping requirements, Rural areas, X-rays.

For the reasons set forth in the preamble, the Centers for Medicare & Medicaid Services proposes to amend 42 CFR chapter IV as follows:

PART 410—SUPPLEMENTARY MEDICAL INSURANCE (SMI) BENEFITS

1. The authority citation for part 410 continues to read as follows:

Authority: Secs. 1102 and 1871 of the Social Security Act (42 U.S.C. 1302 and 1395hh).

2. Section 410.140 is amended by adding the definition of “Diabetes” to read as follows:

§ 410.140 Definitions.

* * * * *

Diabetes means diabetes mellitus consisting of two types. Type 1 is an autoimmune disease that destroys the beta cells of the pancreas, leading to insulin deficiency. Type 2 is familial hyperglycemia that occurs primarily in adults but can also occur in children and adolescents. It is caused by an insulin resistance whose etiology is multiple and not totally understood. Gestational diabetes is any degree of glucose intolerance with onset or first recognition during pregnancy. The diagnostic criterion for a diagnosis of diabetes for a fasting glucose intolerance test is greater than or equal to 126 mg/dL.

* * * * *

3. Section 410.141 is amended by adding paragraph (f) to read as follows:

§ 410.141 Outpatient diabetes self-management training.

* * * * *

(f) Beneficiaries who may be covered. Medicare Part B covers outpatient diabetes self-management training for a beneficiary who has been diagnosed with diabetes.

* * * * *

PART 414—PAYMENT FOR PART B MEDICAL AND OTHER HEALTH SERVICES

1. The authority citation for part 414 continues to read as follows:

Authority: Secs. 1102, 1871, and 1881(b)(1) of the Social Security Act (42 U.S.C. 1302, 1395hh, and 1395rr(b)(1)).

2. Section 414.22(b)(6)(iii) is revised to read as follows:

§ 414.22 Relative value units.

* * * * *

(b) * * *

(6) * * *

(iii) CMS will consider for use in determining practice expense RVUs for the physician fee schedule survey data and related materials submitted to CMS by March 1, 2004 to determine CY 2005 practice expense RVUs.

* * * * *

(Catalog of Federal Domestic Assistance Program No. 93.774, Medicare—Supplementary Medical Insurance Program)

Dated: June 20, 2003.
Thomas A Scully,
Administrator, Centers for Medicare & Medicaid Services.

Approved: July 22, 2003.
Tommy G. Thompson,
Secretary.

Addendum A—Explanation and Use of Addenda B

The addenda on the following pages provide various data pertaining to the Medicare fee schedule for physicians' services furnished in 2003. Addendum B contains the RVUs for work, non-facility practice expense, facility practice expense, and malpractice expense, and other information for all services included in the physician fee schedule.

In previous years, we have listed many services in Addendum B that are not paid under the physician fee schedule. To avoid publishing as many pages of codes for these services, we are not including clinical laboratory codes and most alpha-numeric codes (Healthcare Common Procedure Coding System (HCPCS) codes not included in CPT) in Addendum B.

Addendum B—2003 Relative Value Units and Related Information Used in Determining Medicare Payments for 2003

This addendum contains the following information for each CPT code and alphanumeric HCPCS code, except for alphanumeric codes beginning with B (enteral and parenteral therapy), E (durable medical equipment), K (temporary codes for nonphysicians' services or items), or L (orthotics), and codes for anesthesiology.

1. CPT/HCPCS code. This is the CPT or alphanumeric HCPCS number for the service. Alphanumeric HCPCS codes are included at the end of this addendum.

2. Modifier. A modifier is shown if there is a technical component (modifier TC) and a professional component (PC) (modifier -26) for the service. If there is a PC and a TC for the service, Addendum B contains three entries for the code: One for the global values (both professional and technical); one for modifier -26 (PC); and one for modifier TC. The global service is not designated by a modifier, and physicians must bill using the code without a modifier if the physician furnishes both the PC and the TC of the service.

Modifier -53 is shown for a discontinued procedure. There will be RVUs for the code (CPT code 45378) with this modifier.

3. Status indicator. This indicator shows whether the CPT/HCPCS code is in the physician fee schedule and whether it is separately payable if the service is covered.

A = Active code. These codes are separately payable under the fee schedule if covered. There will be RVUs for codes with this status. The presence of an “A” indicator does not mean that Medicare has made a national decision regarding the coverage of the service. Carriers remain responsible for coverage decisions in the absence of a national Medicare policy.

B = Bundled code. Payment for covered services is always bundled into payment for other services not specified. If RVUs are shown, they are not used for Medicare payment. If these services are covered, payment for them is subsumed by the payment for the services to which they are incident. (An example is a telephone call from a hospital nurse regarding care of a patient.)

C = Carrier-priced code. Carriers will establish RVUs and payment amounts for these services, generally on a case-by-case basis following review of documentation, such as an operative report.

D = Deleted code. These codes are deleted effective with the beginning of the calendar year.

E = Excluded from physician fee schedule by regulation. These codes are for items or services that we chose to exclude from the physician fee schedule payment by regulation. No RVUs are shown, and no payment may be made under the physician fee schedule for these codes. Payment for them, if they are covered, continues under reasonable charge or other payment procedures.

F = Deleted/discontinued codes. Code not subject to a 90-day grace period.

G = Code not valid for Medicare purposes. Medicare does not recognize codes assigned this status. Medicare uses another code for reporting of, and payment for, these services.

H = Deleted modifier. Either the TC or PC component shown for the code has been deleted, and the deleted component is shown in the data base with the H status indicator. (Code subject to a 90-day grace period.)

I = Not valid for Medicare purposes. Medicare uses another code for the reporting of, and the payment for these services. (Code NOT subject to a 90-day grace period.)

N = Noncovered service. These codes are noncovered services. Medicare payment may not be made for these codes. If RVUs are shown, they are not used for Medicare payment.

P = Bundled or excluded code. There are no RVUs for these services. No separate payment should be made for them under the physician fee schedule.

— If the item or service is covered as incident to a physician's service and is furnished on the same day as a physician's service, payment for it is bundled into the payment for the physician's service to which it is incident (an example is an elastic bandage furnished by a physician incident to a physician's service).

— If the item or service is covered as other than incident to a physician's service, it is excluded from the physician fee schedule (for example, colostomy supplies) and is paid under the other payment provisions of the Act.

R = Restricted coverage. Special coverage instructions apply. If the service is covered and no RVUs are shown, it is carrier-priced.

T = Injections. There are RVUs for these services, but they are only paid if there are no other services payable under the physician fee schedule billed on the same date by the same provider. If any other services payable under the physician fee schedule are billed on the same date by the same provider, these services are bundled into the service(s) for which payment is made.

X = Exclusion by law. These codes represent an item or service that is not within the definition of “physicians’ services” for physician fee schedule payment purposes. No RVUs are shown for these codes, and no payment may be made under the physician fee schedule. (Examples are ambulance services and clinical diagnostic laboratory services.)

4. Description of code. This is an abbreviated version of the narrative description of the code.

5. Physician work RVUs. These are the RVUs for the physician work for this service in 2003. Codes that are not used for Medicare payment are identified with a “+.”

6. Facility practice expense RVUs. These are the fully implemented resource-based practice expense RVUs for facility settings.

7. Non-facility practice expense RVUs. These are the fully implemented resource-based practice expense RVUs for non-facility settings.

8. Malpractice expense RVUs. These are the RVUs for the malpractice expense for the service for 2003.

9. Facility total. This is the sum of the work, fully implemented facility practice expense, and malpractice expense RVUs.

10. Non-facility total. This is the sum of the work, fully implemented non-facility practice expense, and malpractice expense RVUs.

11. Global period. This indicator shows the number of days in the global period for the code (0, 10, or 90 days). An explanation of the alpha codes follows:

MMM = The code describes a service furnished in uncomplicated maternity cases including antepartum care, delivery, and postpartum care. The usual global surgical concept does not apply. See the 1999 Physicians' Current Procedural Terminology for specific definitions.

XXX = The global concept does not apply.

YYY = The global period is to be set by the carrier (for example, unlisted surgery codes).

ZZZ = Code related to another service that is always included in the global period of the other service. (Note: Physician work and practice expense are associated with intra service time and in some instances the post service time.)

——————————

¹ CPT codes and descriptions only are copyright American Medical Association. All Rights Reserved. Applicable FARS/DFARS Apply.

² Copyright American Dental Association. All rights reserved.

Addendum B.—Relative Value Units (RVUS) and Related Information
¹ CPT/² HCPCS | MOD | Status | Description | Physician work RVUs | Non- facility PE RVUs | Facility PE RVUs | Malpractice RVUs | Non- facility total | Facility total | Global
0001T |  | C | Endovas repr abdo ao aneurys | 0.00 | 0.00 | 0.00 | 0.00 | 0.00 | 0.00 | XXX
0002T |  | C | Endovas repr abdo ao aneurys | 0.00 | 0.00 | 0.00 | 0.00 | 0.00 | 0.00 | XXX
0003T |  | C | Cervicography | 0.00 | 0.00 | 0.00 | 0.00 | 0.00 | 0.00 | XXX
0005T |  | C | Perc cath stent/brain cv art | 0.00 | 0.00 | 0.00 | 0.00 | 0.00 | 0.00 | XXX
0006T |  | C | Perc cath stent/brain cv art | 0.00 | 0.00 | 0.00 | 0.00 | 0.00 | 0.00 | XXX
0007T |  | C | Perc cath stent/brain cv art | 0.00 | 0.00 | 0.00 | 0.00 | 0.00 | 0.00 | XXX
0008T |  | C | Upper gi endoscopy w/suture | 0.00 | 0.00 | 0.00 | 0.00 | 0.00 | 0.00 | XXX
0009T |  | C | Endometrial cryoablation | 0.00 | 0.00 | 0.00 | 0.00 | 0.00 | 0.00 | XXX
0010T |  | C | Tb test, gamma interferon | 0.00 | 0.00 | 0.00 | 0.00 | 0.00 | 0.00 | XXX
0012T |  | C | Osteochondral knee autograft | 0.00 | 0.00 | 0.00 | 0.00 | 0.00 | 0.00 | XXX
0013T |  | C | Osteochondral knee allograft | 0.00 | 0.00 | 0.00 | 0.00 | 0.00 | 0.00 | XXX
0014T |  | C | Meniscal transplant, knee | 0.00 | 0.00 | 0.00 | 0.00 | 0.00 | 0.00 | XXX
0016T |  | C | Thermotx choroid vasc lesion | 0.00 | 0.00 | 0.00 | 0.00 | 0.00 | 0.00 | XXX
0017T |  | C | Photocoagulat macular drusen | 0.00 | 0.00 | 0.00 | 0.00 | 0.00 | 0.00 | XXX
0018T |  | C | Transcranial magnetic stimul | 0.00 | 0.00 | 0.00 | 0.00 | 0.00 | 0.00 | XXX
0019T |  | I | Extracorp shock wave tx, ms | 0.00 | 0.00 | 0.00 | 0.00 | 0.00 | 0.00 | XXX
0020T |  | C | Extracorp shock wave tx, ft | 0.00 | 0.00 | 0.00 | 0.00 | 0.00 | 0.00 | XXX
0021T |  | C | Fetal oximetry, trnsvag/cerv | 0.00 | 0.00 | 0.00 | 0.00 | 0.00 | 0.00 | XXX
0023T |  | C | Phenotype drug test, hiv 1 | 0.00 | 0.00 | 0.00 | 0.00 | 0.00 | 0.00 | XXX
0024T |  | C | Transcath cardiac reduction | 0.00 | 0.00 | 0.00 | 0.00 | 0.00 | 0.00 | XXX
0025T |  | C | Ultrasonic pachymetry | 0.00 | 0.00 | 0.00 | 0.00 | 0.00 | 0.00 | XXX
0026T |  | C | Measure remnant lipoproteins | 0.00 | 0.00 | 0.00 | 0.00 | 0.00 | 0.00 | XXX
0027T |  | C | Endoscopic epidural lysis | 0.00 | 0.00 | 0.00 | 0.00 | 0.00 | 0.00 | XXX
0028T |  | C | Dexa body composition study | 0.00 | 0.00 | 0.00 | 0.00 | 0.00 | 0.00 | XXX
0029T |  | C | Magnetic tx for incontinence | 0.00 | 0.00 | 0.00 | 0.00 | 0.00 | 0.00 | XXX
0030T |  | C | Antiprothrombin antibody | 0.00 | 0.00 | 0.00 | 0.00 | 0.00 | 0.00 | XXX
0031T |  | C | Speculoscopy | 0.00 | 0.00 | 0.00 | 0.00 | 0.00 | 0.00 | XXX
0032T |  | C | Speculoscopy w/direct sample | 0.00 | 0.00 | 0.00 | 0.00 | 0.00 | 0.00 | XXX
0033T |  | C | Endovasc taa repr incl subcl | 0.00 | 0.00 | 0.00 | 0.00 | 0.00 | 0.00 | XXX
0034T |  | C | Endovasc taa repr w/o subcl | 0.00 | 0.00 | 0.00 | 0.00 | 0.00 | 0.00 | XXX
0035T |  | C | Insert endovasc prosth, taa | 0.00 | 0.00 | 0.00 | 0.00 | 0.00 | 0.00 | XXX
0036T |  | C | Endovasc prosth, taa, add-on | 0.00 | 0.00 | 0.00 | 0.00 | 0.00 | 0.00 | XXX
0037T |  | C | Artery transpose/endovas taa | 0.00 | 0.00 | 0.00 | 0.00 | 0.00 | 0.00 | XXX
0038T |  | C | Rad endovasc taa rpr w/cover | 0.00 | 0.00 | 0.00 | 0.00 | 0.00 | 0.00 | XXX
0039T |  | C | Rad s/i, endovasc taa repair | 0.00 | 0.00 | 0.00 | 0.00 | 0.00 | 0.00 | XXX
0040T |  | C | Rad s/i, endovasc taa prosth | 0.00 | 0.00 | 0.00 | 0.00 | 0.00 | 0.00 | XXX
0041T |  | C | Detect ur infect agnt w/cpas | 0.00 | 0.00 | 0.00 | 0.00 | 0.00 | 0.00 | XXX
0042T |  | C | Ct perfusion w/contrast, cbf | 0.00 | 0.00 | 0.00 | 0.00 | 0.00 | 0.00 | XXX
0043T |  | C | Co expired gas analysis | 0.00 | 0.00 | 0.00 | 0.00 | 0.00 | 0.00 | XXX
0044T |  | C | Whole body photography | 0.00 | 0.00 | 0.00 | 0.00 | 0.00 | 0.00 | XXX
10021 |  | A | Fna w/o image | 1.27 | 2.24 | 0.55 | 0.07 | 3.58 | 1.89 | XXX
10022 |  | A | Fna w/image | 1.27 | 2.67 | 0.43 | 0.05 | 3.99 | 1.75 | XXX
10040 |  | A | Acne surgery | 1.18 | 1.03 | 0.69 | 0.05 | 2.26 | 1.92 | 010
10060 |  | A | Drainage of skin abscess | 1.17 | 0.97 | 0.48 | 0.08 | 2.22 | 1.73 | 010
10061 |  | A | Drainage of skin abscess | 2.40 | 1.85 | 1.54 | 0.17 | 4.42 | 4.11 | 010
10080 |  | A | Drainage of pilonidal cyst | 1.17 | 3.11 | 1.17 | 0.09 | 4.37 | 2.43 | 010
10081 |  | A | Drainage of pilonidal cyst | 2.45 | 4.08 | 1.53 | 0.19 | 6.72 | 4.17 | 010
10120 |  | A | Remove foreign body | 1.22 | 1.50 | 0.42 | 0.10 | 2.82 | 1.74 | 010
10121 |  | A | Remove foreign body | 2.69 | 3.39 | 1.91 | 0.25 | 6.33 | 4.85 | 010
10140 |  | A | Drainage of hematoma/fluid | 1.53 | 1.54 | 0.92 | 0.15 | 3.22 | 2.60 | 010
10160 |  | A | Puncture drainage of lesion | 1.20 | 0.74 | 0.47 | 0.11 | 2.05 | 1.78 | 010
10180 |  | A | Complex drainage, wound | 2.25 | 3.28 | 2.10 | 0.25 | 5.78 | 4.60 | 010
11000 |  | A | Debride infected skin | 0.60 | 0.58 | 0.22 | 0.05 | 1.23 | 0.87 | 000
11001 |  | A | Debride infected skin add-on | 0.30 | 0.23 | 0.11 | 0.02 | 0.55 | 0.43 | ZZZ
11010 |  | A | Debride skin, fx | 4.20 | 6.85 | 2.37 | 0.45 | 11.50 | 7.02 | 010
11011 |  | A | Debride skin/muscle, fx | 4.95 | 8.17 | 2.41 | 0.53 | 13.65 | 7.89 | 000
11012 |  | A | Debride skin/muscle/bone, fx | 6.88 | 12.07 | 3.93 | 0.89 | 19.84 | 11.70 | 000
11040 |  | A | Debride skin, partial | 0.50 | 0.54 | 0.21 | 0.05 | 1.09 | 0.76 | 000
11041 |  | A | Debride skin, full | 0.82 | 0.68 | 0.33 | 0.06 | 1.56 | 1.21 | 000
11042 |  | A | Debride skin/tissue | 1.12 | 1.01 | 0.47 | 0.09 | 2.22 | 1.68 | 000
11043 |  | A | Debride tissue/muscle | 2.38 | 3.52 | 2.64 | 0.24 | 6.14 | 5.26 | 010
11044 |  | A | Debride tissue/muscle/bone | 3.06 | 4.64 | 3.81 | 0.34 | 8.04 | 7.21 | 010
11055 |  | R | Trim skin lesion | 0.43 | 0.58 | 0.17 | 0.02 | 1.03 | 0.62 | 000
11056 |  | R | Trim skin lesions, 2 to 4 | 0.61 | 0.66 | 0.24 | 0.03 | 1.30 | 0.88 | 000
11057 |  | R | Trim skin lesions, over 4 | 0.79 | 0.76 | 0.31 | 0.04 | 1.59 | 1.14 | 000
11100 |  | A | Biopsy of skin lesion | 0.81 | 1.29 | 0.37 | 0.04 | 2.14 | 1.22 | 000
11101 |  | A | Biopsy, skin add-on | 0.41 | 0.34 | 0.19 | 0.02 | 0.77 | 0.62 | ZZZ
11200 |  | A | Removal of skin tags | 0.77 | 1.08 | 0.78 | 0.04 | 1.89 | 1.59 | 010
11201 |  | A | Remove skin tags add-on | 0.29 | 0.16 | 0.12 | 0.02 | 0.47 | 0.43 | ZZZ
11300 |  | A | Shave skin lesion | 0.51 | 1.03 | 0.22 | 0.03 | 1.57 | 0.76 | 000
11301 |  | A | Shave skin lesion | 0.85 | 1.15 | 0.39 | 0.04 | 2.04 | 1.28 | 000
11302 |  | A | Shave skin lesion | 1.05 | 1.34 | 0.47 | 0.05 | 2.44 | 1.57 | 000
11303 |  | A | Shave skin lesion | 1.24 | 1.63 | 0.53 | 0.06 | 2.93 | 1.83 | 000
11305 |  | A | Shave skin lesion | 0.67 | 0.86 | 0.27 | 0.04 | 1.57 | 0.98 | 000
11306 |  | A | Shave skin lesion | 0.99 | 1.13 | 0.43 | 0.05 | 2.17 | 1.47 | 000
11307 |  | A | Shave skin lesion | 1.14 | 1.32 | 0.50 | 0.05 | 2.51 | 1.69 | 000
11308 |  | A | Shave skin lesion | 1.41 | 1.48 | 0.61 | 0.07 | 2.96 | 2.09 | 000
11310 |  | A | Shave skin lesion | 0.73 | 1.16 | 0.33 | 0.04 | 1.93 | 1.10 | 000
11311 |  | A | Shave skin lesion | 1.05 | 1.27 | 0.50 | 0.05 | 2.37 | 1.60 | 000
11312 |  | A | Shave skin lesion | 1.20 | 1.47 | 0.57 | 0.06 | 2.73 | 1.83 | 000
11313 |  | A | Shave skin lesion | 1.62 | 1.86 | 0.73 | 0.09 | 3.57 | 2.44 | 000
11400 |  | A | Exc tr-ext b9+marg 0.5 < cm | 0.93 | 2.10 | 0.94 | 0.06 | 3.09 | 1.93 | 010
11401 |  | A | Exc tr-ext b9+marg 0.6-1 cm | 1.44 | 2.22 | 1.12 | 0.09 | 3.75 | 2.65 | 010
11402 |  | A | Exc tr-ext b9+marg 1.1-2 cm | 1.72 | 2.39 | 1.19 | 0.12 | 4.23 | 3.03 | 010
11403 |  | A | Exc tr-ext b9+marg 2.1-3 cm | 1.97 | 2.55 | 1.42 | 0.16 | 4.68 | 3.55 | 010
11404 |  | A | Exc tr-ext b9+marg 3.1-4 cm | 2.21 | 2.86 | 1.48 | 0.18 | 5.25 | 3.87 | 010
11406 |  | A | Exc tr-ext b9+marg > 4.0 cm | 3.03 | 3.27 | 1.79 | 0.25 | 6.55 | 5.07 | 010
11420 |  | A | Exc h-f-nk-sp b9+marg 0.5 < | 1.01 | 1.83 | 0.96 | 0.08 | 2.92 | 2.05 | 010
11421 |  | A | Exc h-f-nk-sp b9+marg 0.6-1 | 1.55 | 2.19 | 1.19 | 0.11 | 3.85 | 2.85 | 010
11422 |  | A | Exc h-f-nk-sp b9+marg 1.1-2 | 1.84 | 2.42 | 1.45 | 0.14 | 4.40 | 3.43 | 010
11423 |  | A | Exc h-f-nk-sp b9+marg 2.1-3 | 2.28 | 2.78 | 1.59 | 0.17 | 5.23 | 4.04 | 010
11424 |  | A | Exc h-f-nk-sp b9+marg 3.1-4 | 2.72 | 3.01 | 1.75 | 0.21 | 5.94 | 4.68 | 010
11426 |  | A | Exc h-f-nk-sp b9+marg > 4 cm | 4.03 | 3.71 | 2.24 | 0.34 | 8.08 | 6.61 | 010
11440 |  | A | Exc face-mm b9+marg 0.5 < cm | 1.16 | 2.38 | 1.40 | 0.08 | 3.62 | 2.64 | 010
11441 |  | A | Exc face-mm b9+marg 0.6-1 cm | 1.89 | 2.64 | 1.72 | 0.11 | 4.64 | 3.72 | 010
11442 |  | A | Exc face-mm b9+marg 1.1-2 cm | 2.31 | 2.92 | 1.87 | 0.14 | 5.37 | 4.32 | 010
11443 |  | A | Exc face-mm b9+marg 2.1-3 cm | 2.86 | 3.30 | 2.11 | 0.18 | 6.34 | 5.15 | 010
11444 |  | A | Exc face-mm b9+marg 3.1-4 cm | 3.78 | 3.93 | 2.52 | 0.25 | 7.96 | 6.55 | 010
11446 |  | A | Exc face-mm b9+marg > 4 cm | 5.57 | 4.70 | 3.32 | 0.30 | 10.57 | 9.19 | 010
11450 |  | A | Removal, sweat gland lesion | 2.73 | 5.22 | 2.04 | 0.26 | 8.21 | 5.03 | 090
11451 |  | A | Removal, sweat gland lesion | 3.95 | 6.87 | 2.57 | 0.39 | 11.21 | 6.91 | 090
11462 |  | A | Removal, sweat gland lesion | 2.51 | 5.31 | 2.02 | 0.23 | 8.05 | 4.76 | 090
11463 |  | A | Removal, sweat gland lesion | 3.95 | 7.12 | 2.71 | 0.40 | 11.47 | 7.06 | 090
11470 |  | A | Removal, sweat gland lesion | 3.25 | 5.25 | 2.28 | 0.30 | 8.80 | 5.83 | 090
11471 |  | A | Removal, sweat gland lesion | 4.41 | 7.03 | 2.80 | 0.40 | 11.84 | 7.61 | 090
11600 |  | A | Exc tr-ext mlg+marg 0.5 < cm | 0.93 | 2.58 | 0.84 | 0.09 | 3.60 | 1.86 | 010
11601 |  | A | Exc tr-ext mlg+marg 0.6-1 cm | 1.44 | 2.63 | 1.10 | 0.12 | 4.19 | 2.66 | 010
11602 |  | A | Exc tr-ext mlg+marg 1.1-2 cm | 1.72 | 2.82 | 1.20 | 0.13 | 4.67 | 3.05 | 010
11603 |  | A | Exc tr-ext mlg+marg 2.1-3 cm | 1.97 | 3.08 | 1.27 | 0.16 | 5.21 | 3.40 | 010
11604 |  | A | Exc tr-ext mlg+marg 3.1-4 cm | 2.21 | 3.41 | 1.35 | 0.18 | 5.80 | 3.74 | 010
11606 |  | A | Exc tr-ext mlg+marg > 4 cm | 3.03 | 4.02 | 1.62 | 0.28 | 7.33 | 4.93 | 010
11620 |  | A | Exc h-f-nk-sp mlg+marg 0.5 < | 1.01 | 2.62 | 0.90 | 0.09 | 3.72 | 2.00 | 010
11621 |  | A | Exc h-f-nk-sp mlg+marg 0.6-1 | 1.55 | 2.70 | 1.18 | 0.12 | 4.37 | 2.85 | 010
11622 |  | A | Exc h-f-nk-sp mlg+marg 1.1-2 | 1.84 | 2.95 | 1.31 | 0.15 | 4.94 | 3.30 | 010
11623 |  | A | Exc h-f-nk-sp mlg+marg 2.1-3 | 2.28 | 3.30 | 1.48 | 0.20 | 5.78 | 3.96 | 010
11624 |  | A | Exc h-f-nk-sp mlg+marg 3.1-4 | 2.72 | 3.72 | 1.67 | 0.25 | 6.69 | 4.64 | 010
11626 |  | A | Exc h-f-nk-sp mlg+mar > 4 cm | 4.03 | 4.67 | 2.33 | 0.35 | 9.05 | 6.71 | 010
11640 |  | A | Exc face-mm malig+marg 0.5 < | 1.16 | 2.68 | 1.06 | 0.10 | 3.94 | 2.32 | 010
11641 |  | A | Exc face-mm malig+marg 0.6-1 | 1.89 | 3.01 | 1.44 | 0.15 | 5.05 | 3.48 | 010
11642 |  | A | Exc face-mm malig+marg 1.1-2 | 2.31 | 3.39 | 1.63 | 0.18 | 5.88 | 4.12 | 010
11643 |  | A | Exc face-mm malig+marg 2.1-3 | 2.86 | 3.82 | 1.89 | 0.24 | 6.92 | 4.99 | 010
11644 |  | A | Exc face-mm malig+marg 3.1-4 | 3.78 | 4.72 | 2.40 | 0.33 | 8.83 | 6.51 | 010
11646 |  | A | Exc face-mm mlg+marg > 4 cm | 5.57 | 5.76 | 3.38 | 0.46 | 11.79 | 9.41 | 010
11719 |  | R | Trim nail(s) | 0.17 | 0.25 | 0.07 | 0.01 | 0.43 | 0.25 | 000
11720 |  | A | Debride nail, 1-5 | 0.32 | 0.34 | 0.13 | 0.02 | 0.68 | 0.47 | 000
11721 |  | A | Debride nail, 6 or more | 0.54 | 0.44 | 0.21 | 0.04 | 1.02 | 0.79 | 000
11730 |  | A | Removal of nail plate | 1.13 | 1.05 | 0.44 | 0.09 | 2.27 | 1.66 | 000
11732 |  | A | Remove nail plate, add-on | 0.57 | 0.45 | 0.23 | 0.05 | 1.07 | 0.85 | ZZZ
11740 |  | A | Drain blood from under nail | 0.37 | 0.87 | 0.15 | 0.03 | 1.27 | 0.55 | 000
11750 |  | A | Removal of nail bed | 1.86 | 2.18 | 1.76 | 0.16 | 4.20 | 3.78 | 010
11752 |  | A | Remove nail bed/finger tip | 2.67 | 2.50 | 1.92 | 0.33 | 5.50 | 4.92 | 010
11755 |  | A | Biopsy, nail unit | 1.31 | 1.12 | 0.56 | 0.06 | 2.49 | 1.93 | 000
11760 |  | A | Repair of nail bed | 1.58 | 1.88 | 1.24 | 0.17 | 3.63 | 2.99 | 010
11762 |  | A | Reconstruction of nail bed | 2.89 | 2.32 | 1.86 | 0.32 | 5.53 | 5.07 | 010
11765 |  | A | Excision of nail fold, toe | 0.69 | 1.18 | 0.53 | 0.05 | 1.92 | 1.27 | 010
11770 |  | A | Removal of pilonidal lesion | 2.61 | 3.50 | 1.53 | 0.24 | 6.35 | 4.38 | 010
11771 |  | A | Removal of pilonidal lesion | 5.74 | 5.80 | 3.35 | 0.56 | 12.10 | 9.65 | 090
11772 |  | A | Removal of pilonidal lesion | 6.98 | 7.34 | 3.91 | 0.68 | 15.00 | 11.57 | 090
11900 |  | A | Injection into skin lesions | 0.52 | 0.67 | 0.22 | 0.02 | 1.21 | 0.76 | 000
11901 |  | A | Added skin lesions injection | 0.80 | 0.68 | 0.36 | 0.03 | 1.51 | 1.19 | 000
11920 |  | R | Correct skin color defects | 1.61 | 2.03 | 0.79 | 0.17 | 3.81 | 2.57 | 000
11921 |  | R | Correct skin color defects | 1.93 | 2.41 | 1.00 | 0.21 | 4.55 | 3.14 | 000
11922 |  | R | Correct skin color defects | 0.49 | 0.38 | 0.25 | 0.05 | 0.92 | 0.79 | ZZZ
11950 |  | R | Therapy for contour defects | 0.84 | 1.18 | 0.42 | 0.06 | 2.08 | 1.32 | 000
11951 |  | R | Therapy for contour defects | 1.19 | 1.53 | 0.52 | 0.10 | 2.82 | 1.81 | 000
11952 |  | R | Therapy for contour defects | 1.69 | 1.90 | 0.70 | 0.17 | 3.76 | 2.56 | 000
11954 |  | R | Therapy for contour defects | 1.85 | 2.48 | 0.92 | 0.19 | 4.52 | 2.96 | 000
11960 |  | A | Insert tissue expander(s) | 9.08 | N/A | 10.74 | 0.88 | N/A | 20.70 | 090
11970 |  | A | Replace tissue expander | 7.06 | N/A | 6.22 | 0.77 | N/A | 14.05 | 090
11971 |  | A | Remove tissue expander(s) | 2.13 | 7.24 | 4.84 | 0.21 | 9.58 | 7.18 | 090
11975 |  | N | Insert contraceptive cap | 1.48 | 1.50 | 0.57 | 0.14 | 3.12 | 2.19 | XXX
11976 |  | R | Removal of contraceptive cap | 1.78 | 1.74 | 0.70 | 0.17 | 3.69 | 2.65 | 000
11977 |  | N | Removal/reinsert contra cap | 3.30 | 2.42 | 1.28 | 0.31 | 6.03 | 4.89 | XXX
11980 |  | A | Implant hormone pellet(s) | 1.48 | 1.12 | 0.56 | 0.10 | 2.70 | 2.14 | 000
11981 |  | A | Insert drug implant device | 1.48 | 1.77 | 0.70 | 0.14 | 3.39 | 2.32 | XXX
11982 |  | A | Remove drug implant device | 1.78 | 2.01 | 0.86 | 0.17 | 3.96 | 2.81 | XXX
11983 |  | A | Remove/insert drug implant | 3.30 | 2.37 | 1.50 | 0.31 | 5.98 | 5.11 | XXX
12001 |  | A | Repair superficial wound(s) | 1.70 | 2.07 | 0.50 | 0.13 | 3.90 | 2.33 | 010
12002 |  | A | Repair superficial wound(s) | 1.86 | 2.14 | 0.95 | 0.15 | 4.15 | 2.96 | 010
12004 |  | A | Repair superficial wound(s) | 2.24 | 2.43 | 1.06 | 0.17 | 4.84 | 3.47 | 010
12005 |  | A | Repair superficial wound(s) | 2.86 | 2.94 | 1.25 | 0.23 | 6.03 | 4.34 | 010
12006 |  | A | Repair superficial wound(s) | 3.67 | 3.53 | 1.57 | 0.31 | 7.51 | 5.55 | 010
12007 |  | A | Repair superficial wound(s) | 4.12 | 3.97 | 1.87 | 0.37 | 8.46 | 6.36 | 010
12011 |  | A | Repair superficial wound(s) | 1.76 | 2.24 | 0.51 | 0.14 | 4.14 | 2.41 | 010
12013 |  | A | Repair superficial wound(s) | 1.99 | 2.39 | 0.99 | 0.16 | 4.54 | 3.14 | 010
12014 |  | A | Repair superficial wound(s) | 2.46 | 2.69 | 1.11 | 0.18 | 5.33 | 3.75 | 010
12015 |  | A | Repair superficial wound(s) | 3.19 | 3.28 | 1.31 | 0.24 | 6.71 | 4.74 | 010
12016 |  | A | Repair superficial wound(s) | 3.93 | 3.70 | 1.59 | 0.32 | 7.95 | 5.84 | 010
12017 |  | A | Repair superficial wound(s) | 4.71 | N/A | 1.95 | 0.39 | N/A | 7.05 | 010
12018 |  | A | Repair superficial wound(s) | 5.53 | N/A | 2.32 | 0.46 | N/A | 8.31 | 010
12020 |  | A | Closure of split wound | 2.62 | 2.74 | 1.77 | 0.24 | 5.60 | 4.63 | 010
12021 |  | A | Closure of split wound | 1.84 | 1.81 | 1.43 | 0.19 | 3.84 | 3.46 | 010
12031 |  | A | Layer closure of wound(s) | 2.15 | 2.36 | 0.83 | 0.15 | 4.66 | 3.13 | 010
12032 |  | A | Layer closure of wound(s) | 2.47 | 3.88 | 1.87 | 0.15 | 6.50 | 4.49 | 010
12034 |  | A | Layer closure of wound(s) | 2.92 | 3.24 | 1.44 | 0.21 | 6.37 | 4.57 | 010
12035 |  | A | Layer closure of wound(s) | 3.43 | 5.27 | 2.22 | 0.30 | 9.00 | 5.95 | 010
12036 |  | A | Layer closure of wound(s) | 4.05 | 5.53 | 2.42 | 0.41 | 9.99 | 6.88 | 010
12037 |  | A | Layer closure of wound(s) | 4.67 | 6.62 | 2.83 | 0.49 | 11.78 | 7.99 | 010
12041 |  | A | Layer closure of wound(s) | 2.37 | 2.53 | 0.88 | 0.17 | 5.07 | 3.42 | 010
12042 |  | A | Layer closure of wound(s) | 2.74 | 3.28 | 1.40 | 0.17 | 6.19 | 4.31 | 010
12044 |  | A | Layer closure of wound(s) | 3.14 | 3.28 | 1.59 | 0.24 | 6.66 | 4.97 | 010
12045 |  | A | Layer closure of wound(s) | 3.64 | 3.79 | 2.21 | 0.34 | 7.77 | 6.19 | 010
12046 |  | A | Layer closure of wound(s) | 4.25 | 6.61 | 2.82 | 0.40 | 11.26 | 7.47 | 010
12047 |  | A | Layer closure of wound(s) | 4.65 | 6.50 | 3.15 | 0.41 | 11.56 | 8.21 | 010
12051 |  | A | Layer closure of wound(s) | 2.47 | 3.30 | 1.39 | 0.16 | 5.93 | 4.02 | 010
12052 |  | A | Layer closure of wound(s) | 2.77 | 3.24 | 1.37 | 0.17 | 6.18 | 4.31 | 010
12053 |  | A | Layer closure of wound(s) | 3.12 | 3.29 | 1.53 | 0.20 | 6.61 | 4.85 | 010
12054 |  | A | Layer closure of wound(s) | 3.46 | 3.63 | 1.63 | 0.25 | 7.34 | 5.34 | 010
12055 |  | A | Layer closure of wound(s) | 4.43 | 4.63 | 2.18 | 0.35 | 9.41 | 6.96 | 010
12056 |  | A | Layer closure of wound(s) | 5.24 | 6.92 | 3.13 | 0.43 | 12.59 | 8.80 | 010
12057 |  | A | Layer closure of wound(s) | 5.96 | 6.27 | 3.84 | 0.50 | 12.73 | 10.30 | 010
13100 |  | A | Repair of wound or lesion | 3.12 | 3.59 | 1.81 | 0.21 | 6.92 | 5.14 | 010
13101 |  | A | Repair of wound or lesion | 3.92 | 3.83 | 2.26 | 0.22 | 7.97 | 6.40 | 010
13102 |  | A | Repair wound/lesion add-on | 1.24 | 0.75 | 0.58 | 0.10 | 2.09 | 1.92 | ZZZ
13120 |  | A | Repair of wound or lesion | 3.30 | 3.69 | 1.85 | 0.23 | 7.22 | 5.38 | 010
13121 |  | A | Repair of wound or lesion | 4.33 | 4.05 | 2.36 | 0.25 | 8.63 | 6.94 | 010
13122 |  | A | Repair wound/lesion add-on | 1.44 | 0.88 | 0.64 | 0.12 | 2.44 | 2.20 | ZZZ
13131 |  | A | Repair of wound or lesion | 3.79 | 3.96 | 2.18 | 0.25 | 8.00 | 6.22 | 010
13132 |  | A | Repair of wound or lesion | 5.95 | 4.78 | 3.23 | 0.32 | 11.05 | 9.50 | 010
13133 |  | A | Repair wound/lesion add-on | 2.19 | 1.22 | 1.05 | 0.17 | 3.58 | 3.41 | ZZZ
13150 |  | A | Repair of wound or lesion | 3.81 | 5.62 | 2.65 | 0.29 | 9.72 | 6.75 | 010
13151 |  | A | Repair of wound or lesion | 4.45 | 5.52 | 3.10 | 0.28 | 10.25 | 7.83 | 010
13152 |  | A | Repair of wound or lesion | 6.33 | 6.21 | 4.01 | 0.38 | 12.92 | 10.72 | 010
13153 |  | A | Repair wound/lesion add-on | 2.38 | 1.37 | 1.17 | 0.18 | 3.93 | 3.73 | ZZZ
13160 |  | A | Late closure of wound | 10.48 | N/A | 7.24 | 1.19 | N/A | 18.91 | 090
14000 |  | A | Skin tissue rearrangement | 5.89 | 8.69 | 5.21 | 0.46 | 15.04 | 11.56 | 090
14001 |  | A | Skin tissue rearrangement | 8.47 | 10.16 | 6.70 | 0.65 | 19.28 | 15.82 | 090
14020 |  | A | Skin tissue rearrangement | 6.59 | 9.35 | 6.10 | 0.50 | 16.44 | 13.19 | 090
14021 |  | A | Skin tissue rearrangement | 10.06 | 10.67 | 7.88 | 0.69 | 21.42 | 18.63 | 090
14040 |  | A | Skin tissue rearrangement | 7.87 | 8.44 | 7.01 | 0.55 | 16.86 | 15.43 | 090
14041 |  | A | Skin tissue rearrangement | 11.49 | 10.87 | 8.87 | 0.71 | 23.07 | 21.07 | 090
14060 |  | A | Skin tissue rearrangement | 8.50 | 9.27 | 7.82 | 0.59 | 18.36 | 16.91 | 090
14061 |  | A | Skin tissue rearrangement | 12.29 | 11.90 | 9.69 | 0.75 | 24.94 | 22.73 | 090
14300 |  | A | Skin tissue rearrangement | 11.76 | 11.41 | 9.32 | 0.88 | 24.05 | 21.96 | 090
14350 |  | A | Skin tissue rearrangement | 9.61 | N/A | 7.26 | 1.09 | N/A | 17.96 | 090
15000 |  | A | Skin graft | 4.00 | 3.89 | 2.24 | 0.37 | 8.26 | 6.61 | 000
15001 |  | A | Skin graft add-on | 1.00 | 1.39 | 0.42 | 0.11 | 2.50 | 1.53 | ZZZ
15050 |  | A | Skin pinch graft | 4.30 | 6.08 | 4.81 | 0.46 | 10.84 | 9.57 | 090
15100 |  | A | Skin split graft | 9.05 | 12.83 | 7.89 | 0.94 | 22.82 | 17.88 | 090
15101 |  | A | Skin split graft add-on | 1.72 | 3.89 | 1.69 | 0.18 | 5.79 | 3.59 | ZZZ
15120 |  | A | Skin split graft | 9.83 | 11.04 | 7.95 | 0.90 | 21.77 | 18.68 | 090
15121 |  | A | Skin split graft add-on | 2.67 | 4.66 | 1.91 | 0.27 | 7.60 | 4.85 | ZZZ
15200 |  | A | Skin full graft | 8.03 | 10.93 | 6.11 | 0.73 | 19.69 | 14.87 | 090
15201 |  | A | Skin full graft add-on | 1.32 | 1.06 | 0.63 | 0.14 | 2.52 | 2.09 | ZZZ
15220 |  | A | Skin full graft | 7.87 | 10.82 | 6.55 | 0.68 | 19.37 | 15.10 | 090
15221 |  | A | Skin full graft add-on | 1.19 | 0.92 | 0.58 | 0.12 | 2.23 | 1.89 | ZZZ
15240 |  | A | Skin full graft | 9.04 | 10.38 | 7.80 | 0.80 | 20.22 | 17.64 | 090
15241 |  | A | Skin full graft add-on | 1.86 | 1.48 | 0.93 | 0.17 | 3.51 | 2.96 | ZZZ
15260 |  | A | Skin full graft | 10.06 | 10.10 | 8.80 | 0.63 | 20.79 | 19.49 | 090
15261 |  | A | Skin full graft add-on | 2.23 | 2.78 | 1.45 | 0.17 | 5.18 | 3.85 | ZZZ
15342 |  | A | Cultured skin graft, 25 cm | 1.00 | 1.84 | 0.56 | 0.09 | 2.93 | 1.65 | 010
15343 |  | A | Culture skn graft addl 25 cm | 0.25 | 0.27 | 0.10 | 0.02 | 0.54 | 0.37 | ZZZ
15350 |  | A | Skin homograft | 4.00 | 8.37 | 4.90 | 0.42 | 12.79 | 9.32 | 090
15351 |  | A | Skin homograft add-on | 1.00 | 0.95 | 0.40 | 0.11 | 2.06 | 1.51 | ZZZ
15400 |  | A | Skin heterograft | 4.00 | 4.28 | 4.21 | 0.40 | 8.68 | 8.61 | 090
15401 |  | A | Skin heterograft add-on | 1.00 | 1.23 | 0.45 | 0.11 | 2.34 | 1.56 | ZZZ
15570 |  | A | Form skin pedicle flap | 9.21 | 9.27 | 6.55 | 0.96 | 19.44 | 16.72 | 090
15572 |  | A | Form skin pedicle flap | 9.27 | 8.58 | 6.27 | 0.93 | 18.78 | 16.47 | 090
15574 |  | A | Form skin pedicle flap | 9.88 | 8.98 | 7.08 | 0.92 | 19.78 | 17.88 | 090
15576 |  | A | Form skin pedicle flap | 8.69 | 9.61 | 6.55 | 0.72 | 19.02 | 15.96 | 090
15600 |  | A | Skin graft | 1.91 | 7.24 | 2.75 | 0.19 | 9.34 | 4.85 | 090
15610 |  | A | Skin graft | 2.42 | 3.83 | 3.09 | 0.25 | 6.50 | 5.76 | 090
15620 |  | A | Skin graft | 2.94 | 7.64 | 3.75 | 0.28 | 10.86 | 6.97 | 090
15630 |  | A | Skin graft | 3.27 | 7.00 | 4.02 | 0.28 | 10.55 | 7.57 | 090
15650 |  | A | Transfer skin pedicle flap | 3.97 | 6.86 | 4.10 | 0.36 | 11.19 | 8.43 | 090
15732 |  | A | Muscle-skin graft, head/neck | 17.84 | 18.42 | 12.48 | 1.50 | 37.76 | 31.82 | 090
15734 |  | A | Muscle-skin graft, trunk | 17.79 | 18.28 | 12.55 | 1.91 | 37.98 | 32.25 | 090
15736 |  | A | Muscle-skin graft, arm | 16.27 | 18.50 | 11.43 | 1.78 | 36.55 | 29.48 | 090
15738 |  | A | Muscle-skin graft, leg | 17.92 | 18.28 | 11.95 | 1.95 | 38.15 | 31.82 | 090
15740 |  | A | Island pedicle flap graft | 10.25 | 9.97 | 7.91 | 0.62 | 20.84 | 18.78 | 090
15750 |  | A | Neurovascular pedicle graft | 11.41 | N/A | 9.16 | 1.16 | N/A | 21.73 | 090
15756 |  | A | Free myo/skin flap microvasc | 35.23 | N/A | 21.18 | 3.11 | N/A | 59.52 | 090
15757 |  | A | Free skin flap, microvasc | 35.23 | N/A | 22.24 | 3.37 | N/A | 60.84 | 090
15758 |  | A | Free fascial flap, microvasc | 35.10 | N/A | 22.23 | 3.52 | N/A | 60.85 | 090
15760 |  | A | Composite skin graft | 8.74 | 9.95 | 7.16 | 0.72 | 19.41 | 16.62 | 090
15770 |  | A | Derma-fat-fascia graft | 7.52 | N/A | 6.84 | 0.78 | N/A | 15.14 | 090
15775 |  | R | Hair transplant punch grafts | 3.96 | 2.83 | 1.35 | 0.43 | 7.22 | 5.74 | 000
15776 |  | R | Hair transplant punch grafts | 5.54 | 5.49 | 2.87 | 0.60 | 11.63 | 9.01 | 000
15780 |  | A | Abrasion treatment of skin | 7.29 | 7.23 | 7.23 | 0.41 | 14.93 | 14.93 | 090
15781 |  | A | Abrasion treatment of skin | 4.85 | 5.46 | 5.46 | 0.27 | 10.58 | 10.58 | 090
15782 |  | A | Abrasion treatment of skin | 4.32 | 4.44 | 4.44 | 0.21 | 8.97 | 8.97 | 090
15783 |  | A | Abrasion treatment of skin | 4.29 | 5.04 | 4.26 | 0.26 | 9.59 | 8.81 | 090
15786 |  | A | Abrasion, lesion, single | 2.03 | 1.66 | 1.30 | 0.11 | 3.80 | 3.44 | 010
15787 |  | A | Abrasion, lesions, add-on | 0.33 | 0.32 | 0.16 | 0.02 | 0.67 | 0.51 | ZZZ
15788 |  | R | Chemical peel, face, epiderm | 2.09 | 3.39 | 2.24 | 0.11 | 5.59 | 4.44 | 090
15789 |  | R | Chemical peel, face, dermal | 4.92 | 6.54 | 5.06 | 0.27 | 11.73 | 10.25 | 090
15792 |  | R | Chemical peel, nonfacial | 1.86 | 3.22 | 2.82 | 0.10 | 5.18 | 4.78 | 090
15793 |  | A | Chemical peel, nonfacial | 3.74 | N/A | 4.25 | 0.17 | N/A | 8.16 | 090
15810 |  | A | Salabrasion | 4.74 | 3.99 | 3.99 | 0.42 | 9.15 | 9.15 | 090
15811 |  | A | Salabrasion | 5.39 | 6.43 | 5.62 | 0.52 | 12.34 | 11.53 | 090
15819 |  | A | Plastic surgery, neck | 9.38 | N/A | 7.36 | 0.77 | N/A | 17.51 | 090
15820 |  | A | Revision of lower eyelid | 5.15 | 7.01 | 5.48 | 0.30 | 12.46 | 10.93 | 090
15821 |  | A | Revision of lower eyelid | 5.72 | 7.40 | 5.64 | 0.31 | 13.43 | 11.67 | 090
15822 |  | A | Revision of upper eyelid | 4.45 | 5.93 | 4.45 | 0.22 | 10.60 | 9.12 | 090
15823 |  | A | Revision of upper eyelid | 7.05 | 7.93 | 6.35 | 0.32 | 15.30 | 13.72 | 090
15824 |  | R | Removal of forehead wrinkles | 0.00 | 0.00 | 0.00 | 0.00 | 0.00 | 0.00 | 000
15825 |  | R | Removal of neck wrinkles | 0.00 | 0.00 | 0.00 | 0.00 | 0.00 | 0.00 | 000
15826 |  | R | Removal of brow wrinkles | 0.00 | 0.00 | 0.00 | 0.00 | 0.00 | 0.00 | 000
15828 |  | R | Removal of face wrinkles | 0.00 | 0.00 | 0.00 | 0.00 | 0.00 | 0.00 | 000
15829 |  | R | Removal of skin wrinkles | 0.00 | 0.00 | 0.00 | 0.00 | 0.00 | 0.00 | 000
15831 |  | A | Excise excessive skin tissue | 12.40 | N/A | 8.36 | 1.30 | N/A | 22.06 | 090
15832 |  | A | Excise excessive skin tissue | 11.59 | N/A | 8.52 | 1.21 | N/A | 21.32 | 090
15833 |  | A | Excise excessive skin tissue | 10.64 | N/A | 8.22 | 1.17 | N/A | 20.03 | 090
15834 |  | A | Excise excessive skin tissue | 10.85 | N/A | 7.80 | 1.18 | N/A | 19.83 | 090
15835 |  | A | Excise excessive skin tissue | 11.67 | 11.70 | 7.76 | 1.13 | 24.50 | 20.56 | 090
15836 |  | A | Excise excessive skin tissue | 9.34 | N/A | 6.92 | 0.95 | N/A | 17.21 | 090
15837 |  | A | Excise excessive skin tissue | 8.43 | 8.10 | 7.12 | 0.78 | 17.31 | 16.33 | 090
15838 |  | A | Excise excessive skin tissue | 7.13 | N/A | 6.23 | 0.58 | N/A | 13.94 | 090
15839 |  | A | Excise excessive skin tissue | 9.38 | 8.02 | 6.31 | 0.88 | 18.28 | 16.57 | 090
15840 |  | A | Graft for face nerve palsy | 13.26 | N/A | 10.32 | 1.15 | N/A | 24.73 | 090
15841 |  | A | Graft for face nerve palsy | 23.26 | N/A | 15.38 | 2.65 | N/A | 41.29 | 090
15842 |  | A | Flap for face nerve palsy | 37.96 | N/A | 23.49 | 3.99 | N/A | 65.44 | 090
15845 |  | A | Skin and muscle repair, face | 12.57 | N/A | 9.34 | 0.80 | N/A | 22.71 | 090
15850 |  | B | Removal of sutures | 0.78 | 1.62 | 0.30 | 0.04 | 2.44 | 1.12 | XXX
15851 |  | A | Removal of sutures | 0.86 | 1.78 | 0.34 | 0.05 | 2.69 | 1.25 | 000
15852 |  | A | Dressing change,not for burn | 0.86 | 1.90 | 0.36 | 0.07 | 2.83 | 1.29 | 000
15860 |  | A | Test for blood flow in graft | 1.95 | 1.30 | 0.80 | 0.13 | 3.38 | 2.88 | 000
15876 |  | R | Suction assisted lipectomy | 0.00 | 0.00 | 0.00 | 0.00 | 0.00 | 0.00 | 000
15877 |  | R | Suction assisted lipectomy | 0.00 | 0.00 | 0.00 | 0.00 | 0.00 | 0.00 | 000
15878 |  | R | Suction assisted lipectomy | 0.00 | 0.00 | 0.00 | 0.00 | 0.00 | 0.00 | 000
15879 |  | R | Suction assisted lipectomy | 0.00 | 0.00 | 0.00 | 0.00 | 0.00 | 0.00 | 000
15920 |  | A | Removal of tail bone ulcer | 7.95 | N/A | 5.68 | 0.83 | N/A | 14.46 | 090
15922 |  | A | Removal of tail bone ulcer | 9.90 | N/A | 7.50 | 1.06 | N/A | 18.46 | 090
15931 |  | A | Remove sacrum pressure sore | 9.24 | N/A | 5.83 | 0.95 | N/A | 16.02 | 090
15933 |  | A | Remove sacrum pressure sore | 10.85 | N/A | 8.07 | 1.14 | N/A | 20.06 | 090
15934 |  | A | Remove sacrum pressure sore | 12.69 | N/A | 8.35 | 1.35 | N/A | 22.39 | 090
15935 |  | A | Remove sacrum pressure sore | 14.57 | N/A | 10.51 | 1.56 | N/A | 26.64 | 090
15936 |  | A | Remove sacrum pressure sore | 12.38 | N/A | 8.66 | 1.32 | N/A | 22.36 | 090
15937 |  | A | Remove sacrum pressure sore | 14.21 | N/A | 10.23 | 1.51 | N/A | 25.95 | 090
15940 |  | A | Remove hip pressure sore | 9.34 | N/A | 6.33 | 0.98 | N/A | 16.65 | 090
15941 |  | A | Remove hip pressure sore | 11.43 | N/A | 9.75 | 1.23 | N/A | 22.41 | 090
15944 |  | A | Remove hip pressure sore | 11.46 | N/A | 8.87 | 1.21 | N/A | 21.54 | 090
15945 |  | A | Remove hip pressure sore | 12.69 | N/A | 9.92 | 1.38 | N/A | 23.99 | 090
15946 |  | A | Remove hip pressure sore | 21.57 | N/A | 14.86 | 2.32 | N/A | 38.75 | 090
15950 |  | A | Remove thigh pressure sore | 7.54 | N/A | 5.54 | 0.80 | N/A | 13.88 | 090
15951 |  | A | Remove thigh pressure sore | 10.72 | N/A | 8.08 | 1.14 | N/A | 19.94 | 090
15952 |  | A | Remove thigh pressure sore | 11.39 | N/A | 7.81 | 1.19 | N/A | 20.39 | 090
15953 |  | A | Remove thigh pressure sore | 12.63 | N/A | 9.22 | 1.38 | N/A | 23.23 | 090
15956 |  | A | Remove thigh pressure sore | 15.52 | N/A | 10.96 | 1.64 | N/A | 28.12 | 090
15958 |  | A | Remove thigh pressure sore | 15.48 | N/A | 11.24 | 1.66 | N/A | 28.38 | 090
15999 |  | C | Removal of pressure sore | 0.00 | 0.00 | 0.00 | 0.00 | 0.00 | 0.00 | YYY
16000 |  | A | Initial treatment of burn(s) | 0.89 | 0.89 | 0.27 | 0.06 | 1.84 | 1.22 | 000
16010 |  | A | Treatment of burn(s) | 0.87 | 0.68 | 0.65 | 0.07 | 1.62 | 1.59 | 000
16015 |  | A | Treatment of burn(s) | 2.35 | N/A | 1.18 | 0.22 | N/A | 3.75 | 000
16020 |  | A | Treatment of burn(s) | 0.80 | 1.31 | 0.62 | 0.06 | 2.17 | 1.48 | 000
16025 |  | A | Treatment of burn(s) | 1.85 | 1.82 | 0.99 | 0.16 | 3.83 | 3.00 | 000
16030 |  | A | Treatment of burn(s) | 2.08 | 2.24 | 1.14 | 0.18 | 4.50 | 3.40 | 000
16035 |  | A | Incision of burn scab, initi | 3.75 | N/A | 1.49 | 0.36 | N/A | 5.60 | 090
16036 |  | A | Incise burn scab, addl incis | 1.50 | N/A | 0.61 | 0.11 | N/A | 2.22 | ZZZ
17000 |  | A | Destroy benign/premlg lesion | 0.60 | 1.00 | 0.32 | 0.03 | 1.63 | 0.95 | 010
17003 |  | A | Destroy lesions, 2-14 | 0.15 | 0.11 | 0.07 | 0.01 | 0.27 | 0.23 | ZZZ
17004 |  | A | Destroy lesions, 15 or more | 2.79 | 2.37 | 1.32 | 0.12 | 5.28 | 4.23 | 010
17106 |  | A | Destruction of skin lesions | 4.59 | 5.01 | 3.29 | 0.28 | 9.88 | 8.16 | 090
17107 |  | A | Destruction of skin lesions | 9.16 | 7.69 | 5.45 | 0.53 | 17.38 | 15.14 | 090
17108 |  | A | Destruction of skin lesions | 13.20 | 9.82 | 7.72 | 0.89 | 23.91 | 21.81 | 090
17110 |  | A | Destruct lesion, 1-14 | 0.65 | 1.68 | 0.51 | 0.04 | 2.37 | 1.20 | 010
17111 |  | A | Destruct lesion, 15 or more | 0.92 | 1.73 | 0.61 | 0.04 | 2.69 | 1.57 | 010
17250 |  | A | Chemical cautery, tissue | 0.50 | 1.26 | 0.35 | 0.04 | 1.80 | 0.89 | 000
17260 |  | A | Destruction of skin lesions | 0.91 | 1.32 | 0.46 | 0.04 | 2.27 | 1.41 | 010
17261 |  | A | Destruction of skin lesions | 1.17 | 1.66 | 0.60 | 0.05 | 2.88 | 1.82 | 010
17262 |  | A | Destruction of skin lesions | 1.58 | 1.94 | 0.80 | 0.07 | 3.59 | 2.45 | 010
17263 |  | A | Destruction of skin lesions | 1.79 | 2.12 | 0.87 | 0.08 | 3.99 | 2.74 | 010
17264 |  | A | Destruction of skin lesions | 1.94 | 2.28 | 0.90 | 0.08 | 4.30 | 2.92 | 010
17266 |  | A | Destruction of skin lesions | 2.34 | 2.58 | 1.01 | 0.11 | 5.03 | 3.46 | 010
17270 |  | A | Destruction of skin lesions | 1.32 | 1.75 | 0.65 | 0.06 | 3.13 | 2.03 | 010
17271 |  | A | Destruction of skin lesions | 1.49 | 1.83 | 0.76 | 0.06 | 3.38 | 2.31 | 010
17272 |  | A | Destruction of skin lesions | 1.77 | 2.05 | 0.90 | 0.07 | 3.89 | 2.74 | 010
17273 |  | A | Destruction of skin lesions | 2.05 | 2.26 | 1.01 | 0.09 | 4.40 | 3.15 | 010
17274 |  | A | Destruction of skin lesions | 2.59 | 2.63 | 1.23 | 0.11 | 5.33 | 3.93 | 010
17276 |  | A | Destruction of skin lesions | 3.20 | 3.03 | 1.47 | 0.15 | 6.38 | 4.82 | 010
17280 |  | A | Destruction of skin lesions | 1.17 | 1.66 | 0.58 | 0.05 | 2.88 | 1.80 | 010
17281 |  | A | Destruction of skin lesions | 1.72 | 1.96 | 0.87 | 0.07 | 3.75 | 2.66 | 010
17282 |  | A | Destruction of skin lesions | 2.04 | 2.21 | 1.03 | 0.09 | 4.34 | 3.16 | 010
17283 |  | A | Destruction of skin lesions | 2.64 | 2.61 | 1.28 | 0.11 | 5.36 | 4.03 | 010
17284 |  | A | Destruction of skin lesions | 3.21 | 3.01 | 1.55 | 0.14 | 6.36 | 4.90 | 010
17286 |  | A | Destruction of skin lesions | 4.44 | 3.79 | 2.24 | 0.22 | 8.45 | 6.90 | 010
17304 |  | A | 1 stage mohs, up to 5 spec | 7.60 | 8.28 | 3.65 | 0.31 | 16.19 | 11.56 | 000
17305 |  | A | 2 stage mohs, up to 5 spec | 2.85 | 3.90 | 1.37 | 0.12 | 6.87 | 4.34 | 000
17306 |  | A | 3 stage mohs, up to 5 spec | 2.85 | 3.92 | 1.38 | 0.12 | 6.89 | 4.35 | 000
17307 |  | A | Mohs addl stage up to 5 spec | 2.85 | 3.87 | 1.40 | 0.12 | 6.84 | 4.37 | 000
17310 |  | A | Mohs any stage > 5 spec each | 0.62 | 1.51 | 0.31 | 0.05 | 2.18 | 0.98 | ZZZ
17340 |  | A | Cryotherapy of skin | 0.76 | 0.38 | 0.31 | 0.04 | 1.18 | 1.11 | 010
17360 |  | A | Skin peel therapy | 1.43 | 1.50 | 0.77 | 0.06 | 2.99 | 2.26 | 010
17380 |  | R | Hair removal by electrolysis | 0.00 | 0.00 | 0.00 | 0.00 | 0.00 | 0.00 | 000
17999 |  | C | Skin tissue procedure | 0.00 | 0.00 | 0.00 | 0.00 | 0.00 | 0.00 | YYY
19000 |  | A | Drainage of breast lesion | 0.84 | 2.06 | 0.36 | 0.07 | 2.97 | 1.27 | 000
19001 |  | A | Drain breast lesion add-on | 0.42 | 0.80 | 0.14 | 0.03 | 1.25 | 0.59 | ZZZ
19020 |  | A | Incision of breast lesion | 3.57 | 6.13 | 2.84 | 0.35 | 10.05 | 6.76 | 090
19030 |  | A | Injection for breast x-ray | 1.53 | 3.40 | 0.51 | 0.07 | 5.00 | 2.11 | 000
19100 |  | A | Bx breast percut w/o image | 1.27 | 2.17 | 0.43 | 0.10 | 3.54 | 1.80 | 000
19101 |  | A | Biopsy of breast, open | 3.18 | 4.74 | 1.71 | 0.20 | 8.12 | 5.09 | 010
19102 |  | A | Bx breast percut w/image | 2.00 | 4.02 | 0.67 | 0.13 | 6.15 | 2.80 | 000
19103 |  | A | Bx breast percut w/device | 3.70 | 12.24 | 1.26 | 0.16 | 16.10 | 5.12 | 000
19110 |  | A | Nipple exploration | 4.30 | 7.47 | 3.21 | 0.44 | 12.21 | 7.95 | 090
19112 |  | A | Excise breast duct fistula | 3.67 | 7.85 | 2.74 | 0.38 | 11.90 | 6.79 | 090
19120 |  | A | Removal of breast lesion | 5.56 | 4.64 | 3.11 | 0.56 | 10.76 | 9.23 | 090
19125 |  | A | Excision, breast lesion | 6.06 | 4.88 | 3.34 | 0.61 | 11.55 | 10.01 | 090
19126 |  | A | Excision, addl breast lesion | 2.93 | N/A | 1.02 | 0.30 | N/A | 4.25 | ZZZ
19140 |  | A | Removal of breast tissue | 5.14 | 7.35 | 3.44 | 0.52 | 13.01 | 9.10 | 090
19160 |  | A | Removal of breast tissue | 5.99 | N/A | 3.48 | 0.61 | N/A | 10.08 | 090
19162 |  | A | Remove breast tissue, nodes | 13.53 | N/A | 6.46 | 1.38 | N/A | 21.37 | 090
19180 |  | A | Removal of breast | 8.80 | N/A | 5.11 | 0.88 | N/A | 14.79 | 090
19182 |  | A | Removal of breast | 7.73 | N/A | 4.84 | 0.79 | N/A | 13.36 | 090
19200 |  | A | Removal of breast | 15.49 | N/A | 8.12 | 1.51 | N/A | 25.12 | 090
19220 |  | A | Removal of breast | 15.72 | N/A | 8.39 | 1.56 | N/A | 25.67 | 090
19240 |  | A | Removal of breast | 16.00 | N/A | 8.37 | 1.62 | N/A | 25.99 | 090
19260 |  | A | Removal of chest wall lesion | 15.44 | N/A | 11.09 | 1.64 | N/A | 28.17 | 090
19271 |  | A | Revision of chest wall | 18.90 | N/A | 17.48 | 2.27 | N/A | 38.65 | 090
19272 |  | A | Extensive chest wall surgery | 21.55 | N/A | 18.27 | 2.54 | N/A | 42.36 | 090
19290 |  | A | Place needle wire, breast | 1.27 | 3.03 | 0.43 | 0.06 | 4.36 | 1.76 | 000
19291 |  | A | Place needle wire, breast | 0.63 | 1.76 | 0.21 | 0.03 | 2.42 | 0.87 | ZZZ
19295 |  | A | Place breast clip, percut | 0.00 | 2.83 | N/A | 0.01 | 2.84 | N/A | ZZZ
19316 |  | A | Suspension of breast | 10.69 | N/A | 7.83 | 1.15 | N/A | 19.67 | 090
19318 |  | A | Reduction of large breast | 15.62 | N/A | 11.42 | 1.69 | N/A | 28.73 | 090
19324 |  | A | Enlarge breast | 5.85 | N/A | 5.01 | 0.63 | N/A | 11.49 | 090
19325 |  | A | Enlarge breast with implant | 8.45 | N/A | 6.71 | 0.90 | N/A | 16.06 | 090
19328 |  | A | Removal of breast implant | 5.68 | N/A | 5.17 | 0.61 | N/A | 11.46 | 090
19330 |  | A | Removal of implant material | 7.59 | N/A | 6.09 | 0.81 | N/A | 14.49 | 090
19340 |  | A | Immediate breast prosthesis | 6.33 | N/A | 3.18 | 0.68 | N/A | 10.19 | ZZZ
19342 |  | A | Delayed breast prosthesis | 11.20 | N/A | 8.95 | 1.21 | N/A | 21.36 | 090
19350 |  | A | Breast reconstruction | 8.92 | 14.46 | 7.25 | 0.95 | 24.33 | 17.12 | 090
19355 |  | A | Correct inverted nipple(s) | 7.57 | 13.06 | 5.12 | 0.80 | 21.43 | 13.49 | 090
19357 |  | A | Breast reconstruction | 18.16 | N/A | 14.13 | 1.96 | N/A | 34.25 | 090
19361 |  | A | Breast reconstruction | 19.26 | N/A | 12.01 | 2.08 | N/A | 33.35 | 090
19364 |  | A | Breast reconstruction | 41.00 | N/A | 24.08 | 3.91 | N/A | 68.99 | 090
19366 |  | A | Breast reconstruction | 21.28 | N/A | 11.44 | 2.27 | N/A | 34.99 | 090
19367 |  | A | Breast reconstruction | 25.73 | N/A | 16.89 | 2.78 | N/A | 45.40 | 090
19368 |  | A | Breast reconstruction | 32.42 | N/A | 20.65 | 3.51 | N/A | 56.58 | 090
19369 |  | A | Breast reconstruction | 29.82 | N/A | 20.17 | 3.24 | N/A | 53.23 | 090
19370 |  | A | Surgery of breast capsule | 8.05 | N/A | 6.98 | 0.86 | N/A | 15.89 | 090
19371 |  | A | Removal of breast capsule | 9.35 | N/A | 8.02 | 1.01 | N/A | 18.38 | 090
19380 |  | A | Revise breast reconstruction | 9.14 | N/A | 7.90 | 0.98 | N/A | 18.02 | 090
19396 |  | A | Design custom breast implant | 2.17 | 5.91 | 1.01 | 0.23 | 8.31 | 3.41 | 000
19499 |  | C | Breast surgery procedure | 0.00 | 0.00 | 0.00 | 0.00 | 0.00 | 0.00 | YYY
20000 |  | A | Incision of abscess | 2.12 | 2.44 | 1.63 | 0.17 | 4.73 | 3.92 | 010
20005 |  | A | Incision of deep abscess | 3.42 | 3.44 | 2.15 | 0.34 | 7.20 | 5.91 | 010
20100 |  | A | Explore wound, neck | 10.08 | 5.92 | 4.44 | 0.99 | 16.99 | 15.51 | 010
20101 |  | A | Explore wound, chest | 3.22 | 3.02 | 1.61 | 0.24 | 6.48 | 5.07 | 010
20102 |  | A | Explore wound, abdomen | 3.94 | 3.57 | 1.82 | 0.35 | 7.86 | 6.11 | 010
20103 |  | A | Explore wound, extremity | 5.30 | 4.25 | 3.28 | 0.57 | 10.12 | 9.15 | 010
20150 |  | A | Excise epiphyseal bar | 13.69 | N/A | 7.37 | 0.96 | N/A | 22.02 | 090
20200 |  | A | Muscle biopsy | 1.46 | 3.20 | 0.79 | 0.17 | 4.83 | 2.42 | 000
20205 |  | A | Deep muscle biopsy | 2.35 | 4.21 | 1.23 | 0.23 | 6.79 | 3.81 | 000
20206 |  | A | Needle biopsy, muscle | 0.99 | 3.23 | 0.35 | 0.06 | 4.28 | 1.40 | 000
20220 |  | A | Bone biopsy, trocar/needle | 1.27 | 4.83 | 2.80 | 0.06 | 6.16 | 4.13 | 000
20225 |  | A | Bone biopsy, trocar/needle | 1.87 | 4.37 | 2.95 | 0.11 | 6.35 | 4.93 | 000
20240 |  | A | Bone biopsy, excisional | 3.23 | N/A | 2.56 | 0.33 | N/A | 6.12 | 010
20245 |  | A | Bone biopsy, excisional | 7.78 | N/A | 6.39 | 0.44 | N/A | 14.61 | 010
20250 |  | A | Open bone biopsy | 5.03 | N/A | 4.61 | 0.50 | N/A | 10.14 | 010
20251 |  | A | Open bone biopsy | 5.56 | N/A | 5.26 | 0.79 | N/A | 11.61 | 010
20500 |  | A | Injection of sinus tract | 1.23 | 6.00 | 3.86 | 0.10 | 7.33 | 5.19 | 010
20501 |  | A | Inject sinus tract for x-ray | 0.76 | 3.04 | 0.25 | 0.03 | 3.83 | 1.04 | 000
20520 |  | A | Removal of foreign body | 1.85 | 2.28 | 1.82 | 0.17 | 4.30 | 3.84 | 010
20525 |  | A | Removal of foreign body | 3.50 | 3.44 | 2.68 | 0.40 | 7.34 | 6.58 | 010
20526 |  | A | Ther injection, carp tunnel | 0.94 | 0.98 | 0.52 | 0.06 | 1.98 | 1.52 | 000
20550 |  | A | Inj tendon sheath/ligament | 0.75 | 0.73 | 0.24 | 0.06 | 1.54 | 1.05 | 000
20551 |  | A | Inject tendon origin/insert | 0.75 | 0.70 | 0.34 | 0.06 | 1.51 | 1.15 | 000
20552 |  | A | Inject trigger point, 1 or 2 | 0.66 | 0.74 | 0.21 | 0.06 | 1.46 | 0.93 | 000
20553 |  | A | Inject trigger points, =/> 3 | 0.75 | 0.85 | 0.22 | 0.06 | 1.66 | 1.03 | 000
20600 |  | A | Drain/inject, joint/bursa | 0.66 | 0.66 | 0.36 | 0.06 | 1.38 | 1.08 | 000
20605 |  | A | Drain/inject, joint/bursa | 0.68 | 0.77 | 0.37 | 0.06 | 1.51 | 1.11 | 000
20610 |  | A | Drain/inject, joint/bursa | 0.79 | 0.96 | 0.42 | 0.08 | 1.83 | 1.29 | 000
20612 |  | A | Aspirate/inj ganglion cyst | 0.70 | 0.73 | 0.34 | 0.06 | 1.49 | 1.10 | 000
20615 |  | A | Treatment of bone cyst | 2.28 | 2.59 | 1.82 | 0.19 | 5.06 | 4.29 | 010
20650 |  | A | Insert and remove bone pin | 2.23 | 2.47 | 1.97 | 0.28 | 4.98 | 4.48 | 010
20660 |  | A | Apply, rem fixation device | 2.51 | 3.12 | 1.74 | 0.48 | 6.11 | 4.73 | 000
20661 |  | A | Application of head brace | 4.89 | N/A | 5.05 | 0.92 | N/A | 10.86 | 090
20662 |  | A | Application of pelvis brace | 6.07 | N/A | 5.54 | 0.81 | N/A | 12.42 | 090
20663 |  | A | Application of thigh brace | 5.43 | N/A | 4.86 | 0.77 | N/A | 11.06 | 090
20664 |  | A | Halo brace application | 8.06 | N/A | 7.16 | 1.49 | N/A | 16.71 | 090
20665 |  | A | Removal of fixation device | 1.31 | 1.98 | 1.32 | 0.17 | 3.46 | 2.80 | 010
20670 |  | A | Removal of support implant | 1.74 | 6.83 | 3.98 | 0.23 | 8.80 | 5.95 | 010
20680 |  | A | Removal of support implant | 3.35 | 3.44 | 3.44 | 0.46 | 7.25 | 7.25 | 090
20690 |  | A | Apply bone fixation device | 3.52 | N/A | 2.51 | 0.47 | N/A | 6.50 | 090
20692 |  | A | Apply bone fixation device | 6.41 | N/A | 3.80 | 0.60 | N/A | 10.81 | 090
20693 |  | A | Adjust bone fixation device | 5.86 | N/A | 8.43 | 0.85 | N/A | 15.14 | 090
20694 |  | A | Remove bone fixation device | 4.16 | 7.10 | 4.64 | 0.57 | 11.83 | 9.37 | 090
20802 |  | A | Replantation, arm, complete | 41.15 | N/A | 21.97 | 5.81 | N/A | 68.93 | 090
20805 |  | A | Replant forearm, complete | 50.00 | N/A | 35.96 | 3.95 | N/A | 89.91 | 090
20808 |  | A | Replantation hand, complete | 61.65 | N/A | 44.22 | 6.49 | N/A | 112.36 | 090
20816 |  | A | Replantation digit, complete | 30.94 | N/A | 40.19 | 3.01 | N/A | 74.14 | 090
20822 |  | A | Replantation digit, complete | 25.59 | N/A | 36.64 | 3.07 | N/A | 65.30 | 090
20824 |  | A | Replantation thumb, complete | 30.94 | N/A | 38.92 | 3.48 | N/A | 73.34 | 090
20827 |  | A | Replantation thumb, complete | 26.41 | N/A | 38.68 | 3.21 | N/A | 68.30 | 090
20838 |  | A | Replantation foot, complete | 41.41 | N/A | 22.96 | 5.85 | N/A | 70.22 | 090
20900 |  | A | Removal of bone for graft | 5.58 | 7.43 | 5.57 | 0.77 | 13.78 | 11.92 | 090
20902 |  | A | Removal of bone for graft | 7.55 | N/A | 7.06 | 1.06 | N/A | 15.67 | 090
20910 |  | A | Remove cartilage for graft | 5.34 | 7.19 | 5.51 | 0.50 | 13.03 | 11.35 | 090
20912 |  | A | Remove cartilage for graft | 6.35 | N/A | 6.21 | 0.55 | N/A | 13.11 | 090
20920 |  | A | Removal of fascia for graft | 5.31 | N/A | 4.48 | 0.54 | N/A | 10.33 | 090
20922 |  | A | Removal of fascia for graft | 6.61 | 6.90 | 5.18 | 0.88 | 14.39 | 12.67 | 090
20924 |  | A | Removal of tendon for graft | 6.48 | N/A | 6.00 | 0.82 | N/A | 13.30 | 090
20926 |  | A | Removal of tissue for graft | 5.53 | N/A | 5.06 | 0.73 | N/A | 11.32 | 090
20931 |  | A | Spinal bone allograft | 1.81 | N/A | 0.95 | 0.34 | N/A | 3.10 | ZZZ
20937 |  | A | Spinal bone autograft | 2.79 | N/A | 1.49 | 0.43 | N/A | 4.71 | ZZZ
20938 |  | A | Spinal bone autograft | 3.02 | N/A | 1.59 | 0.52 | N/A | 5.13 | ZZZ
20950 |  | A | Fluid pressure, muscle | 1.26 | 1.39 | 1.02 | 0.16 | 2.81 | 2.44 | 000
20955 |  | A | Fibula bone graft, microvasc | 39.21 | N/A | 25.69 | 4.35 | N/A | 69.25 | 090
20956 |  | A | Iliac bone graft, microvasc | 39.27 | N/A | 25.40 | 5.77 | N/A | 70.44 | 090
20957 |  | A | Mt bone graft, microvasc | 40.65 | N/A | 19.47 | 5.74 | N/A | 65.86 | 090
20962 |  | A | Other bone graft, microvasc | 39.27 | N/A | 26.91 | 5.19 | N/A | 71.37 | 090
20969 |  | A | Bone/skin graft, microvasc | 43.92 | N/A | 28.25 | 4.34 | N/A | 76.51 | 090
20970 |  | A | Bone/skin graft, iliac crest | 43.06 | N/A | 26.58 | 4.64 | N/A | 74.28 | 090
20972 |  | A | Bone/skin graft, metatarsal | 42.99 | 21.88 | 20.34 | 6.07 | 70.94 | 69.40 | 090
20973 |  | A | Bone/skin graft, great toe | 45.76 | N/A | 25.64 | 4.65 | N/A | 76.05 | 090
20974 |  | A | Electrical bone stimulation | 0.62 | 0.63 | 0.56 | 0.09 | 1.34 | 1.27 | 000
20975 |  | A | Electrical bone stimulation | 2.60 | N/A | 1.76 | 0.42 | N/A | 4.78 | 000
20979 |  | A | Us bone stimulation | 0.62 | 0.78 | 0.34 | 0.04 | 1.44 | 1.00 | 000
20999 |  | C | Musculoskeletal surgery | 0.00 | 0.00 | 0.00 | 0.00 | 0.00 | 0.00 | YYY
21010 |  | A | Incision of jaw joint | 10.14 | N/A | 7.41 | 0.54 | N/A | 18.09 | 090
21015 |  | A | Resection of facial tumor | 5.29 | N/A | 5.73 | 0.52 | N/A | 11.54 | 090
21025 |  | A | Excision of bone, lower jaw | 10.06 | 10.50 | 8.40 | 0.79 | 21.35 | 19.25 | 090
21026 |  | A | Excision of facial bone(s) | 4.85 | 7.20 | 5.70 | 0.40 | 12.45 | 10.95 | 090
21029 |  | A | Contour of face bone lesion | 7.71 | 8.89 | 6.44 | 0.74 | 17.34 | 14.89 | 090
21030 |  | A | Excise max/zygoma b9 tumor | 3.89 | 5.93 | 4.17 | 0.60 | 10.42 | 8.66 | 090
21031 |  | A | Remove exostosis, mandible | 3.24 | 4.74 | 3.18 | 0.28 | 8.26 | 6.70 | 090
21032 |  | A | Remove exostosis, maxilla | 3.24 | 4.78 | 3.29 | 0.27 | 8.29 | 6.80 | 090
21034 |  | A | Excise max/zygoma mlg tumor | 16.17 | 13.91 | 11.51 | 1.37 | 31.45 | 29.05 | 090
21040 |  | A | Excise mandible lesion | 3.89 | 5.79 | 3.84 | 0.19 | 9.87 | 7.92 | 090
21044 |  | A | Removal of jaw bone lesion | 11.86 | N/A | 8.95 | 0.87 | N/A | 21.68 | 090
21045 |  | A | Extensive jaw surgery | 16.17 | N/A | 11.75 | 1.20 | N/A | 29.12 | 090
21046 |  | A | Remove mandible cyst complex | 13.00 | N/A | 13.21 | 1.01 | N/A | 27.22 | 090
21047 |  | A | Excise lwr jaw cyst w/repair | 18.75 | N/A | 13.84 | 1.53 | N/A | 34.12 | 090
21048 |  | A | Remove maxilla cyst complex | 13.50 | N/A | 13.50 | 1.01 | N/A | 28.01 | 090
21049 |  | A | Excis uppr jaw cyst w/repair | 18.00 | N/A | 13.41 | 1.01 | N/A | 32.42 | 090
21050 |  | A | Removal of jaw joint | 10.77 | N/A | 10.66 | 0.84 | N/A | 22.27 | 090
21060 |  | A | Remove jaw joint cartilage | 10.23 | N/A | 10.18 | 1.16 | N/A | 21.57 | 090
21070 |  | A | Remove coronoid process | 8.20 | N/A | 7.25 | 0.67 | N/A | 16.12 | 090
21076 |  | A | Prepare face/oral prosthesis | 13.42 | 13.19 | 10.52 | 1.36 | 27.97 | 25.30 | 010
21077 |  | A | Prepare face/oral prosthesis | 33.75 | 33.45 | 27.14 | 3.43 | 70.63 | 64.32 | 090
21079 |  | A | Prepare face/oral prosthesis | 22.34 | 23.11 | 18.12 | 1.59 | 47.04 | 42.05 | 090
21080 |  | A | Prepare face/oral prosthesis | 25.10 | 26.21 | 20.48 | 2.55 | 53.86 | 48.13 | 090
21081 |  | A | Prepare face/oral prosthesis | 22.88 | 23.87 | 18.42 | 1.87 | 48.62 | 43.17 | 090
21082 |  | A | Prepare face/oral prosthesis | 20.87 | 20.66 | 16.57 | 1.46 | 42.99 | 38.90 | 090
21083 |  | A | Prepare face/oral prosthesis | 19.30 | 20.13 | 15.24 | 1.96 | 41.39 | 36.50 | 090
21084 |  | A | Prepare face/oral prosthesis | 22.51 | 23.94 | 18.60 | 1.57 | 48.02 | 42.68 | 090
21085 |  | A | Prepare face/oral prosthesis | 9.00 | 8.84 | 7.11 | 0.65 | 18.49 | 16.76 | 010
21086 |  | A | Prepare face/oral prosthesis | 24.92 | 25.25 | 20.19 | 1.86 | 52.03 | 46.97 | 090
21087 |  | A | Prepare face/oral prosthesis | 24.92 | 24.82 | 20.06 | 2.22 | 51.96 | 47.20 | 090
21088 |  | C | Prepare face/oral prosthesis | 0.00 | 0.00 | 0.00 | 0.00 | 0.00 | 0.00 | 090
21089 |  | C | Prepare face/oral prosthesis | 0.00 | 0.00 | 0.00 | 0.00 | 0.00 | 0.00 | 090
21100 |  | A | Maxillofacial fixation | 4.22 | 5.72 | 4.67 | 0.18 | 10.12 | 9.07 | 090
21110 |  | A | Interdental fixation | 5.21 | 7.23 | 5.78 | 0.28 | 12.72 | 11.27 | 090
21116 |  | A | Injection, jaw joint x-ray | 0.81 | 5.67 | 0.34 | 0.05 | 6.53 | 1.20 | 000
21120 |  | A | Reconstruction of chin | 4.93 | 9.00 | 5.39 | 0.29 | 14.22 | 10.61 | 090
21121 |  | A | Reconstruction of chin | 7.64 | 10.71 | 6.82 | 0.56 | 18.91 | 15.02 | 090
21122 |  | A | Reconstruction of chin | 8.52 | N/A | 7.35 | 0.59 | N/A | 16.46 | 090
21123 |  | A | Reconstruction of chin | 11.16 | N/A | 8.49 | 1.16 | N/A | 20.81 | 090
21125 |  | A | Augmentation, lower jaw bone | 10.62 | 12.09 | 8.47 | 0.72 | 23.43 | 19.81 | 090
21127 |  | A | Augmentation, lower jaw bone | 11.12 | 14.95 | 9.29 | 0.76 | 26.83 | 21.17 | 090
21137 |  | A | Reduction of forehead | 9.82 | N/A | 7.62 | 0.53 | N/A | 17.97 | 090
21138 |  | A | Reduction of forehead | 12.19 | N/A | 9.53 | 1.47 | N/A | 23.19 | 090
21139 |  | A | Reduction of forehead | 14.61 | N/A | 10.04 | 1.02 | N/A | 25.67 | 090
21141 |  | A | Reconstruct midface, lefort | 18.10 | N/A | 14.30 | 1.63 | N/A | 34.03 | 090
21142 |  | A | Reconstruct midface, lefort | 18.81 | N/A | 13.41 | 1.16 | N/A | 33.38 | 090
21143 |  | A | Reconstruct midface, lefort | 19.58 | N/A | 14.55 | 0.90 | N/A | 35.03 | 090
21145 |  | A | Reconstruct midface, lefort | 19.94 | N/A | 14.57 | 2.09 | N/A | 36.60 | 090
21146 |  | A | Reconstruct midface, lefort | 20.71 | N/A | 16.02 | 2.13 | N/A | 38.86 | 090
21147 |  | A | Reconstruct midface, lefort | 21.77 | N/A | 15.70 | 1.52 | N/A | 38.99 | 090
21150 |  | A | Reconstruct midface, lefort | 25.24 | N/A | 14.42 | 1.09 | N/A | 40.75 | 090
21151 |  | A | Reconstruct midface, lefort | 28.30 | N/A | 17.70 | 1.98 | N/A | 47.98 | 090
21154 |  | A | Reconstruct midface, lefort | 30.52 | N/A | 20.75 | 4.86 | N/A | 56.13 | 090
21155 |  | A | Reconstruct midface, lefort | 34.45 | N/A | 21.92 | 5.48 | N/A | 61.85 | 090
21159 |  | A | Reconstruct midface, lefort | 42.38 | N/A | 25.08 | 6.74 | N/A | 74.20 | 090
21160 |  | A | Reconstruct midface, lefort | 46.44 | N/A | 24.97 | 4.39 | N/A | 75.80 | 090
21172 |  | A | Reconstruct orbit/forehead | 27.80 | N/A | 14.45 | 1.91 | N/A | 44.16 | 090
21175 |  | A | Reconstruct orbit/forehead | 33.17 | N/A | 18.80 | 5.16 | N/A | 57.13 | 090
21179 |  | A | Reconstruct entire forehead | 22.25 | N/A | 15.41 | 2.48 | N/A | 40.14 | 090
21180 |  | A | Reconstruct entire forehead | 25.19 | N/A | 16.64 | 2.15 | N/A | 43.98 | 090
21181 |  | A | Contour cranial bone lesion | 9.90 | N/A | 7.69 | 0.97 | N/A | 18.56 | 090
21182 |  | A | Reconstruct cranial bone | 32.19 | N/A | 20.18 | 2.53 | N/A | 54.90 | 090
21183 |  | A | Reconstruct cranial bone | 35.31 | N/A | 21.89 | 2.75 | N/A | 59.95 | 090
21184 |  | A | Reconstruct cranial bone | 38.24 | N/A | 22.40 | 4.12 | N/A | 64.76 | 090
21188 |  | A | Reconstruction of midface | 22.46 | N/A | 15.69 | 1.85 | N/A | 40.00 | 090
21193 |  | A | Reconst lwr jaw w/o graft | 17.15 | N/A | 13.39 | 1.53 | N/A | 32.07 | 090
21194 |  | A | Reconst lwr jaw w/graft | 19.84 | N/A | 14.47 | 1.39 | N/A | 35.70 | 090
21195 |  | A | Reconst lwr jaw w/o fixation | 17.24 | N/A | 13.70 | 1.20 | N/A | 32.14 | 090
21196 |  | A | Reconst lwr jaw w/fixation | 18.91 | N/A | 14.31 | 1.62 | N/A | 34.84 | 090
21198 |  | A | Reconstr lwr jaw segment | 14.16 | N/A | 11.32 | 1.05 | N/A | 26.53 | 090
21199 |  | A | Reconstr lwr jaw w/advance | 16.00 | N/A | 9.40 | 1.26 | N/A | 26.66 | 090
21206 |  | A | Reconstruct upper jaw bone | 14.10 | N/A | 11.14 | 1.01 | N/A | 26.25 | 090
21208 |  | A | Augmentation of facial bones | 10.23 | 14.95 | 9.40 | 0.92 | 26.10 | 20.55 | 090
21209 |  | A | Reduction of facial bones | 6.72 | 12.17 | 7.28 | 0.60 | 19.49 | 14.60 | 090
21210 |  | A | Face bone graft | 10.23 | 14.17 | 9.66 | 0.88 | 25.28 | 20.77 | 090
21215 |  | A | Lower jaw bone graft | 10.77 | 13.96 | 9.86 | 1.04 | 25.77 | 21.67 | 090
21230 |  | A | Rib cartilage graft | 10.77 | N/A | 8.86 | 0.96 | N/A | 20.59 | 090
21235 |  | A | Ear cartilage graft | 6.72 | 11.67 | 7.25 | 0.52 | 18.91 | 14.49 | 090
21240 |  | A | Reconstruction of jaw joint | 14.05 | N/A | 13.17 | 1.15 | N/A | 28.37 | 090
21242 |  | A | Reconstruction of jaw joint | 12.95 | N/A | 12.63 | 1.40 | N/A | 26.98 | 090
21243 |  | A | Reconstruction of jaw joint | 20.79 | N/A | 18.48 | 1.85 | N/A | 41.12 | 090
21244 |  | A | Reconstruction of lower jaw | 11.86 | N/A | 10.35 | 0.95 | N/A | 23.16 | 090
21245 |  | A | Reconstruction of jaw | 11.86 | 16.69 | 10.05 | 0.88 | 29.43 | 22.79 | 090
21246 |  | A | Reconstruction of jaw | 12.47 | 15.05 | 10.13 | 1.21 | 28.73 | 23.81 | 090
21247 |  | A | Reconstruct lower jaw bone | 22.63 | N/A | 18.53 | 2.21 | N/A | 43.37 | 090
21248 |  | A | Reconstruction of jaw | 11.48 | 13.46 | 9.59 | 1.01 | 25.95 | 22.08 | 090
21249 |  | A | Reconstruction of jaw | 17.52 | 17.12 | 13.05 | 1.39 | 36.03 | 31.96 | 090
21255 |  | A | Reconstruct lower jaw bone | 16.72 | N/A | 12.98 | 1.13 | N/A | 30.83 | 090
21256 |  | A | Reconstruction of orbit | 16.19 | N/A | 12.47 | 1.04 | N/A | 29.70 | 090
21260 |  | A | Revise eye sockets | 16.52 | N/A | 9.13 | 1.25 | N/A | 26.90 | 090
21261 |  | A | Revise eye sockets | 31.49 | N/A | 19.67 | 2.20 | N/A | 53.36 | 090
21263 |  | A | Revise eye sockets | 28.42 | N/A | 13.14 | 2.16 | N/A | 43.72 | 090
21267 |  | A | Revise eye sockets | 18.90 | N/A | 13.58 | 1.35 | N/A | 33.83 | 090
21268 |  | A | Revise eye sockets | 24.48 | N/A | 15.66 | 0.79 | N/A | 40.93 | 090
21270 |  | A | Augmentation, cheek bone | 10.23 | 12.35 | 8.36 | 0.73 | 23.31 | 19.32 | 090
21275 |  | A | Revision, orbitofacial bones | 11.24 | N/A | 9.10 | 1.03 | N/A | 21.37 | 090
21280 |  | A | Revision of eyelid | 6.03 | N/A | 6.18 | 0.27 | N/A | 12.48 | 090
21282 |  | A | Revision of eyelid | 3.49 | N/A | 4.84 | 0.21 | N/A | 8.54 | 090
21295 |  | A | Revision of jaw muscle/bone | 1.53 | N/A | 3.02 | 0.13 | N/A | 4.68 | 090
21296 |  | A | Revision of jaw muscle/bone | 4.25 | N/A | 4.65 | 0.30 | N/A | 9.20 | 090
21299 |  | C | Cranio/maxillofacial surgery | 0.00 | 0.00 | 0.00 | 0.00 | 0.00 | 0.00 | YYY
21300 |  | A | Treatment of skull fracture | 0.72 | 2.48 | 0.26 | 0.09 | 3.29 | 1.07 | 000
21310 |  | A | Treatment of nose fracture | 0.58 | 2.44 | 0.15 | 0.05 | 3.07 | 0.78 | 000
21315 |  | A | Treatment of nose fracture | 1.51 | 3.18 | 1.31 | 0.12 | 4.81 | 2.94 | 010
21320 |  | A | Treatment of nose fracture | 1.85 | 4.44 | 1.89 | 0.15 | 6.44 | 3.89 | 010
21325 |  | A | Treatment of nose fracture | 3.77 | N/A | 3.84 | 0.31 | N/A | 7.92 | 090
21330 |  | A | Treatment of nose fracture | 5.38 | N/A | 5.44 | 0.48 | N/A | 11.30 | 090
21335 |  | A | Treatment of nose fracture | 8.61 | N/A | 7.02 | 0.64 | N/A | 16.27 | 090
21336 |  | A | Treat nasal septal fracture | 5.72 | N/A | 6.18 | 0.45 | N/A | 12.35 | 090
21337 |  | A | Treat nasal septal fracture | 2.70 | 5.27 | 3.75 | 0.22 | 8.19 | 6.67 | 090
21338 |  | A | Treat nasoethmoid fracture | 6.46 | N/A | 6.14 | 0.53 | N/A | 13.13 | 090
21339 |  | A | Treat nasoethmoid fracture | 8.09 | N/A | 6.90 | 0.76 | N/A | 15.75 | 090
21340 |  | A | Treatment of nose fracture | 10.77 | N/A | 8.99 | 0.85 | N/A | 20.61 | 090
21343 |  | A | Treatment of sinus fracture | 12.95 | N/A | 10.37 | 1.06 | N/A | 24.38 | 090
21344 |  | A | Treatment of sinus fracture | 19.72 | N/A | 14.00 | 1.72 | N/A | 35.44 | 090
21345 |  | A | Treat nose/jaw fracture | 8.16 | 12.01 | 8.21 | 0.60 | 20.77 | 16.97 | 090
21346 |  | A | Treat nose/jaw fracture | 10.61 | 13.67 | 9.41 | 0.85 | 25.13 | 20.87 | 090
21347 |  | A | Treat nose/jaw fracture | 12.69 | N/A | 10.02 | 1.14 | N/A | 23.85 | 090
21348 |  | A | Treat nose/jaw fracture | 16.69 | N/A | 11.60 | 1.50 | N/A | 29.79 | 090
21355 |  | A | Treat cheek bone fracture | 3.77 | 4.86 | 2.43 | 0.29 | 8.92 | 6.49 | 010
21356 |  | A | Treat cheek bone fracture | 4.15 | 12.21 | 3.31 | 0.36 | 16.72 | 7.82 | 010
21360 |  | A | Treat cheek bone fracture | 6.46 | 14.59 | 6.32 | 0.52 | 21.57 | 13.30 | 090
21365 |  | A | Treat cheek bone fracture | 14.95 | N/A | 12.08 | 1.30 | N/A | 28.33 | 090
21366 |  | A | Treat cheek bone fracture | 17.77 | N/A | 11.97 | 1.41 | N/A | 31.15 | 090
21385 |  | A | Treat eye socket fracture | 9.16 | N/A | 7.32 | 0.64 | N/A | 17.12 | 090
21386 |  | A | Treat eye socket fracture | 9.16 | N/A | 7.73 | 0.76 | N/A | 17.65 | 090
21387 |  | A | Treat eye socket fracture | 9.70 | N/A | 7.81 | 0.78 | N/A | 18.29 | 090
21390 |  | A | Treat eye socket fracture | 10.13 | N/A | 8.27 | 0.70 | N/A | 19.10 | 090
21395 |  | A | Treat eye socket fracture | 12.68 | N/A | 9.62 | 1.09 | N/A | 23.39 | 090
21400 |  | A | Treat eye socket fracture | 1.40 | 3.80 | 2.10 | 0.12 | 5.32 | 3.62 | 090
21401 |  | A | Treat eye socket fracture | 3.26 | 5.11 | 3.84 | 0.34 | 8.71 | 7.44 | 090
21406 |  | A | Treat eye socket fracture | 7.01 | N/A | 6.58 | 0.59 | N/A | 14.18 | 090
21407 |  | A | Treat eye socket fracture | 8.61 | N/A | 7.38 | 0.67 | N/A | 16.66 | 090
21408 |  | A | Treat eye socket fracture | 12.38 | N/A | 9.49 | 1.24 | N/A | 23.11 | 090
21421 |  | A | Treat mouth roof fracture | 5.14 | 10.22 | 6.31 | 0.42 | 15.78 | 11.87 | 090
21422 |  | A | Treat mouth roof fracture | 8.32 | 11.73 | 7.38 | 0.69 | 20.74 | 16.39 | 090
21423 |  | A | Treat mouth roof fracture | 10.40 | N/A | 8.72 | 0.95 | N/A | 20.07 | 090
21431 |  | A | Treat craniofacial fracture | 7.05 | 11.10 | 7.15 | 0.58 | 18.73 | 14.78 | 090
21432 |  | A | Treat craniofacial fracture | 8.61 | N/A | 6.53 | 0.55 | N/A | 15.69 | 090
21433 |  | A | Treat craniofacial fracture | 25.35 | N/A | 17.38 | 2.46 | N/A | 45.19 | 090
21435 |  | A | Treat craniofacial fracture | 17.25 | N/A | 13.41 | 1.66 | N/A | 32.32 | 090
21436 |  | A | Treat craniofacial fracture | 28.04 | N/A | 18.94 | 2.32 | N/A | 49.30 | 090
21440 |  | A | Treat dental ridge fracture | 2.70 | 8.32 | 4.22 | 0.22 | 11.24 | 7.14 | 090
21445 |  | A | Treat dental ridge fracture | 5.38 | 10.81 | 6.48 | 0.55 | 16.74 | 12.41 | 090
21450 |  | A | Treat lower jaw fracture | 2.97 | 11.00 | 3.86 | 0.23 | 14.20 | 7.06 | 090
21451 |  | A | Treat lower jaw fracture | 4.87 | 9.15 | 6.00 | 0.39 | 14.41 | 11.26 | 090
21452 |  | A | Treat lower jaw fracture | 1.98 | 8.19 | 3.81 | 0.14 | 10.31 | 5.93 | 090
21453 |  | A | Treat lower jaw fracture | 5.54 | 10.89 | 7.07 | 0.49 | 16.92 | 13.10 | 090
21454 |  | A | Treat lower jaw fracture | 6.46 | N/A | 6.62 | 0.55 | N/A | 13.63 | 090
21461 |  | A | Treat lower jaw fracture | 8.09 | 12.99 | 8.58 | 0.73 | 21.81 | 17.40 | 090
21462 |  | A | Treat lower jaw fracture | 9.79 | 14.58 | 9.31 | 0.80 | 25.17 | 19.90 | 090
21465 |  | A | Treat lower jaw fracture | 11.91 | N/A | 10.16 | 0.84 | N/A | 22.91 | 090
21470 |  | A | Treat lower jaw fracture | 15.34 | N/A | 12.41 | 1.36 | N/A | 29.11 | 090
21480 |  | A | Reset dislocated jaw | 0.61 | 2.06 | 0.19 | 0.05 | 2.72 | 0.85 | 000
21485 |  | A | Reset dislocated jaw | 3.99 | 6.15 | 4.92 | 0.31 | 10.45 | 9.22 | 090
21490 |  | A | Repair dislocated jaw | 11.86 | N/A | 10.03 | 1.31 | N/A | 23.20 | 090
21493 |  | A | Treat hyoid bone fracture | 1.27 | N/A | 2.96 | 0.10 | N/A | 4.33 | 090
21494 |  | A | Treat hyoid bone fracture | 6.28 | N/A | 5.91 | 0.44 | N/A | 12.63 | 090
21495 |  | A | Treat hyoid bone fracture | 5.69 | N/A | 6.18 | 0.41 | N/A | 12.28 | 090
21497 |  | A | Interdental wiring | 3.86 | 6.77 | 5.16 | 0.31 | 10.94 | 9.33 | 090
21499 |  | C | Head surgery procedure | 0.00 | 0.00 | 0.00 | 0.00 | 0.00 | 0.00 | YYY
21501 |  | A | Drain neck/chest lesion | 3.81 | 4.79 | 3.95 | 0.36 | 8.96 | 8.12 | 090
21502 |  | A | Drain chest lesion | 7.12 | N/A | 5.71 | 0.79 | N/A | 13.62 | 090
21510 |  | A | Drainage of bone lesion | 5.74 | N/A | 5.65 | 0.67 | N/A | 12.06 | 090
21550 |  | A | Biopsy of neck/chest | 2.06 | 3.65 | 1.75 | 0.13 | 5.84 | 3.94 | 010
21555 |  | A | Remove lesion, neck/chest | 4.35 | 5.15 | 3.21 | 0.41 | 9.91 | 7.97 | 090
21556 |  | A | Remove lesion, neck/chest | 5.57 | N/A | 4.09 | 0.51 | N/A | 10.17 | 090
21557 |  | A | Remove tumor, neck/chest | 8.88 | N/A | 5.68 | 0.85 | N/A | 15.41 | 090
21600 |  | A | Partial removal of rib | 6.89 | N/A | 5.79 | 0.81 | N/A | 13.49 | 090
21610 |  | A | Partial removal of rib | 14.61 | N/A | 9.25 | 1.85 | N/A | 25.71 | 090
21615 |  | A | Removal of rib | 9.87 | N/A | 6.63 | 1.20 | N/A | 17.70 | 090
21616 |  | A | Removal of rib and nerves | 12.04 | N/A | 8.00 | 1.31 | N/A | 21.35 | 090
21620 |  | A | Partial removal of sternum | 6.79 | N/A | 6.09 | 0.77 | N/A | 13.65 | 090
21627 |  | A | Sternal debridement | 6.81 | N/A | 6.82 | 0.82 | N/A | 14.45 | 090
21630 |  | A | Extensive sternum surgery | 17.38 | N/A | 11.99 | 1.95 | N/A | 31.32 | 090
21632 |  | A | Extensive sternum surgery | 18.14 | N/A | 10.78 | 2.16 | N/A | 31.08 | 090
21700 |  | A | Revision of neck muscle | 6.19 | 6.23 | 4.88 | 0.31 | 12.73 | 11.38 | 090
21705 |  | A | Revision of neck muscle/rib | 9.60 | N/A | 5.79 | 0.92 | N/A | 16.31 | 090
21720 |  | A | Revision of neck muscle | 5.68 | 5.68 | 4.78 | 0.80 | 12.16 | 11.26 | 090
21725 |  | A | Revision of neck muscle | 6.99 | N/A | 5.72 | 0.90 | N/A | 13.61 | 090
21740 |  | A | Reconstruction of sternum | 16.50 | N/A | 8.67 | 2.03 | N/A | 27.20 | 090
21742 |  | C | Repair stern/nuss w/o scope | 0.00 | 0.00 | 0.00 | 0.00 | 0.00 | 0.00 | 090
21743 |  | C | Repair sternum/nuss w/scope | 0.00 | 0.00 | 0.00 | 0.00 | 0.00 | 0.00 | 090
21750 |  | A | Repair of sternum separation | 10.77 | N/A | 6.16 | 1.35 | N/A | 18.28 | 090
21800 |  | A | Treatment of rib fracture | 0.96 | 2.15 | 1.43 | 0.09 | 3.20 | 2.48 | 090
21805 |  | A | Treatment of rib fracture | 2.75 | N/A | 3.31 | 0.29 | N/A | 6.35 | 090
21810 |  | A | Treatment of rib fracture(s) | 6.86 | N/A | 5.04 | 0.60 | N/A | 12.50 | 090
21820 |  | A | Treat sternum fracture | 1.28 | 2.68 | 1.85 | 0.15 | 4.11 | 3.28 | 090
21825 |  | A | Treat sternum fracture | 7.41 | N/A | 6.48 | 0.84 | N/A | 14.73 | 090
21899 |  | C | Neck/chest surgery procedure | 0.00 | 0.00 | 0.00 | 0.00 | 0.00 | 0.00 | YYY
21920 |  | A | Biopsy soft tissue of back | 2.06 | 3.27 | 1.50 | 0.12 | 5.45 | 3.68 | 010
21925 |  | A | Biopsy soft tissue of back | 4.49 | 9.16 | 3.44 | 0.44 | 14.09 | 8.37 | 090
21930 |  | A | Remove lesion, back or flank | 5.00 | 5.49 | 3.42 | 0.49 | 10.98 | 8.91 | 090
21935 |  | A | Remove tumor, back | 17.96 | N/A | 10.50 | 1.87 | N/A | 30.33 | 090
22100 |  | A | Remove part of neck vertebra | 9.73 | N/A | 7.82 | 1.55 | N/A | 19.10 | 090
22101 |  | A | Remove part, thorax vertebra | 9.81 | N/A | 8.04 | 1.51 | N/A | 19.36 | 090
22102 |  | A | Remove part, lumbar vertebra | 9.81 | N/A | 8.30 | 1.46 | N/A | 19.57 | 090
22103 |  | A | Remove extra spine segment | 2.34 | N/A | 1.24 | 0.37 | N/A | 3.95 | ZZZ
22110 |  | A | Remove part of neck vertebra | 12.74 | N/A | 9.54 | 2.20 | N/A | 24.48 | 090
22112 |  | A | Remove part, thorax vertebra | 12.81 | N/A | 9.56 | 1.96 | N/A | 24.33 | 090
22114 |  | A | Remove part, lumbar vertebra | 12.81 | N/A | 9.58 | 1.98 | N/A | 24.37 | 090
22116 |  | A | Remove extra spine segment | 2.32 | N/A | 1.19 | 0.40 | N/A | 3.91 | ZZZ
22210 |  | A | Revision of neck spine | 23.82 | N/A | 15.88 | 4.23 | N/A | 43.93 | 090
22212 |  | A | Revision of thorax spine | 19.42 | N/A | 13.57 | 2.78 | N/A | 35.77 | 090
22214 |  | A | Revision of lumbar spine | 19.45 | N/A | 14.04 | 2.78 | N/A | 36.27 | 090
22216 |  | A | Revise, extra spine segment | 6.04 | N/A | 3.20 | 0.98 | N/A | 10.22 | ZZZ
22220 |  | A | Revision of neck spine | 21.37 | N/A | 14.10 | 3.65 | N/A | 39.12 | 090
22222 |  | A | Revision of thorax spine | 21.52 | N/A | 11.93 | 3.08 | N/A | 36.53 | 090
22224 |  | A | Revision of lumbar spine | 21.52 | N/A | 14.60 | 3.20 | N/A | 39.32 | 090
22226 |  | A | Revise, extra spine segment | 6.04 | N/A | 3.16 | 1.01 | N/A | 10.21 | ZZZ
22305 |  | A | Treat spine process fracture | 2.05 | 3.25 | 2.43 | 0.29 | 5.59 | 4.77 | 090
22310 |  | A | Treat spine fracture | 2.61 | 4.98 | 4.20 | 0.37 | 7.96 | 7.18 | 090
22315 |  | A | Treat spine fracture | 8.84 | 18.69 | 7.74 | 1.37 | 28.90 | 17.95 | 090
22318 |  | A | Treat odontoid fx w/o graft | 21.50 | N/A | 13.81 | 4.26 | N/A | 39.57 | 090
22319 |  | A | Treat odontoid fx w/graft | 24.00 | N/A | 15.33 | 4.76 | N/A | 44.09 | 090
22325 |  | A | Treat spine fracture | 18.30 | N/A | 12.41 | 2.61 | N/A | 33.32 | 090
22326 |  | A | Treat neck spine fracture | 19.59 | N/A | 13.20 | 3.54 | N/A | 36.33 | 090
22327 |  | A | Treat thorax spine fracture | 19.20 | N/A | 12.71 | 2.75 | N/A | 34.66 | 090
22328 |  | A | Treat each add spine fx | 4.61 | N/A | 2.32 | 0.66 | N/A | 7.59 | ZZZ
22505 |  | A | Manipulation of spine | 1.87 | N/A | 0.95 | 0.27 | N/A | 3.09 | 010
22520 |  | A | Percut vertebroplasty thor | 8.91 | 104.96 | 4.40 | 0.99 | 114.86 | 14.30 | 010
22521 |  | A | Percut vertebroplasty lumb | 8.34 | 93.70 | 4.24 | 0.93 | 102.97 | 13.51 | 010
22522 |  | A | Percut vertebroplasty addl | 4.31 | N/A | 1.72 | 0.33 | N/A | 6.36 | ZZZ
22548 |  | A | Neck spine fusion | 25.82 | N/A | 16.15 | 4.98 | N/A | 46.95 | 090
22554 |  | A | Neck spine fusion | 18.62 | N/A | 12.57 | 3.51 | N/A | 34.70 | 090
22556 |  | A | Thorax spine fusion | 23.46 | N/A | 14.91 | 3.78 | N/A | 42.15 | 090
22558 |  | A | Lumbar spine fusion | 22.28 | N/A | 13.45 | 3.18 | N/A | 38.91 | 090
22585 |  | A | Additional spinal fusion | 5.53 | N/A | 2.86 | 0.98 | N/A | 9.37 | ZZZ
22590 |  | A | Spine & skull spinal fusion | 20.51 | N/A | 13.57 | 3.81 | N/A | 37.89 | 090
22595 |  | A | Neck spinal fusion | 19.39 | N/A | 13.06 | 3.62 | N/A | 36.07 | 090
22600 |  | A | Neck spine fusion | 16.14 | N/A | 11.37 | 2.89 | N/A | 30.40 | 090
22610 |  | A | Thorax spine fusion | 16.02 | N/A | 11.55 | 2.66 | N/A | 30.23 | 090
22612 |  | A | Lumbar spine fusion | 21.00 | N/A | 14.36 | 3.28 | N/A | 38.64 | 090
22614 |  | A | Spine fusion, extra segment | 6.44 | N/A | 3.43 | 1.04 | N/A | 10.91 | ZZZ
22630 |  | A | Lumbar spine fusion | 20.84 | N/A | 13.82 | 3.79 | N/A | 38.45 | 090
22632 |  | A | Spine fusion, extra segment | 5.23 | N/A | 2.73 | 0.90 | N/A | 8.86 | ZZZ
22800 |  | A | Fusion of spine | 18.25 | N/A | 12.88 | 2.71 | N/A | 33.84 | 090
22802 |  | A | Fusion of spine | 30.88 | N/A | 19.84 | 4.42 | N/A | 55.14 | 090
22804 |  | A | Fusion of spine | 36.27 | N/A | 23.00 | 5.23 | N/A | 64.50 | 090
22808 |  | A | Fusion of spine | 26.27 | N/A | 16.55 | 4.36 | N/A | 47.18 | 090
22810 |  | A | Fusion of spine | 30.27 | N/A | 18.61 | 4.49 | N/A | 53.37 | 090
22812 |  | A | Fusion of spine | 32.70 | N/A | 20.21 | 4.67 | N/A | 57.58 | 090
22818 |  | A | Kyphectomy, 1-2 segments | 31.83 | N/A | 19.30 | 5.01 | N/A | 56.14 | 090
22819 |  | A | Kyphectomy, 3 or more | 36.44 | N/A | 20.38 | 5.20 | N/A | 62.02 | 090
22830 |  | A | Exploration of spinal fusion | 10.85 | N/A | 8.13 | 1.73 | N/A | 20.71 | 090
22840 |  | A | Insert spine fixation device | 12.54 | N/A | 6.64 | 2.03 | N/A | 21.21 | ZZZ
22842 |  | A | Insert spine fixation device | 12.58 | N/A | 6.66 | 2.04 | N/A | 21.28 | ZZZ
22843 |  | A | Insert spine fixation device | 13.46 | N/A | 6.75 | 2.10 | N/A | 22.31 | ZZZ
22844 |  | A | Insert spine fixation device | 16.44 | N/A | 8.95 | 2.42 | N/A | 27.81 | ZZZ
22845 |  | A | Insert spine fixation device | 11.96 | N/A | 6.22 | 2.22 | N/A | 20.40 | ZZZ
22846 |  | A | Insert spine fixation device | 12.42 | N/A | 6.48 | 2.26 | N/A | 21.16 | ZZZ
22847 |  | A | Insert spine fixation device | 13.80 | N/A | 7.19 | 2.36 | N/A | 23.35 | ZZZ
22848 |  | A | Insert pelv fixation device | 6.00 | N/A | 3.26 | 0.88 | N/A | 10.14 | ZZZ
22849 |  | A | Reinsert spinal fixation | 18.51 | N/A | 12.17 | 2.87 | N/A | 33.55 | 090
22850 |  | A | Remove spine fixation device | 9.52 | N/A | 7.28 | 1.51 | N/A | 18.31 | 090
22851 |  | A | Apply spine prosth device | 6.71 | N/A | 3.44 | 1.11 | N/A | 11.26 | ZZZ
22852 |  | A | Remove spine fixation device | 9.01 | N/A | 7.06 | 1.40 | N/A | 17.47 | 090
22855 |  | A | Remove spine fixation device | 15.13 | N/A | 10.02 | 2.74 | N/A | 27.89 | 090
22899 |  | C | Spine surgery procedure | 0.00 | 0.00 | 0.00 | 0.00 | 0.00 | 0.00 | YYY
22900 |  | A | Remove abdominal wall lesion | 5.80 | N/A | 3.32 | 0.58 | N/A | 9.70 | 090
22999 |  | C | Abdomen surgery procedure | 0.00 | 0.00 | 0.00 | 0.00 | 0.00 | 0.00 | YYY
23000 |  | A | Removal of calcium deposits | 4.36 | 5.59 | 4.74 | 0.50 | 10.45 | 9.60 | 090
23020 |  | A | Release shoulder joint | 8.93 | N/A | 7.82 | 1.23 | N/A | 17.98 | 090
23030 |  | A | Drain shoulder lesion | 3.43 | 3.07 | 2.97 | 0.42 | 6.92 | 6.82 | 010
23031 |  | A | Drain shoulder bursa | 2.74 | 2.73 | 2.73 | 0.33 | 5.80 | 5.80 | 010
23035 |  | A | Drain shoulder bone lesion | 8.61 | N/A | 9.12 | 1.19 | N/A | 18.92 | 090
23040 |  | A | Exploratory shoulder surgery | 9.20 | N/A | 8.20 | 1.28 | N/A | 18.68 | 090
23044 |  | A | Exploratory shoulder surgery | 7.12 | N/A | 6.80 | 0.97 | N/A | 14.89 | 090
23065 |  | A | Biopsy shoulder tissues | 2.27 | 2.88 | 1.55 | 0.14 | 5.29 | 3.96 | 010
23066 |  | A | Biopsy shoulder tissues | 4.16 | 5.19 | 4.18 | 0.50 | 9.85 | 8.84 | 090
23075 |  | A | Removal of shoulder lesion | 2.39 | 2.27 | 1.82 | 0.25 | 4.91 | 4.46 | 010
23076 |  | A | Removal of shoulder lesion | 7.63 | N/A | 5.88 | 0.87 | N/A | 14.38 | 090
23077 |  | A | Remove tumor of shoulder | 16.09 | N/A | 11.03 | 1.81 | N/A | 28.93 | 090
23100 |  | A | Biopsy of shoulder joint | 6.03 | N/A | 5.89 | 0.81 | N/A | 12.73 | 090
23101 |  | A | Shoulder joint surgery | 5.58 | N/A | 5.68 | 0.77 | N/A | 12.03 | 090
23105 |  | A | Remove shoulder joint lining | 8.23 | N/A | 7.41 | 1.13 | N/A | 16.77 | 090
23106 |  | A | Incision of collarbone joint | 5.96 | N/A | 5.93 | 0.82 | N/A | 12.71 | 090
23107 |  | A | Explore treat shoulder joint | 8.62 | N/A | 7.63 | 1.19 | N/A | 17.44 | 090
23120 |  | A | Partial removal, collar bone | 7.11 | N/A | 6.70 | 0.99 | N/A | 14.80 | 090
23125 |  | A | Removal of collar bone | 9.39 | N/A | 7.85 | 1.27 | N/A | 18.51 | 090
23130 |  | A | Remove shoulder bone, part | 7.55 | N/A | 7.23 | 1.06 | N/A | 15.84 | 090
23140 |  | A | Removal of bone lesion | 6.89 | N/A | 5.56 | 0.82 | N/A | 13.27 | 090
23145 |  | A | Removal of bone lesion | 9.09 | N/A | 7.92 | 1.24 | N/A | 18.25 | 090
23146 |  | A | Removal of bone lesion | 7.83 | N/A | 7.39 | 1.11 | N/A | 16.33 | 090
23150 |  | A | Removal of humerus lesion | 8.48 | N/A | 7.19 | 1.14 | N/A | 16.81 | 090
23155 |  | A | Removal of humerus lesion | 10.35 | N/A | 8.64 | 1.20 | N/A | 20.19 | 090
23156 |  | A | Removal of humerus lesion | 8.68 | N/A | 7.63 | 1.18 | N/A | 17.49 | 090
23170 |  | A | Remove collar bone lesion | 6.86 | N/A | 6.60 | 0.84 | N/A | 14.30 | 090
23172 |  | A | Remove shoulder blade lesion | 6.90 | N/A | 6.70 | 0.95 | N/A | 14.55 | 090
23174 |  | A | Remove humerus lesion | 9.51 | N/A | 8.63 | 1.30 | N/A | 19.44 | 090
23180 |  | A | Remove collar bone lesion | 8.53 | N/A | 9.76 | 1.18 | N/A | 19.47 | 090
23182 |  | A | Remove shoulder blade lesion | 8.15 | N/A | 9.36 | 1.08 | N/A | 18.59 | 090
23184 |  | A | Remove humerus lesion | 9.38 | N/A | 10.12 | 1.24 | N/A | 20.74 | 090
23190 |  | A | Partial removal of scapula | 7.24 | N/A | 6.34 | 0.97 | N/A | 14.55 | 090
23195 |  | A | Removal of head of humerus | 9.81 | N/A | 8.00 | 1.38 | N/A | 19.19 | 090
23200 |  | A | Removal of collar bone | 12.08 | N/A | 9.24 | 1.48 | N/A | 22.80 | 090
23210 |  | A | Removal of shoulder blade | 12.49 | N/A | 9.61 | 1.61 | N/A | 23.71 | 090
23220 |  | A | Partial removal of humerus | 14.56 | N/A | 11.28 | 2.03 | N/A | 27.87 | 090
23221 |  | A | Partial removal of humerus | 17.74 | N/A | 12.23 | 2.51 | N/A | 32.48 | 090
23222 |  | A | Partial removal of humerus | 23.92 | N/A | 16.44 | 3.37 | N/A | 43.73 | 090
23330 |  | A | Remove shoulder foreign body | 1.85 | 2.08 | 1.89 | 0.18 | 4.11 | 3.92 | 010
23331 |  | A | Remove shoulder foreign body | 7.38 | N/A | 7.02 | 1.02 | N/A | 15.42 | 090
23332 |  | A | Remove shoulder foreign body | 11.62 | N/A | 9.49 | 1.62 | N/A | 22.73 | 090
23350 |  | A | Injection for shoulder x-ray | 1.00 | 3.88 | 0.34 | 0.05 | 4.93 | 1.39 | 000
23395 |  | A | Muscle transfer,shoulder/arm | 16.85 | N/A | 12.87 | 2.29 | N/A | 32.01 | 090
23397 |  | A | Muscle transfers | 16.13 | N/A | 11.59 | 2.24 | N/A | 29.96 | 090
23400 |  | A | Fixation of shoulder blade | 13.54 | N/A | 10.42 | 1.91 | N/A | 25.87 | 090
23405 |  | A | Incision of tendon & muscle | 8.37 | N/A | 7.08 | 1.12 | N/A | 16.57 | 090
23406 |  | A | Incise tendon(s) & muscle(s) | 10.79 | N/A | 8.66 | 1.48 | N/A | 20.93 | 090
23410 |  | A | Repair rotator cuff, acute | 12.45 | N/A | 9.69 | 1.72 | N/A | 23.86 | 090
23412 |  | A | Repair rotator cuff, chronic | 13.31 | N/A | 10.19 | 1.86 | N/A | 25.36 | 090
23415 |  | A | Release of shoulder ligament | 9.97 | N/A | 8.12 | 1.39 | N/A | 19.48 | 090
23420 |  | A | Repair of shoulder | 13.30 | N/A | 11.08 | 1.86 | N/A | 26.24 | 090
23430 |  | A | Repair biceps tendon | 9.98 | N/A | 8.36 | 1.40 | N/A | 19.74 | 090
23440 |  | A | Remove/transplant tendon | 10.48 | N/A | 8.55 | 1.47 | N/A | 20.50 | 090
23450 |  | A | Repair shoulder capsule | 13.40 | N/A | 10.16 | 1.86 | N/A | 25.42 | 090
23455 |  | A | Repair shoulder capsule | 14.37 | N/A | 10.75 | 2.01 | N/A | 27.13 | 090
23460 |  | A | Repair shoulder capsule | 15.37 | N/A | 11.58 | 2.17 | N/A | 29.12 | 090
23462 |  | A | Repair shoulder capsule | 15.30 | N/A | 11.08 | 2.16 | N/A | 28.54 | 090
23465 |  | A | Repair shoulder capsule | 15.85 | N/A | 11.52 | 1.61 | N/A | 28.98 | 090
23466 |  | A | Repair shoulder capsule | 14.22 | N/A | 11.48 | 2.00 | N/A | 27.70 | 090
23470 |  | A | Reconstruct shoulder joint | 17.15 | N/A | 12.30 | 2.40 | N/A | 31.85 | 090
23472 |  | A | Reconstruct shoulder joint | 21.10 | N/A | 14.54 | 2.37 | N/A | 38.01 | 090
23480 |  | A | Revision of collar bone | 11.18 | N/A | 9.04 | 1.56 | N/A | 21.78 | 090
23485 |  | A | Revision of collar bone | 13.43 | N/A | 10.19 | 1.84 | N/A | 25.46 | 090
23490 |  | A | Reinforce clavicle | 11.86 | N/A | 8.96 | 1.11 | N/A | 21.93 | 090
23491 |  | A | Reinforce shoulder bones | 14.21 | N/A | 10.90 | 2.00 | N/A | 27.11 | 090
23500 |  | A | Treat clavicle fracture | 2.08 | 3.73 | 2.61 | 0.26 | 6.07 | 4.95 | 090
23505 |  | A | Treat clavicle fracture | 3.69 | 5.52 | 3.92 | 0.50 | 9.71 | 8.11 | 090
23515 |  | A | Treat clavicle fracture | 7.41 | N/A | 6.65 | 1.03 | N/A | 15.09 | 090
23520 |  | A | Treat clavicle dislocation | 2.16 | 3.73 | 2.76 | 0.26 | 6.15 | 5.18 | 090
23525 |  | A | Treat clavicle dislocation | 3.60 | 5.35 | 3.95 | 0.44 | 9.39 | 7.99 | 090
23530 |  | A | Treat clavicle dislocation | 7.31 | N/A | 6.08 | 0.85 | N/A | 14.24 | 090
23532 |  | A | Treat clavicle dislocation | 8.01 | N/A | 7.05 | 1.13 | N/A | 16.19 | 090
23540 |  | A | Treat clavicle dislocation | 2.23 | 4.34 | 2.51 | 0.24 | 6.81 | 4.98 | 090
23545 |  | A | Treat clavicle dislocation | 3.25 | 4.59 | 3.45 | 0.39 | 8.23 | 7.09 | 090
23550 |  | A | Treat clavicle dislocation | 7.24 | N/A | 6.51 | 0.94 | N/A | 14.69 | 090
23552 |  | A | Treat clavicle dislocation | 8.45 | N/A | 7.40 | 1.18 | N/A | 17.03 | 090
23570 |  | A | Treat shoulder blade fx | 2.23 | 3.74 | 2.92 | 0.29 | 6.26 | 5.44 | 090
23575 |  | A | Treat shoulder blade fx | 4.06 | 5.87 | 4.33 | 0.53 | 10.46 | 8.92 | 090
23585 |  | A | Treat scapula fracture | 8.96 | N/A | 7.74 | 1.25 | N/A | 17.95 | 090
23600 |  | A | Treat humerus fracture | 2.93 | 5.73 | 3.80 | 0.39 | 9.05 | 7.12 | 090
23605 |  | A | Treat humerus fracture | 4.87 | 7.03 | 5.36 | 0.67 | 12.57 | 10.90 | 090
23615 |  | A | Treat humerus fracture | 9.35 | N/A | 8.86 | 1.31 | N/A | 19.52 | 090
23616 |  | A | Treat humerus fracture | 21.27 | N/A | 14.39 | 2.98 | N/A | 38.64 | 090
23620 |  | A | Treat humerus fracture | 2.40 | 5.29 | 3.29 | 0.32 | 8.01 | 6.01 | 090
23625 |  | A | Treat humerus fracture | 3.93 | 6.54 | 4.74 | 0.53 | 11.00 | 9.20 | 090
23630 |  | A | Treat humerus fracture | 7.35 | N/A | 6.71 | 1.03 | N/A | 15.09 | 090
23650 |  | A | Treat shoulder dislocation | 3.39 | 4.87 | 2.99 | 0.31 | 8.57 | 6.69 | 090
23655 |  | A | Treat shoulder dislocation | 4.57 | N/A | 4.17 | 0.52 | N/A | 9.26 | 090
23660 |  | A | Treat shoulder dislocation | 7.49 | N/A | 6.48 | 1.01 | N/A | 14.98 | 090
23665 |  | A | Treat dislocation/fracture | 4.47 | 6.81 | 5.13 | 0.60 | 11.88 | 10.20 | 090
23670 |  | A | Treat dislocation/fracture | 7.90 | N/A | 6.95 | 1.10 | N/A | 15.95 | 090
23675 |  | A | Treat dislocation/fracture | 6.05 | 7.70 | 6.17 | 0.83 | 14.58 | 13.05 | 090
23680 |  | A | Treat dislocation/fracture | 10.06 | N/A | 8.24 | 1.39 | N/A | 19.69 | 090
23700 |  | A | Fixation of shoulder | 2.52 | N/A | 2.39 | 0.35 | N/A | 5.26 | 010
23800 |  | A | Fusion of shoulder joint | 14.16 | N/A | 10.76 | 1.97 | N/A | 26.89 | 090
23802 |  | A | Fusion of shoulder joint | 16.60 | N/A | 10.49 | 2.34 | N/A | 29.43 | 090
23900 |  | A | Amputation of arm & girdle | 19.72 | N/A | 12.21 | 2.47 | N/A | 34.40 | 090
23920 |  | A | Amputation at shoulder joint | 14.61 | N/A | 10.45 | 1.92 | N/A | 26.98 | 090
23921 |  | A | Amputation follow-up surgery | 5.49 | 5.32 | 5.32 | 0.78 | 11.59 | 11.59 | 090
23929 |  | C | Shoulder surgery procedure | 0.00 | 0.00 | 0.00 | 0.00 | 0.00 | 0.00 | YYY
23930 |  | A | Drainage of arm lesion | 2.94 | 3.07 | 2.50 | 0.32 | 6.33 | 5.76 | 010
23931 |  | A | Drainage of arm bursa | 1.79 | 2.76 | 2.31 | 0.21 | 4.76 | 4.31 | 010
23935 |  | A | Drain arm/elbow bone lesion | 6.09 | N/A | 6.74 | 0.84 | N/A | 13.67 | 090
24000 |  | A | Exploratory elbow surgery | 5.82 | N/A | 5.56 | 0.77 | N/A | 12.15 | 090
24006 |  | A | Release elbow joint | 9.31 | N/A | 7.93 | 1.27 | N/A | 18.51 | 090
24065 |  | A | Biopsy arm/elbow soft tissue | 2.08 | 2.45 | 1.94 | 0.14 | 4.67 | 4.16 | 010
24066 |  | A | Biopsy arm/elbow soft tissue | 5.21 | 5.90 | 4.41 | 0.61 | 11.72 | 10.23 | 090
24075 |  | A | Remove arm/elbow lesion | 3.92 | 5.18 | 3.79 | 0.43 | 9.53 | 8.14 | 090
24076 |  | A | Remove arm/elbow lesion | 6.30 | N/A | 5.17 | 0.70 | N/A | 12.17 | 090
24077 |  | A | Remove tumor of arm/elbow | 11.76 | N/A | 8.97 | 1.32 | N/A | 22.05 | 090
24100 |  | A | Biopsy elbow joint lining | 4.93 | N/A | 4.72 | 0.62 | N/A | 10.27 | 090
24101 |  | A | Explore/treat elbow joint | 6.13 | N/A | 6.07 | 0.84 | N/A | 13.04 | 090
24102 |  | A | Remove elbow joint lining | 8.03 | N/A | 7.05 | 1.09 | N/A | 16.17 | 090
24105 |  | A | Removal of elbow bursa | 3.61 | N/A | 4.53 | 0.49 | N/A | 8.63 | 090
24110 |  | A | Remove humerus lesion | 7.39 | N/A | 6.93 | 0.99 | N/A | 15.31 | 090
24115 |  | A | Remove/graft bone lesion | 9.63 | N/A | 7.58 | 1.15 | N/A | 18.36 | 090
24116 |  | A | Remove/graft bone lesion | 11.81 | N/A | 9.34 | 1.66 | N/A | 22.81 | 090
24120 |  | A | Remove elbow lesion | 6.65 | N/A | 6.08 | 0.87 | N/A | 13.60 | 090
24125 |  | A | Remove/graft bone lesion | 7.89 | N/A | 6.38 | 0.88 | N/A | 15.15 | 090
24126 |  | A | Remove/graft bone lesion | 8.31 | N/A | 7.19 | 0.90 | N/A | 16.40 | 090
24130 |  | A | Removal of head of radius | 6.25 | N/A | 6.16 | 0.87 | N/A | 13.28 | 090
24134 |  | A | Removal of arm bone lesion | 9.73 | N/A | 9.79 | 1.31 | N/A | 20.83 | 090
24136 |  | A | Remove radius bone lesion | 7.99 | N/A | 7.66 | 0.85 | N/A | 16.50 | 090
24138 |  | A | Remove elbow bone lesion | 8.05 | N/A | 7.71 | 1.12 | N/A | 16.88 | 090
24140 |  | A | Partial removal of arm bone | 9.18 | N/A | 10.17 | 1.23 | N/A | 20.58 | 090
24145 |  | A | Partial removal of radius | 7.58 | N/A | 8.80 | 1.01 | N/A | 17.39 | 090
24147 |  | A | Partial removal of elbow | 7.54 | N/A | 9.19 | 1.04 | N/A | 17.77 | 090
24149 |  | A | Radical resection of elbow | 14.20 | N/A | 11.53 | 1.90 | N/A | 27.63 | 090
24150 |  | A | Extensive humerus surgery | 13.27 | N/A | 10.47 | 1.81 | N/A | 25.55 | 090
24151 |  | A | Extensive humerus surgery | 15.58 | N/A | 12.08 | 2.19 | N/A | 29.85 | 090
24152 |  | A | Extensive radius surgery | 10.06 | N/A | 8.27 | 1.19 | N/A | 19.52 | 090
24153 |  | A | Extensive radius surgery | 11.54 | N/A | 6.08 | 0.64 | N/A | 18.26 | 090
24155 |  | A | Removal of elbow joint | 11.73 | N/A | 8.62 | 1.42 | N/A | 21.77 | 090
24160 |  | A | Remove elbow joint implant | 7.83 | N/A | 6.85 | 1.07 | N/A | 15.75 | 090
24164 |  | A | Remove radius head implant | 6.23 | N/A | 5.77 | 0.84 | N/A | 12.84 | 090
24200 |  | A | Removal of arm foreign body | 1.76 | 2.38 | 1.82 | 0.15 | 4.29 | 3.73 | 010
24201 |  | A | Removal of arm foreign body | 4.56 | 5.84 | 4.46 | 0.56 | 10.96 | 9.58 | 090
24220 |  | A | Injection for elbow x-ray | 1.31 | 7.42 | 0.45 | 0.07 | 8.80 | 1.83 | 000
24300 |  | A | Manipulate elbow w/anesth | 3.75 | N/A | 5.70 | 0.49 | N/A | 9.94 | 090
24301 |  | A | Muscle/tendon transfer | 10.20 | N/A | 8.40 | 1.30 | N/A | 19.90 | 090
24305 |  | A | Arm tendon lengthening | 7.45 | N/A | 6.87 | 0.98 | N/A | 15.30 | 090
24310 |  | A | Revision of arm tendon | 5.98 | N/A | 5.90 | 0.74 | N/A | 12.62 | 090
24320 |  | A | Repair of arm tendon | 10.56 | N/A | 7.95 | 1.00 | N/A | 19.51 | 090
24330 |  | A | Revision of arm muscles | 9.60 | N/A | 8.09 | 1.21 | N/A | 18.90 | 090
24331 |  | A | Revision of arm muscles | 10.65 | N/A | 8.75 | 1.41 | N/A | 20.81 | 090
24332 |  | A | Tenolysis, triceps | 7.45 | N/A | 6.76 | 0.77 | N/A | 14.98 | 090
24340 |  | A | Repair of biceps tendon | 7.89 | N/A | 7.11 | 1.08 | N/A | 16.08 | 090
24341 |  | A | Repair arm tendon/muscle | 7.90 | N/A | 7.86 | 1.08 | N/A | 16.84 | 090
24342 |  | A | Repair of ruptured tendon | 10.62 | N/A | 8.68 | 1.48 | N/A | 20.78 | 090
24343 |  | A | Repr elbow lat ligmnt w/tiss | 8.65 | N/A | 8.21 | 1.13 | N/A | 17.99 | 090
24344 |  | A | Reconstruct elbow lat ligmnt | 14.00 | N/A | 11.53 | 1.83 | N/A | 27.36 | 090
24345 |  | A | Repr elbw med ligmnt w/tissu | 8.65 | N/A | 8.11 | 1.13 | N/A | 17.89 | 090
24346 |  | A | Reconstruct elbow med ligmnt | 14.00 | N/A | 11.38 | 1.83 | N/A | 27.21 | 090
24350 |  | A | Repair of tennis elbow | 5.25 | N/A | 5.68 | 0.72 | N/A | 11.65 | 090
24351 |  | A | Repair of tennis elbow | 5.91 | N/A | 6.04 | 0.82 | N/A | 12.77 | 090
24352 |  | A | Repair of tennis elbow | 6.43 | N/A | 6.30 | 0.90 | N/A | 13.63 | 090
24354 |  | A | Repair of tennis elbow | 6.48 | N/A | 6.26 | 0.88 | N/A | 13.62 | 090
24356 |  | A | Revision of tennis elbow | 6.68 | N/A | 6.44 | 0.90 | N/A | 14.02 | 090
24360 |  | A | Reconstruct elbow joint | 12.34 | N/A | 9.48 | 1.69 | N/A | 23.51 | 090
24361 |  | A | Reconstruct elbow joint | 14.08 | N/A | 10.56 | 1.95 | N/A | 26.59 | 090
24362 |  | A | Reconstruct elbow joint | 14.99 | N/A | 10.12 | 1.92 | N/A | 27.03 | 090
24363 |  | A | Replace elbow joint | 18.49 | N/A | 13.78 | 2.52 | N/A | 34.79 | 090
24365 |  | A | Reconstruct head of radius | 8.39 | N/A | 7.16 | 1.11 | N/A | 16.66 | 090
24366 |  | A | Reconstruct head of radius | 9.13 | N/A | 7.51 | 1.28 | N/A | 17.92 | 090
24400 |  | A | Revision of humerus | 11.06 | N/A | 9.14 | 1.53 | N/A | 21.73 | 090
24410 |  | A | Revision of humerus | 14.82 | N/A | 10.69 | 1.89 | N/A | 27.40 | 090
24420 |  | A | Revision of humerus | 13.44 | N/A | 11.04 | 1.82 | N/A | 26.30 | 090
24430 |  | A | Repair of humerus | 12.81 | N/A | 10.01 | 1.80 | N/A | 24.62 | 090
24435 |  | A | Repair humerus with graft | 13.17 | N/A | 11.10 | 1.84 | N/A | 26.11 | 090
24470 |  | A | Revision of elbow joint | 8.74 | N/A | 7.83 | 1.23 | N/A | 17.80 | 090
24495 |  | A | Decompression of forearm | 8.12 | N/A | 9.09 | 0.92 | N/A | 18.13 | 090
24498 |  | A | Reinforce humerus | 11.92 | N/A | 9.52 | 1.67 | N/A | 23.11 | 090
24500 |  | A | Treat humerus fracture | 3.21 | 5.40 | 3.59 | 0.41 | 9.02 | 7.21 | 090
24505 |  | A | Treat humerus fracture | 5.17 | 7.64 | 5.58 | 0.72 | 13.53 | 11.47 | 090
24515 |  | A | Treat humerus fracture | 11.65 | N/A | 9.48 | 1.63 | N/A | 22.76 | 090
24516 |  | A | Treat humerus fracture | 11.65 | N/A | 9.45 | 1.63 | N/A | 22.73 | 090
24530 |  | A | Treat humerus fracture | 3.50 | 5.59 | 4.11 | 0.47 | 9.56 | 8.08 | 090
24535 |  | A | Treat humerus fracture | 6.87 | 8.54 | 6.53 | 0.96 | 16.37 | 14.36 | 090
24538 |  | A | Treat humerus fracture | 9.43 | N/A | 8.85 | 1.25 | N/A | 19.53 | 090
24545 |  | A | Treat humerus fracture | 10.46 | N/A | 8.55 | 1.47 | N/A | 20.48 | 090
24546 |  | A | Treat humerus fracture | 15.69 | N/A | 11.63 | 2.18 | N/A | 29.50 | 090
24560 |  | A | Treat humerus fracture | 2.80 | 5.07 | 3.19 | 0.35 | 8.22 | 6.34 | 090
24565 |  | A | Treat humerus fracture | 5.56 | 7.42 | 5.50 | 0.74 | 13.72 | 11.80 | 090
24566 |  | A | Treat humerus fracture | 7.79 | N/A | 8.36 | 1.10 | N/A | 17.25 | 090
24575 |  | A | Treat humerus fracture | 10.66 | N/A | 8.42 | 1.44 | N/A | 20.52 | 090
24576 |  | A | Treat humerus fracture | 2.86 | 4.94 | 3.57 | 0.38 | 8.18 | 6.81 | 090
24577 |  | A | Treat humerus fracture | 5.79 | 7.70 | 5.80 | 0.81 | 14.30 | 12.40 | 090
24579 |  | A | Treat humerus fracture | 11.60 | N/A | 9.10 | 1.62 | N/A | 22.32 | 090
24582 |  | A | Treat humerus fracture | 8.55 | N/A | 9.17 | 1.20 | N/A | 18.92 | 090
24586 |  | A | Treat elbow fracture | 15.21 | N/A | 11.19 | 2.12 | N/A | 28.52 | 090
24587 |  | A | Treat elbow fracture | 15.16 | N/A | 11.00 | 2.14 | N/A | 28.30 | 090
24600 |  | A | Treat elbow dislocation | 4.23 | 5.86 | 3.74 | 0.49 | 10.58 | 8.46 | 090
24605 |  | A | Treat elbow dislocation | 5.42 | N/A | 5.16 | 0.72 | N/A | 11.30 | 090
24615 |  | A | Treat elbow dislocation | 9.42 | N/A | 7.84 | 1.31 | N/A | 18.57 | 090
24620 |  | A | Treat elbow fracture | 6.98 | N/A | 6.23 | 0.90 | N/A | 14.11 | 090
24635 |  | A | Treat elbow fracture | 13.19 | N/A | 14.76 | 1.84 | N/A | 29.79 | 090
24640 |  | A | Treat elbow dislocation | 1.20 | 2.06 | 0.91 | 0.11 | 3.37 | 2.22 | 010
24650 |  | A | Treat radius fracture | 2.16 | 4.64 | 2.79 | 0.28 | 7.08 | 5.23 | 090
24655 |  | A | Treat radius fracture | 4.40 | 6.89 | 4.78 | 0.58 | 11.87 | 9.76 | 090
24665 |  | A | Treat radius fracture | 8.14 | N/A | 7.62 | 1.13 | N/A | 16.89 | 090
24666 |  | A | Treat radius fracture | 9.49 | N/A | 8.30 | 1.32 | N/A | 19.11 | 090
24670 |  | A | Treat ulnar fracture | 2.54 | 4.52 | 3.07 | 0.33 | 7.39 | 5.94 | 090
24675 |  | A | Treat ulnar fracture | 4.72 | 6.94 | 5.01 | 0.65 | 12.31 | 10.38 | 090
24685 |  | A | Treat ulnar fracture | 8.80 | N/A | 7.77 | 1.23 | N/A | 17.80 | 090
24800 |  | A | Fusion of elbow joint | 11.20 | N/A | 8.95 | 1.41 | N/A | 21.56 | 090
24802 |  | A | Fusion/graft of elbow joint | 13.69 | N/A | 10.59 | 1.89 | N/A | 26.17 | 090
24900 |  | A | Amputation of upper arm | 9.60 | N/A | 7.53 | 1.18 | N/A | 18.31 | 090
24920 |  | A | Amputation of upper arm | 9.54 | N/A | 7.88 | 1.22 | N/A | 18.64 | 090
24925 |  | A | Amputation follow-up surgery | 7.07 | N/A | 6.45 | 0.95 | N/A | 14.47 | 090
24930 |  | A | Amputation follow-up surgery | 10.25 | N/A | 7.78 | 1.23 | N/A | 19.26 | 090
24931 |  | A | Amputate upper arm & implant | 12.72 | N/A | 6.31 | 1.56 | N/A | 20.59 | 090
24935 |  | A | Revision of amputation | 15.56 | N/A | 8.64 | 1.58 | N/A | 25.78 | 090
24940 |  | C | Revision of upper arm | 0.00 | 0.00 | 0.00 | 0.00 | 0.00 | 0.00 | 090
24999 |  | C | Upper arm/elbow surgery | 0.00 | 0.00 | 0.00 | 0.00 | 0.00 | 0.00 | YYY
25000 |  | A | Incision of tendon sheath | 3.38 | N/A | 6.95 | 0.45 | N/A | 10.78 | 090
25001 |  | A | Incise flexor carpi radialis | 3.38 | N/A | 4.29 | 0.45 | N/A | 8.12 | 090
25020 |  | A | Decompress forearm 1 space | 5.92 | N/A | 10.24 | 0.76 | N/A | 16.92 | 090
25023 |  | A | Decompress forearm 1 space | 12.96 | N/A | 15.71 | 1.52 | N/A | 30.19 | 090
25024 |  | A | Decompress forearm 2 spaces | 9.50 | N/A | 7.63 | 1.24 | N/A | 18.37 | 090
25025 |  | A | Decompress forarm 2 spaces | 16.54 | N/A | 10.25 | 2.18 | N/A | 28.97 | 090
25028 |  | A | Drainage of forearm lesion | 5.25 | N/A | 8.79 | 0.61 | N/A | 14.65 | 090
25031 |  | A | Drainage of forearm bursa | 4.14 | N/A | 8.65 | 0.50 | N/A | 13.29 | 090
25035 |  | A | Treat forearm bone lesion | 7.36 | N/A | 14.64 | 0.98 | N/A | 22.98 | 090
25040 |  | A | Explore/treat wrist joint | 7.18 | N/A | 7.68 | 0.96 | N/A | 15.82 | 090
25065 |  | A | Biopsy forearm soft tissues | 1.99 | 2.89 | 2.89 | 0.12 | 5.00 | 5.00 | 010
25066 |  | A | Biopsy forearm soft tissues | 4.13 | N/A | 7.43 | 0.49 | N/A | 12.05 | 090
25075 |  | A | Removel forearm lesion subcu | 3.74 | N/A | 6.28 | 0.40 | N/A | 10.42 | 090
25076 |  | A | Removel forearm lesion deep | 4.92 | N/A | 10.35 | 0.59 | N/A | 15.86 | 090
25077 |  | A | Remove tumor, forearm/wrist | 9.76 | N/A | 12.98 | 1.10 | N/A | 23.84 | 090
25085 |  | A | Incision of wrist capsule | 5.50 | N/A | 7.81 | 0.71 | N/A | 14.02 | 090
25100 |  | A | Biopsy of wrist joint | 3.90 | N/A | 5.67 | 0.50 | N/A | 10.07 | 090
25101 |  | A | Explore/treat wrist joint | 4.69 | N/A | 6.25 | 0.60 | N/A | 11.54 | 090
25105 |  | A | Remove wrist joint lining | 5.85 | N/A | 7.88 | 0.77 | N/A | 14.50 | 090
25107 |  | A | Remove wrist joint cartilage | 6.43 | N/A | 8.83 | 0.82 | N/A | 16.08 | 090
25110 |  | A | Remove wrist tendon lesion | 3.92 | N/A | 7.46 | 0.48 | N/A | 11.86 | 090
25111 |  | A | Remove wrist tendon lesion | 3.39 | N/A | 5.08 | 0.42 | N/A | 8.89 | 090
25112 |  | A | Reremove wrist tendon lesion | 4.53 | N/A | 5.69 | 0.54 | N/A | 10.76 | 090
25115 |  | A | Remove wrist/forearm lesion | 8.82 | N/A | 14.84 | 1.11 | N/A | 24.77 | 090
25116 |  | A | Remove wrist/forearm lesion | 7.11 | N/A | 13.82 | 0.90 | N/A | 21.83 | 090
25118 |  | A | Excise wrist tendon sheath | 4.37 | N/A | 6.17 | 0.55 | N/A | 11.09 | 090
25119 |  | A | Partial removal of ulna | 6.04 | N/A | 8.17 | 0.80 | N/A | 15.01 | 090
25120 |  | A | Removal of forearm lesion | 6.10 | N/A | 12.83 | 0.81 | N/A | 19.74 | 090
25125 |  | A | Remove/graft forearm lesion | 7.48 | N/A | 13.61 | 1.02 | N/A | 22.11 | 090
25126 |  | A | Remove/graft forearm lesion | 7.55 | N/A | 13.69 | 1.00 | N/A | 22.24 | 090
25130 |  | A | Removal of wrist lesion | 5.26 | N/A | 6.72 | 0.66 | N/A | 12.64 | 090
25135 |  | A | Remove & graft wrist lesion | 6.89 | N/A | 7.75 | 0.89 | N/A | 15.53 | 090
25136 |  | A | Remove & graft wrist lesion | 5.97 | N/A | 6.87 | 0.58 | N/A | 13.42 | 090
25145 |  | A | Remove forearm bone lesion | 6.37 | N/A | 12.84 | 0.82 | N/A | 20.03 | 090
25150 |  | A | Partial removal of ulna | 7.09 | N/A | 8.85 | 0.96 | N/A | 16.90 | 090
25151 |  | A | Partial removal of radius | 7.39 | N/A | 13.46 | 0.93 | N/A | 21.78 | 090
25170 |  | A | Extensive forearm surgery | 11.09 | N/A | 15.81 | 1.52 | N/A | 28.42 | 090
25210 |  | A | Removal of wrist bone | 5.95 | N/A | 7.10 | 0.73 | N/A | 13.78 | 090
25215 |  | A | Removal of wrist bones | 7.89 | N/A | 9.32 | 1.02 | N/A | 18.23 | 090
25230 |  | A | Partial removal of radius | 5.23 | N/A | 6.51 | 0.66 | N/A | 12.40 | 090
25240 |  | A | Partial removal of ulna | 5.17 | N/A | 7.59 | 0.69 | N/A | 13.45 | 090
25246 |  | A | Injection for wrist x-ray | 1.45 | 7.16 | 0.49 | 0.07 | 8.68 | 2.01 | 000
25248 |  | A | Remove forearm foreign body | 5.14 | N/A | 9.00 | 0.54 | N/A | 14.68 | 090
25250 |  | A | Removal of wrist prosthesis | 6.60 | N/A | 6.06 | 0.84 | N/A | 13.50 | 090
25251 |  | A | Removal of wrist prosthesis | 9.57 | N/A | 7.95 | 1.15 | N/A | 18.67 | 090
25259 |  | A | Manipulate wrist w/anesthes | 3.75 | N/A | 5.70 | 0.50 | N/A | 9.95 | 090
25260 |  | A | Repair forearm tendon/muscle | 7.80 | N/A | 14.22 | 0.97 | N/A | 22.99 | 090
25263 |  | A | Repair forearm tendon/muscle | 7.82 | N/A | 14.09 | 0.94 | N/A | 22.85 | 090
25265 |  | A | Repair forearm tendon/muscle | 9.88 | N/A | 14.98 | 1.19 | N/A | 26.05 | 090
25270 |  | A | Repair forearm tendon/muscle | 6.00 | N/A | 12.99 | 0.76 | N/A | 19.75 | 090
25272 |  | A | Repair forearm tendon/muscle | 7.04 | N/A | 13.70 | 0.89 | N/A | 21.63 | 090
25274 |  | A | Repair forearm tendon/muscle | 8.75 | N/A | 14.41 | 1.14 | N/A | 24.30 | 090
25275 |  | A | Repair forearm tendon sheath | 8.50 | N/A | 7.72 | 1.13 | N/A | 17.35 | 090
25280 |  | A | Revise wrist/forearm tendon | 7.22 | N/A | 13.39 | 0.91 | N/A | 21.52 | 090
25290 |  | A | Incise wrist/forearm tendon | 5.29 | N/A | 16.39 | 0.66 | N/A | 22.34 | 090
25295 |  | A | Release wrist/forearm tendon | 6.55 | N/A | 12.95 | 0.86 | N/A | 20.36 | 090
25300 |  | A | Fusion of tendons at wrist | 8.80 | N/A | 8.66 | 1.07 | N/A | 18.53 | 090
25301 |  | A | Fusion of tendons at wrist | 8.40 | N/A | 8.38 | 1.08 | N/A | 17.86 | 090
25310 |  | A | Transplant forearm tendon | 8.14 | N/A | 13.81 | 1.01 | N/A | 22.96 | 090
25312 |  | A | Transplant forearm tendon | 9.57 | N/A | 14.72 | 1.22 | N/A | 25.51 | 090
25315 |  | A | Revise palsy hand tendon(s) | 10.20 | N/A | 15.32 | 1.26 | N/A | 26.78 | 090
25316 |  | A | Revise palsy hand tendon(s) | 12.33 | N/A | 16.98 | 1.74 | N/A | 31.05 | 090
25320 |  | A | Repair/revise wrist joint | 10.77 | N/A | 11.40 | 1.32 | N/A | 23.49 | 090
25332 |  | A | Revise wrist joint | 11.41 | N/A | 9.18 | 1.46 | N/A | 22.05 | 090
25335 |  | A | Realignment of hand | 12.88 | N/A | 11.90 | 1.66 | N/A | 26.44 | 090
25337 |  | A | Reconstruct ulna/radioulnar | 10.17 | N/A | 11.55 | 1.31 | N/A | 23.03 | 090
25350 |  | A | Revision of radius | 8.78 | N/A | 14.68 | 1.17 | N/A | 24.63 | 090
25355 |  | A | Revision of radius | 10.17 | N/A | 15.36 | 1.44 | N/A | 26.97 | 090
25360 |  | A | Revision of ulna | 8.43 | N/A | 14.59 | 1.17 | N/A | 24.19 | 090
25365 |  | A | Revise radius & ulna | 12.40 | N/A | 16.32 | 1.67 | N/A | 30.39 | 090
25370 |  | A | Revise radius or ulna | 13.36 | N/A | 16.54 | 1.88 | N/A | 31.78 | 090
25375 |  | A | Revise radius & ulna | 13.04 | N/A | 17.15 | 1.84 | N/A | 32.03 | 090
25390 |  | A | Shorten radius or ulna | 10.40 | N/A | 15.34 | 1.38 | N/A | 27.12 | 090
25391 |  | A | Lengthen radius or ulna | 13.65 | N/A | 17.22 | 1.73 | N/A | 32.60 | 090
25392 |  | A | Shorten radius & ulna | 13.95 | N/A | 16.31 | 1.73 | N/A | 31.99 | 090
25393 |  | A | Lengthen radius & ulna | 15.87 | N/A | 18.23 | 1.87 | N/A | 35.97 | 090
25394 |  | A | Repair carpal bone, shorten | 10.40 | N/A | 8.53 | 1.40 | N/A | 20.33 | 090
25400 |  | A | Repair radius or ulna | 10.92 | N/A | 15.93 | 1.50 | N/A | 28.35 | 090
25405 |  | A | Repair/graft radius or ulna | 14.38 | N/A | 17.96 | 1.95 | N/A | 34.29 | 090
25415 |  | A | Repair radius & ulna | 13.35 | N/A | 17.20 | 1.87 | N/A | 32.42 | 090
25420 |  | A | Repair/graft radius & ulna | 16.33 | N/A | 18.97 | 2.20 | N/A | 37.50 | 090
25425 |  | A | Repair/graft radius or ulna | 13.21 | N/A | 23.02 | 1.61 | N/A | 37.84 | 090
25426 |  | A | Repair/graft radius & ulna | 15.82 | N/A | 17.55 | 2.23 | N/A | 35.60 | 090
25430 |  | A | Vasc graft into carpal bone | 9.25 | N/A | 7.54 | 1.07 | N/A | 17.86 | 090
25431 |  | A | Repair nonunion carpal bone | 10.44 | N/A | 8.52 | 0.56 | N/A | 19.52 | 090
25440 |  | A | Repair/graft wrist bone | 10.44 | N/A | 9.69 | 1.41 | N/A | 21.54 | 090
25441 |  | A | Reconstruct wrist joint | 12.90 | N/A | 10.01 | 1.83 | N/A | 24.74 | 090
25442 |  | A | Reconstruct wrist joint | 10.85 | N/A | 8.88 | 1.24 | N/A | 20.97 | 090
25443 |  | A | Reconstruct wrist joint | 10.39 | N/A | 8.76 | 1.30 | N/A | 20.45 | 090
25444 |  | A | Reconstruct wrist joint | 11.15 | N/A | 9.07 | 1.43 | N/A | 21.65 | 090
25445 |  | A | Reconstruct wrist joint | 9.69 | N/A | 8.02 | 1.26 | N/A | 18.97 | 090
25446 |  | A | Wrist replacement | 16.55 | N/A | 11.98 | 2.20 | N/A | 30.73 | 090
25447 |  | A | Repair wrist joint(s) | 10.37 | N/A | 8.64 | 1.34 | N/A | 20.35 | 090
25449 |  | A | Remove wrist joint implant | 14.49 | N/A | 10.72 | 1.77 | N/A | 26.98 | 090
25450 |  | A | Revision of wrist joint | 7.87 | N/A | 10.71 | 0.88 | N/A | 19.46 | 090
25455 |  | A | Revision of wrist joint | 9.49 | N/A | 11.66 | 1.07 | N/A | 22.22 | 090
25490 |  | A | Reinforce radius | 9.54 | N/A | 14.46 | 1.19 | N/A | 25.19 | 090
25491 |  | A | Reinforce ulna | 9.96 | N/A | 15.21 | 1.41 | N/A | 26.58 | 090
25492 |  | A | Reinforce radius and ulna | 12.33 | N/A | 15.97 | 1.62 | N/A | 29.92 | 090
25500 |  | A | Treat fracture of radius | 2.45 | 4.06 | 2.77 | 0.28 | 6.79 | 5.50 | 090
25505 |  | A | Treat fracture of radius | 5.21 | 7.36 | 5.34 | 0.69 | 13.26 | 11.24 | 090
25515 |  | A | Treat fracture of radius | 9.18 | N/A | 7.70 | 1.22 | N/A | 18.10 | 090
25520 |  | A | Treat fracture of radius | 6.26 | 7.58 | 5.98 | 0.85 | 14.69 | 13.09 | 090
25525 |  | A | Treat fracture of radius | 12.24 | N/A | 10.12 | 1.68 | N/A | 24.04 | 090
25526 |  | A | Treat fracture of radius | 12.98 | N/A | 13.93 | 1.80 | N/A | 28.71 | 090
25530 |  | A | Treat fracture of ulna | 2.09 | 4.22 | 2.85 | 0.27 | 6.58 | 5.21 | 090
25535 |  | A | Treat fracture of ulna | 5.14 | 6.98 | 5.27 | 0.68 | 12.80 | 11.09 | 090
25545 |  | A | Treat fracture of ulna | 8.90 | N/A | 7.90 | 1.23 | N/A | 18.03 | 090
25560 |  | A | Treat fracture radius & ulna | 2.44 | 4.12 | 2.70 | 0.27 | 6.83 | 5.41 | 090
25565 |  | A | Treat fracture radius & ulna | 5.63 | 7.49 | 5.41 | 0.76 | 13.88 | 11.80 | 090
25574 |  | A | Treat fracture radius & ulna | 7.01 | N/A | 7.26 | 0.96 | N/A | 15.23 | 090
25575 |  | A | Treat fracture radius/ulna | 10.45 | N/A | 9.57 | 1.46 | N/A | 21.48 | 090
25600 |  | A | Treat fracture radius/ulna | 2.63 | 4.56 | 3.00 | 0.34 | 7.53 | 5.97 | 090
25605 |  | A | Treat fracture radius/ulna | 5.81 | 8.18 | 6.13 | 0.81 | 14.80 | 12.75 | 090
25611 |  | A | Treat fracture radius/ulna | 7.77 | N/A | 8.90 | 1.08 | N/A | 17.75 | 090
25620 |  | A | Treat fracture radius/ulna | 8.55 | N/A | 7.51 | 1.17 | N/A | 17.23 | 090
25622 |  | A | Treat wrist bone fracture | 2.61 | 4.63 | 3.10 | 0.33 | 7.57 | 6.04 | 090
25624 |  | A | Treat wrist bone fracture | 4.53 | 7.10 | 5.00 | 0.61 | 12.24 | 10.14 | 090
25628 |  | A | Treat wrist bone fracture | 8.43 | N/A | 8.05 | 1.14 | N/A | 17.62 | 090
25630 |  | A | Treat wrist bone fracture | 2.88 | 4.65 | 3.00 | 0.37 | 7.90 | 6.25 | 090
25635 |  | A | Treat wrist bone fracture | 4.39 | 6.87 | 3.96 | 0.39 | 11.65 | 8.74 | 090
25645 |  | A | Treat wrist bone fracture | 7.25 | N/A | 7.01 | 0.93 | N/A | 15.19 | 090
25650 |  | A | Treat wrist bone fracture | 3.05 | 4.82 | 3.21 | 0.37 | 8.24 | 6.63 | 090
25651 |  | A | Pin ulnar styloid fracture | 5.36 | N/A | 5.62 | 0.72 | N/A | 11.70 | 090
25652 |  | A | Treat fracture ulnar styloid | 7.60 | N/A | 7.11 | 1.02 | N/A | 15.73 | 090
25660 |  | A | Treat wrist dislocation | 4.76 | N/A | 4.75 | 0.59 | N/A | 10.10 | 090
25670 |  | A | Treat wrist dislocation | 7.92 | N/A | 7.31 | 1.07 | N/A | 16.30 | 090
25671 |  | A | Pin radioulnar dislocation | 6.00 | N/A | 6.23 | 0.81 | N/A | 13.04 | 090
25675 |  | A | Treat wrist dislocation | 4.67 | 6.62 | 4.69 | 0.57 | 11.86 | 9.93 | 090
25676 |  | A | Treat wrist dislocation | 8.04 | N/A | 7.56 | 1.10 | N/A | 16.70 | 090
25680 |  | A | Treat wrist fracture | 5.99 | N/A | 4.99 | 0.61 | N/A | 11.59 | 090
25685 |  | A | Treat wrist fracture | 9.78 | N/A | 8.12 | 1.25 | N/A | 19.15 | 090
25690 |  | A | Treat wrist dislocation | 5.50 | N/A | 5.69 | 0.78 | N/A | 11.97 | 090
25695 |  | A | Treat wrist dislocation | 8.34 | N/A | 7.43 | 1.07 | N/A | 16.84 | 090
25800 |  | A | Fusion of wrist joint | 9.76 | N/A | 9.35 | 1.30 | N/A | 20.41 | 090
25805 |  | A | Fusion/graft of wrist joint | 11.28 | N/A | 10.42 | 1.51 | N/A | 23.21 | 090
25810 |  | A | Fusion/graft of wrist joint | 10.57 | N/A | 10.15 | 1.37 | N/A | 22.09 | 090
25820 |  | A | Fusion of hand bones | 7.45 | N/A | 8.10 | 0.96 | N/A | 16.51 | 090
25825 |  | A | Fuse hand bones with graft | 9.27 | N/A | 9.37 | 1.20 | N/A | 19.84 | 090
25830 |  | A | Fusion, radioulnar jnt/ulna | 10.06 | N/A | 15.11 | 1.27 | N/A | 26.44 | 090
25900 |  | A | Amputation of forearm | 9.01 | N/A | 13.06 | 1.08 | N/A | 23.15 | 090
25905 |  | A | Amputation of forearm | 9.12 | N/A | 13.13 | 1.06 | N/A | 23.31 | 090
25907 |  | A | Amputation follow-up surgery | 7.80 | N/A | 12.59 | 1.01 | N/A | 21.40 | 090
25909 |  | A | Amputation follow-up surgery | 8.96 | N/A | 13.10 | 1.07 | N/A | 23.13 | 090
25915 |  | A | Amputation of forearm | 17.08 | N/A | 20.05 | 2.41 | N/A | 39.54 | 090
25920 |  | A | Amputate hand at wrist | 8.68 | N/A | 8.22 | 1.06 | N/A | 17.96 | 090
25922 |  | A | Amputate hand at wrist | 7.42 | N/A | 7.25 | 0.93 | N/A | 15.60 | 090
25924 |  | A | Amputation follow-up surgery | 8.46 | N/A | 8.46 | 1.07 | N/A | 17.99 | 090
25927 |  | A | Amputation of hand | 8.80 | N/A | 12.40 | 1.02 | N/A | 22.22 | 090
25929 |  | A | Amputation follow-up surgery | 7.59 | N/A | 6.13 | 0.89 | N/A | 14.61 | 090
25931 |  | A | Amputation follow-up surgery | 7.81 | N/A | 12.40 | 0.88 | N/A | 21.09 | 090
25999 |  | C | Forearm or wrist surgery | 0.00 | 0.00 | 0.00 | 0.00 | 0.00 | 0.00 | YYY
26010 |  | A | Drainage of finger abscess | 1.54 | 5.85 | 1.70 | 0.14 | 7.53 | 3.38 | 010
26011 |  | A | Drainage of finger abscess | 2.19 | 9.22 | 2.35 | 0.25 | 11.66 | 4.79 | 010
26020 |  | A | Drain hand tendon sheath | 4.67 | N/A | 5.61 | 0.59 | N/A | 10.87 | 090
26025 |  | A | Drainage of palm bursa | 4.82 | N/A | 5.45 | 0.60 | N/A | 10.87 | 090
26030 |  | A | Drainage of palm bursa(s) | 5.93 | N/A | 6.11 | 0.72 | N/A | 12.76 | 090
26034 |  | A | Treat hand bone lesion | 6.23 | N/A | 6.33 | 0.79 | N/A | 13.35 | 090
26035 |  | A | Decompress fingers/hand | 9.51 | N/A | 8.21 | 1.12 | N/A | 18.84 | 090
26037 |  | A | Decompress fingers/hand | 7.25 | N/A | 6.72 | 0.87 | N/A | 14.84 | 090
26040 |  | A | Release palm contracture | 3.33 | N/A | 4.00 | 0.45 | N/A | 7.78 | 090
26045 |  | A | Release palm contracture | 5.56 | N/A | 5.60 | 0.74 | N/A | 11.90 | 090
26055 |  | A | Incise finger tendon sheath | 2.69 | 14.74 | 3.86 | 0.36 | 17.79 | 6.91 | 090
26060 |  | A | Incision of finger tendon | 2.81 | N/A | 3.52 | 0.35 | N/A | 6.68 | 090
26070 |  | A | Explore/treat hand joint | 3.69 | N/A | 3.39 | 0.35 | N/A | 7.43 | 090
26075 |  | A | Explore/treat finger joint | 3.79 | N/A | 3.80 | 0.40 | N/A | 7.99 | 090
26080 |  | A | Explore/treat finger joint | 4.24 | N/A | 4.82 | 0.52 | N/A | 9.58 | 090
26100 |  | A | Biopsy hand joint lining | 3.67 | N/A | 4.12 | 0.45 | N/A | 8.24 | 090
26105 |  | A | Biopsy finger joint lining | 3.71 | N/A | 4.20 | 0.45 | N/A | 8.36 | 090
26110 |  | A | Biopsy finger joint lining | 3.53 | N/A | 4.00 | 0.44 | N/A | 7.97 | 090
26115 |  | A | Removel hand lesion subcut | 3.86 | 13.55 | 4.71 | 0.48 | 17.89 | 9.05 | 090
26116 |  | A | Removel hand lesion, deep | 5.53 | N/A | 5.98 | 0.69 | N/A | 12.20 | 090
26117 |  | A | Remove tumor, hand/finger | 8.55 | N/A | 7.15 | 1.01 | N/A | 16.71 | 090
26121 |  | A | Release palm contracture | 7.54 | N/A | 7.02 | 0.94 | N/A | 15.50 | 090
26123 |  | A | Release palm contracture | 9.29 | N/A | 8.90 | 1.17 | N/A | 19.36 | 090
26125 |  | A | Release palm contracture | 4.61 | N/A | 2.50 | 0.57 | N/A | 7.68 | ZZZ
26130 |  | A | Remove wrist joint lining | 5.42 | N/A | 5.35 | 0.65 | N/A | 11.42 | 090
26135 |  | A | Revise finger joint, each | 6.96 | N/A | 6.47 | 0.87 | N/A | 14.30 | 090
26140 |  | A | Revise finger joint, each | 6.17 | N/A | 6.03 | 0.76 | N/A | 12.96 | 090
26145 |  | A | Tendon excision, palm/finger | 6.32 | N/A | 6.04 | 0.77 | N/A | 13.13 | 090
26160 |  | A | Remove tendon sheath lesion | 3.15 | 12.95 | 4.11 | 0.39 | 16.49 | 7.65 | 090
26170 |  | A | Removal of palm tendon, each | 4.77 | N/A | 4.97 | 0.60 | N/A | 10.34 | 090
26180 |  | A | Removal of finger tendon | 5.18 | N/A | 5.40 | 0.64 | N/A | 11.22 | 090
26185 |  | A | Remove finger bone | 5.25 | N/A | 6.01 | 0.67 | N/A | 11.93 | 090
26200 |  | A | Remove hand bone lesion | 5.51 | N/A | 5.39 | 0.71 | N/A | 11.61 | 090
26205 |  | A | Remove/graft bone lesion | 7.70 | N/A | 6.91 | 0.95 | N/A | 15.56 | 090
26210 |  | A | Removal of finger lesion | 5.15 | N/A | 5.41 | 0.64 | N/A | 11.20 | 090
26215 |  | A | Remove/graft finger lesion | 7.10 | N/A | 6.31 | 0.77 | N/A | 14.18 | 090
26230 |  | A | Partial removal of hand bone | 6.33 | N/A | 5.96 | 0.84 | N/A | 13.13 | 090
26235 |  | A | Partial removal, finger bone | 6.19 | N/A | 5.85 | 0.78 | N/A | 12.82 | 090
26236 |  | A | Partial removal, finger bone | 5.32 | N/A | 5.37 | 0.66 | N/A | 11.35 | 090
26250 |  | A | Extensive hand surgery | 7.55 | N/A | 6.46 | 0.92 | N/A | 14.93 | 090
26255 |  | A | Extensive hand surgery | 12.43 | N/A | 9.49 | 1.05 | N/A | 22.97 | 090
26260 |  | A | Extensive finger surgery | 7.03 | N/A | 6.20 | 0.83 | N/A | 14.06 | 090
26261 |  | A | Extensive finger surgery | 9.09 | N/A | 6.35 | 0.84 | N/A | 16.28 | 090
26262 |  | A | Partial removal of finger | 5.67 | N/A | 5.39 | 0.70 | N/A | 11.76 | 090
26320 |  | A | Removal of implant from hand | 3.98 | N/A | 4.28 | 0.49 | N/A | 8.75 | 090
26340 |  | A | Manipulate finger w/anesth | 2.50 | N/A | 4.95 | 0.30 | N/A | 7.75 | 090
26350 |  | A | Repair finger/hand tendon | 5.99 | N/A | 16.02 | 0.73 | N/A | 22.74 | 090
26352 |  | A | Repair/graft hand tendon | 7.68 | N/A | 16.69 | 0.93 | N/A | 25.30 | 090
26356 |  | A | Repair finger/hand tendon | 8.07 | N/A | 19.20 | 0.99 | N/A | 28.26 | 090
26357 |  | A | Repair finger/hand tendon | 8.58 | N/A | 17.14 | 1.02 | N/A | 26.74 | 090
26358 |  | A | Repair/graft hand tendon | 9.14 | N/A | 17.96 | 1.07 | N/A | 28.17 | 090
26370 |  | A | Repair finger/hand tendon | 7.11 | N/A | 16.57 | 0.90 | N/A | 24.58 | 090
26372 |  | A | Repair/graft hand tendon | 8.76 | N/A | 17.97 | 1.06 | N/A | 27.79 | 090
26373 |  | A | Repair finger/hand tendon | 8.16 | N/A | 17.54 | 0.98 | N/A | 26.68 | 090
26390 |  | A | Revise hand/finger tendon | 9.19 | N/A | 14.34 | 1.09 | N/A | 24.62 | 090
26392 |  | A | Repair/graft hand tendon | 10.26 | N/A | 18.34 | 1.26 | N/A | 29.86 | 090
26410 |  | A | Repair hand tendon | 4.63 | N/A | 13.17 | 0.57 | N/A | 18.37 | 090
26412 |  | A | Repair/graft hand tendon | 6.31 | N/A | 14.43 | 0.80 | N/A | 21.54 | 090
26415 |  | A | Excision, hand/finger tendon | 8.34 | N/A | 12.79 | 0.77 | N/A | 21.90 | 090
26416 |  | A | Graft hand or finger tendon | 9.37 | N/A | 15.71 | 1.20 | N/A | 26.28 | 090
26418 |  | A | Repair finger tendon | 4.25 | N/A | 13.34 | 0.50 | N/A | 18.09 | 090
26420 |  | A | Repair/graft finger tendon | 6.77 | N/A | 14.78 | 0.83 | N/A | 22.38 | 090
26426 |  | A | Repair finger/hand tendon | 6.15 | N/A | 14.25 | 0.77 | N/A | 21.17 | 090
26428 |  | A | Repair/graft finger tendon | 7.21 | N/A | 15.06 | 0.84 | N/A | 23.11 | 090
26432 |  | A | Repair finger tendon | 4.02 | N/A | 11.13 | 0.48 | N/A | 15.63 | 090
26433 |  | A | Repair finger tendon | 4.56 | N/A | 11.83 | 0.56 | N/A | 16.95 | 090
26434 |  | A | Repair/graft finger tendon | 6.09 | N/A | 12.43 | 0.71 | N/A | 19.23 | 090
26437 |  | A | Realignment of tendons | 5.82 | N/A | 12.34 | 0.74 | N/A | 18.90 | 090
26440 |  | A | Release palm/finger tendon | 5.02 | N/A | 14.83 | 0.62 | N/A | 20.47 | 090
26442 |  | A | Release palm & finger tendon | 8.16 | N/A | 17.10 | 0.94 | N/A | 26.20 | 090
26445 |  | A | Release hand/finger tendon | 4.31 | N/A | 14.59 | 0.54 | N/A | 19.44 | 090
26449 |  | A | Release forearm/hand tendon | 7.00 | N/A | 16.90 | 0.84 | N/A | 24.74 | 090
26450 |  | A | Incision of palm tendon | 3.67 | N/A | 7.79 | 0.46 | N/A | 11.92 | 090
26455 |  | A | Incision of finger tendon | 3.64 | N/A | 7.71 | 0.47 | N/A | 11.82 | 090
26460 |  | A | Incise hand/finger tendon | 3.46 | N/A | 7.52 | 0.44 | N/A | 11.42 | 090
26471 |  | A | Fusion of finger tendons | 5.73 | N/A | 12.00 | 0.73 | N/A | 18.46 | 090
26474 |  | A | Fusion of finger tendons | 5.32 | N/A | 12.20 | 0.69 | N/A | 18.21 | 090
26476 |  | A | Tendon lengthening | 5.18 | N/A | 11.71 | 0.62 | N/A | 17.51 | 090
26477 |  | A | Tendon shortening | 5.15 | N/A | 11.87 | 0.60 | N/A | 17.62 | 090
26478 |  | A | Lengthening of hand tendon | 5.80 | N/A | 12.62 | 0.77 | N/A | 19.19 | 090
26479 |  | A | Shortening of hand tendon | 5.74 | N/A | 12.45 | 0.76 | N/A | 18.95 | 090
26480 |  | A | Transplant hand tendon | 6.69 | N/A | 16.27 | 0.84 | N/A | 23.80 | 090
26483 |  | A | Transplant/graft hand tendon | 8.29 | N/A | 16.72 | 1.03 | N/A | 26.04 | 090
26485 |  | A | Transplant palm tendon | 7.70 | N/A | 16.60 | 0.94 | N/A | 25.24 | 090
26489 |  | A | Transplant/graft palm tendon | 9.55 | N/A | 13.02 | 0.98 | N/A | 23.55 | 090
26490 |  | A | Revise thumb tendon | 8.41 | N/A | 13.55 | 1.05 | N/A | 23.01 | 090
26492 |  | A | Tendon transfer with graft | 9.62 | N/A | 14.30 | 1.19 | N/A | 25.11 | 090
26494 |  | A | Hand tendon/muscle transfer | 8.47 | N/A | 13.78 | 1.13 | N/A | 23.38 | 090
26496 |  | A | Revise thumb tendon | 9.59 | N/A | 13.97 | 1.17 | N/A | 24.73 | 090
26497 |  | A | Finger tendon transfer | 9.57 | N/A | 14.36 | 1.17 | N/A | 25.10 | 090
26498 |  | A | Finger tendon transfer | 14.00 | N/A | 16.90 | 1.74 | N/A | 32.64 | 090
26499 |  | A | Revision of finger | 8.98 | N/A | 13.90 | 0.94 | N/A | 23.82 | 090
26500 |  | A | Hand tendon reconstruction | 5.96 | N/A | 12.48 | 0.66 | N/A | 19.10 | 090
26502 |  | A | Hand tendon reconstruction | 7.14 | N/A | 12.95 | 0.87 | N/A | 20.96 | 090
26504 |  | A | Hand tendon reconstruction | 7.47 | N/A | 13.06 | 0.84 | N/A | 21.37 | 090
26508 |  | A | Release thumb contracture | 6.01 | N/A | 12.48 | 0.76 | N/A | 19.25 | 090
26510 |  | A | Thumb tendon transfer | 5.43 | N/A | 12.16 | 0.71 | N/A | 18.30 | 090
26516 |  | A | Fusion of knuckle joint | 7.15 | N/A | 13.02 | 0.90 | N/A | 21.07 | 090
26517 |  | A | Fusion of knuckle joints | 8.83 | N/A | 14.37 | 0.96 | N/A | 24.16 | 090
26518 |  | A | Fusion of knuckle joints | 9.02 | N/A | 14.19 | 1.13 | N/A | 24.34 | 090
26520 |  | A | Release knuckle contracture | 5.30 | N/A | 15.21 | 0.65 | N/A | 21.16 | 090
26525 |  | A | Release finger contracture | 5.33 | N/A | 15.33 | 0.66 | N/A | 21.32 | 090
26530 |  | A | Revise knuckle joint | 6.69 | N/A | 6.13 | 0.86 | N/A | 13.68 | 090
26531 |  | A | Revise knuckle with implant | 7.91 | N/A | 7.07 | 1.01 | N/A | 15.99 | 090
26535 |  | A | Revise finger joint | 5.24 | N/A | 3.76 | 0.66 | N/A | 9.66 | 090
26536 |  | A | Revise/implant finger joint | 6.37 | N/A | 10.06 | 0.80 | N/A | 17.23 | 090
26540 |  | A | Repair hand joint | 6.43 | N/A | 12.73 | 0.81 | N/A | 19.97 | 090
26541 |  | A | Repair hand joint with graft | 8.62 | N/A | 14.25 | 1.12 | N/A | 23.99 | 090
26542 |  | A | Repair hand joint with graft | 6.78 | N/A | 12.78 | 0.87 | N/A | 20.43 | 090
26545 |  | A | Reconstruct finger joint | 6.92 | N/A | 13.16 | 0.79 | N/A | 20.87 | 090
26546 |  | A | Repair nonunion hand | 8.92 | N/A | 15.44 | 1.14 | N/A | 25.50 | 090
26548 |  | A | Reconstruct finger joint | 8.03 | N/A | 13.81 | 0.98 | N/A | 22.82 | 090
26550 |  | A | Construct thumb replacement | 21.24 | N/A | 18.80 | 1.80 | N/A | 41.84 | 090
26551 |  | A | Great toe-hand transfer | 46.58 | N/A | 32.79 | 6.57 | N/A | 85.94 | 090
26553 |  | A | Single transfer, toe-hand | 46.27 | N/A | 23.66 | 1.99 | N/A | 71.92 | 090
26554 |  | A | Double transfer, toe-hand | 54.95 | N/A | 35.88 | 7.76 | N/A | 98.59 | 090
26555 |  | A | Positional change of finger | 16.63 | N/A | 19.12 | 2.13 | N/A | 37.88 | 090
26556 |  | A | Toe joint transfer | 47.26 | N/A | 30.96 | 6.67 | N/A | 84.89 | 090
26560 |  | A | Repair of web finger | 5.38 | N/A | 10.71 | 0.60 | N/A | 16.69 | 090
26561 |  | A | Repair of web finger | 10.92 | N/A | 13.30 | 0.69 | N/A | 24.91 | 090
26562 |  | A | Repair of web finger | 15.00 | N/A | 17.99 | 0.98 | N/A | 33.97 | 090
26565 |  | A | Correct metacarpal flaw | 6.74 | N/A | 12.83 | 0.84 | N/A | 20.41 | 090
26567 |  | A | Correct finger deformity | 6.82 | N/A | 12.76 | 0.84 | N/A | 20.42 | 090
26568 |  | A | Lengthen metacarpal/finger | 9.08 | N/A | 16.65 | 1.10 | N/A | 26.83 | 090
26580 |  | A | Repair hand deformity | 18.18 | N/A | 14.08 | 1.46 | N/A | 33.72 | 090
26587 |  | A | Reconstruct extra finger | 14.05 | N/A | 9.30 | 1.12 | N/A | 24.47 | 090
26590 |  | A | Repair finger deformity | 17.96 | N/A | 14.84 | 1.32 | N/A | 34.12 | 090
26591 |  | A | Repair muscles of hand | 3.25 | N/A | 10.88 | 0.37 | N/A | 14.50 | 090
26593 |  | A | Release muscles of hand | 5.31 | N/A | 11.84 | 0.64 | N/A | 17.79 | 090
26596 |  | A | Excision constricting tissue | 8.95 | N/A | 9.20 | 0.87 | N/A | 19.02 | 090
26600 |  | A | Treat metacarpal fracture | 1.96 | 4.15 | 2.69 | 0.25 | 6.36 | 4.90 | 090
26605 |  | A | Treat metacarpal fracture | 2.85 | 5.45 | 3.74 | 0.38 | 8.68 | 6.97 | 090
26607 |  | A | Treat metacarpal fracture | 5.36 | N/A | 6.65 | 0.70 | N/A | 12.71 | 090
26608 |  | A | Treat metacarpal fracture | 5.36 | N/A | 6.56 | 0.73 | N/A | 12.65 | 090
26615 |  | A | Treat metacarpal fracture | 5.33 | N/A | 5.83 | 0.70 | N/A | 11.86 | 090
26641 |  | A | Treat thumb dislocation | 3.94 | 5.59 | 3.72 | 0.42 | 9.95 | 8.08 | 090
26645 |  | A | Treat thumb fracture | 4.41 | 6.31 | 4.34 | 0.54 | 11.26 | 9.29 | 090
26650 |  | A | Treat thumb fracture | 5.72 | N/A | 6.88 | 0.77 | N/A | 13.37 | 090
26665 |  | A | Treat thumb fracture | 7.60 | N/A | 7.02 | 0.97 | N/A | 15.59 | 090
26670 |  | A | Treat hand dislocation | 3.69 | 5.17 | 3.21 | 0.36 | 9.22 | 7.26 | 090
26675 |  | A | Treat hand dislocation | 4.64 | 6.26 | 4.41 | 0.56 | 11.46 | 9.61 | 090
26676 |  | A | Pin hand dislocation | 5.52 | N/A | 6.92 | 0.76 | N/A | 13.20 | 090
26685 |  | A | Treat hand dislocation | 6.98 | N/A | 6.57 | 0.95 | N/A | 14.50 | 090
26686 |  | A | Treat hand dislocation | 7.94 | N/A | 7.26 | 1.05 | N/A | 16.25 | 090
26700 |  | A | Treat knuckle dislocation | 3.69 | 4.74 | 3.02 | 0.35 | 8.78 | 7.06 | 090
26705 |  | A | Treat knuckle dislocation | 4.19 | 6.05 | 4.24 | 0.50 | 10.74 | 8.93 | 090
26706 |  | A | Pin knuckle dislocation | 5.12 | N/A | 5.19 | 0.64 | N/A | 10.95 | 090
26715 |  | A | Treat knuckle dislocation | 5.74 | N/A | 6.02 | 0.75 | N/A | 12.51 | 090
26720 |  | A | Treat finger fracture, each | 1.66 | 3.97 | 2.65 | 0.20 | 5.83 | 4.51 | 090
26725 |  | A | Treat finger fracture, each | 3.33 | 6.20 | 4.11 | 0.43 | 9.96 | 7.87 | 090
26727 |  | A | Treat finger fracture, each | 5.23 | N/A | 6.62 | 0.69 | N/A | 12.54 | 090
26735 |  | A | Treat finger fracture, each | 5.98 | N/A | 6.17 | 0.77 | N/A | 12.92 | 090
26740 |  | A | Treat finger fracture, each | 1.94 | 3.63 | 2.74 | 0.24 | 5.81 | 4.92 | 090
26742 |  | A | Treat finger fracture, each | 3.85 | 6.11 | 4.11 | 0.49 | 10.45 | 8.45 | 090
26746 |  | A | Treat finger fracture, each | 5.81 | N/A | 6.22 | 0.74 | N/A | 12.77 | 090
26750 |  | A | Treat finger fracture, each | 1.70 | 3.29 | 2.19 | 0.19 | 5.18 | 4.08 | 090
26755 |  | A | Treat finger fracture, each | 3.10 | 4.89 | 3.11 | 0.37 | 8.36 | 6.58 | 090
26756 |  | A | Pin finger fracture, each | 4.39 | N/A | 6.24 | 0.56 | N/A | 11.19 | 090
26765 |  | A | Treat finger fracture, each | 4.17 | N/A | 5.05 | 0.51 | N/A | 9.73 | 090
26770 |  | A | Treat finger dislocation | 3.02 | 4.49 | 2.60 | 0.27 | 7.78 | 5.89 | 090
26775 |  | A | Treat finger dislocation | 3.71 | 5.87 | 3.82 | 0.43 | 10.01 | 7.96 | 090
26776 |  | A | Pin finger dislocation | 4.80 | N/A | 6.41 | 0.63 | N/A | 11.84 | 090
26785 |  | A | Treat finger dislocation | 4.21 | N/A | 5.09 | 0.54 | N/A | 9.84 | 090
26820 |  | A | Thumb fusion with graft | 8.26 | N/A | 14.03 | 1.11 | N/A | 23.40 | 090
26841 |  | A | Fusion of thumb | 7.13 | N/A | 13.84 | 0.97 | N/A | 21.94 | 090
26842 |  | A | Thumb fusion with graft | 8.24 | N/A | 14.11 | 1.10 | N/A | 23.45 | 090
26843 |  | A | Fusion of hand joint | 7.61 | N/A | 13.01 | 0.99 | N/A | 21.61 | 090
26844 |  | A | Fusion/graft of hand joint | 8.73 | N/A | 14.07 | 1.12 | N/A | 23.92 | 090
26850 |  | A | Fusion of knuckle | 6.97 | N/A | 12.93 | 0.89 | N/A | 20.79 | 090
26852 |  | A | Fusion of knuckle with graft | 8.46 | N/A | 13.62 | 1.05 | N/A | 23.13 | 090
26860 |  | A | Fusion of finger joint | 4.69 | N/A | 11.90 | 0.60 | N/A | 17.19 | 090
26861 |  | A | Fusion of finger jnt, add-on | 1.74 | N/A | 0.95 | 0.22 | N/A | 2.91 | ZZZ
26862 |  | A | Fusion/graft of finger joint | 7.37 | N/A | 13.10 | 0.92 | N/A | 21.39 | 090
26863 |  | A | Fuse/graft added joint | 3.90 | N/A | 2.16 | 0.51 | N/A | 6.57 | ZZZ
26910 |  | A | Amputate metacarpal bone | 7.60 | N/A | 12.03 | 0.90 | N/A | 20.53 | 090
26951 |  | A | Amputation of finger/thumb | 4.59 | N/A | 10.94 | 0.56 | N/A | 16.09 | 090
26952 |  | A | Amputation of finger/thumb | 6.31 | N/A | 12.51 | 0.74 | N/A | 19.56 | 090
26989 |  | C | Hand/finger surgery | 0.00 | 0.00 | 0.00 | 0.00 | 0.00 | 0.00 | YYY
26990 |  | A | Drainage of pelvis lesion | 7.48 | N/A | 8.16 | 0.92 | N/A | 16.56 | 090
26991 |  | A | Drainage of pelvis bursa | 6.68 | 7.77 | 6.24 | 0.85 | 15.30 | 13.77 | 090
26992 |  | A | Drainage of bone lesion | 13.02 | N/A | 11.57 | 1.75 | N/A | 26.34 | 090
27000 |  | A | Incision of hip tendon | 5.62 | N/A | 5.49 | 0.76 | N/A | 11.87 | 090
27001 |  | A | Incision of hip tendon | 6.94 | N/A | 6.36 | 0.95 | N/A | 14.25 | 090
27003 |  | A | Incision of hip tendon | 7.34 | N/A | 6.77 | 0.93 | N/A | 15.04 | 090
27005 |  | A | Incision of hip tendon | 9.66 | N/A | 8.09 | 1.36 | N/A | 19.11 | 090
27006 |  | A | Incision of hip tendons | 9.68 | N/A | 8.25 | 1.33 | N/A | 19.26 | 090
27025 |  | A | Incision of hip/thigh fascia | 11.16 | N/A | 8.73 | 1.38 | N/A | 21.27 | 090
27030 |  | A | Drainage of hip joint | 13.01 | N/A | 9.94 | 1.81 | N/A | 24.76 | 090
27033 |  | A | Exploration of hip joint | 13.39 | N/A | 10.21 | 1.87 | N/A | 25.47 | 090
27035 |  | A | Denervation of hip joint | 16.69 | N/A | 12.66 | 1.70 | N/A | 31.05 | 090
27036 |  | A | Excision of hip joint/muscle | 12.88 | N/A | 10.41 | 1.80 | N/A | 25.09 | 090
27040 |  | A | Biopsy of soft tissues | 2.87 | 2.92 | 2.20 | 0.21 | 6.00 | 5.28 | 010
27041 |  | A | Biopsy of soft tissues | 9.89 | N/A | 6.83 | 1.01 | N/A | 17.73 | 090
27047 |  | A | Remove hip/pelvis lesion | 7.45 | 6.66 | 5.07 | 0.79 | 14.90 | 13.31 | 090
27048 |  | A | Remove hip/pelvis lesion | 6.25 | N/A | 5.19 | 0.73 | N/A | 12.17 | 090
27049 |  | A | Remove tumor, hip/pelvis | 13.66 | N/A | 9.20 | 1.60 | N/A | 24.46 | 090
27050 |  | A | Biopsy of sacroiliac joint | 4.36 | N/A | 4.64 | 0.53 | N/A | 9.53 | 090
27052 |  | A | Biopsy of hip joint | 6.23 | N/A | 6.19 | 0.85 | N/A | 13.27 | 090
27054 |  | A | Removal of hip joint lining | 8.54 | N/A | 7.71 | 1.17 | N/A | 17.42 | 090
27060 |  | A | Removal of ischial bursa | 5.43 | N/A | 4.99 | 0.60 | N/A | 11.02 | 090
27062 |  | A | Remove femur lesion/bursa | 5.37 | N/A | 5.42 | 0.74 | N/A | 11.53 | 090
27065 |  | A | Removal of hip bone lesion | 5.90 | N/A | 5.73 | 0.76 | N/A | 12.39 | 090
27066 |  | A | Removal of hip bone lesion | 10.33 | N/A | 8.76 | 1.42 | N/A | 20.51 | 090
27067 |  | A | Remove/graft hip bone lesion | 13.83 | N/A | 10.97 | 1.95 | N/A | 26.75 | 090
27070 |  | A | Partial removal of hip bone | 10.72 | N/A | 10.40 | 1.36 | N/A | 22.48 | 090
27071 |  | A | Partial removal of hip bone | 11.46 | N/A | 11.32 | 1.51 | N/A | 24.29 | 090
27075 |  | A | Extensive hip surgery | 35.00 | N/A | 20.42 | 2.22 | N/A | 57.64 | 090
27076 |  | A | Extensive hip surgery | 22.12 | N/A | 15.35 | 2.86 | N/A | 40.33 | 090
27077 |  | A | Extensive hip surgery | 40.00 | N/A | 23.94 | 3.18 | N/A | 67.12 | 090
27078 |  | A | Extensive hip surgery | 13.44 | N/A | 10.81 | 1.67 | N/A | 25.92 | 090
27079 |  | A | Extensive hip surgery | 13.75 | N/A | 10.45 | 1.86 | N/A | 26.06 | 090
27080 |  | A | Removal of tail bone | 6.39 | N/A | 5.24 | 0.80 | N/A | 12.43 | 090
27086 |  | A | Remove hip foreign body | 1.87 | 2.33 | 2.03 | 0.17 | 4.37 | 4.07 | 010
27087 |  | A | Remove hip foreign body | 8.54 | N/A | 6.84 | 1.09 | N/A | 16.47 | 090
27090 |  | A | Removal of hip prosthesis | 11.15 | N/A | 8.81 | 1.55 | N/A | 21.51 | 090
27091 |  | A | Removal of hip prosthesis | 22.14 | N/A | 14.12 | 3.11 | N/A | 39.37 | 090
27093 |  | A | Injection for hip x-ray | 1.30 | 8.65 | 0.49 | 0.09 | 10.04 | 1.88 | 000
27095 |  | A | Injection for hip x-ray | 1.50 | 7.80 | 0.53 | 0.10 | 9.40 | 2.13 | 000
27096 |  | A | Inject sacroiliac joint | 1.40 | 6.89 | 0.33 | 0.08 | 8.37 | 1.81 | 000
27097 |  | A | Revision of hip tendon | 8.80 | N/A | 6.65 | 1.22 | N/A | 16.67 | 090
27098 |  | A | Transfer tendon to pelvis | 8.83 | N/A | 7.28 | 1.24 | N/A | 17.35 | 090
27100 |  | A | Transfer of abdominal muscle | 11.08 | N/A | 8.97 | 1.57 | N/A | 21.62 | 090
27105 |  | A | Transfer of spinal muscle | 11.77 | N/A | 9.45 | 1.66 | N/A | 22.88 | 090
27110 |  | A | Transfer of iliopsoas muscle | 13.26 | N/A | 9.66 | 1.38 | N/A | 24.30 | 090
27111 |  | A | Transfer of iliopsoas muscle | 12.15 | N/A | 9.31 | 1.48 | N/A | 22.94 | 090
27120 |  | A | Reconstruction of hip socket | 18.01 | N/A | 11.96 | 2.45 | N/A | 32.42 | 090
27122 |  | A | Reconstruction of hip socket | 14.98 | N/A | 11.06 | 2.08 | N/A | 28.12 | 090
27125 |  | A | Partial hip replacement | 14.69 | N/A | 10.63 | 2.05 | N/A | 27.37 | 090
27130 |  | A | Total hip arthroplasty | 20.12 | N/A | 13.41 | 2.82 | N/A | 36.35 | 090
27132 |  | A | Total hip arthroplasty | 23.30 | N/A | 15.78 | 3.26 | N/A | 42.34 | 090
27134 |  | A | Revise hip joint replacement | 28.52 | N/A | 18.03 | 3.97 | N/A | 50.52 | 090
27137 |  | A | Revise hip joint replacement | 21.17 | N/A | 14.08 | 2.97 | N/A | 38.22 | 090
27138 |  | A | Revise hip joint replacement | 22.17 | N/A | 14.55 | 3.11 | N/A | 39.83 | 090
27140 |  | A | Transplant femur ridge | 12.24 | N/A | 9.66 | 1.67 | N/A | 23.57 | 090
27146 |  | A | Incision of hip bone | 17.43 | N/A | 12.65 | 2.27 | N/A | 32.35 | 090
27147 |  | A | Revision of hip bone | 20.58 | N/A | 13.76 | 2.61 | N/A | 36.95 | 090
27151 |  | A | Incision of hip bones | 22.51 | N/A | 8.40 | 3.12 | N/A | 34.03 | 090
27156 |  | A | Revision of hip bones | 24.63 | N/A | 16.52 | 3.48 | N/A | 44.63 | 090
27158 |  | A | Revision of pelvis | 19.74 | N/A | 11.58 | 2.60 | N/A | 33.92 | 090
27161 |  | A | Incision of neck of femur | 16.71 | N/A | 12.28 | 2.32 | N/A | 31.31 | 090
27165 |  | A | Incision/fixation of femur | 17.91 | N/A | 13.07 | 2.51 | N/A | 33.49 | 090
27170 |  | A | Repair/graft femur head/neck | 16.07 | N/A | 11.68 | 2.20 | N/A | 29.95 | 090
27175 |  | A | Treat slipped epiphysis | 8.46 | N/A | 6.70 | 1.19 | N/A | 16.35 | 090
27176 |  | A | Treat slipped epiphysis | 12.05 | N/A | 9.03 | 1.68 | N/A | 22.76 | 090
27177 |  | A | Treat slipped epiphysis | 15.08 | N/A | 10.90 | 2.11 | N/A | 28.09 | 090
27178 |  | A | Treat slipped epiphysis | 11.99 | N/A | 8.45 | 1.68 | N/A | 22.12 | 090
27179 |  | A | Revise head/neck of femur | 12.98 | N/A | 9.84 | 1.84 | N/A | 24.66 | 090
27181 |  | A | Treat slipped epiphysis | 14.68 | N/A | 10.31 | 1.74 | N/A | 26.73 | 090
27185 |  | A | Revision of femur epiphysis | 9.18 | N/A | 7.81 | 1.29 | N/A | 18.28 | 090
27187 |  | A | Reinforce hip bones | 13.54 | N/A | 10.60 | 1.89 | N/A | 26.03 | 090
27193 |  | A | Treat pelvic ring fracture | 5.56 | 6.99 | 5.41 | 0.77 | 13.32 | 11.74 | 090
27194 |  | A | Treat pelvic ring fracture | 9.65 | 8.92 | 7.65 | 1.32 | 19.89 | 18.62 | 090
27200 |  | A | Treat tail bone fracture | 1.84 | 3.09 | 2.22 | 0.22 | 5.15 | 4.28 | 090
27202 |  | A | Treat tail bone fracture | 7.04 | N/A | 18.09 | 0.69 | N/A | 25.82 | 090
27215 |  | A | Treat pelvic fracture(s) | 10.05 | N/A | 7.46 | 1.37 | N/A | 18.88 | 090
27216 |  | A | Treat pelvic ring fracture | 15.19 | N/A | 10.14 | 2.15 | N/A | 27.48 | 090
27217 |  | A | Treat pelvic ring fracture | 14.11 | N/A | 10.42 | 1.95 | N/A | 26.48 | 090
27218 |  | A | Treat pelvic ring fracture | 20.15 | N/A | 11.78 | 2.85 | N/A | 34.78 | 090
27220 |  | A | Treat hip socket fracture | 6.18 | 7.18 | 5.62 | 0.85 | 14.21 | 12.65 | 090
27222 |  | A | Treat hip socket fracture | 12.70 | N/A | 9.82 | 1.77 | N/A | 24.29 | 090
27226 |  | A | Treat hip wall fracture | 14.91 | N/A | 8.11 | 2.07 | N/A | 25.09 | 090
27227 |  | A | Treat hip fracture(s) | 23.45 | N/A | 15.72 | 3.24 | N/A | 42.41 | 090
27228 |  | A | Treat hip fracture(s) | 27.16 | N/A | 17.99 | 3.77 | N/A | 48.92 | 090
27230 |  | A | Treat thigh fracture | 5.50 | 6.64 | 5.14 | 0.73 | 12.87 | 11.37 | 090
27232 |  | A | Treat thigh fracture | 10.68 | N/A | 7.53 | 1.45 | N/A | 19.66 | 090
27235 |  | A | Treat thigh fracture | 12.16 | N/A | 9.54 | 1.71 | N/A | 23.41 | 090
27236 |  | A | Treat thigh fracture | 15.60 | N/A | 11.14 | 2.18 | N/A | 28.92 | 090
27238 |  | A | Treat thigh fracture | 5.52 | N/A | 5.19 | 0.76 | N/A | 11.47 | 090
27240 |  | A | Treat thigh fracture | 12.50 | N/A | 9.45 | 1.69 | N/A | 23.64 | 090
27244 |  | A | Treat thigh fracture | 15.94 | N/A | 11.44 | 2.23 | N/A | 29.61 | 090
27245 |  | A | Treat thigh fracture | 20.31 | N/A | 13.92 | 2.85 | N/A | 37.08 | 090
27246 |  | A | Treat thigh fracture | 4.71 | 5.87 | 4.60 | 0.66 | 11.24 | 9.97 | 090
27248 |  | A | Treat thigh fracture | 10.45 | N/A | 8.31 | 1.45 | N/A | 20.21 | 090
27250 |  | A | Treat hip dislocation | 6.95 | N/A | 4.79 | 0.68 | N/A | 12.42 | 090
27252 |  | A | Treat hip dislocation | 10.39 | N/A | 7.53 | 1.37 | N/A | 19.29 | 090
27253 |  | A | Treat hip dislocation | 12.92 | N/A | 9.87 | 1.81 | N/A | 24.60 | 090
27254 |  | A | Treat hip dislocation | 18.26 | N/A | 12.23 | 2.52 | N/A | 33.01 | 090
27256 |  | A | Treat hip dislocation | 4.12 | 3.50 | 2.13 | 0.49 | 8.11 | 6.74 | 010
27257 |  | A | Treat hip dislocation | 5.22 | N/A | 3.02 | 0.56 | N/A | 8.80 | 010
27258 |  | A | Treat hip dislocation | 15.43 | N/A | 11.19 | 2.06 | N/A | 28.68 | 090
27259 |  | A | Treat hip dislocation | 21.55 | N/A | 14.53 | 2.99 | N/A | 39.07 | 090
27265 |  | A | Treat hip dislocation | 5.05 | N/A | 4.85 | 0.65 | N/A | 10.55 | 090
27266 |  | A | Treat hip dislocation | 7.49 | N/A | 6.39 | 1.04 | N/A | 14.92 | 090
27275 |  | A | Manipulation of hip joint | 2.27 | N/A | 2.25 | 0.31 | N/A | 4.83 | 010
27280 |  | A | Fusion of sacroiliac joint | 13.39 | N/A | 10.56 | 1.98 | N/A | 25.93 | 090
27282 |  | A | Fusion of pubic bones | 11.34 | N/A | 8.44 | 1.14 | N/A | 20.92 | 090
27284 |  | A | Fusion of hip joint | 23.45 | N/A | 15.39 | 2.36 | N/A | 41.20 | 090
27286 |  | A | Fusion of hip joint | 23.45 | N/A | 16.28 | 2.37 | N/A | 42.10 | 090
27290 |  | A | Amputation of leg at hip | 23.28 | N/A | 14.30 | 2.94 | N/A | 40.52 | 090
27295 |  | A | Amputation of leg at hip | 18.65 | N/A | 11.79 | 2.35 | N/A | 32.79 | 090
27299 |  | C | Pelvis/hip joint surgery | 0.00 | 0.00 | 0.00 | 0.00 | 0.00 | 0.00 | YYY
27301 |  | A | Drain thigh/knee lesion | 6.49 | 7.81 | 6.33 | 0.80 | 15.10 | 13.62 | 090
27303 |  | A | Drainage of bone lesion | 8.28 | N/A | 7.85 | 1.14 | N/A | 17.27 | 090
27305 |  | A | Incise thigh tendon & fascia | 5.92 | N/A | 5.58 | 0.77 | N/A | 12.27 | 090
27306 |  | A | Incision of thigh tendon | 4.62 | N/A | 4.96 | 0.62 | N/A | 10.20 | 090
27307 |  | A | Incision of thigh tendons | 5.80 | N/A | 5.69 | 0.78 | N/A | 12.27 | 090
27310 |  | A | Exploration of knee joint | 9.27 | N/A | 8.10 | 1.29 | N/A | 18.66 | 090
27315 |  | A | Partial removal, thigh nerve | 6.97 | N/A | 4.81 | 0.79 | N/A | 12.57 | 090
27320 |  | A | Partial removal, thigh nerve | 6.30 | N/A | 5.12 | 0.78 | N/A | 12.20 | 090
27323 |  | A | Biopsy, thigh soft tissues | 2.28 | 2.54 | 2.07 | 0.17 | 4.99 | 4.52 | 010
27324 |  | A | Biopsy, thigh soft tissues | 4.90 | N/A | 4.50 | 0.59 | N/A | 9.99 | 090
27327 |  | A | Removal of thigh lesion | 4.47 | 5.47 | 4.03 | 0.50 | 10.44 | 9.00 | 090
27328 |  | A | Removal of thigh lesion | 5.57 | N/A | 4.71 | 0.66 | N/A | 10.94 | 090
27329 |  | A | Remove tumor, thigh/knee | 14.14 | N/A | 9.91 | 1.68 | N/A | 25.73 | 090
27330 |  | A | Biopsy, knee joint lining | 4.97 | N/A | 4.82 | 0.66 | N/A | 10.45 | 090
27331 |  | A | Explore/treat knee joint | 5.88 | N/A | 5.81 | 0.81 | N/A | 12.50 | 090
27332 |  | A | Removal of knee cartilage | 8.27 | N/A | 7.30 | 1.15 | N/A | 16.72 | 090
27333 |  | A | Removal of knee cartilage | 7.30 | N/A | 6.83 | 1.03 | N/A | 15.16 | 090
27334 |  | A | Remove knee joint lining | 8.70 | N/A | 7.72 | 1.21 | N/A | 17.63 | 090
27335 |  | A | Remove knee joint lining | 10.00 | N/A | 8.54 | 1.41 | N/A | 19.95 | 090
27340 |  | A | Removal of kneecap bursa | 4.18 | N/A | 4.71 | 0.58 | N/A | 9.47 | 090
27345 |  | A | Removal of knee cyst | 5.92 | N/A | 5.80 | 0.81 | N/A | 12.53 | 090
27347 |  | A | Remove knee cyst | 5.78 | N/A | 5.70 | 0.76 | N/A | 12.24 | 090
27350 |  | A | Removal of kneecap | 8.17 | N/A | 7.43 | 1.15 | N/A | 16.75 | 090
27355 |  | A | Remove femur lesion | 7.65 | N/A | 7.03 | 1.07 | N/A | 15.75 | 090
27356 |  | A | Remove femur lesion/graft | 9.48 | N/A | 8.13 | 1.29 | N/A | 18.90 | 090
27357 |  | A | Remove femur lesion/graft | 10.53 | N/A | 8.87 | 1.48 | N/A | 20.88 | 090
27358 |  | A | Remove femur lesion/fixation | 4.74 | N/A | 2.58 | 0.67 | N/A | 7.99 | ZZZ
27360 |  | A | Partial removal, leg bone(s) | 10.50 | N/A | 10.59 | 1.42 | N/A | 22.51 | 090
27365 |  | A | Extensive leg surgery | 16.27 | N/A | 12.20 | 2.26 | N/A | 30.73 | 090
27370 |  | A | Injection for knee x-ray | 0.96 | 8.43 | 0.33 | 0.06 | 9.45 | 1.35 | 000
27372 |  | A | Removal of foreign body | 5.07 | 6.19 | 4.84 | 0.62 | 11.88 | 10.53 | 090
27380 |  | A | Repair of kneecap tendon | 7.16 | N/A | 7.38 | 1.00 | N/A | 15.54 | 090
27381 |  | A | Repair/graft kneecap tendon | 10.34 | N/A | 9.21 | 1.44 | N/A | 20.99 | 090
27385 |  | A | Repair of thigh muscle | 7.76 | N/A | 7.73 | 1.09 | N/A | 16.58 | 090
27386 |  | A | Repair/graft of thigh muscle | 10.56 | N/A | 9.64 | 1.49 | N/A | 21.69 | 090
27390 |  | A | Incision of thigh tendon | 5.33 | N/A | 5.32 | 0.69 | N/A | 11.34 | 090
27391 |  | A | Incision of thigh tendons | 7.20 | N/A | 6.62 | 0.99 | N/A | 14.81 | 090
27392 |  | A | Incision of thigh tendons | 9.20 | N/A | 7.83 | 1.23 | N/A | 18.26 | 090
27393 |  | A | Lengthening of thigh tendon | 6.39 | N/A | 5.93 | 0.90 | N/A | 13.22 | 090
27394 |  | A | Lengthening of thigh tendons | 8.50 | N/A | 7.38 | 1.17 | N/A | 17.05 | 090
27395 |  | A | Lengthening of thigh tendons | 11.73 | N/A | 9.53 | 1.63 | N/A | 22.89 | 090
27396 |  | A | Transplant of thigh tendon | 7.86 | N/A | 7.26 | 1.11 | N/A | 16.23 | 090
27397 |  | A | Transplants of thigh tendons | 11.28 | N/A | 9.27 | 1.58 | N/A | 22.13 | 090
27400 |  | A | Revise thigh muscles/tendons | 9.02 | N/A | 7.54 | 1.18 | N/A | 17.74 | 090
27403 |  | A | Repair of knee cartilage | 8.33 | N/A | 7.32 | 1.16 | N/A | 16.81 | 090
27405 |  | A | Repair of knee ligament | 8.65 | N/A | 7.77 | 1.21 | N/A | 17.63 | 090
27407 |  | A | Repair of knee ligament | 10.28 | N/A | 8.53 | 1.38 | N/A | 20.19 | 090
27409 |  | A | Repair of knee ligaments | 12.90 | N/A | 10.16 | 1.75 | N/A | 24.81 | 090
27418 |  | A | Repair degenerated kneecap | 10.85 | N/A | 9.09 | 1.51 | N/A | 21.45 | 090
27420 |  | A | Revision of unstable kneecap | 9.83 | N/A | 8.27 | 1.38 | N/A | 19.48 | 090
27422 |  | A | Revision of unstable kneecap | 9.78 | N/A | 8.29 | 1.37 | N/A | 19.44 | 090
27424 |  | A | Revision/removal of kneecap | 9.81 | N/A | 8.26 | 1.38 | N/A | 19.45 | 090
27425 |  | A | Lat retinacular release open | 5.22 | N/A | 5.62 | 0.73 | N/A | 11.57 | 090
27427 |  | A | Reconstruction, knee | 9.36 | N/A | 7.94 | 1.29 | N/A | 18.59 | 090
27428 |  | A | Reconstruction, knee | 14.00 | N/A | 11.36 | 1.95 | N/A | 27.31 | 090
27429 |  | A | Reconstruction, knee | 15.52 | N/A | 12.54 | 2.18 | N/A | 30.24 | 090
27430 |  | A | Revision of thigh muscles | 9.67 | N/A | 8.18 | 1.35 | N/A | 19.20 | 090
27435 |  | A | Incision of knee joint | 9.49 | N/A | 8.55 | 1.33 | N/A | 19.37 | 090
27437 |  | A | Revise kneecap | 8.46 | N/A | 7.20 | 1.18 | N/A | 16.84 | 090
27438 |  | A | Revise kneecap with implant | 11.23 | N/A | 8.58 | 1.56 | N/A | 21.37 | 090
27440 |  | A | Revision of knee joint | 10.43 | N/A | 6.08 | 1.42 | N/A | 17.93 | 090
27441 |  | A | Revision of knee joint | 10.82 | N/A | 6.77 | 1.49 | N/A | 19.08 | 090
27442 |  | A | Revision of knee joint | 11.89 | N/A | 8.97 | 1.68 | N/A | 22.54 | 090
27443 |  | A | Revision of knee joint | 10.93 | N/A | 8.75 | 1.52 | N/A | 21.20 | 090
27445 |  | A | Revision of knee joint | 17.68 | N/A | 12.41 | 2.49 | N/A | 32.58 | 090
27446 |  | A | Revision of knee joint | 15.84 | N/A | 11.36 | 2.22 | N/A | 29.42 | 090
27447 |  | A | Total knee arthroplasty | 21.48 | N/A | 14.72 | 3.00 | N/A | 39.20 | 090
27448 |  | A | Incision of thigh | 11.06 | N/A | 8.88 | 1.51 | N/A | 21.45 | 090
27450 |  | A | Incision of thigh | 13.98 | N/A | 10.76 | 1.96 | N/A | 26.70 | 090
27454 |  | A | Realignment of thigh bone | 17.56 | N/A | 12.80 | 2.46 | N/A | 32.82 | 090
27455 |  | A | Realignment of knee | 12.82 | N/A | 9.94 | 1.78 | N/A | 24.54 | 090
27457 |  | A | Realignment of knee | 13.45 | N/A | 9.91 | 1.88 | N/A | 25.24 | 090
27465 |  | A | Shortening of thigh bone | 13.87 | N/A | 10.50 | 1.86 | N/A | 26.23 | 090
27466 |  | A | Lengthening of thigh bone | 16.33 | N/A | 12.17 | 1.92 | N/A | 30.42 | 090
27468 |  | A | Shorten/lengthen thighs | 18.97 | N/A | 12.59 | 2.68 | N/A | 34.24 | 090
27470 |  | A | Repair of thigh | 16.07 | N/A | 12.13 | 2.24 | N/A | 30.44 | 090
27472 |  | A | Repair/graft of thigh | 17.72 | N/A | 13.04 | 2.49 | N/A | 33.25 | 090
27475 |  | A | Surgery to stop leg growth | 8.64 | N/A | 7.43 | 1.13 | N/A | 17.20 | 090
27477 |  | A | Surgery to stop leg growth | 9.85 | N/A | 7.95 | 1.31 | N/A | 19.11 | 090
27479 |  | A | Surgery to stop leg growth | 12.80 | N/A | 10.12 | 1.81 | N/A | 24.73 | 090
27485 |  | A | Surgery to stop leg growth | 8.84 | N/A | 7.59 | 1.24 | N/A | 17.67 | 090
27486 |  | A | Revise/replace knee joint | 19.27 | N/A | 13.59 | 2.70 | N/A | 35.56 | 090
27487 |  | A | Revise/replace knee joint | 25.27 | N/A | 16.72 | 3.54 | N/A | 45.53 | 090
27488 |  | A | Removal of knee prosthesis | 15.74 | N/A | 11.76 | 2.21 | N/A | 29.71 | 090
27495 |  | A | Reinforce thigh | 15.55 | N/A | 11.75 | 2.18 | N/A | 29.48 | 090
27496 |  | A | Decompression of thigh/knee | 6.11 | N/A | 5.77 | 0.77 | N/A | 12.65 | 090
27497 |  | A | Decompression of thigh/knee | 7.17 | N/A | 5.80 | 0.84 | N/A | 13.81 | 090
27498 |  | A | Decompression of thigh/knee | 7.99 | N/A | 6.15 | 0.97 | N/A | 15.11 | 090
27499 |  | A | Decompression of thigh/knee | 9.00 | N/A | 7.07 | 1.18 | N/A | 17.25 | 090
27500 |  | A | Treatment of thigh fracture | 5.92 | 7.24 | 5.18 | 0.80 | 13.96 | 11.90 | 090
27501 |  | A | Treatment of thigh fracture | 5.92 | 7.82 | 5.87 | 0.83 | 14.57 | 12.62 | 090
27502 |  | A | Treatment of thigh fracture | 10.58 | N/A | 8.36 | 1.49 | N/A | 20.43 | 090
27503 |  | A | Treatment of thigh fracture | 10.58 | N/A | 8.52 | 1.49 | N/A | 20.59 | 090
27506 |  | A | Treatment of thigh fracture | 17.45 | N/A | 12.81 | 2.33 | N/A | 32.59 | 090
27507 |  | A | Treatment of thigh fracture | 13.99 | N/A | 10.13 | 1.95 | N/A | 26.07 | 090
27508 |  | A | Treatment of thigh fracture | 5.83 | 7.10 | 5.42 | 0.80 | 13.73 | 12.05 | 090
27509 |  | A | Treatment of thigh fracture | 7.71 | N/A | 8.04 | 1.08 | N/A | 16.83 | 090
27510 |  | A | Treatment of thigh fracture | 9.13 | N/A | 7.31 | 1.26 | N/A | 17.70 | 090
27511 |  | A | Treatment of thigh fracture | 13.64 | N/A | 11.39 | 1.91 | N/A | 26.94 | 090
27513 |  | A | Treatment of thigh fracture | 17.92 | N/A | 14.08 | 2.51 | N/A | 34.51 | 090
27514 |  | A | Treatment of thigh fracture | 17.30 | N/A | 13.44 | 2.41 | N/A | 33.15 | 090
27516 |  | A | Treat thigh fx growth plate | 5.37 | 7.41 | 5.48 | 0.74 | 13.52 | 11.59 | 090
27517 |  | A | Treat thigh fx growth plate | 8.78 | 9.06 | 7.49 | 1.22 | 19.06 | 17.49 | 090
27519 |  | A | Treat thigh fx growth plate | 15.02 | N/A | 11.83 | 2.09 | N/A | 28.94 | 090
27520 |  | A | Treat kneecap fracture | 2.86 | 5.32 | 3.48 | 0.38 | 8.56 | 6.72 | 090
27524 |  | A | Treat kneecap fracture | 10.00 | N/A | 8.29 | 1.40 | N/A | 19.69 | 090
27530 |  | A | Treat knee fracture | 3.78 | 5.99 | 4.35 | 0.51 | 10.28 | 8.64 | 090
27532 |  | A | Treat knee fracture | 7.30 | 7.86 | 6.27 | 1.02 | 16.18 | 14.59 | 090
27535 |  | A | Treat knee fracture | 11.50 | N/A | 10.27 | 1.61 | N/A | 23.38 | 090
27536 |  | A | Treat knee fracture | 15.65 | N/A | 11.70 | 2.19 | N/A | 29.54 | 090
27538 |  | A | Treat knee fracture(s) | 4.87 | 7.20 | 5.17 | 0.67 | 12.74 | 10.71 | 090
27540 |  | A | Treat knee fracture | 13.10 | N/A | 9.64 | 1.80 | N/A | 24.54 | 090
27550 |  | A | Treat knee dislocation | 5.76 | 6.71 | 5.02 | 0.68 | 13.15 | 11.46 | 090
27552 |  | A | Treat knee dislocation | 7.90 | N/A | 6.99 | 1.10 | N/A | 15.99 | 090
27556 |  | A | Treat knee dislocation | 14.41 | N/A | 12.07 | 2.01 | N/A | 28.49 | 090
27557 |  | A | Treat knee dislocation | 16.77 | N/A | 13.47 | 2.37 | N/A | 32.61 | 090
27558 |  | A | Treat knee dislocation | 17.72 | N/A | 13.52 | 2.51 | N/A | 33.75 | 090
27560 |  | A | Treat kneecap dislocation | 3.82 | 5.68 | 3.35 | 0.40 | 9.90 | 7.57 | 090
27562 |  | A | Treat kneecap dislocation | 5.79 | N/A | 4.87 | 0.69 | N/A | 11.35 | 090
27566 |  | A | Treat kneecap dislocation | 12.23 | N/A | 9.43 | 1.73 | N/A | 23.39 | 090
27570 |  | A | Fixation of knee joint | 1.74 | N/A | 1.91 | 0.24 | N/A | 3.89 | 010
27580 |  | A | Fusion of knee | 19.37 | N/A | 15.13 | 2.70 | N/A | 37.20 | 090
27590 |  | A | Amputate leg at thigh | 12.03 | N/A | 7.33 | 1.35 | N/A | 20.71 | 090
27591 |  | A | Amputate leg at thigh | 12.68 | N/A | 9.27 | 1.63 | N/A | 23.58 | 090
27592 |  | A | Amputate leg at thigh | 10.02 | N/A | 6.84 | 1.17 | N/A | 18.03 | 090
27594 |  | A | Amputation follow-up surgery | 6.92 | N/A | 5.56 | 0.82 | N/A | 13.30 | 090
27596 |  | A | Amputation follow-up surgery | 10.60 | N/A | 7.44 | 1.24 | N/A | 19.28 | 090
27598 |  | A | Amputate lower leg at knee | 10.53 | N/A | 7.49 | 1.24 | N/A | 19.26 | 090
27599 |  | C | Leg surgery procedure | 0.00 | 0.00 | 0.00 | 0.00 | 0.00 | 0.00 | YYY
27600 |  | A | Decompression of lower leg | 5.65 | N/A | 4.79 | 0.68 | N/A | 11.12 | 090
27601 |  | A | Decompression of lower leg | 5.64 | N/A | 5.07 | 0.69 | N/A | 11.40 | 090
27602 |  | A | Decompression of lower leg | 7.35 | N/A | 5.36 | 0.85 | N/A | 13.56 | 090
27603 |  | A | Drain lower leg lesion | 4.94 | 11.05 | 5.10 | 0.56 | 16.55 | 10.60 | 090
27604 |  | A | Drain lower leg bursa | 4.47 | 8.90 | 4.78 | 0.54 | 13.91 | 9.79 | 090
27605 |  | A | Incision of achilles tendon | 2.87 | 9.17 | 2.51 | 0.38 | 12.42 | 5.76 | 010
27606 |  | A | Incision of achilles tendon | 4.14 | 10.43 | 3.57 | 0.57 | 15.14 | 8.28 | 010
27607 |  | A | Treat lower leg bone lesion | 7.97 | N/A | 7.19 | 1.08 | N/A | 16.24 | 090
27610 |  | A | Explore/treat ankle joint | 8.34 | N/A | 7.38 | 1.15 | N/A | 16.87 | 090
27612 |  | A | Exploration of ankle joint | 7.33 | N/A | 6.24 | 1.01 | N/A | 14.58 | 090
27613 |  | A | Biopsy lower leg soft tissue | 2.17 | 4.03 | 1.90 | 0.16 | 6.36 | 4.23 | 010
27614 |  | A | Biopsy lower leg soft tissue | 5.66 | 8.99 | 4.77 | 0.62 | 15.27 | 11.05 | 090
27615 |  | A | Remove tumor, lower leg | 12.56 | N/A | 10.91 | 1.39 | N/A | 24.86 | 090
27618 |  | A | Remove lower leg lesion | 5.09 | 9.29 | 4.35 | 0.54 | 14.92 | 9.98 | 090
27619 |  | A | Remove lower leg lesion | 8.40 | 10.82 | 6.34 | 1.01 | 20.23 | 15.75 | 090
27620 |  | A | Explore/treat ankle joint | 5.98 | N/A | 5.69 | 0.83 | N/A | 12.50 | 090
27625 |  | A | Remove ankle joint lining | 8.30 | N/A | 6.83 | 1.16 | N/A | 16.29 | 090
27626 |  | A | Remove ankle joint lining | 8.91 | N/A | 7.31 | 1.23 | N/A | 17.45 | 090
27630 |  | A | Removal of tendon lesion | 4.80 | 9.26 | 4.62 | 0.60 | 14.66 | 10.02 | 090
27635 |  | A | Remove lower leg bone lesion | 7.78 | N/A | 7.16 | 1.06 | N/A | 16.00 | 090
27637 |  | A | Remove/graft leg bone lesion | 9.85 | N/A | 8.60 | 1.38 | N/A | 19.83 | 090
27638 |  | A | Remove/graft leg bone lesion | 10.57 | N/A | 8.74 | 1.47 | N/A | 20.78 | 090
27640 |  | A | Partial removal of tibia | 11.37 | N/A | 11.19 | 1.54 | N/A | 24.10 | 090
27641 |  | A | Partial removal of fibula | 9.24 | N/A | 9.22 | 1.22 | N/A | 19.68 | 090
27645 |  | A | Extensive lower leg surgery | 14.17 | N/A | 12.76 | 1.98 | N/A | 28.91 | 090
27646 |  | A | Extensive lower leg surgery | 12.66 | N/A | 11.72 | 1.55 | N/A | 25.93 | 090
27647 |  | A | Extensive ankle/heel surgery | 12.24 | N/A | 8.09 | 1.64 | N/A | 21.97 | 090
27648 |  | A | Injection for ankle x-ray | 0.96 | 6.70 | 0.34 | 0.05 | 7.71 | 1.35 | 000
27650 |  | A | Repair achilles tendon | 9.69 | N/A | 7.65 | 1.35 | N/A | 18.69 | 090
27652 |  | A | Repair/graft achilles tendon | 10.33 | N/A | 8.08 | 1.45 | N/A | 19.86 | 090
27654 |  | A | Repair of achilles tendon | 10.02 | N/A | 7.45 | 1.41 | N/A | 18.88 | 090
27656 |  | A | Repair leg fascia defect | 4.57 | 10.22 | 4.12 | 0.48 | 15.27 | 9.17 | 090
27658 |  | A | Repair of leg tendon, each | 4.98 | 9.50 | 5.12 | 0.68 | 15.16 | 10.78 | 090
27659 |  | A | Repair of leg tendon, each | 6.81 | 11.61 | 6.08 | 0.96 | 19.38 | 13.85 | 090
27664 |  | A | Repair of leg tendon, each | 4.59 | 11.66 | 5.10 | 0.63 | 16.88 | 10.32 | 090
27665 |  | A | Repair of leg tendon, each | 5.40 | 11.37 | 5.45 | 0.75 | 17.52 | 11.60 | 090
27675 |  | A | Repair lower leg tendons | 7.18 | N/A | 5.99 | 1.01 | N/A | 14.18 | 090
27676 |  | A | Repair lower leg tendons | 8.42 | N/A | 7.00 | 1.15 | N/A | 16.57 | 090
27680 |  | A | Release of lower leg tendon | 5.74 | N/A | 5.47 | 0.80 | N/A | 12.01 | 090
27681 |  | A | Release of lower leg tendons | 6.82 | N/A | 6.17 | 0.92 | N/A | 13.91 | 090
27685 |  | A | Revision of lower leg tendon | 6.50 | 8.31 | 5.69 | 0.91 | 15.72 | 13.10 | 090
27686 |  | A | Revise lower leg tendons | 7.46 | 12.79 | 6.81 | 1.05 | 21.30 | 15.32 | 090
27687 |  | A | Revision of calf tendon | 6.24 | N/A | 5.61 | 0.88 | N/A | 12.73 | 090
27690 |  | A | Revise lower leg tendon | 8.71 | N/A | 6.73 | 1.22 | N/A | 16.66 | 090
27691 |  | A | Revise lower leg tendon | 9.96 | N/A | 8.05 | 1.40 | N/A | 19.41 | 090
27692 |  | A | Revise additional leg tendon | 1.87 | N/A | 0.95 | 0.26 | N/A | 3.08 | ZZZ
27695 |  | A | Repair of ankle ligament | 6.51 | N/A | 6.22 | 0.90 | N/A | 13.63 | 090
27696 |  | A | Repair of ankle ligaments | 8.27 | N/A | 6.79 | 1.16 | N/A | 16.22 | 090
27698 |  | A | Repair of ankle ligament | 9.36 | N/A | 7.20 | 1.31 | N/A | 17.87 | 090
27700 |  | A | Revision of ankle joint | 9.29 | N/A | 5.75 | 1.24 | N/A | 16.28 | 090
27702 |  | A | Reconstruct ankle joint | 13.67 | N/A | 10.46 | 1.92 | N/A | 26.05 | 090
27703 |  | A | Reconstruction, ankle joint | 15.87 | N/A | 11.30 | 2.24 | N/A | 29.41 | 090
27704 |  | A | Removal of ankle implant | 7.62 | N/A | 5.62 | 0.61 | N/A | 13.85 | 090
27705 |  | A | Incision of tibia | 10.38 | N/A | 8.49 | 1.44 | N/A | 20.31 | 090
27707 |  | A | Incision of fibula | 4.37 | N/A | 5.21 | 0.60 | N/A | 10.18 | 090
27709 |  | A | Incision of tibia & fibula | 9.95 | N/A | 8.41 | 1.39 | N/A | 19.75 | 090
27712 |  | A | Realignment of lower leg | 14.25 | N/A | 11.02 | 2.00 | N/A | 27.27 | 090
27715 |  | A | Revision of lower leg | 14.39 | N/A | 11.15 | 2.00 | N/A | 27.54 | 090
27720 |  | A | Repair of tibia | 11.79 | N/A | 9.73 | 1.66 | N/A | 23.18 | 090
27722 |  | A | Repair/graft of tibia | 11.82 | N/A | 9.49 | 1.65 | N/A | 22.96 | 090
27724 |  | A | Repair/graft of tibia | 18.20 | N/A | 13.00 | 2.10 | N/A | 33.30 | 090
27725 |  | A | Repair of lower leg | 15.59 | N/A | 12.31 | 2.20 | N/A | 30.10 | 090
27727 |  | A | Repair of lower leg | 14.01 | N/A | 10.70 | 1.84 | N/A | 26.55 | 090
27730 |  | A | Repair of tibia epiphysis | 7.41 | 18.67 | 6.64 | 0.75 | 26.83 | 14.80 | 090
27732 |  | A | Repair of fibula epiphysis | 5.32 | 11.91 | 5.28 | 0.63 | 17.86 | 11.23 | 090
27734 |  | A | Repair lower leg epiphyses | 8.48 | N/A | 6.62 | 0.85 | N/A | 15.95 | 090
27740 |  | A | Repair of leg epiphyses | 9.30 | 21.05 | 8.18 | 1.31 | 31.66 | 18.79 | 090
27742 |  | A | Repair of leg epiphyses | 10.30 | 12.74 | 7.41 | 1.55 | 24.59 | 19.26 | 090
27745 |  | A | Reinforce tibia | 10.07 | N/A | 8.46 | 1.38 | N/A | 19.91 | 090
27750 |  | A | Treatment of tibia fracture | 3.19 | 5.47 | 3.84 | 0.43 | 9.09 | 7.46 | 090
27752 |  | A | Treatment of tibia fracture | 5.84 | 7.62 | 5.70 | 0.82 | 14.28 | 12.36 | 090
27756 |  | A | Treatment of tibia fracture | 6.78 | N/A | 6.85 | 0.94 | N/A | 14.57 | 090
27758 |  | A | Treatment of tibia fracture | 11.67 | N/A | 9.36 | 1.52 | N/A | 22.55 | 090
27759 |  | A | Treatment of tibia fracture | 13.76 | N/A | 10.62 | 1.93 | N/A | 26.31 | 090
27760 |  | A | Treatment of ankle fracture | 3.01 | 5.35 | 3.60 | 0.39 | 8.75 | 7.00 | 090
27762 |  | A | Treatment of ankle fracture | 5.25 | 7.26 | 5.26 | 0.71 | 13.22 | 11.22 | 090
27766 |  | A | Treatment of ankle fracture | 8.36 | N/A | 7.30 | 1.17 | N/A | 16.83 | 090
27780 |  | A | Treatment of fibula fracture | 2.65 | 5.02 | 3.27 | 0.33 | 8.00 | 6.25 | 090
27781 |  | A | Treatment of fibula fracture | 4.40 | 6.47 | 4.58 | 0.57 | 11.44 | 9.55 | 090
27784 |  | A | Treatment of fibula fracture | 7.11 | N/A | 6.58 | 0.98 | N/A | 14.67 | 090
27786 |  | A | Treatment of ankle fracture | 2.84 | 5.19 | 3.38 | 0.37 | 8.40 | 6.59 | 090
27788 |  | A | Treatment of ankle fracture | 4.45 | 6.59 | 4.58 | 0.61 | 11.65 | 9.64 | 090
27792 |  | A | Treatment of ankle fracture | 7.66 | N/A | 7.03 | 1.07 | N/A | 15.76 | 090
27808 |  | A | Treatment of ankle fracture | 2.83 | 5.89 | 3.76 | 0.38 | 9.10 | 6.97 | 090
27810 |  | A | Treatment of ankle fracture | 5.13 | 7.18 | 5.19 | 0.71 | 13.02 | 11.03 | 090
27814 |  | A | Treatment of ankle fracture | 10.68 | N/A | 8.81 | 1.50 | N/A | 20.99 | 090
27816 |  | A | Treatment of ankle fracture | 2.89 | 5.18 | 3.55 | 0.37 | 8.44 | 6.81 | 090
27818 |  | A | Treatment of ankle fracture | 5.50 | 7.29 | 5.23 | 0.74 | 13.53 | 11.47 | 090
27822 |  | A | Treatment of ankle fracture | 11.00 | N/A | 10.92 | 1.29 | N/A | 23.21 | 090
27823 |  | A | Treatment of ankle fracture | 13.00 | N/A | 11.80 | 1.65 | N/A | 26.45 | 090
27824 |  | A | Treat lower leg fracture | 2.89 | 5.77 | 3.90 | 0.39 | 9.05 | 7.18 | 090
27825 |  | A | Treat lower leg fracture | 6.19 | 8.55 | 6.18 | 0.85 | 15.59 | 13.22 | 090
27826 |  | A | Treat lower leg fracture | 8.54 | N/A | 9.12 | 1.19 | N/A | 18.85 | 090
27827 |  | A | Treat lower leg fracture | 14.06 | N/A | 12.94 | 1.96 | N/A | 28.96 | 090
27828 |  | A | Treat lower leg fracture | 16.23 | N/A | 14.01 | 2.27 | N/A | 32.51 | 090
27829 |  | A | Treat lower leg joint | 5.49 | N/A | 6.89 | 0.77 | N/A | 13.15 | 090
27830 |  | A | Treat lower leg dislocation | 3.79 | 5.23 | 3.90 | 0.44 | 9.46 | 8.13 | 090
27831 |  | A | Treat lower leg dislocation | 4.56 | N/A | 4.52 | 0.61 | N/A | 9.69 | 090
27832 |  | A | Treat lower leg dislocation | 6.49 | N/A | 6.27 | 0.91 | N/A | 13.67 | 090
27840 |  | A | Treat ankle dislocation | 4.58 | N/A | 3.96 | 0.47 | N/A | 9.01 | 090
27842 |  | A | Treat ankle dislocation | 6.21 | N/A | 5.09 | 0.76 | N/A | 12.06 | 090
27846 |  | A | Treat ankle dislocation | 9.79 | N/A | 8.17 | 1.36 | N/A | 19.32 | 090
27848 |  | A | Treat ankle dislocation | 11.20 | N/A | 9.89 | 1.55 | N/A | 22.64 | 090
27860 |  | A | Fixation of ankle joint | 2.34 | N/A | 2.20 | 0.31 | N/A | 4.85 | 010
27870 |  | A | Fusion of ankle joint, open | 13.91 | N/A | 10.90 | 1.95 | N/A | 26.76 | 090
27871 |  | A | Fusion of tibiofibular joint | 9.17 | N/A | 7.86 | 1.29 | N/A | 18.32 | 090
27880 |  | A | Amputation of lower leg | 11.85 | N/A | 7.60 | 1.38 | N/A | 20.83 | 090
27881 |  | A | Amputation of lower leg | 12.34 | N/A | 9.23 | 1.59 | N/A | 23.16 | 090
27882 |  | A | Amputation of lower leg | 8.94 | N/A | 7.17 | 1.03 | N/A | 17.14 | 090
27884 |  | A | Amputation follow-up surgery | 8.21 | N/A | 6.28 | 0.95 | N/A | 15.44 | 090
27886 |  | A | Amputation follow-up surgery | 9.32 | N/A | 6.98 | 1.13 | N/A | 17.43 | 090
27888 |  | A | Amputation of foot at ankle | 9.67 | N/A | 7.81 | 1.26 | N/A | 18.74 | 090
27889 |  | A | Amputation of foot at ankle | 9.98 | N/A | 6.87 | 1.19 | N/A | 18.04 | 090
27892 |  | A | Decompression of leg | 7.39 | N/A | 5.92 | 0.86 | N/A | 14.17 | 090
27893 |  | A | Decompression of leg | 7.35 | N/A | 5.83 | 0.90 | N/A | 14.08 | 090
27894 |  | A | Decompression of leg | 10.49 | N/A | 7.96 | 1.25 | N/A | 19.70 | 090
27899 |  | C | Leg/ankle surgery procedure | 0.00 | 0.00 | 0.00 | 0.00 | 0.00 | 0.00 | YYY
28001 |  | A | Drainage of bursa of foot | 2.73 | 5.98 | 3.58 | 0.31 | 9.02 | 6.62 | 010
28002 |  | A | Treatment of foot infection | 4.62 | 7.39 | 4.72 | 0.56 | 12.57 | 9.90 | 010
28003 |  | A | Treatment of foot infection | 8.41 | 7.93 | 6.42 | 1.03 | 17.37 | 15.86 | 090
28005 |  | A | Treat foot bone lesion | 8.68 | N/A | 6.70 | 1.14 | N/A | 16.52 | 090
28008 |  | A | Incision of foot fascia | 4.45 | 5.87 | 3.77 | 0.56 | 10.88 | 8.78 | 090
28010 |  | A | Incision of toe tendon | 2.84 | 5.69 | 3.09 | 0.39 | 8.92 | 6.32 | 090
28011 |  | A | Incision of toe tendons | 4.14 | 7.63 | 4.50 | 0.58 | 12.35 | 9.22 | 090
28020 |  | A | Exploration of foot joint | 5.01 | 7.29 | 4.42 | 0.64 | 12.94 | 10.07 | 090
28022 |  | A | Exploration of foot joint | 4.67 | 6.27 | 4.13 | 0.62 | 11.56 | 9.42 | 090
28024 |  | A | Exploration of toe joint | 4.38 | 6.39 | 4.20 | 0.50 | 11.27 | 9.08 | 090
28030 |  | A | Removal of foot nerve | 6.15 | N/A | 3.75 | 0.85 | N/A | 10.75 | 090
28035 |  | A | Decompression of tibia nerve | 5.09 | 7.07 | 4.28 | 0.71 | 12.87 | 10.08 | 090
28043 |  | A | Excision of foot lesion | 3.54 | 5.94 | 3.40 | 0.45 | 9.93 | 7.39 | 090
28045 |  | A | Excision of foot lesion | 4.72 | 6.30 | 3.89 | 0.62 | 11.64 | 9.23 | 090
28046 |  | A | Resection of tumor, foot | 10.18 | 9.67 | 7.59 | 1.13 | 20.98 | 18.90 | 090
28050 |  | A | Biopsy of foot joint lining | 4.25 | 5.95 | 3.86 | 0.55 | 10.75 | 8.66 | 090
28052 |  | A | Biopsy of foot joint lining | 3.94 | 6.16 | 3.76 | 0.51 | 10.61 | 8.21 | 090
28054 |  | A | Biopsy of toe joint lining | 3.45 | 6.00 | 3.56 | 0.45 | 9.90 | 7.46 | 090
28060 |  | A | Partial removal, foot fascia | 5.23 | 6.57 | 4.21 | 0.69 | 12.49 | 10.13 | 090
28062 |  | A | Removal of foot fascia | 6.52 | 7.34 | 4.36 | 0.85 | 14.71 | 11.73 | 090
28070 |  | A | Removal of foot joint lining | 5.10 | 6.13 | 4.08 | 0.68 | 11.91 | 9.86 | 090
28072 |  | A | Removal of foot joint lining | 4.58 | 6.62 | 4.56 | 0.64 | 11.84 | 9.78 | 090
28080 |  | A | Removal of foot lesion | 3.58 | 6.10 | 3.84 | 0.50 | 10.18 | 7.92 | 090
28086 |  | A | Excise foot tendon sheath | 4.78 | 9.75 | 4.96 | 0.66 | 15.19 | 10.40 | 090
28088 |  | A | Excise foot tendon sheath | 3.86 | 7.26 | 4.24 | 0.52 | 11.64 | 8.62 | 090
28090 |  | A | Removal of foot lesion | 4.41 | 6.20 | 3.73 | 0.57 | 11.18 | 8.71 | 090
28092 |  | A | Removal of toe lesions | 3.64 | 6.52 | 3.82 | 0.46 | 10.62 | 7.92 | 090
28100 |  | A | Removal of ankle/heel lesion | 5.66 | 9.50 | 5.04 | 0.76 | 15.92 | 11.46 | 090
28102 |  | A | Remove/graft foot lesion | 7.73 | N/A | 6.29 | 0.97 | N/A | 14.99 | 090
28103 |  | A | Remove/graft foot lesion | 6.50 | 8.72 | 4.97 | 0.89 | 16.11 | 12.36 | 090
28104 |  | A | Removal of foot lesion | 5.12 | 6.54 | 4.29 | 0.69 | 12.35 | 10.10 | 090
28106 |  | A | Remove/graft foot lesion | 7.16 | N/A | 4.76 | 1.01 | N/A | 12.93 | 090
28107 |  | A | Remove/graft foot lesion | 5.56 | 7.46 | 4.52 | 0.74 | 13.76 | 10.82 | 090
28108 |  | A | Removal of toe lesions | 4.16 | 5.60 | 3.52 | 0.52 | 10.28 | 8.20 | 090
28110 |  | A | Part removal of metatarsal | 4.08 | 6.24 | 3.94 | 0.49 | 10.81 | 8.51 | 090
28111 |  | A | Part removal of metatarsal | 5.01 | 7.45 | 4.45 | 0.63 | 13.09 | 10.09 | 090
28112 |  | A | Part removal of metatarsal | 4.49 | 6.93 | 4.35 | 0.60 | 12.02 | 9.44 | 090
28113 |  | A | Part removal of metatarsal | 4.79 | 7.01 | 4.85 | 0.63 | 12.43 | 10.27 | 090
28114 |  | A | Removal of metatarsal heads | 9.79 | 12.25 | 8.83 | 1.36 | 23.40 | 19.98 | 090
28116 |  | A | Revision of foot | 7.75 | 7.38 | 5.38 | 1.03 | 16.16 | 14.16 | 090
28118 |  | A | Removal of heel bone | 5.96 | 7.33 | 4.73 | 0.79 | 14.08 | 11.48 | 090
28119 |  | A | Removal of heel spur | 5.39 | 6.38 | 4.03 | 0.74 | 12.51 | 10.16 | 090
28120 |  | A | Part removal of ankle/heel | 5.40 | 9.04 | 5.48 | 0.69 | 15.13 | 11.57 | 090
28122 |  | A | Partial removal of foot bone | 7.29 | 8.15 | 6.01 | 0.96 | 16.40 | 14.26 | 090
28124 |  | A | Partial removal of toe | 4.81 | 6.30 | 4.35 | 0.65 | 11.76 | 9.81 | 090
28126 |  | A | Partial removal of toe | 3.52 | 5.52 | 3.79 | 0.49 | 9.53 | 7.80 | 090
28130 |  | A | Removal of ankle bone | 8.11 | N/A | 6.92 | 1.11 | N/A | 16.14 | 090
28140 |  | A | Removal of metatarsal | 6.91 | 8.47 | 5.19 | 0.84 | 16.22 | 12.94 | 090
28150 |  | A | Removal of toe | 4.09 | 6.19 | 4.05 | 0.52 | 10.80 | 8.66 | 090
28153 |  | A | Partial removal of toe | 3.66 | 5.59 | 3.27 | 0.49 | 9.74 | 7.42 | 090
28160 |  | A | Partial removal of toe | 3.74 | 5.88 | 4.14 | 0.51 | 10.13 | 8.39 | 090
28171 |  | A | Extensive foot surgery | 9.60 | N/A | 5.90 | 1.13 | N/A | 16.63 | 090
28173 |  | A | Extensive foot surgery | 8.80 | 8.49 | 5.86 | 1.04 | 18.33 | 15.70 | 090
28175 |  | A | Extensive foot surgery | 6.05 | 6.89 | 4.26 | 0.75 | 13.69 | 11.06 | 090
28190 |  | A | Removal of foot foreign body | 1.96 | 6.71 | 3.55 | 0.16 | 8.83 | 5.67 | 010
28192 |  | A | Removal of foot foreign body | 4.64 | 6.61 | 3.85 | 0.52 | 11.77 | 9.01 | 090
28193 |  | A | Removal of foot foreign body | 5.73 | 6.53 | 4.28 | 0.63 | 12.89 | 10.64 | 090
28200 |  | A | Repair of foot tendon | 4.60 | 6.13 | 3.94 | 0.59 | 11.32 | 9.13 | 090
28202 |  | A | Repair/graft of foot tendon | 6.84 | 8.30 | 4.82 | 0.86 | 16.00 | 12.52 | 090
28208 |  | A | Repair of foot tendon | 4.37 | 5.91 | 3.67 | 0.59 | 10.87 | 8.63 | 090
28210 |  | A | Repair/graft of foot tendon | 6.35 | 7.33 | 4.36 | 0.77 | 14.45 | 11.48 | 090
28220 |  | A | Release of foot tendon | 4.53 | 5.73 | 3.78 | 0.63 | 10.89 | 8.94 | 090
28222 |  | A | Release of foot tendons | 5.62 | 6.13 | 4.49 | 0.77 | 12.52 | 10.88 | 090
28225 |  | A | Release of foot tendon | 3.66 | 5.43 | 3.28 | 0.50 | 9.59 | 7.44 | 090
28226 |  | A | Release of foot tendons | 4.53 | 5.78 | 4.11 | 0.62 | 10.93 | 9.26 | 090
28230 |  | A | Incision of foot tendon(s) | 4.24 | 5.81 | 4.08 | 0.59 | 10.64 | 8.91 | 090
28232 |  | A | Incision of toe tendon | 3.39 | 5.85 | 3.72 | 0.48 | 9.72 | 7.59 | 090
28234 |  | A | Incision of foot tendon | 3.37 | 6.01 | 3.66 | 0.46 | 9.84 | 7.49 | 090
28238 |  | A | Revision of foot tendon | 7.73 | 8.19 | 5.27 | 1.08 | 17.00 | 14.08 | 090
28240 |  | A | Release of big toe | 4.36 | 5.77 | 3.88 | 0.61 | 10.74 | 8.85 | 090
28250 |  | A | Revision of foot fascia | 5.92 | 6.73 | 4.50 | 0.81 | 13.46 | 11.23 | 090
28260 |  | A | Release of midfoot joint | 7.96 | 7.27 | 5.34 | 1.08 | 16.31 | 14.38 | 090
28261 |  | A | Revision of foot tendon | 11.73 | 9.14 | 7.59 | 1.66 | 22.53 | 20.98 | 090
28262 |  | A | Revision of foot and ankle | 15.83 | 14.73 | 11.92 | 2.22 | 32.78 | 29.97 | 090
28264 |  | A | Release of midfoot joint | 10.35 | 8.74 | 8.19 | 1.46 | 20.55 | 20.00 | 090
28270 |  | A | Release of foot contracture | 4.76 | 6.09 | 4.43 | 0.67 | 11.52 | 9.86 | 090
28272 |  | A | Release of toe joint, each | 3.80 | 5.31 | 3.22 | 0.52 | 9.63 | 7.54 | 090
28280 |  | A | Fusion of toes | 5.19 | 7.46 | 4.76 | 0.72 | 13.37 | 10.67 | 090
28285 |  | A | Repair of hammertoe | 4.59 | 6.14 | 4.05 | 0.64 | 11.37 | 9.28 | 090
28286 |  | A | Repair of hammertoe | 4.56 | 5.93 | 3.91 | 0.64 | 11.13 | 9.11 | 090
28288 |  | A | Partial removal of foot bone | 4.74 | 6.88 | 5.53 | 0.65 | 12.27 | 10.92 | 090
28289 |  | A | Repair hallux rigidus | 7.04 | 9.24 | 6.53 | 0.96 | 17.24 | 14.53 | 090
28290 |  | A | Correction of bunion | 5.66 | 7.23 | 5.59 | 0.79 | 13.68 | 12.04 | 090
28292 |  | A | Correction of bunion | 7.04 | 8.00 | 5.93 | 0.98 | 16.02 | 13.95 | 090
28293 |  | A | Correction of bunion | 9.15 | 10.19 | 6.16 | 1.28 | 20.62 | 16.59 | 090
28294 |  | A | Correction of bunion | 8.56 | 7.87 | 5.28 | 1.16 | 17.59 | 15.00 | 090
28296 |  | A | Correction of bunion | 9.18 | 8.38 | 6.04 | 1.28 | 18.84 | 16.50 | 090
28297 |  | A | Correction of bunion | 9.18 | 9.38 | 7.08 | 1.31 | 19.87 | 17.57 | 090
28298 |  | A | Correction of bunion | 7.94 | 7.52 | 5.64 | 1.12 | 16.58 | 14.70 | 090
28299 |  | A | Correction of bunion | 10.58 | 8.95 | 6.66 | 1.24 | 20.77 | 18.48 | 090
28300 |  | A | Incision of heel bone | 9.54 | 13.40 | 7.28 | 1.31 | 24.25 | 18.13 | 090
28302 |  | A | Incision of ankle bone | 9.55 | 13.39 | 7.16 | 1.15 | 24.09 | 17.86 | 090
28304 |  | A | Incision of midfoot bones | 9.16 | 8.36 | 5.97 | 1.00 | 18.52 | 16.13 | 090
28305 |  | A | Incise/graft midfoot bones | 10.50 | 11.12 | 6.95 | 0.55 | 22.17 | 18.00 | 090
28306 |  | A | Incision of metatarsal | 5.86 | 7.40 | 4.45 | 0.81 | 14.07 | 11.12 | 090
28307 |  | A | Incision of metatarsal | 6.33 | 11.84 | 5.50 | 0.71 | 18.88 | 12.54 | 090
28308 |  | A | Incision of metatarsal | 5.29 | 6.22 | 3.89 | 0.74 | 12.25 | 9.92 | 090
28309 |  | A | Incision of metatarsals | 12.78 | N/A | 8.33 | 1.64 | N/A | 22.75 | 090
28310 |  | A | Revision of big toe | 5.43 | 6.45 | 4.19 | 0.76 | 12.64 | 10.38 | 090
28312 |  | A | Revision of toe | 4.55 | 6.18 | 4.40 | 0.62 | 11.35 | 9.57 | 090
28313 |  | A | Repair deformity of toe | 5.01 | 6.65 | 5.91 | 0.68 | 12.34 | 11.60 | 090
28315 |  | A | Removal of sesamoid bone | 4.86 | 6.03 | 3.89 | 0.66 | 11.55 | 9.41 | 090
28320 |  | A | Repair of foot bones | 9.18 | N/A | 6.97 | 1.27 | N/A | 17.42 | 090
28322 |  | A | Repair of metatarsals | 8.34 | 10.37 | 6.52 | 1.17 | 19.88 | 16.03 | 090
28340 |  | A | Resect enlarged toe tissue | 6.98 | 7.25 | 4.59 | 0.98 | 15.21 | 12.55 | 090
28341 |  | A | Resect enlarged toe | 8.41 | 7.43 | 5.13 | 1.18 | 17.02 | 14.72 | 090
28344 |  | A | Repair extra toe(s) | 4.26 | 6.93 | 3.89 | 0.60 | 11.79 | 8.75 | 090
28345 |  | A | Repair webbed toe(s) | 5.92 | 7.19 | 5.01 | 0.84 | 13.95 | 11.77 | 090
28360 |  | A | Reconstruct cleft foot | 13.34 | N/A | 10.87 | 1.88 | N/A | 26.09 | 090
28400 |  | A | Treatment of heel fracture | 2.16 | 4.63 | 3.31 | 0.29 | 7.08 | 5.76 | 090
28405 |  | A | Treatment of heel fracture | 4.57 | 5.77 | 4.82 | 0.63 | 10.97 | 10.02 | 090
28406 |  | A | Treatment of heel fracture | 6.31 | N/A | 7.02 | 0.87 | N/A | 14.20 | 090
28415 |  | A | Treat heel fracture | 15.97 | N/A | 13.49 | 2.24 | N/A | 31.70 | 090
28420 |  | A | Treat/graft heel fracture | 16.64 | N/A | 13.20 | 2.29 | N/A | 32.13 | 090
28430 |  | A | Treatment of ankle fracture | 2.09 | 4.33 | 2.81 | 0.27 | 6.69 | 5.17 | 090
28435 |  | A | Treatment of ankle fracture | 3.40 | 4.74 | 3.90 | 0.47 | 8.61 | 7.77 | 090
28436 |  | A | Treatment of ankle fracture | 4.71 | N/A | 6.11 | 0.66 | N/A | 11.48 | 090
28445 |  | A | Treat ankle fracture | 15.62 | N/A | 11.42 | 1.29 | N/A | 28.33 | 090
28450 |  | A | Treat midfoot fracture, each | 1.90 | 4.31 | 2.72 | 0.25 | 6.46 | 4.87 | 090
28455 |  | A | Treat midfoot fracture, each | 3.09 | 4.22 | 3.76 | 0.43 | 7.74 | 7.28 | 090
28456 |  | A | Treat midfoot fracture | 2.68 | N/A | 4.37 | 0.36 | N/A | 7.41 | 090
28465 |  | A | Treat midfoot fracture, each | 7.01 | N/A | 6.49 | 0.87 | N/A | 14.37 | 090
28470 |  | A | Treat metatarsal fracture | 1.99 | 3.95 | 2.53 | 0.26 | 6.20 | 4.78 | 090
28475 |  | A | Treat metatarsal fracture | 2.97 | 4.20 | 3.34 | 0.41 | 7.58 | 6.72 | 090
28476 |  | A | Treat metatarsal fracture | 3.38 | N/A | 5.09 | 0.46 | N/A | 8.93 | 090
28485 |  | A | Treat metatarsal fracture | 5.71 | N/A | 5.72 | 0.80 | N/A | 12.23 | 090
28490 |  | A | Treat big toe fracture | 1.09 | 2.33 | 1.83 | 0.13 | 3.55 | 3.05 | 090
28495 |  | A | Treat big toe fracture | 1.58 | 2.60 | 2.18 | 0.19 | 4.37 | 3.95 | 090
28496 |  | A | Treat big toe fracture | 2.33 | 9.95 | 3.78 | 0.32 | 12.60 | 6.43 | 090
28505 |  | A | Treat big toe fracture | 3.81 | 9.95 | 4.86 | 0.50 | 14.26 | 9.17 | 090
28510 |  | A | Treatment of toe fracture | 1.09 | 2.08 | 1.78 | 0.13 | 3.30 | 3.00 | 090
28515 |  | A | Treatment of toe fracture | 1.46 | 2.44 | 2.10 | 0.17 | 4.07 | 3.73 | 090
28525 |  | A | Treat toe fracture | 3.32 | 9.54 | 4.41 | 0.44 | 13.30 | 8.17 | 090
28530 |  | A | Treat sesamoid bone fracture | 1.06 | 2.26 | 1.69 | 0.13 | 3.45 | 2.88 | 090
28531 |  | A | Treat sesamoid bone fracture | 2.35 | 9.22 | 2.63 | 0.33 | 11.90 | 5.31 | 090
28540 |  | A | Treat foot dislocation | 2.04 | 3.03 | 2.88 | 0.24 | 5.31 | 5.16 | 090
28545 |  | A | Treat foot dislocation | 2.45 | 2.99 | 2.99 | 0.33 | 5.77 | 5.77 | 090
28546 |  | A | Treat foot dislocation | 3.20 | 8.11 | 4.92 | 0.46 | 11.77 | 8.58 | 090
28555 |  | A | Repair foot dislocation | 6.30 | 11.76 | 6.66 | 0.88 | 18.94 | 13.84 | 090
28570 |  | A | Treat foot dislocation | 1.66 | 3.12 | 2.60 | 0.22 | 5.00 | 4.48 | 090
28575 |  | A | Treat foot dislocation | 3.31 | 4.54 | 4.21 | 0.45 | 8.30 | 7.97 | 090
28576 |  | A | Treat foot dislocation | 4.17 | 10.43 | 5.60 | 0.56 | 15.16 | 10.33 | 090
28585 |  | A | Repair foot dislocation | 7.99 | 8.30 | 6.66 | 1.13 | 17.42 | 15.78 | 090
28600 |  | A | Treat foot dislocation | 1.89 | 3.49 | 2.90 | 0.24 | 5.62 | 5.03 | 090
28605 |  | A | Treat foot dislocation | 2.71 | 3.88 | 3.77 | 0.35 | 6.94 | 6.83 | 090
28606 |  | A | Treat foot dislocation | 4.90 | 16.30 | 6.12 | 0.68 | 21.88 | 11.70 | 090
28615 |  | A | Repair foot dislocation | 7.77 | N/A | 8.13 | 1.09 | N/A | 16.99 | 090
28630 |  | A | Treat toe dislocation | 1.70 | 1.41 | 1.18 | 0.17 | 3.28 | 3.05 | 010
28635 |  | A | Treat toe dislocation | 1.91 | 1.77 | 1.61 | 0.24 | 3.92 | 3.76 | 010
28636 |  | A | Treat toe dislocation | 2.77 | 6.41 | 3.16 | 0.39 | 9.57 | 6.32 | 010
28645 |  | A | Repair toe dislocation | 4.22 | 5.78 | 3.58 | 0.58 | 10.58 | 8.38 | 090
28660 |  | A | Treat toe dislocation | 1.23 | 1.79 | 1.23 | 0.11 | 3.13 | 2.57 | 010
28665 |  | A | Treat toe dislocation | 1.92 | 1.76 | 1.73 | 0.24 | 3.92 | 3.89 | 010
28666 |  | A | Treat toe dislocation | 2.66 | 6.13 | 2.28 | 0.38 | 9.17 | 5.32 | 010
28675 |  | A | Repair of toe dislocation | 2.92 | 8.97 | 3.84 | 0.41 | 12.30 | 7.17 | 090
28705 |  | A | Fusion of foot bones | 18.80 | N/A | 12.85 | 2.13 | N/A | 33.78 | 090
28715 |  | A | Fusion of foot bones | 13.10 | N/A | 10.11 | 1.84 | N/A | 25.05 | 090
28725 |  | A | Fusion of foot bones | 11.61 | N/A | 8.63 | 1.63 | N/A | 21.87 | 090
28730 |  | A | Fusion of foot bones | 10.76 | N/A | 8.72 | 1.51 | N/A | 20.99 | 090
28735 |  | A | Fusion of foot bones | 10.85 | N/A | 8.18 | 1.51 | N/A | 20.54 | 090
28737 |  | A | Revision of foot bones | 9.64 | N/A | 7.13 | 1.36 | N/A | 18.13 | 090
28740 |  | A | Fusion of foot bones | 8.02 | 11.91 | 6.72 | 1.13 | 21.06 | 15.87 | 090
28750 |  | A | Fusion of big toe joint | 7.30 | 13.32 | 6.90 | 1.03 | 21.65 | 15.23 | 090
28755 |  | A | Fusion of big toe joint | 4.74 | 7.04 | 4.11 | 0.66 | 12.44 | 9.51 | 090
28760 |  | A | Fusion of big toe joint | 7.75 | 8.25 | 5.78 | 1.07 | 17.07 | 14.60 | 090
28800 |  | A | Amputation of midfoot | 8.21 | N/A | 6.17 | 0.98 | N/A | 15.36 | 090
28805 |  | A | Amputation thru metatarsal | 8.39 | N/A | 6.01 | 0.97 | N/A | 15.37 | 090
28810 |  | A | Amputation toe & metatarsal | 6.21 | N/A | 4.90 | 0.70 | N/A | 11.81 | 090
28820 |  | A | Amputation of toe | 4.41 | 8.64 | 4.18 | 0.51 | 13.56 | 9.10 | 090
28825 |  | A | Partial amputation of toe | 3.59 | 8.09 | 3.88 | 0.43 | 12.11 | 7.90 | 090
28899 |  | C | Foot/toes surgery procedure | 0.00 | 0.00 | 0.00 | 0.00 | 0.00 | 0.00 | YYY
29000 |  | A | Application of body cast | 2.25 | 3.18 | 1.75 | 0.30 | 5.73 | 4.30 | 000
29010 |  | A | Application of body cast | 2.06 | 3.36 | 1.75 | 0.27 | 5.69 | 4.08 | 000
29015 |  | A | Application of body cast | 2.41 | 3.06 | 1.61 | 0.21 | 5.68 | 4.23 | 000
29020 |  | A | Application of body cast | 2.11 | 3.33 | 1.43 | 0.16 | 5.60 | 3.70 | 000
29025 |  | A | Application of body cast | 2.40 | 3.31 | 1.87 | 0.26 | 5.97 | 4.53 | 000
29035 |  | A | Application of body cast | 1.77 | 3.52 | 1.57 | 0.24 | 5.53 | 3.58 | 000
29040 |  | A | Application of body cast | 2.22 | 2.63 | 1.53 | 0.35 | 5.20 | 4.10 | 000
29044 |  | A | Application of body cast | 2.12 | 3.87 | 1.88 | 0.29 | 6.28 | 4.29 | 000
29046 |  | A | Application of body cast | 2.41 | 3.34 | 2.06 | 0.34 | 6.09 | 4.81 | 000
29049 |  | A | Application of figure eight | 0.89 | 1.27 | 0.55 | 0.12 | 2.28 | 1.56 | 000
29055 |  | A | Application of shoulder cast | 1.78 | 2.87 | 1.46 | 0.24 | 4.89 | 3.48 | 000
29058 |  | A | Application of shoulder cast | 1.31 | 1.53 | 0.74 | 0.14 | 2.98 | 2.19 | 000
29065 |  | A | Application of long arm cast | 0.87 | 1.29 | 0.75 | 0.12 | 2.28 | 1.74 | 000
29075 |  | A | Application of forearm cast | 0.77 | 1.23 | 0.68 | 0.11 | 2.11 | 1.56 | 000
29085 |  | A | Apply hand/wrist cast | 0.87 | 1.26 | 0.64 | 0.11 | 2.24 | 1.62 | 000
29086 |  | A | Apply finger cast | 0.62 | 0.95 | 0.52 | 0.06 | 1.63 | 1.20 | 000
29105 |  | A | Apply long arm splint | 0.87 | 1.21 | 0.53 | 0.11 | 2.19 | 1.51 | 000
29125 |  | A | Apply forearm splint | 0.59 | 1.01 | 0.41 | 0.06 | 1.66 | 1.06 | 000
29126 |  | A | Apply forearm splint | 0.77 | 1.22 | 0.48 | 0.06 | 2.05 | 1.31 | 000
29130 |  | A | Application of finger splint | 0.50 | 0.47 | 0.17 | 0.05 | 1.02 | 0.72 | 000
29131 |  | A | Application of finger splint | 0.55 | 0.75 | 0.25 | 0.03 | 1.33 | 0.83 | 000
29200 |  | A | Strapping of chest | 0.65 | 0.75 | 0.36 | 0.04 | 1.44 | 1.05 | 000
29220 |  | A | Strapping of low back | 0.64 | 0.73 | 0.40 | 0.07 | 1.44 | 1.11 | 000
29240 |  | A | Strapping of shoulder | 0.71 | 0.88 | 0.38 | 0.05 | 1.64 | 1.14 | 000
29260 |  | A | Strapping of elbow or wrist | 0.55 | 0.76 | 0.34 | 0.04 | 1.35 | 0.93 | 000
29280 |  | A | Strapping of hand or finger | 0.51 | 0.83 | 0.34 | 0.04 | 1.38 | 0.89 | 000
29305 |  | A | Application of hip cast | 2.03 | 3.24 | 1.74 | 0.29 | 5.56 | 4.06 | 000
29325 |  | A | Application of hip casts | 2.32 | 3.43 | 1.93 | 0.31 | 6.06 | 4.56 | 000
29345 |  | A | Application of long leg cast | 1.40 | 1.72 | 1.06 | 0.19 | 3.31 | 2.65 | 000
29355 |  | A | Application of long leg cast | 1.53 | 1.68 | 1.12 | 0.20 | 3.41 | 2.85 | 000
29358 |  | A | Apply long leg cast brace | 1.43 | 2.00 | 1.09 | 0.19 | 3.62 | 2.71 | 000
29365 |  | A | Application of long leg cast | 1.18 | 1.61 | 0.94 | 0.17 | 2.96 | 2.29 | 000
29405 |  | A | Apply short leg cast | 0.86 | 1.20 | 0.71 | 0.12 | 2.18 | 1.69 | 000
29425 |  | A | Apply short leg cast | 1.01 | 1.21 | 0.74 | 0.14 | 2.36 | 1.89 | 000
29435 |  | A | Apply short leg cast | 1.18 | 1.52 | 0.92 | 0.17 | 2.87 | 2.27 | 000
29440 |  | A | Addition of walker to cast | 0.57 | 0.68 | 0.28 | 0.07 | 1.32 | 0.92 | 000
29445 |  | A | Apply rigid leg cast | 1.78 | 1.78 | 0.98 | 0.24 | 3.80 | 3.00 | 000
29450 |  | A | Application of leg cast | 2.08 | 1.48 | 1.11 | 0.13 | 3.69 | 3.32 | 000
29505 |  | A | Application, long leg splint | 0.69 | 1.18 | 0.48 | 0.06 | 1.93 | 1.23 | 000
29515 |  | A | Application lower leg splint | 0.73 | 0.87 | 0.49 | 0.07 | 1.67 | 1.29 | 000
29520 |  | A | Strapping of hip | 0.54 | 0.90 | 0.47 | 0.02 | 1.46 | 1.03 | 000
29530 |  | A | Strapping of knee | 0.57 | 0.81 | 0.35 | 0.04 | 1.42 | 0.96 | 000
29540 |  | A | Strapping of ankle and/or ft | 0.51 | 0.42 | 0.32 | 0.04 | 0.97 | 0.87 | 000
29550 |  | A | Strapping of toes | 0.47 | 0.42 | 0.28 | 0.05 | 0.94 | 0.80 | 000
29580 |  | A | Application of paste boot | 0.57 | 0.66 | 0.36 | 0.05 | 1.28 | 0.98 | 000
29590 |  | A | Application of foot splint | 0.76 | 0.52 | 0.30 | 0.06 | 1.34 | 1.12 | 000
29700 |  | A | Removal/revision of cast | 0.57 | 0.88 | 0.29 | 0.07 | 1.52 | 0.93 | 000
29705 |  | A | Removal/revision of cast | 0.76 | 0.81 | 0.39 | 0.10 | 1.67 | 1.25 | 000
29710 |  | A | Removal/revision of cast | 1.34 | 1.51 | 0.71 | 0.17 | 3.02 | 2.22 | 000
29715 |  | A | Removal/revision of cast | 0.94 | 1.15 | 0.41 | 0.08 | 2.17 | 1.43 | 000
29720 |  | A | Repair of body cast | 0.68 | 1.12 | 0.39 | 0.10 | 1.90 | 1.17 | 000
29730 |  | A | Windowing of cast | 0.75 | 0.80 | 0.36 | 0.10 | 1.65 | 1.21 | 000
29740 |  | A | Wedging of cast | 1.12 | 1.13 | 0.50 | 0.15 | 2.40 | 1.77 | 000
29750 |  | A | Wedging of clubfoot cast | 1.26 | 1.06 | 0.59 | 0.16 | 2.48 | 2.01 | 000
29799 |  | C | Casting/strapping procedure | 0.00 | 0.00 | 0.00 | 0.00 | 0.00 | 0.00 | YYY
29800 |  | A | Jaw arthroscopy/surgery | 6.43 | N/A | 7.28 | 0.84 | N/A | 14.55 | 090
29804 |  | A | Jaw arthroscopy/surgery | 8.14 | N/A | 8.75 | 0.66 | N/A | 17.55 | 090
29805 |  | A | Shoulder arthroscopy, dx | 5.89 | N/A | 5.82 | 0.84 | N/A | 12.55 | 090
29806 |  | A | Shoulder arthroscopy/surgery | 14.37 | N/A | 11.30 | 2.00 | N/A | 27.67 | 090
29807 |  | A | Shoulder arthroscopy/surgery | 13.90 | N/A | 11.12 | 1.94 | N/A | 26.96 | 090
29819 |  | A | Shoulder arthroscopy/surgery | 7.62 | N/A | 6.73 | 1.07 | N/A | 15.42 | 090
29820 |  | A | Shoulder arthroscopy/surgery | 7.07 | N/A | 6.23 | 0.99 | N/A | 14.29 | 090
29821 |  | A | Shoulder arthroscopy/surgery | 7.72 | N/A | 6.75 | 1.08 | N/A | 15.55 | 090
29822 |  | A | Shoulder arthroscopy/surgery | 7.43 | N/A | 6.63 | 1.04 | N/A | 15.10 | 090
29823 |  | A | Shoulder arthroscopy/surgery | 8.17 | N/A | 7.22 | 1.15 | N/A | 16.54 | 090
29824 |  | A | Shoulder arthroscopy/surgery | 8.25 | N/A | 7.47 | 1.15 | N/A | 16.87 | 090
29825 |  | A | Shoulder arthroscopy/surgery | 7.62 | N/A | 6.71 | 1.06 | N/A | 15.39 | 090
29826 |  | A | Shoulder arthroscopy/surgery | 8.99 | N/A | 7.50 | 1.26 | N/A | 17.75 | 090
29827 |  | A | Arthroscop rotator cuff repr | 15.36 | N/A | 11.53 | 1.86 | N/A | 28.75 | 090
29830 |  | A | Elbow arthroscopy | 5.76 | N/A | 5.30 | 0.79 | N/A | 11.85 | 090
29834 |  | A | Elbow arthroscopy/surgery | 6.28 | N/A | 5.83 | 0.86 | N/A | 12.97 | 090
29835 |  | A | Elbow arthroscopy/surgery | 6.48 | N/A | 5.88 | 0.88 | N/A | 13.24 | 090
29836 |  | A | Elbow arthroscopy/surgery | 7.55 | N/A | 6.73 | 1.06 | N/A | 15.34 | 090
29837 |  | A | Elbow arthroscopy/surgery | 6.87 | N/A | 6.13 | 0.96 | N/A | 13.96 | 090
29838 |  | A | Elbow arthroscopy/surgery | 7.71 | N/A | 6.84 | 1.07 | N/A | 15.62 | 090
29840 |  | A | Wrist arthroscopy | 5.54 | N/A | 5.34 | 0.69 | N/A | 11.57 | 090
29843 |  | A | Wrist arthroscopy/surgery | 6.01 | N/A | 5.64 | 0.82 | N/A | 12.47 | 090
29844 |  | A | Wrist arthroscopy/surgery | 6.37 | N/A | 5.82 | 0.86 | N/A | 13.05 | 090
29845 |  | A | Wrist arthroscopy/surgery | 7.52 | N/A | 6.46 | 0.84 | N/A | 14.82 | 090
29846 |  | A | Wrist arthroscopy/surgery | 6.75 | N/A | 6.06 | 0.89 | N/A | 13.70 | 090
29847 |  | A | Wrist arthroscopy/surgery | 7.08 | N/A | 6.21 | 0.91 | N/A | 14.20 | 090
29848 |  | A | Wrist endoscopy/surgery | 5.44 | N/A | 5.59 | 0.72 | N/A | 11.75 | 090
29850 |  | A | Knee arthroscopy/surgery | 8.19 | N/A | 5.13 | 0.74 | N/A | 14.06 | 090
29851 |  | A | Knee arthroscopy/surgery | 13.10 | N/A | 9.85 | 1.81 | N/A | 24.76 | 090
29855 |  | A | Tibial arthroscopy/surgery | 10.62 | N/A | 8.77 | 1.50 | N/A | 20.89 | 090
29856 |  | A | Tibial arthroscopy/surgery | 14.14 | N/A | 10.71 | 2.00 | N/A | 26.85 | 090
29860 |  | A | Hip arthroscopy, dx | 8.05 | N/A | 6.95 | 1.14 | N/A | 16.14 | 090
29861 |  | A | Hip arthroscopy/surgery | 9.15 | N/A | 7.36 | 1.29 | N/A | 17.80 | 090
29862 |  | A | Hip arthroscopy/surgery | 9.90 | N/A | 8.55 | 1.39 | N/A | 19.84 | 090
29863 |  | A | Hip arthroscopy/surgery | 9.90 | N/A | 8.49 | 1.40 | N/A | 19.79 | 090
29870 |  | A | Knee arthroscopy, dx | 5.07 | N/A | 4.84 | 0.67 | N/A | 10.58 | 090
29871 |  | A | Knee arthroscopy/drainage | 6.55 | N/A | 5.87 | 0.88 | N/A | 13.30 | 090
29873 |  | A | Knee arthroscopy/surgery | 6.00 | N/A | 6.49 | 0.73 | N/A | 13.22 | 090
29874 |  | A | Knee arthroscopy/surgery | 7.05 | N/A | 6.08 | 0.87 | N/A | 14.00 | 090
29875 |  | A | Knee arthroscopy/surgery | 6.31 | N/A | 5.84 | 0.88 | N/A | 13.03 | 090
29876 |  | A | Knee arthroscopy/surgery | 7.92 | N/A | 7.01 | 1.11 | N/A | 16.04 | 090
29877 |  | A | Knee arthroscopy/surgery | 7.35 | N/A | 6.72 | 1.03 | N/A | 15.10 | 090
29879 |  | A | Knee arthroscopy/surgery | 8.04 | N/A | 7.10 | 1.13 | N/A | 16.27 | 090
29880 |  | A | Knee arthroscopy/surgery | 8.50 | N/A | 7.35 | 1.19 | N/A | 17.04 | 090
29881 |  | A | Knee arthroscopy/surgery | 7.76 | N/A | 6.94 | 1.09 | N/A | 15.79 | 090
29882 |  | A | Knee arthroscopy/surgery | 8.65 | N/A | 7.24 | 1.09 | N/A | 16.98 | 090
29883 |  | A | Knee arthroscopy/surgery | 11.05 | N/A | 9.07 | 1.33 | N/A | 21.45 | 090
29884 |  | A | Knee arthroscopy/surgery | 7.33 | N/A | 6.68 | 1.03 | N/A | 15.04 | 090
29885 |  | A | Knee arthroscopy/surgery | 9.09 | N/A | 7.90 | 1.27 | N/A | 18.26 | 090
29886 |  | A | Knee arthroscopy/surgery | 7.54 | N/A | 6.82 | 1.06 | N/A | 15.42 | 090
29887 |  | A | Knee arthroscopy/surgery | 9.04 | N/A | 7.87 | 1.27 | N/A | 18.18 | 090
29888 |  | A | Knee arthroscopy/surgery | 13.90 | N/A | 10.27 | 1.95 | N/A | 26.12 | 090
29889 |  | A | Knee arthroscopy/surgery | 16.00 | N/A | 12.45 | 2.11 | N/A | 30.56 | 090
29891 |  | A | Ankle arthroscopy/surgery | 8.40 | N/A | 7.48 | 1.17 | N/A | 17.05 | 090
29892 |  | A | Ankle arthroscopy/surgery | 9.00 | N/A | 7.73 | 1.26 | N/A | 17.99 | 090
29893 |  | A | Scope, plantar fasciotomy | 5.22 | 6.44 | 4.02 | 0.74 | 12.40 | 9.98 | 090
29894 |  | A | Ankle arthroscopy/surgery | 7.21 | N/A | 5.49 | 1.01 | N/A | 13.71 | 090
29895 |  | A | Ankle arthroscopy/surgery | 6.99 | N/A | 5.49 | 0.97 | N/A | 13.45 | 090
29897 |  | A | Ankle arthroscopy/surgery | 7.18 | N/A | 5.90 | 1.01 | N/A | 14.09 | 090
29898 |  | A | Ankle arthroscopy/surgery | 8.32 | N/A | 6.19 | 1.14 | N/A | 15.65 | 090
29899 |  | A | Ankle arthroscopy/surgery | 13.91 | N/A | 10.02 | 1.95 | N/A | 25.88 | 090
29900 |  | A | Mcp joint arthroscopy, dx | 5.42 | N/A | 5.95 | 0.75 | N/A | 12.12 | 090
29901 |  | A | Mcp joint arthroscopy, surg | 6.13 | N/A | 6.34 | 0.85 | N/A | 13.32 | 090
29902 |  | A | Mcp joint arthroscopy, surg | 6.70 | N/A | 6.63 | 0.93 | N/A | 14.26 | 090
29999 |  | C | Arthroscopy of joint | 0.00 | 0.00 | 0.00 | 0.00 | 0.00 | 0.00 | YYY
30000 |  | A | Drainage of nose lesion | 1.43 | 4.27 | 1.45 | 0.10 | 5.80 | 2.98 | 010
30020 |  | A | Drainage of nose lesion | 1.43 | 3.43 | 1.53 | 0.08 | 4.94 | 3.04 | 010
30100 |  | A | Intranasal biopsy | 0.94 | 2.16 | 0.83 | 0.06 | 3.16 | 1.83 | 000
30110 |  | A | Removal of nose polyp(s) | 1.63 | 3.48 | 1.63 | 0.12 | 5.23 | 3.38 | 010
30115 |  | A | Removal of nose polyp(s) | 4.35 | N/A | 4.19 | 0.31 | N/A | 8.85 | 090
30117 |  | A | Removal of intranasal lesion | 3.16 | 4.79 | 3.40 | 0.22 | 8.17 | 6.78 | 090
30118 |  | A | Removal of intranasal lesion | 9.69 | N/A | 7.53 | 0.66 | N/A | 17.88 | 090
30120 |  | A | Revision of nose | 5.27 | 5.71 | 5.63 | 0.41 | 11.39 | 11.31 | 090
30124 |  | A | Removal of nose lesion | 3.10 | N/A | 3.12 | 0.20 | N/A | 6.42 | 090
30125 |  | A | Removal of nose lesion | 7.16 | N/A | 6.10 | 0.54 | N/A | 13.80 | 090
30130 |  | A | Removal of turbinate bones | 3.38 | N/A | 3.67 | 0.22 | N/A | 7.27 | 090
30140 |  | A | Removal of turbinate bones | 3.43 | N/A | 4.16 | 0.24 | N/A | 7.83 | 090
30150 |  | A | Partial removal of nose | 9.14 | N/A | 7.88 | 0.76 | N/A | 17.78 | 090
30160 |  | A | Removal of nose | 9.58 | N/A | 7.89 | 0.78 | N/A | 18.25 | 090
30200 |  | A | Injection treatment of nose | 0.78 | 1.79 | 0.79 | 0.06 | 2.63 | 1.63 | 000
30210 |  | A | Nasal sinus therapy | 1.08 | 2.22 | 1.36 | 0.08 | 3.38 | 2.52 | 010
30220 |  | A | Insert nasal septal button | 1.54 | 4.67 | 1.59 | 0.11 | 6.32 | 3.24 | 010
30300 |  | A | Remove nasal foreign body | 1.04 | 4.27 | 1.91 | 0.07 | 5.38 | 3.02 | 010
30310 |  | A | Remove nasal foreign body | 1.96 | N/A | 2.93 | 0.14 | N/A | 5.03 | 010
30320 |  | A | Remove nasal foreign body | 4.52 | N/A | 4.65 | 0.36 | N/A | 9.53 | 090
30400 |  | R | Reconstruction of nose | 9.83 | N/A | 9.35 | 0.80 | N/A | 19.98 | 090
30410 |  | R | Reconstruction of nose | 12.98 | N/A | 11.13 | 1.08 | N/A | 25.19 | 090
30420 |  | R | Reconstruction of nose | 15.88 | N/A | 12.70 | 1.24 | N/A | 29.82 | 090
30430 |  | R | Revision of nose | 7.21 | N/A | 8.16 | 0.62 | N/A | 15.99 | 090
30435 |  | R | Revision of nose | 11.71 | N/A | 10.78 | 1.10 | N/A | 23.59 | 090
30450 |  | R | Revision of nose | 18.65 | N/A | 14.35 | 1.53 | N/A | 34.53 | 090
30460 |  | A | Revision of nose | 9.96 | N/A | 8.07 | 0.85 | N/A | 18.88 | 090
30462 |  | A | Revision of nose | 19.57 | N/A | 14.00 | 1.92 | N/A | 35.49 | 090
30465 |  | A | Repair nasal stenosis | 11.64 | N/A | 7.88 | 0.97 | N/A | 20.49 | 090
30520 |  | A | Repair of nasal septum | 5.70 | N/A | 5.37 | 0.41 | N/A | 11.48 | 090
30540 |  | A | Repair nasal defect | 7.75 | N/A | 5.81 | 0.53 | N/A | 14.09 | 090
30545 |  | A | Repair nasal defect | 11.38 | N/A | 8.93 | 0.80 | N/A | 21.11 | 090
30560 |  | A | Release of nasal adhesions | 1.26 | 4.38 | 1.99 | 0.09 | 5.73 | 3.34 | 010
30580 |  | A | Repair upper jaw fistula | 6.69 | 7.43 | 6.34 | 0.50 | 14.62 | 13.53 | 090
30600 |  | A | Repair mouth/nose fistula | 6.02 | 6.51 | 5.69 | 0.70 | 13.23 | 12.41 | 090
30620 |  | A | Intranasal reconstruction | 5.97 | N/A | 6.01 | 0.45 | N/A | 12.43 | 090
30630 |  | A | Repair nasal septum defect | 7.12 | N/A | 6.43 | 0.51 | N/A | 14.06 | 090
30801 |  | A | Cauterization, inner nose | 1.09 | 2.29 | 2.17 | 0.08 | 3.46 | 3.34 | 010
30802 |  | A | Cauterization, inner nose | 2.03 | 2.85 | 2.70 | 0.15 | 5.03 | 4.88 | 010
30901 |  | A | Control of nosebleed | 1.21 | 1.41 | 0.33 | 0.09 | 2.71 | 1.63 | 000
30903 |  | A | Control of nosebleed | 1.54 | 2.92 | 0.51 | 0.12 | 4.58 | 2.17 | 000
30905 |  | A | Control of nosebleed | 1.97 | 3.73 | 0.78 | 0.15 | 5.85 | 2.90 | 000
30906 |  | A | Repeat control of nosebleed | 2.45 | 4.12 | 1.23 | 0.17 | 6.74 | 3.85 | 000
30915 |  | A | Ligation, nasal sinus artery | 7.20 | N/A | 6.07 | 0.50 | N/A | 13.77 | 090
30920 |  | A | Ligation, upper jaw artery | 9.83 | N/A | 7.76 | 0.69 | N/A | 18.28 | 090
30930 |  | A | Therapy, fracture of nose | 1.26 | N/A | 1.69 | 0.09 | N/A | 3.04 | 010
30999 |  | C | Nasal surgery procedure | 0.00 | 0.00 | 0.00 | 0.00 | 0.00 | 0.00 | YYY
31000 |  | A | Irrigation, maxillary sinus | 1.15 | 2.99 | 1.46 | 0.08 | 4.22 | 2.69 | 010
31002 |  | A | Irrigation, sphenoid sinus | 1.91 | N/A | 3.10 | 0.14 | N/A | 5.15 | 010
31020 |  | A | Exploration, maxillary sinus | 2.94 | 4.31 | 3.66 | 0.20 | 7.45 | 6.80 | 090
31030 |  | A | Exploration, maxillary sinus | 5.92 | 5.82 | 4.95 | 0.42 | 12.16 | 11.29 | 090
31032 |  | A | Explore sinus, remove polyps | 6.57 | N/A | 5.82 | 0.47 | N/A | 12.86 | 090
31040 |  | A | Exploration behind upper jaw | 9.42 | N/A | 6.44 | 0.71 | N/A | 16.57 | 090
31050 |  | A | Exploration, sphenoid sinus | 5.28 | N/A | 4.68 | 0.39 | N/A | 10.35 | 090
31051 |  | A | Sphenoid sinus surgery | 7.11 | N/A | 6.08 | 0.55 | N/A | 13.74 | 090
31070 |  | A | Exploration of frontal sinus | 4.28 | N/A | 4.40 | 0.30 | N/A | 8.98 | 090
31075 |  | A | Exploration of frontal sinus | 9.16 | N/A | 7.48 | 0.64 | N/A | 17.28 | 090
31080 |  | A | Removal of frontal sinus | 11.42 | N/A | 8.68 | 0.78 | N/A | 20.88 | 090
31081 |  | A | Removal of frontal sinus | 12.75 | N/A | 9.70 | 1.84 | N/A | 24.29 | 090
31084 |  | A | Removal of frontal sinus | 13.51 | N/A | 10.36 | 0.96 | N/A | 24.83 | 090
31085 |  | A | Removal of frontal sinus | 14.20 | N/A | 10.72 | 1.18 | N/A | 26.10 | 090
31086 |  | A | Removal of frontal sinus | 12.86 | N/A | 10.18 | 0.90 | N/A | 23.94 | 090
31087 |  | A | Removal of frontal sinus | 13.10 | N/A | 10.10 | 1.15 | N/A | 24.35 | 090
31090 |  | A | Exploration of sinuses | 9.53 | N/A | 8.91 | 0.66 | N/A | 19.10 | 090
31200 |  | A | Removal of ethmoid sinus | 4.97 | N/A | 5.15 | 0.25 | N/A | 10.37 | 090
31201 |  | A | Removal of ethmoid sinus | 8.37 | N/A | 7.09 | 0.58 | N/A | 16.04 | 090
31205 |  | A | Removal of ethmoid sinus | 10.24 | N/A | 7.83 | 0.58 | N/A | 18.65 | 090
31225 |  | A | Removal of upper jaw | 19.23 | N/A | 14.19 | 1.38 | N/A | 34.80 | 090
31230 |  | A | Removal of upper jaw | 21.94 | N/A | 15.60 | 1.57 | N/A | 39.11 | 090
31231 |  | A | Nasal endoscopy, dx | 1.10 | 2.92 | 0.93 | 0.08 | 4.10 | 2.11 | 000
31233 |  | A | Nasal/sinus endoscopy, dx | 2.18 | 3.67 | 1.54 | 0.16 | 6.01 | 3.88 | 000
31235 |  | A | Nasal/sinus endoscopy, dx | 2.64 | 4.13 | 1.79 | 0.18 | 6.95 | 4.61 | 000
31237 |  | A | Nasal/sinus endoscopy, surg | 2.98 | 4.41 | 1.95 | 0.21 | 7.60 | 5.14 | 000
31238 |  | A | Nasal/sinus endoscopy, surg | 3.26 | 4.42 | 2.16 | 0.23 | 7.91 | 5.65 | 000
31239 |  | A | Nasal/sinus endoscopy, surg | 8.70 | N/A | 7.86 | 0.46 | N/A | 17.02 | 010
31240 |  | A | Nasal/sinus endoscopy, surg | 2.61 | N/A | 1.79 | 0.18 | N/A | 4.58 | 000
31254 |  | A | Revision of ethmoid sinus | 4.65 | N/A | 2.94 | 0.32 | N/A | 7.91 | 000
31255 |  | A | Removal of ethmoid sinus | 6.96 | N/A | 4.24 | 0.49 | N/A | 11.69 | 000
31256 |  | A | Exploration maxillary sinus | 3.29 | N/A | 2.19 | 0.23 | N/A | 5.71 | 000
31267 |  | A | Endoscopy, maxillary sinus | 5.46 | N/A | 3.40 | 0.38 | N/A | 9.24 | 000
31276 |  | A | Sinus endoscopy, surgical | 8.85 | N/A | 5.27 | 0.62 | N/A | 14.74 | 000
31287 |  | A | Nasal/sinus endoscopy, surg | 3.92 | N/A | 2.54 | 0.27 | N/A | 6.73 | 000
31288 |  | A | Nasal/sinus endoscopy, surg | 4.58 | N/A | 2.91 | 0.32 | N/A | 7.81 | 000
31290 |  | A | Nasal/sinus endoscopy, surg | 17.24 | N/A | 11.74 | 1.20 | N/A | 30.18 | 010
31291 |  | A | Nasal/sinus endoscopy, surg | 18.19 | N/A | 12.23 | 1.73 | N/A | 32.15 | 010
31292 |  | A | Nasal/sinus endoscopy, surg | 14.76 | N/A | 10.33 | 0.99 | N/A | 26.08 | 010
31293 |  | A | Nasal/sinus endoscopy, surg | 16.21 | N/A | 11.16 | 0.97 | N/A | 28.34 | 010
31294 |  | A | Nasal/sinus endoscopy, surg | 19.06 | N/A | 12.69 | 1.04 | N/A | 32.79 | 010
31299 |  | C | Sinus surgery procedure | 0.00 | 0.00 | 0.00 | 0.00 | 0.00 | 0.00 | YYY
31300 |  | A | Removal of larynx lesion | 14.29 | N/A | 12.71 | 0.99 | N/A | 27.99 | 090
31320 |  | A | Diagnostic incision, larynx | 5.26 | N/A | 7.77 | 0.40 | N/A | 13.43 | 090
31360 |  | A | Removal of larynx | 17.08 | N/A | 14.71 | 1.20 | N/A | 32.99 | 090
31365 |  | A | Removal of larynx | 24.16 | N/A | 18.45 | 1.72 | N/A | 44.33 | 090
31367 |  | A | Partial removal of larynx | 21.86 | N/A | 18.32 | 1.57 | N/A | 41.75 | 090
31368 |  | A | Partial removal of larynx | 27.09 | N/A | 22.10 | 1.90 | N/A | 51.09 | 090
31370 |  | A | Partial removal of larynx | 21.38 | N/A | 17.91 | 1.51 | N/A | 40.80 | 090
31375 |  | A | Partial removal of larynx | 20.21 | N/A | 16.14 | 1.43 | N/A | 37.78 | 090
31380 |  | A | Partial removal of larynx | 20.21 | N/A | 16.08 | 1.40 | N/A | 37.69 | 090
31382 |  | A | Partial removal of larynx | 20.52 | N/A | 17.46 | 1.44 | N/A | 39.42 | 090
31390 |  | A | Removal of larynx & pharynx | 27.53 | N/A | 22.31 | 1.95 | N/A | 51.79 | 090
31395 |  | A | Reconstruct larynx & pharynx | 31.09 | N/A | 26.49 | 2.27 | N/A | 59.85 | 090
31400 |  | A | Revision of larynx | 10.31 | N/A | 10.68 | 0.72 | N/A | 21.71 | 090
31420 |  | A | Removal of epiglottis | 10.22 | N/A | 10.51 | 0.71 | N/A | 21.44 | 090
31500 |  | A | Insert emergency airway | 2.33 | N/A | 0.67 | 0.15 | N/A | 3.15 | 000
31502 |  | A | Change of windpipe airway | 0.65 | 1.52 | 0.26 | 0.04 | 2.21 | 0.95 | 000
31505 |  | A | Diagnostic laryngoscopy | 0.61 | 1.52 | 0.64 | 0.04 | 2.17 | 1.29 | 000
31510 |  | A | Laryngoscopy with biopsy | 1.92 | 3.36 | 1.31 | 0.15 | 5.43 | 3.38 | 000
31511 |  | A | Remove foreign body, larynx | 2.16 | 3.19 | 1.13 | 0.16 | 5.51 | 3.45 | 000
31512 |  | A | Removal of larynx lesion | 2.07 | 3.26 | 1.42 | 0.16 | 5.49 | 3.65 | 000
31513 |  | A | Injection into vocal cord | 2.10 | N/A | 1.52 | 0.15 | N/A | 3.77 | 000
31515 |  | A | Laryngoscopy for aspiration | 1.80 | 3.41 | 1.11 | 0.12 | 5.33 | 3.03 | 000
31520 |  | A | Diagnostic laryngoscopy | 2.56 | N/A | 1.63 | 0.17 | N/A | 4.36 | 000
31525 |  | A | Diagnostic laryngoscopy | 2.63 | 3.61 | 1.72 | 0.18 | 6.42 | 4.53 | 000
31526 |  | A | Diagnostic laryngoscopy | 2.57 | N/A | 1.78 | 0.18 | N/A | 4.53 | 000
31527 |  | A | Laryngoscopy for treatment | 3.27 | N/A | 1.94 | 0.21 | N/A | 5.42 | 000
31528 |  | A | Laryngoscopy and dilation | 2.37 | N/A | 1.47 | 0.16 | N/A | 4.00 | 000
31529 |  | A | Laryngoscopy and dilation | 2.68 | N/A | 1.75 | 0.18 | N/A | 4.61 | 000
31530 |  | A | Operative laryngoscopy | 3.39 | N/A | 2.01 | 0.24 | N/A | 5.64 | 000
31531 |  | A | Operative laryngoscopy | 3.59 | N/A | 2.36 | 0.25 | N/A | 6.20 | 000
31535 |  | A | Operative laryngoscopy | 3.16 | N/A | 2.06 | 0.22 | N/A | 5.44 | 000
31536 |  | A | Operative laryngoscopy | 3.56 | N/A | 2.33 | 0.25 | N/A | 6.14 | 000
31540 |  | A | Operative laryngoscopy | 4.13 | N/A | 2.63 | 0.29 | N/A | 7.05 | 000
31541 |  | A | Operative laryngoscopy | 4.53 | N/A | 2.87 | 0.32 | N/A | 7.72 | 000
31560 |  | A | Operative laryngoscopy | 5.46 | N/A | 3.22 | 0.38 | N/A | 9.06 | 000
31561 |  | A | Operative laryngoscopy | 6.00 | N/A | 3.44 | 0.42 | N/A | 9.86 | 000
31570 |  | A | Laryngoscopy with injection | 3.87 | 5.44 | 2.47 | 0.24 | 9.55 | 6.58 | 000
31571 |  | A | Laryngoscopy with injection | 4.27 | N/A | 2.69 | 0.30 | N/A | 7.26 | 000
31575 |  | A | Diagnostic laryngoscopy | 1.10 | 1.95 | 0.92 | 0.08 | 3.13 | 2.10 | 000
31576 |  | A | Laryngoscopy with biopsy | 1.97 | 3.52 | 1.34 | 0.13 | 5.62 | 3.44 | 000
31577 |  | A | Remove foreign body, larynx | 2.47 | 3.65 | 1.60 | 0.17 | 6.29 | 4.24 | 000
31578 |  | A | Removal of larynx lesion | 2.84 | 4.15 | 1.59 | 0.20 | 7.19 | 4.63 | 000
31579 |  | A | Diagnostic laryngoscopy | 2.26 | 3.30 | 1.55 | 0.16 | 5.72 | 3.97 | 000
31580 |  | A | Revision of larynx | 12.38 | N/A | 11.78 | 0.87 | N/A | 25.03 | 090
31582 |  | A | Revision of larynx | 21.62 | N/A | 18.17 | 1.52 | N/A | 41.31 | 090
31584 |  | A | Treat larynx fracture | 19.64 | N/A | 15.25 | 1.42 | N/A | 36.31 | 090
31585 |  | A | Treat larynx fracture | 4.64 | N/A | 6.01 | 0.30 | N/A | 10.95 | 090
31586 |  | A | Treat larynx fracture | 8.03 | N/A | 8.90 | 0.56 | N/A | 17.49 | 090
31587 |  | A | Revision of larynx | 11.99 | N/A | 10.61 | 0.88 | N/A | 23.48 | 090
31588 |  | A | Revision of larynx | 13.11 | N/A | 13.80 | 0.92 | N/A | 27.83 | 090
31590 |  | A | Reinnervate larynx | 6.97 | N/A | 9.29 | 0.50 | N/A | 16.76 | 090
31595 |  | A | Larynx nerve surgery | 8.34 | N/A | 8.09 | 0.62 | N/A | 17.05 | 090
31599 |  | C | Larynx surgery procedure | 0.00 | 0.00 | 0.00 | 0.00 | 0.00 | 0.00 | YYY
31600 |  | A | Incision of windpipe | 7.18 | N/A | 3.24 | 0.34 | N/A | 10.76 | 000
31601 |  | A | Incision of windpipe | 4.45 | N/A | 2.44 | 0.39 | N/A | 7.28 | 000
31603 |  | A | Incision of windpipe | 4.15 | N/A | 1.75 | 0.35 | N/A | 6.25 | 000
31605 |  | A | Incision of windpipe | 3.58 | N/A | 1.21 | 0.33 | N/A | 5.12 | 000
31610 |  | A | Incision of windpipe | 8.76 | N/A | 7.72 | 0.69 | N/A | 17.17 | 090
31611 |  | A | Surgery/speech prosthesis | 5.64 | N/A | 6.31 | 0.40 | N/A | 12.35 | 090
31612 |  | A | Puncture/clear windpipe | 0.91 | 1.16 | 0.36 | 0.06 | 2.13 | 1.33 | 000
31613 |  | A | Repair windpipe opening | 4.59 | N/A | 5.60 | 0.37 | N/A | 10.56 | 090
31614 |  | A | Repair windpipe opening | 7.12 | N/A | 8.18 | 0.51 | N/A | 15.81 | 090
31615 |  | A | Visualization of windpipe | 2.09 | 2.68 | 1.22 | 0.14 | 4.91 | 3.45 | 000
31622 |  | A | Dx bronchoscope/wash | 2.78 | 4.30 | 0.90 | 0.14 | 7.22 | 3.82 | 000
31623 |  | A | Dx bronchoscope/brush | 2.88 | 5.16 | 0.91 | 0.14 | 8.18 | 3.93 | 000
31624 |  | A | Dx bronchoscope/lavage | 2.88 | 4.37 | 0.91 | 0.13 | 7.38 | 3.92 | 000
31625 |  | A | Bronchoscopy w/biopsy(s) | 3.37 | 9.22 | 1.06 | 0.16 | 12.75 | 4.59 | 000
31628 |  | A | Bronchoscopy/lung bx, each | 3.81 | 3.05 | 1.40 | 0.14 | 7.00 | 5.35 | 000
31629 |  | A | Bronchoscopy/needle bx, each | 3.37 | N/A | 1.28 | 0.13 | N/A | 4.78 | 000
31630 |  | A | Bronchoscopy dilate/fx repr | 3.82 | N/A | 2.00 | 0.30 | N/A | 6.12 | 000
31631 |  | A | Bronchoscopy, dilate w/stent | 4.37 | N/A | 2.03 | 0.31 | N/A | 6.71 | 000
31635 |  | A | Bronchoscopy w/fb removal | 3.68 | N/A | 1.69 | 0.21 | N/A | 5.58 | 000
31640 |  | A | Bronchoscopy w/tumor excise | 4.94 | N/A | 2.35 | 0.37 | N/A | 7.66 | 000
31641 |  | A | Bronchoscopy, treat blockage | 5.03 | N/A | 2.14 | 0.30 | N/A | 7.47 | 000
31643 |  | A | Diag bronchoscope/catheter | 3.50 | N/A | 1.33 | 0.15 | N/A | 4.98 | 000
31645 |  | A | Bronchoscopy, clear airways | 3.16 | N/A | 1.22 | 0.13 | N/A | 4.51 | 000
31646 |  | A | Bronchoscopy, reclear airway | 2.72 | N/A | 1.09 | 0.12 | N/A | 3.93 | 000
31656 |  | A | Bronchoscopy, inj for x-ray | 2.17 | N/A | 0.93 | 0.10 | N/A | 3.20 | 000
31700 |  | A | Insertion of airway catheter | 1.34 | 2.12 | 0.69 | 0.07 | 3.53 | 2.10 | 000
31708 |  | A | Instill airway contrast dye | 1.41 | N/A | 0.59 | 0.06 | N/A | 2.06 | 000
31710 |  | A | Insertion of airway catheter | 1.30 | N/A | 0.71 | 0.06 | N/A | 2.07 | 000
31715 |  | A | Injection for bronchus x-ray | 1.11 | N/A | 0.60 | 0.06 | N/A | 1.77 | 000
31717 |  | A | Bronchial brush biopsy | 2.12 | 2.92 | 0.88 | 0.09 | 5.13 | 3.09 | 000
31720 |  | A | Clearance of airways | 1.06 | 1.51 | 0.33 | 0.06 | 2.63 | 1.45 | 000
31725 |  | A | Clearance of airways | 1.96 | 1.82 | 0.59 | 0.10 | 3.88 | 2.65 | 000
31730 |  | A | Intro, windpipe wire/tube | 2.85 | 2.27 | 1.10 | 0.15 | 5.27 | 4.10 | 000
31750 |  | A | Repair of windpipe | 13.02 | N/A | 12.06 | 1.02 | N/A | 26.10 | 090
31755 |  | A | Repair of windpipe | 15.93 | N/A | 14.74 | 1.15 | N/A | 31.82 | 090
31760 |  | A | Repair of windpipe | 22.35 | N/A | 10.51 | 1.48 | N/A | 34.34 | 090
31766 |  | A | Reconstruction of windpipe | 30.43 | N/A | 13.60 | 3.16 | N/A | 47.19 | 090
31770 |  | A | Repair/graft of bronchus | 22.51 | N/A | 10.16 | 2.27 | N/A | 34.94 | 090
31775 |  | A | Reconstruct bronchus | 23.54 | N/A | 11.78 | 2.91 | N/A | 38.23 | 090
31780 |  | A | Reconstruct windpipe | 17.72 | N/A | 11.12 | 1.55 | N/A | 30.39 | 090
31781 |  | A | Reconstruct windpipe | 23.53 | N/A | 12.15 | 2.04 | N/A | 37.72 | 090
31785 |  | A | Remove windpipe lesion | 17.23 | N/A | 10.46 | 1.36 | N/A | 29.05 | 090
31786 |  | A | Remove windpipe lesion | 23.98 | N/A | 13.24 | 2.20 | N/A | 39.42 | 090
31800 |  | A | Repair of windpipe injury | 7.43 | N/A | 4.92 | 0.67 | N/A | 13.02 | 090
31805 |  | A | Repair of windpipe injury | 13.13 | N/A | 7.17 | 1.45 | N/A | 21.75 | 090
31820 |  | A | Closure of windpipe lesion | 4.49 | 5.80 | 5.15 | 0.35 | 10.64 | 9.99 | 090
31825 |  | A | Repair of windpipe defect | 6.81 | 7.97 | 7.40 | 0.50 | 15.28 | 14.71 | 090
31830 |  | A | Revise windpipe scar | 4.50 | 5.92 | 5.47 | 0.36 | 10.78 | 10.33 | 090
31899 |  | C | Airways surgical procedure | 0.00 | 0.00 | 0.00 | 0.00 | 0.00 | 0.00 | YYY
32000 |  | A | Drainage of chest | 1.54 | 3.16 | 0.49 | 0.07 | 4.77 | 2.10 | 000
32002 |  | A | Treatment of collapsed lung | 2.19 | 3.39 | 0.85 | 0.11 | 5.69 | 3.15 | 000
32005 |  | A | Treat lung lining chemically | 2.19 | 6.47 | 0.70 | 0.17 | 8.83 | 3.06 | 000
32020 |  | A | Insertion of chest tube | 3.98 | N/A | 1.46 | 0.36 | N/A | 5.80 | 000
32035 |  | A | Exploration of chest | 8.67 | N/A | 5.72 | 1.02 | N/A | 15.41 | 090
32036 |  | A | Exploration of chest | 9.68 | N/A | 6.24 | 1.20 | N/A | 17.12 | 090
32095 |  | A | Biopsy through chest wall | 8.36 | N/A | 5.27 | 0.99 | N/A | 14.62 | 090
32100 |  | A | Exploration/biopsy of chest | 15.24 | N/A | 7.73 | 1.45 | N/A | 24.42 | 090
32110 |  | A | Explore/repair chest | 23.00 | N/A | 10.63 | 1.63 | N/A | 35.26 | 090
32120 |  | A | Re-exploration of chest | 11.54 | N/A | 6.93 | 1.42 | N/A | 19.89 | 090
32124 |  | A | Explore chest free adhesions | 12.72 | N/A | 7.10 | 1.51 | N/A | 21.33 | 090
32140 |  | A | Removal of lung lesion(s) | 13.93 | N/A | 7.57 | 1.68 | N/A | 23.18 | 090
32141 |  | A | Remove/treat lung lesions | 14.00 | N/A | 7.45 | 1.72 | N/A | 23.17 | 090
32150 |  | A | Removal of lung lesion(s) | 14.15 | N/A | 7.54 | 1.60 | N/A | 23.29 | 090
32151 |  | A | Remove lung foreign body | 14.21 | N/A | 7.94 | 1.49 | N/A | 23.64 | 090
32160 |  | A | Open chest heart massage | 9.30 | N/A | 5.32 | 1.01 | N/A | 15.63 | 090
32200 |  | A | Drain, open, lung lesion | 15.29 | N/A | 8.50 | 1.46 | N/A | 25.25 | 090
32201 |  | A | Drain, percut, lung lesion | 4.00 | N/A | 5.60 | 0.18 | N/A | 9.78 | 000
32215 |  | A | Treat chest lining | 11.33 | N/A | 6.84 | 1.34 | N/A | 19.51 | 090
32220 |  | A | Release of lung | 24.00 | N/A | 12.61 | 2.39 | N/A | 39.00 | 090
32225 |  | A | Partial release of lung | 13.96 | N/A | 7.64 | 1.70 | N/A | 23.30 | 090
32310 |  | A | Removal of chest lining | 13.44 | N/A | 7.38 | 1.65 | N/A | 22.47 | 090
32320 |  | A | Free/remove chest lining | 24.00 | N/A | 11.97 | 2.50 | N/A | 38.47 | 090
32400 |  | A | Needle biopsy chest lining | 1.76 | 1.73 | 0.56 | 0.07 | 3.56 | 2.39 | 000
32402 |  | A | Open biopsy chest lining | 7.56 | N/A | 5.11 | 0.91 | N/A | 13.58 | 090
32405 |  | A | Biopsy, lung or mediastinum | 1.93 | 2.14 | 0.64 | 0.09 | 4.16 | 2.66 | 000
32420 |  | A | Puncture/clear lung | 2.18 | N/A | 0.84 | 0.11 | N/A | 3.13 | 000
32440 |  | A | Removal of lung | 25.00 | N/A | 12.61 | 2.56 | N/A | 40.17 | 090
32442 |  | A | Sleeve pneumonectomy | 26.24 | N/A | 14.34 | 3.12 | N/A | 43.70 | 090
32445 |  | A | Removal of lung | 25.09 | N/A | 13.75 | 3.11 | N/A | 41.95 | 090
32480 |  | A | Partial removal of lung | 23.75 | N/A | 11.81 | 2.24 | N/A | 37.80 | 090
32482 |  | A | Bilobectomy | 25.00 | N/A | 12.68 | 2.35 | N/A | 40.03 | 090
32484 |  | A | Segmentectomy | 20.69 | N/A | 11.12 | 2.54 | N/A | 34.35 | 090
32486 |  | A | Sleeve lobectomy | 23.92 | N/A | 12.89 | 3.00 | N/A | 39.81 | 090
32488 |  | A | Completion pneumonectomy | 25.71 | N/A | 13.44 | 3.18 | N/A | 42.33 | 090
32491 |  | R | Lung volume reduction | 21.25 | N/A | 12.23 | 2.66 | N/A | 36.14 | 090
32500 |  | A | Partial removal of lung | 22.00 | N/A | 12.02 | 1.77 | N/A | 35.79 | 090
32501 |  | A | Repair bronchus add-on | 4.69 | N/A | 1.54 | 0.56 | N/A | 6.79 | ZZZ
32520 |  | A | Remove lung & revise chest | 21.68 | N/A | 11.01 | 2.71 | N/A | 35.40 | 090
32522 |  | A | Remove lung & revise chest | 24.20 | N/A | 11.84 | 2.84 | N/A | 38.88 | 090
32525 |  | A | Remove lung & revise chest | 26.50 | N/A | 12.54 | 3.25 | N/A | 42.29 | 090
32540 |  | A | Removal of lung lesion | 14.64 | N/A | 9.35 | 1.84 | N/A | 25.83 | 090
32601 |  | A | Thoracoscopy, diagnostic | 5.46 | N/A | 2.37 | 0.63 | N/A | 8.46 | 000
32602 |  | A | Thoracoscopy, diagnostic | 5.96 | N/A | 2.54 | 0.70 | N/A | 9.20 | 000
32603 |  | A | Thoracoscopy, diagnostic | 7.81 | N/A | 3.07 | 0.76 | N/A | 11.64 | 000
32604 |  | A | Thoracoscopy, diagnostic | 8.78 | N/A | 3.49 | 0.97 | N/A | 13.24 | 000
32605 |  | A | Thoracoscopy, diagnostic | 6.93 | N/A | 2.91 | 0.86 | N/A | 10.70 | 000
32606 |  | A | Thoracoscopy, diagnostic | 8.40 | N/A | 3.35 | 0.99 | N/A | 12.74 | 000
32650 |  | A | Thoracoscopy, surgical | 10.75 | N/A | 6.58 | 1.25 | N/A | 18.58 | 090
32651 |  | A | Thoracoscopy, surgical | 12.91 | N/A | 7.10 | 1.50 | N/A | 21.51 | 090
32652 |  | A | Thoracoscopy, surgical | 18.66 | N/A | 9.91 | 2.30 | N/A | 30.87 | 090
32653 |  | A | Thoracoscopy, surgical | 12.87 | N/A | 6.82 | 1.55 | N/A | 21.24 | 090
32654 |  | A | Thoracoscopy, surgical | 12.44 | N/A | 7.31 | 1.51 | N/A | 21.26 | 090
32655 |  | A | Thoracoscopy, surgical | 13.10 | N/A | 7.12 | 1.53 | N/A | 21.75 | 090
32656 |  | A | Thoracoscopy, surgical | 12.91 | N/A | 7.68 | 1.61 | N/A | 22.20 | 090
32657 |  | A | Thoracoscopy, surgical | 13.65 | N/A | 7.51 | 1.64 | N/A | 22.80 | 090
32658 |  | A | Thoracoscopy, surgical | 11.63 | N/A | 7.11 | 1.47 | N/A | 20.21 | 090
32659 |  | A | Thoracoscopy, surgical | 11.59 | N/A | 7.23 | 1.39 | N/A | 20.21 | 090
32660 |  | A | Thoracoscopy, surgical | 17.43 | N/A | 9.20 | 2.09 | N/A | 28.72 | 090
32661 |  | A | Thoracoscopy, surgical | 13.25 | N/A | 7.57 | 1.66 | N/A | 22.48 | 090
32662 |  | A | Thoracoscopy, surgical | 16.44 | N/A | 8.60 | 2.01 | N/A | 27.05 | 090
32663 |  | A | Thoracoscopy, surgical | 18.47 | N/A | 10.45 | 2.28 | N/A | 31.20 | 090
32664 |  | A | Thoracoscopy, surgical | 14.20 | N/A | 7.54 | 1.70 | N/A | 23.44 | 090
32665 |  | A | Thoracoscopy, surgical | 15.54 | N/A | 8.06 | 1.79 | N/A | 25.39 | 090
32800 |  | A | Repair lung hernia | 13.69 | N/A | 7.48 | 1.51 | N/A | 22.68 | 090
32810 |  | A | Close chest after drainage | 13.05 | N/A | 7.54 | 1.55 | N/A | 22.14 | 090
32815 |  | A | Close bronchial fistula | 23.15 | N/A | 10.90 | 2.84 | N/A | 36.89 | 090
32820 |  | A | Reconstruct injured chest | 21.48 | N/A | 12.20 | 2.31 | N/A | 35.99 | 090
32851 |  | A | Lung transplant, single | 38.63 | N/A | 22.54 | 4.90 | N/A | 66.07 | 090
32852 |  | A | Lung transplant with bypass | 41.80 | N/A | 26.19 | 5.17 | N/A | 73.16 | 090
32853 |  | A | Lung transplant, double | 47.81 | N/A | 26.09 | 6.13 | N/A | 80.03 | 090
32854 |  | A | Lung transplant with bypass | 50.98 | N/A | 28.63 | 6.41 | N/A | 86.02 | 090
32900 |  | A | Removal of rib(s) | 20.27 | N/A | 9.96 | 2.42 | N/A | 32.65 | 090
32905 |  | A | Revise & repair chest wall | 20.75 | N/A | 10.15 | 2.54 | N/A | 33.44 | 090
32906 |  | A | Revise & repair chest wall | 26.77 | N/A | 12.07 | 3.30 | N/A | 42.14 | 090
32940 |  | A | Revision of lung | 19.43 | N/A | 9.39 | 2.47 | N/A | 31.29 | 090
32960 |  | A | Therapeutic pneumothorax | 1.84 | 1.82 | 0.57 | 0.12 | 3.78 | 2.53 | 000
32997 |  | A | Total lung lavage | 6.00 | N/A | 1.93 | 0.55 | N/A | 8.48 | 000
32999 |  | C | Chest surgery procedure | 0.00 | 0.00 | 0.00 | 0.00 | 0.00 | 0.00 | YYY
33010 |  | A | Drainage of heart sac | 2.24 | N/A | 0.98 | 0.13 | N/A | 3.35 | 000
33011 |  | A | Repeat drainage of heart sac | 2.24 | N/A | 1.01 | 0.13 | N/A | 3.38 | 000
33015 |  | A | Incision of heart sac | 6.80 | N/A | 4.85 | 0.64 | N/A | 12.29 | 090
33020 |  | A | Incision of heart sac | 12.61 | N/A | 6.83 | 1.50 | N/A | 20.94 | 090
33025 |  | A | Incision of heart sac | 12.09 | N/A | 6.39 | 1.50 | N/A | 19.98 | 090
33030 |  | A | Partial removal of heart sac | 18.71 | N/A | 9.43 | 2.40 | N/A | 30.54 | 090
33031 |  | A | Partial removal of heart sac | 21.79 | N/A | 10.01 | 2.78 | N/A | 34.58 | 090
33050 |  | A | Removal of heart sac lesion | 14.36 | N/A | 7.80 | 1.73 | N/A | 23.89 | 090
33120 |  | A | Removal of heart lesion | 24.56 | N/A | 11.60 | 3.06 | N/A | 39.22 | 090
33130 |  | A | Removal of heart lesion | 21.39 | N/A | 10.15 | 2.51 | N/A | 34.05 | 090
33140 |  | A | Heart revascularize (tmr) | 20.00 | N/A | 10.62 | 2.27 | N/A | 32.89 | 090
33141 |  | A | Heart tmr w/other procedure | 4.84 | N/A | 1.56 | 0.55 | N/A | 6.95 | ZZZ
33200 |  | A | Insertion of heart pacemaker | 12.48 | N/A | 6.96 | 1.17 | N/A | 20.61 | 090
33201 |  | A | Insertion of heart pacemaker | 10.18 | N/A | 6.59 | 1.21 | N/A | 17.98 | 090
33206 |  | A | Insertion of heart pacemaker | 6.67 | N/A | 4.60 | 0.50 | N/A | 11.77 | 090
33207 |  | A | Insertion of heart pacemaker | 8.04 | N/A | 4.89 | 0.57 | N/A | 13.50 | 090
33208 |  | A | Insertion of heart pacemaker | 8.13 | N/A | 5.03 | 0.54 | N/A | 13.70 | 090
33210 |  | A | Insertion of heart electrode | 3.30 | N/A | 1.28 | 0.17 | N/A | 4.75 | 000
33211 |  | A | Insertion of heart electrode | 3.40 | N/A | 1.34 | 0.17 | N/A | 4.91 | 000
33212 |  | A | Insertion of pulse generator | 5.52 | N/A | 3.50 | 0.44 | N/A | 9.46 | 090
33213 |  | A | Insertion of pulse generator | 6.37 | N/A | 3.88 | 0.46 | N/A | 10.71 | 090
33214 |  | A | Upgrade of pacemaker system | 7.75 | N/A | 5.07 | 0.52 | N/A | 13.34 | 090
33215 |  | A | Reposition pacing-defib lead | 4.76 | N/A | 3.21 | 0.36 | N/A | 8.33 | 090
33216 |  | A | Insert lead pace-defib, one | 5.78 | N/A | 4.32 | 0.36 | N/A | 10.46 | 090
33217 |  | A | Insert lead pace-defib, dual | 5.75 | N/A | 4.40 | 0.36 | N/A | 10.51 | 090
33218 |  | A | Repair lead pace-defib, one | 5.44 | N/A | 4.36 | 0.40 | N/A | 10.20 | 090
33220 |  | A | Repair lead pace-defib, dual | 5.52 | N/A | 4.35 | 0.39 | N/A | 10.26 | 090
33222 |  | A | Revise pocket, pacemaker | 4.96 | N/A | 4.27 | 0.39 | N/A | 9.62 | 090
33223 |  | A | Revise pocket, pacing-defib | 6.46 | N/A | 4.74 | 0.44 | N/A | 11.64 | 090
33224 |  | A | Insert pacing lead & connect | 9.05 | N/A | 4.08 | 0.36 | N/A | 13.49 | 000
33225 |  | A | L ventric pacing lead add-on | 8.34 | N/A | 3.28 | 0.36 | N/A | 11.98 | ZZZ
33226 |  | A | Reposition l ventric lead | 8.69 | N/A | 3.94 | 0.36 | N/A | 12.99 | 000
33233 |  | A | Removal of pacemaker system | 3.29 | N/A | 3.39 | 0.22 | N/A | 6.90 | 090
33234 |  | A | Removal of pacemaker system | 7.82 | N/A | 5.04 | 0.56 | N/A | 13.42 | 090
33235 |  | A | Removal pacemaker electrode | 9.40 | N/A | 6.92 | 0.68 | N/A | 17.00 | 090
33236 |  | A | Remove electrode/thoracotomy | 12.60 | N/A | 7.28 | 1.49 | N/A | 21.37 | 090
33237 |  | A | Remove electrode/thoracotomy | 13.71 | N/A | 7.67 | 1.57 | N/A | 22.95 | 090
33238 |  | A | Remove electrode/thoracotomy | 15.22 | N/A | 8.10 | 1.56 | N/A | 24.88 | 090
33240 |  | A | Insert pulse generator | 7.60 | N/A | 4.74 | 0.53 | N/A | 12.87 | 090
33241 |  | A | Remove pulse generator | 3.24 | N/A | 3.08 | 0.21 | N/A | 6.53 | 090
33243 |  | A | Remove eltrd/thoracotomy | 22.64 | N/A | 11.13 | 2.53 | N/A | 36.30 | 090
33244 |  | A | Remove eltrd, transven | 13.76 | N/A | 8.81 | 1.05 | N/A | 23.62 | 090
33245 |  | A | Insert epic eltrd pace-defib | 14.30 | N/A | 8.00 | 1.28 | N/A | 23.58 | 090
33246 |  | A | Insert epic eltrd/generator | 20.71 | N/A | 10.31 | 2.22 | N/A | 33.24 | 090
33249 |  | A | Eltrd/insert pace-defib | 14.23 | N/A | 8.63 | 0.80 | N/A | 23.66 | 090
33250 |  | A | Ablate heart dysrhythm focus | 21.85 | N/A | 11.61 | 1.01 | N/A | 34.47 | 090
33251 |  | A | Ablate heart dysrhythm focus | 24.88 | N/A | 11.56 | 2.41 | N/A | 38.85 | 090
33253 |  | A | Reconstruct atria | 31.06 | N/A | 13.68 | 3.68 | N/A | 48.42 | 090
33261 |  | A | Ablate heart dysrhythm focus | 24.88 | N/A | 11.68 | 2.82 | N/A | 39.38 | 090
33282 |  | A | Implant pat-active ht record | 4.17 | N/A | 4.21 | 0.39 | N/A | 8.77 | 090
33284 |  | A | Remove pat-active ht record | 2.50 | N/A | 3.77 | 0.23 | N/A | 6.50 | 090
33300 |  | A | Repair of heart wound | 17.92 | N/A | 9.28 | 1.91 | N/A | 29.11 | 090
33305 |  | A | Repair of heart wound | 21.44 | N/A | 10.50 | 2.68 | N/A | 34.62 | 090
33310 |  | A | Exploratory heart surgery | 18.51 | N/A | 9.47 | 2.26 | N/A | 30.24 | 090
33315 |  | A | Exploratory heart surgery | 22.37 | N/A | 10.74 | 2.90 | N/A | 36.01 | 090
33320 |  | A | Repair major blood vessel(s) | 16.79 | N/A | 8.36 | 1.66 | N/A | 26.81 | 090
33321 |  | A | Repair major vessel | 20.20 | N/A | 9.73 | 2.70 | N/A | 32.63 | 090
33322 |  | A | Repair major blood vessel(s) | 20.62 | N/A | 10.29 | 2.51 | N/A | 33.42 | 090
33330 |  | A | Insert major vessel graft | 21.43 | N/A | 10.26 | 2.49 | N/A | 34.18 | 090
33332 |  | A | Insert major vessel graft | 23.96 | N/A | 10.59 | 2.45 | N/A | 37.00 | 090
33335 |  | A | Insert major vessel graft | 30.01 | N/A | 13.22 | 3.79 | N/A | 47.02 | 090
33400 |  | A | Repair of aortic valve | 28.50 | N/A | 15.23 | 3.09 | N/A | 46.82 | 090
33401 |  | A | Valvuloplasty, open | 23.91 | N/A | 13.30 | 2.71 | N/A | 39.92 | 090
33403 |  | A | Valvuloplasty, w/cp bypass | 24.89 | N/A | 13.94 | 2.48 | N/A | 41.31 | 090
33404 |  | A | Prepare heart-aorta conduit | 28.54 | N/A | 14.10 | 3.31 | N/A | 45.95 | 090
33405 |  | A | Replacement of aortic valve | 35.00 | N/A | 17.75 | 3.86 | N/A | 56.61 | 090
33406 |  | A | Replacement of aortic valve | 37.50 | N/A | 18.55 | 4.07 | N/A | 60.12 | 090
33410 |  | A | Replacement of aortic valve | 32.46 | N/A | 16.19 | 4.11 | N/A | 52.76 | 090
33411 |  | A | Replacement of aortic valve | 36.25 | N/A | 18.20 | 4.16 | N/A | 58.61 | 090
33412 |  | A | Replacement of aortic valve | 42.00 | N/A | 19.94 | 4.66 | N/A | 66.60 | 090
33413 |  | A | Replacement of aortic valve | 43.50 | N/A | 20.31 | 4.26 | N/A | 68.07 | 090
33414 |  | A | Repair of aortic valve | 30.35 | N/A | 13.85 | 3.79 | N/A | 47.99 | 090
33415 |  | A | Revision, subvalvular tissue | 27.15 | N/A | 11.87 | 3.25 | N/A | 42.27 | 090
33416 |  | A | Revise ventricle muscle | 30.35 | N/A | 13.34 | 3.85 | N/A | 47.54 | 090
33417 |  | A | Repair of aortic valve | 28.53 | N/A | 13.33 | 3.58 | N/A | 45.44 | 090
33420 |  | A | Revision of mitral valve | 22.70 | N/A | 9.76 | 1.48 | N/A | 33.94 | 090
33422 |  | A | Revision of mitral valve | 25.94 | N/A | 13.21 | 3.30 | N/A | 42.45 | 090
33425 |  | A | Repair of mitral valve | 27.00 | N/A | 12.70 | 3.00 | N/A | 42.70 | 090
33426 |  | A | Repair of mitral valve | 33.00 | N/A | 16.66 | 3.87 | N/A | 53.53 | 090
33427 |  | A | Repair of mitral valve | 40.00 | N/A | 18.85 | 4.30 | N/A | 63.15 | 090
33430 |  | A | Replacement of mitral valve | 33.50 | N/A | 16.79 | 3.95 | N/A | 54.24 | 090
33460 |  | A | Revision of tricuspid valve | 23.60 | N/A | 11.13 | 3.02 | N/A | 37.75 | 090
33463 |  | A | Valvuloplasty, tricuspid | 25.62 | N/A | 12.74 | 3.17 | N/A | 41.53 | 090
33464 |  | A | Valvuloplasty, tricuspid | 27.33 | N/A | 13.32 | 3.47 | N/A | 44.12 | 090
33465 |  | A | Replace tricuspid valve | 28.79 | N/A | 12.81 | 3.61 | N/A | 45.21 | 090
33468 |  | A | Revision of tricuspid valve | 30.12 | N/A | 13.40 | 4.00 | N/A | 47.52 | 090
33470 |  | A | Revision of pulmonary valve | 20.81 | N/A | 10.78 | 2.81 | N/A | 34.40 | 090
33471 |  | A | Valvotomy, pulmonary valve | 22.25 | N/A | 9.80 | 3.00 | N/A | 35.05 | 090
33472 |  | A | Revision of pulmonary valve | 22.25 | N/A | 11.63 | 2.92 | N/A | 36.80 | 090
33474 |  | A | Revision of pulmonary valve | 23.04 | N/A | 10.79 | 2.84 | N/A | 36.67 | 090
33475 |  | A | Replacement, pulmonary valve | 33.00 | N/A | 15.09 | 2.64 | N/A | 50.73 | 090
33476 |  | A | Revision of heart chamber | 25.77 | N/A | 11.97 | 2.40 | N/A | 40.14 | 090
33478 |  | A | Revision of heart chamber | 26.74 | N/A | 12.70 | 3.56 | N/A | 43.00 | 090
33496 |  | A | Repair, prosth valve clot | 27.25 | N/A | 12.64 | 3.44 | N/A | 43.33 | 090
33500 |  | A | Repair heart vessel fistula | 25.55 | N/A | 11.34 | 2.80 | N/A | 39.69 | 090
33501 |  | A | Repair heart vessel fistula | 17.78 | N/A | 8.28 | 2.05 | N/A | 28.11 | 090
33502 |  | A | Coronary artery correction | 21.04 | N/A | 11.04 | 2.51 | N/A | 34.59 | 090
33503 |  | A | Coronary artery graft | 21.78 | N/A | 9.91 | 1.42 | N/A | 33.11 | 090
33504 |  | A | Coronary artery graft | 24.66 | N/A | 11.76 | 3.04 | N/A | 39.46 | 090
33505 |  | A | Repair artery w/tunnel | 26.84 | N/A | 12.97 | 1.52 | N/A | 41.33 | 090
33506 |  | A | Repair artery, translocation | 35.50 | N/A | 14.56 | 3.19 | N/A | 53.25 | 090
33508 |  | A | Endoscopic vein harvest | 0.31 | N/A | 0.10 | 0.03 | N/A | 0.44 | ZZZ
33510 |  | A | CABG, vein, single | 29.00 | N/A | 15.82 | 3.13 | N/A | 47.95 | 090
33511 |  | A | CABG, vein, two | 30.00 | N/A | 16.54 | 3.34 | N/A | 49.88 | 090
33512 |  | A | CABG, vein, three | 31.80 | N/A | 17.07 | 3.70 | N/A | 52.57 | 090
33513 |  | A | CABG, vein, four | 32.00 | N/A | 17.23 | 3.99 | N/A | 53.22 | 090
33514 |  | A | CABG, vein, five | 32.75 | N/A | 17.49 | 4.37 | N/A | 54.61 | 090
33516 |  | A | Cabg, vein, six or more | 35.00 | N/A | 18.24 | 4.62 | N/A | 57.86 | 090
33517 |  | A | CABG, artery-vein, single | 2.57 | N/A | 0.83 | 0.32 | N/A | 3.72 | ZZZ
33518 |  | A | CABG, artery-vein, two | 4.85 | N/A | 1.57 | 0.61 | N/A | 7.03 | ZZZ
33519 |  | A | CABG, artery-vein, three | 7.12 | N/A | 2.31 | 0.89 | N/A | 10.32 | ZZZ
33521 |  | A | CABG, artery-vein, four | 9.40 | N/A | 3.05 | 1.18 | N/A | 13.63 | ZZZ
33522 |  | A | CABG, artery-vein, five | 11.67 | N/A | 3.78 | 1.48 | N/A | 16.93 | ZZZ
33523 |  | A | Cabg, art-vein, six or more | 13.95 | N/A | 4.48 | 1.78 | N/A | 20.21 | ZZZ
33530 |  | A | Coronary artery, bypass/reop | 5.86 | N/A | 1.89 | 0.73 | N/A | 8.48 | ZZZ
33533 |  | A | CABG, arterial, single | 30.00 | N/A | 15.96 | 3.24 | N/A | 49.20 | 090
33534 |  | A | CABG, arterial, two | 32.20 | N/A | 17.15 | 3.63 | N/A | 52.98 | 090
33535 |  | A | CABG, arterial, three | 34.50 | N/A | 17.62 | 3.97 | N/A | 56.09 | 090
33536 |  | A | Cabg, arterial, four or more | 37.50 | N/A | 17.89 | 3.29 | N/A | 58.68 | 090
33542 |  | A | Removal of heart lesion | 28.85 | N/A | 12.98 | 3.61 | N/A | 45.44 | 090
33545 |  | A | Repair of heart damage | 36.78 | N/A | 15.69 | 4.40 | N/A | 56.87 | 090
33572 |  | A | Open coronary endarterectomy | 4.45 | N/A | 1.44 | 0.55 | N/A | 6.44 | ZZZ
33600 |  | A | Closure of valve | 29.51 | N/A | 12.64 | 2.30 | N/A | 44.45 | 090
33602 |  | A | Closure of valve | 28.54 | N/A | 12.79 | 2.90 | N/A | 44.23 | 090
33606 |  | A | Anastomosis/artery-aorta | 30.74 | N/A | 13.65 | 3.59 | N/A | 47.98 | 090
33608 |  | A | Repair anomaly w/conduit | 31.09 | N/A | 13.82 | 4.17 | N/A | 49.08 | 090
33610 |  | A | Repair by enlargement | 30.61 | N/A | 14.17 | 4.02 | N/A | 48.80 | 090
33611 |  | A | Repair double ventricle | 34.00 | N/A | 13.95 | 3.28 | N/A | 51.23 | 090
33612 |  | A | Repair double ventricle | 35.00 | N/A | 15.01 | 4.44 | N/A | 54.45 | 090
33615 |  | A | Repair, modified fontan | 34.00 | N/A | 15.11 | 3.15 | N/A | 52.26 | 090
33617 |  | A | Repair single ventricle | 37.00 | N/A | 15.82 | 4.09 | N/A | 56.91 | 090
33619 |  | A | Repair single ventricle | 45.00 | N/A | 20.08 | 4.71 | N/A | 69.79 | 090
33641 |  | A | Repair heart septum defect | 21.39 | N/A | 9.47 | 2.67 | N/A | 33.53 | 090
33645 |  | A | Revision of heart veins | 24.82 | N/A | 11.50 | 3.27 | N/A | 39.59 | 090
33647 |  | A | Repair heart septum defects | 28.73 | N/A | 13.55 | 3.37 | N/A | 45.65 | 090
33660 |  | A | Repair of heart defects | 30.00 | N/A | 13.24 | 2.82 | N/A | 46.06 | 090
33665 |  | A | Repair of heart defects | 28.60 | N/A | 13.36 | 3.81 | N/A | 45.77 | 090
33670 |  | A | Repair of heart chambers | 35.00 | N/A | 13.57 | 2.18 | N/A | 50.75 | 090
33681 |  | A | Repair heart septum defect | 30.61 | N/A | 14.28 | 3.53 | N/A | 48.42 | 090
33684 |  | A | Repair heart septum defect | 29.65 | N/A | 13.47 | 3.77 | N/A | 46.89 | 090
33688 |  | A | Repair heart septum defect | 30.62 | N/A | 11.91 | 3.89 | N/A | 46.42 | 090
33690 |  | A | Reinforce pulmonary artery | 19.55 | N/A | 10.07 | 2.56 | N/A | 32.18 | 090
33692 |  | A | Repair of heart defects | 30.75 | N/A | 13.89 | 3.77 | N/A | 48.41 | 090
33694 |  | A | Repair of heart defects | 34.00 | N/A | 14.42 | 4.27 | N/A | 52.69 | 090
33697 |  | A | Repair of heart defects | 36.00 | N/A | 14.66 | 4.54 | N/A | 55.20 | 090
33702 |  | A | Repair of heart defects | 26.54 | N/A | 12.29 | 3.45 | N/A | 42.28 | 090
33710 |  | A | Repair of heart defects | 29.71 | N/A | 13.90 | 3.85 | N/A | 47.46 | 090
33720 |  | A | Repair of heart defect | 26.56 | N/A | 12.15 | 3.21 | N/A | 41.92 | 090
33722 |  | A | Repair of heart defect | 28.41 | N/A | 13.38 | 3.80 | N/A | 45.59 | 090
33730 |  | A | Repair heart-vein defect(s) | 34.25 | N/A | 14.28 | 2.85 | N/A | 51.38 | 090
33732 |  | A | Repair heart-vein defect | 28.16 | N/A | 13.45 | 2.78 | N/A | 44.39 | 090
33735 |  | A | Revision of heart chamber | 21.39 | N/A | 10.24 | 1.12 | N/A | 32.75 | 090
33736 |  | A | Revision of heart chamber | 23.52 | N/A | 11.80 | 2.70 | N/A | 38.02 | 090
33737 |  | A | Revision of heart chamber | 21.76 | N/A | 11.01 | 2.93 | N/A | 35.70 | 090
33750 |  | A | Major vessel shunt | 21.41 | N/A | 10.46 | 1.74 | N/A | 33.61 | 090
33755 |  | A | Major vessel shunt | 21.79 | N/A | 9.31 | 2.93 | N/A | 34.03 | 090
33762 |  | A | Major vessel shunt | 21.79 | N/A | 10.49 | 1.59 | N/A | 33.87 | 090
33764 |  | A | Major vessel shunt & graft | 21.79 | N/A | 10.31 | 1.93 | N/A | 34.03 | 090
33766 |  | A | Major vessel shunt | 22.76 | N/A | 11.29 | 3.04 | N/A | 37.09 | 090
33767 |  | A | Major vessel shunt | 24.50 | N/A | 11.72 | 3.14 | N/A | 39.36 | 090
33770 |  | A | Repair great vessels defect | 37.00 | N/A | 14.71 | 4.49 | N/A | 56.20 | 090
33771 |  | A | Repair great vessels defect | 34.65 | N/A | 12.79 | 4.67 | N/A | 52.11 | 090
33774 |  | A | Repair great vessels defect | 30.98 | N/A | 13.75 | 4.18 | N/A | 48.91 | 090
33775 |  | A | Repair great vessels defect | 32.20 | N/A | 14.58 | 4.34 | N/A | 51.12 | 090
33776 |  | A | Repair great vessels defect | 34.04 | N/A | 15.38 | 4.58 | N/A | 54.00 | 090
33777 |  | A | Repair great vessels defect | 33.46 | N/A | 15.26 | 4.51 | N/A | 53.23 | 090
33778 |  | A | Repair great vessels defect | 40.00 | N/A | 16.75 | 4.83 | N/A | 61.58 | 090
33779 |  | A | Repair great vessels defect | 36.21 | N/A | 15.62 | 2.40 | N/A | 54.23 | 090
33780 |  | A | Repair great vessels defect | 41.75 | N/A | 18.87 | 5.21 | N/A | 65.83 | 090
33781 |  | A | Repair great vessels defect | 36.45 | N/A | 13.94 | 4.91 | N/A | 55.30 | 090
33786 |  | A | Repair arterial trunk | 39.00 | N/A | 16.66 | 4.69 | N/A | 60.35 | 090
33788 |  | A | Revision of pulmonary artery | 26.62 | N/A | 12.19 | 3.32 | N/A | 42.13 | 090
33800 |  | A | Aortic suspension | 16.24 | N/A | 7.87 | 1.11 | N/A | 25.22 | 090
33802 |  | A | Repair vessel defect | 17.66 | N/A | 9.04 | 1.56 | N/A | 28.26 | 090
33803 |  | A | Repair vessel defect | 19.60 | N/A | 9.61 | 2.63 | N/A | 31.84 | 090
33813 |  | A | Repair septal defect | 20.65 | N/A | 10.59 | 2.78 | N/A | 34.02 | 090
33814 |  | A | Repair septal defect | 25.77 | N/A | 12.38 | 2.52 | N/A | 40.67 | 090
33820 |  | A | Revise major vessel | 16.29 | N/A | 8.13 | 2.10 | N/A | 26.52 | 090
33822 |  | A | Revise major vessel | 17.32 | N/A | 8.71 | 2.33 | N/A | 28.36 | 090
33824 |  | A | Revise major vessel | 19.52 | N/A | 9.87 | 2.61 | N/A | 32.00 | 090
33840 |  | A | Remove aorta constriction | 20.63 | N/A | 10.08 | 2.36 | N/A | 33.07 | 090
33845 |  | A | Remove aorta constriction | 22.12 | N/A | 11.07 | 2.90 | N/A | 36.09 | 090
33851 |  | A | Remove aorta constriction | 21.27 | N/A | 10.45 | 2.86 | N/A | 34.58 | 090
33852 |  | A | Repair septal defect | 23.71 | N/A | 11.32 | 3.19 | N/A | 38.22 | 090
33853 |  | A | Repair septal defect | 31.72 | N/A | 14.46 | 4.23 | N/A | 50.41 | 090
33860 |  | A | Ascending aortic graft | 38.00 | N/A | 16.22 | 4.30 | N/A | 58.52 | 090
33861 |  | A | Ascending aortic graft | 42.00 | N/A | 17.49 | 4.24 | N/A | 63.73 | 090
33863 |  | A | Ascending aortic graft | 45.00 | N/A | 18.45 | 4.60 | N/A | 68.05 | 090
33870 |  | A | Transverse aortic arch graft | 44.00 | N/A | 18.16 | 5.09 | N/A | 67.25 | 090
33875 |  | A | Thoracic aortic graft | 33.06 | N/A | 14.04 | 4.08 | N/A | 51.18 | 090
33877 |  | A | Thoracoabdominal graft | 42.60 | N/A | 16.81 | 5.07 | N/A | 64.48 | 090
33910 |  | A | Remove lung artery emboli | 24.59 | N/A | 11.37 | 3.06 | N/A | 39.02 | 090
33915 |  | A | Remove lung artery emboli | 21.02 | N/A | 9.78 | 1.20 | N/A | 32.00 | 090
33916 |  | A | Surgery of great vessel | 25.83 | N/A | 11.48 | 3.04 | N/A | 40.35 | 090
33917 |  | A | Repair pulmonary artery | 24.50 | N/A | 11.96 | 3.17 | N/A | 39.63 | 090
33918 |  | A | Repair pulmonary atresia | 26.45 | N/A | 12.37 | 3.42 | N/A | 42.24 | 090
33919 |  | A | Repair pulmonary atresia | 40.00 | N/A | 17.32 | 3.48 | N/A | 60.80 | 090
33920 |  | A | Repair pulmonary atresia | 31.95 | N/A | 13.90 | 3.61 | N/A | 49.46 | 090
33922 |  | A | Transect pulmonary artery | 23.52 | N/A | 10.91 | 2.30 | N/A | 36.73 | 090
33924 |  | A | Remove pulmonary shunt | 5.50 | N/A | 1.82 | 0.74 | N/A | 8.06 | ZZZ
33935 |  | R | Transplantation, heart/lung | 60.96 | N/A | 25.80 | 8.15 | N/A | 94.91 | 090
33945 |  | R | Transplantation of heart | 42.10 | N/A | 18.74 | 5.42 | N/A | 66.26 | 090
33960 |  | A | External circulation assist | 19.36 | N/A | 4.93 | 2.14 | N/A | 26.43 | 000
33961 |  | A | External circulation assist | 10.93 | N/A | 3.63 | 1.47 | N/A | 16.03 | ZZZ
33967 |  | A | Insert ia percut device | 4.85 | N/A | 1.87 | 0.28 | N/A | 7.00 | 000
33968 |  | A | Remove aortic assist device | 0.64 | N/A | 0.23 | 0.07 | N/A | 0.94 | 000
33970 |  | A | Aortic circulation assist | 6.75 | N/A | 2.28 | 0.70 | N/A | 9.73 | 000
33971 |  | A | Aortic circulation assist | 9.69 | N/A | 6.06 | 0.97 | N/A | 16.72 | 090
33973 |  | A | Insert balloon device | 9.76 | N/A | 3.30 | 1.01 | N/A | 14.07 | 000
33974 |  | A | Remove intra-aortic balloon | 14.41 | N/A | 8.04 | 1.48 | N/A | 23.93 | 090
33975 |  | A | Implant ventricular device | 21.00 | N/A | 6.25 | 1.72 | N/A | 28.97 | XXX
33976 |  | A | Implant ventricular device | 23.00 | N/A | 7.50 | 2.82 | N/A | 33.32 | XXX
33977 |  | A | Remove ventricular device | 19.29 | N/A | 10.79 | 2.44 | N/A | 32.52 | 090
33978 |  | A | Remove ventricular device | 21.73 | N/A | 11.66 | 2.66 | N/A | 36.05 | 090
33979 |  | A | Insert intracorporeal device | 46.00 | N/A | 14.79 | 3.98 | N/A | 64.77 | XXX
33980 |  | A | Remove intracorporeal device | 56.25 | N/A | 24.81 | 4.60 | N/A | 85.66 | 090
33999 |  | C | Cardiac surgery procedure | 0.00 | 0.00 | 0.00 | 0.00 | 0.00 | 0.00 | YYY
34001 |  | A | Removal of artery clot | 12.91 | N/A | 6.72 | 1.46 | N/A | 21.09 | 090
34051 |  | A | Removal of artery clot | 15.21 | N/A | 7.62 | 1.90 | N/A | 24.73 | 090
34101 |  | A | Removal of artery clot | 10.00 | N/A | 5.40 | 1.11 | N/A | 16.51 | 090
34111 |  | A | Removal of arm artery clot | 10.00 | N/A | 5.42 | 0.85 | N/A | 16.27 | 090
34151 |  | A | Removal of artery clot | 25.00 | N/A | 10.63 | 1.84 | N/A | 37.47 | 090
34201 |  | A | Removal of artery clot | 10.03 | N/A | 5.50 | 1.02 | N/A | 16.55 | 090
34203 |  | A | Removal of leg artery clot | 16.50 | N/A | 8.15 | 1.37 | N/A | 26.02 | 090
34401 |  | A | Removal of vein clot | 25.00 | N/A | 10.82 | 1.20 | N/A | 37.02 | 090
34421 |  | A | Removal of vein clot | 12.00 | N/A | 6.38 | 0.95 | N/A | 19.33 | 090
34451 |  | A | Removal of vein clot | 27.00 | N/A | 11.53 | 1.59 | N/A | 40.12 | 090
34471 |  | A | Removal of vein clot | 10.18 | N/A | 5.44 | 0.90 | N/A | 16.52 | 090
34490 |  | A | Removal of vein clot | 9.86 | N/A | 5.51 | 0.73 | N/A | 16.10 | 090
34501 |  | A | Repair valve, femoral vein | 16.00 | N/A | 8.44 | 1.37 | N/A | 25.81 | 090
34502 |  | A | Reconstruct vena cava | 26.95 | N/A | 12.31 | 2.99 | N/A | 42.25 | 090
34510 |  | A | Transposition of vein valve | 18.95 | N/A | 9.42 | 1.60 | N/A | 29.97 | 090
34520 |  | A | Cross-over vein graft | 17.95 | N/A | 8.86 | 1.41 | N/A | 28.22 | 090
34530 |  | A | Leg vein fusion | 16.64 | N/A | 8.67 | 2.06 | N/A | 27.37 | 090
34800 |  | A | Endovasc abdo repair w/tube | 20.75 | N/A | 9.23 | 1.49 | N/A | 31.47 | 090
34802 |  | A | Endovasc abdo repr w/device | 23.00 | N/A | 9.93 | 1.65 | N/A | 34.58 | 090
34804 |  | A | Endovasc abdo repr w/device | 23.00 | N/A | 9.92 | 1.65 | N/A | 34.57 | 090
34808 |  | A | Endovasc abdo occlud device | 4.13 | N/A | 1.39 | 0.29 | N/A | 5.81 | ZZZ
34812 |  | A | Xpose for endoprosth, femorl | 6.75 | N/A | 2.27 | 0.49 | N/A | 9.51 | 000
34813 |  | A | Femoral endovas graft add-on | 4.80 | N/A | 1.59 | 0.34 | N/A | 6.73 | ZZZ
34820 |  | A | Xpose for endoprosth, iliac | 9.75 | N/A | 3.29 | 0.70 | N/A | 13.74 | 000
34825 |  | A | Endovasc extend prosth, init | 12.00 | N/A | 6.21 | 0.86 | N/A | 19.07 | 090
34826 |  | A | Endovasc exten prosth, addl | 4.13 | N/A | 1.40 | 0.29 | N/A | 5.82 | ZZZ
34830 |  | A | Open aortic tube prosth repr | 32.59 | N/A | 13.76 | 2.34 | N/A | 48.69 | 090
34831 |  | A | Open aortoiliac prosth repr | 35.34 | N/A | 11.91 | 2.53 | N/A | 49.78 | 090
34832 |  | A | Open aortofemor prosth repr | 35.34 | N/A | 14.76 | 2.53 | N/A | 52.63 | 090
34833 |  | A | Xpose for endoprosth, iliac | 12.00 | N/A | 4.58 | 0.70 | N/A | 17.28 | 000
34834 |  | A | Xpose, endoprosth, brachial | 5.35 | N/A | 2.26 | 0.49 | N/A | 8.10 | 000
34900 |  | A | Endovasc iliac repr w/graft | 16.38 | N/A | 7.96 | 1.49 | N/A | 25.83 | 090
35001 |  | A | Repair defect of artery | 19.64 | N/A | 9.52 | 2.44 | N/A | 31.60 | 090
35002 |  | A | Repair artery rupture, neck | 21.00 | N/A | 9.79 | 1.82 | N/A | 32.61 | 090
35005 |  | A | Repair defect of artery | 18.12 | N/A | 8.86 | 1.35 | N/A | 28.33 | 090
35011 |  | A | Repair defect of artery | 18.00 | N/A | 8.07 | 1.30 | N/A | 27.37 | 090
35013 |  | A | Repair artery rupture, arm | 22.00 | N/A | 9.76 | 1.91 | N/A | 33.67 | 090
35021 |  | A | Repair defect of artery | 19.65 | N/A | 9.29 | 1.93 | N/A | 30.87 | 090
35022 |  | A | Repair artery rupture, chest | 23.18 | N/A | 10.08 | 1.99 | N/A | 35.25 | 090
35045 |  | A | Repair defect of arm artery | 17.57 | N/A | 7.73 | 1.25 | N/A | 26.55 | 090
35081 |  | A | Repair defect of artery | 28.01 | N/A | 11.52 | 3.20 | N/A | 42.73 | 090
35082 |  | A | Repair artery rupture, aorta | 38.50 | N/A | 15.52 | 4.07 | N/A | 58.09 | 090
35091 |  | A | Repair defect of artery | 35.40 | N/A | 13.78 | 4.09 | N/A | 53.27 | 090
35092 |  | A | Repair artery rupture, aorta | 45.00 | N/A | 17.92 | 4.31 | N/A | 67.23 | 090
35102 |  | A | Repair defect of artery | 30.76 | N/A | 12.60 | 3.44 | N/A | 46.80 | 090
35103 |  | A | Repair artery rupture, groin | 40.50 | N/A | 16.13 | 3.79 | N/A | 60.42 | 090
35111 |  | A | Repair defect of artery | 25.00 | N/A | 10.58 | 1.81 | N/A | 37.39 | 090
35112 |  | A | Repair artery rupture,spleen | 30.00 | N/A | 12.22 | 1.95 | N/A | 44.17 | 090
35121 |  | A | Repair defect of artery | 30.00 | N/A | 12.57 | 2.93 | N/A | 45.50 | 090
35122 |  | A | Repair artery rupture, belly | 35.00 | N/A | 14.09 | 3.54 | N/A | 52.63 | 090
35131 |  | A | Repair defect of artery | 25.00 | N/A | 10.89 | 2.11 | N/A | 38.00 | 090
35132 |  | A | Repair artery rupture, groin | 30.00 | N/A | 12.58 | 2.48 | N/A | 45.06 | 090
35141 |  | A | Repair defect of artery | 20.00 | N/A | 9.01 | 1.65 | N/A | 30.66 | 090
35142 |  | A | Repair artery rupture, thigh | 23.30 | N/A | 10.48 | 1.75 | N/A | 35.53 | 090
35151 |  | A | Repair defect of artery | 22.64 | N/A | 10.11 | 1.93 | N/A | 34.68 | 090
35152 |  | A | Repair artery rupture, knee | 25.62 | N/A | 11.43 | 1.93 | N/A | 38.98 | 090
35161 |  | A | Repair defect of artery | 18.76 | N/A | 9.16 | 2.21 | N/A | 30.13 | 090
35162 |  | A | Repair artery rupture | 19.78 | N/A | 9.64 | 2.21 | N/A | 31.63 | 090
35180 |  | A | Repair blood vessel lesion | 13.62 | N/A | 7.02 | 1.44 | N/A | 22.08 | 090
35182 |  | A | Repair blood vessel lesion | 30.00 | N/A | 12.93 | 1.88 | N/A | 44.81 | 090
35184 |  | A | Repair blood vessel lesion | 18.00 | N/A | 8.38 | 1.34 | N/A | 27.72 | 090
35188 |  | A | Repair blood vessel lesion | 14.28 | N/A | 7.60 | 1.53 | N/A | 23.41 | 090
35189 |  | A | Repair blood vessel lesion | 28.00 | N/A | 12.09 | 2.12 | N/A | 42.21 | 090
35190 |  | A | Repair blood vessel lesion | 12.75 | N/A | 6.54 | 1.33 | N/A | 20.62 | 090
35201 |  | A | Repair blood vessel lesion | 16.14 | N/A | 8.01 | 1.17 | N/A | 25.32 | 090
35206 |  | A | Repair blood vessel lesion | 13.25 | N/A | 6.72 | 1.04 | N/A | 21.01 | 090
35207 |  | A | Repair blood vessel lesion | 10.15 | N/A | 7.85 | 1.15 | N/A | 19.15 | 090
35211 |  | A | Repair blood vessel lesion | 22.12 | N/A | 10.47 | 2.83 | N/A | 35.42 | 090
35216 |  | A | Repair blood vessel lesion | 18.75 | N/A | 8.95 | 2.17 | N/A | 29.87 | 090
35221 |  | A | Repair blood vessel lesion | 24.39 | N/A | 10.20 | 1.79 | N/A | 36.38 | 090
35226 |  | A | Repair blood vessel lesion | 14.50 | N/A | 7.72 | 0.84 | N/A | 23.06 | 090
35231 |  | A | Repair blood vessel lesion | 20.00 | N/A | 9.91 | 1.32 | N/A | 31.23 | 090
35236 |  | A | Repair blood vessel lesion | 17.11 | N/A | 8.08 | 1.19 | N/A | 26.38 | 090
35241 |  | A | Repair blood vessel lesion | 23.12 | N/A | 10.91 | 2.90 | N/A | 36.93 | 090
35246 |  | A | Repair blood vessel lesion | 26.45 | N/A | 11.40 | 2.22 | N/A | 40.07 | 090
35251 |  | A | Repair blood vessel lesion | 30.20 | N/A | 12.11 | 1.87 | N/A | 44.18 | 090
35256 |  | A | Repair blood vessel lesion | 18.36 | N/A | 8.44 | 1.32 | N/A | 28.12 | 090
35261 |  | A | Repair blood vessel lesion | 17.80 | N/A | 8.10 | 1.34 | N/A | 27.24 | 090
35266 |  | A | Repair blood vessel lesion | 14.91 | N/A | 7.16 | 1.16 | N/A | 23.23 | 090
35271 |  | A | Repair blood vessel lesion | 22.12 | N/A | 10.37 | 2.77 | N/A | 35.26 | 090
35276 |  | A | Repair blood vessel lesion | 24.25 | N/A | 11.17 | 2.37 | N/A | 37.79 | 090
35281 |  | A | Repair blood vessel lesion | 28.00 | N/A | 11.93 | 1.82 | N/A | 41.75 | 090
35286 |  | A | Repair blood vessel lesion | 16.16 | N/A | 8.18 | 1.36 | N/A | 25.70 | 090
35301 |  | A | Rechanneling of artery | 18.70 | N/A | 8.49 | 2.23 | N/A | 29.42 | 090
35311 |  | A | Rechanneling of artery | 27.00 | N/A | 11.61 | 2.75 | N/A | 41.36 | 090
35321 |  | A | Rechanneling of artery | 16.00 | N/A | 7.41 | 1.36 | N/A | 24.77 | 090
35331 |  | A | Rechanneling of artery | 26.20 | N/A | 11.37 | 2.71 | N/A | 40.28 | 090
35341 |  | A | Rechanneling of artery | 25.11 | N/A | 11.02 | 2.87 | N/A | 39.00 | 090
35351 |  | A | Rechanneling of artery | 23.00 | N/A | 9.80 | 2.29 | N/A | 35.09 | 090
35355 |  | A | Rechanneling of artery | 18.50 | N/A | 8.28 | 1.80 | N/A | 28.58 | 090
35361 |  | A | Rechanneling of artery | 28.20 | N/A | 11.91 | 2.66 | N/A | 42.77 | 090
35363 |  | A | Rechanneling of artery | 30.20 | N/A | 12.73 | 2.77 | N/A | 45.70 | 090
35371 |  | A | Rechanneling of artery | 14.72 | N/A | 7.08 | 1.32 | N/A | 23.12 | 090
35372 |  | A | Rechanneling of artery | 18.00 | N/A | 8.20 | 1.53 | N/A | 27.73 | 090
35381 |  | A | Rechanneling of artery | 15.81 | N/A | 7.85 | 1.80 | N/A | 25.46 | 090
35390 |  | A | Reoperation, carotid add-on | 3.19 | N/A | 1.07 | 0.38 | N/A | 4.64 | ZZZ
35400 |  | A | Angioscopy | 3.00 | N/A | 1.05 | 0.34 | N/A | 4.39 | ZZZ
35450 |  | A | Repair arterial blockage | 10.07 | N/A | 4.07 | 0.84 | N/A | 14.98 | 000
35452 |  | A | Repair arterial blockage | 6.91 | N/A | 3.17 | 0.76 | N/A | 10.84 | 000
35454 |  | A | Repair arterial blockage | 6.04 | N/A | 2.85 | 0.67 | N/A | 9.56 | 000
35456 |  | A | Repair arterial blockage | 7.35 | N/A | 3.29 | 0.82 | N/A | 11.46 | 000
35458 |  | A | Repair arterial blockage | 9.49 | N/A | 4.00 | 1.09 | N/A | 14.58 | 000
35459 |  | A | Repair arterial blockage | 8.63 | N/A | 3.66 | 0.96 | N/A | 13.25 | 000
35460 |  | A | Repair venous blockage | 6.04 | N/A | 2.70 | 0.66 | N/A | 9.40 | 000
35470 |  | A | Repair arterial blockage | 8.63 | N/A | 3.89 | 0.50 | N/A | 13.02 | 000
35471 |  | A | Repair arterial blockage | 10.07 | N/A | 4.51 | 0.50 | N/A | 15.08 | 000
35472 |  | A | Repair arterial blockage | 6.91 | N/A | 3.27 | 0.39 | N/A | 10.57 | 000
35473 |  | A | Repair arterial blockage | 6.04 | N/A | 2.94 | 0.34 | N/A | 9.32 | 000
35474 |  | A | Repair arterial blockage | 7.36 | N/A | 2.92 | 0.40 | N/A | 10.68 | 000
35475 |  | R | Repair arterial blockage | 9.49 | N/A | 4.10 | 0.47 | N/A | 14.06 | 000
35476 |  | A | Repair venous blockage | 6.04 | N/A | 2.87 | 0.27 | N/A | 9.18 | 000
35480 |  | A | Atherectomy, open | 11.08 | N/A | 4.55 | 1.13 | N/A | 16.76 | 000
35481 |  | A | Atherectomy, open | 7.61 | N/A | 3.46 | 0.84 | N/A | 11.91 | 000
35482 |  | A | Atherectomy, open | 6.65 | N/A | 3.10 | 0.75 | N/A | 10.50 | 000
35483 |  | A | Atherectomy, open | 8.10 | N/A | 3.55 | 0.81 | N/A | 12.46 | 000
35484 |  | A | Atherectomy, open | 10.44 | N/A | 4.26 | 1.13 | N/A | 15.83 | 000
35485 |  | A | Atherectomy, open | 9.49 | N/A | 4.08 | 1.06 | N/A | 14.63 | 000
35490 |  | A | Atherectomy, percutaneous | 11.08 | N/A | 4.78 | 0.55 | N/A | 16.41 | 000
35491 |  | A | Atherectomy, percutaneous | 7.61 | N/A | 3.34 | 0.49 | N/A | 11.44 | 000
35492 |  | A | Atherectomy, percutaneous | 6.65 | N/A | 3.22 | 0.43 | N/A | 10.30 | 000
35493 |  | A | Atherectomy, percutaneous | 8.10 | N/A | 3.85 | 0.47 | N/A | 12.42 | 000
35494 |  | A | Atherectomy, percutaneous | 10.44 | N/A | 4.44 | 0.48 | N/A | 15.36 | 000
35495 |  | A | Atherectomy, percutaneous | 9.49 | N/A | 4.45 | 0.51 | N/A | 14.45 | 000
35500 |  | A | Harvest vein for bypass | 6.45 | N/A | 2.06 | 0.63 | N/A | 9.14 | ZZZ
35501 |  | A | Artery bypass graft | 19.19 | N/A | 8.45 | 2.33 | N/A | 29.97 | 090
35506 |  | A | Artery bypass graft | 19.67 | N/A | 9.38 | 2.33 | N/A | 31.38 | 090
35507 |  | A | Artery bypass graft | 19.67 | N/A | 9.36 | 2.27 | N/A | 31.30 | 090
35508 |  | A | Artery bypass graft | 18.65 | N/A | 9.27 | 2.34 | N/A | 30.26 | 090
35509 |  | A | Artery bypass graft | 18.07 | N/A | 8.75 | 2.12 | N/A | 28.94 | 090
35511 |  | A | Artery bypass graft | 21.20 | N/A | 9.43 | 1.74 | N/A | 32.37 | 090
35515 |  | A | Artery bypass graft | 18.65 | N/A | 9.22 | 2.26 | N/A | 30.13 | 090
35516 |  | A | Artery bypass graft | 16.32 | N/A | 6.81 | 1.88 | N/A | 25.01 | 090
35518 |  | A | Artery bypass graft | 21.20 | N/A | 9.12 | 1.78 | N/A | 32.10 | 090
35521 |  | A | Artery bypass graft | 22.20 | N/A | 9.94 | 1.82 | N/A | 33.96 | 090
35526 |  | A | Artery bypass graft | 29.95 | N/A | 12.49 | 2.18 | N/A | 44.62 | 090
35531 |  | A | Artery bypass graft | 36.20 | N/A | 14.73 | 2.91 | N/A | 53.84 | 090
35533 |  | A | Artery bypass graft | 28.00 | N/A | 11.91 | 2.35 | N/A | 42.26 | 090
35536 |  | A | Artery bypass graft | 31.70 | N/A | 13.21 | 2.62 | N/A | 47.53 | 090
35541 |  | A | Artery bypass graft | 25.80 | N/A | 11.28 | 2.74 | N/A | 39.82 | 090
35546 |  | A | Artery bypass graft | 25.54 | N/A | 10.99 | 2.84 | N/A | 39.37 | 090
35548 |  | A | Artery bypass graft | 21.57 | N/A | 9.54 | 2.45 | N/A | 33.56 | 090
35549 |  | A | Artery bypass graft | 23.35 | N/A | 10.39 | 2.77 | N/A | 36.51 | 090
35551 |  | A | Artery bypass graft | 26.67 | N/A | 11.52 | 3.19 | N/A | 41.38 | 090
35556 |  | A | Artery bypass graft | 21.76 | N/A | 9.82 | 2.48 | N/A | 34.06 | 090
35558 |  | A | Artery bypass graft | 21.20 | N/A | 9.64 | 1.58 | N/A | 32.42 | 090
35560 |  | A | Artery bypass graft | 32.00 | N/A | 13.46 | 2.73 | N/A | 48.19 | 090
35563 |  | A | Artery bypass graft | 24.20 | N/A | 10.67 | 1.68 | N/A | 36.55 | 090
35565 |  | A | Artery bypass graft | 23.20 | N/A | 10.31 | 1.71 | N/A | 35.22 | 090
35566 |  | A | Artery bypass graft | 26.92 | N/A | 11.51 | 3.02 | N/A | 41.45 | 090
35571 |  | A | Artery bypass graft | 24.06 | N/A | 11.25 | 2.14 | N/A | 37.45 | 090
35572 |  | A | Harvest femoropopliteal vein | 6.82 | N/A | 2.37 | 0.63 | N/A | 9.82 | ZZZ
35582 |  | A | Vein bypass graft | 27.13 | N/A | 11.67 | 3.11 | N/A | 41.91 | 090
35583 |  | A | Vein bypass graft | 22.37 | N/A | 10.37 | 2.53 | N/A | 35.27 | 090
35585 |  | A | Vein bypass graft | 28.39 | N/A | 12.61 | 3.21 | N/A | 44.21 | 090
35587 |  | A | Vein bypass graft | 24.75 | N/A | 11.88 | 2.17 | N/A | 38.80 | 090
35600 |  | A | Harvest artery for cabg | 4.95 | N/A | 1.61 | 0.60 | N/A | 7.16 | ZZZ
35601 |  | A | Artery bypass graft | 17.50 | N/A | 8.58 | 2.08 | N/A | 28.16 | 090
35606 |  | A | Artery bypass graft | 18.71 | N/A | 8.96 | 2.17 | N/A | 29.84 | 090
35612 |  | A | Artery bypass graft | 15.76 | N/A | 7.82 | 1.72 | N/A | 25.30 | 090
35616 |  | A | Artery bypass graft | 15.70 | N/A | 8.00 | 1.84 | N/A | 25.54 | 090
35621 |  | A | Artery bypass graft | 20.00 | N/A | 8.86 | 1.68 | N/A | 30.54 | 090
35623 |  | A | Bypass graft, not vein | 24.00 | N/A | 10.64 | 1.91 | N/A | 36.55 | 090
35626 |  | A | Artery bypass graft | 27.75 | N/A | 11.90 | 2.89 | N/A | 42.54 | 090
35631 |  | A | Artery bypass graft | 34.00 | N/A | 14.07 | 2.83 | N/A | 50.90 | 090
35636 |  | A | Artery bypass graft | 29.50 | N/A | 12.60 | 2.37 | N/A | 44.47 | 090
35641 |  | A | Artery bypass graft | 24.57 | N/A | 11.10 | 2.83 | N/A | 38.50 | 090
35642 |  | A | Artery bypass graft | 17.98 | N/A | 8.74 | 1.84 | N/A | 28.56 | 090
35645 |  | A | Artery bypass graft | 17.47 | N/A | 8.39 | 1.91 | N/A | 27.77 | 090
35646 |  | A | Artery bypass graft | 31.00 | N/A | 13.16 | 3.63 | N/A | 47.79 | 090
35647 |  | A | Artery bypass graft | 28.00 | N/A | 11.84 | 3.28 | N/A | 43.12 | 090
35650 |  | A | Artery bypass graft | 19.00 | N/A | 8.46 | 1.64 | N/A | 29.10 | 090
35651 |  | A | Artery bypass graft | 25.04 | N/A | 10.96 | 2.53 | N/A | 38.53 | 090
35654 |  | A | Artery bypass graft | 25.00 | N/A | 10.84 | 2.10 | N/A | 37.94 | 090
35656 |  | A | Artery bypass graft | 19.53 | N/A | 8.73 | 2.21 | N/A | 30.47 | 090
35661 |  | A | Artery bypass graft | 19.00 | N/A | 9.00 | 1.50 | N/A | 29.50 | 090
35663 |  | A | Artery bypass graft | 22.00 | N/A | 10.09 | 1.55 | N/A | 33.64 | 090
35665 |  | A | Artery bypass graft | 21.00 | N/A | 9.61 | 1.76 | N/A | 32.37 | 090
35666 |  | A | Artery bypass graft | 22.19 | N/A | 11.02 | 2.19 | N/A | 35.40 | 090
35671 |  | A | Artery bypass graft | 19.33 | N/A | 9.72 | 1.68 | N/A | 30.73 | 090
35681 |  | A | Composite bypass graft | 1.60 | N/A | 0.54 | 0.18 | N/A | 2.32 | ZZZ
35682 |  | A | Composite bypass graft | 7.20 | N/A | 2.43 | 0.83 | N/A | 10.46 | ZZZ
35683 |  | A | Composite bypass graft | 8.50 | N/A | 2.87 | 0.98 | N/A | 12.35 | ZZZ
35685 |  | A | Bypass graft patency/patch | 4.05 | N/A | 1.38 | 0.25 | N/A | 5.68 | ZZZ
35686 |  | A | Bypass graft/av fist patency | 3.35 | N/A | 1.15 | 0.21 | N/A | 4.71 | ZZZ
35691 |  | A | Arterial transposition | 18.05 | N/A | 8.50 | 2.06 | N/A | 28.61 | 090
35693 |  | A | Arterial transposition | 15.36 | N/A | 7.70 | 1.80 | N/A | 24.86 | 090
35694 |  | A | Arterial transposition | 19.16 | N/A | 8.73 | 2.13 | N/A | 30.02 | 090
35695 |  | A | Arterial transposition | 19.16 | N/A | 8.65 | 2.19 | N/A | 30.00 | 090
35700 |  | A | Reoperation, bypass graft | 3.08 | N/A | 1.03 | 0.36 | N/A | 4.47 | ZZZ
35701 |  | A | Exploration, carotid artery | 8.50 | N/A | 5.22 | 0.64 | N/A | 14.36 | 090
35721 |  | A | Exploration, femoral artery | 7.18 | N/A | 4.52 | 0.59 | N/A | 12.29 | 090
35741 |  | A | Exploration popliteal artery | 8.00 | N/A | 4.79 | 0.60 | N/A | 13.39 | 090
35761 |  | A | Exploration of artery/vein | 5.37 | N/A | 4.10 | 0.60 | N/A | 10.07 | 090
35800 |  | A | Explore neck vessels | 7.02 | N/A | 4.64 | 0.79 | N/A | 12.45 | 090
35820 |  | A | Explore chest vessels | 12.88 | N/A | 6.96 | 1.61 | N/A | 21.45 | 090
35840 |  | A | Explore abdominal vessels | 9.77 | N/A | 5.41 | 1.06 | N/A | 16.24 | 090
35860 |  | A | Explore limb vessels | 5.55 | N/A | 4.07 | 0.63 | N/A | 10.25 | 090
35870 |  | A | Repair vessel graft defect | 22.17 | N/A | 10.15 | 2.47 | N/A | 34.79 | 090
35875 |  | A | Removal of clot in graft | 10.13 | N/A | 5.35 | 0.97 | N/A | 16.45 | 090
35876 |  | A | Removal of clot in graft | 17.00 | N/A | 7.75 | 1.88 | N/A | 26.63 | 090
35879 |  | A | Revise graft w/vein | 16.00 | N/A | 7.80 | 1.35 | N/A | 25.15 | 090
35881 |  | A | Revise graft w/vein | 18.00 | N/A | 8.75 | 1.44 | N/A | 28.19 | 090
35901 |  | A | Excision, graft, neck | 8.19 | N/A | 5.35 | 0.90 | N/A | 14.44 | 090
35903 |  | A | Excision, graft, extremity | 9.39 | N/A | 6.24 | 1.03 | N/A | 16.66 | 090
35905 |  | A | Excision, graft, thorax | 31.25 | N/A | 13.30 | 2.15 | N/A | 46.70 | 090
35907 |  | A | Excision, graft, abdomen | 35.00 | N/A | 14.57 | 2.17 | N/A | 51.74 | 090
36000 |  | A | Place needle in vein | 0.18 | 0.62 | 0.05 | 0.01 | 0.81 | 0.24 | XXX
36002 |  | A | Pseudoaneurysm injection trt | 1.96 | 2.92 | 1.00 | 0.10 | 4.98 | 3.06 | 000
36005 |  | A | Injection ext venography | 0.95 | 8.45 | 0.32 | 0.04 | 9.44 | 1.31 | 000
36010 |  | A | Place catheter in vein | 2.43 | N/A | 0.80 | 0.16 | N/A | 3.39 | XXX
36011 |  | A | Place catheter in vein | 3.14 | N/A | 1.05 | 0.17 | N/A | 4.36 | XXX
36012 |  | A | Place catheter in vein | 3.52 | N/A | 1.18 | 0.17 | N/A | 4.87 | XXX
36013 |  | A | Place catheter in artery | 2.52 | N/A | 0.66 | 0.17 | N/A | 3.35 | XXX
36014 |  | A | Place catheter in artery | 3.02 | N/A | 1.01 | 0.14 | N/A | 4.17 | XXX
36015 |  | A | Place catheter in artery | 3.52 | N/A | 1.18 | 0.16 | N/A | 4.86 | XXX
36100 |  | A | Establish access to artery | 3.02 | N/A | 1.12 | 0.18 | N/A | 4.32 | XXX
36120 |  | A | Establish access to artery | 2.01 | N/A | 0.66 | 0.11 | N/A | 2.78 | XXX
36140 |  | A | Establish access to artery | 2.01 | N/A | 0.65 | 0.12 | N/A | 2.78 | XXX
36145 |  | A | Artery to vein shunt | 2.01 | N/A | 0.67 | 0.10 | N/A | 2.78 | XXX
36160 |  | A | Establish access to aorta | 2.52 | N/A | 0.86 | 0.20 | N/A | 3.58 | XXX
36200 |  | A | Place catheter in aorta | 3.02 | 72.76 | 1.04 | 0.15 | 75.93 | 4.21 | XXX
36215 |  | A | Place catheter in artery | 4.68 | N/A | 1.61 | 0.22 | N/A | 6.51 | XXX
36216 |  | A | Place catheter in artery | 5.28 | N/A | 1.79 | 0.24 | N/A | 7.31 | XXX
36217 |  | A | Place catheter in artery | 6.30 | N/A | 2.18 | 0.32 | N/A | 8.80 | XXX
36218 |  | A | Place catheter in artery | 1.01 | N/A | 0.35 | 0.05 | N/A | 1.41 | ZZZ
36245 |  | A | Place catheter in artery | 4.68 | N/A | 1.68 | 0.23 | N/A | 6.59 | XXX
36246 |  | A | Place catheter in artery | 5.28 | N/A | 1.82 | 0.26 | N/A | 7.36 | XXX
36247 |  | A | Place catheter in artery | 6.30 | N/A | 2.15 | 0.32 | N/A | 8.77 | XXX
36248 |  | A | Place catheter in artery | 1.01 | N/A | 0.35 | 0.06 | N/A | 1.42 | ZZZ
36260 |  | A | Insertion of infusion pump | 9.71 | N/A | 5.04 | 1.00 | N/A | 15.75 | 090
36261 |  | A | Revision of infusion pump | 5.45 | N/A | 3.66 | 0.50 | N/A | 9.61 | 090
36262 |  | A | Removal of infusion pump | 4.02 | N/A | 2.83 | 0.43 | N/A | 7.28 | 090
36299 |  | C | Vessel injection procedure | 0.00 | 0.00 | 0.00 | 0.00 | 0.00 | 0.00 | YYY
36400 |  | A | Bl draw < 3 yrs fem/jugular | 0.38 | 0.28 | 0.09 | 0.01 | 0.67 | 0.48 | XXX
36405 |  | A | Bl draw < 3 yrs scalp vein | 0.31 | 0.26 | 0.08 | 0.01 | 0.58 | 0.40 | XXX
36406 |  | A | Bl draw < 3 yrs other vein | 0.18 | 0.30 | 0.05 | 0.01 | 0.49 | 0.24 | XXX
36410 |  | A | Non-routine bl draw > 3 yrs | 0.18 | 0.30 | 0.05 | 0.01 | 0.49 | 0.24 | XXX
36415 |  | I | Routine venipuncture | 0.00 | 0.00 | 0.00 | 0.00 | 0.00 | 0.00 | XXX
36416 |  | I | Capillary blood draw | 0.00 | 0.00 | 0.00 | 0.00 | 0.00 | 0.00 | XXX
36420 |  | A | Vein access cutdown < 1 yr | 1.01 | 3.18 | 0.28 | 0.09 | 4.28 | 1.38 | XXX
36425 |  | A | Vein access cutdown > 1 yr | 0.76 | N/A | 0.22 | 0.05 | N/A | 1.03 | XXX
36430 |  | A | Blood transfusion service | 0.00 | 1.01 | N/A | 0.05 | 1.06 | N/A | XXX
36440 |  | A | Bl push transfuse, 2 yr or < | 1.03 | N/A | 0.29 | 0.08 | N/A | 1.40 | XXX
36450 |  | A | Bl exchange/transfuse, nb | 2.23 | N/A | 0.71 | 0.16 | N/A | 3.10 | XXX
36455 |  | A | Bl exchange/transfuse non-nb | 2.43 | N/A | 0.84 | 0.10 | N/A | 3.37 | XXX
36460 |  | A | Transfusion service, fetal | 6.59 | N/A | 2.26 | 0.56 | N/A | 9.41 | XXX
36468 |  | R | Injection(s), spider veins | 0.00 | 0.00 | 0.00 | 0.00 | 0.00 | 0.00 | 000
36469 |  | R | Injection(s), spider veins | 0.00 | 0.00 | 0.00 | 0.00 | 0.00 | 0.00 | 000
36470 |  | A | Injection therapy of vein | 1.09 | 2.75 | 0.45 | 0.10 | 3.94 | 1.64 | 010
36471 |  | A | Injection therapy of veins | 1.57 | 3.10 | 0.61 | 0.15 | 4.82 | 2.33 | 010
36481 |  | A | Insertion of catheter, vein | 6.99 | 7.02 | 2.76 | 0.40 | 14.41 | 10.15 | 000
36488 |  | A | Insertion of catheter, vein | 1.35 | 3.45 | 0.75 | 0.09 | 4.89 | 2.19 | 000
36489 |  | A | Insertion of catheter, vein | 2.50 | 4.13 | 1.06 | 0.08 | 6.71 | 3.64 | 000
36490 |  | A | Insertion of catheter, vein | 1.67 | 4.06 | 0.85 | 0.17 | 5.90 | 2.69 | 000
36491 |  | A | Insertion of catheter, vein | 1.43 | 3.41 | 0.78 | 0.13 | 4.97 | 2.34 | 000
36493 |  | A | Repositioning of cvc | 1.21 | 4.11 | 0.86 | 0.06 | 5.38 | 2.13 | 000
36500 |  | A | Insertion of catheter, vein | 3.52 | N/A | 1.25 | 0.14 | N/A | 4.91 | 000
36510 |  | A | Insertion of catheter, vein | 1.09 | 3.83 | 0.63 | 0.06 | 4.98 | 1.78 | 000
36511 |  | A | Apheresis wbc | 1.74 | N/A | 0.70 | 0.06 | N/A | 2.50 | 000
36512 |  | A | Apheresis rbc | 1.74 | N/A | 0.70 | 0.06 | N/A | 2.50 | 000
36513 |  | A | Apheresis platelets | 1.74 | N/A | 0.70 | 0.06 | N/A | 2.50 | 000
36514 |  | A | Apheresis plasma | 1.74 | N/A | 0.70 | 0.06 | N/A | 2.50 | 000
36515 |  | A | Apheresis, adsorp/reinfuse | 1.74 | N/A | 0.76 | 0.06 | N/A | 2.56 | 000
36516 |  | A | Apheresis, selective | 1.74 | N/A | 0.76 | 0.06 | N/A | 2.56 | 000
36522 |  | A | Photopheresis | 1.67 | 6.78 | 1.15 | 0.07 | 8.52 | 2.89 | 000
36530 |  | R | Insertion of infusion pump | 6.20 | N/A | 3.93 | 0.56 | N/A | 10.69 | 010
36531 |  | R | Revision of infusion pump | 4.87 | N/A | 3.45 | 0.44 | N/A | 8.76 | 010
36532 |  | R | Removal of infusion pump | 3.30 | N/A | 1.64 | 0.34 | N/A | 5.28 | 010
36533 |  | A | Insertion of access device | 5.32 | 14.77 | 3.65 | 0.49 | 20.58 | 9.46 | 010
36534 |  | A | Revision of access device | 2.80 | N/A | 1.58 | 0.19 | N/A | 4.57 | 010
36535 |  | A | Removal of access device | 2.27 | 2.96 | 1.99 | 0.21 | 5.44 | 4.47 | 010
36536 |  | A | Remove cva device obstruct | 3.60 | 18.73 | 1.47 | 0.23 | 22.56 | 5.30 | 000
36537 |  | A | Remove cva lumen obstruct | 0.75 | 4.44 | 0.49 | 0.04 | 5.23 | 1.28 | 000
36550 |  | A | Declot vascular device | 0.00 | 0.41 | N/A | 0.31 | 0.72 | N/A | XXX
36600 |  | A | Withdrawal of arterial blood | 0.32 | 0.49 | 0.09 | 0.02 | 0.83 | 0.43 | XXX
36620 |  | A | Insertion catheter, artery | 1.15 | N/A | 0.24 | 0.06 | N/A | 1.45 | 000
36625 |  | A | Insertion catheter, artery | 2.11 | N/A | 0.53 | 0.16 | N/A | 2.80 | 000
36640 |  | A | Insertion catheter, artery | 2.10 | N/A | 1.04 | 0.18 | N/A | 3.32 | 000
36660 |  | A | Insertion catheter, artery | 1.40 | N/A | 0.44 | 0.08 | N/A | 1.92 | 000
36680 |  | A | Insert needle, bone cavity | 1.20 | N/A | 0.50 | 0.08 | N/A | 1.78 | 000
36800 |  | A | Insertion of cannula | 2.43 | N/A | 1.81 | 0.17 | N/A | 4.41 | 000
36810 |  | A | Insertion of cannula | 3.97 | N/A | 1.70 | 0.40 | N/A | 6.07 | 000
36815 |  | A | Insertion of cannula | 2.62 | N/A | 1.18 | 0.26 | N/A | 4.06 | 000
36819 |  | A | Av fusion/uppr arm vein | 14.00 | N/A | 6.45 | 1.56 | N/A | 22.01 | 090
36820 |  | A | Av fusion/forearm vein | 14.00 | N/A | 6.45 | 1.56 | N/A | 22.01 | 090
36821 |  | A | Av fusion direct any site | 8.93 | N/A | 4.74 | 0.97 | N/A | 14.64 | 090
36822 |  | A | Insertion of cannula(s) | 5.42 | N/A | 4.31 | 0.63 | N/A | 10.36 | 090
36823 |  | A | Insertion of cannula(s) | 21.00 | N/A | 9.51 | 2.18 | N/A | 32.69 | 090
36825 |  | A | Artery-vein autograft | 9.84 | N/A | 5.17 | 1.09 | N/A | 16.10 | 090
36830 |  | A | Artery-vein nonautograft | 12.00 | N/A | 5.39 | 1.32 | N/A | 18.71 | 090
36831 |  | A | Open thrombect av fistula | 8.00 | N/A | 4.06 | 0.79 | N/A | 12.85 | 090
36832 |  | A | Av fistula revision, open | 10.50 | N/A | 4.89 | 1.13 | N/A | 16.52 | 090
36833 |  | A | Av fistula revision | 11.95 | N/A | 5.37 | 1.29 | N/A | 18.61 | 090
36834 |  | A | Repair A-V aneurysm | 9.93 | N/A | 4.79 | 1.06 | N/A | 15.78 | 090
36835 |  | A | Artery to vein shunt | 7.15 | N/A | 4.35 | 0.80 | N/A | 12.30 | 090
36860 |  | A | External cannula declotting | 2.01 | 2.54 | 1.35 | 0.10 | 4.65 | 3.46 | 000
36861 |  | A | Cannula declotting | 2.52 | N/A | 1.48 | 0.14 | N/A | 4.14 | 000
36870 |  | A | Percut thrombect av fistula | 5.16 | 47.67 | 3.15 | 0.23 | 53.06 | 8.54 | 090
37140 |  | A | Revision of circulation | 23.60 | N/A | 10.65 | 1.21 | N/A | 35.46 | 090
37145 |  | A | Revision of circulation | 24.61 | N/A | 11.19 | 2.48 | N/A | 38.28 | 090
37160 |  | A | Revision of circulation | 21.60 | N/A | 9.46 | 2.16 | N/A | 33.22 | 090
37180 |  | A | Revision of circulation | 24.61 | N/A | 10.56 | 2.63 | N/A | 37.80 | 090
37181 |  | A | Splice spleen/kidney veins | 26.68 | N/A | 11.22 | 2.67 | N/A | 40.57 | 090
37182 |  | A | Insert hepatic shunt (tips) | 17.00 | N/A | 6.37 | 1.49 | N/A | 24.86 | 000
37183 |  | A | Remove hepatic shunt (tips) | 8.00 | N/A | 3.13 | 0.43 | N/A | 11.56 | 000
37195 |  | A | Thrombolytic therapy, stroke | 0.00 | 8.06 | N/A | 0.38 | 8.44 | N/A | XXX
37200 |  | A | Transcatheter biopsy | 4.56 | N/A | 1.53 | 0.19 | N/A | 6.28 | 000
37201 |  | A | Transcatheter therapy infuse | 5.00 | N/A | 2.53 | 0.24 | N/A | 7.77 | 000
37202 |  | A | Transcatheter therapy infuse | 5.68 | N/A | 2.30 | 0.38 | N/A | 8.36 | 000
37203 |  | A | Transcatheter retrieval | 5.03 | N/A | 2.54 | 0.23 | N/A | 7.80 | 000
37204 |  | A | Transcatheter occlusion | 18.14 | N/A | 6.05 | 0.91 | N/A | 25.10 | 000
37205 |  | A | Transcatheter stent | 8.28 | N/A | 3.78 | 0.43 | N/A | 12.49 | 000
37206 |  | A | Transcatheter stent add-on | 4.13 | N/A | 1.47 | 0.22 | N/A | 5.82 | ZZZ
37207 |  | A | Transcatheter stent | 8.28 | N/A | 3.20 | 0.89 | N/A | 12.37 | 000
37208 |  | A | Transcatheter stent add-on | 4.13 | N/A | 1.41 | 0.44 | N/A | 5.98 | ZZZ
37209 |  | A | Exchange arterial catheter | 2.27 | N/A | 0.76 | 0.11 | N/A | 3.14 | 000
37250 |  | A | Iv us first vessel add-on | 2.10 | N/A | 0.76 | 0.17 | N/A | 3.03 | ZZZ
37251 |  | A | Iv us each add vessel add-on | 1.60 | N/A | 0.57 | 0.14 | N/A | 2.31 | ZZZ
37500 |  | A | Endoscopy ligate perf veins | 11.00 | N/A | 7.10 | 0.40 | N/A | 18.50 | 090
37501 |  | C | Vascular endoscopy procedure | 0.00 | 0.00 | 0.00 | 0.00 | 0.00 | 0.00 | YYY
37565 |  | A | Ligation of neck vein | 10.88 | N/A | 5.71 | 0.45 | N/A | 17.04 | 090
37600 |  | A | Ligation of neck artery | 11.25 | N/A | 6.79 | 0.40 | N/A | 18.44 | 090
37605 |  | A | Ligation of neck artery | 13.11 | N/A | 7.05 | 0.77 | N/A | 20.93 | 090
37606 |  | A | Ligation of neck artery | 6.28 | N/A | 4.64 | 0.79 | N/A | 11.71 | 090
37607 |  | A | Ligation of a-v fistula | 6.16 | N/A | 3.64 | 0.67 | N/A | 10.47 | 090
37609 |  | A | Temporal artery procedure | 3.00 | 4.62 | 2.00 | 0.21 | 7.83 | 5.21 | 010
37615 |  | A | Ligation of neck artery | 5.73 | N/A | 4.23 | 0.57 | N/A | 10.53 | 090
37616 |  | A | Ligation of chest artery | 16.49 | N/A | 8.14 | 1.93 | N/A | 26.56 | 090
37617 |  | A | Ligation of abdomen artery | 22.06 | N/A | 9.48 | 1.69 | N/A | 33.23 | 090
37618 |  | A | Ligation of extremity artery | 4.84 | N/A | 3.77 | 0.54 | N/A | 9.15 | 090
37620 |  | A | Revision of major vein | 10.56 | N/A | 5.84 | 0.75 | N/A | 17.15 | 090
37650 |  | A | Revision of major vein | 7.80 | N/A | 4.76 | 0.56 | N/A | 13.12 | 090
37660 |  | A | Revision of major vein | 21.00 | N/A | 9.37 | 1.17 | N/A | 31.54 | 090
37700 |  | A | Revise leg vein | 3.73 | N/A | 2.95 | 0.40 | N/A | 7.08 | 090
37720 |  | A | Removal of leg vein | 5.66 | N/A | 3.74 | 0.61 | N/A | 10.01 | 090
37730 |  | A | Removal of leg veins | 7.33 | N/A | 4.48 | 0.77 | N/A | 12.58 | 090
37735 |  | A | Removal of leg veins/lesion | 10.53 | N/A | 5.75 | 1.17 | N/A | 17.45 | 090
37760 |  | A | Ligation, leg veins, open | 10.47 | N/A | 5.59 | 1.11 | N/A | 17.17 | 090
37780 |  | A | Revision of leg vein | 3.84 | N/A | 2.91 | 0.41 | N/A | 7.16 | 090
37785 |  | A | Revise secondary varicosity | 3.84 | 7.05 | 2.93 | 0.41 | 11.30 | 7.18 | 090
37788 |  | A | Revascularization, penis | 22.01 | N/A | 10.07 | 1.35 | N/A | 33.43 | 090
37790 |  | A | Penile venous occlusion | 8.34 | N/A | 5.07 | 0.63 | N/A | 14.04 | 090
37799 |  | C | Vascular surgery procedure | 0.00 | 0.00 | 0.00 | 0.00 | 0.00 | 0.00 | YYY
38100 |  | A | Removal of spleen, total | 14.50 | N/A | 6.30 | 1.30 | N/A | 22.10 | 090
38101 |  | A | Removal of spleen, partial | 15.31 | N/A | 6.66 | 1.38 | N/A | 23.35 | 090
38102 |  | A | Removal of spleen, total | 4.80 | N/A | 1.67 | 0.49 | N/A | 6.96 | ZZZ
38115 |  | A | Repair of ruptured spleen | 15.82 | N/A | 6.78 | 1.40 | N/A | 24.00 | 090
38120 |  | A | Laparoscopy, splenectomy | 17.00 | N/A | 7.49 | 1.73 | N/A | 26.22 | 090
38129 |  | C | Laparoscope proc, spleen | 0.00 | 0.00 | 0.00 | 0.00 | 0.00 | 0.00 | YYY
38200 |  | A | Injection for spleen x-ray | 2.64 | N/A | 0.91 | 0.12 | N/A | 3.67 | 000
38205 |  | R | Harvest allogenic stem cells | 1.50 | N/A | 0.61 | 0.05 | N/A | 2.16 | 000
38206 |  | R | Harvest auto stem cells | 1.50 | N/A | 0.61 | 0.05 | N/A | 2.16 | 000
38207 |  | I | Cryopreserve stem cells | 0.00 | 0.00 | 0.00 | 0.00 | 0.00 | 0.00 | XXX
38208 |  | I | Thaw preserved stem cells | 0.00 | 0.00 | 0.00 | 0.00 | 0.00 | 0.00 | XXX
38209 |  | I | Wash harvest stem cells | 0.00 | 0.00 | 0.00 | 0.00 | 0.00 | 0.00 | XXX
38210 |  | I | T-cell depletion of harvest | 0.00 | 0.00 | 0.00 | 0.00 | 0.00 | 0.00 | XXX
38211 |  | I | Tumor cell deplete of harvst | 0.00 | 0.00 | 0.00 | 0.00 | 0.00 | 0.00 | XXX
38212 |  | I | Rbc depletion of harvest | 0.00 | 0.00 | 0.00 | 0.00 | 0.00 | 0.00 | XXX
38213 |  | I | Platelet deplete of harvest | 0.00 | 0.00 | 0.00 | 0.00 | 0.00 | 0.00 | XXX
38214 |  | I | Volume deplete of harvest | 0.00 | 0.00 | 0.00 | 0.00 | 0.00 | 0.00 | XXX
38215 |  | I | Harvest stem cell concentrte | 0.00 | 0.00 | 0.00 | 0.00 | 0.00 | 0.00 | XXX
38220 |  | A | Bone marrow aspiration | 1.08 | 3.99 | 0.43 | 0.03 | 5.10 | 1.54 | XXX
38221 |  | A | Bone marrow biopsy | 1.37 | 4.17 | 0.54 | 0.04 | 5.58 | 1.95 | XXX
38230 |  | R | Bone marrow collection | 4.54 | N/A | 2.53 | 0.25 | N/A | 7.32 | 010
38240 |  | R | Bone marrow/stem transplant | 2.24 | N/A | 0.83 | 0.08 | N/A | 3.15 | XXX
38241 |  | R | Bone marrow/stem transplant | 2.24 | N/A | 0.83 | 0.08 | N/A | 3.15 | XXX
38242 |  | A | Lymphocyte infuse transplant | 1.71 | N/A | 0.69 | 0.05 | N/A | 2.45 | 000
38300 |  | A | Drainage, lymph node lesion | 1.99 | 4.39 | 2.10 | 0.15 | 6.53 | 4.24 | 010
38305 |  | A | Drainage, lymph node lesion | 6.00 | 6.12 | 4.44 | 0.36 | 12.48 | 10.80 | 090
38308 |  | A | Incision of lymph channels | 6.45 | 5.87 | 3.83 | 0.51 | 12.83 | 10.79 | 090
38380 |  | A | Thoracic duct procedure | 7.46 | N/A | 5.73 | 0.68 | N/A | 13.87 | 090
38381 |  | A | Thoracic duct procedure | 12.88 | N/A | 6.89 | 1.58 | N/A | 21.35 | 090
38382 |  | A | Thoracic duct procedure | 10.08 | N/A | 6.10 | 1.08 | N/A | 17.26 | 090
38500 |  | A | Biopsy/removal, lymph nodes | 3.75 | 3.84 | 2.13 | 0.28 | 7.87 | 6.16 | 010
38505 |  | A | Needle biopsy, lymph nodes | 1.14 | 2.19 | 0.79 | 0.09 | 3.42 | 2.02 | 000
38510 |  | A | Biopsy/removal, lymph nodes | 6.43 | 5.77 | 3.57 | 0.38 | 12.58 | 10.38 | 010
38520 |  | A | Biopsy/removal, lymph nodes | 6.67 | N/A | 4.10 | 0.52 | N/A | 11.29 | 090
38525 |  | A | Biopsy/removal, lymph nodes | 6.07 | N/A | 3.39 | 0.48 | N/A | 9.94 | 090
38530 |  | A | Biopsy/removal, lymph nodes | 7.98 | N/A | 4.44 | 0.63 | N/A | 13.05 | 090
38542 |  | A | Explore deep node(s), neck | 5.91 | N/A | 4.55 | 0.50 | N/A | 10.96 | 090
38550 |  | A | Removal, neck/armpit lesion | 6.92 | N/A | 3.94 | 0.69 | N/A | 11.55 | 090
38555 |  | A | Removal, neck/armpit lesion | 14.14 | N/A | 8.46 | 1.46 | N/A | 24.06 | 090
38562 |  | A | Removal, pelvic lymph nodes | 10.49 | N/A | 5.84 | 0.97 | N/A | 17.30 | 090
38564 |  | A | Removal, abdomen lymph nodes | 10.83 | N/A | 5.35 | 1.06 | N/A | 17.24 | 090
38570 |  | A | Laparoscopy, lymph node biop | 9.25 | N/A | 4.02 | 0.89 | N/A | 14.16 | 010
38571 |  | A | Laparoscopy, lymphadenectomy | 14.68 | N/A | 5.73 | 0.80 | N/A | 21.21 | 010
38572 |  | A | Laparoscopy, lymphadenectomy | 16.59 | N/A | 7.29 | 1.32 | N/A | 25.20 | 010
38589 |  | C | Laparoscope proc, lymphatic | 0.00 | 0.00 | 0.00 | 0.00 | 0.00 | 0.00 | YYY
38700 |  | A | Removal of lymph nodes, neck | 8.24 | N/A | 8.46 | 0.60 | N/A | 17.30 | 090
38720 |  | A | Removal of lymph nodes, neck | 13.61 | N/A | 11.49 | 1.03 | N/A | 26.13 | 090
38724 |  | A | Removal of lymph nodes, neck | 14.54 | N/A | 12.02 | 1.10 | N/A | 27.66 | 090
38740 |  | A | Remove armpit lymph nodes | 10.03 | N/A | 5.04 | 0.69 | N/A | 15.76 | 090
38745 |  | A | Remove armpit lymph nodes | 13.10 | N/A | 6.36 | 0.90 | N/A | 20.36 | 090
38746 |  | A | Remove thoracic lymph nodes | 4.89 | N/A | 1.60 | 0.55 | N/A | 7.04 | ZZZ
38747 |  | A | Remove abdominal lymph nodes | 4.89 | N/A | 1.70 | 0.50 | N/A | 7.09 | ZZZ
38760 |  | A | Remove groin lymph nodes | 12.95 | N/A | 6.31 | 0.88 | N/A | 20.14 | 090
38765 |  | A | Remove groin lymph nodes | 19.98 | N/A | 9.27 | 1.50 | N/A | 30.75 | 090
38770 |  | A | Remove pelvis lymph nodes | 13.23 | N/A | 5.97 | 0.99 | N/A | 20.19 | 090
38780 |  | A | Remove abdomen lymph nodes | 16.59 | N/A | 8.47 | 1.60 | N/A | 26.66 | 090
38790 |  | A | Inject for lymphatic x-ray | 1.29 | 7.56 | 0.80 | 0.09 | 8.94 | 2.18 | 000
38792 |  | A | Identify sentinel node | 0.52 | N/A | 0.45 | 0.04 | N/A | 1.01 | 000
38794 |  | A | Access thoracic lymph duct | 4.45 | N/A | 3.41 | 0.17 | N/A | 8.03 | 090
38999 |  | C | Blood/lymph system procedure | 0.00 | 0.00 | 0.00 | 0.00 | 0.00 | 0.00 | YYY
39000 |  | A | Exploration of chest | 6.10 | N/A | 4.65 | 0.73 | N/A | 11.48 | 090
39010 |  | A | Exploration of chest | 11.79 | N/A | 6.43 | 1.46 | N/A | 19.68 | 090
39200 |  | A | Removal chest lesion | 13.62 | N/A | 6.64 | 1.65 | N/A | 21.91 | 090
39220 |  | A | Removal chest lesion | 17.42 | N/A | 8.32 | 2.10 | N/A | 27.84 | 090
39400 |  | A | Visualization of chest | 5.61 | N/A | 4.66 | 0.69 | N/A | 10.96 | 010
39499 |  | C | Chest procedure | 0.00 | 0.00 | 0.00 | 0.00 | 0.00 | 0.00 | YYY
39501 |  | A | Repair diaphragm laceration | 13.19 | N/A | 6.60 | 1.38 | N/A | 21.17 | 090
39502 |  | A | Repair paraesophageal hernia | 16.33 | N/A | 7.33 | 1.68 | N/A | 25.34 | 090
39503 |  | A | Repair of diaphragm hernia | 95.00 | N/A | 34.01 | 3.52 | N/A | 132.53 | 090
39520 |  | A | Repair of diaphragm hernia | 16.10 | N/A | 8.04 | 1.83 | N/A | 25.97 | 090
39530 |  | A | Repair of diaphragm hernia | 15.41 | N/A | 7.24 | 1.66 | N/A | 24.31 | 090
39531 |  | A | Repair of diaphragm hernia | 16.42 | N/A | 7.49 | 1.83 | N/A | 25.74 | 090
39540 |  | A | Repair of diaphragm hernia | 13.32 | N/A | 6.40 | 1.38 | N/A | 21.10 | 090
39541 |  | A | Repair of diaphragm hernia | 14.41 | N/A | 6.73 | 1.52 | N/A | 22.66 | 090
39545 |  | A | Revision of diaphragm | 13.37 | N/A | 7.48 | 1.55 | N/A | 22.40 | 090
39560 |  | A | Resect diaphragm, simple | 12.00 | N/A | 6.42 | 1.35 | N/A | 19.77 | 090
39561 |  | A | Resect diaphragm, complex | 17.50 | N/A | 9.40 | 1.97 | N/A | 28.87 | 090
39599 |  | C | Diaphragm surgery procedure | 0.00 | 0.00 | 0.00 | 0.00 | 0.00 | 0.00 | YYY
40490 |  | A | Biopsy of lip | 1.22 | 1.89 | 0.62 | 0.06 | 3.17 | 1.90 | 000
40500 |  | A | Partial excision of lip | 4.28 | 6.22 | 5.00 | 0.31 | 10.81 | 9.59 | 090
40510 |  | A | Partial excision of lip | 4.70 | 7.10 | 5.01 | 0.38 | 12.18 | 10.09 | 090
40520 |  | A | Partial excision of lip | 4.67 | 7.60 | 5.26 | 0.42 | 12.69 | 10.35 | 090
40525 |  | A | Reconstruct lip with flap | 7.55 | N/A | 7.10 | 0.68 | N/A | 15.33 | 090
40527 |  | A | Reconstruct lip with flap | 9.13 | N/A | 8.10 | 0.82 | N/A | 18.05 | 090
40530 |  | A | Partial removal of lip | 5.40 | 6.75 | 5.35 | 0.47 | 12.62 | 11.22 | 090
40650 |  | A | Repair lip | 3.64 | 5.71 | 3.89 | 0.31 | 9.66 | 7.84 | 090
40652 |  | A | Repair lip | 4.26 | 6.69 | 5.36 | 0.39 | 11.34 | 10.01 | 090
40654 |  | A | Repair lip | 5.31 | 7.34 | 6.12 | 0.48 | 13.13 | 11.91 | 090
40700 |  | A | Repair cleft lip/nasal | 12.79 | N/A | 9.77 | 0.93 | N/A | 23.49 | 090
40701 |  | A | Repair cleft lip/nasal | 15.85 | N/A | 12.08 | 1.36 | N/A | 29.29 | 090
40702 |  | A | Repair cleft lip/nasal | 13.04 | N/A | 8.62 | 1.01 | N/A | 22.67 | 090
40720 |  | A | Repair cleft lip/nasal | 13.55 | N/A | 10.75 | 1.31 | N/A | 25.61 | 090
40761 |  | A | Repair cleft lip/nasal | 14.72 | N/A | 11.17 | 1.41 | N/A | 27.30 | 090
40799 |  | C | Lip surgery procedure | 0.00 | 0.00 | 0.00 | 0.00 | 0.00 | 0.00 | YYY
40800 |  | A | Drainage of mouth lesion | 1.17 | 2.32 | 1.18 | 0.09 | 3.58 | 2.44 | 010
40801 |  | A | Drainage of mouth lesion | 2.53 | 3.32 | 2.09 | 0.18 | 6.03 | 4.80 | 010
40804 |  | A | Removal, foreign body, mouth | 1.24 | 2.66 | 1.14 | 0.09 | 3.99 | 2.47 | 010
40805 |  | A | Removal, foreign body, mouth | 2.69 | 3.57 | 2.03 | 0.17 | 6.43 | 4.89 | 010
40806 |  | A | Incision of lip fold | 0.31 | 1.42 | 0.97 | 0.02 | 1.75 | 1.30 | 000
40808 |  | A | Biopsy of mouth lesion | 0.96 | 2.42 | 1.11 | 0.07 | 3.45 | 2.14 | 010
40810 |  | A | Excision of mouth lesion | 1.31 | 2.50 | 1.25 | 0.09 | 3.90 | 2.65 | 010
40812 |  | A | Excise/repair mouth lesion | 2.31 | 3.40 | 1.82 | 0.17 | 5.88 | 4.30 | 010
40814 |  | A | Excise/repair mouth lesion | 3.42 | 4.95 | 3.38 | 0.26 | 8.63 | 7.06 | 090
40816 |  | A | Excision of mouth lesion | 3.67 | 5.13 | 3.49 | 0.27 | 9.07 | 7.43 | 090
40818 |  | A | Excise oral mucosa for graft | 2.41 | 5.37 | 3.64 | 0.14 | 7.92 | 6.19 | 090
40819 |  | A | Excise lip or cheek fold | 2.41 | 4.61 | 3.09 | 0.17 | 7.19 | 5.67 | 090
40820 |  | A | Treatment of mouth lesion | 1.28 | 2.80 | 2.45 | 0.08 | 4.16 | 3.81 | 010
40830 |  | A | Repair mouth laceration | 1.76 | 3.17 | 2.57 | 0.14 | 5.07 | 4.47 | 010
40831 |  | A | Repair mouth laceration | 2.46 | 3.74 | 3.16 | 0.21 | 6.41 | 5.83 | 010
40840 |  | R | Reconstruction of mouth | 8.73 | 8.83 | 7.54 | 0.79 | 18.35 | 17.06 | 090
40842 |  | R | Reconstruction of mouth | 8.73 | 8.94 | 7.28 | 0.65 | 18.32 | 16.66 | 090
40843 |  | R | Reconstruction of mouth | 12.10 | 11.25 | 8.89 | 0.84 | 24.19 | 21.83 | 090
40844 |  | R | Reconstruction of mouth | 16.01 | 14.16 | 12.01 | 1.63 | 31.80 | 29.65 | 090
40845 |  | R | Reconstruction of mouth | 18.58 | 16.30 | 13.91 | 1.47 | 36.35 | 33.96 | 090
40899 |  | C | Mouth surgery procedure | 0.00 | 0.00 | 0.00 | 0.00 | 0.00 | 0.00 | YYY
41000 |  | A | Drainage of mouth lesion | 1.30 | 2.57 | 1.45 | 0.09 | 3.96 | 2.84 | 010
41005 |  | A | Drainage of mouth lesion | 1.26 | 2.79 | 1.67 | 0.09 | 4.14 | 3.02 | 010
41006 |  | A | Drainage of mouth lesion | 3.24 | 4.57 | 3.62 | 0.25 | 8.06 | 7.11 | 090
41007 |  | A | Drainage of mouth lesion | 3.10 | 4.40 | 3.46 | 0.22 | 7.72 | 6.78 | 090
41008 |  | A | Drainage of mouth lesion | 3.37 | 4.73 | 3.66 | 0.24 | 8.34 | 7.27 | 090
41009 |  | A | Drainage of mouth lesion | 3.59 | 5.04 | 3.99 | 0.25 | 8.88 | 7.83 | 090
41010 |  | A | Incision of tongue fold | 1.06 | 3.57 | 3.57 | 0.06 | 4.69 | 4.69 | 010
41015 |  | A | Drainage of mouth lesion | 3.96 | 5.56 | 4.19 | 0.29 | 9.81 | 8.44 | 090
41016 |  | A | Drainage of mouth lesion | 4.07 | 5.64 | 4.21 | 0.28 | 9.99 | 8.56 | 090
41017 |  | A | Drainage of mouth lesion | 4.07 | 5.55 | 4.28 | 0.32 | 9.94 | 8.67 | 090
41018 |  | A | Drainage of mouth lesion | 5.10 | 6.00 | 4.40 | 0.35 | 11.45 | 9.85 | 090
41100 |  | A | Biopsy of tongue | 1.63 | 2.67 | 1.46 | 0.12 | 4.42 | 3.21 | 010
41105 |  | A | Biopsy of tongue | 1.42 | 2.58 | 1.35 | 0.10 | 4.10 | 2.87 | 010
41108 |  | A | Biopsy of floor of mouth | 1.05 | 2.32 | 1.16 | 0.08 | 3.45 | 2.29 | 010
41110 |  | A | Excision of tongue lesion | 1.51 | 2.63 | 1.37 | 0.11 | 4.25 | 2.99 | 010
41112 |  | A | Excision of tongue lesion | 2.73 | 4.44 | 2.79 | 0.20 | 7.37 | 5.72 | 090
41113 |  | A | Excision of tongue lesion | 3.19 | 4.81 | 3.06 | 0.23 | 8.23 | 6.48 | 090
41114 |  | A | Excision of tongue lesion | 8.47 | 9.08 | 6.46 | 0.64 | 18.19 | 15.57 | 090
41115 |  | A | Excision of tongue fold | 1.74 | 3.59 | 2.68 | 0.13 | 5.46 | 4.55 | 010
41116 |  | A | Excision of mouth lesion | 2.44 | 4.41 | 2.93 | 0.17 | 7.02 | 5.54 | 090
41120 |  | A | Partial removal of tongue | 9.77 | N/A | 7.88 | 0.70 | N/A | 18.35 | 090
41130 |  | A | Partial removal of tongue | 11.15 | N/A | 8.67 | 0.81 | N/A | 20.63 | 090
41135 |  | A | Tongue and neck surgery | 23.09 | N/A | 15.27 | 1.66 | N/A | 40.02 | 090
41140 |  | A | Removal of tongue | 25.50 | N/A | 16.53 | 1.85 | N/A | 43.88 | 090
41145 |  | A | Tongue removal, neck surgery | 30.06 | N/A | 19.74 | 2.11 | N/A | 51.91 | 090
41150 |  | A | Tongue, mouth, jaw surgery | 23.04 | N/A | 16.02 | 1.67 | N/A | 40.73 | 090
41153 |  | A | Tongue, mouth, neck surgery | 23.77 | N/A | 16.50 | 1.71 | N/A | 41.98 | 090
41155 |  | A | Tongue, jaw, & neck surgery | 27.72 | N/A | 18.57 | 2.02 | N/A | 48.31 | 090
41250 |  | A | Repair tongue laceration | 1.91 | 3.19 | 1.66 | 0.15 | 5.25 | 3.72 | 010
41251 |  | A | Repair tongue laceration | 2.27 | 3.70 | 2.00 | 0.18 | 6.15 | 4.45 | 010
41252 |  | A | Repair tongue laceration | 2.97 | 4.33 | 2.35 | 0.23 | 7.53 | 5.55 | 010
41500 |  | A | Fixation of tongue | 3.71 | N/A | 3.80 | 0.26 | N/A | 7.77 | 090
41510 |  | A | Tongue to lip surgery | 3.42 | N/A | 3.31 | 0.24 | N/A | 6.97 | 090
41520 |  | A | Reconstruction, tongue fold | 2.73 | 4.22 | 3.35 | 0.19 | 7.14 | 6.27 | 090
41599 |  | C | Tongue and mouth surgery | 0.00 | 0.00 | 0.00 | 0.00 | 0.00 | 0.00 | YYY
41800 |  | A | Drainage of gum lesion | 1.17 | 2.76 | 1.49 | 0.09 | 4.02 | 2.75 | 010
41805 |  | A | Removal foreign body, gum | 1.24 | 2.83 | 2.42 | 0.09 | 4.16 | 3.75 | 010
41806 |  | A | Removal foreign body,jawbone | 2.69 | 3.74 | 3.25 | 0.22 | 6.65 | 6.16 | 010
41820 |  | R | Excision, gum, each quadrant | 0.00 | 0.00 | 0.00 | 0.00 | 0.00 | 0.00 | 000
41821 |  | R | Excision of gum flap | 0.00 | 0.00 | 0.00 | 0.00 | 0.00 | 0.00 | 000
41822 |  | R | Excision of gum lesion | 2.31 | 4.25 | 1.36 | 0.24 | 6.80 | 3.91 | 010
41823 |  | R | Excision of gum lesion | 3.30 | 6.07 | 4.28 | 0.29 | 9.66 | 7.87 | 090
41825 |  | A | Excision of gum lesion | 1.31 | 3.42 | 2.46 | 0.10 | 4.83 | 3.87 | 010
41826 |  | A | Excision of gum lesion | 2.31 | 4.00 | 3.01 | 0.17 | 6.48 | 5.49 | 010
41827 |  | A | Excision of gum lesion | 3.42 | 5.80 | 3.98 | 0.25 | 9.47 | 7.65 | 090
41828 |  | R | Excision of gum lesion | 3.09 | 4.57 | 3.46 | 0.22 | 7.88 | 6.77 | 010
41830 |  | R | Removal of gum tissue | 3.35 | 5.10 | 3.71 | 0.23 | 8.68 | 7.29 | 010
41850 |  | R | Treatment of gum lesion | 0.00 | 0.00 | 0.00 | 0.00 | 0.00 | 0.00 | 000
41870 |  | R | Gum graft | 0.00 | 0.00 | 0.00 | 0.00 | 0.00 | 0.00 | 000
41872 |  | R | Repair gum | 2.59 | 4.77 | 3.63 | 0.18 | 7.54 | 6.40 | 090
41874 |  | R | Repair tooth socket | 3.09 | 4.82 | 3.36 | 0.23 | 8.14 | 6.68 | 090
41899 |  | C | Dental surgery procedure | 0.00 | 0.00 | 0.00 | 0.00 | 0.00 | 0.00 | YYY
42000 |  | A | Drainage mouth roof lesion | 1.23 | 2.83 | 1.29 | 0.10 | 4.16 | 2.62 | 010
42100 |  | A | Biopsy roof of mouth | 1.31 | 2.40 | 1.40 | 0.10 | 3.81 | 2.81 | 010
42104 |  | A | Excision lesion, mouth roof | 1.64 | 2.89 | 1.61 | 0.12 | 4.65 | 3.37 | 010
42106 |  | A | Excision lesion, mouth roof | 2.10 | 3.88 | 2.94 | 0.16 | 6.14 | 5.20 | 010
42107 |  | A | Excision lesion, mouth roof | 4.44 | 6.29 | 4.33 | 0.32 | 11.05 | 9.09 | 090
42120 |  | A | Remove palate/lesion | 6.17 | N/A | 5.78 | 0.44 | N/A | 12.39 | 090
42140 |  | A | Excision of uvula | 1.62 | 2.66 | 2.52 | 0.12 | 4.40 | 4.26 | 090
42145 |  | A | Repair palate, pharynx/uvula | 8.05 | N/A | 6.88 | 0.56 | N/A | 15.49 | 090
42160 |  | A | Treatment mouth roof lesion | 1.80 | 3.84 | 2.78 | 0.13 | 5.77 | 4.71 | 010
42180 |  | A | Repair palate | 2.50 | 3.55 | 2.19 | 0.19 | 6.24 | 4.88 | 010
42182 |  | A | Repair palate | 3.83 | 4.43 | 3.14 | 0.27 | 8.53 | 7.24 | 010
42200 |  | A | Reconstruct cleft palate | 12.00 | N/A | 9.28 | 0.97 | N/A | 22.25 | 090
42205 |  | A | Reconstruct cleft palate | 13.29 | N/A | 9.62 | 0.82 | N/A | 23.73 | 090
42210 |  | A | Reconstruct cleft palate | 14.50 | N/A | 10.83 | 1.24 | N/A | 26.57 | 090
42215 |  | A | Reconstruct cleft palate | 8.82 | N/A | 7.78 | 0.96 | N/A | 17.56 | 090
42220 |  | A | Reconstruct cleft palate | 7.02 | N/A | 5.83 | 0.41 | N/A | 13.26 | 090
42225 |  | A | Reconstruct cleft palate | 9.54 | N/A | 7.90 | 0.75 | N/A | 18.19 | 090
42226 |  | A | Lengthening of palate | 10.01 | N/A | 8.16 | 0.73 | N/A | 18.90 | 090
42227 |  | A | Lengthening of palate | 9.52 | N/A | 7.56 | 0.70 | N/A | 17.78 | 090
42235 |  | A | Repair palate | 7.87 | N/A | 5.48 | 0.49 | N/A | 13.84 | 090
42260 |  | A | Repair nose to lip fistula | 9.80 | 9.48 | 7.61 | 0.85 | 20.13 | 18.26 | 090
42280 |  | A | Preparation, palate mold | 1.54 | 2.08 | 0.90 | 0.12 | 3.74 | 2.56 | 010
42281 |  | A | Insertion, palate prosthesis | 1.93 | 3.07 | 1.95 | 0.14 | 5.14 | 4.02 | 010
42299 |  | C | Palate/uvula surgery | 0.00 | 0.00 | 0.00 | 0.00 | 0.00 | 0.00 | YYY
42300 |  | A | Drainage of salivary gland | 1.93 | 3.09 | 1.88 | 0.15 | 5.17 | 3.96 | 010
42305 |  | A | Drainage of salivary gland | 6.07 | N/A | 5.12 | 0.46 | N/A | 11.65 | 090
42310 |  | A | Drainage of salivary gland | 1.56 | 2.43 | 1.59 | 0.11 | 4.10 | 3.26 | 010
42320 |  | A | Drainage of salivary gland | 2.35 | 3.70 | 2.17 | 0.17 | 6.22 | 4.69 | 010
42325 |  | A | Create salivary cyst drain | 2.75 | 3.66 | 2.19 | 0.17 | 6.58 | 5.11 | 090
42326 |  | A | Create salivary cyst drain | 3.78 | 4.70 | 3.02 | 0.34 | 8.82 | 7.14 | 090
42330 |  | A | Removal of salivary stone | 2.21 | 3.44 | 1.91 | 0.16 | 5.81 | 4.28 | 010
42335 |  | A | Removal of salivary stone | 3.31 | 4.06 | 3.53 | 0.23 | 7.60 | 7.07 | 090
42340 |  | A | Removal of salivary stone | 4.60 | 5.35 | 4.47 | 0.34 | 10.29 | 9.41 | 090
42400 |  | A | Biopsy of salivary gland | 0.78 | 1.82 | 0.73 | 0.06 | 2.66 | 1.57 | 000
42405 |  | A | Biopsy of salivary gland | 3.29 | 4.33 | 2.54 | 0.24 | 7.86 | 6.07 | 010
42408 |  | A | Excision of salivary cyst | 4.54 | 5.25 | 4.23 | 0.34 | 10.13 | 9.11 | 090
42409 |  | A | Drainage of salivary cyst | 2.81 | 3.70 | 3.25 | 0.20 | 6.71 | 6.26 | 090
42410 |  | A | Excise parotid gland/lesion | 9.34 | N/A | 6.85 | 0.77 | N/A | 16.96 | 090
42415 |  | A | Excise parotid gland/lesion | 16.89 | N/A | 11.60 | 1.26 | N/A | 29.75 | 090
42420 |  | A | Excise parotid gland/lesion | 19.59 | N/A | 13.15 | 1.45 | N/A | 34.19 | 090
42425 |  | A | Excise parotid gland/lesion | 13.02 | N/A | 9.37 | 0.98 | N/A | 23.37 | 090
42426 |  | A | Excise parotid gland/lesion | 21.26 | N/A | 13.82 | 1.57 | N/A | 36.65 | 090
42440 |  | A | Excise submaxillary gland | 6.97 | N/A | 5.25 | 0.51 | N/A | 12.73 | 090
42450 |  | A | Excise sublingual gland | 4.62 | 5.90 | 4.42 | 0.34 | 10.86 | 9.38 | 090
42500 |  | A | Repair salivary duct | 4.30 | 5.69 | 4.37 | 0.30 | 10.29 | 8.97 | 090
42505 |  | A | Repair salivary duct | 6.18 | 7.18 | 5.58 | 0.44 | 13.80 | 12.20 | 090
42507 |  | A | Parotid duct diversion | 6.11 | N/A | 5.40 | 0.66 | N/A | 12.17 | 090
42508 |  | A | Parotid duct diversion | 9.10 | N/A | 7.30 | 0.64 | N/A | 17.04 | 090
42509 |  | A | Parotid duct diversion | 11.54 | N/A | 8.48 | 1.24 | N/A | 21.26 | 090
42510 |  | A | Parotid duct diversion | 8.15 | N/A | 6.30 | 0.57 | N/A | 15.02 | 090
42550 |  | A | Injection for salivary x-ray | 1.25 | 10.77 | 0.42 | 0.06 | 12.08 | 1.73 | 000
42600 |  | A | Closure of salivary fistula | 4.82 | 6.09 | 4.70 | 0.34 | 11.25 | 9.86 | 090
42650 |  | A | Dilation of salivary duct | 0.77 | 1.23 | 0.73 | 0.06 | 2.06 | 1.56 | 000
42660 |  | A | Dilation of salivary duct | 1.13 | 1.56 | 0.85 | 0.07 | 2.76 | 2.05 | 000
42665 |  | A | Ligation of salivary duct | 2.53 | 3.73 | 3.12 | 0.17 | 6.43 | 5.82 | 090
42699 |  | C | Salivary surgery procedure | 0.00 | 0.00 | 0.00 | 0.00 | 0.00 | 0.00 | YYY
42700 |  | A | Drainage of tonsil abscess | 1.62 | 2.90 | 1.79 | 0.12 | 4.64 | 3.53 | 010
42720 |  | A | Drainage of throat abscess | 5.42 | 5.24 | 3.93 | 0.39 | 11.05 | 9.74 | 010
42725 |  | A | Drainage of throat abscess | 10.72 | N/A | 8.26 | 0.80 | N/A | 19.78 | 090
42800 |  | A | Biopsy of throat | 1.39 | 2.35 | 1.45 | 0.10 | 3.84 | 2.94 | 010
42802 |  | A | Biopsy of throat | 1.54 | 3.17 | 1.62 | 0.11 | 4.82 | 3.27 | 010
42804 |  | A | Biopsy of upper nose/throat | 1.24 | 3.16 | 1.54 | 0.09 | 4.49 | 2.87 | 010
42806 |  | A | Biopsy of upper nose/throat | 1.58 | 3.17 | 1.66 | 0.12 | 4.87 | 3.36 | 010
42808 |  | A | Excise pharynx lesion | 2.30 | 3.31 | 1.99 | 0.17 | 5.78 | 4.46 | 010
42809 |  | A | Remove pharynx foreign body | 1.81 | 2.46 | 1.40 | 0.13 | 4.40 | 3.34 | 010
42810 |  | A | Excision of neck cyst | 3.25 | 5.05 | 3.53 | 0.25 | 8.55 | 7.03 | 090
42815 |  | A | Excision of neck cyst | 7.07 | N/A | 5.63 | 0.53 | N/A | 13.23 | 090
42820 |  | A | Remove tonsils and adenoids | 3.91 | N/A | 3.63 | 0.28 | N/A | 7.82 | 090
42821 |  | A | Remove tonsils and adenoids | 4.29 | N/A | 3.81 | 0.30 | N/A | 8.40 | 090
42825 |  | A | Removal of tonsils | 3.42 | N/A | 3.43 | 0.24 | N/A | 7.09 | 090
42826 |  | A | Removal of tonsils | 3.38 | N/A | 3.33 | 0.23 | N/A | 6.94 | 090
42830 |  | A | Removal of adenoids | 2.57 | N/A | 2.68 | 0.18 | N/A | 5.43 | 090
42831 |  | A | Removal of adenoids | 2.71 | N/A | 2.94 | 0.19 | N/A | 5.84 | 090
42835 |  | A | Removal of adenoids | 2.30 | N/A | 2.72 | 0.17 | N/A | 5.19 | 090
42836 |  | A | Removal of adenoids | 3.18 | N/A | 3.26 | 0.22 | N/A | 6.66 | 090
42842 |  | A | Extensive surgery of throat | 8.76 | N/A | 7.01 | 0.61 | N/A | 16.38 | 090
42844 |  | A | Extensive surgery of throat | 14.31 | N/A | 10.36 | 1.04 | N/A | 25.71 | 090
42845 |  | A | Extensive surgery of throat | 24.29 | N/A | 16.60 | 1.76 | N/A | 42.65 | 090
42860 |  | A | Excision of tonsil tags | 2.22 | N/A | 2.68 | 0.16 | N/A | 5.06 | 090
42870 |  | A | Excision of lingual tonsil | 5.40 | N/A | 5.02 | 0.38 | N/A | 10.80 | 090
42890 |  | A | Partial removal of pharynx | 12.94 | N/A | 9.67 | 0.91 | N/A | 23.52 | 090
42892 |  | A | Revision of pharyngeal walls | 15.83 | N/A | 11.27 | 1.14 | N/A | 28.24 | 090
42894 |  | A | Revision of pharyngeal walls | 22.88 | N/A | 15.55 | 1.64 | N/A | 40.07 | 090
42900 |  | A | Repair throat wound | 5.25 | N/A | 3.79 | 0.39 | N/A | 9.43 | 010
42950 |  | A | Reconstruction of throat | 8.10 | N/A | 6.82 | 0.58 | N/A | 15.50 | 090
42953 |  | A | Repair throat, esophagus | 8.96 | N/A | 7.77 | 0.73 | N/A | 17.46 | 090
42955 |  | A | Surgical opening of throat | 7.39 | N/A | 5.73 | 0.63 | N/A | 13.75 | 090
42960 |  | A | Control throat bleeding | 2.33 | N/A | 2.08 | 0.17 | N/A | 4.58 | 010
42961 |  | A | Control throat bleeding | 5.59 | N/A | 5.02 | 0.40 | N/A | 11.01 | 090
42962 |  | A | Control throat bleeding | 7.14 | N/A | 5.91 | 0.51 | N/A | 13.56 | 090
42970 |  | A | Control nose/throat bleeding | 5.43 | N/A | 3.72 | 0.37 | N/A | 9.52 | 090
42971 |  | A | Control nose/throat bleeding | 6.21 | N/A | 5.17 | 0.45 | N/A | 11.83 | 090
42972 |  | A | Control nose/throat bleeding | 7.20 | N/A | 5.64 | 0.54 | N/A | 13.38 | 090
42999 |  | C | Throat surgery procedure | 0.00 | 0.00 | 0.00 | 0.00 | 0.00 | 0.00 | YYY
43020 |  | A | Incision of esophagus | 8.09 | N/A | 5.75 | 0.70 | N/A | 14.54 | 090
43030 |  | A | Throat muscle surgery | 7.69 | N/A | 6.00 | 0.60 | N/A | 14.29 | 090
43045 |  | A | Incision of esophagus | 20.12 | N/A | 10.51 | 2.15 | N/A | 32.78 | 090
43100 |  | A | Excision of esophagus lesion | 9.19 | N/A | 6.31 | 0.79 | N/A | 16.29 | 090
43101 |  | A | Excision of esophagus lesion | 16.24 | N/A | 7.83 | 1.81 | N/A | 25.88 | 090
43107 |  | A | Removal of esophagus | 40.00 | N/A | 17.03 | 3.29 | N/A | 60.32 | 090
43108 |  | A | Removal of esophagus | 34.19 | N/A | 14.36 | 3.78 | N/A | 52.33 | 090
43112 |  | A | Removal of esophagus | 43.50 | N/A | 18.14 | 3.67 | N/A | 65.31 | 090
43113 |  | A | Removal of esophagus | 35.27 | N/A | 15.19 | 4.33 | N/A | 54.79 | 090
43116 |  | A | Partial removal of esophagus | 31.22 | N/A | 17.10 | 2.62 | N/A | 50.94 | 090
43117 |  | A | Partial removal of esophagus | 40.00 | N/A | 16.27 | 3.51 | N/A | 59.78 | 090
43118 |  | A | Partial removal of esophagus | 33.20 | N/A | 13.89 | 3.56 | N/A | 50.65 | 090
43121 |  | A | Partial removal of esophagus | 29.19 | N/A | 12.58 | 3.44 | N/A | 45.21 | 090
43122 |  | A | Partial removal of esophagus | 40.00 | N/A | 16.47 | 3.27 | N/A | 59.74 | 090
43123 |  | A | Partial removal of esophagus | 33.20 | N/A | 14.10 | 3.96 | N/A | 51.26 | 090
43124 |  | A | Removal of esophagus | 27.32 | N/A | 13.15 | 2.95 | N/A | 43.42 | 090
43130 |  | A | Removal of esophagus pouch | 11.75 | N/A | 7.69 | 1.06 | N/A | 20.50 | 090
43135 |  | A | Removal of esophagus pouch | 16.10 | N/A | 8.04 | 1.85 | N/A | 25.99 | 090
43200 |  | A | Esophagus endoscopy | 1.59 | 4.49 | 1.11 | 0.11 | 6.19 | 2.81 | 000
43201 |  | A | Esoph scope w/submucous inj | 2.09 | 4.92 | 1.29 | 0.12 | 7.13 | 3.50 | 000
43202 |  | A | Esophagus endoscopy, biopsy | 1.89 | 5.61 | 0.98 | 0.12 | 7.62 | 2.99 | 000
43204 |  | A | Esoph scope w/sclerosis inj | 3.77 | N/A | 1.57 | 0.18 | N/A | 5.52 | 000
43205 |  | A | Esophagus endoscopy/ligation | 3.79 | N/A | 1.58 | 0.17 | N/A | 5.54 | 000
43215 |  | A | Esophagus endoscopy | 2.60 | N/A | 1.24 | 0.17 | N/A | 4.01 | 000
43216 |  | A | Esophagus endoscopy/lesion | 2.40 | N/A | 1.21 | 0.15 | N/A | 3.76 | 000
43217 |  | A | Esophagus endoscopy | 2.90 | 6.99 | 1.24 | 0.17 | 10.06 | 4.31 | 000
43219 |  | A | Esophagus endoscopy | 2.80 | N/A | 1.39 | 0.16 | N/A | 4.35 | 000
43220 |  | A | Esoph endoscopy, dilation | 2.10 | N/A | 1.00 | 0.12 | N/A | 3.22 | 000
43226 |  | A | Esoph endoscopy, dilation | 2.34 | N/A | 1.07 | 0.12 | N/A | 3.53 | 000
43227 |  | A | Esoph endoscopy, repair | 3.60 | N/A | 1.50 | 0.18 | N/A | 5.28 | 000
43228 |  | A | Esoph endoscopy, ablation | 3.77 | N/A | 1.60 | 0.25 | N/A | 5.62 | 000
43231 |  | A | Esoph endoscopy w/us exam | 3.19 | N/A | 1.35 | 0.20 | N/A | 4.74 | 000
43232 |  | A | Esoph endoscopy w/us fn bx | 4.48 | N/A | 1.87 | 0.26 | N/A | 6.61 | 000
43234 |  | A | Upper GI endoscopy, exam | 2.01 | 5.37 | 0.91 | 0.13 | 7.51 | 3.05 | 000
43235 |  | A | Uppr gi endoscopy, diagnosis | 2.39 | 5.18 | 1.06 | 0.13 | 7.70 | 3.58 | 000
43236 |  | A | Uppr gi scope w/submuc inj | 2.92 | 6.11 | 1.26 | 0.14 | 9.17 | 4.32 | 000
43239 |  | A | Upper GI endoscopy, biopsy | 2.87 | 5.73 | 1.23 | 0.14 | 8.74 | 4.24 | 000
43240 |  | A | Esoph endoscope w/drain cyst | 6.86 | N/A | 2.68 | 0.36 | N/A | 9.90 | 000
43241 |  | A | Upper GI endoscopy with tube | 2.59 | N/A | 1.14 | 0.14 | N/A | 3.87 | 000
43242 |  | A | Uppr gi endoscopy w/us fn bx | 7.31 | N/A | 2.81 | 0.29 | N/A | 10.41 | 000
43243 |  | A | Upper gi endoscopy & inject | 4.57 | N/A | 1.85 | 0.21 | N/A | 6.63 | 000
43244 |  | A | Upper GI endoscopy/ligation | 5.05 | N/A | 2.02 | 0.21 | N/A | 7.28 | 000
43245 |  | A | Uppr gi scope dilate strictr | 3.18 | N/A | 1.34 | 0.18 | N/A | 4.70 | 000
43246 |  | A | Place gastrostomy tube | 4.33 | N/A | 1.75 | 0.24 | N/A | 6.32 | 000
43247 |  | A | Operative upper GI endoscopy | 3.39 | N/A | 1.42 | 0.17 | N/A | 4.98 | 000
43248 |  | A | Uppr gi endoscopy/guide wire | 3.15 | N/A | 1.35 | 0.15 | N/A | 4.65 | 000
43249 |  | A | Esoph endoscopy, dilation | 2.90 | N/A | 1.25 | 0.15 | N/A | 4.30 | 000
43250 |  | A | Upper GI endoscopy/tumor | 3.20 | N/A | 1.35 | 0.17 | N/A | 4.72 | 000
43251 |  | A | Operative upper GI endoscopy | 3.70 | N/A | 1.53 | 0.19 | N/A | 5.42 | 000
43255 |  | A | Operative upper GI endoscopy | 4.82 | N/A | 1.94 | 0.20 | N/A | 6.96 | 000
43256 |  | A | Uppr gi endoscopy w stent | 4.35 | N/A | 1.77 | 0.23 | N/A | 6.35 | 000
43258 |  | A | Operative upper GI endoscopy | 4.55 | N/A | 1.84 | 0.22 | N/A | 6.61 | 000
43259 |  | A | Endoscopic ultrasound exam | 4.89 | N/A | 1.95 | 0.22 | N/A | 7.06 | 000
43260 |  | A | Endo cholangiopancreatograph | 5.96 | N/A | 2.35 | 0.27 | N/A | 8.58 | 000
43261 |  | A | Endo cholangiopancreatograph | 6.27 | N/A | 2.46 | 0.29 | N/A | 9.02 | 000
43262 |  | A | Endo cholangiopancreatograph | 7.39 | N/A | 2.86 | 0.34 | N/A | 10.59 | 000
43263 |  | A | Endo cholangiopancreatograph | 7.29 | N/A | 2.84 | 0.28 | N/A | 10.41 | 000
43264 |  | A | Endo cholangiopancreatograph | 8.90 | N/A | 3.40 | 0.41 | N/A | 12.71 | 000
43265 |  | A | Endo cholangiopancreatograph | 10.02 | N/A | 3.80 | 0.42 | N/A | 14.24 | 000
43267 |  | A | Endo cholangiopancreatograph | 7.39 | N/A | 2.86 | 0.34 | N/A | 10.59 | 000
43268 |  | A | Endo cholangiopancreatograph | 7.39 | N/A | 2.96 | 0.34 | N/A | 10.69 | 000
43269 |  | A | Endo cholangiopancreatograph | 8.21 | N/A | 3.16 | 0.28 | N/A | 11.65 | 000
43271 |  | A | Endo cholangiopancreatograph | 7.39 | N/A | 2.86 | 0.34 | N/A | 10.59 | 000
43272 |  | A | Endo cholangiopancreatograph | 7.39 | N/A | 2.87 | 0.34 | N/A | 10.60 | 000
43280 |  | A | Laparoscopy, fundoplasty | 17.25 | N/A | 7.53 | 1.76 | N/A | 26.54 | 090
43289 |  | C | Laparoscope proc, esoph | 0.00 | 0.00 | 0.00 | 0.00 | 0.00 | 0.00 | YYY
43300 |  | A | Repair of esophagus | 9.14 | N/A | 6.59 | 0.85 | N/A | 16.58 | 090
43305 |  | A | Repair esophagus and fistula | 17.39 | N/A | 10.98 | 1.36 | N/A | 29.73 | 090
43310 |  | A | Repair of esophagus | 25.39 | N/A | 11.21 | 3.18 | N/A | 39.78 | 090
43312 |  | A | Repair esophagus and fistula | 28.42 | N/A | 12.16 | 3.38 | N/A | 43.96 | 090
43313 |  | A | Esophagoplasty congenital | 45.28 | N/A | 20.57 | 5.43 | N/A | 71.28 | 090
43314 |  | A | Tracheo-esophagoplasty cong | 50.27 | N/A | 22.50 | 5.53 | N/A | 78.30 | 090
43320 |  | A | Fuse esophagus & stomach | 19.93 | N/A | 9.30 | 1.59 | N/A | 30.82 | 090
43324 |  | A | Revise esophagus & stomach | 20.57 | N/A | 8.98 | 1.72 | N/A | 31.27 | 090
43325 |  | A | Revise esophagus & stomach | 20.06 | N/A | 8.96 | 1.65 | N/A | 30.67 | 090
43326 |  | A | Revise esophagus & stomach | 19.74 | N/A | 9.27 | 1.84 | N/A | 30.85 | 090
43330 |  | A | Repair of esophagus | 19.77 | N/A | 8.73 | 1.52 | N/A | 30.02 | 090
43331 |  | A | Repair of esophagus | 20.13 | N/A | 9.75 | 1.93 | N/A | 31.81 | 090
43340 |  | A | Fuse esophagus & intestine | 19.61 | N/A | 9.08 | 1.53 | N/A | 30.22 | 090
43341 |  | A | Fuse esophagus & intestine | 20.85 | N/A | 10.02 | 2.14 | N/A | 33.01 | 090
43350 |  | A | Surgical opening, esophagus | 15.78 | N/A | 8.57 | 1.15 | N/A | 25.50 | 090
43351 |  | A | Surgical opening, esophagus | 18.35 | N/A | 9.69 | 1.51 | N/A | 29.55 | 090
43352 |  | A | Surgical opening, esophagus | 15.26 | N/A | 8.45 | 1.28 | N/A | 24.99 | 090
43360 |  | A | Gastrointestinal repair | 35.70 | N/A | 15.16 | 3.00 | N/A | 53.86 | 090
43361 |  | A | Gastrointestinal repair | 40.50 | N/A | 16.97 | 3.52 | N/A | 60.99 | 090
43400 |  | A | Ligate esophagus veins | 21.20 | N/A | 9.64 | 0.99 | N/A | 31.83 | 090
43401 |  | A | Esophagus surgery for veins | 22.09 | N/A | 9.72 | 1.73 | N/A | 33.54 | 090
43405 |  | A | Ligate/staple esophagus | 20.01 | N/A | 9.56 | 1.63 | N/A | 31.20 | 090
43410 |  | A | Repair esophagus wound | 13.47 | N/A | 7.66 | 1.15 | N/A | 22.28 | 090
43415 |  | A | Repair esophagus wound | 25.00 | N/A | 11.70 | 1.92 | N/A | 38.62 | 090
43420 |  | A | Repair esophagus opening | 14.35 | N/A | 7.63 | 0.86 | N/A | 22.84 | 090
43425 |  | A | Repair esophagus opening | 21.03 | N/A | 9.94 | 2.03 | N/A | 33.00 | 090
43450 |  | A | Dilate esophagus | 1.38 | 2.54 | 0.72 | 0.07 | 3.99 | 2.17 | 000
43453 |  | A | Dilate esophagus | 1.51 | 6.12 | 0.79 | 0.08 | 7.71 | 2.38 | 000
43456 |  | A | Dilate esophagus | 2.57 | 14.11 | 1.17 | 0.14 | 16.82 | 3.88 | 000
43458 |  | A | Dilate esophagus | 3.06 | 6.73 | 1.36 | 0.17 | 9.96 | 4.59 | 000
43460 |  | A | Pressure treatment esophagus | 3.80 | N/A | 1.51 | 0.21 | N/A | 5.52 | 000
43496 |  | C | Free jejunum flap, microvasc | 0.00 | 0.00 | 0.00 | 0.00 | 0.00 | 0.00 | 090
43499 |  | C | Esophagus surgery procedure | 0.00 | 0.00 | 0.00 | 0.00 | 0.00 | 0.00 | YYY
43500 |  | A | Surgical opening of stomach | 11.05 | N/A | 5.23 | 0.84 | N/A | 17.12 | 090
43501 |  | A | Surgical repair of stomach | 20.04 | N/A | 8.63 | 1.55 | N/A | 30.22 | 090
43502 |  | A | Surgical repair of stomach | 23.13 | N/A | 9.79 | 1.83 | N/A | 34.75 | 090
43510 |  | A | Surgical opening of stomach | 13.08 | N/A | 6.84 | 0.90 | N/A | 20.82 | 090
43520 |  | A | Incision of pyloric muscle | 9.99 | N/A | 5.44 | 0.84 | N/A | 16.27 | 090
43600 |  | A | Biopsy of stomach | 1.91 | N/A | 1.04 | 0.11 | N/A | 3.06 | 000
43605 |  | A | Biopsy of stomach | 11.98 | N/A | 5.54 | 0.93 | N/A | 18.45 | 090
43610 |  | A | Excision of stomach lesion | 14.60 | N/A | 6.47 | 1.14 | N/A | 22.21 | 090
43611 |  | A | Excision of stomach lesion | 17.84 | N/A | 7.88 | 1.38 | N/A | 27.10 | 090
43620 |  | A | Removal of stomach | 30.04 | N/A | 12.22 | 2.29 | N/A | 44.55 | 090
43621 |  | A | Removal of stomach | 30.73 | N/A | 12.43 | 2.36 | N/A | 45.52 | 090
43622 |  | A | Removal of stomach | 32.53 | N/A | 13.03 | 2.48 | N/A | 48.04 | 090
43631 |  | A | Removal of stomach, partial | 22.59 | N/A | 9.49 | 1.99 | N/A | 34.07 | 090
43632 |  | A | Removal of stomach, partial | 22.59 | N/A | 9.50 | 2.00 | N/A | 34.09 | 090
43633 |  | A | Removal of stomach, partial | 23.10 | N/A | 9.67 | 2.05 | N/A | 34.82 | 090
43634 |  | A | Removal of stomach, partial | 25.12 | N/A | 10.43 | 2.18 | N/A | 37.73 | 090
43635 |  | A | Removal of stomach, partial | 2.06 | N/A | 0.72 | 0.21 | N/A | 2.99 | ZZZ
43638 |  | A | Removal of stomach, partial | 29.00 | N/A | 12.20 | 2.24 | N/A | 43.44 | 090
43639 |  | A | Removal of stomach, partial | 29.65 | N/A | 12.03 | 2.31 | N/A | 43.99 | 090
43640 |  | A | Vagotomy & pylorus repair | 17.02 | N/A | 7.56 | 1.51 | N/A | 26.09 | 090
43641 |  | A | Vagotomy & pylorus repair | 17.27 | N/A | 7.66 | 1.53 | N/A | 26.46 | 090
43651 |  | A | Laparoscopy, vagus nerve | 10.15 | N/A | 4.82 | 1.03 | N/A | 16.00 | 090
43652 |  | A | Laparoscopy, vagus nerve | 12.15 | N/A | 5.53 | 1.25 | N/A | 18.93 | 090
43653 |  | A | Laparoscopy, gastrostomy | 7.73 | N/A | 4.43 | 0.78 | N/A | 12.94 | 090
43659 |  | C | Laparoscope proc, stom | 0.00 | 0.00 | 0.00 | 0.00 | 0.00 | 0.00 | YYY
43750 |  | A | Place gastrostomy tube | 4.49 | N/A | 2.75 | 0.33 | N/A | 7.57 | 010
43760 |  | A | Change gastrostomy tube | 1.10 | 1.68 | 0.46 | 0.07 | 2.85 | 1.63 | 000
43761 |  | A | Reposition gastrostomy tube | 2.01 | N/A | 0.80 | 0.10 | N/A | 2.91 | 000
43800 |  | A | Reconstruction of pylorus | 13.69 | N/A | 6.20 | 1.07 | N/A | 20.96 | 090
43810 |  | A | Fusion of stomach and bowel | 14.65 | N/A | 6.50 | 1.10 | N/A | 22.25 | 090
43820 |  | A | Fusion of stomach and bowel | 15.37 | N/A | 6.74 | 1.18 | N/A | 23.29 | 090
43825 |  | A | Fusion of stomach and bowel | 19.22 | N/A | 8.33 | 1.50 | N/A | 29.05 | 090
43830 |  | A | Place gastrostomy tube | 9.53 | N/A | 5.10 | 0.69 | N/A | 15.32 | 090
43831 |  | A | Place gastrostomy tube | 7.84 | N/A | 4.65 | 0.81 | N/A | 13.30 | 090
43832 |  | A | Place gastrostomy tube | 15.60 | N/A | 7.19 | 1.13 | N/A | 23.92 | 090
43840 |  | A | Repair of stomach lesion | 15.56 | N/A | 7.05 | 1.20 | N/A | 23.81 | 090
43842 |  | A | Gastroplasty for obesity | 18.47 | N/A | 8.44 | 1.51 | N/A | 28.42 | 090
43843 |  | A | Gastroplasty for obesity | 18.65 | N/A | 8.38 | 1.53 | N/A | 28.56 | 090
43846 |  | A | Gastric bypass for obesity | 24.05 | N/A | 10.70 | 1.96 | N/A | 36.71 | 090
43847 |  | A | Gastric bypass for obesity | 26.92 | N/A | 11.69 | 2.14 | N/A | 40.75 | 090
43848 |  | A | Revision gastroplasty | 29.39 | N/A | 12.62 | 2.39 | N/A | 44.40 | 090
43850 |  | A | Revise stomach-bowel fusion | 24.72 | N/A | 10.17 | 1.97 | N/A | 36.86 | 090
43855 |  | A | Revise stomach-bowel fusion | 26.16 | N/A | 10.74 | 2.01 | N/A | 38.91 | 090
43860 |  | A | Revise stomach-bowel fusion | 25.00 | N/A | 10.33 | 2.03 | N/A | 37.36 | 090
43865 |  | A | Revise stomach-bowel fusion | 26.52 | N/A | 10.86 | 2.15 | N/A | 39.53 | 090
43870 |  | A | Repair stomach opening | 9.69 | N/A | 4.80 | 0.71 | N/A | 15.20 | 090
43880 |  | A | Repair stomach-bowel fistula | 24.65 | N/A | 10.31 | 1.94 | N/A | 36.90 | 090
43999 |  | C | Stomach surgery procedure | 0.00 | 0.00 | 0.00 | 0.00 | 0.00 | 0.00 | YYY
44005 |  | A | Freeing of bowel adhesion | 16.23 | N/A | 6.91 | 1.39 | N/A | 24.53 | 090
44010 |  | A | Incision of small bowel | 12.52 | N/A | 5.65 | 1.05 | N/A | 19.22 | 090
44015 |  | A | Insert needle cath bowel | 2.62 | N/A | 0.90 | 0.25 | N/A | 3.77 | ZZZ
44020 |  | A | Explore small intestine | 13.99 | N/A | 6.11 | 1.20 | N/A | 21.30 | 090
44021 |  | A | Decompress small bowel | 14.08 | N/A | 6.18 | 1.18 | N/A | 21.44 | 090
44025 |  | A | Incision of large bowel | 14.28 | N/A | 6.20 | 1.21 | N/A | 21.69 | 090
44050 |  | A | Reduce bowel obstruction | 14.03 | N/A | 6.13 | 1.15 | N/A | 21.31 | 090
44055 |  | A | Correct malrotation of bowel | 22.00 | N/A | 8.96 | 1.32 | N/A | 32.28 | 090
44100 |  | A | Biopsy of bowel | 2.01 | N/A | 1.11 | 0.12 | N/A | 3.24 | 000
44110 |  | A | Excise intestine lesion(s) | 11.81 | N/A | 5.40 | 1.00 | N/A | 18.21 | 090
44111 |  | A | Excision of bowel lesion(s) | 14.29 | N/A | 6.35 | 1.22 | N/A | 21.86 | 090
44120 |  | A | Removal of small intestine | 17.00 | N/A | 7.23 | 1.46 | N/A | 25.69 | 090
44121 |  | A | Removal of small intestine | 4.45 | N/A | 1.55 | 0.46 | N/A | 6.46 | ZZZ
44125 |  | A | Removal of small intestine | 17.54 | N/A | 7.41 | 1.49 | N/A | 26.44 | 090
44126 |  | A | Enterectomy w/o taper, cong | 35.50 | N/A | 14.38 | 0.36 | N/A | 50.24 | 090
44127 |  | A | Enterectomy w/taper, cong | 41.00 | N/A | 18.39 | 0.41 | N/A | 59.80 | 090
44128 |  | A | Enterectomy cong, add-on | 4.45 | N/A | 1.58 | 0.45 | N/A | 6.48 | ZZZ
44130 |  | A | Bowel to bowel fusion | 14.49 | N/A | 6.35 | 1.23 | N/A | 22.07 | 090
44132 |  | R | Enterectomy, cadaver donor | 0.00 | 0.00 | 0.00 | 0.00 | 0.00 | 0.00 | XXX
44133 |  | R | Enterectomy, live donor | 0.00 | 0.00 | 0.00 | 0.00 | 0.00 | 0.00 | XXX
44135 |  | R | Intestine transplnt, cadaver | 0.00 | 0.00 | 0.00 | 0.00 | 0.00 | 0.00 | XXX
44136 |  | R | Intestine transplant, live | 0.00 | 0.00 | 0.00 | 0.00 | 0.00 | 0.00 | XXX
44139 |  | A | Mobilization of colon | 2.23 | N/A | 0.78 | 0.21 | N/A | 3.22 | ZZZ
44140 |  | A | Partial removal of colon | 21.00 | N/A | 8.83 | 2.14 | N/A | 31.97 | 090
44141 |  | A | Partial removal of colon | 19.51 | N/A | 10.29 | 1.95 | N/A | 31.75 | 090
44143 |  | A | Partial removal of colon | 22.99 | N/A | 10.91 | 2.02 | N/A | 35.92 | 090
44144 |  | A | Partial removal of colon | 21.53 | N/A | 9.76 | 1.89 | N/A | 33.18 | 090
44145 |  | A | Partial removal of colon | 26.42 | N/A | 11.05 | 2.22 | N/A | 39.69 | 090
44146 |  | A | Partial removal of colon | 27.54 | N/A | 13.15 | 2.20 | N/A | 42.89 | 090
44147 |  | A | Partial removal of colon | 20.71 | N/A | 8.85 | 1.74 | N/A | 31.30 | 090
44150 |  | A | Removal of colon | 23.95 | N/A | 12.30 | 2.05 | N/A | 38.30 | 090
44151 |  | A | Removal of colon/ileostomy | 26.88 | N/A | 13.73 | 1.97 | N/A | 42.58 | 090
44152 |  | A | Removal of colon/ileostomy | 27.83 | N/A | 11.88 | 2.36 | N/A | 42.07 | 090
44153 |  | A | Removal of colon/ileostomy | 30.59 | N/A | 14.77 | 2.33 | N/A | 47.69 | 090
44155 |  | A | Removal of colon/ileostomy | 27.86 | N/A | 13.64 | 2.26 | N/A | 43.76 | 090
44156 |  | A | Removal of colon/ileostomy | 30.79 | N/A | 15.33 | 2.19 | N/A | 48.31 | 090
44160 |  | A | Removal of colon | 18.62 | N/A | 7.91 | 1.86 | N/A | 28.39 | 090
44200 |  | A | Laparoscopy, enterolysis | 14.44 | N/A | 6.32 | 1.46 | N/A | 22.22 | 090
44201 |  | A | Laparoscopy, jejunostomy | 9.78 | N/A | 4.74 | 0.97 | N/A | 15.49 | 090
44202 |  | A | Lap resect s/intestine singl | 22.04 | N/A | 9.12 | 2.16 | N/A | 33.32 | 090
44203 |  | A | Lap resect s/intestine, addl | 4.45 | N/A | 1.53 | 0.46 | N/A | 6.44 | ZZZ
44204 |  | A | Laparo partial colectomy | 25.08 | N/A | 10.15 | 2.55 | N/A | 37.78 | 090
44205 |  | A | Lap colectomy part w/ileum | 22.23 | N/A | 9.02 | 2.23 | N/A | 33.48 | 090
44206 |  | A | Lap part colectomy w/stoma | 27.00 | N/A | 11.54 | 2.02 | N/A | 40.56 | 090
44207 |  | A | L colectomy/coloproctostomy | 30.00 | N/A | 11.78 | 2.22 | N/A | 44.00 | 090
44208 |  | A | L colectomy/coloproctostomy | 32.00 | N/A | 13.48 | 2.20 | N/A | 47.68 | 090
44210 |  | A | Laparo total proctocolectomy | 28.00 | N/A | 12.21 | 2.05 | N/A | 42.26 | 090
44211 |  | A | Laparo total proctocolectomy | 35.00 | N/A | 14.98 | 2.33 | N/A | 52.31 | 090
44212 |  | A | Laparo total proctocolectomy | 32.50 | N/A | 14.09 | 2.26 | N/A | 48.85 | 090
44238 |  | C | Laparoscope proc, intestine | 0.00 | 0.00 | 0.00 | 0.00 | 0.00 | 0.00 | YYY
44239 |  | C | Laparoscope proc, rectum | 0.00 | 0.00 | 0.00 | 0.00 | 0.00 | 0.00 | YYY
44300 |  | A | Open bowel to skin | 12.11 | N/A | 5.59 | 0.88 | N/A | 18.58 | 090
44310 |  | A | Ileostomy/jejunostomy | 15.95 | N/A | 6.84 | 1.13 | N/A | 23.92 | 090
44312 |  | A | Revision of ileostomy | 8.02 | N/A | 4.08 | 0.54 | N/A | 12.64 | 090
44314 |  | A | Revision of ileostomy | 15.05 | N/A | 6.71 | 0.99 | N/A | 22.75 | 090
44316 |  | A | Devise bowel pouch | 21.09 | N/A | 8.73 | 1.41 | N/A | 31.23 | 090
44320 |  | A | Colostomy | 17.64 | N/A | 7.83 | 1.28 | N/A | 26.75 | 090
44322 |  | A | Colostomy with biopsies | 11.98 | N/A | 8.80 | 1.18 | N/A | 21.96 | 090
44340 |  | A | Revision of colostomy | 7.72 | N/A | 4.36 | 0.56 | N/A | 12.64 | 090
44345 |  | A | Revision of colostomy | 15.43 | N/A | 7.03 | 1.11 | N/A | 23.57 | 090
44346 |  | A | Revision of colostomy | 16.99 | N/A | 7.54 | 1.20 | N/A | 25.73 | 090
44360 |  | A | Small bowel endoscopy | 2.59 | N/A | 1.14 | 0.14 | N/A | 3.87 | 000
44361 |  | A | Small bowel endoscopy/biopsy | 2.87 | N/A | 1.24 | 0.15 | N/A | 4.26 | 000
44363 |  | A | Small bowel endoscopy | 3.50 | N/A | 1.43 | 0.19 | N/A | 5.12 | 000
44364 |  | A | Small bowel endoscopy | 3.74 | N/A | 1.55 | 0.21 | N/A | 5.50 | 000
44365 |  | A | Small bowel endoscopy | 3.31 | N/A | 1.41 | 0.18 | N/A | 4.90 | 000
44366 |  | A | Small bowel endoscopy | 4.41 | N/A | 1.79 | 0.22 | N/A | 6.42 | 000
44369 |  | A | Small bowel endoscopy | 4.52 | N/A | 1.79 | 0.23 | N/A | 6.54 | 000
44370 |  | A | Small bowel endoscopy/stent | 4.80 | N/A | 2.03 | 0.21 | N/A | 7.04 | 000
44372 |  | A | Small bowel endoscopy | 4.41 | N/A | 1.78 | 0.27 | N/A | 6.46 | 000
44373 |  | A | Small bowel endoscopy | 3.50 | N/A | 1.47 | 0.19 | N/A | 5.16 | 000
44376 |  | A | Small bowel endoscopy | 5.26 | N/A | 2.08 | 0.29 | N/A | 7.63 | 000
44377 |  | A | Small bowel endoscopy/biopsy | 5.53 | N/A | 2.20 | 0.28 | N/A | 8.01 | 000
44378 |  | A | Small bowel endoscopy | 7.13 | N/A | 2.77 | 0.37 | N/A | 10.27 | 000
44379 |  | A | S bowel endoscope w/stent | 7.47 | N/A | 2.99 | 0.38 | N/A | 10.84 | 000
44380 |  | A | Small bowel endoscopy | 1.05 | N/A | 0.58 | 0.08 | N/A | 1.71 | 000
44382 |  | A | Small bowel endoscopy | 1.27 | N/A | 0.66 | 0.09 | N/A | 2.02 | 000
44383 |  | A | Ileoscopy w/stent | 2.94 | N/A | 1.31 | 0.13 | N/A | 4.38 | 000
44385 |  | A | Endoscopy of bowel pouch | 1.82 | 5.20 | 0.98 | 0.12 | 7.14 | 2.92 | 000
44386 |  | A | Endoscopy, bowel pouch/biop | 2.12 | 6.70 | 1.13 | 0.15 | 8.97 | 3.40 | 000
44388 |  | A | Colon endoscopy | 2.82 | 5.29 | 1.19 | 0.18 | 8.29 | 4.19 | 000
44389 |  | A | Colonoscopy with biopsy | 3.13 | 6.68 | 1.31 | 0.18 | 9.99 | 4.62 | 000
44390 |  | A | Colonoscopy for foreign body | 3.83 | 6.92 | 1.54 | 0.22 | 10.97 | 5.59 | 000
44391 |  | A | Colonoscopy for bleeding | 4.32 | 8.97 | 1.75 | 0.23 | 13.52 | 6.30 | 000
44392 |  | A | Colonoscopy & polypectomy | 3.82 | 6.74 | 1.54 | 0.23 | 10.79 | 5.59 | 000
44393 |  | A | Colonoscopy, lesion removal | 4.84 | 7.09 | 1.92 | 0.27 | 12.20 | 7.03 | 000
44394 |  | A | Colonoscopy w/snare | 4.43 | 7.95 | 1.78 | 0.26 | 12.64 | 6.47 | 000
44397 |  | A | Colonoscopy w/stent | 4.71 | N/A | 2.10 | 0.28 | N/A | 7.09 | 000
44500 |  | A | Intro, gastrointestinal tube | 0.49 | N/A | 0.36 | 0.02 | N/A | 0.87 | 000
44602 |  | A | Suture, small intestine | 16.03 | N/A | 6.53 | 1.07 | N/A | 23.63 | 090
44603 |  | A | Suture, small intestine | 18.66 | N/A | 7.43 | 1.39 | N/A | 27.48 | 090
44604 |  | A | Suture, large intestine | 16.03 | N/A | 6.60 | 1.42 | N/A | 24.05 | 090
44605 |  | A | Repair of bowel lesion | 19.53 | N/A | 8.59 | 1.54 | N/A | 29.66 | 090
44615 |  | A | Intestinal stricturoplasty | 15.93 | N/A | 6.82 | 1.39 | N/A | 24.14 | 090
44620 |  | A | Repair bowel opening | 12.20 | N/A | 5.44 | 1.05 | N/A | 18.69 | 090
44625 |  | A | Repair bowel opening | 15.05 | N/A | 6.44 | 1.30 | N/A | 22.79 | 090
44626 |  | A | Repair bowel opening | 25.36 | N/A | 10.02 | 2.53 | N/A | 37.91 | 090
44640 |  | A | Repair bowel-skin fistula | 21.65 | N/A | 8.76 | 1.46 | N/A | 31.87 | 090
44650 |  | A | Repair bowel fistula | 22.57 | N/A | 9.07 | 1.49 | N/A | 33.13 | 090
44660 |  | A | Repair bowel-bladder fistula | 21.36 | N/A | 8.55 | 1.14 | N/A | 31.05 | 090
44661 |  | A | Repair bowel-bladder fistula | 24.81 | N/A | 9.77 | 1.53 | N/A | 36.11 | 090
44680 |  | A | Surgical revision, intestine | 15.40 | N/A | 6.59 | 1.37 | N/A | 23.36 | 090
44700 |  | A | Suspend bowel w/prosthesis | 16.11 | N/A | 6.81 | 1.21 | N/A | 24.13 | 090
44701 |  | A | Intraop colon lavage add-on | 3.10 | N/A | 1.08 | 0.21 | N/A | 4.39 | ZZZ
44799 |  | C | Intestine surgery procedure | 0.00 | 0.00 | 0.00 | 0.00 | 0.00 | 0.00 | YYY
44800 |  | A | Excision of bowel pouch | 11.23 | N/A | 5.49 | 1.11 | N/A | 17.83 | 090
44820 |  | A | Excision of mesentery lesion | 12.09 | N/A | 5.60 | 1.03 | N/A | 18.72 | 090
44850 |  | A | Repair of mesentery | 10.74 | N/A | 5.09 | 0.99 | N/A | 16.82 | 090
44899 |  | C | Bowel surgery procedure | 0.00 | 0.00 | 0.00 | 0.00 | 0.00 | 0.00 | YYY
44900 |  | A | Drain app abscess, open | 10.14 | N/A | 4.80 | 0.84 | N/A | 15.78 | 090
44901 |  | A | Drain app abscess, percut | 3.38 | N/A | 4.61 | 0.17 | N/A | 8.16 | 000
44950 |  | A | Appendectomy | 10.00 | N/A | 4.41 | 0.88 | N/A | 15.29 | 090
44955 |  | A | Appendectomy add-on | 1.53 | N/A | 0.55 | 0.16 | N/A | 2.24 | ZZZ
44960 |  | A | Appendectomy | 12.34 | N/A | 5.46 | 1.09 | N/A | 18.89 | 090
44970 |  | A | Laparoscopy, appendectomy | 8.70 | N/A | 4.30 | 0.88 | N/A | 13.88 | 090
44979 |  | C | Laparoscope proc, app | 0.00 | 0.00 | 0.00 | 0.00 | 0.00 | 0.00 | YYY
45000 |  | A | Drainage of pelvic abscess | 4.52 | N/A | 3.01 | 0.37 | N/A | 7.90 | 090
45005 |  | A | Drainage of rectal abscess | 1.99 | 4.92 | 1.71 | 0.18 | 7.09 | 3.88 | 010
45020 |  | A | Drainage of rectal abscess | 4.72 | N/A | 3.34 | 0.41 | N/A | 8.47 | 090
45100 |  | A | Biopsy of rectum | 3.68 | N/A | 2.42 | 0.33 | N/A | 6.43 | 090
45108 |  | A | Removal of anorectal lesion | 4.76 | N/A | 2.95 | 0.46 | N/A | 8.17 | 090
45110 |  | A | Removal of rectum | 28.00 | N/A | 12.69 | 2.26 | N/A | 42.95 | 090
45111 |  | A | Partial removal of rectum | 16.48 | N/A | 7.33 | 1.60 | N/A | 25.41 | 090
45112 |  | A | Removal of rectum | 30.54 | N/A | 12.03 | 2.35 | N/A | 44.92 | 090
45113 |  | A | Partial proctectomy | 30.58 | N/A | 12.92 | 2.13 | N/A | 45.63 | 090
45114 |  | A | Partial removal of rectum | 27.32 | N/A | 11.18 | 2.28 | N/A | 40.78 | 090
45116 |  | A | Partial removal of rectum | 24.58 | N/A | 10.26 | 2.00 | N/A | 36.84 | 090
45119 |  | A | Remove rectum w/reservoir | 30.84 | N/A | 12.77 | 2.13 | N/A | 45.74 | 090
45120 |  | A | Removal of rectum | 24.60 | N/A | 10.36 | 2.28 | N/A | 37.24 | 090
45121 |  | A | Removal of rectum and colon | 27.04 | N/A | 11.34 | 2.66 | N/A | 41.04 | 090
45123 |  | A | Partial proctectomy | 16.71 | N/A | 7.01 | 1.04 | N/A | 24.76 | 090
45126 |  | A | Pelvic exenteration | 45.16 | N/A | 19.84 | 3.23 | N/A | 68.23 | 090
45130 |  | A | Excision of rectal prolapse | 16.44 | N/A | 6.92 | 1.12 | N/A | 24.48 | 090
45135 |  | A | Excision of rectal prolapse | 19.28 | N/A | 8.57 | 1.52 | N/A | 29.37 | 090
45136 |  | A | Excise ileoanal reservior | 27.30 | N/A | 12.70 | 2.72 | N/A | 42.72 | 090
45150 |  | A | Excision of rectal stricture | 5.67 | N/A | 3.01 | 0.46 | N/A | 9.14 | 090
45160 |  | A | Excision of rectal lesion | 15.32 | N/A | 6.79 | 1.07 | N/A | 23.18 | 090
45170 |  | A | Excision of rectal lesion | 11.49 | N/A | 5.35 | 0.89 | N/A | 17.73 | 090
45190 |  | A | Destruction, rectal tumor | 9.74 | N/A | 4.71 | 0.76 | N/A | 15.21 | 090
45300 |  | A | Proctosigmoidoscopy dx | 0.38 | 1.50 | 0.31 | 0.05 | 1.93 | 0.74 | 000
45303 |  | A | Proctosigmoidoscopy dilate | 0.44 | 19.74 | 0.35 | 0.06 | 20.24 | 0.85 | 000
45305 |  | A | Proctosigmoidoscopy w/bx | 1.01 | 2.62 | 0.53 | 0.09 | 3.72 | 1.63 | 000
45307 |  | A | Proctosigmoidoscopy fb | 0.94 | 3.07 | 0.51 | 0.15 | 4.16 | 1.60 | 000
45308 |  | A | Proctosigmoidoscopy removal | 0.83 | 1.97 | 0.47 | 0.13 | 2.93 | 1.43 | 000
45309 |  | A | Proctosigmoidoscopy removal | 2.01 | 2.82 | 0.87 | 0.17 | 5.00 | 3.05 | 000
45315 |  | A | Proctosigmoidoscopy removal | 1.40 | 2.85 | 0.67 | 0.20 | 4.45 | 2.27 | 000
45317 |  | A | Proctosigmoidoscopy bleed | 1.50 | 2.43 | 0.69 | 0.20 | 4.13 | 2.39 | 000
45320 |  | A | Proctosigmoidoscopy ablate | 1.58 | 2.89 | 0.74 | 0.20 | 4.67 | 2.52 | 000
45321 |  | A | Proctosigmoidoscopy volvul | 1.17 | N/A | 0.59 | 0.17 | N/A | 1.93 | 000
45327 |  | A | Proctosigmoidoscopy w/stent | 1.65 | N/A | 0.71 | 0.10 | N/A | 2.46 | 000
45330 |  | A | Diagnostic sigmoidoscopy | 0.96 | 2.25 | 0.53 | 0.05 | 3.26 | 1.54 | 000
45331 |  | A | Sigmoidoscopy and biopsy | 1.15 | 2.90 | 0.64 | 0.07 | 4.12 | 1.86 | 000
45332 |  | A | Sigmoidoscopy w/fb removal | 1.79 | 4.86 | 0.86 | 0.11 | 6.76 | 2.76 | 000
45333 |  | A | Sigmoidoscopy & polypectomy | 1.79 | 4.81 | 0.86 | 0.12 | 6.72 | 2.77 | 000
45334 |  | A | Sigmoidoscopy for bleeding | 2.73 | N/A | 1.21 | 0.16 | N/A | 4.10 | 000
45335 |  | A | Sigmoidoscope w/submuc inj | 1.36 | 3.27 | 0.66 | 0.07 | 4.70 | 2.09 | 000
45337 |  | A | Sigmoidoscopy & decompress | 2.36 | N/A | 1.06 | 0.15 | N/A | 3.57 | 000
45338 |  | A | Sigmoidoscpy w/tumr remove | 2.34 | 5.13 | 1.07 | 0.15 | 7.62 | 3.56 | 000
45339 |  | A | Sigmoidoscopy w/ablate tumr | 3.14 | 3.36 | 1.35 | 0.17 | 6.67 | 4.66 | 000
45340 |  | A | Sig w/balloon dilation | 1.66 | 6.60 | 0.76 | 0.07 | 8.33 | 2.49 | 000
45341 |  | A | Sigmoidoscopy w/ultrasound | 2.60 | N/A | 1.15 | 0.20 | N/A | 3.95 | 000
45342 |  | A | Sigmoidoscopy w/us guide bx | 4.06 | N/A | 1.62 | 0.23 | N/A | 5.91 | 000
45345 |  | A | Sigmoidoscopy w/stent | 2.92 | N/A | 1.22 | 0.15 | N/A | 4.29 | 000
45355 |  | A | Surgical colonoscopy | 3.52 | N/A | 1.43 | 0.26 | N/A | 5.21 | 000
45378 |  | A | Diagnostic colonoscopy | 3.70 | 6.30 | 1.68 | 0.20 | 10.20 | 5.58 | 000
45378 | 53 | A | Diagnostic colonoscopy | 0.96 | 2.25 | 0.53 | 0.05 | 3.26 | 1.54 | 000
45379 |  | A | Colonoscopy w/fb removal | 4.69 | 7.83 | 1.94 | 0.25 | 12.77 | 6.88 | 000
45380 |  | A | Colonoscopy and biopsy | 4.44 | 7.26 | 1.81 | 0.21 | 11.91 | 6.46 | 000
45381 |  | A | Colonoscope, submucous inj | 4.20 | 8.00 | 1.72 | 0.21 | 12.41 | 6.13 | 000
45382 |  | A | Colonoscopy/control bleeding | 5.69 | 10.03 | 2.32 | 0.27 | 15.99 | 8.28 | 000
45383 |  | A | Lesion removal colonoscopy | 5.87 | 8.05 | 2.31 | 0.32 | 14.24 | 8.50 | 000
45384 |  | A | Lesion remove colonoscopy | 4.70 | 6.87 | 1.91 | 0.24 | 11.81 | 6.85 | 000
45385 |  | A | Lesion removal colonoscopy | 5.31 | 7.90 | 2.12 | 0.28 | 13.49 | 7.71 | 000
45386 |  | A | Colonoscope dilate stricture | 4.58 | 14.09 | 1.86 | 0.21 | 18.88 | 6.65 | 000
45387 |  | A | Colonoscopy w/stent | 5.91 | N/A | 2.40 | 0.33 | N/A | 8.64 | 000
45500 |  | A | Repair of rectum | 7.29 | N/A | 3.63 | 0.56 | N/A | 11.48 | 090
45505 |  | A | Repair of rectum | 7.58 | N/A | 3.87 | 0.50 | N/A | 11.95 | 090
45520 |  | A | Treatment of rectal prolapse | 0.55 | 0.86 | 0.19 | 0.04 | 1.45 | 0.78 | 000
45540 |  | A | Correct rectal prolapse | 16.27 | N/A | 6.96 | 1.17 | N/A | 24.40 | 090
45541 |  | A | Correct rectal prolapse | 13.40 | N/A | 6.06 | 0.88 | N/A | 20.34 | 090
45550 |  | A | Repair rectum/remove sigmoid | 23.00 | N/A | 9.40 | 1.58 | N/A | 33.98 | 090
45560 |  | A | Repair of rectocele | 10.58 | N/A | 5.22 | 0.73 | N/A | 16.53 | 090
45562 |  | A | Exploration/repair of rectum | 15.38 | N/A | 7.07 | 1.15 | N/A | 23.60 | 090
45563 |  | A | Exploration/repair of rectum | 23.47 | N/A | 10.69 | 1.84 | N/A | 36.00 | 090
45800 |  | A | Repair rect/bladder fistula | 17.77 | N/A | 7.57 | 1.14 | N/A | 26.48 | 090
45805 |  | A | Repair fistula w/colostomy | 20.78 | N/A | 9.71 | 1.47 | N/A | 31.96 | 090
45820 |  | A | Repair rectourethral fistula | 18.48 | N/A | 7.76 | 1.17 | N/A | 27.41 | 090
45825 |  | A | Repair fistula w/colostomy | 21.25 | N/A | 9.99 | 0.97 | N/A | 32.21 | 090
45900 |  | A | Reduction of rectal prolapse | 2.61 | N/A | 1.35 | 0.17 | N/A | 4.13 | 010
45905 |  | A | Dilation of anal sphincter | 2.30 | 10.78 | 1.25 | 0.14 | 13.22 | 3.69 | 010
45910 |  | A | Dilation of rectal narrowing | 2.80 | 15.08 | 1.46 | 0.14 | 18.02 | 4.40 | 010
45915 |  | A | Remove rectal obstruction | 3.14 | 4.88 | 1.19 | 0.17 | 8.19 | 4.50 | 010
45999 |  | C | Rectum surgery procedure | 0.00 | 0.00 | 0.00 | 0.00 | 0.00 | 0.00 | YYY
46020 |  | A | Placement of seton | 2.90 | 2.30 | 1.88 | 0.22 | 5.42 | 5.00 | 010
46030 |  | A | Removal of rectal marker | 1.23 | 1.37 | 0.72 | 0.11 | 2.71 | 2.06 | 010
46040 |  | A | Incision of rectal abscess | 4.96 | 5.33 | 3.17 | 0.48 | 10.77 | 8.61 | 090
46045 |  | A | Incision of rectal abscess | 4.32 | N/A | 2.88 | 0.40 | N/A | 7.60 | 090
46050 |  | A | Incision of anal abscess | 1.19 | 2.61 | 0.87 | 0.11 | 3.91 | 2.17 | 010
46060 |  | A | Incision of rectal abscess | 5.69 | N/A | 3.31 | 0.52 | N/A | 9.52 | 090
46070 |  | A | Incision of anal septum | 2.71 | N/A | 2.02 | 0.27 | N/A | 5.00 | 090
46080 |  | A | Incision of anal sphincter | 2.49 | 2.42 | 1.15 | 0.23 | 5.14 | 3.87 | 010
46083 |  | A | Incise external hemorrhoid | 1.40 | 2.57 | 0.96 | 0.12 | 4.09 | 2.48 | 010
46200 |  | A | Removal of anal fissure | 3.42 | 3.66 | 2.40 | 0.30 | 7.38 | 6.12 | 090
46210 |  | A | Removal of anal crypt | 2.67 | 4.85 | 2.14 | 0.26 | 7.78 | 5.07 | 090
46211 |  | A | Removal of anal crypts | 4.25 | 5.11 | 2.91 | 0.37 | 9.73 | 7.53 | 090
46220 |  | A | Removal of anal tag | 1.56 | 2.31 | 0.95 | 0.14 | 4.01 | 2.65 | 010
46221 |  | A | Ligation of hemorrhoid(s) | 2.04 | 1.64 | 1.14 | 0.12 | 3.80 | 3.30 | 010
46230 |  | A | Removal of anal tags | 2.57 | 3.10 | 1.30 | 0.22 | 5.89 | 4.09 | 010
46250 |  | A | Hemorrhoidectomy | 3.89 | 4.97 | 2.48 | 0.43 | 9.29 | 6.80 | 090
46255 |  | A | Hemorrhoidectomy | 4.60 | 5.52 | 2.71 | 0.51 | 10.63 | 7.82 | 090
46257 |  | A | Remove hemorrhoids & fissure | 5.40 | N/A | 2.91 | 0.59 | N/A | 8.90 | 090
46258 |  | A | Remove hemorrhoids & fistula | 5.73 | N/A | 3.27 | 0.64 | N/A | 9.64 | 090
46260 |  | A | Hemorrhoidectomy | 6.37 | N/A | 3.29 | 0.68 | N/A | 10.34 | 090
46261 |  | A | Remove hemorrhoids & fissure | 7.08 | N/A | 3.67 | 0.70 | N/A | 11.45 | 090
46262 |  | A | Remove hemorrhoids & fistula | 7.50 | N/A | 3.81 | 0.76 | N/A | 12.07 | 090
46270 |  | A | Removal of anal fistula | 3.72 | 4.73 | 2.40 | 0.36 | 8.81 | 6.48 | 090
46275 |  | A | Removal of anal fistula | 4.56 | 4.43 | 2.61 | 0.40 | 9.39 | 7.57 | 090
46280 |  | A | Removal of anal fistula | 5.98 | N/A | 3.32 | 0.50 | N/A | 9.80 | 090
46285 |  | A | Removal of anal fistula | 4.09 | 3.67 | 2.39 | 0.34 | 8.10 | 6.82 | 090
46288 |  | A | Repair anal fistula | 7.13 | N/A | 3.75 | 0.60 | N/A | 11.48 | 090
46320 |  | A | Removal of hemorrhoid clot | 1.61 | 2.16 | 0.87 | 0.14 | 3.91 | 2.62 | 010
46500 |  | A | Injection into hemorrhoid(s) | 1.61 | 2.83 | 0.63 | 0.12 | 4.56 | 2.36 | 010
46600 |  | A | Diagnostic anoscopy | 0.50 | 1.64 | 0.39 | 0.04 | 2.18 | 0.93 | 000
46604 |  | A | Anoscopy and dilation | 1.31 | 9.68 | 0.65 | 0.09 | 11.08 | 2.05 | 000
46606 |  | A | Anoscopy and biopsy | 0.81 | 3.94 | 0.45 | 0.07 | 4.82 | 1.33 | 000
46608 |  | A | Anoscopy, remove for body | 1.51 | 4.58 | 0.70 | 0.13 | 6.22 | 2.34 | 000
46610 |  | A | Anoscopy, remove lesion | 1.32 | 4.17 | 0.65 | 0.12 | 5.61 | 2.09 | 000
46611 |  | A | Anoscopy | 1.81 | 3.45 | 0.81 | 0.15 | 5.41 | 2.77 | 000
46612 |  | A | Anoscopy, remove lesions | 2.34 | 5.30 | 1.02 | 0.18 | 7.82 | 3.54 | 000
46614 |  | A | Anoscopy, control bleeding | 2.01 | 2.33 | 0.88 | 0.14 | 4.48 | 3.03 | 000
46615 |  | A | Anoscopy | 2.68 | 2.57 | 1.11 | 0.23 | 5.48 | 4.02 | 000
46700 |  | A | Repair of anal stricture | 9.13 | N/A | 4.29 | 0.56 | N/A | 13.98 | 090
46705 |  | A | Repair of anal stricture | 6.90 | N/A | 3.71 | 0.73 | N/A | 11.34 | 090
46706 |  | A | Repr of anal fistula w/glue | 2.39 | N/A | 1.27 | 0.17 | N/A | 3.83 | 010
46715 |  | A | Repair of anovaginal fistula | 7.20 | N/A | 3.65 | 0.76 | N/A | 11.61 | 090
46716 |  | A | Repair of anovaginal fistula | 15.07 | N/A | 8.18 | 1.30 | N/A | 24.55 | 090
46730 |  | A | Construction of absent anus | 26.75 | N/A | 12.31 | 2.03 | N/A | 41.09 | 090
46735 |  | A | Construction of absent anus | 32.17 | N/A | 14.15 | 2.64 | N/A | 48.96 | 090
46740 |  | A | Construction of absent anus | 30.00 | N/A | 13.53 | 1.99 | N/A | 45.52 | 090
46742 |  | A | Repair of imperforated anus | 35.80 | N/A | 17.84 | 2.63 | N/A | 56.27 | 090
46744 |  | A | Repair of cloacal anomaly | 52.63 | N/A | 21.45 | 2.27 | N/A | 76.35 | 090
46746 |  | A | Repair of cloacal anomaly | 58.22 | N/A | 25.92 | 2.51 | N/A | 86.65 | 090
46748 |  | A | Repair of cloacal anomaly | 64.21 | N/A | 25.76 | 2.77 | N/A | 92.74 | 090
46750 |  | A | Repair of anal sphincter | 10.25 | N/A | 5.17 | 0.69 | N/A | 16.11 | 090
46751 |  | A | Repair of anal sphincter | 8.77 | N/A | 5.39 | 0.78 | N/A | 14.94 | 090
46753 |  | A | Reconstruction of anus | 8.29 | N/A | 3.90 | 0.58 | N/A | 12.77 | 090
46754 |  | A | Removal of suture from anus | 2.20 | 3.73 | 1.72 | 0.12 | 6.05 | 4.04 | 010
46760 |  | A | Repair of anal sphincter | 14.43 | N/A | 7.13 | 0.86 | N/A | 22.42 | 090
46761 |  | A | Repair of anal sphincter | 13.84 | N/A | 6.16 | 0.84 | N/A | 20.84 | 090
46762 |  | A | Implant artificial sphincter | 12.71 | N/A | 5.59 | 0.71 | N/A | 19.01 | 090
46900 |  | A | Destruction, anal lesion(s) | 1.91 | 3.60 | 0.81 | 0.13 | 5.64 | 2.85 | 010
46910 |  | A | Destruction, anal lesion(s) | 1.86 | 2.75 | 1.12 | 0.14 | 4.75 | 3.12 | 010
46916 |  | A | Cryosurgery, anal lesion(s) | 1.86 | 3.14 | 1.44 | 0.09 | 5.09 | 3.39 | 010
46917 |  | A | Laser surgery, anal lesions | 1.86 | 14.08 | 1.15 | 0.16 | 16.10 | 3.17 | 010
46922 |  | A | Excision of anal lesion(s) | 1.86 | 3.38 | 1.10 | 0.17 | 5.41 | 3.13 | 010
46924 |  | A | Destruction, anal lesion(s) | 2.76 | 12.56 | 1.39 | 0.20 | 15.52 | 4.35 | 010
46934 |  | A | Destruction of hemorrhoids | 3.51 | 5.18 | 2.81 | 0.26 | 8.95 | 6.58 | 090
46935 |  | A | Destruction of hemorrhoids | 2.43 | 3.55 | 1.23 | 0.17 | 6.15 | 3.83 | 010
46936 |  | A | Destruction of hemorrhoids | 3.69 | 4.61 | 2.38 | 0.30 | 8.60 | 6.37 | 090
46937 |  | A | Cryotherapy of rectal lesion | 2.69 | 2.79 | 1.25 | 0.12 | 5.60 | 4.06 | 010
46938 |  | A | Cryotherapy of rectal lesion | 4.66 | 4.28 | 2.74 | 0.40 | 9.34 | 7.80 | 090
46940 |  | A | Treatment of anal fissure | 2.32 | 2.04 | 1.11 | 0.17 | 4.53 | 3.60 | 010
46942 |  | A | Treatment of anal fissure | 2.04 | 1.87 | 1.02 | 0.14 | 4.05 | 3.20 | 010
46945 |  | A | Ligation of hemorrhoids | 1.84 | 3.60 | 1.91 | 0.17 | 5.61 | 3.92 | 090
46946 |  | A | Ligation of hemorrhoids | 2.58 | 4.34 | 1.92 | 0.22 | 7.14 | 4.72 | 090
46999 |  | C | Anus surgery procedure | 0.00 | 0.00 | 0.00 | 0.00 | 0.00 | 0.00 | YYY
47000 |  | A | Needle biopsy of liver | 1.90 | 3.29 | 0.64 | 0.09 | 5.28 | 2.63 | 000
47001 |  | A | Needle biopsy, liver add-on | 1.90 | N/A | 0.66 | 0.18 | N/A | 2.74 | ZZZ
47010 |  | A | Open drainage, liver lesion | 16.01 | N/A | 8.75 | 0.65 | N/A | 25.41 | 090
47011 |  | A | Percut drain, liver lesion | 3.70 | N/A | 4.42 | 0.17 | N/A | 8.29 | 000
47015 |  | A | Inject/aspirate liver cyst | 15.11 | N/A | 7.70 | 0.86 | N/A | 23.67 | 090
47100 |  | A | Wedge biopsy of liver | 11.67 | N/A | 6.22 | 0.75 | N/A | 18.64 | 090
47120 |  | A | Partial removal of liver | 35.50 | N/A | 15.57 | 2.29 | N/A | 53.36 | 090
47122 |  | A | Extensive removal of liver | 55.13 | N/A | 22.07 | 3.60 | N/A | 80.80 | 090
47125 |  | A | Partial removal of liver | 49.19 | N/A | 20.05 | 3.18 | N/A | 72.42 | 090
47130 |  | A | Partial removal of liver | 53.35 | N/A | 21.54 | 3.47 | N/A | 78.36 | 090
47134 |  | R | Partial removal, donor liver | 39.15 | N/A | 13.51 | 3.98 | N/A | 56.64 | XXX
47135 |  | R | Transplantation of liver | 81.52 | N/A | 32.18 | 8.13 | N/A | 121.83 | 090
47136 |  | R | Transplantation of liver | 68.60 | N/A | 29.48 | 6.93 | N/A | 105.01 | 090
47300 |  | A | Surgery for liver lesion | 15.08 | N/A | 7.44 | 0.97 | N/A | 23.49 | 090
47350 |  | A | Repair liver wound | 19.56 | N/A | 9.10 | 1.25 | N/A | 29.91 | 090
47360 |  | A | Repair liver wound | 26.92 | N/A | 11.93 | 1.71 | N/A | 40.56 | 090
47361 |  | A | Repair liver wound | 47.12 | N/A | 19.02 | 3.11 | N/A | 69.25 | 090
47362 |  | A | Repair liver wound | 18.51 | N/A | 9.02 | 1.22 | N/A | 28.75 | 090
47370 |  | A | Laparo ablate liver tumor rf | 19.69 | N/A | 8.31 | 0.85 | N/A | 28.85 | 090
47371 |  | A | Laparo ablate liver cryosurg | 19.69 | N/A | 8.43 | 0.85 | N/A | 28.97 | 090
47379 |  | C | Laparoscope procedure, liver | 0.00 | 0.00 | 0.00 | 0.00 | 0.00 | 0.00 | YYY
47380 |  | A | Open ablate liver tumor rf | 23.00 | N/A | 9.55 | 0.85 | N/A | 33.40 | 090
47381 |  | A | Open ablate liver tumor cryo | 23.27 | N/A | 9.86 | 0.85 | N/A | 33.98 | 090
47382 |  | A | Percut ablate liver rf | 15.19 | N/A | 6.00 | 1.14 | N/A | 22.33 | 010
47399 |  | C | Liver surgery procedure | 0.00 | 0.00 | 0.00 | 0.00 | 0.00 | 0.00 | YYY
47400 |  | A | Incision of liver duct | 32.49 | N/A | 13.86 | 1.82 | N/A | 48.17 | 090
47420 |  | A | Incision of bile duct | 19.88 | N/A | 8.99 | 1.70 | N/A | 30.57 | 090
47425 |  | A | Incision of bile duct | 19.83 | N/A | 9.04 | 1.60 | N/A | 30.47 | 090
47460 |  | A | Incise bile duct sphincter | 18.04 | N/A | 8.61 | 1.24 | N/A | 27.89 | 090
47480 |  | A | Incision of gallbladder | 10.82 | N/A | 6.13 | 0.85 | N/A | 17.80 | 090
47490 |  | A | Incision of gallbladder | 7.23 | N/A | 5.97 | 0.33 | N/A | 13.53 | 090
47500 |  | A | Injection for liver x-rays | 1.96 | N/A | 0.65 | 0.09 | N/A | 2.70 | 000
47505 |  | A | Injection for liver x-rays | 0.76 | 2.59 | 0.25 | 0.03 | 3.38 | 1.04 | 000
47510 |  | A | Insert catheter, bile duct | 7.83 | N/A | 5.02 | 0.36 | N/A | 13.21 | 090
47511 |  | A | Insert bile duct drain | 10.50 | N/A | 5.12 | 0.47 | N/A | 16.09 | 090
47525 |  | A | Change bile duct catheter | 5.55 | N/A | 3.26 | 0.24 | N/A | 9.05 | 010
47530 |  | A | Revise/reinsert bile tube | 5.85 | N/A | 4.30 | 0.29 | N/A | 10.44 | 090
47550 |  | A | Bile duct endoscopy add-on | 3.02 | N/A | 1.05 | 0.30 | N/A | 4.37 | ZZZ
47552 |  | A | Biliary endoscopy thru skin | 6.04 | N/A | 2.43 | 0.42 | N/A | 8.89 | 000
47553 |  | A | Biliary endoscopy thru skin | 6.35 | N/A | 2.62 | 0.30 | N/A | 9.27 | 000
47554 |  | A | Biliary endoscopy thru skin | 9.06 | N/A | 3.43 | 0.74 | N/A | 13.23 | 000
47555 |  | A | Biliary endoscopy thru skin | 7.56 | N/A | 3.04 | 0.35 | N/A | 10.95 | 000
47556 |  | A | Biliary endoscopy thru skin | 8.56 | N/A | 3.37 | 0.38 | N/A | 12.31 | 000
47560 |  | A | Laparoscopy w/cholangio | 4.89 | N/A | 1.85 | 0.49 | N/A | 7.23 | 000
47561 |  | A | Laparo w/cholangio/biopsy | 5.18 | N/A | 2.16 | 0.49 | N/A | 7.83 | 000
47562 |  | A | Laparoscopic cholecystectomy | 11.09 | N/A | 5.04 | 1.13 | N/A | 17.26 | 090
47563 |  | A | Laparo cholecystectomy/graph | 11.94 | N/A | 5.35 | 1.21 | N/A | 18.50 | 090
47564 |  | A | Laparo cholecystectomy/explr | 14.23 | N/A | 6.06 | 1.44 | N/A | 21.73 | 090
47570 |  | A | Laparo cholecystoenterostomy | 12.58 | N/A | 5.47 | 1.28 | N/A | 19.33 | 090
47579 |  | C | Laparoscope proc, biliary | 0.00 | 0.00 | 0.00 | 0.00 | 0.00 | 0.00 | YYY
47600 |  | A | Removal of gallbladder | 13.58 | N/A | 6.36 | 1.16 | N/A | 21.10 | 090
47605 |  | A | Removal of gallbladder | 14.69 | N/A | 6.72 | 1.25 | N/A | 22.66 | 090
47610 |  | A | Removal of gallbladder | 18.82 | N/A | 8.20 | 1.61 | N/A | 28.63 | 090
47612 |  | A | Removal of gallbladder | 18.78 | N/A | 8.14 | 1.60 | N/A | 28.52 | 090
47620 |  | A | Removal of gallbladder | 20.64 | N/A | 8.79 | 1.77 | N/A | 31.20 | 090
47630 |  | A | Remove bile duct stone | 9.11 | N/A | 4.81 | 0.46 | N/A | 14.38 | 090
47700 |  | A | Exploration of bile ducts | 15.62 | N/A | 7.60 | 1.40 | N/A | 24.62 | 090
47701 |  | A | Bile duct revision | 27.81 | N/A | 11.87 | 3.00 | N/A | 42.68 | 090
47711 |  | A | Excision of bile duct tumor | 23.03 | N/A | 10.22 | 1.98 | N/A | 35.23 | 090
47712 |  | A | Excision of bile duct tumor | 30.24 | N/A | 12.77 | 2.67 | N/A | 45.68 | 090
47715 |  | A | Excision of bile duct cyst | 18.80 | N/A | 8.66 | 1.59 | N/A | 29.05 | 090
47716 |  | A | Fusion of bile duct cyst | 16.44 | N/A | 8.09 | 1.41 | N/A | 25.94 | 090
47720 |  | A | Fuse gallbladder & bowel | 15.91 | N/A | 7.69 | 1.37 | N/A | 24.97 | 090
47721 |  | A | Fuse upper gi structures | 19.12 | N/A | 8.81 | 1.63 | N/A | 29.56 | 090
47740 |  | A | Fuse gallbladder & bowel | 18.48 | N/A | 8.61 | 1.59 | N/A | 28.68 | 090
47741 |  | A | Fuse gallbladder & bowel | 21.34 | N/A | 9.54 | 1.82 | N/A | 32.70 | 090
47760 |  | A | Fuse bile ducts and bowel | 25.85 | N/A | 11.13 | 2.21 | N/A | 39.19 | 090
47765 |  | A | Fuse liver ducts & bowel | 24.88 | N/A | 11.16 | 2.18 | N/A | 38.22 | 090
47780 |  | A | Fuse bile ducts and bowel | 26.50 | N/A | 11.50 | 2.27 | N/A | 40.27 | 090
47785 |  | A | Fuse bile ducts and bowel | 31.18 | N/A | 13.32 | 2.69 | N/A | 47.19 | 090
47800 |  | A | Reconstruction of bile ducts | 23.30 | N/A | 10.33 | 1.95 | N/A | 35.58 | 090
47801 |  | A | Placement, bile duct support | 15.17 | N/A | 8.43 | 0.69 | N/A | 24.29 | 090
47802 |  | A | Fuse liver duct & intestine | 21.55 | N/A | 9.99 | 1.84 | N/A | 33.38 | 090
47900 |  | A | Suture bile duct injury | 19.90 | N/A | 9.11 | 1.65 | N/A | 30.66 | 090
47999 |  | C | Bile tract surgery procedure | 0.00 | 0.00 | 0.00 | 0.00 | 0.00 | 0.00 | YYY
48000 |  | A | Drainage of abdomen | 28.07 | N/A | 11.83 | 1.32 | N/A | 41.22 | 090
48001 |  | A | Placement of drain, pancreas | 35.45 | N/A | 14.27 | 1.90 | N/A | 51.62 | 090
48005 |  | A | Resect/debride pancreas | 42.17 | N/A | 16.95 | 2.26 | N/A | 61.38 | 090
48020 |  | A | Removal of pancreatic stone | 15.70 | N/A | 7.52 | 1.36 | N/A | 24.58 | 090
48100 |  | A | Biopsy of pancreas, open | 12.23 | N/A | 5.82 | 1.08 | N/A | 19.13 | 090
48102 |  | A | Needle biopsy, pancreas | 4.68 | 9.01 | 2.47 | 0.20 | 13.89 | 7.35 | 010
48120 |  | A | Removal of pancreas lesion | 15.85 | N/A | 7.10 | 1.35 | N/A | 24.30 | 090
48140 |  | A | Partial removal of pancreas | 22.94 | N/A | 9.79 | 2.12 | N/A | 34.85 | 090
48145 |  | A | Partial removal of pancreas | 24.02 | N/A | 10.14 | 2.25 | N/A | 36.41 | 090
48146 |  | A | Pancreatectomy | 26.40 | N/A | 12.29 | 2.43 | N/A | 41.12 | 090
48148 |  | A | Removal of pancreatic duct | 17.34 | N/A | 7.88 | 1.61 | N/A | 26.83 | 090
48150 |  | A | Partial removal of pancreas | 48.00 | N/A | 20.04 | 4.43 | N/A | 72.47 | 090
48152 |  | A | Pancreatectomy | 43.75 | N/A | 18.70 | 4.07 | N/A | 66.52 | 090
48153 |  | A | Pancreatectomy | 47.89 | N/A | 20.15 | 4.40 | N/A | 72.44 | 090
48154 |  | A | Pancreatectomy | 44.10 | N/A | 18.76 | 4.10 | N/A | 66.96 | 090
48155 |  | A | Removal of pancreas | 24.64 | N/A | 12.08 | 2.30 | N/A | 39.02 | 090
48180 |  | A | Fuse pancreas and bowel | 24.72 | N/A | 10.46 | 2.24 | N/A | 37.42 | 090
48400 |  | A | Injection, intraop add-on | 1.95 | N/A | 0.66 | 0.10 | N/A | 2.71 | ZZZ
48500 |  | A | Surgery of pancreatic cyst | 15.28 | N/A | 7.57 | 1.35 | N/A | 24.20 | 090
48510 |  | A | Drain pancreatic pseudocyst | 14.31 | N/A | 7.67 | 1.07 | N/A | 23.05 | 090
48511 |  | A | Drain pancreatic pseudocyst | 4.00 | N/A | 3.75 | 0.17 | N/A | 7.92 | 000
48520 |  | A | Fuse pancreas cyst and bowel | 15.59 | N/A | 6.94 | 1.41 | N/A | 23.94 | 090
48540 |  | A | Fuse pancreas cyst and bowel | 19.72 | N/A | 8.37 | 1.82 | N/A | 29.91 | 090
48545 |  | A | Pancreatorrhaphy | 18.18 | N/A | 8.23 | 1.61 | N/A | 28.02 | 090
48547 |  | A | Duodenal exclusion | 25.83 | N/A | 10.76 | 2.30 | N/A | 38.89 | 090
48554 |  | R | Transpl allograft pancreas | 34.17 | N/A | 16.00 | 3.30 | N/A | 53.47 | 090
48556 |  | A | Removal, allograft pancreas | 15.71 | N/A | 7.81 | 1.52 | N/A | 25.04 | 090
48999 |  | C | Pancreas surgery procedure | 0.00 | 0.00 | 0.00 | 0.00 | 0.00 | 0.00 | YYY
49000 |  | A | Exploration of abdomen | 11.68 | N/A | 5.44 | 1.17 | N/A | 18.29 | 090
49002 |  | A | Reopening of abdomen | 10.49 | N/A | 5.10 | 1.06 | N/A | 16.65 | 090
49010 |  | A | Exploration behind abdomen | 12.28 | N/A | 5.96 | 1.22 | N/A | 19.46 | 090
49020 |  | A | Drain abdominal abscess | 22.84 | N/A | 10.32 | 1.31 | N/A | 34.47 | 090
49021 |  | A | Drain abdominal abscess | 3.38 | N/A | 5.37 | 0.16 | N/A | 8.91 | 000
49040 |  | A | Drain, open, abdom abscess | 13.52 | N/A | 6.54 | 0.84 | N/A | 20.90 | 090
49041 |  | A | Drain, percut, abdom abscess | 4.00 | N/A | 5.69 | 0.18 | N/A | 9.87 | 000
49060 |  | A | Drain, open, retrop abscess | 15.86 | N/A | 7.56 | 0.77 | N/A | 24.19 | 090
49061 |  | A | Drain, percut, retroper absc | 3.70 | N/A | 5.68 | 0.17 | N/A | 9.55 | 000
49062 |  | A | Drain to peritoneal cavity | 11.36 | N/A | 5.59 | 1.08 | N/A | 18.03 | 090
49080 |  | A | Puncture, peritoneal cavity | 1.35 | 4.18 | 0.46 | 0.07 | 5.60 | 1.88 | 000
49081 |  | A | Removal of abdominal fluid | 1.26 | 2.68 | 0.58 | 0.06 | 4.00 | 1.90 | 000
49085 |  | A | Remove abdomen foreign body | 12.14 | N/A | 5.62 | 0.88 | N/A | 18.64 | 090
49180 |  | A | Biopsy, abdominal mass | 1.73 | 3.34 | 0.58 | 0.08 | 5.15 | 2.39 | 000
49200 |  | A | Removal of abdominal lesion | 10.25 | N/A | 5.12 | 0.92 | N/A | 16.29 | 090
49201 |  | A | Remove abdom lesion, complex | 14.84 | N/A | 7.23 | 1.47 | N/A | 23.54 | 090
49215 |  | A | Excise sacral spine tumor | 33.50 | N/A | 14.50 | 2.48 | N/A | 50.48 | 090
49220 |  | A | Multiple surgery, abdomen | 14.88 | N/A | 6.74 | 1.51 | N/A | 23.13 | 090
49250 |  | A | Excision of umbilicus | 8.35 | N/A | 4.35 | 0.84 | N/A | 13.54 | 090
49255 |  | A | Removal of omentum | 11.14 | N/A | 5.74 | 1.12 | N/A | 18.00 | 090
49320 |  | A | Diag laparo separate proc | 5.10 | N/A | 2.60 | 0.50 | N/A | 8.20 | 010
49321 |  | A | Laparoscopy, biopsy | 5.40 | N/A | 2.61 | 0.53 | N/A | 8.54 | 010
49322 |  | A | Laparoscopy, aspiration | 5.70 | N/A | 2.94 | 0.57 | N/A | 9.21 | 010
49323 |  | A | Laparo drain lymphocele | 9.48 | N/A | 4.49 | 0.88 | N/A | 14.85 | 090
49329 |  | C | Laparo proc, abdm/per/oment | 0.00 | 0.00 | 0.00 | 0.00 | 0.00 | 0.00 | YYY
49400 |  | A | Air injection into abdomen | 1.88 | N/A | 0.79 | 0.11 | N/A | 2.78 | 000
49419 |  | A | Insrt abdom cath for chemotx | 6.65 | N/A | 3.60 | 0.55 | N/A | 10.80 | 090
49420 |  | A | Insert abdom drain, temp | 2.22 | N/A | 1.13 | 0.13 | N/A | 3.48 | 000
49421 |  | A | Insert abdom drain, perm | 5.54 | N/A | 3.18 | 0.55 | N/A | 9.27 | 090
49422 |  | A | Remove perm cannula/catheter | 6.25 | N/A | 2.90 | 0.63 | N/A | 9.78 | 010
49423 |  | A | Exchange drainage catheter | 1.46 | N/A | 0.67 | 0.07 | N/A | 2.20 | 000
49424 |  | A | Assess cyst, contrast inject | 0.76 | N/A | 0.44 | 0.03 | N/A | 1.23 | 000
49425 |  | A | Insert abdomen-venous drain | 11.37 | N/A | 5.62 | 1.21 | N/A | 18.20 | 090
49426 |  | A | Revise abdomen-venous shunt | 9.63 | N/A | 4.82 | 0.93 | N/A | 15.38 | 090
49427 |  | A | Injection, abdominal shunt | 0.89 | N/A | 0.48 | 0.05 | N/A | 1.42 | 000
49428 |  | A | Ligation of shunt | 6.06 | N/A | 3.33 | 0.31 | N/A | 9.70 | 010
49429 |  | A | Removal of shunt | 7.40 | N/A | 3.53 | 0.81 | N/A | 11.74 | 010
49491 |  | A | Rpr hern preemie reduc | 11.13 | N/A | 5.30 | 1.10 | N/A | 17.53 | 090
49492 |  | A | Rpr ing hern premie, blocked | 14.03 | N/A | 6.29 | 1.47 | N/A | 21.79 | 090
49495 |  | A | Rpr ing hernia baby, reduc | 5.89 | N/A | 3.07 | 0.58 | N/A | 9.54 | 090
49496 |  | A | Rpr ing hernia baby, blocked | 8.79 | N/A | 4.42 | 0.92 | N/A | 14.13 | 090
49500 |  | A | Rpr ing hernia, init, reduce | 5.48 | N/A | 3.20 | 0.46 | N/A | 9.14 | 090
49501 |  | A | Rpr ing hernia, init blocked | 8.88 | N/A | 4.29 | 0.76 | N/A | 13.93 | 090
49505 |  | A | Prp i/hern init reduc>5 yr | 7.60 | 4.04 | 3.83 | 0.65 | 12.29 | 12.08 | 090
49507 |  | A | Prp i/hern init block>5 yr | 9.57 | N/A | 4.67 | 0.83 | N/A | 15.07 | 090
49520 |  | A | Rerepair ing hernia, reduce | 9.63 | N/A | 4.63 | 0.84 | N/A | 15.10 | 090
49521 |  | A | Rerepair ing hernia, blocked | 11.97 | N/A | 5.36 | 1.04 | N/A | 18.37 | 090
49525 |  | A | Repair ing hernia, sliding | 8.57 | N/A | 4.23 | 0.74 | N/A | 13.54 | 090
49540 |  | A | Repair lumbar hernia | 10.39 | N/A | 4.91 | 0.90 | N/A | 16.20 | 090
49550 |  | A | Rpr rem hernia, init, reduce | 8.63 | N/A | 4.22 | 0.75 | N/A | 13.60 | 090
49553 |  | A | Rpr fem hernia, init blocked | 9.44 | N/A | 4.55 | 0.83 | N/A | 14.82 | 090
49555 |  | A | Rerepair fem hernia, reduce | 9.03 | N/A | 4.42 | 0.79 | N/A | 14.24 | 090
49557 |  | A | Rerepair fem hernia, blocked | 11.15 | N/A | 5.14 | 0.97 | N/A | 17.26 | 090
49560 |  | A | Rpr ventral hern init, reduc | 11.57 | N/A | 5.32 | 1.00 | N/A | 17.89 | 090
49561 |  | A | Rpr ventral hern init, block | 14.25 | N/A | 6.24 | 1.23 | N/A | 21.72 | 090
49565 |  | A | Rerepair ventrl hern, reduce | 11.57 | N/A | 5.39 | 1.00 | N/A | 17.96 | 090
49566 |  | A | Rerepair ventrl hern, block | 14.40 | N/A | 6.31 | 1.24 | N/A | 21.95 | 090
49568 |  | A | Hernia repair w/mesh | 4.89 | N/A | 1.71 | 0.50 | N/A | 7.10 | ZZZ
49570 |  | A | Rpr epigastric hern, reduce | 5.69 | N/A | 3.23 | 0.50 | N/A | 9.42 | 090
49572 |  | A | Rpr epigastric hern, blocked | 6.73 | N/A | 3.59 | 0.58 | N/A | 10.90 | 090
49580 |  | A | Rpr umbil hern, reduc < 5 yr | 4.11 | N/A | 2.68 | 0.34 | N/A | 7.13 | 090
49582 |  | A | Rpr umbil hern, block < 5 yr | 6.65 | N/A | 3.65 | 0.57 | N/A | 10.87 | 090
49585 |  | A | Rpr umbil hern, reduc > 5 yr | 6.23 | N/A | 3.43 | 0.53 | N/A | 10.19 | 090
49587 |  | A | Rpr umbil hern, block > 5 yr | 7.56 | N/A | 3.83 | 0.65 | N/A | 12.04 | 090
49590 |  | A | Repair spigilian hernia | 8.54 | N/A | 4.23 | 0.74 | N/A | 13.51 | 090
49600 |  | A | Repair umbilical lesion | 10.96 | N/A | 5.39 | 1.13 | N/A | 17.48 | 090
49605 |  | A | Repair umbilical lesion | 76.00 | N/A | 29.13 | 2.57 | N/A | 107.70 | 090
49606 |  | A | Repair umbilical lesion | 18.60 | N/A | 7.89 | 2.22 | N/A | 28.71 | 090
49610 |  | A | Repair umbilical lesion | 10.50 | N/A | 5.42 | 0.77 | N/A | 16.69 | 090
49611 |  | A | Repair umbilical lesion | 8.92 | N/A | 6.51 | 0.65 | N/A | 16.08 | 090
49650 |  | A | Laparo hernia repair initial | 6.27 | N/A | 3.22 | 0.64 | N/A | 10.13 | 090
49651 |  | A | Laparo hernia repair recur | 8.24 | N/A | 4.14 | 0.84 | N/A | 13.22 | 090
49659 |  | C | Laparo proc, hernia repair | 0.00 | 0.00 | 0.00 | 0.00 | 0.00 | 0.00 | YYY
49900 |  | A | Repair of abdominal wall | 12.28 | N/A | 6.35 | 1.23 | N/A | 19.86 | 090
49904 |  | A | Omental flap, extra-abdom | 20.00 | N/A | 15.88 | 1.91 | N/A | 37.79 | 090
49905 |  | A | Omental flap, intra-abdom | 6.55 | N/A | 2.33 | 0.61 | N/A | 9.49 | ZZZ
49906 |  | C | Free omental flap, microvasc | 0.00 | 0.00 | 0.00 | 0.00 | 0.00 | 0.00 | 090
49999 |  | C | Abdomen surgery procedure | 0.00 | 0.00 | 0.00 | 0.00 | 0.00 | 0.00 | YYY
50010 |  | A | Exploration of kidney | 10.98 | N/A | 5.69 | 0.79 | N/A | 17.46 | 090
50020 |  | A | Renal abscess, open drain | 14.66 | N/A | 9.32 | 0.80 | N/A | 24.78 | 090
50021 |  | A | Renal abscess, percut drain | 3.38 | N/A | 1.45 | 0.15 | N/A | 4.98 | 000
50040 |  | A | Drainage of kidney | 14.94 | N/A | 8.84 | 0.82 | N/A | 24.60 | 090
50045 |  | A | Exploration of kidney | 15.46 | N/A | 7.12 | 1.06 | N/A | 23.64 | 090
50060 |  | A | Removal of kidney stone | 19.30 | N/A | 8.41 | 1.14 | N/A | 28.85 | 090
50065 |  | A | Incision of kidney | 20.79 | N/A | 6.40 | 1.13 | N/A | 28.32 | 090
50070 |  | A | Incision of kidney | 20.32 | N/A | 8.81 | 1.20 | N/A | 30.33 | 090
50075 |  | A | Removal of kidney stone | 25.34 | N/A | 10.62 | 1.51 | N/A | 37.47 | 090
50080 |  | A | Removal of kidney stone | 14.71 | N/A | 8.29 | 0.86 | N/A | 23.86 | 090
50081 |  | A | Removal of kidney stone | 21.80 | N/A | 10.79 | 1.30 | N/A | 33.89 | 090
50100 |  | A | Revise kidney blood vessels | 16.09 | N/A | 8.17 | 1.64 | N/A | 25.90 | 090
50120 |  | A | Exploration of kidney | 15.91 | N/A | 7.33 | 1.04 | N/A | 24.28 | 090
50125 |  | A | Explore and drain kidney | 16.52 | N/A | 7.50 | 1.07 | N/A | 25.09 | 090
50130 |  | A | Removal of kidney stone | 17.29 | N/A | 7.73 | 1.04 | N/A | 26.06 | 090
50135 |  | A | Exploration of kidney | 19.18 | N/A | 8.36 | 1.18 | N/A | 28.72 | 090
50200 |  | A | Biopsy of kidney | 2.63 | N/A | 0.92 | 0.12 | N/A | 3.67 | 000
50205 |  | A | Biopsy of kidney | 11.31 | N/A | 5.47 | 0.94 | N/A | 17.72 | 090
50220 |  | A | Remove kidney, open | 17.15 | N/A | 7.77 | 1.16 | N/A | 26.08 | 090
50225 |  | A | Removal kidney open, complex | 20.23 | N/A | 8.73 | 1.26 | N/A | 30.22 | 090
50230 |  | A | Removal kidney open, radical | 22.07 | N/A | 9.22 | 1.35 | N/A | 32.64 | 090
50234 |  | A | Removal of kidney & ureter | 22.40 | N/A | 9.43 | 1.37 | N/A | 33.20 | 090
50236 |  | A | Removal of kidney & ureter | 24.86 | N/A | 11.85 | 1.50 | N/A | 38.21 | 090
50240 |  | A | Partial removal of kidney | 22.00 | N/A | 10.92 | 1.36 | N/A | 34.28 | 090
50280 |  | A | Removal of kidney lesion | 15.67 | N/A | 7.22 | 0.99 | N/A | 23.88 | 090
50290 |  | A | Removal of kidney lesion | 14.73 | N/A | 6.92 | 1.11 | N/A | 22.76 | 090
50320 |  | A | Removal of donor kidney | 22.21 | N/A | 9.47 | 1.78 | N/A | 33.46 | 090
50340 |  | A | Removal of kidney | 12.15 | N/A | 7.14 | 1.15 | N/A | 20.44 | 090
50360 |  | A | Transplantation of kidney | 31.53 | N/A | 14.85 | 2.97 | N/A | 49.35 | 090
50365 |  | A | Transplantation of kidney | 36.81 | N/A | 17.60 | 3.51 | N/A | 57.92 | 090
50370 |  | A | Remove transplanted kidney | 13.72 | N/A | 7.75 | 1.26 | N/A | 22.73 | 090
50380 |  | A | Reimplantation of kidney | 20.76 | N/A | 12.31 | 1.80 | N/A | 34.87 | 090
50390 |  | A | Drainage of kidney lesion | 1.96 | N/A | 0.65 | 0.09 | N/A | 2.70 | 000
50392 |  | A | Insert kidney drain | 3.38 | N/A | 1.12 | 0.15 | N/A | 4.65 | 000
50393 |  | A | Insert ureteral tube | 4.16 | N/A | 1.38 | 0.18 | N/A | 5.72 | 000
50394 |  | A | Injection for kidney x-ray | 0.76 | 2.52 | 0.25 | 0.04 | 3.32 | 1.05 | 000
50395 |  | A | Create passage to kidney | 3.38 | N/A | 1.12 | 0.16 | N/A | 4.66 | 000
50396 |  | A | Measure kidney pressure | 2.09 | N/A | 0.87 | 0.10 | N/A | 3.06 | 000
50398 |  | A | Change kidney tube | 1.46 | 1.21 | 0.49 | 0.07 | 2.74 | 2.02 | 000
50400 |  | A | Revision of kidney/ureter | 19.50 | N/A | 8.46 | 1.21 | N/A | 29.17 | 090
50405 |  | A | Revision of kidney/ureter | 23.93 | N/A | 10.80 | 1.45 | N/A | 36.18 | 090
50500 |  | A | Repair of kidney wound | 19.57 | N/A | 9.01 | 1.45 | N/A | 30.03 | 090
50520 |  | A | Close kidney-skin fistula | 17.23 | N/A | 9.11 | 1.26 | N/A | 27.60 | 090
50525 |  | A | Repair renal-abdomen fistula | 22.27 | N/A | 10.50 | 1.51 | N/A | 34.28 | 090
50526 |  | A | Repair renal-abdomen fistula | 24.02 | N/A | 11.18 | 1.62 | N/A | 36.82 | 090
50540 |  | A | Revision of horseshoe kidney | 19.93 | N/A | 8.83 | 1.28 | N/A | 30.04 | 090
50541 |  | A | Laparo ablate renal cyst | 16.00 | N/A | 6.55 | 0.99 | N/A | 23.54 | 090
50542 |  | A | Laparo ablate renal mass | 20.00 | N/A | 8.32 | 1.36 | N/A | 29.68 | 090
50543 |  | A | Laparo partial nephrectomy | 25.50 | N/A | 10.50 | 1.36 | N/A | 37.36 | 090
50544 |  | A | Laparoscopy, pyeloplasty | 22.40 | N/A | 8.66 | 1.41 | N/A | 32.47 | 090
50545 |  | A | Laparo radical nephrectomy | 24.00 | N/A | 9.44 | 1.53 | N/A | 34.97 | 090
50546 |  | A | Laparoscopic nephrectomy | 20.48 | N/A | 8.40 | 1.37 | N/A | 30.25 | 090
50547 |  | A | Laparo removal donor kidney | 25.50 | N/A | 10.33 | 2.04 | N/A | 37.87 | 090
50548 |  | A | Laparo remove k/ureter | 24.40 | N/A | 9.30 | 1.49 | N/A | 35.19 | 090
50549 |  | C | Laparoscope proc, renal | 0.00 | 0.00 | 0.00 | 0.00 | 0.00 | 0.00 | YYY
50551 |  | A | Kidney endoscopy | 5.60 | 5.03 | 1.83 | 0.33 | 10.96 | 7.76 | 000
50553 |  | A | Kidney endoscopy | 5.99 | 18.93 | 1.99 | 0.35 | 25.27 | 8.33 | 000
50555 |  | A | Kidney endoscopy & biopsy | 6.53 | 19.59 | 2.16 | 0.38 | 26.50 | 9.07 | 000
50557 |  | A | Kidney endoscopy & treatment | 6.62 | 20.38 | 2.17 | 0.39 | 27.39 | 9.18 | 000
50559 |  | A | Renal endoscopy/radiotracer | 6.78 | N/A | 2.24 | 0.27 | N/A | 9.29 | 000
50561 |  | A | Kidney endoscopy & treatment | 7.59 | 18.03 | 2.49 | 0.44 | 26.06 | 10.52 | 000
50562 |  | A | Renal scope w/tumor resect | 10.92 | N/A | 3.93 | 0.84 | N/A | 15.69 | 090
50570 |  | A | Kidney endoscopy | 9.54 | N/A | 3.12 | 0.56 | N/A | 13.22 | 000
50572 |  | A | Kidney endoscopy | 10.35 | N/A | 3.39 | 0.64 | N/A | 14.38 | 000
50574 |  | A | Kidney endoscopy & biopsy | 11.02 | N/A | 3.62 | 0.65 | N/A | 15.29 | 000
50575 |  | A | Kidney endoscopy | 13.98 | N/A | 4.58 | 0.84 | N/A | 19.40 | 000
50576 |  | A | Kidney endoscopy & treatment | 10.99 | N/A | 3.59 | 0.66 | N/A | 15.24 | 000
50578 |  | A | Renal endoscopy/radiotracer | 11.35 | N/A | 3.71 | 0.67 | N/A | 15.73 | 000
50580 |  | A | Kidney endoscopy & treatment | 11.86 | N/A | 3.88 | 0.70 | N/A | 16.44 | 000
50590 |  | A | Fragmenting of kidney stone | 9.09 | 10.52 | 4.93 | 0.54 | 20.15 | 14.56 | 090
50600 |  | A | Exploration of ureter | 15.84 | N/A | 7.33 | 0.99 | N/A | 24.16 | 090
50605 |  | A | Insert ureteral support | 15.46 | N/A | 7.31 | 1.13 | N/A | 23.90 | 090
50610 |  | A | Removal of ureter stone | 15.92 | N/A | 7.60 | 1.08 | N/A | 24.60 | 090
50620 |  | A | Removal of ureter stone | 15.16 | N/A | 6.97 | 0.91 | N/A | 23.04 | 090
50630 |  | A | Removal of ureter stone | 14.94 | N/A | 6.90 | 0.90 | N/A | 22.74 | 090
50650 |  | A | Removal of ureter | 17.41 | N/A | 7.87 | 1.07 | N/A | 26.35 | 090
50660 |  | A | Removal of ureter | 19.55 | N/A | 8.61 | 1.19 | N/A | 29.35 | 090
50684 |  | A | Injection for ureter x-ray | 0.76 | 10.78 | 0.25 | 0.04 | 11.58 | 1.05 | 000
50686 |  | A | Measure ureter pressure | 1.51 | 4.66 | 0.66 | 0.09 | 6.26 | 2.26 | 000
50688 |  | A | Change of ureter tube | 1.17 | N/A | 1.72 | 0.06 | N/A | 2.95 | 010
50690 |  | A | Injection for ureter x-ray | 1.16 | 10.98 | 0.38 | 0.06 | 12.20 | 1.60 | 000
50700 |  | A | Revision of ureter | 15.21 | N/A | 7.59 | 0.86 | N/A | 23.66 | 090
50715 |  | A | Release of ureter | 18.90 | N/A | 9.55 | 1.68 | N/A | 30.13 | 090
50722 |  | A | Release of ureter | 16.35 | N/A | 8.38 | 1.41 | N/A | 26.14 | 090
50725 |  | A | Release/revise ureter | 18.49 | N/A | 8.73 | 1.44 | N/A | 28.66 | 090
50727 |  | A | Revise ureter | 8.18 | N/A | 5.44 | 0.51 | N/A | 14.13 | 090
50728 |  | A | Revise ureter | 12.02 | N/A | 6.96 | 0.88 | N/A | 19.86 | 090
50740 |  | A | Fusion of ureter & kidney | 18.42 | N/A | 8.27 | 1.49 | N/A | 28.18 | 090
50750 |  | A | Fusion of ureter & kidney | 19.51 | N/A | 8.66 | 1.24 | N/A | 29.41 | 090
50760 |  | A | Fusion of ureters | 18.42 | N/A | 8.30 | 1.25 | N/A | 27.97 | 090
50770 |  | A | Splicing of ureters | 19.51 | N/A | 8.62 | 1.25 | N/A | 29.38 | 090
50780 |  | A | Reimplant ureter in bladder | 18.36 | N/A | 8.22 | 1.20 | N/A | 27.78 | 090
50782 |  | A | Reimplant ureter in bladder | 19.54 | N/A | 9.91 | 1.13 | N/A | 30.58 | 090
50783 |  | A | Reimplant ureter in bladder | 20.55 | N/A | 9.67 | 1.35 | N/A | 31.57 | 090
50785 |  | A | Reimplant ureter in bladder | 20.52 | N/A | 8.96 | 1.30 | N/A | 30.78 | 090
50800 |  | A | Implant ureter in bowel | 14.52 | N/A | 7.34 | 0.92 | N/A | 22.78 | 090
50810 |  | A | Fusion of ureter & bowel | 20.05 | N/A | 9.89 | 1.78 | N/A | 31.72 | 090
50815 |  | A | Urine shunt to intestine | 19.93 | N/A | 9.34 | 1.31 | N/A | 30.58 | 090
50820 |  | A | Construct bowel bladder | 21.89 | N/A | 9.50 | 1.38 | N/A | 32.77 | 090
50825 |  | A | Construct bowel bladder | 28.18 | N/A | 12.20 | 1.81 | N/A | 42.19 | 090
50830 |  | A | Revise urine flow | 31.28 | N/A | 13.12 | 2.20 | N/A | 46.60 | 090
50840 |  | A | Replace ureter by bowel | 20.00 | N/A | 9.32 | 1.26 | N/A | 30.58 | 090
50845 |  | A | Appendico-vesicostomy | 20.89 | N/A | 9.08 | 1.26 | N/A | 31.23 | 090
50860 |  | A | Transplant ureter to skin | 15.36 | N/A | 7.23 | 1.01 | N/A | 23.60 | 090
50900 |  | A | Repair of ureter | 13.62 | N/A | 6.66 | 0.98 | N/A | 21.26 | 090
50920 |  | A | Closure ureter/skin fistula | 14.33 | N/A | 7.09 | 0.84 | N/A | 22.26 | 090
50930 |  | A | Closure ureter/bowel fistula | 18.72 | N/A | 8.53 | 1.57 | N/A | 28.82 | 090
50940 |  | A | Release of ureter | 14.51 | N/A | 6.96 | 1.04 | N/A | 22.51 | 090
50945 |  | A | Laparoscopy ureterolithotomy | 17.00 | N/A | 7.11 | 1.15 | N/A | 25.26 | 090
50947 |  | A | Laparo new ureter/bladder | 24.50 | N/A | 10.14 | 1.99 | N/A | 36.63 | 090
50948 |  | A | Laparo new ureter/bladder | 22.50 | N/A | 9.11 | 1.83 | N/A | 33.44 | 090
50949 |  | C | Laparoscope proc, ureter | 0.00 | 0.00 | 0.00 | 0.00 | 0.00 | 0.00 | YYY
50951 |  | A | Endoscopy of ureter | 5.84 | 5.45 | 1.91 | 0.35 | 11.64 | 8.10 | 000
50953 |  | A | Endoscopy of ureter | 6.24 | 18.93 | 2.05 | 0.37 | 25.54 | 8.66 | 000
50955 |  | A | Ureter endoscopy & biopsy | 6.75 | 19.81 | 2.25 | 0.38 | 26.94 | 9.38 | 000
50957 |  | A | Ureter endoscopy & treatment | 6.79 | 18.54 | 2.23 | 0.40 | 25.73 | 9.42 | 000
50959 |  | A | Ureter endoscopy & tracer | 4.40 | N/A | 1.40 | 0.18 | N/A | 5.98 | 000
50961 |  | A | Ureter endoscopy & treatment | 6.05 | 25.86 | 1.98 | 0.35 | 32.26 | 8.38 | 000
50970 |  | A | Ureter endoscopy | 7.14 | N/A | 2.35 | 0.43 | N/A | 9.92 | 000
50972 |  | A | Ureter endoscopy & catheter | 6.89 | N/A | 2.31 | 0.39 | N/A | 9.59 | 000
50974 |  | A | Ureter endoscopy & biopsy | 9.17 | N/A | 2.99 | 0.53 | N/A | 12.69 | 000
50976 |  | A | Ureter endoscopy & treatment | 9.04 | N/A | 2.97 | 0.53 | N/A | 12.54 | 000
50978 |  | A | Ureter endoscopy & tracer | 5.10 | N/A | 1.73 | 0.30 | N/A | 7.13 | 000
50980 |  | A | Ureter endoscopy & treatment | 6.85 | N/A | 2.25 | 0.41 | N/A | 9.51 | 000
51000 |  | A | Drainage of bladder | 0.78 | 2.03 | 0.24 | 0.05 | 2.86 | 1.07 | 000
51005 |  | A | Drainage of bladder | 1.02 | 3.41 | 0.34 | 0.08 | 4.51 | 1.44 | 000
51010 |  | A | Drainage of bladder | 3.53 | 5.88 | 1.94 | 0.23 | 9.64 | 5.70 | 010
51020 |  | A | Incise & treat bladder | 6.71 | N/A | 4.27 | 0.42 | N/A | 11.40 | 090
51030 |  | A | Incise & treat bladder | 6.77 | N/A | 4.37 | 0.42 | N/A | 11.56 | 090
51040 |  | A | Incise & drain bladder | 4.40 | N/A | 3.12 | 0.27 | N/A | 7.79 | 090
51045 |  | A | Incise bladder/drain ureter | 6.77 | N/A | 4.33 | 0.47 | N/A | 11.57 | 090
51050 |  | A | Removal of bladder stone | 6.92 | N/A | 4.01 | 0.42 | N/A | 11.35 | 090
51060 |  | A | Removal of ureter stone | 8.85 | N/A | 4.93 | 0.54 | N/A | 14.32 | 090
51065 |  | A | Remove ureter calculus | 8.85 | N/A | 4.77 | 0.53 | N/A | 14.15 | 090
51080 |  | A | Drainage of bladder abscess | 5.96 | N/A | 3.97 | 0.35 | N/A | 10.28 | 090
51500 |  | A | Removal of bladder cyst | 10.14 | N/A | 5.24 | 0.88 | N/A | 16.26 | 090
51520 |  | A | Removal of bladder lesion | 9.29 | N/A | 5.10 | 0.58 | N/A | 14.97 | 090
51525 |  | A | Removal of bladder lesion | 13.97 | N/A | 6.59 | 0.85 | N/A | 21.41 | 090
51530 |  | A | Removal of bladder lesion | 12.38 | N/A | 6.18 | 0.82 | N/A | 19.38 | 090
51535 |  | A | Repair of ureter lesion | 12.57 | N/A | 6.56 | 0.90 | N/A | 20.03 | 090
51550 |  | A | Partial removal of bladder | 15.66 | N/A | 7.17 | 1.05 | N/A | 23.88 | 090
51555 |  | A | Partial removal of bladder | 21.23 | N/A | 9.18 | 1.37 | N/A | 31.78 | 090
51565 |  | A | Revise bladder & ureter(s) | 21.62 | N/A | 9.51 | 1.40 | N/A | 32.53 | 090
51570 |  | A | Removal of bladder | 24.24 | N/A | 10.35 | 1.59 | N/A | 36.18 | 090
51575 |  | A | Removal of bladder & nodes | 30.45 | N/A | 12.71 | 1.88 | N/A | 45.04 | 090
51580 |  | A | Remove bladder/revise tract | 31.08 | N/A | 13.17 | 1.94 | N/A | 46.19 | 090
51585 |  | A | Removal of bladder & nodes | 35.23 | N/A | 14.42 | 2.18 | N/A | 51.83 | 090
51590 |  | A | Remove bladder/revise tract | 32.66 | N/A | 13.30 | 2.01 | N/A | 47.97 | 090
51595 |  | A | Remove bladder/revise tract | 37.14 | N/A | 14.86 | 2.23 | N/A | 54.23 | 090
51596 |  | A | Remove bladder/create pouch | 39.52 | N/A | 16.01 | 2.39 | N/A | 57.92 | 090
51597 |  | A | Removal of pelvic structures | 38.35 | N/A | 15.57 | 2.49 | N/A | 56.41 | 090
51600 |  | A | Injection for bladder x-ray | 0.88 | 5.84 | 0.29 | 0.04 | 6.76 | 1.21 | 000
51605 |  | A | Preparation for bladder xray | 0.64 | 6.11 | 0.35 | 0.04 | 6.79 | 1.03 | 000
51610 |  | A | Injection for bladder x-ray | 1.05 | 1.71 | 0.61 | 0.05 | 2.81 | 1.71 | 000
51700 |  | A | Irrigation of bladder | 0.88 | 1.69 | 0.29 | 0.05 | 2.62 | 1.22 | 000
51701 |  | A | Insert bladder catheter | 0.50 | 1.68 | 0.19 | 0.03 | 2.21 | 0.72 | 000
51702 |  | A | Insert temp bladder cath | 0.50 | 2.39 | 0.26 | 0.03 | 2.92 | 0.79 | 000
51703 |  | A | Insert bladder cath, complex | 1.47 | 3.11 | 0.58 | 0.09 | 4.67 | 2.14 | 000
51705 |  | A | Change of bladder tube | 1.02 | 2.39 | 0.63 | 0.06 | 3.47 | 1.71 | 010
51710 |  | A | Change of bladder tube | 1.49 | 3.51 | 0.79 | 0.09 | 5.09 | 2.37 | 010
51715 |  | A | Endoscopic injection/implant | 3.74 | 4.09 | 1.39 | 0.24 | 8.07 | 5.37 | 000
51720 |  | A | Treatment of bladder lesion | 1.96 | 1.82 | 0.72 | 0.12 | 3.90 | 2.80 | 000
51725 |  | A | Simple cystometrogram | 1.51 | 5.90 | N/A | 0.13 | 7.54 | N/A | 000
51725 | 26 | A | Simple cystometrogram | 1.51 | 0.51 | 0.51 | 0.10 | 2.12 | 2.12 | 000
51725 | TC | A | Simple cystometrogram | 0.00 | 5.40 | N/A | 0.03 | 5.43 | N/A | 000
51726 |  | A | Complex cystometrogram | 1.71 | 7.93 | N/A | 0.15 | 9.79 | N/A | 000
51726 | 26 | A | Complex cystometrogram | 1.71 | 0.57 | 0.57 | 0.11 | 2.39 | 2.39 | 000
51726 | TC | A | Complex cystometrogram | 0.00 | 7.36 | N/A | 0.04 | 7.40 | N/A | 000
51736 |  | A | Urine flow measurement | 0.61 | 0.61 | N/A | 0.05 | 1.27 | N/A | 000
51736 | 26 | A | Urine flow measurement | 0.61 | 0.20 | 0.20 | 0.04 | 0.85 | 0.85 | 000
51736 | TC | A | Urine flow measurement | 0.00 | 0.40 | N/A | 0.01 | 0.41 | N/A | 000
51741 |  | A | Electro-uroflowmetry, first | 1.14 | 0.83 | N/A | 0.09 | 2.06 | N/A | 000
51741 | 26 | A | Electro-uroflowmetry, first | 1.14 | 0.38 | 0.38 | 0.07 | 1.59 | 1.59 | 000
51741 | TC | A | Electro-uroflowmetry, first | 0.00 | 0.45 | N/A | 0.02 | 0.47 | N/A | 000
51772 |  | A | Urethra pressure profile | 1.61 | 5.89 | N/A | 0.16 | 7.66 | N/A | 000
51772 | 26 | A | Urethra pressure profile | 1.61 | 0.56 | 0.56 | 0.12 | 2.29 | 2.29 | 000
51772 | TC | A | Urethra pressure profile | 0.00 | 5.33 | N/A | 0.04 | 5.37 | N/A | 000
51784 |  | A | Anal/urinary muscle study | 1.53 | 4.18 | N/A | 0.13 | 5.84 | N/A | 000
51784 | 26 | A | Anal/urinary muscle study | 1.53 | 0.52 | 0.52 | 0.10 | 2.15 | 2.15 | 000
51784 | TC | A | Anal/urinary muscle study | 0.00 | 3.66 | N/A | 0.03 | 3.69 | N/A | 000
51785 |  | A | Anal/urinary muscle study | 1.53 | 4.69 | N/A | 0.12 | 6.34 | N/A | 000
51785 | 26 | A | Anal/urinary muscle study | 1.53 | 0.51 | 0.51 | 0.09 | 2.13 | 2.13 | 000
51785 | TC | A | Anal/urinary muscle study | 0.00 | 4.17 | N/A | 0.03 | 4.20 | N/A | 000
51792 |  | A | Urinary reflex study | 1.10 | 6.13 | N/A | 0.20 | 7.43 | N/A | 000
51792 | 26 | A | Urinary reflex study | 1.10 | 0.42 | 0.42 | 0.09 | 1.61 | 1.61 | 000
51792 | TC | A | Urinary reflex study | 0.00 | 5.70 | N/A | 0.11 | 5.81 | N/A | 000
51795 |  | A | Urine voiding pressure study | 1.53 | 7.72 | N/A | 0.18 | 9.43 | N/A | 000
51795 | 26 | A | Urine voiding pressure study | 1.53 | 0.51 | 0.51 | 0.10 | 2.14 | 2.14 | 000
51795 | TC | A | Urine voiding pressure study | 0.00 | 7.20 | N/A | 0.08 | 7.28 | N/A | 000
51797 |  | A | Intraabdominal pressure test | 1.60 | 6.08 | N/A | 0.14 | 7.82 | N/A | 000
51797 | 26 | A | Intraabdominal pressure test | 1.60 | 0.54 | 0.54 | 0.10 | 2.24 | 2.24 | 000
51797 | TC | A | Intraabdominal pressure test | 0.00 | 5.54 | N/A | 0.04 | 5.58 | N/A | 000
51798 |  | A | Us urine capacity measure | 0.00 | 0.36 | N/A | 0.07 | 0.43 | N/A | XXX
51800 |  | A | Revision of bladder/urethra | 17.42 | N/A | 8.05 | 1.17 | N/A | 26.64 | 090
51820 |  | A | Revision of urinary tract | 17.89 | N/A | 8.71 | 1.45 | N/A | 28.05 | 090
51840 |  | A | Attach bladder/urethra | 10.71 | N/A | 5.66 | 0.87 | N/A | 17.24 | 090
51841 |  | A | Attach bladder/urethra | 13.03 | N/A | 6.49 | 1.04 | N/A | 20.56 | 090
51845 |  | A | Repair bladder neck | 9.73 | N/A | 5.18 | 0.62 | N/A | 15.53 | 090
51860 |  | A | Repair of bladder wound | 12.02 | N/A | 6.18 | 0.89 | N/A | 19.09 | 090
51865 |  | A | Repair of bladder wound | 15.04 | N/A | 7.14 | 1.01 | N/A | 23.19 | 090
51880 |  | A | Repair of bladder opening | 7.66 | N/A | 4.35 | 0.54 | N/A | 12.55 | 090
51900 |  | A | Repair bladder/vagina lesion | 12.97 | N/A | 6.53 | 0.87 | N/A | 20.37 | 090
51920 |  | A | Close bladder-uterus fistula | 11.81 | N/A | 6.05 | 0.86 | N/A | 18.72 | 090
51925 |  | A | Hysterectomy/bladder repair | 15.58 | N/A | 9.02 | 1.48 | N/A | 26.08 | 090
51940 |  | A | Correction of bladder defect | 28.43 | N/A | 12.86 | 1.97 | N/A | 43.26 | 090
51960 |  | A | Revision of bladder & bowel | 23.01 | N/A | 10.37 | 1.41 | N/A | 34.79 | 090
51980 |  | A | Construct bladder opening | 11.36 | N/A | 5.81 | 0.74 | N/A | 17.91 | 090
51990 |  | A | Laparo urethral suspension | 12.50 | N/A | 6.23 | 1.02 | N/A | 19.75 | 090
51992 |  | A | Laparo sling operation | 14.01 | N/A | 6.27 | 0.93 | N/A | 21.21 | 090
52000 |  | A | Cystoscopy | 2.01 | 3.45 | 0.78 | 0.12 | 5.58 | 2.91 | 000
52001 |  | A | Cystoscopy, removal of clots | 5.45 | 5.28 | 1.91 | 0.32 | 11.05 | 7.68 | 000
52005 |  | A | Cystoscopy & ureter catheter | 2.37 | 6.17 | 0.92 | 0.15 | 8.69 | 3.44 | 000
52007 |  | A | Cystoscopy and biopsy | 3.02 | N/A | 1.18 | 0.18 | N/A | 4.38 | 000
52010 |  | A | Cystoscopy & duct catheter | 3.02 | N/A | 1.16 | 0.18 | N/A | 4.36 | 000
52204 |  | A | Cystoscopy | 2.37 | 3.70 | 0.93 | 0.15 | 6.22 | 3.45 | 000
52214 |  | A | Cystoscopy and treatment | 3.71 | N/A | 1.36 | 0.22 | N/A | 5.29 | 000
52224 |  | A | Cystoscopy and treatment | 3.14 | N/A | 1.18 | 0.18 | N/A | 4.50 | 000
52234 |  | A | Cystoscopy and treatment | 4.63 | N/A | 1.67 | 0.27 | N/A | 6.57 | 000
52235 |  | A | Cystoscopy and treatment | 5.45 | N/A | 1.95 | 0.32 | N/A | 7.72 | 000
52240 |  | A | Cystoscopy and treatment | 9.72 | N/A | 3.37 | 0.58 | N/A | 13.67 | 000
52250 |  | A | Cystoscopy and radiotracer | 4.50 | N/A | 1.70 | 0.27 | N/A | 6.47 | 000
52260 |  | A | Cystoscopy and treatment | 3.92 | N/A | 1.46 | 0.23 | N/A | 5.61 | 000
52265 |  | A | Cystoscopy and treatment | 2.94 | 3.83 | 1.14 | 0.18 | 6.95 | 4.26 | 000
52270 |  | A | Cystoscopy & revise urethra | 3.37 | N/A | 1.28 | 0.20 | N/A | 4.85 | 000
52275 |  | A | Cystoscopy & revise urethra | 4.70 | N/A | 1.71 | 0.28 | N/A | 6.69 | 000
52276 |  | A | Cystoscopy and treatment | 5.00 | N/A | 1.83 | 0.30 | N/A | 7.13 | 000
52277 |  | A | Cystoscopy and treatment | 6.17 | N/A | 2.31 | 0.38 | N/A | 8.86 | 000
52281 |  | A | Cystoscopy and treatment | 2.80 | 7.56 | 1.11 | 0.17 | 10.53 | 4.08 | 000
52282 |  | A | Cystoscopy, implant stent | 6.40 | N/A | 2.29 | 0.38 | N/A | 9.07 | 000
52283 |  | A | Cystoscopy and treatment | 3.74 | 4.11 | 1.42 | 0.22 | 8.07 | 5.38 | 000
52285 |  | A | Cystoscopy and treatment | 3.61 | 4.18 | 1.37 | 0.22 | 8.01 | 5.20 | 000
52290 |  | A | Cystoscopy and treatment | 4.59 | N/A | 1.70 | 0.27 | N/A | 6.56 | 000
52300 |  | A | Cystoscopy and treatment | 5.31 | N/A | 1.96 | 0.32 | N/A | 7.59 | 000
52301 |  | A | Cystoscopy and treatment | 5.51 | N/A | 2.04 | 0.39 | N/A | 7.94 | 000
52305 |  | A | Cystoscopy and treatment | 5.31 | N/A | 1.90 | 0.31 | N/A | 7.52 | 000
52310 |  | A | Cystoscopy and treatment | 2.81 | 3.60 | 1.06 | 0.17 | 6.58 | 4.04 | 000
52315 |  | A | Cystoscopy and treatment | 5.21 | N/A | 1.88 | 0.31 | N/A | 7.40 | 000
52317 |  | A | Remove bladder stone | 6.72 | N/A | 2.33 | 0.40 | N/A | 9.45 | 000
52318 |  | A | Remove bladder stone | 9.19 | N/A | 3.17 | 0.54 | N/A | 12.90 | 000
52320 |  | A | Cystoscopy and treatment | 4.70 | N/A | 1.68 | 0.28 | N/A | 6.66 | 000
52325 |  | A | Cystoscopy, stone removal | 6.16 | N/A | 2.16 | 0.37 | N/A | 8.69 | 000
52327 |  | A | Cystoscopy, inject material | 5.19 | N/A | 1.87 | 0.32 | N/A | 7.38 | 000
52330 |  | A | Cystoscopy and treatment | 5.04 | N/A | 1.79 | 0.30 | N/A | 7.13 | 000
52332 |  | A | Cystoscopy and treatment | 2.83 | N/A | 1.08 | 0.17 | N/A | 4.08 | 000
52334 |  | A | Create passage to kidney | 4.83 | N/A | 1.80 | 0.28 | N/A | 6.91 | 000
52341 |  | A | Cysto w/ureter stricture tx | 6.00 | N/A | 2.27 | 0.37 | N/A | 8.64 | 000
52342 |  | A | Cysto w/up stricture tx | 6.50 | N/A | 2.41 | 0.40 | N/A | 9.31 | 000
52343 |  | A | Cysto w/renal stricture tx | 7.20 | N/A | 2.69 | 0.44 | N/A | 10.33 | 000
52344 |  | A | Cysto/uretero, stone remove | 7.70 | N/A | 2.87 | 0.47 | N/A | 11.04 | 000
52345 |  | A | Cysto/uretero w/up stricture | 8.20 | N/A | 3.03 | 0.50 | N/A | 11.73 | 000
52346 |  | A | Cystouretero w/renal strict | 9.23 | N/A | 3.38 | 0.57 | N/A | 13.18 | 000
52347 |  | A | Cystoscopy, resect ducts | 5.28 | N/A | 1.76 | 0.33 | N/A | 7.37 | 000
52351 |  | A | Cystouretero & or pyeloscope | 5.86 | N/A | 2.20 | 0.36 | N/A | 8.42 | 000
52352 |  | A | Cystouretero w/stone remove | 6.88 | N/A | 2.57 | 0.42 | N/A | 9.87 | 000
52353 |  | A | Cystouretero w/lithotripsy | 7.97 | N/A | 2.93 | 0.49 | N/A | 11.39 | 000
52354 |  | A | Cystouretero w/biopsy | 7.34 | N/A | 2.74 | 0.45 | N/A | 10.53 | 000
52355 |  | A | Cystouretero w/excise tumor | 8.82 | N/A | 3.22 | 0.55 | N/A | 12.59 | 000
52400 |  | A | Cystouretero w/congen repr | 9.68 | N/A | 4.06 | 0.60 | N/A | 14.34 | 090
52450 |  | A | Incision of prostate | 7.64 | N/A | 3.80 | 0.46 | N/A | 11.90 | 090
52500 |  | A | Revision of bladder neck | 8.47 | N/A | 4.06 | 0.50 | N/A | 13.03 | 090
52510 |  | A | Dilation prostatic urethra | 6.72 | N/A | 3.31 | 0.40 | N/A | 10.43 | 090
52601 |  | A | Prostatectomy (TURP) | 12.37 | N/A | 5.27 | 0.74 | N/A | 18.38 | 090
52606 |  | A | Control postop bleeding | 8.13 | N/A | 3.67 | 0.49 | N/A | 12.29 | 090
52612 |  | A | Prostatectomy, first stage | 7.98 | N/A | 3.87 | 0.48 | N/A | 12.33 | 090
52614 |  | A | Prostatectomy, second stage | 6.84 | N/A | 3.47 | 0.41 | N/A | 10.72 | 090
52620 |  | A | Remove residual prostate | 6.61 | N/A | 3.18 | 0.39 | N/A | 10.18 | 090
52630 |  | A | Remove prostate regrowth | 7.26 | N/A | 3.38 | 0.43 | N/A | 11.07 | 090
52640 |  | A | Relieve bladder contracture | 6.62 | N/A | 3.15 | 0.39 | N/A | 10.16 | 090
52647 |  | A | Laser surgery of prostate | 10.36 | 33.53 | 4.68 | 0.61 | 44.50 | 15.65 | 090
52648 |  | A | Laser surgery of prostate | 11.21 | N/A | 4.95 | 0.66 | N/A | 16.82 | 090
52700 |  | A | Drainage of prostate abscess | 6.80 | N/A | 3.37 | 0.41 | N/A | 10.58 | 090
53000 |  | A | Incision of urethra | 2.28 | N/A | 1.59 | 0.13 | N/A | 4.00 | 010
53010 |  | A | Incision of urethra | 3.64 | N/A | 3.15 | 0.20 | N/A | 6.99 | 090
53020 |  | A | Incision of urethra | 1.77 | 3.15 | 0.69 | 0.11 | 5.03 | 2.57 | 000
53025 |  | A | Incision of urethra | 1.13 | 3.93 | 0.52 | 0.07 | 5.13 | 1.72 | 000
53040 |  | A | Drainage of urethra abscess | 6.40 | 11.79 | 6.71 | 0.41 | 18.60 | 13.52 | 090
53060 |  | A | Drainage of urethra abscess | 2.63 | N/A | 1.49 | 0.23 | N/A | 4.35 | 010
53080 |  | A | Drainage of urinary leakage | 6.29 | N/A | 6.49 | 0.42 | N/A | 13.20 | 090
53085 |  | A | Drainage of urinary leakage | 10.27 | N/A | 8.00 | 0.67 | N/A | 18.94 | 090
53200 |  | A | Biopsy of urethra | 2.59 | 4.40 | 1.00 | 0.17 | 7.16 | 3.76 | 000
53210 |  | A | Removal of urethra | 12.57 | N/A | 6.41 | 0.81 | N/A | 19.79 | 090
53215 |  | A | Removal of urethra | 15.58 | N/A | 7.22 | 0.93 | N/A | 23.73 | 090
53220 |  | A | Treatment of urethra lesion | 7.00 | N/A | 4.24 | 0.44 | N/A | 11.68 | 090
53230 |  | A | Removal of urethra lesion | 9.58 | N/A | 5.15 | 0.60 | N/A | 15.33 | 090
53235 |  | A | Removal of urethra lesion | 10.14 | N/A | 5.34 | 0.60 | N/A | 16.08 | 090
53240 |  | A | Surgery for urethra pouch | 6.45 | N/A | 4.01 | 0.42 | N/A | 10.88 | 090
53250 |  | A | Removal of urethra gland | 5.89 | N/A | 3.65 | 0.35 | N/A | 9.89 | 090
53260 |  | A | Treatment of urethra lesion | 2.98 | 3.36 | 1.84 | 0.23 | 6.57 | 5.05 | 010
53265 |  | A | Treatment of urethra lesion | 3.12 | N/A | 1.88 | 0.20 | N/A | 5.20 | 010
53270 |  | A | Removal of urethra gland | 3.09 | N/A | 1.92 | 0.21 | N/A | 5.22 | 010
53275 |  | A | Repair of urethra defect | 4.53 | N/A | 2.33 | 0.28 | N/A | 7.14 | 010
53400 |  | A | Revise urethra, stage 1 | 12.77 | N/A | 6.52 | 0.85 | N/A | 20.14 | 090
53405 |  | A | Revise urethra, stage 2 | 14.48 | N/A | 6.90 | 0.91 | N/A | 22.29 | 090
53410 |  | A | Reconstruction of urethra | 16.44 | N/A | 7.67 | 0.99 | N/A | 25.10 | 090
53415 |  | A | Reconstruction of urethra | 19.41 | N/A | 7.87 | 1.16 | N/A | 28.44 | 090
53420 |  | A | Reconstruct urethra, stage 1 | 14.08 | N/A | 6.84 | 0.90 | N/A | 21.82 | 090
53425 |  | A | Reconstruct urethra, stage 2 | 15.98 | N/A | 7.50 | 0.97 | N/A | 24.45 | 090
53430 |  | A | Reconstruction of urethra | 16.34 | N/A | 7.59 | 1.01 | N/A | 24.94 | 090
53431 |  | A | Reconstruct urethra/bladder | 19.89 | N/A | 8.59 | 1.30 | N/A | 29.78 | 090
53440 |  | A | Male sling procedure | 13.62 | N/A | 6.27 | 0.73 | N/A | 20.62 | 090
53442 |  | A | Remove/revise male sling | 11.57 | N/A | 5.72 | 0.55 | N/A | 17.84 | 090
53444 |  | A | Insert tandem cuff | 13.40 | N/A | 6.05 | 0.88 | N/A | 20.33 | 090
53445 |  | A | Insert uro/ves nck sphincter | 14.06 | N/A | 7.72 | 0.84 | N/A | 22.62 | 090
53446 |  | A | Remove uro sphincter | 10.23 | N/A | 5.40 | 0.67 | N/A | 16.30 | 090
53447 |  | A | Remove/replace ur sphincter | 13.49 | N/A | 6.63 | 0.79 | N/A | 20.91 | 090
53448 |  | A | Remov/replc ur sphinctr comp | 21.15 | N/A | 9.32 | 1.39 | N/A | 31.86 | 090
53449 |  | A | Repair uro sphincter | 9.70 | N/A | 5.17 | 0.57 | N/A | 15.44 | 090
53450 |  | A | Revision of urethra | 6.14 | N/A | 3.79 | 0.37 | N/A | 10.30 | 090
53460 |  | A | Revision of urethra | 7.12 | N/A | 4.21 | 0.43 | N/A | 11.76 | 090
53502 |  | A | Repair of urethra injury | 7.63 | N/A | 4.50 | 0.50 | N/A | 12.63 | 090
53505 |  | A | Repair of urethra injury | 7.63 | N/A | 4.37 | 0.46 | N/A | 12.46 | 090
53510 |  | A | Repair of urethra injury | 10.11 | N/A | 5.60 | 0.60 | N/A | 16.31 | 090
53515 |  | A | Repair of urethra injury | 13.31 | N/A | 6.38 | 0.83 | N/A | 20.52 | 090
53520 |  | A | Repair of urethra defect | 8.68 | N/A | 4.91 | 0.53 | N/A | 14.12 | 090
53600 |  | A | Dilate urethra stricture | 1.21 | 1.20 | 0.45 | 0.07 | 2.48 | 1.73 | 000
53601 |  | A | Dilate urethra stricture | 0.98 | 1.33 | 0.39 | 0.06 | 2.37 | 1.43 | 000
53605 |  | A | Dilate urethra stricture | 1.28 | N/A | 0.42 | 0.08 | N/A | 1.78 | 000
53620 |  | A | Dilate urethra stricture | 1.62 | 2.09 | 0.62 | 0.10 | 3.81 | 2.34 | 000
53621 |  | A | Dilate urethra stricture | 1.35 | 2.17 | 0.51 | 0.08 | 3.60 | 1.94 | 000
53660 |  | A | Dilation of urethra | 0.71 | 1.38 | 0.33 | 0.04 | 2.13 | 1.08 | 000
53661 |  | A | Dilation of urethra | 0.72 | 1.37 | 0.31 | 0.04 | 2.13 | 1.07 | 000
53665 |  | A | Dilation of urethra | 0.76 | N/A | 0.26 | 0.05 | N/A | 1.07 | 000
53850 |  | A | Prostatic microwave thermotx | 9.45 | 100.81 | 4.41 | 0.56 | 110.82 | 14.42 | 090
53852 |  | A | Prostatic rf thermotx | 9.88 | 94.95 | 4.80 | 0.58 | 105.41 | 15.26 | 090
53853 |  | A | Prostatic water thermother | 5.24 | 58.79 | 3.25 | 0.27 | 64.30 | 8.76 | 090
53899 |  | C | Urology surgery procedure | 0.00 | 0.00 | 0.00 | 0.00 | 0.00 | 0.00 | YYY
54000 |  | A | Slitting of prepuce | 1.54 | N/A | 1.37 | 0.10 | N/A | 3.01 | 010
54001 |  | A | Slitting of prepuce | 2.19 | 4.39 | 1.54 | 0.14 | 6.72 | 3.87 | 010
54015 |  | A | Drain penis lesion | 5.32 | N/A | 2.64 | 0.33 | N/A | 8.29 | 010
54050 |  | A | Destruction, penis lesion(s) | 1.24 | 1.72 | 1.07 | 0.07 | 3.03 | 2.38 | 010
54055 |  | A | Destruction, penis lesion(s) | 1.22 | 1.64 | 0.82 | 0.07 | 2.93 | 2.11 | 010
54056 |  | A | Cryosurgery, penis lesion(s) | 1.24 | 2.53 | 1.40 | 0.06 | 3.83 | 2.70 | 010
54057 |  | A | Laser surg, penis lesion(s) | 1.24 | N/A | 0.89 | 0.08 | N/A | 2.21 | 010
54060 |  | A | Excision of penis lesion(s) | 1.93 | 3.96 | 1.48 | 0.12 | 6.01 | 3.53 | 010
54065 |  | A | Destruction, penis lesion(s) | 2.42 | N/A | 1.74 | 0.13 | N/A | 4.29 | 010
54100 |  | A | Biopsy of penis | 1.90 | 2.93 | 0.84 | 0.10 | 4.93 | 2.84 | 000
54105 |  | A | Biopsy of penis | 3.50 | N/A | 2.01 | 0.21 | N/A | 5.72 | 010
54110 |  | A | Treatment of penis lesion | 10.13 | N/A | 5.97 | 0.60 | N/A | 16.70 | 090
54111 |  | A | Treat penis lesion, graft | 13.57 | N/A | 7.05 | 0.79 | N/A | 21.41 | 090
54112 |  | A | Treat penis lesion, graft | 15.86 | N/A | 8.07 | 0.94 | N/A | 24.87 | 090
54115 |  | A | Treatment of penis lesion | 6.15 | 8.78 | 4.66 | 0.39 | 15.32 | 11.20 | 090
54120 |  | A | Partial removal of penis | 9.97 | N/A | 5.93 | 0.60 | N/A | 16.50 | 090
54125 |  | A | Removal of penis | 13.53 | N/A | 7.11 | 0.81 | N/A | 21.45 | 090
54130 |  | A | Remove penis & nodes | 20.14 | N/A | 9.50 | 1.19 | N/A | 30.83 | 090
54135 |  | A | Remove penis & nodes | 26.36 | N/A | 11.54 | 1.58 | N/A | 39.48 | 090
54150 |  | A | Circumcision | 1.81 | N/A | 1.00 | 0.17 | N/A | 2.98 | 010
54152 |  | A | Circumcision | 2.31 | N/A | 1.23 | 0.16 | N/A | 3.70 | 010
54160 |  | A | Circumcision | 2.48 | N/A | 1.13 | 0.16 | N/A | 3.77 | 010
54161 |  | A | Circumcision | 3.27 | N/A | 1.61 | 0.20 | N/A | 5.08 | 010
54162 |  | A | Lysis penil circumic lesion | 3.00 | N/A | 2.05 | 0.20 | N/A | 5.25 | 010
54163 |  | A | Repair of circumcision | 3.00 | N/A | 2.07 | 0.20 | N/A | 5.27 | 010
54164 |  | A | Frenulotomy of penis | 2.50 | N/A | 1.89 | 0.16 | N/A | 4.55 | 010
54200 |  | A | Treatment of penis lesion | 1.06 | 1.88 | 1.02 | 0.06 | 3.00 | 2.14 | 010
54205 |  | A | Treatment of penis lesion | 7.93 | N/A | 5.14 | 0.47 | N/A | 13.54 | 090
54220 |  | A | Treatment of penis lesion | 2.42 | 4.03 | 0.98 | 0.15 | 6.60 | 3.55 | 000
54230 |  | A | Prepare penis study | 1.34 | 1.14 | 0.64 | 0.08 | 2.56 | 2.06 | 000
54231 |  | A | Dynamic cavernosometry | 2.04 | 1.43 | 0.89 | 0.14 | 3.61 | 3.07 | 000
54235 |  | A | Penile injection | 1.19 | 1.00 | 0.60 | 0.07 | 2.26 | 1.86 | 000
54240 |  | A | Penis study | 1.31 | 1.04 | N/A | 0.13 | 2.48 | N/A | 000
54240 | 26 | A | Penis study | 1.31 | 0.44 | 0.44 | 0.08 | 1.83 | 1.83 | 000
54240 | TC | A | Penis study | 0.00 | 0.61 | N/A | 0.05 | 0.66 | N/A | 000
54250 |  | A | Penis study | 2.22 | 0.94 | N/A | 0.16 | 3.32 | N/A | 000
54250 | 26 | A | Penis study | 2.22 | 0.73 | 0.73 | 0.14 | 3.09 | 3.09 | 000
54250 | TC | A | Penis study | 0.00 | 0.22 | N/A | 0.02 | 0.24 | N/A | 000
54300 |  | A | Revision of penis | 10.41 | N/A | 6.17 | 0.64 | N/A | 17.22 | 090
54304 |  | A | Revision of penis | 12.49 | N/A | 7.07 | 0.74 | N/A | 20.30 | 090
54308 |  | A | Reconstruction of urethra | 11.83 | N/A | 6.67 | 0.70 | N/A | 19.20 | 090
54312 |  | A | Reconstruction of urethra | 13.57 | N/A | 7.74 | 0.81 | N/A | 22.12 | 090
54316 |  | A | Reconstruction of urethra | 16.82 | N/A | 8.75 | 1.00 | N/A | 26.57 | 090
54318 |  | A | Reconstruction of urethra | 11.25 | N/A | 6.61 | 1.15 | N/A | 19.01 | 090
54322 |  | A | Reconstruction of urethra | 13.01 | N/A | 6.99 | 0.77 | N/A | 20.77 | 090
54324 |  | A | Reconstruction of urethra | 16.31 | N/A | 8.78 | 1.03 | N/A | 26.12 | 090
54326 |  | A | Reconstruction of urethra | 15.72 | N/A | 8.48 | 0.93 | N/A | 25.13 | 090
54328 |  | A | Revise penis/urethra | 15.65 | N/A | 7.99 | 0.92 | N/A | 24.56 | 090
54332 |  | A | Revise penis/urethra | 17.08 | N/A | 8.47 | 1.01 | N/A | 26.56 | 090
54336 |  | A | Revise penis/urethra | 20.04 | N/A | 11.27 | 1.90 | N/A | 33.21 | 090
54340 |  | A | Secondary urethral surgery | 8.91 | N/A | 5.61 | 0.72 | N/A | 15.24 | 090
54344 |  | A | Secondary urethral surgery | 15.94 | N/A | 8.46 | 1.10 | N/A | 25.50 | 090
54348 |  | A | Secondary urethral surgery | 17.15 | N/A | 9.20 | 1.02 | N/A | 27.37 | 090
54352 |  | A | Reconstruct urethra/penis | 24.74 | N/A | 12.15 | 1.62 | N/A | 38.51 | 090
54360 |  | A | Penis plastic surgery | 11.93 | N/A | 6.53 | 0.72 | N/A | 19.18 | 090
54380 |  | A | Repair penis | 13.18 | N/A | 7.23 | 1.16 | N/A | 21.57 | 090
54385 |  | A | Repair penis | 15.39 | N/A | 8.84 | 0.71 | N/A | 24.94 | 090
54390 |  | A | Repair penis and bladder | 21.61 | N/A | 10.73 | 1.28 | N/A | 33.62 | 090
54400 |  | A | Insert semi-rigid prosthesis | 8.99 | N/A | 4.78 | 0.53 | N/A | 14.30 | 090
54401 |  | A | Insert self-contd prosthesis | 10.28 | N/A | 6.09 | 0.61 | N/A | 16.98 | 090
54405 |  | A | Insert multi-comp penis pros | 13.43 | N/A | 6.49 | 0.80 | N/A | 20.72 | 090
54406 |  | A | Remove muti-comp penis pros | 12.10 | N/A | 5.59 | 0.75 | N/A | 18.44 | 090
54408 |  | A | Repair multi-comp penis pros | 12.75 | N/A | 5.91 | 0.79 | N/A | 19.45 | 090
54410 |  | A | Remove/replace penis prosth | 15.50 | N/A | 6.82 | 0.96 | N/A | 23.28 | 090
54411 |  | A | Remov/replc penis pros, comp | 16.00 | N/A | 7.25 | 0.80 | N/A | 24.05 | 090
54415 |  | A | Remove self-contd penis pros | 8.20 | N/A | 4.33 | 0.54 | N/A | 13.07 | 090
54416 |  | A | Remv/repl penis contain pros | 10.87 | N/A | 5.54 | 0.55 | N/A | 16.96 | 090
54417 |  | A | Remv/replc penis pros, compl | 14.19 | N/A | 6.36 | 0.55 | N/A | 21.10 | 090
54420 |  | A | Revision of penis | 11.42 | N/A | 6.39 | 0.72 | N/A | 18.53 | 090
54430 |  | A | Revision of penis | 10.15 | N/A | 5.97 | 0.60 | N/A | 16.72 | 090
54435 |  | A | Revision of penis | 6.12 | N/A | 4.41 | 0.36 | N/A | 10.89 | 090
54440 |  | C | Repair of penis | 0.00 | 0.00 | 0.00 | 0.00 | 0.00 | 0.00 | 090
54450 |  | A | Preputial stretching | 1.12 | 1.13 | 0.48 | 0.07 | 2.32 | 1.67 | 000
54500 |  | A | Biopsy of testis | 1.31 | 0.62 | 0.58 | 0.08 | 2.01 | 1.97 | 000
54505 |  | A | Biopsy of testis | 3.46 | N/A | 1.98 | 0.21 | N/A | 5.65 | 010
54512 |  | A | Excise lesion testis | 8.58 | N/A | 4.37 | 0.56 | N/A | 13.51 | 090
54520 |  | A | Removal of testis | 5.23 | N/A | 3.01 | 0.33 | N/A | 8.57 | 090
54522 |  | A | Orchiectomy, partial | 9.50 | N/A | 5.12 | 0.62 | N/A | 15.24 | 090
54530 |  | A | Removal of testis | 8.58 | N/A | 4.52 | 0.53 | N/A | 13.63 | 090
54535 |  | A | Extensive testis surgery | 12.16 | N/A | 5.96 | 0.83 | N/A | 18.95 | 090
54550 |  | A | Exploration for testis | 7.78 | N/A | 4.12 | 0.49 | N/A | 12.39 | 090
54560 |  | A | Exploration for testis | 11.13 | N/A | 5.56 | 0.79 | N/A | 17.48 | 090
54600 |  | A | Reduce testis torsion | 7.01 | N/A | 3.79 | 0.45 | N/A | 11.25 | 090
54620 |  | A | Suspension of testis | 4.90 | N/A | 2.52 | 0.31 | N/A | 7.73 | 010
54640 |  | A | Suspension of testis | 6.90 | N/A | 3.97 | 0.49 | N/A | 11.36 | 090
54650 |  | A | Orchiopexy (Fowler-Stephens) | 11.45 | N/A | 5.83 | 0.81 | N/A | 18.09 | 090
54660 |  | A | Revision of testis | 5.11 | N/A | 3.19 | 0.35 | N/A | 8.65 | 090
54670 |  | A | Repair testis injury | 6.41 | N/A | 3.70 | 0.41 | N/A | 10.52 | 090
54680 |  | A | Relocation of testis(es) | 12.65 | N/A | 6.51 | 0.94 | N/A | 20.10 | 090
54690 |  | A | Laparoscopy, orchiectomy | 10.96 | N/A | 5.45 | 0.99 | N/A | 17.40 | 090
54692 |  | A | Laparoscopy, orchiopexy | 12.88 | N/A | 5.57 | 0.87 | N/A | 19.32 | 090
54699 |  | C | Laparoscope proc, testis | 0.00 | 0.00 | 0.00 | 0.00 | 0.00 | 0.00 | YYY
54700 |  | A | Drainage of scrotum | 3.43 | N/A | 2.00 | 0.23 | N/A | 5.66 | 010
54800 |  | A | Biopsy of epididymis | 2.33 | 0.97 | 0.92 | 0.14 | 3.44 | 3.39 | 000
54820 |  | A | Exploration of epididymis | 5.14 | N/A | 3.16 | 0.33 | N/A | 8.63 | 090
54830 |  | A | Remove epididymis lesion | 5.38 | N/A | 3.25 | 0.34 | N/A | 8.97 | 090
54840 |  | A | Remove epididymis lesion | 5.20 | N/A | 3.01 | 0.31 | N/A | 8.52 | 090
54860 |  | A | Removal of epididymis | 6.32 | N/A | 3.61 | 0.38 | N/A | 10.31 | 090
54861 |  | A | Removal of epididymis | 8.90 | N/A | 4.55 | 0.52 | N/A | 13.97 | 090
54900 |  | A | Fusion of spermatic ducts | 13.20 | N/A | 6.13 | 1.34 | N/A | 20.67 | 090
54901 |  | A | Fusion of spermatic ducts | 17.94 | N/A | 8.12 | 1.83 | N/A | 27.89 | 090
55000 |  | A | Drainage of hydrocele | 1.43 | 2.15 | 0.66 | 0.10 | 3.68 | 2.19 | 000
55040 |  | A | Removal of hydrocele | 5.36 | N/A | 3.07 | 0.35 | N/A | 8.78 | 090
55041 |  | A | Removal of hydroceles | 7.74 | N/A | 4.14 | 0.50 | N/A | 12.38 | 090
55060 |  | A | Repair of hydrocele | 5.52 | N/A | 3.25 | 0.37 | N/A | 9.14 | 090
55100 |  | A | Drainage of scrotum abscess | 2.13 | 3.85 | 1.62 | 0.15 | 6.13 | 3.90 | 010
55110 |  | A | Explore scrotum | 5.70 | N/A | 3.31 | 0.36 | N/A | 9.37 | 090
55120 |  | A | Removal of scrotum lesion | 5.09 | 8.73 | 3.11 | 0.33 | 14.15 | 8.53 | 090
55150 |  | A | Removal of scrotum | 7.22 | N/A | 4.10 | 0.47 | N/A | 11.79 | 090
55175 |  | A | Revision of scrotum | 5.24 | N/A | 3.24 | 0.33 | N/A | 8.81 | 090
55180 |  | A | Revision of scrotum | 10.72 | N/A | 5.69 | 0.72 | N/A | 17.13 | 090
55200 |  | A | Incision of sperm duct | 4.24 | 9.10 | 2.60 | 0.25 | 13.59 | 7.09 | 090
55250 |  | A | Removal of sperm duct(s) | 3.29 | 9.29 | 2.89 | 0.21 | 12.79 | 6.39 | 090
55300 |  | A | Prepare, sperm duct x-ray | 3.51 | N/A | 1.34 | 0.20 | N/A | 5.05 | 000
55400 |  | A | Repair of sperm duct | 8.49 | N/A | 4.38 | 0.50 | N/A | 13.37 | 090
55450 |  | A | Ligation of sperm duct | 4.12 | 7.34 | 1.92 | 0.24 | 11.70 | 6.28 | 010
55500 |  | A | Removal of hydrocele | 5.59 | N/A | 3.28 | 0.43 | N/A | 9.30 | 090
55520 |  | A | Removal of sperm cord lesion | 6.03 | N/A | 3.41 | 0.56 | N/A | 10.00 | 090
55530 |  | A | Revise spermatic cord veins | 5.66 | N/A | 3.24 | 0.36 | N/A | 9.26 | 090
55535 |  | A | Revise spermatic cord veins | 6.56 | N/A | 3.63 | 0.42 | N/A | 10.61 | 090
55540 |  | A | Revise hernia & sperm veins | 7.67 | N/A | 3.96 | 0.74 | N/A | 12.37 | 090
55550 |  | A | Laparo ligate spermatic vein | 6.57 | N/A | 3.63 | 0.47 | N/A | 10.67 | 090
55559 |  | C | Laparo proc, spermatic cord | 0.00 | 0.00 | 0.00 | 0.00 | 0.00 | 0.00 | YYY
55600 |  | A | Incise sperm duct pouch | 6.38 | N/A | 3.63 | 0.38 | N/A | 10.39 | 090
55605 |  | A | Incise sperm duct pouch | 7.96 | N/A | 4.55 | 0.54 | N/A | 13.05 | 090
55650 |  | A | Remove sperm duct pouch | 11.80 | N/A | 5.58 | 0.72 | N/A | 18.10 | 090
55680 |  | A | Remove sperm pouch lesion | 5.19 | N/A | 3.19 | 0.31 | N/A | 8.69 | 090
55700 |  | A | Biopsy of prostate | 1.57 | 4.42 | 0.73 | 0.10 | 6.09 | 2.40 | 000
55705 |  | A | Biopsy of prostate | 4.57 | N/A | 2.37 | 0.26 | N/A | 7.20 | 010
55720 |  | A | Drainage of prostate abscess | 7.64 | N/A | 4.32 | 0.44 | N/A | 12.40 | 090
55725 |  | A | Drainage of prostate abscess | 8.68 | N/A | 4.97 | 0.51 | N/A | 14.16 | 090
55801 |  | A | Removal of prostate | 17.80 | N/A | 8.10 | 1.08 | N/A | 26.98 | 090
55810 |  | A | Extensive prostate surgery | 22.58 | N/A | 9.58 | 1.35 | N/A | 33.51 | 090
55812 |  | A | Extensive prostate surgery | 27.51 | N/A | 11.67 | 1.69 | N/A | 40.87 | 090
55815 |  | A | Extensive prostate surgery | 30.46 | N/A | 12.61 | 1.84 | N/A | 44.91 | 090
55821 |  | A | Removal of prostate | 14.25 | N/A | 6.66 | 0.85 | N/A | 21.76 | 090
55831 |  | A | Removal of prostate | 15.62 | N/A | 7.12 | 0.94 | N/A | 23.68 | 090
55840 |  | A | Extensive prostate surgery | 22.69 | N/A | 9.94 | 1.37 | N/A | 34.00 | 090
55842 |  | A | Extensive prostate surgery | 24.38 | N/A | 10.50 | 1.48 | N/A | 36.36 | 090
55845 |  | A | Extensive prostate surgery | 28.55 | N/A | 11.73 | 1.71 | N/A | 41.99 | 090
55859 |  | A | Percut/needle insert, pros | 12.52 | N/A | 6.23 | 0.74 | N/A | 19.49 | 090
55860 |  | A | Surgical exposure, prostate | 14.45 | N/A | 6.71 | 0.82 | N/A | 21.98 | 090
55862 |  | A | Extensive prostate surgery | 18.39 | N/A | 8.36 | 1.14 | N/A | 27.89 | 090
55865 |  | A | Extensive prostate surgery | 22.87 | N/A | 9.79 | 1.37 | N/A | 34.03 | 090
55866 |  | A | Laparo radical prostatectomy | 30.74 | N/A | 12.08 | 1.37 | N/A | 44.19 | 090
55870 |  | A | Electroejaculation | 2.58 | 1.59 | 1.11 | 0.14 | 4.31 | 3.83 | 000
55873 |  | A | Cryoablate prostate | 19.47 | N/A | 9.34 | 1.02 | N/A | 29.83 | 090
55899 |  | C | Genital surgery procedure | 0.00 | 0.00 | 0.00 | 0.00 | 0.00 | 0.00 | YYY
56405 |  | A | I & D of vulva/perineum | 1.44 | 1.37 | 1.18 | 0.14 | 2.95 | 2.76 | 010
56420 |  | A | Drainage of gland abscess | 1.39 | 2.37 | 1.11 | 0.13 | 3.89 | 2.63 | 010
56440 |  | A | Surgery for vulva lesion | 2.84 | N/A | 1.75 | 0.28 | N/A | 4.87 | 010
56441 |  | A | Lysis of labial lesion(s) | 1.97 | 1.87 | 1.46 | 0.17 | 4.01 | 3.60 | 010
56501 |  | A | Destroy, vulva lesions, sim | 1.53 | 1.84 | 1.30 | 0.15 | 3.52 | 2.98 | 010
56515 |  | A | Destroy vulva lesion/s compl | 2.76 | 2.63 | 1.88 | 0.18 | 5.57 | 4.82 | 010
56605 |  | A | Biopsy of vulva/perineum | 1.10 | 1.12 | 0.47 | 0.11 | 2.33 | 1.68 | 000
56606 |  | A | Biopsy of vulva/perineum | 0.55 | 0.51 | 0.22 | 0.06 | 1.12 | 0.83 | ZZZ
56620 |  | A | Partial removal of vulva | 7.47 | N/A | 5.16 | 0.76 | N/A | 13.39 | 090
56625 |  | A | Complete removal of vulva | 8.40 | N/A | 5.81 | 0.84 | N/A | 15.05 | 090
56630 |  | A | Extensive vulva surgery | 12.36 | N/A | 7.40 | 1.23 | N/A | 20.99 | 090
56631 |  | A | Extensive vulva surgery | 16.20 | N/A | 9.64 | 1.63 | N/A | 27.47 | 090
56632 |  | A | Extensive vulva surgery | 20.29 | N/A | 10.11 | 2.03 | N/A | 32.43 | 090
56633 |  | A | Extensive vulva surgery | 16.47 | N/A | 9.24 | 1.66 | N/A | 27.37 | 090
56634 |  | A | Extensive vulva surgery | 17.88 | N/A | 10.31 | 1.78 | N/A | 29.97 | 090
56637 |  | A | Extensive vulva surgery | 21.97 | N/A | 11.98 | 2.18 | N/A | 36.13 | 090
56640 |  | A | Extensive vulva surgery | 22.17 | N/A | 11.35 | 2.26 | N/A | 35.78 | 090
56700 |  | A | Partial removal of hymen | 2.52 | N/A | 1.78 | 0.24 | N/A | 4.54 | 010
56720 |  | A | Incision of hymen | 0.68 | N/A | 0.41 | 0.07 | N/A | 1.16 | 000
56740 |  | A | Remove vagina gland lesion | 4.57 | N/A | 2.53 | 0.37 | N/A | 7.47 | 010
56800 |  | A | Repair of vagina | 3.89 | N/A | 2.25 | 0.37 | N/A | 6.51 | 010
56805 |  | A | Repair clitoris | 18.86 | N/A | 9.80 | 1.82 | N/A | 30.48 | 090
56810 |  | A | Repair of perineum | 4.13 | N/A | 2.36 | 0.41 | N/A | 6.90 | 010
56820 |  | A | Exam of vulva w/scope | 1.50 | 1.39 | 0.65 | 0.10 | 2.99 | 2.25 | 000
56821 |  | A | Exam/biopsy of vulva w/scope | 2.05 | 1.82 | 0.92 | 0.13 | 4.00 | 3.10 | 000
57000 |  | A | Exploration of vagina | 2.97 | N/A | 1.78 | 0.28 | N/A | 5.03 | 010
57010 |  | A | Drainage of pelvic abscess | 6.03 | N/A | 4.07 | 0.57 | N/A | 10.67 | 090
57020 |  | A | Drainage of pelvic fluid | 1.50 | 0.98 | 0.61 | 0.15 | 2.63 | 2.26 | 000
57022 |  | A | I & d vaginal hematoma, pp | 2.56 | N/A | 1.55 | 0.24 | N/A | 4.35 | 010
57023 |  | A | I & d vag hematoma, non-ob | 4.75 | N/A | 2.66 | 0.24 | N/A | 7.65 | 010
57061 |  | A | Destroy vag lesions, simple | 1.25 | 1.72 | 1.17 | 0.13 | 3.10 | 2.55 | 010
57065 |  | A | Destroy vag lesions, complex | 2.61 | 2.38 | 1.76 | 0.26 | 5.25 | 4.63 | 010
57100 |  | A | Biopsy of vagina | 1.20 | 1.14 | 0.49 | 0.10 | 2.44 | 1.79 | 000
57105 |  | A | Biopsy of vagina | 1.69 | 2.01 | 1.38 | 0.17 | 3.87 | 3.24 | 010
57106 |  | A | Remove vagina wall, partial | 6.36 | N/A | 4.46 | 0.58 | N/A | 11.40 | 090
57107 |  | A | Remove vagina tissue, part | 23.00 | N/A | 10.90 | 2.17 | N/A | 36.07 | 090
57109 |  | A | Vaginectomy partial w/nodes | 27.00 | N/A | 11.82 | 1.97 | N/A | 40.79 | 090
57110 |  | A | Remove vagina wall, complete | 14.29 | N/A | 7.63 | 1.43 | N/A | 23.35 | 090
57111 |  | A | Remove vagina tissue, compl | 27.00 | N/A | 13.01 | 2.71 | N/A | 42.72 | 090
57112 |  | A | Vaginectomy w/nodes, compl | 29.00 | N/A | 12.66 | 2.19 | N/A | 43.85 | 090
57120 |  | A | Closure of vagina | 7.41 | N/A | 4.88 | 0.75 | N/A | 13.04 | 090
57130 |  | A | Remove vagina lesion | 2.43 | 2.24 | 1.60 | 0.23 | 4.90 | 4.26 | 010
57135 |  | A | Remove vagina lesion | 2.67 | 2.33 | 1.70 | 0.26 | 5.26 | 4.63 | 010
57150 |  | A | Treat vagina infection | 0.55 | 1.14 | 0.22 | 0.06 | 1.75 | 0.83 | 000
57155 |  | A | Insert uteri tandems/ovoids | 6.27 | N/A | 4.04 | 0.59 | N/A | 10.90 | 090
57160 |  | A | Insert pessary/other device | 0.89 | 1.12 | 0.40 | 0.09 | 2.10 | 1.38 | 000
57170 |  | A | Fitting of diaphragm/cap | 0.91 | 1.54 | 0.34 | 0.09 | 2.54 | 1.34 | 000
57180 |  | A | Treat vaginal bleeding | 1.58 | 2.28 | 1.35 | 0.16 | 4.02 | 3.09 | 010
57200 |  | A | Repair of vagina | 3.94 | N/A | 2.97 | 0.38 | N/A | 7.29 | 090
57210 |  | A | Repair vagina/perineum | 5.17 | N/A | 3.51 | 0.50 | N/A | 9.18 | 090
57220 |  | A | Revision of urethra | 4.31 | N/A | 3.18 | 0.42 | N/A | 7.91 | 090
57230 |  | A | Repair of urethral lesion | 5.64 | N/A | 3.47 | 0.50 | N/A | 9.61 | 090
57240 |  | A | Repair bladder & vagina | 6.07 | N/A | 3.94 | 0.53 | N/A | 10.54 | 090
57250 |  | A | Repair rectum & vagina | 5.53 | N/A | 3.65 | 0.54 | N/A | 9.72 | 090
57260 |  | A | Repair of vagina | 8.27 | N/A | 4.98 | 0.83 | N/A | 14.08 | 090
57265 |  | A | Extensive repair of vagina | 11.34 | N/A | 6.21 | 1.14 | N/A | 18.69 | 090
57268 |  | A | Repair of bowel bulge | 6.76 | N/A | 4.33 | 0.66 | N/A | 11.75 | 090
57270 |  | A | Repair of bowel pouch | 12.11 | N/A | 6.44 | 1.17 | N/A | 19.72 | 090
57280 |  | A | Suspension of vagina | 15.04 | N/A | 7.58 | 1.44 | N/A | 24.06 | 090
57282 |  | A | Repair of vaginal prolapse | 8.86 | N/A | 5.43 | 0.86 | N/A | 15.15 | 090
57284 |  | A | Repair paravaginal defect | 12.70 | N/A | 7.30 | 1.17 | N/A | 21.17 | 090
57287 |  | A | Revise/remove sling repair | 10.71 | N/A | 5.65 | 0.74 | N/A | 17.10 | 090
57288 |  | A | Repair bladder defect | 13.02 | N/A | 6.09 | 0.86 | N/A | 19.97 | 090
57289 |  | A | Repair bladder & vagina | 11.58 | N/A | 6.22 | 0.95 | N/A | 18.75 | 090
57291 |  | A | Construction of vagina | 7.95 | N/A | 5.08 | 0.78 | N/A | 13.81 | 090
57292 |  | A | Construct vagina with graft | 13.09 | N/A | 7.17 | 1.29 | N/A | 21.55 | 090
57300 |  | A | Repair rectum-vagina fistula | 7.61 | N/A | 4.37 | 0.70 | N/A | 12.68 | 090
57305 |  | A | Repair rectum-vagina fistula | 13.77 | N/A | 6.40 | 1.33 | N/A | 21.50 | 090
57307 |  | A | Fistula repair & colostomy | 15.93 | N/A | 7.18 | 1.59 | N/A | 24.70 | 090
57308 |  | A | Fistula repair, transperine | 9.94 | N/A | 5.28 | 0.91 | N/A | 16.13 | 090
57310 |  | A | Repair urethrovaginal lesion | 6.78 | N/A | 4.22 | 0.45 | N/A | 11.45 | 090
57311 |  | A | Repair urethrovaginal lesion | 7.98 | N/A | 4.70 | 0.51 | N/A | 13.19 | 090
57320 |  | A | Repair bladder-vagina lesion | 8.01 | N/A | 4.77 | 0.60 | N/A | 13.38 | 090
57330 |  | A | Repair bladder-vagina lesion | 12.35 | N/A | 6.17 | 0.86 | N/A | 19.38 | 090
57335 |  | A | Repair vagina | 18.73 | N/A | 9.53 | 1.66 | N/A | 29.92 | 090
57400 |  | A | Dilation of vagina | 2.27 | N/A | 1.16 | 0.22 | N/A | 3.65 | 000
57410 |  | A | Pelvic examination | 1.75 | 2.10 | 0.91 | 0.14 | 3.99 | 2.80 | 000
57415 |  | A | Remove vaginal foreign body | 2.17 | N/A | 1.47 | 0.19 | N/A | 3.83 | 010
57420 |  | A | Exam of vagina w/scope | 1.60 | 1.43 | 0.69 | 0.10 | 3.13 | 2.39 | 000
57421 |  | A | Exam/biopsy of vag w/scope | 2.20 | 1.91 | 0.98 | 0.13 | 4.24 | 3.31 | 000
57452 |  | A | Exam of cervix w/scope | 1.50 | 1.45 | 0.64 | 0.10 | 3.05 | 2.24 | 000
57454 |  | A | Bx/curett of cervix w/scope | 2.33 | 1.80 | 1.02 | 0.13 | 4.26 | 3.48 | 000
57455 |  | A | Biopsy of cervix w/scope | 1.99 | 1.79 | 0.89 | 0.13 | 3.91 | 3.01 | 000
57456 |  | A | Endocerv curettage w/scope | 1.85 | 1.72 | 0.84 | 0.13 | 3.70 | 2.82 | 000
57460 |  | A | Bx of cervix w/scope, leep | 2.83 | 6.23 | 1.25 | 0.28 | 9.34 | 4.36 | 000
57461 |  | A | Conz of cervix w/scope, leep | 3.44 | 6.48 | 1.43 | 0.28 | 10.20 | 5.15 | 000
57500 |  | A | Biopsy of cervix | 0.97 | 2.76 | 0.48 | 0.10 | 3.83 | 1.55 | 000
57505 |  | A | Endocervical curettage | 1.14 | 1.52 | 1.14 | 0.12 | 2.78 | 2.40 | 010
57510 |  | A | Cauterization of cervix | 1.90 | 1.61 | 1.07 | 0.18 | 3.69 | 3.15 | 010
57511 |  | A | Cryocautery of cervix | 1.90 | 1.88 | 1.42 | 0.18 | 3.96 | 3.50 | 010
57513 |  | A | Laser surgery of cervix | 1.90 | 1.93 | 1.45 | 0.19 | 4.02 | 3.54 | 010
57520 |  | A | Conization of cervix | 4.04 | 5.05 | 2.86 | 0.41 | 9.50 | 7.31 | 090
57522 |  | A | Conization of cervix | 3.36 | 4.55 | 2.81 | 0.34 | 8.25 | 6.51 | 090
57530 |  | A | Removal of cervix | 4.79 | N/A | 3.67 | 0.48 | N/A | 8.94 | 090
57531 |  | A | Removal of cervix, radical | 28.00 | N/A | 13.74 | 2.46 | N/A | 44.20 | 090
57540 |  | A | Removal of residual cervix | 12.22 | N/A | 6.55 | 1.21 | N/A | 19.98 | 090
57545 |  | A | Remove cervix/repair pelvis | 13.03 | N/A | 7.00 | 1.30 | N/A | 21.33 | 090
57550 |  | A | Removal of residual cervix | 5.53 | N/A | 4.08 | 0.55 | N/A | 10.16 | 090
57555 |  | A | Remove cervix/repair vagina | 8.95 | N/A | 5.39 | 0.89 | N/A | 15.23 | 090
57556 |  | A | Remove cervix, repair bowel | 8.37 | N/A | 5.13 | 0.80 | N/A | 14.30 | 090
57700 |  | A | Revision of cervix | 3.55 | N/A | 3.28 | 0.33 | N/A | 7.16 | 090
57720 |  | A | Revision of cervix | 4.13 | N/A | 3.36 | 0.41 | N/A | 7.90 | 090
57800 |  | A | Dilation of cervical canal | 0.77 | 0.79 | 0.49 | 0.08 | 1.64 | 1.34 | 000
57820 |  | A | D & c of residual cervix | 1.67 | 1.52 | 1.17 | 0.17 | 3.36 | 3.01 | 010
58100 |  | A | Biopsy of uterus lining | 1.53 | 1.37 | 0.74 | 0.07 | 2.97 | 2.34 | 000
58120 |  | A | Dilation and curettage | 3.27 | 2.37 | 1.92 | 0.33 | 5.97 | 5.52 | 010
58140 |  | A | Myomectomy abdom method | 14.60 | N/A | 7.39 | 1.46 | N/A | 23.45 | 090
58145 |  | A | Myomectomy vag method | 8.04 | N/A | 5.08 | 0.80 | N/A | 13.92 | 090
58146 |  | A | Myomectomy abdom complex | 19.00 | N/A | 8.97 | 1.46 | N/A | 29.43 | 090
58150 |  | A | Total hysterectomy | 15.24 | N/A | 7.70 | 1.57 | N/A | 24.51 | 090
58152 |  | A | Total hysterectomy | 20.60 | N/A | 10.09 | 1.52 | N/A | 32.21 | 090
58180 |  | A | Partial hysterectomy | 15.29 | N/A | 7.67 | 1.54 | N/A | 24.50 | 090
58200 |  | A | Extensive hysterectomy | 21.59 | N/A | 10.36 | 2.15 | N/A | 34.10 | 090
58210 |  | A | Extensive hysterectomy | 28.85 | N/A | 13.72 | 2.91 | N/A | 45.48 | 090
58240 |  | A | Removal of pelvis contents | 38.39 | N/A | 18.32 | 3.76 | N/A | 60.47 | 090
58260 |  | A | Vaginal hysterectomy | 12.98 | N/A | 6.87 | 1.23 | N/A | 21.08 | 090
58262 |  | A | Vag hyst including t/o | 14.77 | N/A | 7.63 | 1.42 | N/A | 23.82 | 090
58263 |  | A | Vag hyst w/t/o & vag repair | 16.06 | N/A | 8.15 | 1.55 | N/A | 25.76 | 090
58267 |  | A | Vag hyst w/urinary repair | 17.04 | N/A | 8.57 | 1.51 | N/A | 27.12 | 090
58270 |  | A | Vag hyst w/enterocele repair | 14.26 | N/A | 7.25 | 1.37 | N/A | 22.88 | 090
58275 |  | A | Hysterectomy/revise vagina | 15.76 | N/A | 7.92 | 1.51 | N/A | 25.19 | 090
58280 |  | A | Hysterectomy/revise vagina | 17.01 | N/A | 8.42 | 1.54 | N/A | 26.97 | 090
58285 |  | A | Extensive hysterectomy | 22.26 | N/A | 10.45 | 1.88 | N/A | 34.59 | 090
58290 |  | A | Vag hyst complex | 19.00 | N/A | 9.07 | 1.23 | N/A | 29.30 | 090
58291 |  | A | Vag hyst incl t/o, complex | 20.79 | N/A | 10.10 | 1.42 | N/A | 32.31 | 090
58292 |  | A | Vag hyst t/o & repair, compl | 22.08 | N/A | 10.64 | 1.55 | N/A | 34.27 | 090
58293 |  | A | Vag hyst w/uro repair, compl | 23.06 | N/A | 11.15 | 1.51 | N/A | 35.72 | 090
58294 |  | A | Vag hyst w/enterocele, compl | 20.28 | N/A | 9.89 | 1.37 | N/A | 31.54 | 090
58300 |  | N | Insert intrauterine device | 1.01 | 1.55 | 0.39 | 0.10 | 2.66 | 1.50 | XXX
58301 |  | A | Remove intrauterine device | 1.27 | 1.37 | 0.49 | 0.13 | 2.77 | 1.89 | 000
58321 |  | A | Artificial insemination | 0.92 | 1.19 | 0.38 | 0.10 | 2.21 | 1.40 | 000
58322 |  | A | Artificial insemination | 1.10 | 1.25 | 0.43 | 0.11 | 2.46 | 1.64 | 000
58323 |  | A | Sperm washing | 0.23 | 0.24 | 0.10 | 0.02 | 0.49 | 0.35 | 000
58340 |  | A | Catheter for hysterography | 0.88 | 3.09 | 0.66 | 0.08 | 4.05 | 1.62 | 000
58345 |  | A | Reopen fallopian tube | 4.66 | N/A | 2.48 | 0.36 | N/A | 7.50 | 010
58346 |  | A | Insert heyman uteri capsule | 6.75 | N/A | 4.03 | 0.64 | N/A | 11.42 | 090
58350 |  | A | Reopen fallopian tube | 1.01 | 1.54 | 0.95 | 0.10 | 2.65 | 2.06 | 010
58353 |  | A | Endometr ablate, thermal | 3.56 | 2.93 | 2.13 | 0.37 | 6.86 | 6.06 | 010
58400 |  | A | Suspension of uterus | 6.36 | N/A | 4.21 | 0.62 | N/A | 11.19 | 090
58410 |  | A | Suspension of uterus | 12.73 | N/A | 6.75 | 1.09 | N/A | 20.57 | 090
58520 |  | A | Repair of ruptured uterus | 11.92 | N/A | 6.27 | 1.17 | N/A | 19.36 | 090
58540 |  | A | Revision of uterus | 14.64 | N/A | 7.23 | 1.28 | N/A | 23.15 | 090
58545 |  | A | Laparoscopic myomectomy | 14.60 | N/A | 7.53 | 1.45 | N/A | 23.58 | 090
58546 |  | A | Laparo-myomectomy, complex | 19.00 | N/A | 9.38 | 1.45 | N/A | 29.83 | 090
58550 |  | A | Laparo-asst vag hysterectomy | 14.19 | N/A | 7.61 | 1.44 | N/A | 23.24 | 090
58552 |  | A | Laparo-vag hyst incl t/o | 14.19 | N/A | 7.54 | 1.44 | N/A | 23.17 | 090
58553 |  | A | Laparo-vag hyst, complex | 19.00 | N/A | 9.35 | 1.23 | N/A | 29.58 | 090
58554 |  | A | Laparo-vag hyst w/t/o, compl | 19.00 | N/A | 9.58 | 1.23 | N/A | 29.81 | 090
58555 |  | A | Hysteroscopy, dx, sep proc | 3.33 | 2.12 | 1.49 | 0.34 | 5.79 | 5.16 | 000
58558 |  | A | Hysteroscopy, biopsy | 4.75 | N/A | 2.11 | 0.49 | N/A | 7.35 | 000
58559 |  | A | Hysteroscopy, lysis | 6.17 | N/A | 2.68 | 0.62 | N/A | 9.47 | 000
58560 |  | A | Hysteroscopy, resect septum | 7.00 | N/A | 3.03 | 0.71 | N/A | 10.74 | 000
58561 |  | A | Hysteroscopy, remove myoma | 10.00 | N/A | 4.26 | 1.02 | N/A | 15.28 | 000
58562 |  | A | Hysteroscopy, remove fb | 5.21 | N/A | 2.26 | 0.52 | N/A | 7.99 | 000
58563 |  | A | Hysteroscopy, ablation | 6.17 | N/A | 2.69 | 0.62 | N/A | 9.48 | 000
58578 |  | C | Laparo proc, uterus | 0.00 | 0.00 | 0.00 | 0.00 | 0.00 | 0.00 | YYY
58579 |  | C | Hysteroscope procedure | 0.00 | 0.00 | 0.00 | 0.00 | 0.00 | 0.00 | YYY
58600 |  | A | Division of fallopian tube | 5.60 | N/A | 3.56 | 0.39 | N/A | 9.55 | 090
58605 |  | A | Division of fallopian tube | 5.00 | N/A | 3.36 | 0.33 | N/A | 8.69 | 090
58611 |  | A | Ligate oviduct(s) add-on | 1.45 | N/A | 0.58 | 0.07 | N/A | 2.10 | ZZZ
58615 |  | A | Occlude fallopian tube(s) | 3.90 | N/A | 2.78 | 0.40 | N/A | 7.08 | 010
58660 |  | A | Laparoscopy, lysis | 11.29 | N/A | 5.50 | 1.14 | N/A | 17.93 | 090
58661 |  | A | Laparoscopy, remove adnexa | 11.05 | N/A | 5.26 | 1.12 | N/A | 17.43 | 010
58662 |  | A | Laparoscopy, excise lesions | 11.79 | N/A | 6.05 | 1.18 | N/A | 19.02 | 090
58670 |  | A | Laparoscopy, tubal cautery | 5.60 | N/A | 3.38 | 0.55 | N/A | 9.53 | 090
58671 |  | A | Laparoscopy, tubal block | 5.60 | N/A | 3.40 | 0.56 | N/A | 9.56 | 090
58672 |  | A | Laparoscopy, fimbrioplasty | 12.88 | N/A | 6.51 | 1.22 | N/A | 20.61 | 090
58673 |  | A | Laparoscopy, salpingostomy | 13.74 | N/A | 6.92 | 1.40 | N/A | 22.06 | 090
58679 |  | C | Laparo proc, oviduct-ovary | 0.00 | 0.00 | 0.00 | 0.00 | 0.00 | 0.00 | YYY
58700 |  | A | Removal of fallopian tube | 12.05 | N/A | 6.24 | 0.64 | N/A | 18.93 | 090
58720 |  | A | Removal of ovary/tube(s) | 11.36 | N/A | 6.07 | 1.14 | N/A | 18.57 | 090
58740 |  | A | Revise fallopian tube(s) | 14.00 | N/A | 7.46 | 0.59 | N/A | 22.05 | 090
58750 |  | A | Repair oviduct | 14.84 | N/A | 7.69 | 1.52 | N/A | 24.05 | 090
58752 |  | A | Revise ovarian tube(s) | 14.84 | N/A | 7.35 | 1.51 | N/A | 23.70 | 090
58760 |  | A | Remove tubal obstruction | 13.13 | N/A | 7.01 | 1.34 | N/A | 21.48 | 090
58770 |  | A | Create new tubal opening | 13.97 | N/A | 7.23 | 1.42 | N/A | 22.62 | 090
58800 |  | A | Drainage of ovarian cyst(s) | 4.14 | 4.80 | 3.16 | 0.36 | 9.30 | 7.66 | 090
58805 |  | A | Drainage of ovarian cyst(s) | 5.88 | N/A | 3.71 | 0.56 | N/A | 10.15 | 090
58820 |  | A | Drain ovary abscess, open | 4.22 | N/A | 3.49 | 0.29 | N/A | 8.00 | 090
58822 |  | A | Drain ovary abscess, percut | 10.13 | N/A | 5.44 | 0.92 | N/A | 16.49 | 090
58823 |  | A | Drain pelvic abscess, percut | 3.38 | N/A | 1.54 | 0.18 | N/A | 5.10 | 000
58825 |  | A | Transposition, ovary(s) | 10.98 | N/A | 6.08 | 0.62 | N/A | 17.68 | 090
58900 |  | A | Biopsy of ovary(s) | 5.99 | N/A | 3.79 | 0.56 | N/A | 10.34 | 090
58920 |  | A | Partial removal of ovary(s) | 11.36 | N/A | 5.83 | 0.68 | N/A | 17.87 | 090
58925 |  | A | Removal of ovarian cyst(s) | 11.36 | N/A | 5.92 | 1.14 | N/A | 18.42 | 090
58940 |  | A | Removal of ovary(s) | 7.29 | N/A | 4.32 | 0.73 | N/A | 12.34 | 090
58943 |  | A | Removal of ovary(s) | 18.43 | N/A | 9.16 | 1.86 | N/A | 29.45 | 090
58950 |  | A | Resect ovarian malignancy | 16.93 | N/A | 8.94 | 1.55 | N/A | 27.42 | 090
58951 |  | A | Resect ovarian malignancy | 22.38 | N/A | 11.07 | 2.20 | N/A | 35.65 | 090
58952 |  | A | Resect ovarian malignancy | 25.01 | N/A | 12.40 | 2.57 | N/A | 39.98 | 090
58953 |  | A | Tah, rad dissect for debulk | 32.00 | N/A | 15.03 | 3.30 | N/A | 50.33 | 090
58954 |  | A | Tah rad debulk/lymph remove | 35.00 | N/A | 16.19 | 3.56 | N/A | 54.75 | 090
58960 |  | A | Exploration of abdomen | 14.65 | N/A | 7.90 | 1.47 | N/A | 24.02 | 090
58970 |  | A | Retrieval of oocyte | 3.53 | 2.37 | 1.53 | 0.36 | 6.26 | 5.42 | 000
58974 |  | C | Transfer of embryo | 0.00 | 0.00 | 0.00 | 0.00 | 0.00 | 0.00 | 000
58976 |  | A | Transfer of embryo | 3.83 | 2.69 | 1.87 | 0.39 | 6.91 | 6.09 | 000
58999 |  | C | Genital surgery procedure | 0.00 | 0.00 | 0.00 | 0.00 | 0.00 | 0.00 | YYY
59000 |  | A | Amniocentesis, diagnostic | 1.30 | 2.17 | 0.70 | 0.23 | 3.70 | 2.23 | 000
59001 |  | A | Amniocentesis, therapeutic | 3.00 | N/A | 1.44 | 0.23 | N/A | 4.67 | 000
59012 |  | A | Fetal cord puncture,prenatal | 3.45 | N/A | 1.59 | 0.62 | N/A | 5.66 | 000
59015 |  | A | Chorion biopsy | 2.20 | 1.61 | 1.08 | 0.40 | 4.21 | 3.68 | 000
59020 |  | A | Fetal contract stress test | 0.66 | 0.79 | N/A | 0.20 | 1.65 | N/A | 000
59020 | 26 | A | Fetal contract stress test | 0.66 | 0.27 | 0.27 | 0.12 | 1.05 | 1.05 | 000
59020 | TC | A | Fetal contract stress test | 0.00 | 0.52 | N/A | 0.08 | 0.60 | N/A | 000
59025 |  | A | Fetal non-stress test | 0.53 | 0.45 | N/A | 0.12 | 1.10 | N/A | 000
59025 | 26 | A | Fetal non-stress test | 0.53 | 0.21 | 0.21 | 0.10 | 0.84 | 0.84 | 000
59025 | TC | A | Fetal non-stress test | 0.00 | 0.23 | N/A | 0.02 | 0.25 | N/A | 000
59030 |  | A | Fetal scalp blood sample | 1.99 | N/A | 1.07 | 0.36 | N/A | 3.42 | 000
59050 |  | A | Fetal monitor w/report | 0.89 | N/A | 0.36 | 0.16 | N/A | 1.41 | XXX
59051 |  | A | Fetal monitor/interpret only | 0.74 | N/A | 0.30 | 0.14 | N/A | 1.18 | XXX
59100 |  | A | Remove uterus lesion | 12.35 | N/A | 6.74 | 2.21 | N/A | 21.30 | 090
59120 |  | A | Treat ectopic pregnancy | 11.49 | N/A | 6.54 | 2.06 | N/A | 20.09 | 090
59121 |  | A | Treat ectopic pregnancy | 11.67 | N/A | 6.61 | 2.09 | N/A | 20.37 | 090
59130 |  | A | Treat ectopic pregnancy | 14.22 | N/A | 6.31 | 2.54 | N/A | 23.07 | 090
59135 |  | A | Treat ectopic pregnancy | 13.88 | N/A | 7.39 | 2.49 | N/A | 23.76 | 090
59136 |  | A | Treat ectopic pregnancy | 13.18 | N/A | 6.92 | 2.36 | N/A | 22.46 | 090
59140 |  | A | Treat ectopic pregnancy | 5.46 | 5.39 | 3.72 | 0.98 | 11.83 | 10.16 | 090
59150 |  | A | Treat ectopic pregnancy | 11.67 | N/A | 6.31 | 1.23 | N/A | 19.21 | 090
59151 |  | A | Treat ectopic pregnancy | 11.49 | N/A | 6.30 | 1.41 | N/A | 19.20 | 090
59160 |  | A | D & c after delivery | 2.71 | 3.35 | 2.17 | 0.49 | 6.55 | 5.37 | 010
59200 |  | A | Insert cervical dilator | 0.79 | 1.25 | 0.31 | 0.15 | 2.19 | 1.25 | 000
59300 |  | A | Episiotomy or vaginal repair | 2.41 | 2.21 | 0.98 | 0.43 | 5.05 | 3.82 | 000
59320 |  | A | Revision of cervix | 2.48 | N/A | 1.29 | 0.45 | N/A | 4.22 | 000
59325 |  | A | Revision of cervix | 4.07 | N/A | 1.96 | 0.73 | N/A | 6.76 | 000
59350 |  | A | Repair of uterus | 4.95 | N/A | 2.00 | 0.88 | N/A | 7.83 | 000
59400 |  | A | Obstetrical care | 23.06 | N/A | 15.87 | 4.14 | N/A | 43.07 | MMM
59409 |  | A | Obstetrical care | 13.50 | N/A | 5.42 | 2.42 | N/A | 21.34 | MMM
59410 |  | A | Obstetrical care | 14.78 | N/A | 6.46 | 2.65 | N/A | 23.89 | MMM
59412 |  | A | Antepartum manipulation | 1.71 | N/A | 0.83 | 0.31 | N/A | 2.85 | MMM
59414 |  | A | Deliver placenta | 1.61 | N/A | 0.64 | 0.29 | N/A | 2.54 | MMM
59425 |  | A | Antepartum care only | 4.81 | 4.38 | 1.90 | 0.86 | 10.05 | 7.57 | MMM
59426 |  | A | Antepartum care only | 8.28 | 7.85 | 3.29 | 1.49 | 17.62 | 13.06 | MMM
59430 |  | A | Care after delivery | 2.13 | 1.27 | 0.96 | 0.38 | 3.78 | 3.47 | MMM
59510 |  | A | Cesarean delivery | 26.22 | N/A | 17.86 | 4.70 | N/A | 48.78 | MMM
59514 |  | A | Cesarean delivery only | 15.97 | N/A | 6.35 | 2.86 | N/A | 25.18 | MMM
59515 |  | A | Cesarean delivery | 17.37 | N/A | 8.03 | 3.12 | N/A | 28.52 | MMM
59525 |  | A | Remove uterus after cesarean | 8.54 | N/A | 3.38 | 1.53 | N/A | 13.45 | ZZZ
59610 |  | A | Vbac delivery | 24.62 | N/A | 16.44 | 4.41 | N/A | 45.47 | MMM
59612 |  | A | Vbac delivery only | 15.06 | N/A | 6.18 | 2.70 | N/A | 23.94 | MMM
59614 |  | A | Vbac care after delivery | 16.34 | N/A | 7.10 | 2.93 | N/A | 26.37 | MMM
59618 |  | A | Attempted vbac delivery | 27.78 | N/A | 18.97 | 4.98 | N/A | 51.73 | MMM
59620 |  | A | Attempted vbac delivery only | 17.53 | N/A | 6.91 | 3.15 | N/A | 27.59 | MMM
59622 |  | A | Attempted vbac after care | 18.93 | N/A | 8.85 | 3.39 | N/A | 31.17 | MMM
59812 |  | A | Treatment of miscarriage | 4.01 | N/A | 2.62 | 0.58 | N/A | 7.21 | 090
59820 |  | A | Care of miscarriage | 4.01 | N/A | 3.62 | 0.72 | N/A | 8.35 | 090
59821 |  | A | Treatment of miscarriage | 4.47 | N/A | 3.52 | 0.80 | N/A | 8.79 | 090
59830 |  | A | Treat uterus infection | 6.11 | N/A | 4.10 | 1.10 | N/A | 11.31 | 090
59840 |  | R | Abortion | 3.01 | N/A | 2.18 | 0.54 | N/A | 5.73 | 010
59841 |  | R | Abortion | 5.24 | 3.59 | 3.05 | 0.94 | 9.77 | 9.23 | 010
59850 |  | R | Abortion | 5.91 | N/A | 3.33 | 1.06 | N/A | 10.30 | 090
59851 |  | R | Abortion | 5.93 | N/A | 3.89 | 1.06 | N/A | 10.88 | 090
59852 |  | R | Abortion | 8.24 | N/A | 5.39 | 1.48 | N/A | 15.11 | 090
59855 |  | R | Abortion | 6.12 | N/A | 3.72 | 1.10 | N/A | 10.94 | 090
59856 |  | R | Abortion | 7.48 | N/A | 4.29 | 1.34 | N/A | 13.11 | 090
59857 |  | R | Abortion | 9.29 | N/A | 4.78 | 1.66 | N/A | 15.73 | 090
59866 |  | R | Abortion (mpr) | 4.00 | N/A | 1.86 | 0.72 | N/A | 6.58 | 000
59870 |  | A | Evacuate mole of uterus | 6.01 | N/A | 4.62 | 0.77 | N/A | 11.40 | 090
59871 |  | A | Remove cerclage suture | 2.13 | 1.81 | 1.16 | 0.38 | 4.32 | 3.67 | 000
59898 |  | C | Laparo proc, ob care/deliver | 0.00 | 0.00 | 0.00 | 0.00 | 0.00 | 0.00 | YYY
59899 |  | C | Maternity care procedure | 0.00 | 0.00 | 0.00 | 0.00 | 0.00 | 0.00 | YYY
60000 |  | A | Drain thyroid/tongue cyst | 1.76 | 2.23 | 2.09 | 0.14 | 4.13 | 3.99 | 010
60001 |  | A | Aspirate/inject thyriod cyst | 0.97 | 1.54 | 0.35 | 0.06 | 2.57 | 1.38 | 000
60100 |  | A | Biopsy of thyroid | 1.56 | 1.45 | 0.54 | 0.05 | 3.06 | 2.15 | 000
60200 |  | A | Remove thyroid lesion | 9.55 | N/A | 6.24 | 0.84 | N/A | 16.63 | 090
60210 |  | A | Partial thyroid excision | 10.88 | N/A | 5.94 | 1.01 | N/A | 17.83 | 090
60212 |  | A | Partial thyroid excision | 16.03 | N/A | 7.96 | 1.51 | N/A | 25.50 | 090
60220 |  | A | Partial removal of thyroid | 11.90 | N/A | 6.47 | 0.97 | N/A | 19.34 | 090
60225 |  | A | Partial removal of thyroid | 14.19 | N/A | 7.67 | 1.31 | N/A | 23.17 | 090
60240 |  | A | Removal of thyroid | 16.06 | N/A | 7.95 | 1.50 | N/A | 25.51 | 090
60252 |  | A | Removal of thyroid | 20.57 | N/A | 10.51 | 1.63 | N/A | 32.71 | 090
60254 |  | A | Extensive thyroid surgery | 26.99 | N/A | 14.72 | 1.96 | N/A | 43.67 | 090
60260 |  | A | Repeat thyroid surgery | 17.47 | N/A | 9.09 | 1.39 | N/A | 27.95 | 090
60270 |  | A | Removal of thyroid | 20.27 | N/A | 10.69 | 1.78 | N/A | 32.74 | 090
60271 |  | A | Removal of thyroid | 16.83 | N/A | 8.98 | 1.35 | N/A | 27.16 | 090
60280 |  | A | Remove thyroid duct lesion | 5.87 | N/A | 4.95 | 0.45 | N/A | 11.27 | 090
60281 |  | A | Remove thyroid duct lesion | 8.53 | N/A | 6.14 | 0.67 | N/A | 15.34 | 090
60500 |  | A | Explore parathyroid glands | 16.23 | N/A | 7.66 | 1.61 | N/A | 25.50 | 090
60502 |  | A | Re-explore parathyroids | 20.35 | N/A | 9.59 | 2.00 | N/A | 31.94 | 090
60505 |  | A | Explore parathyroid glands | 21.49 | N/A | 11.12 | 2.14 | N/A | 34.75 | 090
60512 |  | A | Autotransplant parathyroid | 4.45 | N/A | 1.66 | 0.44 | N/A | 6.55 | ZZZ
60520 |  | A | Removal of thymus gland | 16.81 | N/A | 8.37 | 1.84 | N/A | 27.02 | 090
60521 |  | A | Removal of thymus gland | 18.87 | N/A | 9.39 | 2.34 | N/A | 30.60 | 090
60522 |  | A | Removal of thymus gland | 23.09 | N/A | 11.11 | 2.83 | N/A | 37.03 | 090
60540 |  | A | Explore adrenal gland | 17.03 | N/A | 7.79 | 1.42 | N/A | 26.24 | 090
60545 |  | A | Explore adrenal gland | 19.88 | N/A | 8.76 | 1.75 | N/A | 30.39 | 090
60600 |  | A | Remove carotid body lesion | 17.93 | N/A | 10.94 | 1.87 | N/A | 30.74 | 090
60605 |  | A | Remove carotid body lesion | 20.24 | N/A | 12.95 | 2.28 | N/A | 35.47 | 090
60650 |  | A | Laparoscopy adrenalectomy | 20.00 | N/A | 8.13 | 1.98 | N/A | 30.11 | 090
60659 |  | C | Laparo proc, endocrine | 0.00 | 0.00 | 0.00 | 0.00 | 0.00 | 0.00 | YYY
60699 |  | C | Endocrine surgery procedure | 0.00 | 0.00 | 0.00 | 0.00 | 0.00 | 0.00 | YYY
61000 |  | A | Remove cranial cavity fluid | 1.58 | N/A | 0.98 | 0.13 | N/A | 2.69 | 000
61001 |  | A | Remove cranial cavity fluid | 1.49 | N/A | 1.09 | 0.15 | N/A | 2.73 | 000
61020 |  | A | Remove brain cavity fluid | 1.51 | N/A | 1.39 | 0.26 | N/A | 3.16 | 000
61026 |  | A | Injection into brain canal | 1.69 | N/A | 1.45 | 0.21 | N/A | 3.35 | 000
61050 |  | A | Remove brain canal fluid | 1.51 | N/A | 1.28 | 0.13 | N/A | 2.92 | 000
61055 |  | A | Injection into brain canal | 2.10 | N/A | 1.43 | 0.13 | N/A | 3.66 | 000
61070 |  | A | Brain canal shunt procedure | 0.89 | N/A | 1.05 | 0.09 | N/A | 2.03 | 000
61105 |  | A | Twist drill hole | 5.14 | N/A | 4.03 | 1.05 | N/A | 10.22 | 090
61107 |  | A | Drill skull for implantation | 5.00 | N/A | 3.39 | 1.02 | N/A | 9.41 | 000
61108 |  | A | Drill skull for drainage | 10.19 | N/A | 7.29 | 2.04 | N/A | 19.52 | 090
61120 |  | A | Burr hole for puncture | 8.76 | N/A | 6.11 | 1.81 | N/A | 16.68 | 090
61140 |  | A | Pierce skull for biopsy | 15.90 | N/A | 10.09 | 3.15 | N/A | 29.14 | 090
61150 |  | A | Pierce skull for drainage | 17.57 | N/A | 10.62 | 3.52 | N/A | 31.71 | 090
61151 |  | A | Pierce skull for drainage | 12.42 | N/A | 7.99 | 2.45 | N/A | 22.86 | 090
61154 |  | A | Pierce skull & remove clot | 14.99 | N/A | 9.68 | 3.05 | N/A | 27.72 | 090
61156 |  | A | Pierce skull for drainage | 16.32 | N/A | 10.04 | 3.42 | N/A | 29.78 | 090
61210 |  | A | Pierce skull, implant device | 5.84 | N/A | 3.79 | 1.16 | N/A | 10.79 | 000
61215 |  | A | Insert brain-fluid device | 4.89 | N/A | 4.08 | 0.99 | N/A | 9.96 | 090
61250 |  | A | Pierce skull & explore | 10.42 | N/A | 6.99 | 2.02 | N/A | 19.43 | 090
61253 |  | A | Pierce skull & explore | 12.36 | N/A | 7.87 | 2.26 | N/A | 22.49 | 090
61304 |  | A | Open skull for exploration | 21.96 | N/A | 13.14 | 4.33 | N/A | 39.43 | 090
61305 |  | A | Open skull for exploration | 26.61 | N/A | 15.66 | 5.25 | N/A | 47.52 | 090
61312 |  | A | Open skull for drainage | 24.57 | N/A | 15.39 | 4.99 | N/A | 44.95 | 090
61313 |  | A | Open skull for drainage | 24.93 | N/A | 15.16 | 5.07 | N/A | 45.16 | 090
61314 |  | A | Open skull for drainage | 24.23 | N/A | 13.32 | 4.00 | N/A | 41.55 | 090
61315 |  | A | Open skull for drainage | 27.68 | N/A | 16.37 | 5.62 | N/A | 49.67 | 090
61316 |  | A | Implt cran bone flap to abdo | 1.39 | N/A | 0.57 | 0.43 | N/A | 2.39 | ZZZ
61320 |  | A | Open skull for drainage | 25.62 | N/A | 15.11 | 5.20 | N/A | 45.93 | 090
61321 |  | A | Open skull for drainage | 28.50 | N/A | 16.49 | 5.35 | N/A | 50.34 | 090
61322 |  | A | Decompressive craniotomy | 29.50 | N/A | 14.57 | 4.99 | N/A | 49.06 | 090
61323 |  | A | Decompressive lobectomy | 31.00 | N/A | 14.76 | 4.99 | N/A | 50.75 | 090
61330 |  | A | Decompress eye socket | 23.32 | N/A | 14.05 | 2.58 | N/A | 39.95 | 090
61332 |  | A | Explore/biopsy eye socket | 27.28 | N/A | 15.97 | 4.15 | N/A | 47.40 | 090
61333 |  | A | Explore orbit/remove lesion | 27.95 | N/A | 15.97 | 2.24 | N/A | 46.16 | 090
61334 |  | A | Explore orbit/remove object | 18.27 | N/A | 10.91 | 3.02 | N/A | 32.20 | 090
61340 |  | A | Subtemporal decompression | 18.66 | N/A | 11.39 | 3.66 | N/A | 33.71 | 090
61343 |  | A | Incise skull (press relief) | 29.77 | N/A | 17.43 | 6.04 | N/A | 53.24 | 090
61345 |  | A | Relieve cranial pressure | 27.20 | N/A | 15.98 | 5.23 | N/A | 48.41 | 090
61440 |  | A | Incise skull for surgery | 26.63 | N/A | 14.76 | 5.57 | N/A | 46.96 | 090
61450 |  | A | Incise skull for surgery | 25.95 | N/A | 14.84 | 5.11 | N/A | 45.90 | 090
61458 |  | A | Incise skull for brain wound | 27.29 | N/A | 16.05 | 5.28 | N/A | 48.62 | 090
61460 |  | A | Incise skull for surgery | 28.39 | N/A | 16.96 | 5.13 | N/A | 50.48 | 090
61470 |  | A | Incise skull for surgery | 26.06 | N/A | 14.40 | 4.65 | N/A | 45.11 | 090
61480 |  | A | Incise skull for surgery | 26.49 | N/A | 15.23 | 5.54 | N/A | 47.26 | 090
61490 |  | A | Incise skull for surgery | 25.66 | N/A | 14.87 | 5.37 | N/A | 45.90 | 090
61500 |  | A | Removal of skull lesion | 17.92 | N/A | 11.26 | 3.26 | N/A | 32.44 | 090
61501 |  | A | Remove infected skull bone | 14.84 | N/A | 9.62 | 2.63 | N/A | 27.09 | 090
61510 |  | A | Removal of brain lesion | 28.45 | N/A | 17.22 | 5.77 | N/A | 51.44 | 090
61512 |  | A | Remove brain lining lesion | 35.09 | N/A | 20.36 | 7.14 | N/A | 62.59 | 090
61514 |  | A | Removal of brain abscess | 25.26 | N/A | 14.95 | 5.12 | N/A | 45.33 | 090
61516 |  | A | Removal of brain lesion | 24.61 | N/A | 14.78 | 4.94 | N/A | 44.33 | 090
61517 |  | A | Implt brain chemotx add-on | 1.38 | N/A | 0.57 | 0.08 | N/A | 2.03 | ZZZ
61518 |  | A | Removal of brain lesion | 37.32 | N/A | 21.82 | 7.53 | N/A | 66.67 | 090
61519 |  | A | Remove brain lining lesion | 41.39 | N/A | 23.44 | 8.15 | N/A | 72.98 | 090
61520 |  | A | Removal of brain lesion | 54.84 | N/A | 31.26 | 10.10 | N/A | 96.20 | 090
61521 |  | A | Removal of brain lesion | 44.48 | N/A | 25.05 | 8.85 | N/A | 78.38 | 090
61522 |  | A | Removal of brain abscess | 29.45 | N/A | 17.03 | 5.30 | N/A | 51.78 | 090
61524 |  | A | Removal of brain lesion | 27.86 | N/A | 16.26 | 5.01 | N/A | 49.13 | 090
61526 |  | A | Removal of brain lesion | 52.17 | N/A | 30.38 | 6.72 | N/A | 89.27 | 090
61530 |  | A | Removal of brain lesion | 43.86 | N/A | 25.88 | 6.17 | N/A | 75.91 | 090
61531 |  | A | Implant brain electrodes | 14.63 | N/A | 9.51 | 2.84 | N/A | 26.98 | 090
61533 |  | A | Implant brain electrodes | 19.71 | N/A | 11.98 | 3.80 | N/A | 35.49 | 090
61534 |  | A | Removal of brain lesion | 20.97 | N/A | 12.62 | 4.15 | N/A | 37.74 | 090
61535 |  | A | Remove brain electrodes | 11.63 | N/A | 7.82 | 2.29 | N/A | 21.74 | 090
61536 |  | A | Removal of brain lesion | 35.52 | N/A | 20.47 | 6.68 | N/A | 62.67 | 090
61538 |  | A | Removal of brain tissue | 26.81 | N/A | 15.95 | 5.38 | N/A | 48.14 | 090
61539 |  | A | Removal of brain tissue | 32.08 | N/A | 18.43 | 6.62 | N/A | 57.13 | 090
61541 |  | A | Incision of brain tissue | 28.85 | N/A | 16.77 | 5.50 | N/A | 51.12 | 090
61542 |  | A | Removal of brain tissue | 31.02 | N/A | 18.46 | 6.49 | N/A | 55.97 | 090
61543 |  | A | Removal of brain tissue | 29.22 | N/A | 16.98 | 6.11 | N/A | 52.31 | 090
61544 |  | A | Remove & treat brain lesion | 25.50 | N/A | 14.21 | 4.91 | N/A | 44.62 | 090
61545 |  | A | Excision of brain tumor | 43.80 | N/A | 24.99 | 8.88 | N/A | 77.67 | 090
61546 |  | A | Removal of pituitary gland | 31.30 | N/A | 18.13 | 6.06 | N/A | 55.49 | 090
61548 |  | A | Removal of pituitary gland | 21.53 | N/A | 13.29 | 3.63 | N/A | 38.45 | 090
61550 |  | A | Release of skull seams | 14.65 | N/A | 7.34 | 1.14 | N/A | 23.13 | 090
61552 |  | A | Release of skull seams | 19.56 | N/A | 9.68 | 0.88 | N/A | 30.12 | 090
61556 |  | A | Incise skull/sutures | 22.26 | N/A | 11.81 | 3.57 | N/A | 37.64 | 090
61557 |  | A | Incise skull/sutures | 22.38 | N/A | 13.91 | 4.68 | N/A | 40.97 | 090
61558 |  | A | Excision of skull/sutures | 25.58 | N/A | 14.75 | 2.61 | N/A | 42.94 | 090
61559 |  | A | Excision of skull/sutures | 32.79 | N/A | 19.61 | 6.86 | N/A | 59.26 | 090
61563 |  | A | Excision of skull tumor | 26.83 | N/A | 15.80 | 4.46 | N/A | 47.09 | 090
61564 |  | A | Excision of skull tumor | 33.83 | N/A | 18.74 | 7.08 | N/A | 59.65 | 090
61570 |  | A | Remove foreign body, brain | 24.60 | N/A | 14.32 | 4.60 | N/A | 43.52 | 090
61571 |  | A | Incise skull for brain wound | 26.39 | N/A | 15.58 | 5.23 | N/A | 47.20 | 090
61575 |  | A | Skull base/brainstem surgery | 34.36 | N/A | 20.34 | 5.02 | N/A | 59.72 | 090
61576 |  | A | Skull base/brainstem surgery | 52.43 | N/A | 30.42 | 4.68 | N/A | 87.53 | 090
61580 |  | A | Craniofacial approach, skull | 30.35 | N/A | 24.85 | 2.75 | N/A | 57.95 | 090
61581 |  | A | Craniofacial approach, skull | 34.60 | N/A | 22.57 | 3.37 | N/A | 60.54 | 090
61582 |  | A | Craniofacial approach, skull | 31.66 | N/A | 26.65 | 6.30 | N/A | 64.61 | 090
61583 |  | A | Craniofacial approach, skull | 36.21 | N/A | 25.03 | 6.94 | N/A | 68.18 | 090
61584 |  | A | Orbitocranial approach/skull | 34.65 | N/A | 24.40 | 6.53 | N/A | 65.58 | 090
61585 |  | A | Orbitocranial approach/skull | 38.61 | N/A | 26.37 | 6.19 | N/A | 71.17 | 090
61586 |  | A | Resect nasopharynx, skull | 25.10 | N/A | 21.80 | 3.52 | N/A | 50.42 | 090
61590 |  | A | Infratemporal approach/skull | 41.78 | N/A | 29.48 | 4.28 | N/A | 75.54 | 090
61591 |  | A | Infratemporal approach/skull | 43.68 | N/A | 30.38 | 5.26 | N/A | 79.32 | 090
61592 |  | A | Orbitocranial approach/skull | 39.64 | N/A | 27.03 | 7.55 | N/A | 74.22 | 090
61595 |  | A | Transtemporal approach/skull | 29.57 | N/A | 23.10 | 3.05 | N/A | 55.72 | 090
61596 |  | A | Transcochlear approach/skull | 35.63 | N/A | 25.14 | 4.25 | N/A | 65.02 | 090
61597 |  | A | Transcondylar approach/skull | 37.96 | N/A | 23.44 | 6.65 | N/A | 68.05 | 090
61598 |  | A | Transpetrosal approach/skull | 33.41 | N/A | 23.82 | 4.60 | N/A | 61.83 | 090
61600 |  | A | Resect/excise cranial lesion | 25.85 | N/A | 20.35 | 3.12 | N/A | 49.32 | 090
61601 |  | A | Resect/excise cranial lesion | 27.89 | N/A | 20.88 | 5.29 | N/A | 54.06 | 090
61605 |  | A | Resect/excise cranial lesion | 29.33 | N/A | 22.75 | 2.51 | N/A | 54.59 | 090
61606 |  | A | Resect/excise cranial lesion | 38.83 | N/A | 25.68 | 6.81 | N/A | 71.32 | 090
61607 |  | A | Resect/excise cranial lesion | 36.27 | N/A | 24.32 | 5.69 | N/A | 66.28 | 090
61608 |  | A | Resect/excise cranial lesion | 42.10 | N/A | 27.11 | 8.31 | N/A | 77.52 | 090
61609 |  | A | Transect artery, sinus | 9.89 | N/A | 4.89 | 2.07 | N/A | 16.85 | ZZZ
61610 |  | A | Transect artery, sinus | 29.67 | N/A | 13.44 | 3.52 | N/A | 46.63 | ZZZ
61611 |  | A | Transect artery, sinus | 7.42 | N/A | 3.39 | 1.55 | N/A | 12.36 | ZZZ
61612 |  | A | Transect artery, sinus | 27.88 | N/A | 13.62 | 3.55 | N/A | 45.05 | ZZZ
61613 |  | A | Remove aneurysm, sinus | 40.86 | N/A | 26.77 | 8.32 | N/A | 75.95 | 090
61615 |  | A | Resect/excise lesion, skull | 32.07 | N/A | 23.28 | 4.64 | N/A | 59.99 | 090
61616 |  | A | Resect/excise lesion, skull | 43.33 | N/A | 29.31 | 7.02 | N/A | 79.66 | 090
61618 |  | A | Repair dura | 16.99 | N/A | 10.91 | 2.92 | N/A | 30.82 | 090
61619 |  | A | Repair dura | 20.71 | N/A | 12.75 | 3.42 | N/A | 36.88 | 090
61623 |  | A | Endovasc tempory vessel occl | 9.96 | N/A | 4.31 | 0.50 | N/A | 14.77 | 000
61624 |  | A | Transcath occlusion, cns | 20.15 | N/A | 7.07 | 1.15 | N/A | 28.37 | 000
61626 |  | A | Transcath occlusion, non-cns | 16.62 | N/A | 5.65 | 0.84 | N/A | 23.11 | 000
61680 |  | A | Intracranial vessel surgery | 30.71 | N/A | 18.07 | 6.04 | N/A | 54.82 | 090
61682 |  | A | Intracranial vessel surgery | 61.57 | N/A | 33.24 | 12.69 | N/A | 107.50 | 090
61684 |  | A | Intracranial vessel surgery | 39.81 | N/A | 22.75 | 7.87 | N/A | 70.43 | 090
61686 |  | A | Intracranial vessel surgery | 64.49 | N/A | 35.77 | 13.20 | N/A | 113.46 | 090
61690 |  | A | Intracranial vessel surgery | 29.31 | N/A | 17.38 | 5.51 | N/A | 52.20 | 090
61692 |  | A | Intracranial vessel surgery | 51.87 | N/A | 28.42 | 10.17 | N/A | 90.46 | 090
61697 |  | A | Brain aneurysm repr, complx | 50.52 | N/A | 28.82 | 10.31 | N/A | 89.65 | 090
61698 |  | A | Brain aneurysm repr, complx | 48.41 | N/A | 27.46 | 9.99 | N/A | 85.86 | 090
61700 |  | A | Brain aneurysm repr, simple | 50.52 | N/A | 28.64 | 10.18 | N/A | 89.34 | 090
61702 |  | A | Inner skull vessel surgery | 48.41 | N/A | 26.91 | 9.75 | N/A | 85.07 | 090
61703 |  | A | Clamp neck artery | 17.47 | N/A | 10.94 | 3.62 | N/A | 32.03 | 090
61705 |  | A | Revise circulation to head | 36.20 | N/A | 19.88 | 6.67 | N/A | 62.75 | 090
61708 |  | A | Revise circulation to head | 35.30 | N/A | 15.61 | 2.18 | N/A | 53.09 | 090
61710 |  | A | Revise circulation to head | 29.67 | N/A | 14.10 | 2.42 | N/A | 46.19 | 090
61711 |  | A | Fusion of skull arteries | 36.33 | N/A | 20.47 | 7.39 | N/A | 64.19 | 090
61720 |  | A | Incise skull/brain surgery | 16.77 | N/A | 10.43 | 3.51 | N/A | 30.71 | 090
61735 |  | A | Incise skull/brain surgery | 20.43 | N/A | 12.62 | 4.16 | N/A | 37.21 | 090
61750 |  | A | Incise skull/brain biopsy | 18.20 | N/A | 11.04 | 3.71 | N/A | 32.95 | 090
61751 |  | A | Brain biopsy w/ct/mr guide | 17.62 | N/A | 11.21 | 3.57 | N/A | 32.40 | 090
61760 |  | A | Implant brain electrodes | 22.27 | N/A | 8.96 | 4.59 | N/A | 35.82 | 090
61770 |  | A | Incise skull for treatment | 21.44 | N/A | 12.69 | 4.09 | N/A | 38.22 | 090
61790 |  | A | Treat trigeminal nerve | 10.86 | N/A | 6.21 | 1.82 | N/A | 18.89 | 090
61791 |  | A | Treat trigeminal tract | 14.61 | N/A | 9.29 | 3.03 | N/A | 26.93 | 090
61793 |  | A | Focus radiation beam | 17.24 | N/A | 10.56 | 3.51 | N/A | 31.31 | 090
61795 |  | A | Brain surgery using computer | 4.04 | N/A | 2.08 | 0.81 | N/A | 6.93 | ZZZ
61850 |  | A | Implant neuroelectrodes | 12.39 | N/A | 7.96 | 2.23 | N/A | 22.58 | 090
61860 |  | A | Implant neuroelectrodes | 20.87 | N/A | 12.51 | 4.04 | N/A | 37.42 | 090
61862 |  | A | Implant neurostimul, subcort | 19.34 | N/A | 12.47 | 3.97 | N/A | 35.78 | 090
61870 |  | A | Implant neuroelectrodes | 14.94 | N/A | 10.15 | 1.70 | N/A | 26.79 | 090
61875 |  | A | Implant neuroelectrodes | 15.06 | N/A | 8.97 | 2.42 | N/A | 26.45 | 090
61880 |  | A | Revise/remove neuroelectrode | 6.29 | N/A | 4.84 | 1.31 | N/A | 12.44 | 090
61885 |  | A | Implant neurostim one array | 5.85 | N/A | 5.51 | 1.22 | N/A | 12.58 | 090
61886 |  | A | Implant neurostim arrays | 8.00 | N/A | 6.57 | 1.64 | N/A | 16.21 | 090
61888 |  | A | Revise/remove neuroreceiver | 5.07 | N/A | 3.97 | 1.04 | N/A | 10.08 | 010
62000 |  | A | Treat skull fracture | 12.53 | N/A | 5.97 | 0.87 | N/A | 19.37 | 090
62005 |  | A | Treat skull fracture | 16.17 | N/A | 9.28 | 2.33 | N/A | 27.78 | 090
62010 |  | A | Treatment of head injury | 19.81 | N/A | 12.15 | 4.05 | N/A | 36.01 | 090
62100 |  | A | Repair brain fluid leakage | 22.03 | N/A | 13.31 | 4.07 | N/A | 39.41 | 090
62115 |  | A | Reduction of skull defect | 21.66 | N/A | 12.02 | 4.53 | N/A | 38.21 | 090
62116 |  | A | Reduction of skull defect | 23.59 | N/A | 13.80 | 4.85 | N/A | 42.24 | 090
62117 |  | A | Reduction of skull defect | 26.60 | N/A | 15.64 | 5.56 | N/A | 47.80 | 090
62120 |  | A | Repair skull cavity lesion | 23.35 | N/A | 14.71 | 3.07 | N/A | 41.13 | 090
62121 |  | A | Incise skull repair | 21.58 | N/A | 13.17 | 2.47 | N/A | 37.22 | 090
62140 |  | A | Repair of skull defect | 13.51 | N/A | 8.69 | 2.60 | N/A | 24.80 | 090
62141 |  | A | Repair of skull defect | 14.91 | N/A | 9.48 | 2.85 | N/A | 27.24 | 090
62142 |  | A | Remove skull plate/flap | 10.79 | N/A | 7.34 | 2.10 | N/A | 20.23 | 090
62143 |  | A | Replace skull plate/flap | 13.05 | N/A | 8.44 | 2.55 | N/A | 24.04 | 090
62145 |  | A | Repair of skull & brain | 18.82 | N/A | 11.38 | 3.81 | N/A | 34.01 | 090
62146 |  | A | Repair of skull with graft | 16.12 | N/A | 10.08 | 2.94 | N/A | 29.14 | 090
62147 |  | A | Repair of skull with graft | 19.34 | N/A | 11.84 | 3.64 | N/A | 34.82 | 090
62148 |  | A | Retr bone flap to fix skull | 2.00 | N/A | 0.83 | 0.43 | N/A | 3.26 | ZZZ
62160 |  | A | Neuroendoscopy add-on | 3.00 | N/A | 1.16 | 0.52 | N/A | 4.68 | ZZZ
62161 |  | A | Dissect brain w/scope | 20.00 | N/A | 9.73 | 3.70 | N/A | 33.43 | 090
62162 |  | A | Remove colloid cyst w/scope | 25.25 | N/A | 11.90 | 5.77 | N/A | 42.92 | 090
62163 |  | A | Neuroendoscopy w/fb removal | 15.50 | N/A | 7.98 | 3.70 | N/A | 27.18 | 090
62164 |  | A | Remove brain tumor w/scope | 27.50 | N/A | 13.13 | 5.77 | N/A | 46.40 | 090
62165 |  | A | Remove pituit tumor w/scope | 22.00 | N/A | 10.69 | 3.63 | N/A | 36.32 | 090
62180 |  | A | Establish brain cavity shunt | 21.06 | N/A | 12.73 | 4.32 | N/A | 38.11 | 090
62190 |  | A | Establish brain cavity shunt | 11.07 | N/A | 7.40 | 2.18 | N/A | 20.65 | 090
62192 |  | A | Establish brain cavity shunt | 12.25 | N/A | 7.96 | 2.46 | N/A | 22.67 | 090
62194 |  | A | Replace/irrigate catheter | 5.03 | N/A | 2.84 | 0.50 | N/A | 8.37 | 010
62200 |  | A | Establish brain cavity shunt | 18.32 | N/A | 11.26 | 3.70 | N/A | 33.28 | 090
62201 |  | A | Brain cavity shunt w/scope | 14.86 | N/A | 9.79 | 2.52 | N/A | 27.17 | 090
62220 |  | A | Establish brain cavity shunt | 13.00 | N/A | 8.32 | 2.53 | N/A | 23.85 | 090
62223 |  | A | Establish brain cavity shunt | 12.87 | N/A | 8.55 | 2.58 | N/A | 24.00 | 090
62225 |  | A | Replace/irrigate catheter | 5.41 | N/A | 4.30 | 1.09 | N/A | 10.80 | 090
62230 |  | A | Replace/revise brain shunt | 10.54 | N/A | 6.75 | 2.10 | N/A | 19.39 | 090
62252 |  | A | Csf shunt reprogram | 0.74 | 1.48 | N/A | 0.18 | 2.40 | N/A | XXX
62252 | 26 | A | Csf shunt reprogram | 0.74 | 0.38 | 0.38 | 0.16 | 1.28 | 1.28 | XXX
62252 | TC | A | Csf shunt reprogram | 0.00 | 1.10 | N/A | 0.02 | 1.12 | N/A | XXX
62256 |  | A | Remove brain cavity shunt | 6.60 | N/A | 4.96 | 1.34 | N/A | 12.90 | 090
62258 |  | A | Replace brain cavity shunt | 14.54 | N/A | 9.03 | 2.91 | N/A | 26.48 | 090
62263 |  | A | Epidural lysis mult sessions | 6.14 | 12.34 | 2.41 | 0.42 | 18.90 | 8.97 | 010
62264 |  | A | Epidural lysis on single day | 4.43 | 7.85 | 1.42 | 0.30 | 12.58 | 6.15 | 010
62268 |  | A | Drain spinal cord cyst | 4.74 | 10.78 | 2.21 | 0.29 | 15.81 | 7.24 | 000
62269 |  | A | Needle biopsy, spinal cord | 5.02 | 12.44 | 2.04 | 0.29 | 17.75 | 7.35 | 000
62270 |  | A | Spinal fluid tap, diagnostic | 1.13 | 3.10 | 0.50 | 0.06 | 4.29 | 1.69 | 000
62272 |  | A | Drain cerebro spinal fluid | 1.35 | 3.72 | 0.65 | 0.13 | 5.20 | 2.13 | 000
62273 |  | A | Treat epidural spine lesion | 2.15 | 2.83 | 0.58 | 0.14 | 5.12 | 2.87 | 000
62280 |  | A | Treat spinal cord lesion | 2.63 | 6.81 | 0.89 | 0.17 | 9.61 | 3.69 | 010
62281 |  | A | Treat spinal cord lesion | 2.66 | 5.96 | 0.78 | 0.16 | 8.78 | 3.60 | 010
62282 |  | A | Treat spinal canal lesion | 2.33 | 8.37 | 0.80 | 0.14 | 10.84 | 3.27 | 010
62284 |  | A | Injection for myelogram | 1.54 | 4.98 | 0.61 | 0.10 | 6.62 | 2.25 | 000
62287 |  | A | Percutaneous diskectomy | 8.08 | N/A | 5.75 | 0.66 | N/A | 14.49 | 090
62290 |  | A | Inject for spine disk x-ray | 3.00 | 6.94 | 1.30 | 0.20 | 10.14 | 4.50 | 000
62291 |  | A | Inject for spine disk x-ray | 2.91 | 5.81 | 1.15 | 0.17 | 8.89 | 4.23 | 000
62292 |  | A | Injection into disk lesion | 7.86 | N/A | 4.60 | 0.65 | N/A | 13.11 | 090
62294 |  | A | Injection into spinal artery | 11.83 | N/A | 5.79 | 0.85 | N/A | 18.47 | 090
62310 |  | A | Inject spine c/t | 1.91 | 5.02 | 0.51 | 0.11 | 7.04 | 2.53 | 000
62311 |  | A | Inject spine l/s (cd) | 1.54 | 5.08 | 0.45 | 0.09 | 6.71 | 2.08 | 000
62318 |  | A | Inject spine w/cath, c/t | 2.04 | 5.72 | 0.52 | 0.12 | 7.88 | 2.68 | 000
62319 |  | A | Inject spine w/cath l/s (cd) | 1.87 | 5.01 | 0.48 | 0.11 | 6.99 | 2.46 | 000
62350 |  | A | Implant spinal canal cath | 6.87 | N/A | 4.06 | 0.64 | N/A | 11.57 | 090
62351 |  | A | Implant spinal canal cath | 10.00 | N/A | 7.26 | 1.79 | N/A | 19.05 | 090
62355 |  | A | Remove spinal canal catheter | 5.45 | N/A | 3.26 | 0.47 | N/A | 9.18 | 090
62360 |  | A | Insert spine infusion device | 2.62 | N/A | 2.76 | 0.21 | N/A | 5.59 | 090
62361 |  | A | Implant spine infusion pump | 5.42 | N/A | 3.99 | 0.50 | N/A | 9.91 | 090
62362 |  | A | Implant spine infusion pump | 7.04 | N/A | 4.48 | 0.86 | N/A | 12.38 | 090
62365 |  | A | Remove spine infusion device | 5.42 | N/A | 3.66 | 0.58 | N/A | 9.66 | 090
62367 |  | C | Analyze spine infusion pump | 0.00 | 0.00 | 0.00 | 0.00 | 0.00 | 0.00 | XXX
62367 | 26 | A | Analyze spine infusion pump | 0.48 | 0.13 | 0.13 | 0.03 | 0.64 | 0.64 | XXX
62367 | TC | C | Analyze spine infusion pump | 0.00 | 0.00 | 0.00 | 0.00 | 0.00 | 0.00 | XXX
62368 |  | C | Analyze spine infusion pump | 0.00 | 0.00 | 0.00 | 0.00 | 0.00 | 0.00 | XXX
62368 | 26 | A | Analyze spine infusion pump | 0.75 | 0.19 | 0.19 | 0.05 | 0.99 | 0.99 | XXX
62368 | TC | C | Analyze spine infusion pump | 0.00 | 0.00 | 0.00 | 0.00 | 0.00 | 0.00 | XXX
63001 |  | A | Removal of spinal lamina | 15.82 | N/A | 9.72 | 3.03 | N/A | 28.57 | 090
63003 |  | A | Removal of spinal lamina | 15.95 | N/A | 10.06 | 2.98 | N/A | 28.99 | 090
63005 |  | A | Removal of spinal lamina | 14.92 | N/A | 10.13 | 2.62 | N/A | 27.67 | 090
63011 |  | A | Removal of spinal lamina | 14.52 | N/A | 8.39 | 1.43 | N/A | 24.34 | 090
63012 |  | A | Removal of spinal lamina | 15.40 | N/A | 10.25 | 2.71 | N/A | 28.36 | 090
63015 |  | A | Removal of spinal lamina | 19.35 | N/A | 12.14 | 3.84 | N/A | 35.33 | 090
63016 |  | A | Removal of spinal lamina | 19.20 | N/A | 12.00 | 3.62 | N/A | 34.82 | 090
63017 |  | A | Removal of spinal lamina | 15.94 | N/A | 10.57 | 2.91 | N/A | 29.42 | 090
63020 |  | A | Neck spine disk surgery | 14.81 | N/A | 9.87 | 2.89 | N/A | 27.57 | 090
63030 |  | A | Low back disk surgery | 12.00 | N/A | 8.56 | 2.21 | N/A | 22.77 | 090
63035 |  | A | Spinal disk surgery add-on | 3.15 | N/A | 1.62 | 0.57 | N/A | 5.34 | ZZZ
63040 |  | A | Laminotomy, single cervical | 18.81 | N/A | 11.70 | 3.36 | N/A | 33.87 | 090
63042 |  | A | Laminotomy, single lumbar | 17.47 | N/A | 11.53 | 3.11 | N/A | 32.11 | 090
63043 |  | C | Laminotomy, addl cervical | 0.00 | 0.00 | 0.00 | 0.00 | 0.00 | 0.00 | ZZZ
63044 |  | C | Laminotomy, addl lumbar | 0.00 | 0.00 | 0.00 | 0.00 | 0.00 | 0.00 | ZZZ
63045 |  | A | Removal of spinal lamina | 16.50 | N/A | 10.54 | 3.19 | N/A | 30.23 | 090
63046 |  | A | Removal of spinal lamina | 15.80 | N/A | 10.34 | 2.89 | N/A | 29.03 | 090
63047 |  | A | Removal of spinal lamina | 14.61 | N/A | 10.04 | 2.61 | N/A | 27.26 | 090
63048 |  | A | Remove spinal lamina add-on | 3.26 | N/A | 1.70 | 0.58 | N/A | 5.54 | ZZZ
63055 |  | A | Decompress spinal cord | 21.99 | N/A | 13.38 | 4.09 | N/A | 39.46 | 090
63056 |  | A | Decompress spinal cord | 20.36 | N/A | 12.76 | 3.34 | N/A | 36.46 | 090
63057 |  | A | Decompress spine cord add-on | 5.26 | N/A | 2.70 | 0.81 | N/A | 8.77 | ZZZ
63064 |  | A | Decompress spinal cord | 24.61 | N/A | 14.71 | 4.72 | N/A | 44.04 | 090
63066 |  | A | Decompress spine cord add-on | 3.26 | N/A | 1.70 | 0.63 | N/A | 5.59 | ZZZ
63075 |  | A | Neck spine disk surgery | 19.41 | N/A | 12.33 | 3.73 | N/A | 35.47 | 090
63076 |  | A | Neck spine disk surgery | 4.05 | N/A | 2.10 | 0.78 | N/A | 6.93 | ZZZ
63077 |  | A | Spine disk surgery, thorax | 21.44 | N/A | 12.92 | 3.44 | N/A | 37.80 | 090
63078 |  | A | Spine disk surgery, thorax | 3.28 | N/A | 1.67 | 0.50 | N/A | 5.45 | ZZZ
63081 |  | A | Removal of vertebral body | 23.73 | N/A | 14.59 | 4.46 | N/A | 42.78 | 090
63082 |  | A | Remove vertebral body add-on | 4.37 | N/A | 2.28 | 0.82 | N/A | 7.47 | ZZZ
63085 |  | A | Removal of vertebral body | 26.92 | N/A | 15.67 | 4.70 | N/A | 47.29 | 090
63086 |  | A | Remove vertebral body add-on | 3.19 | N/A | 1.62 | 0.55 | N/A | 5.36 | ZZZ
63087 |  | A | Removal of vertebral body | 35.57 | N/A | 19.78 | 5.87 | N/A | 61.22 | 090
63088 |  | A | Remove vertebral body add-on | 4.33 | N/A | 2.23 | 0.77 | N/A | 7.33 | ZZZ
63090 |  | A | Removal of vertebral body | 28.16 | N/A | 16.27 | 4.27 | N/A | 48.70 | 090
63091 |  | A | Remove vertebral body add-on | 3.03 | N/A | 1.49 | 0.45 | N/A | 4.97 | ZZZ
63170 |  | A | Incise spinal cord tract(s) | 19.83 | N/A | 12.38 | 3.89 | N/A | 36.10 | 090
63172 |  | A | Drainage of spinal cyst | 17.66 | N/A | 11.22 | 3.46 | N/A | 32.34 | 090
63173 |  | A | Drainage of spinal cyst | 21.99 | N/A | 13.39 | 4.14 | N/A | 39.52 | 090
63180 |  | A | Revise spinal cord ligaments | 18.27 | N/A | 11.52 | 3.83 | N/A | 33.62 | 090
63182 |  | A | Revise spinal cord ligaments | 20.50 | N/A | 11.44 | 3.48 | N/A | 35.42 | 090
63185 |  | A | Incise spinal column/nerves | 15.04 | N/A | 8.46 | 2.08 | N/A | 25.58 | 090
63190 |  | A | Incise spinal column/nerves | 17.45 | N/A | 10.59 | 2.88 | N/A | 30.92 | 090
63191 |  | A | Incise spinal column/nerves | 17.54 | N/A | 11.04 | 3.50 | N/A | 32.08 | 090
63194 |  | A | Incise spinal column & cord | 19.19 | N/A | 12.05 | 4.01 | N/A | 35.25 | 090
63195 |  | A | Incise spinal column & cord | 18.84 | N/A | 11.56 | 3.44 | N/A | 33.84 | 090
63196 |  | A | Incise spinal column & cord | 22.30 | N/A | 12.34 | 4.66 | N/A | 39.30 | 090
63197 |  | A | Incise spinal column & cord | 21.11 | N/A | 12.55 | 4.42 | N/A | 38.08 | 090
63198 |  | A | Incise spinal column & cord | 25.38 | N/A | 9.91 | 5.31 | N/A | 40.60 | 090
63199 |  | A | Incise spinal column & cord | 26.89 | N/A | 15.19 | 5.62 | N/A | 47.70 | 090
63200 |  | A | Release of spinal cord | 19.18 | N/A | 11.78 | 3.61 | N/A | 34.57 | 090
63250 |  | A | Revise spinal cord vessels | 40.76 | N/A | 20.52 | 7.65 | N/A | 68.93 | 090
63251 |  | A | Revise spinal cord vessels | 41.20 | N/A | 23.24 | 7.98 | N/A | 72.42 | 090
63252 |  | A | Revise spinal cord vessels | 41.19 | N/A | 22.89 | 7.75 | N/A | 71.83 | 090
63265 |  | A | Excise intraspinal lesion | 21.56 | N/A | 13.18 | 4.29 | N/A | 39.03 | 090
63266 |  | A | Excise intraspinal lesion | 22.30 | N/A | 13.61 | 4.47 | N/A | 40.38 | 090
63267 |  | A | Excise intraspinal lesion | 17.95 | N/A | 11.45 | 3.50 | N/A | 32.90 | 090
63268 |  | A | Excise intraspinal lesion | 18.52 | N/A | 10.73 | 3.18 | N/A | 32.43 | 090
63270 |  | A | Excise intraspinal lesion | 26.80 | N/A | 15.94 | 5.41 | N/A | 48.15 | 090
63271 |  | A | Excise intraspinal lesion | 26.92 | N/A | 16.05 | 5.56 | N/A | 48.53 | 090
63272 |  | A | Excise intraspinal lesion | 25.32 | N/A | 15.15 | 5.07 | N/A | 45.54 | 090
63273 |  | A | Excise intraspinal lesion | 24.29 | N/A | 14.75 | 5.08 | N/A | 44.12 | 090
63275 |  | A | Biopsy/excise spinal tumor | 23.68 | N/A | 14.21 | 4.68 | N/A | 42.57 | 090
63276 |  | A | Biopsy/excise spinal tumor | 23.45 | N/A | 14.11 | 4.63 | N/A | 42.19 | 090
63277 |  | A | Biopsy/excise spinal tumor | 20.83 | N/A | 12.92 | 4.03 | N/A | 37.78 | 090
63278 |  | A | Biopsy/excise spinal tumor | 20.56 | N/A | 12.78 | 4.02 | N/A | 37.36 | 090
63280 |  | A | Biopsy/excise spinal tumor | 28.35 | N/A | 16.81 | 5.80 | N/A | 50.96 | 090
63281 |  | A | Biopsy/excise spinal tumor | 28.05 | N/A | 16.66 | 5.67 | N/A | 50.38 | 090
63282 |  | A | Biopsy/excise spinal tumor | 26.39 | N/A | 15.80 | 5.33 | N/A | 47.52 | 090
63283 |  | A | Biopsy/excise spinal tumor | 25.00 | N/A | 15.12 | 5.12 | N/A | 45.24 | 090
63285 |  | A | Biopsy/excise spinal tumor | 36.00 | N/A | 20.53 | 7.31 | N/A | 63.84 | 090
63286 |  | A | Biopsy/excise spinal tumor | 35.63 | N/A | 20.48 | 7.07 | N/A | 63.18 | 090
63287 |  | A | Biopsy/excise spinal tumor | 36.70 | N/A | 21.04 | 7.48 | N/A | 65.22 | 090
63290 |  | A | Biopsy/excise spinal tumor | 37.38 | N/A | 21.20 | 7.65 | N/A | 66.23 | 090
63300 |  | A | Removal of vertebral body | 24.43 | N/A | 14.75 | 4.78 | N/A | 43.96 | 090
63301 |  | A | Removal of vertebral body | 27.60 | N/A | 15.96 | 5.03 | N/A | 48.59 | 090
63302 |  | A | Removal of vertebral body | 27.81 | N/A | 16.28 | 5.25 | N/A | 49.34 | 090
63303 |  | A | Removal of vertebral body | 30.50 | N/A | 17.39 | 5.21 | N/A | 53.10 | 090
63304 |  | A | Removal of vertebral body | 30.33 | N/A | 17.80 | 4.72 | N/A | 52.85 | 090
63305 |  | A | Removal of vertebral body | 32.03 | N/A | 18.47 | 5.39 | N/A | 55.89 | 090
63306 |  | A | Removal of vertebral body | 32.22 | N/A | 18.10 | 2.39 | N/A | 52.71 | 090
63307 |  | A | Removal of vertebral body | 31.63 | N/A | 17.31 | 4.23 | N/A | 53.17 | 090
63308 |  | A | Remove vertebral body add-on | 5.25 | N/A | 2.67 | 1.01 | N/A | 8.93 | ZZZ
63600 |  | A | Remove spinal cord lesion | 14.02 | N/A | 5.59 | 1.22 | N/A | 20.83 | 090
63610 |  | A | Stimulation of spinal cord | 8.73 | 56.96 | 2.32 | 0.43 | 66.12 | 11.48 | 000
63615 |  | A | Remove lesion of spinal cord | 16.28 | N/A | 9.52 | 2.85 | N/A | 28.65 | 090
63650 |  | A | Implant neuroelectrodes | 6.74 | N/A | 3.30 | 0.48 | N/A | 10.52 | 090
63655 |  | A | Implant neuroelectrodes | 10.29 | N/A | 7.17 | 1.85 | N/A | 19.31 | 090
63660 |  | A | Revise/remove neuroelectrode | 6.16 | N/A | 3.80 | 0.65 | N/A | 10.61 | 090
63685 |  | A | Implant neuroreceiver | 7.04 | N/A | 4.34 | 0.96 | N/A | 12.34 | 090
63688 |  | A | Revise/remove neuroreceiver | 5.39 | N/A | 3.75 | 0.70 | N/A | 9.84 | 090
63700 |  | A | Repair of spinal herniation | 16.53 | N/A | 10.63 | 2.69 | N/A | 29.85 | 090
63702 |  | A | Repair of spinal herniation | 18.48 | N/A | 11.00 | 1.36 | N/A | 30.84 | 090
63704 |  | A | Repair of spinal herniation | 21.18 | N/A | 13.14 | 3.84 | N/A | 38.16 | 090
63706 |  | A | Repair of spinal herniation | 24.11 | N/A | 14.00 | 4.73 | N/A | 42.84 | 090
63707 |  | A | Repair spinal fluid leakage | 11.26 | N/A | 7.99 | 1.96 | N/A | 21.21 | 090
63709 |  | A | Repair spinal fluid leakage | 14.32 | N/A | 9.71 | 2.49 | N/A | 26.52 | 090
63710 |  | A | Graft repair of spine defect | 14.07 | N/A | 9.36 | 2.61 | N/A | 26.04 | 090
63740 |  | A | Install spinal shunt | 11.36 | N/A | 7.63 | 2.15 | N/A | 21.14 | 090
63741 |  | A | Install spinal shunt | 8.25 | N/A | 4.96 | 1.05 | N/A | 14.26 | 090
63744 |  | A | Revision of spinal shunt | 8.10 | N/A | 5.49 | 1.51 | N/A | 15.10 | 090
63746 |  | A | Removal of spinal shunt | 6.43 | N/A | 3.96 | 1.15 | N/A | 11.54 | 090
64400 |  | A | N block inj, trigeminal | 1.11 | 2.06 | 0.37 | 0.06 | 3.23 | 1.54 | 000
64402 |  | A | N block inj, facial | 1.25 | 1.79 | 0.54 | 0.07 | 3.11 | 1.86 | 000
64405 |  | A | N block inj, occipital | 1.32 | 1.55 | 0.40 | 0.08 | 2.95 | 1.80 | 000
64408 |  | A | N block inj, vagus | 1.41 | 1.63 | 0.67 | 0.09 | 3.13 | 2.17 | 000
64410 |  | A | N block inj, phrenic | 1.43 | 2.67 | 0.40 | 0.08 | 4.18 | 1.91 | 000
64412 |  | A | N block inj, spinal accessor | 1.18 | 2.80 | 0.37 | 0.08 | 4.06 | 1.63 | 000
64413 |  | A | N block inj, cervical plexus | 1.40 | 1.95 | 0.44 | 0.09 | 3.44 | 1.93 | 000
64415 |  | A | N block inj, brachial plexus | 1.48 | 2.95 | 0.40 | 0.08 | 4.51 | 1.96 | 000
64416 |  | A | N block cont infuse, b plex | 3.50 | N/A | 0.73 | 0.08 | N/A | 4.31 | 010
64417 |  | A | N block inj, axillary | 1.44 | 3.19 | 0.43 | 0.09 | 4.72 | 1.96 | 000
64418 |  | A | N block inj, suprascapular | 1.32 | 2.76 | 0.37 | 0.07 | 4.15 | 1.76 | 000
64420 |  | A | N block inj, intercost, sng | 1.18 | 3.62 | 0.36 | 0.07 | 4.87 | 1.61 | 000
64421 |  | A | N block inj, intercost, mlt | 1.68 | 5.53 | 0.46 | 0.10 | 7.31 | 2.24 | 000
64425 |  | A | N block inj ilio-ing/hypogi | 1.75 | 1.74 | 0.48 | 0.11 | 3.60 | 2.34 | 000
64430 |  | A | N block inj, pudendal | 1.46 | 2.66 | 0.50 | 0.11 | 4.23 | 2.07 | 000
64435 |  | A | N block inj, paracervical | 1.45 | 2.67 | 0.64 | 0.15 | 4.27 | 2.24 | 000
64445 |  | A | N block inj, sciatic, sng | 1.48 | 2.78 | 0.38 | 0.08 | 4.34 | 1.94 | 000
64446 |  | A | N blk inj, sciatic, cont inf | 3.25 | N/A | 1.21 | 0.08 | N/A | 4.54 | 010
64447 |  | A | N block inj fem, single | 1.50 | N/A | 0.52 | 0.08 | N/A | 2.10 | 000
64448 |  | A | N block inj fem, cont inf | 3.00 | N/A | 1.04 | 0.08 | N/A | 4.12 | 010
64450 |  | A | N block, other peripheral | 1.27 | 1.30 | 0.42 | 0.08 | 2.65 | 1.77 | 000
64470 |  | A | Inj paravertebral c/t | 1.85 | 4.97 | 0.57 | 0.12 | 6.94 | 2.54 | 000
64472 |  | A | Inj paravertebral c/t add-on | 1.29 | 1.99 | 0.31 | 0.09 | 3.37 | 1.69 | ZZZ
64475 |  | A | Inj paravertebral l/s | 1.41 | 4.67 | 0.48 | 0.09 | 6.17 | 1.98 | 000
64476 |  | A | Inj paravertebral l/s add-on | 0.98 | 1.87 | 0.25 | 0.06 | 2.91 | 1.29 | ZZZ
64479 |  | A | Inj foramen epidural c/t | 2.20 | 7.22 | 0.73 | 0.14 | 9.56 | 3.07 | 000
64480 |  | A | Inj foramen epidural add-on | 1.54 | 2.46 | 0.48 | 0.09 | 4.09 | 2.11 | ZZZ
64483 |  | A | Inj foramen epidural l/s | 1.90 | 7.74 | 0.66 | 0.12 | 9.76 | 2.68 | 000
64484 |  | A | Inj foramen epidural add-on | 1.33 | 2.88 | 0.38 | 0.08 | 4.29 | 1.79 | ZZZ
64505 |  | A | N block, spenopalatine gangl | 1.36 | 1.26 | 0.48 | 0.08 | 2.70 | 1.92 | 000
64508 |  | A | N block, carotid sinus s/p | 1.12 | 3.18 | 0.52 | 0.06 | 4.36 | 1.70 | 000
64510 |  | A | N block, stellate ganglion | 1.22 | 3.32 | 0.38 | 0.07 | 4.61 | 1.67 | 000
64520 |  | A | N block, lumbar/thoracic | 1.35 | 4.67 | 0.42 | 0.08 | 6.10 | 1.85 | 000
64530 |  | A | N block inj, celiac pelus | 1.58 | 4.08 | 0.48 | 0.09 | 5.75 | 2.15 | 000
64550 |  | A | Apply neurostimulator | 0.18 | 0.28 | 0.05 | 0.01 | 0.47 | 0.24 | 000
64553 |  | A | Implant neuroelectrodes | 2.31 | 2.95 | 1.90 | 0.17 | 5.43 | 4.38 | 010
64555 |  | A | Implant neuroelectrodes | 2.27 | 3.22 | 1.23 | 0.11 | 5.60 | 3.61 | 010
64560 |  | A | Implant neuroelectrodes | 2.36 | 2.73 | 1.34 | 0.17 | 5.26 | 3.87 | 010
64561 |  | A | Implant neuroelectrodes | 6.74 | N/A | 3.23 | 0.11 | N/A | 10.08 | 010
64565 |  | A | Implant neuroelectrodes | 1.76 | 3.38 | 1.29 | 0.08 | 5.22 | 3.13 | 010
64573 |  | A | Implant neuroelectrodes | 7.50 | N/A | 5.43 | 1.48 | N/A | 14.41 | 090
64575 |  | A | Implant neuroelectrodes | 4.35 | N/A | 2.94 | 0.37 | N/A | 7.66 | 090
64577 |  | A | Implant neuroelectrodes | 4.62 | N/A | 3.43 | 0.50 | N/A | 8.55 | 090
64580 |  | A | Implant neuroelectrodes | 4.12 | N/A | 3.78 | 0.21 | N/A | 8.11 | 090
64581 |  | A | Implant neuroelectrodes | 13.50 | N/A | 5.53 | 0.37 | N/A | 19.40 | 090
64585 |  | A | Revise/remove neuroelectrode | 2.06 | 11.73 | 1.75 | 0.29 | 14.08 | 4.10 | 010
64590 |  | A | Implant neuroreceiver | 2.40 | 7.41 | 1.94 | 0.40 | 10.21 | 4.74 | 010
64595 |  | A | Revise/remove neuroreceiver | 1.73 | 10.90 | 1.52 | 0.22 | 12.85 | 3.47 | 010
64600 |  | A | Injection treatment of nerve | 3.45 | 7.83 | 1.60 | 0.28 | 11.56 | 5.33 | 010
64605 |  | A | Injection treatment of nerve | 5.61 | 9.33 | 2.08 | 0.53 | 15.47 | 8.22 | 010
64610 |  | A | Injection treatment of nerve | 7.16 | 7.94 | 3.65 | 1.12 | 16.22 | 11.93 | 010
64612 |  | A | Destroy nerve, face muscle | 1.96 | 2.67 | 1.09 | 0.09 | 4.72 | 3.14 | 010
64613 |  | A | Destroy nerve, spine muscle | 1.96 | 3.04 | 1.01 | 0.10 | 5.10 | 3.07 | 010
64614 |  | A | Destroy nerve, extrem musc | 2.20 | 3.30 | 1.13 | 0.09 | 5.59 | 3.42 | 010
64620 |  | A | Injection treatment of nerve | 2.84 | 4.72 | 1.19 | 0.17 | 7.73 | 4.20 | 010
64622 |  | A | Destr paravertebrl nerve l/s | 3.00 | 7.63 | 1.25 | 0.17 | 10.80 | 4.42 | 010
64623 |  | A | Destr paravertebral n add-on | 0.99 | 2.44 | 0.23 | 0.06 | 3.49 | 1.28 | ZZZ
64626 |  | A | Destr paravertebrl nerve c/t | 3.28 | 6.63 | 1.86 | 0.22 | 10.13 | 5.36 | 010
64627 |  | A | Destr paravertebral n add-on | 1.16 | 2.63 | 0.27 | 0.08 | 3.87 | 1.51 | ZZZ
64630 |  | A | Injection treatment of nerve | 3.00 | 2.80 | 1.29 | 0.16 | 5.96 | 4.45 | 010
64640 |  | A | Injection treatment of nerve | 2.76 | 4.29 | 1.68 | 0.11 | 7.16 | 4.55 | 010
64680 |  | A | Injection treatment of nerve | 2.62 | 6.18 | 1.28 | 0.15 | 8.95 | 4.05 | 010
64702 |  | A | Revise finger/toe nerve | 4.23 | N/A | 4.22 | 0.51 | N/A | 8.96 | 090
64704 |  | A | Revise hand/foot nerve | 4.57 | N/A | 3.48 | 0.59 | N/A | 8.64 | 090
64708 |  | A | Revise arm/leg nerve | 6.12 | N/A | 5.21 | 0.82 | N/A | 12.15 | 090
64712 |  | A | Revision of sciatic nerve | 7.75 | N/A | 5.29 | 0.54 | N/A | 13.58 | 090
64713 |  | A | Revision of arm nerve(s) | 11.00 | N/A | 6.10 | 1.01 | N/A | 18.11 | 090
64714 |  | A | Revise low back nerve(s) | 10.33 | N/A | 4.40 | 0.64 | N/A | 15.37 | 090
64716 |  | A | Revision of cranial nerve | 6.31 | N/A | 5.54 | 0.59 | N/A | 12.44 | 090
64718 |  | A | Revise ulnar nerve at elbow | 5.99 | N/A | 6.22 | 0.87 | N/A | 13.08 | 090
64719 |  | A | Revise ulnar nerve at wrist | 4.85 | N/A | 4.90 | 0.63 | N/A | 10.38 | 090
64721 |  | A | Carpal tunnel surgery | 4.29 | 5.25 | 5.25 | 0.59 | 10.13 | 10.13 | 090
64722 |  | A | Relieve pressure on nerve(s) | 4.70 | N/A | 3.29 | 0.32 | N/A | 8.31 | 090
64726 |  | A | Release foot/toe nerve | 4.18 | N/A | 3.04 | 0.57 | N/A | 7.79 | 090
64727 |  | A | Internal nerve revision | 3.10 | N/A | 1.53 | 0.40 | N/A | 5.03 | ZZZ
64732 |  | A | Incision of brow nerve | 4.41 | N/A | 3.76 | 0.77 | N/A | 8.94 | 090
64734 |  | A | Incision of cheek nerve | 4.92 | N/A | 4.30 | 0.83 | N/A | 10.05 | 090
64736 |  | A | Incision of chin nerve | 4.60 | N/A | 4.27 | 0.71 | N/A | 9.58 | 090
64738 |  | A | Incision of jaw nerve | 5.73 | N/A | 4.87 | 0.84 | N/A | 11.44 | 090
64740 |  | A | Incision of tongue nerve | 5.59 | N/A | 4.63 | 0.43 | N/A | 10.65 | 090
64742 |  | A | Incision of facial nerve | 6.22 | N/A | 5.06 | 0.69 | N/A | 11.97 | 090
64744 |  | A | Incise nerve, back of head | 5.24 | N/A | 4.02 | 0.98 | N/A | 10.24 | 090
64746 |  | A | Incise diaphragm nerve | 5.93 | N/A | 4.63 | 0.75 | N/A | 11.31 | 090
64752 |  | A | Incision of vagus nerve | 7.06 | N/A | 4.43 | 0.83 | N/A | 12.32 | 090
64755 |  | A | Incision of stomach nerves | 13.52 | N/A | 5.91 | 1.16 | N/A | 20.59 | 090
64760 |  | A | Incision of vagus nerve | 6.96 | N/A | 3.72 | 0.51 | N/A | 11.19 | 090
64761 |  | A | Incision of pelvis nerve | 6.41 | N/A | 3.82 | 0.26 | N/A | 10.49 | 090
64763 |  | A | Incise hip/thigh nerve | 6.93 | N/A | 5.66 | 0.77 | N/A | 13.36 | 090
64766 |  | A | Incise hip/thigh nerve | 8.67 | N/A | 5.53 | 0.99 | N/A | 15.19 | 090
64771 |  | A | Sever cranial nerve | 7.35 | N/A | 5.83 | 1.32 | N/A | 14.50 | 090
64772 |  | A | Incision of spinal nerve | 7.21 | N/A | 5.19 | 1.20 | N/A | 13.60 | 090
64774 |  | A | Remove skin nerve lesion | 5.17 | N/A | 4.11 | 0.60 | N/A | 9.88 | 090
64776 |  | A | Remove digit nerve lesion | 5.12 | N/A | 4.00 | 0.63 | N/A | 9.75 | 090
64778 |  | A | Digit nerve surgery add-on | 3.11 | N/A | 1.53 | 0.38 | N/A | 5.02 | ZZZ
64782 |  | A | Remove limb nerve lesion | 6.23 | N/A | 3.98 | 0.79 | N/A | 11.00 | 090
64783 |  | A | Limb nerve surgery add-on | 3.72 | N/A | 1.88 | 0.48 | N/A | 6.08 | ZZZ
64784 |  | A | Remove nerve lesion | 9.82 | N/A | 6.96 | 1.17 | N/A | 17.95 | 090
64786 |  | A | Remove sciatic nerve lesion | 15.46 | N/A | 10.36 | 2.22 | N/A | 28.04 | 090
64787 |  | A | Implant nerve end | 4.30 | N/A | 2.17 | 0.56 | N/A | 7.03 | ZZZ
64788 |  | A | Remove skin nerve lesion | 4.61 | N/A | 3.75 | 0.54 | N/A | 8.90 | 090
64790 |  | A | Removal of nerve lesion | 11.31 | N/A | 7.57 | 1.68 | N/A | 20.56 | 090
64792 |  | A | Removal of nerve lesion | 14.92 | N/A | 9.20 | 1.88 | N/A | 26.00 | 090
64795 |  | A | Biopsy of nerve | 3.01 | N/A | 1.62 | 0.40 | N/A | 5.03 | 000
64802 |  | A | Remove sympathetic nerves | 9.15 | N/A | 5.27 | 0.87 | N/A | 15.29 | 090
64804 |  | A | Remove sympathetic nerves | 14.64 | N/A | 7.25 | 1.79 | N/A | 23.68 | 090
64809 |  | A | Remove sympathetic nerves | 13.67 | N/A | 5.94 | 0.96 | N/A | 20.57 | 090
64818 |  | A | Remove sympathetic nerves | 10.30 | N/A | 5.42 | 1.08 | N/A | 16.80 | 090
64820 |  | A | Remove sympathetic nerves | 10.37 | N/A | 7.35 | 1.17 | N/A | 18.89 | 090
64821 |  | A | Remove sympathestic nerves | 8.75 | N/A | 7.60 | 0.99 | N/A | 17.34 | 090
64822 |  | A | Remove sympathetic nerves | 8.75 | N/A | 7.53 | 0.99 | N/A | 17.27 | 090
64823 |  | A | Remove sympathetic nerves | 10.37 | N/A | 8.45 | 1.17 | N/A | 19.99 | 090
64831 |  | A | Repair of digit nerve | 9.44 | N/A | 7.53 | 1.14 | N/A | 18.11 | 090
64832 |  | A | Repair nerve add-on | 5.66 | N/A | 3.00 | 0.68 | N/A | 9.34 | ZZZ
64834 |  | A | Repair of hand or foot nerve | 10.19 | N/A | 7.56 | 1.23 | N/A | 18.98 | 090
64835 |  | A | Repair of hand or foot nerve | 10.94 | N/A | 8.16 | 1.36 | N/A | 20.46 | 090
64836 |  | A | Repair of hand or foot nerve | 10.94 | N/A | 8.13 | 1.32 | N/A | 20.39 | 090
64837 |  | A | Repair nerve add-on | 6.26 | N/A | 3.31 | 0.80 | N/A | 10.37 | ZZZ
64840 |  | A | Repair of leg nerve | 13.02 | N/A | 8.70 | 0.86 | N/A | 22.58 | 090
64856 |  | A | Repair/transpose nerve | 13.80 | N/A | 9.68 | 1.71 | N/A | 25.19 | 090
64857 |  | A | Repair arm/leg nerve | 14.49 | N/A | 10.15 | 1.76 | N/A | 26.40 | 090
64858 |  | A | Repair sciatic nerve | 16.49 | N/A | 11.15 | 2.78 | N/A | 30.42 | 090
64859 |  | A | Nerve surgery | 4.26 | N/A | 2.24 | 0.50 | N/A | 7.00 | ZZZ
64861 |  | A | Repair of arm nerves | 19.24 | N/A | 12.13 | 2.45 | N/A | 33.82 | 090
64862 |  | A | Repair of low back nerves | 19.44 | N/A | 12.18 | 2.47 | N/A | 34.09 | 090
64864 |  | A | Repair of facial nerve | 12.55 | N/A | 8.52 | 1.13 | N/A | 22.20 | 090
64865 |  | A | Repair of facial nerve | 15.24 | N/A | 10.23 | 1.37 | N/A | 26.84 | 090
64866 |  | A | Fusion of facial/other nerve | 15.74 | N/A | 10.06 | 1.06 | N/A | 26.86 | 090
64868 |  | A | Fusion of facial/other nerve | 14.04 | N/A | 9.22 | 1.40 | N/A | 24.66 | 090
64870 |  | A | Fusion of facial/other nerve | 15.99 | N/A | 9.10 | 1.08 | N/A | 26.17 | 090
64872 |  | A | Subsequent repair of nerve | 1.99 | N/A | 1.10 | 0.24 | N/A | 3.33 | ZZZ
64874 |  | A | Repair & revise nerve add-on | 2.98 | N/A | 1.57 | 0.34 | N/A | 4.89 | ZZZ
64876 |  | A | Repair nerve/shorten bone | 3.38 | N/A | 1.31 | 0.39 | N/A | 5.08 | ZZZ
64885 |  | A | Nerve graft, head or neck | 17.53 | N/A | 11.26 | 1.51 | N/A | 30.30 | 090
64886 |  | A | Nerve graft, head or neck | 20.75 | N/A | 13.13 | 1.73 | N/A | 35.61 | 090
64890 |  | A | Nerve graft, hand or foot | 15.15 | N/A | 10.52 | 1.74 | N/A | 27.41 | 090
64891 |  | A | Nerve graft, hand or foot | 16.14 | N/A | 7.97 | 1.38 | N/A | 25.49 | 090
64892 |  | A | Nerve graft, arm or leg | 14.65 | N/A | 9.31 | 1.65 | N/A | 25.61 | 090
64893 |  | A | Nerve graft, arm or leg | 15.60 | N/A | 10.30 | 1.77 | N/A | 27.67 | 090
64895 |  | A | Nerve graft, hand or foot | 19.25 | N/A | 10.06 | 2.04 | N/A | 31.35 | 090
64896 |  | A | Nerve graft, hand or foot | 20.49 | N/A | 11.53 | 1.85 | N/A | 33.87 | 090
64897 |  | A | Nerve graft, arm or leg | 18.24 | N/A | 11.19 | 2.64 | N/A | 32.07 | 090
64898 |  | A | Nerve graft, arm or leg | 19.50 | N/A | 12.29 | 2.71 | N/A | 34.50 | 090
64901 |  | A | Nerve graft add-on | 10.22 | N/A | 5.39 | 0.99 | N/A | 16.60 | ZZZ
64902 |  | A | Nerve graft add-on | 11.83 | N/A | 6.10 | 1.10 | N/A | 19.03 | ZZZ
64905 |  | A | Nerve pedicle transfer | 14.02 | N/A | 8.98 | 1.52 | N/A | 24.52 | 090
64907 |  | A | Nerve pedicle transfer | 18.83 | N/A | 12.64 | 1.79 | N/A | 33.26 | 090
64999 |  | C | Nervous system surgery | 0.00 | 0.00 | 0.00 | 0.00 | 0.00 | 0.00 | YYY
65091 |  | A | Revise eye | 6.46 | N/A | 9.88 | 0.26 | N/A | 16.60 | 090
65093 |  | A | Revise eye with implant | 6.87 | N/A | 10.25 | 0.28 | N/A | 17.40 | 090
65101 |  | A | Removal of eye | 7.03 | N/A | 10.83 | 0.28 | N/A | 18.14 | 090
65103 |  | A | Remove eye/insert implant | 7.57 | N/A | 11.04 | 0.30 | N/A | 18.91 | 090
65105 |  | A | Remove eye/attach implant | 8.49 | N/A | 11.70 | 0.34 | N/A | 20.53 | 090
65110 |  | A | Removal of eye | 13.95 | N/A | 14.98 | 0.68 | N/A | 29.61 | 090
65112 |  | A | Remove eye/revise socket | 16.38 | N/A | 17.38 | 0.96 | N/A | 34.72 | 090
65114 |  | A | Remove eye/revise socket | 17.53 | N/A | 17.50 | 0.94 | N/A | 35.97 | 090
65125 |  | A | Revise ocular implant | 3.12 | 9.35 | 3.02 | 0.15 | 12.62 | 6.29 | 090
65130 |  | A | Insert ocular implant | 7.15 | N/A | 10.42 | 0.28 | N/A | 17.85 | 090
65135 |  | A | Insert ocular implant | 7.33 | N/A | 10.59 | 0.29 | N/A | 18.21 | 090
65140 |  | A | Attach ocular implant | 8.02 | N/A | 11.06 | 0.31 | N/A | 19.39 | 090
65150 |  | A | Revise ocular implant | 6.26 | N/A | 9.43 | 0.25 | N/A | 15.94 | 090
65155 |  | A | Reinsert ocular implant | 8.66 | N/A | 11.80 | 0.40 | N/A | 20.86 | 090
65175 |  | A | Removal of ocular implant | 6.28 | N/A | 9.81 | 0.26 | N/A | 16.35 | 090
65205 |  | A | Remove foreign body from eye | 0.71 | 0.61 | 0.19 | 0.03 | 1.35 | 0.93 | 000
65210 |  | A | Remove foreign body from eye | 0.84 | 0.75 | 0.30 | 0.03 | 1.62 | 1.17 | 000
65220 |  | A | Remove foreign body from eye | 0.71 | 0.61 | 0.18 | 0.05 | 1.37 | 0.94 | 000
65222 |  | A | Remove foreign body from eye | 0.93 | 0.77 | 0.27 | 0.04 | 1.74 | 1.24 | 000
65235 |  | A | Remove foreign body from eye | 7.57 | N/A | 7.41 | 0.30 | N/A | 15.28 | 090
65260 |  | A | Remove foreign body from eye | 10.96 | N/A | 11.71 | 0.43 | N/A | 23.10 | 090
65265 |  | A | Remove foreign body from eye | 12.59 | N/A | 12.91 | 0.50 | N/A | 26.00 | 090
65270 |  | A | Repair of eye wound | 1.90 | 3.90 | 2.28 | 0.08 | 5.88 | 4.26 | 010
65272 |  | A | Repair of eye wound | 3.82 | 5.89 | 5.30 | 0.16 | 9.87 | 9.28 | 090
65273 |  | A | Repair of eye wound | 4.36 | N/A | 5.63 | 0.17 | N/A | 10.16 | 090
65275 |  | A | Repair of eye wound | 5.34 | 5.78 | 5.78 | 0.27 | 11.39 | 11.39 | 090
65280 |  | A | Repair of eye wound | 7.66 | N/A | 8.32 | 0.30 | N/A | 16.28 | 090
65285 |  | A | Repair of eye wound | 12.90 | N/A | 12.77 | 0.51 | N/A | 26.18 | 090
65286 |  | A | Repair of eye wound | 5.51 | 8.57 | 7.65 | 0.21 | 14.29 | 13.37 | 090
65290 |  | A | Repair of eye socket wound | 5.41 | N/A | 6.61 | 0.26 | N/A | 12.28 | 090
65400 |  | A | Removal of eye lesion | 6.06 | 8.78 | 7.60 | 0.24 | 15.08 | 13.90 | 090
65410 |  | A | Biopsy of cornea | 1.47 | 1.74 | 0.66 | 0.06 | 3.27 | 2.19 | 000
65420 |  | A | Removal of eye lesion | 4.17 | 7.65 | 6.84 | 0.17 | 11.99 | 11.18 | 090
65426 |  | A | Removal of eye lesion | 5.25 | 7.62 | 6.66 | 0.20 | 13.07 | 12.11 | 090
65430 |  | A | Corneal smear | 1.47 | 5.02 | 0.67 | 0.06 | 6.55 | 2.20 | 000
65435 |  | A | Curette/treat cornea | 0.92 | 1.35 | 0.40 | 0.04 | 2.31 | 1.36 | 000
65436 |  | A | Curette/treat cornea | 4.19 | 5.95 | 5.31 | 0.17 | 10.31 | 9.67 | 090
65450 |  | A | Treatment of corneal lesion | 3.27 | 7.32 | 6.43 | 0.13 | 10.72 | 9.83 | 090
65600 |  | A | Revision of cornea | 3.40 | 5.73 | 3.17 | 0.14 | 9.27 | 6.71 | 090
65710 |  | A | Corneal transplant | 12.35 | N/A | 12.72 | 0.49 | N/A | 25.56 | 090
65730 |  | A | Corneal transplant | 14.25 | N/A | 12.08 | 0.56 | N/A | 26.89 | 090
65750 |  | A | Corneal transplant | 15.00 | N/A | 13.75 | 0.59 | N/A | 29.34 | 090
65755 |  | A | Corneal transplant | 14.89 | N/A | 13.66 | 0.58 | N/A | 29.13 | 090
65770 |  | A | Revise cornea with implant | 17.56 | N/A | 14.78 | 0.69 | N/A | 33.03 | 090
65772 |  | A | Correction of astigmatism | 4.29 | 7.17 | 6.46 | 0.17 | 11.63 | 10.92 | 090
65775 |  | A | Correction of astigmatism | 5.79 | N/A | 7.65 | 0.22 | N/A | 13.66 | 090
65800 |  | A | Drainage of eye | 1.91 | 2.31 | 1.14 | 0.08 | 4.30 | 3.13 | 000
65805 |  | A | Drainage of eye | 1.91 | 2.31 | 1.15 | 0.08 | 4.30 | 3.14 | 000
65810 |  | A | Drainage of eye | 4.87 | N/A | 8.08 | 0.19 | N/A | 13.14 | 090
65815 |  | A | Drainage of eye | 5.05 | 8.41 | 7.51 | 0.20 | 13.66 | 12.76 | 090
65820 |  | A | Relieve inner eye pressure | 8.13 | N/A | 10.62 | 0.32 | N/A | 19.07 | 090
65850 |  | A | Incision of eye | 10.52 | N/A | 9.71 | 0.41 | N/A | 20.64 | 090
65855 |  | A | Laser surgery of eye | 3.85 | 5.29 | 4.12 | 0.17 | 9.31 | 8.14 | 010
65860 |  | A | Incise inner eye adhesions | 3.55 | 4.02 | 3.36 | 0.14 | 7.71 | 7.05 | 090
65865 |  | A | Incise inner eye adhesions | 5.60 | N/A | 6.65 | 0.22 | N/A | 12.47 | 090
65870 |  | A | Incise inner eye adhesions | 6.27 | N/A | 7.32 | 0.24 | N/A | 13.83 | 090
65875 |  | A | Incise inner eye adhesions | 6.54 | N/A | 7.62 | 0.25 | N/A | 14.41 | 090
65880 |  | A | Incise inner eye adhesions | 7.09 | N/A | 7.87 | 0.28 | N/A | 15.24 | 090
65900 |  | A | Remove eye lesion | 10.93 | N/A | 11.89 | 0.46 | N/A | 23.28 | 090
65920 |  | A | Remove implant of eye | 8.40 | N/A | 8.87 | 0.33 | N/A | 17.60 | 090
65930 |  | A | Remove blood clot from eye | 7.44 | N/A | 8.12 | 0.29 | N/A | 15.85 | 090
66020 |  | A | Injection treatment of eye | 1.59 | 2.42 | 1.61 | 0.07 | 4.08 | 3.27 | 010
66030 |  | A | Injection treatment of eye | 1.25 | 2.25 | 1.45 | 0.05 | 3.55 | 2.75 | 010
66130 |  | A | Remove eye lesion | 7.69 | 7.61 | 7.04 | 0.31 | 15.61 | 15.04 | 090
66150 |  | A | Glaucoma surgery | 8.30 | N/A | 10.07 | 0.33 | N/A | 18.70 | 090
66155 |  | A | Glaucoma surgery | 8.29 | N/A | 10.04 | 0.32 | N/A | 18.65 | 090
66160 |  | A | Glaucoma surgery | 10.17 | N/A | 10.90 | 0.41 | N/A | 21.48 | 090
66165 |  | A | Glaucoma surgery | 8.01 | N/A | 9.92 | 0.31 | N/A | 18.24 | 090
66170 |  | A | Glaucoma surgery | 12.16 | N/A | 12.62 | 0.48 | N/A | 25.26 | 090
66172 |  | A | Incision of eye | 15.04 | N/A | 15.19 | 0.59 | N/A | 30.82 | 090
66180 |  | A | Implant eye shunt | 14.55 | N/A | 11.87 | 0.57 | N/A | 26.99 | 090
66185 |  | A | Revise eye shunt | 8.14 | N/A | 8.42 | 0.32 | N/A | 16.88 | 090
66220 |  | A | Repair eye lesion | 7.77 | N/A | 9.00 | 0.32 | N/A | 17.09 | 090
66225 |  | A | Repair/graft eye lesion | 11.05 | N/A | 9.57 | 0.44 | N/A | 21.06 | 090
66250 |  | A | Follow-up surgery of eye | 5.98 | 7.84 | 6.66 | 0.23 | 14.05 | 12.87 | 090
66500 |  | A | Incision of iris | 3.71 | N/A | 5.08 | 0.15 | N/A | 8.94 | 090
66505 |  | A | Incision of iris | 4.08 | N/A | 5.37 | 0.17 | N/A | 9.62 | 090
66600 |  | A | Remove iris and lesion | 8.68 | N/A | 8.96 | 0.34 | N/A | 17.98 | 090
66605 |  | A | Removal of iris | 12.79 | N/A | 11.57 | 0.61 | N/A | 24.97 | 090
66625 |  | A | Removal of iris | 5.13 | 7.07 | 6.33 | 0.20 | 12.40 | 11.66 | 090
66630 |  | A | Removal of iris | 6.16 | N/A | 7.48 | 0.24 | N/A | 13.88 | 090
66635 |  | A | Removal of iris | 6.25 | N/A | 6.79 | 0.24 | N/A | 13.28 | 090
66680 |  | A | Repair iris & ciliary body | 5.44 | N/A | 6.20 | 0.21 | N/A | 11.85 | 090
66682 |  | A | Repair iris & ciliary body | 6.21 | N/A | 7.48 | 0.24 | N/A | 13.93 | 090
66700 |  | A | Destruction, ciliary body | 4.78 | 5.44 | 4.13 | 0.19 | 10.41 | 9.10 | 090
66710 |  | A | Destruction, ciliary body | 4.78 | 5.31 | 3.92 | 0.18 | 10.27 | 8.88 | 090
66720 |  | A | Destruction, ciliary body | 4.78 | 5.76 | 4.69 | 0.19 | 10.73 | 9.66 | 090
66740 |  | A | Destruction, ciliary body | 4.78 | 5.47 | 4.30 | 0.18 | 10.43 | 9.26 | 090
66761 |  | A | Revision of iris | 4.07 | 5.65 | 4.31 | 0.16 | 9.88 | 8.54 | 090
66762 |  | A | Revision of iris | 4.58 | 5.73 | 4.30 | 0.18 | 10.49 | 9.06 | 090
66770 |  | A | Removal of inner eye lesion | 5.18 | 6.16 | 4.81 | 0.20 | 11.54 | 10.19 | 090
66820 |  | A | Incision, secondary cataract | 3.89 | N/A | 7.12 | 0.16 | N/A | 11.17 | 090
66821 |  | A | After cataract laser surgery | 2.35 | 4.04 | 3.95 | 0.10 | 6.49 | 6.40 | 090
66825 |  | A | Reposition intraocular lens | 8.23 | N/A | 10.05 | 0.32 | N/A | 18.60 | 090
66830 |  | A | Removal of lens lesion | 8.20 | N/A | 7.26 | 0.32 | N/A | 15.78 | 090
66840 |  | A | Removal of lens material | 7.91 | N/A | 7.17 | 0.31 | N/A | 15.39 | 090
66850 |  | A | Removal of lens material | 9.11 | N/A | 7.89 | 0.36 | N/A | 17.36 | 090
66852 |  | A | Removal of lens material | 9.97 | N/A | 8.35 | 0.39 | N/A | 18.71 | 090
66920 |  | A | Extraction of lens | 8.86 | N/A | 7.62 | 0.35 | N/A | 16.83 | 090
66930 |  | A | Extraction of lens | 10.18 | N/A | 8.72 | 0.41 | N/A | 19.31 | 090
66940 |  | A | Extraction of lens | 8.93 | N/A | 8.17 | 0.35 | N/A | 17.45 | 090
66982 |  | A | Cataract surgery, complex | 13.50 | N/A | 10.10 | 0.56 | N/A | 24.16 | 090
66983 |  | A | Cataract surg w/iol, 1 stage | 8.99 | N/A | 6.31 | 0.37 | N/A | 15.67 | 090
66984 |  | A | Cataract surg w/iol, 1 stage | 10.23 | N/A | 7.81 | 0.41 | N/A | 18.45 | 090
66985 |  | A | Insert lens prosthesis | 8.39 | N/A | 7.60 | 0.33 | N/A | 16.32 | 090
66986 |  | A | Exchange lens prosthesis | 12.28 | N/A | 9.38 | 0.49 | N/A | 22.15 | 090
66990 |  | A | Ophthalmic endoscope add-on | 1.51 | N/A | 0.70 | 0.06 | N/A | 2.27 | ZZZ
66999 |  | C | Eye surgery procedure | 0.00 | 0.00 | 0.00 | 0.00 | 0.00 | 0.00 | YYY
67005 |  | A | Partial removal of eye fluid | 5.70 | N/A | 4.47 | 0.22 | N/A | 10.39 | 090
67010 |  | A | Partial removal of eye fluid | 6.87 | N/A | 5.02 | 0.27 | N/A | 12.16 | 090
67015 |  | A | Release of eye fluid | 6.92 | N/A | 7.66 | 0.27 | N/A | 14.85 | 090
67025 |  | A | Replace eye fluid | 6.84 | 14.24 | 7.49 | 0.27 | 21.35 | 14.60 | 090
67027 |  | A | Implant eye drug system | 10.85 | 12.86 | 8.86 | 0.46 | 24.17 | 20.17 | 090
67028 |  | A | Injection eye drug | 2.52 | 6.59 | 1.16 | 0.11 | 9.22 | 3.79 | 000
67030 |  | A | Incise inner eye strands | 4.84 | N/A | 6.78 | 0.19 | N/A | 11.81 | 090
67031 |  | A | Laser surgery, eye strands | 3.67 | 4.77 | 4.11 | 0.15 | 8.59 | 7.93 | 090
67036 |  | A | Removal of inner eye fluid | 11.89 | N/A | 9.53 | 0.47 | N/A | 21.89 | 090
67038 |  | A | Strip retinal membrane | 21.24 | N/A | 16.17 | 0.84 | N/A | 38.25 | 090
67039 |  | A | Laser treatment of retina | 14.52 | N/A | 12.87 | 0.57 | N/A | 27.96 | 090
67040 |  | A | Laser treatment of retina | 17.23 | N/A | 14.33 | 0.68 | N/A | 32.24 | 090
67101 |  | A | Repair detached retina | 7.53 | 10.08 | 8.31 | 0.29 | 17.90 | 16.13 | 090
67105 |  | A | Repair detached retina | 7.41 | 8.14 | 6.35 | 0.29 | 15.84 | 14.05 | 090
67107 |  | A | Repair detached retina | 14.84 | N/A | 13.11 | 0.58 | N/A | 28.53 | 090
67108 |  | A | Repair detached retina | 20.82 | N/A | 17.42 | 0.82 | N/A | 39.06 | 090
67110 |  | A | Repair detached retina | 8.81 | 15.63 | 9.41 | 0.35 | 24.79 | 18.57 | 090
67112 |  | A | Rerepair detached retina | 16.86 | N/A | 14.89 | 0.66 | N/A | 32.41 | 090
67115 |  | A | Release encircling material | 4.99 | N/A | 7.07 | 0.19 | N/A | 12.25 | 090
67120 |  | A | Remove eye implant material | 5.98 | 12.34 | 6.90 | 0.23 | 18.55 | 13.11 | 090
67121 |  | A | Remove eye implant material | 10.67 | N/A | 11.45 | 0.42 | N/A | 22.54 | 090
67141 |  | A | Treatment of retina | 5.20 | 7.28 | 6.51 | 0.20 | 12.68 | 11.91 | 090
67145 |  | A | Treatment of retina | 5.37 | 5.87 | 5.04 | 0.21 | 11.45 | 10.62 | 090
67208 |  | A | Treatment of retinal lesion | 6.70 | 6.06 | 5.48 | 0.26 | 13.02 | 12.44 | 090
67210 |  | A | Treatment of retinal lesion | 8.82 | 6.37 | 5.90 | 0.35 | 15.54 | 15.07 | 090
67218 |  | A | Treatment of retinal lesion | 18.53 | N/A | 14.52 | 0.53 | N/A | 33.58 | 090
67220 |  | A | Treatment of choroid lesion | 13.13 | 10.02 | 9.01 | 0.51 | 23.66 | 22.65 | 090
67221 |  | R | Ocular photodynamic ther | 4.01 | 4.77 | 1.84 | 0.16 | 8.94 | 6.01 | 000
67225 |  | A | Eye photodynamic ther add-on | 0.47 | 0.26 | 0.22 | 0.01 | 0.74 | 0.70 | ZZZ
67227 |  | A | Treatment of retinal lesion | 6.58 | 6.55 | 5.48 | 0.26 | 13.39 | 12.32 | 090
67228 |  | A | Treatment of retinal lesion | 12.74 | 11.10 | 8.55 | 0.50 | 24.34 | 21.79 | 090
67250 |  | A | Reinforce eye wall | 8.66 | N/A | 10.53 | 0.36 | N/A | 19.55 | 090
67255 |  | A | Reinforce/graft eye wall | 8.90 | N/A | 11.13 | 0.35 | N/A | 20.38 | 090
67299 |  | C | Eye surgery procedure | 0.00 | 0.00 | 0.00 | 0.00 | 0.00 | 0.00 | YYY
67311 |  | A | Revise eye muscle | 6.65 | N/A | 6.52 | 0.27 | N/A | 13.44 | 090
67312 |  | A | Revise two eye muscles | 8.54 | N/A | 7.54 | 0.35 | N/A | 16.43 | 090
67314 |  | A | Revise eye muscle | 7.52 | N/A | 7.25 | 0.30 | N/A | 15.07 | 090
67316 |  | A | Revise two eye muscles | 9.66 | N/A | 8.23 | 0.40 | N/A | 18.29 | 090
67318 |  | A | Revise eye muscle(s) | 7.85 | N/A | 7.63 | 0.31 | N/A | 15.79 | 090
67320 |  | A | Revise eye muscle(s) add-on | 4.33 | N/A | 2.00 | 0.17 | N/A | 6.50 | ZZZ
67331 |  | A | Eye surgery follow-up add-on | 4.06 | N/A | 1.95 | 0.17 | N/A | 6.18 | ZZZ
67332 |  | A | Rerevise eye muscles add-on | 4.49 | N/A | 2.07 | 0.18 | N/A | 6.74 | ZZZ
67334 |  | A | Revise eye muscle w/suture | 3.98 | N/A | 1.84 | 0.16 | N/A | 5.98 | ZZZ
67335 |  | A | Eye suture during surgery | 2.49 | N/A | 1.15 | 0.10 | N/A | 3.74 | ZZZ
67340 |  | A | Revise eye muscle add-on | 4.93 | N/A | 2.27 | 0.19 | N/A | 7.39 | ZZZ
67343 |  | A | Release eye tissue | 7.35 | N/A | 7.33 | 0.30 | N/A | 14.98 | 090
67345 |  | A | Destroy nerve of eye muscle | 2.96 | 4.46 | 1.40 | 0.13 | 7.55 | 4.49 | 010
67350 |  | A | Biopsy eye muscle | 2.87 | N/A | 1.91 | 0.13 | N/A | 4.91 | 000
67399 |  | C | Eye muscle surgery procedure | 0.00 | 0.00 | 0.00 | 0.00 | 0.00 | 0.00 | YYY
67400 |  | A | Explore/biopsy eye socket | 9.76 | N/A | 12.74 | 0.43 | N/A | 22.93 | 090
67405 |  | A | Explore/drain eye socket | 7.93 | N/A | 11.44 | 0.36 | N/A | 19.73 | 090
67412 |  | A | Explore/treat eye socket | 9.50 | N/A | 13.20 | 0.41 | N/A | 23.11 | 090
67413 |  | A | Explore/treat eye socket | 10.00 | N/A | 12.38 | 0.43 | N/A | 22.81 | 090
67414 |  | A | Explr/decompress eye socket | 11.13 | N/A | 14.33 | 0.48 | N/A | 25.94 | 090
67415 |  | A | Aspiration, orbital contents | 1.76 | N/A | 0.78 | 0.09 | N/A | 2.63 | 000
67420 |  | A | Explore/treat eye socket | 20.06 | N/A | 19.13 | 0.84 | N/A | 40.03 | 090
67430 |  | A | Explore/treat eye socket | 13.39 | N/A | 15.97 | 0.97 | N/A | 30.33 | 090
67440 |  | A | Explore/drain eye socket | 13.09 | N/A | 15.80 | 0.58 | N/A | 29.47 | 090
67445 |  | A | Explr/decompress eye socket | 14.42 | N/A | 16.00 | 0.63 | N/A | 31.05 | 090
67450 |  | A | Explore/biopsy eye socket | 13.51 | N/A | 16.16 | 0.56 | N/A | 30.23 | 090
67500 |  | A | Inject/treat eye socket | 0.79 | 0.84 | 0.19 | 0.04 | 1.67 | 1.02 | 000
67505 |  | A | Inject/treat eye socket | 0.82 | 0.93 | 0.21 | 0.04 | 1.79 | 1.07 | 000
67515 |  | A | Inject/treat eye socket | 0.61 | 0.84 | 0.28 | 0.02 | 1.47 | 0.91 | 000
67550 |  | A | Insert eye socket implant | 10.19 | N/A | 12.61 | 0.50 | N/A | 23.30 | 090
67560 |  | A | Revise eye socket implant | 10.60 | N/A | 12.57 | 0.47 | N/A | 23.64 | 090
67570 |  | A | Decompress optic nerve | 13.58 | N/A | 15.48 | 0.69 | N/A | 29.75 | 090
67599 |  | C | Orbit surgery procedure | 0.00 | 0.00 | 0.00 | 0.00 | 0.00 | 0.00 | YYY
67700 |  | A | Drainage of eyelid abscess | 1.35 | 4.90 | 0.64 | 0.06 | 6.31 | 2.05 | 010
67710 |  | A | Incision of eyelid | 1.02 | 5.06 | 0.54 | 0.04 | 6.12 | 1.60 | 010
67715 |  | A | Incision of eyelid fold | 1.22 | 4.64 | 0.63 | 0.05 | 5.91 | 1.90 | 010
67800 |  | A | Remove eyelid lesion | 1.38 | 2.53 | 0.70 | 0.06 | 3.97 | 2.14 | 010
67801 |  | A | Remove eyelid lesions | 1.88 | 5.41 | 0.94 | 0.08 | 7.37 | 2.90 | 010
67805 |  | A | Remove eyelid lesions | 2.22 | 5.56 | 1.09 | 0.09 | 7.87 | 3.40 | 010
67808 |  | A | Remove eyelid lesion(s) | 3.80 | N/A | 5.28 | 0.17 | N/A | 9.25 | 090
67810 |  | A | Biopsy of eyelid | 1.48 | 3.71 | 0.69 | 0.06 | 5.25 | 2.23 | 000
67820 |  | A | Revise eyelashes | 0.89 | 1.13 | 0.38 | 0.04 | 2.06 | 1.31 | 000
67825 |  | A | Revise eyelashes | 1.38 | 1.61 | 1.09 | 0.06 | 3.05 | 2.53 | 010
67830 |  | A | Revise eyelashes | 1.70 | 7.58 | 1.99 | 0.07 | 9.35 | 3.76 | 010
67835 |  | A | Revise eyelashes | 5.56 | N/A | 5.10 | 0.22 | N/A | 10.88 | 090
67840 |  | A | Remove eyelid lesion | 2.04 | 5.39 | 1.01 | 0.08 | 7.51 | 3.13 | 010
67850 |  | A | Treat eyelid lesion | 1.69 | 6.17 | 1.93 | 0.07 | 7.93 | 3.69 | 010
67875 |  | A | Closure of eyelid by suture | 1.35 | 7.71 | 1.26 | 0.06 | 9.12 | 2.67 | 000
67880 |  | A | Revision of eyelid | 3.80 | 9.81 | 4.38 | 0.16 | 13.77 | 8.34 | 090
67882 |  | A | Revision of eyelid | 5.07 | 11.09 | 5.50 | 0.21 | 16.37 | 10.78 | 090
67900 |  | A | Repair brow defect | 6.14 | 10.72 | 6.39 | 0.30 | 17.16 | 12.83 | 090
67901 |  | A | Repair eyelid defect | 6.97 | N/A | 6.54 | 0.32 | N/A | 13.83 | 090
67902 |  | A | Repair eyelid defect | 7.03 | N/A | 6.61 | 0.34 | N/A | 13.98 | 090
67903 |  | A | Repair eyelid defect | 6.37 | 11.50 | 6.81 | 0.39 | 18.26 | 13.57 | 090
67904 |  | A | Repair eyelid defect | 6.26 | 12.71 | 7.30 | 0.26 | 19.23 | 13.82 | 090
67906 |  | A | Repair eyelid defect | 6.79 | 9.26 | 6.12 | 0.42 | 16.47 | 13.33 | 090
67908 |  | A | Repair eyelid defect | 5.13 | 8.99 | 5.78 | 0.20 | 14.32 | 11.11 | 090
67909 |  | A | Revise eyelid defect | 5.40 | 9.55 | 6.19 | 0.25 | 15.20 | 11.84 | 090
67911 |  | A | Revise eyelid defect | 5.27 | N/A | 6.16 | 0.23 | N/A | 11.66 | 090
67914 |  | A | Repair eyelid defect | 3.68 | 9.44 | 4.02 | 0.16 | 13.28 | 7.86 | 090
67915 |  | A | Repair eyelid defect | 3.18 | 8.02 | 2.63 | 0.13 | 11.33 | 5.94 | 090
67916 |  | A | Repair eyelid defect | 5.31 | 11.98 | 5.80 | 0.22 | 17.51 | 11.33 | 090
67917 |  | A | Repair eyelid defect | 6.02 | 9.90 | 6.26 | 0.25 | 16.17 | 12.53 | 090
67921 |  | A | Repair eyelid defect | 3.40 | 9.24 | 3.82 | 0.14 | 12.78 | 7.36 | 090
67922 |  | A | Repair eyelid defect | 3.06 | 7.97 | 3.55 | 0.13 | 11.16 | 6.74 | 090
67923 |  | A | Repair eyelid defect | 5.88 | 11.44 | 5.91 | 0.24 | 17.56 | 12.03 | 090
67924 |  | A | Repair eyelid defect | 5.79 | 9.26 | 5.76 | 0.23 | 15.28 | 11.78 | 090
67930 |  | A | Repair eyelid wound | 3.61 | 8.54 | 3.00 | 0.17 | 12.32 | 6.78 | 010
67935 |  | A | Repair eyelid wound | 6.22 | 11.46 | 5.97 | 0.29 | 17.97 | 12.48 | 090
67938 |  | A | Remove eyelid foreign body | 1.33 | 5.90 | 0.57 | 0.06 | 7.29 | 1.96 | 010
67950 |  | A | Revision of eyelid | 5.82 | 8.42 | 6.70 | 0.30 | 14.54 | 12.82 | 090
67961 |  | A | Revision of eyelid | 5.69 | 10.32 | 5.79 | 0.26 | 16.27 | 11.74 | 090
67966 |  | A | Revision of eyelid | 6.57 | 8.50 | 5.78 | 0.33 | 15.40 | 12.68 | 090
67971 |  | A | Reconstruction of eyelid | 9.79 | N/A | 7.41 | 0.42 | N/A | 17.62 | 090
67973 |  | A | Reconstruction of eyelid | 12.87 | N/A | 9.41 | 0.59 | N/A | 22.87 | 090
67974 |  | A | Reconstruction of eyelid | 12.84 | N/A | 9.32 | 0.54 | N/A | 22.70 | 090
67975 |  | A | Reconstruction of eyelid | 9.13 | N/A | 7.08 | 0.38 | N/A | 16.59 | 090
67999 |  | C | Revision of eyelid | 0.00 | 0.00 | 0.00 | 0.00 | 0.00 | 0.00 | YYY
68020 |  | A | Incise/drain eyelid lining | 1.37 | 5.77 | 0.69 | 0.06 | 7.20 | 2.12 | 010
68040 |  | A | Treatment of eyelid lesions | 0.85 | 4.88 | 0.39 | 0.03 | 5.76 | 1.27 | 000
68100 |  | A | Biopsy of eyelid lining | 1.35 | 5.08 | 0.62 | 0.06 | 6.49 | 2.03 | 000
68110 |  | A | Remove eyelid lining lesion | 1.77 | 6.14 | 1.43 | 0.07 | 7.98 | 3.27 | 010
68115 |  | A | Remove eyelid lining lesion | 2.36 | 5.63 | 1.16 | 0.10 | 8.09 | 3.62 | 010
68130 |  | A | Remove eyelid lining lesion | 4.93 | 8.01 | 4.03 | 0.19 | 13.13 | 9.15 | 090
68135 |  | A | Remove eyelid lining lesion | 1.84 | 5.39 | 0.92 | 0.07 | 7.30 | 2.83 | 010
68200 |  | A | Treat eyelid by injection | 0.49 | 0.74 | 0.23 | 0.02 | 1.25 | 0.74 | 000
68320 |  | A | Revise/graft eyelid lining | 5.37 | 6.68 | 5.51 | 0.21 | 12.26 | 11.09 | 090
68325 |  | A | Revise/graft eyelid lining | 7.36 | N/A | 6.52 | 0.30 | N/A | 14.18 | 090
68326 |  | A | Revise/graft eyelid lining | 7.15 | N/A | 6.39 | 0.30 | N/A | 13.84 | 090
68328 |  | A | Revise/graft eyelid lining | 8.18 | N/A | 7.13 | 0.40 | N/A | 15.71 | 090
68330 |  | A | Revise eyelid lining | 4.83 | 7.37 | 6.16 | 0.19 | 12.39 | 11.18 | 090
68335 |  | A | Revise/graft eyelid lining | 7.19 | N/A | 6.92 | 0.29 | N/A | 14.40 | 090
68340 |  | A | Separate eyelid adhesions | 4.17 | 10.96 | 4.83 | 0.17 | 15.30 | 9.17 | 090
68360 |  | A | Revise eyelid lining | 4.37 | 6.72 | 5.68 | 0.17 | 11.26 | 10.22 | 090
68362 |  | A | Revise eyelid lining | 7.34 | N/A | 7.86 | 0.29 | N/A | 15.49 | 090
68399 |  | C | Eyelid lining surgery | 0.00 | 0.00 | 0.00 | 0.00 | 0.00 | 0.00 | YYY
68400 |  | A | Incise/drain tear gland | 1.69 | 7.73 | 2.09 | 0.07 | 9.49 | 3.85 | 010
68420 |  | A | Incise/drain tear sac | 2.30 | 8.07 | 2.38 | 0.10 | 10.47 | 4.78 | 010
68440 |  | A | Incise tear duct opening | 0.94 | 5.00 | 0.50 | 0.04 | 5.98 | 1.48 | 010
68500 |  | A | Removal of tear gland | 11.02 | N/A | 10.36 | 0.60 | N/A | 21.98 | 090
68505 |  | A | Partial removal, tear gland | 10.94 | N/A | 11.40 | 0.57 | N/A | 22.91 | 090
68510 |  | A | Biopsy of tear gland | 4.61 | 8.57 | 2.14 | 0.19 | 13.37 | 6.94 | 000
68520 |  | A | Removal of tear sac | 7.51 | N/A | 7.94 | 0.33 | N/A | 15.78 | 090
68525 |  | A | Biopsy of tear sac | 4.43 | N/A | 2.06 | 0.18 | N/A | 6.67 | 000
68530 |  | A | Clearance of tear duct | 3.66 | 9.59 | 2.90 | 0.16 | 13.41 | 6.72 | 010
68540 |  | A | Remove tear gland lesion | 10.60 | N/A | 10.03 | 0.46 | N/A | 21.09 | 090
68550 |  | A | Remove tear gland lesion | 13.26 | N/A | 12.03 | 0.66 | N/A | 25.95 | 090
68700 |  | A | Repair tear ducts | 6.60 | N/A | 7.42 | 0.27 | N/A | 14.29 | 090
68705 |  | A | Revise tear duct opening | 2.06 | 5.52 | 1.02 | 0.08 | 7.66 | 3.16 | 010
68720 |  | A | Create tear sac drain | 8.96 | N/A | 8.43 | 0.38 | N/A | 17.77 | 090
68745 |  | A | Create tear duct drain | 8.63 | N/A | 8.40 | 0.38 | N/A | 17.41 | 090
68750 |  | A | Create tear duct drain | 8.66 | N/A | 8.85 | 0.37 | N/A | 17.88 | 090
68760 |  | A | Close tear duct opening | 1.73 | 4.05 | 1.26 | 0.07 | 5.85 | 3.06 | 010
68761 |  | A | Close tear duct opening | 1.36 | 3.48 | 1.00 | 0.06 | 4.90 | 2.42 | 010
68770 |  | A | Close tear system fistula | 7.02 | 12.97 | 6.93 | 0.28 | 20.27 | 14.23 | 090
68801 |  | A | Dilate tear duct opening | 0.94 | 0.95 | 0.61 | 0.04 | 1.93 | 1.59 | 010
68810 |  | A | Probe nasolacrimal duct | 1.90 | 2.36 | 0.94 | 0.08 | 4.34 | 2.92 | 010
68811 |  | A | Probe nasolacrimal duct | 2.35 | N/A | 2.40 | 0.10 | N/A | 4.85 | 010
68815 |  | A | Probe nasolacrimal duct | 3.20 | 8.29 | 2.73 | 0.14 | 11.63 | 6.07 | 010
68840 |  | A | Explore/irrigate tear ducts | 1.25 | 1.67 | 0.98 | 0.05 | 2.97 | 2.28 | 010
68850 |  | A | Injection for tear sac x-ray | 0.80 | 12.84 | 0.30 | 0.03 | 13.67 | 1.13 | 000
68899 |  | C | Tear duct system surgery | 0.00 | 0.00 | 0.00 | 0.00 | 0.00 | 0.00 | YYY
69000 |  | A | Drain external ear lesion | 1.45 | 3.11 | 1.44 | 0.10 | 4.66 | 2.99 | 010
69005 |  | A | Drain external ear lesion | 2.11 | 3.10 | 1.90 | 0.16 | 5.37 | 4.17 | 010
69020 |  | A | Drain outer ear canal lesion | 1.48 | 3.11 | 1.91 | 0.11 | 4.70 | 3.50 | 010
69100 |  | A | Biopsy of external ear | 0.81 | 1.78 | 0.40 | 0.04 | 2.63 | 1.25 | 000
69105 |  | A | Biopsy of external ear canal | 0.85 | 1.96 | 0.78 | 0.06 | 2.87 | 1.69 | 000
69110 |  | A | Remove external ear, partial | 3.44 | 4.17 | 3.11 | 0.24 | 7.85 | 6.79 | 090
69120 |  | A | Removal of external ear | 4.05 | N/A | 4.11 | 0.31 | N/A | 8.47 | 090
69140 |  | A | Remove ear canal lesion(s) | 7.97 | N/A | 6.99 | 0.56 | N/A | 15.52 | 090
69145 |  | A | Remove ear canal lesion(s) | 2.62 | 3.73 | 2.69 | 0.18 | 6.53 | 5.49 | 090
69150 |  | A | Extensive ear canal surgery | 13.43 | N/A | 10.23 | 1.07 | N/A | 24.73 | 090
69155 |  | A | Extensive ear/neck surgery | 20.80 | N/A | 14.88 | 1.51 | N/A | 37.19 | 090
69200 |  | A | Clear outer ear canal | 0.77 | 1.64 | 0.59 | 0.05 | 2.46 | 1.41 | 000
69205 |  | A | Clear outer ear canal | 1.20 | N/A | 1.31 | 0.09 | N/A | 2.60 | 010
69210 |  | A | Remove impacted ear wax | 0.61 | 0.66 | 0.24 | 0.04 | 1.31 | 0.89 | 000
69220 |  | A | Clean out mastoid cavity | 0.83 | 1.72 | 0.75 | 0.06 | 2.61 | 1.64 | 000
69222 |  | A | Clean out mastoid cavity | 1.40 | 3.23 | 1.86 | 0.10 | 4.73 | 3.36 | 010
69300 |  | R | Revise external ear | 6.36 | N/A | 4.35 | 0.43 | N/A | 11.14 | YYY
69310 |  | A | Rebuild outer ear canal | 10.79 | N/A | 8.70 | 0.77 | N/A | 20.26 | 090
69320 |  | A | Rebuild outer ear canal | 16.96 | N/A | 12.52 | 1.17 | N/A | 30.65 | 090
69399 |  | C | Outer ear surgery procedure | 0.00 | 0.00 | 0.00 | 0.00 | 0.00 | 0.00 | YYY
69400 |  | A | Inflate middle ear canal | 0.83 | 2.14 | 0.69 | 0.06 | 3.03 | 1.58 | 000
69401 |  | A | Inflate middle ear canal | 0.63 | 1.04 | 0.66 | 0.04 | 1.71 | 1.33 | 000
69405 |  | A | Catheterize middle ear canal | 2.63 | 3.32 | 2.37 | 0.18 | 6.13 | 5.18 | 010
69410 |  | A | Inset middle ear (baffle) | 0.33 | 1.41 | 0.50 | 0.02 | 1.76 | 0.85 | 000
69420 |  | A | Incision of eardrum | 1.33 | 2.49 | 1.64 | 0.10 | 3.92 | 3.07 | 010
69421 |  | A | Incision of eardrum | 1.73 | N/A | 1.89 | 0.13 | N/A | 3.75 | 010
69424 |  | A | Remove ventilating tube | 0.85 | 1.58 | 0.70 | 0.06 | 2.49 | 1.61 | 000
69433 |  | A | Create eardrum opening | 1.52 | 2.48 | 1.71 | 0.11 | 4.11 | 3.34 | 010
69436 |  | A | Create eardrum opening | 1.96 | N/A | 2.02 | 0.14 | N/A | 4.12 | 010
69440 |  | A | Exploration of middle ear | 7.57 | N/A | 6.54 | 0.53 | N/A | 14.64 | 090
69450 |  | A | Eardrum revision | 5.57 | N/A | 5.26 | 0.39 | N/A | 11.22 | 090
69501 |  | A | Mastoidectomy | 9.07 | N/A | 7.34 | 0.65 | N/A | 17.06 | 090
69502 |  | A | Mastoidectomy | 12.38 | N/A | 9.61 | 0.86 | N/A | 22.85 | 090
69505 |  | A | Remove mastoid structures | 12.99 | N/A | 9.87 | 0.92 | N/A | 23.78 | 090
69511 |  | A | Extensive mastoid surgery | 13.52 | N/A | 10.21 | 0.96 | N/A | 24.69 | 090
69530 |  | A | Extensive mastoid surgery | 19.19 | N/A | 13.44 | 1.32 | N/A | 33.95 | 090
69535 |  | A | Remove part of temporal bone | 36.14 | N/A | 22.99 | 2.59 | N/A | 61.72 | 090
69540 |  | A | Remove ear lesion | 1.20 | 3.17 | 1.75 | 0.09 | 4.46 | 3.04 | 010
69550 |  | A | Remove ear lesion | 10.99 | N/A | 8.64 | 0.80 | N/A | 20.43 | 090
69552 |  | A | Remove ear lesion | 19.46 | N/A | 13.33 | 1.36 | N/A | 34.15 | 090
69554 |  | A | Remove ear lesion | 33.16 | N/A | 21.44 | 2.32 | N/A | 56.92 | 090
69601 |  | A | Mastoid surgery revision | 13.24 | N/A | 10.40 | 0.92 | N/A | 24.56 | 090
69602 |  | A | Mastoid surgery revision | 13.58 | N/A | 10.32 | 0.94 | N/A | 24.84 | 090
69603 |  | A | Mastoid surgery revision | 14.02 | N/A | 10.54 | 1.00 | N/A | 25.56 | 090
69604 |  | A | Mastoid surgery revision | 14.02 | N/A | 10.52 | 0.98 | N/A | 25.52 | 090
69605 |  | A | Mastoid surgery revision | 18.49 | N/A | 13.24 | 1.29 | N/A | 33.02 | 090
69610 |  | A | Repair of eardrum | 4.43 | 4.59 | 3.36 | 0.31 | 9.33 | 8.10 | 010
69620 |  | A | Repair of eardrum | 5.89 | 6.46 | 4.59 | 0.40 | 12.75 | 10.88 | 090
69631 |  | A | Repair eardrum structures | 9.86 | N/A | 8.18 | 0.69 | N/A | 18.73 | 090
69632 |  | A | Rebuild eardrum structures | 12.75 | N/A | 10.12 | 0.89 | N/A | 23.76 | 090
69633 |  | A | Rebuild eardrum structures | 12.10 | N/A | 9.78 | 0.84 | N/A | 22.72 | 090
69635 |  | A | Repair eardrum structures | 13.33 | N/A | 9.73 | 0.87 | N/A | 23.93 | 090
69636 |  | A | Rebuild eardrum structures | 15.22 | N/A | 11.58 | 1.07 | N/A | 27.87 | 090
69637 |  | A | Rebuild eardrum structures | 15.11 | N/A | 11.52 | 1.06 | N/A | 27.69 | 090
69641 |  | A | Revise middle ear & mastoid | 12.71 | N/A | 9.84 | 0.89 | N/A | 23.44 | 090
69642 |  | A | Revise middle ear & mastoid | 16.84 | N/A | 12.56 | 1.18 | N/A | 30.58 | 090
69643 |  | A | Revise middle ear & mastoid | 15.32 | N/A | 11.58 | 1.08 | N/A | 27.98 | 090
69644 |  | A | Revise middle ear & mastoid | 16.97 | N/A | 12.50 | 1.19 | N/A | 30.66 | 090
69645 |  | A | Revise middle ear & mastoid | 16.38 | N/A | 12.14 | 1.16 | N/A | 29.68 | 090
69646 |  | A | Revise middle ear & mastoid | 17.99 | N/A | 13.08 | 1.26 | N/A | 32.33 | 090
69650 |  | A | Release middle ear bone | 9.66 | N/A | 7.69 | 0.68 | N/A | 18.03 | 090
69660 |  | A | Revise middle ear bone | 11.90 | N/A | 8.92 | 0.84 | N/A | 21.66 | 090
69661 |  | A | Revise middle ear bone | 15.74 | N/A | 11.46 | 1.10 | N/A | 28.30 | 090
69662 |  | A | Revise middle ear bone | 15.44 | N/A | 11.17 | 1.08 | N/A | 27.69 | 090
69666 |  | A | Repair middle ear structures | 9.75 | N/A | 7.77 | 0.68 | N/A | 18.20 | 090
69667 |  | A | Repair middle ear structures | 9.76 | N/A | 7.75 | 0.72 | N/A | 18.23 | 090
69670 |  | A | Remove mastoid air cells | 11.51 | N/A | 8.97 | 0.78 | N/A | 21.26 | 090
69676 |  | A | Remove middle ear nerve | 9.52 | N/A | 7.92 | 0.69 | N/A | 18.13 | 090
69700 |  | A | Close mastoid fistula | 8.23 | N/A | 6.03 | 0.55 | N/A | 14.81 | 090
69711 |  | A | Remove/repair hearing aid | 10.44 | N/A | 8.37 | 0.62 | N/A | 19.43 | 090
69714 |  | A | Implant temple bone w/stimul | 14.00 | N/A | 10.18 | 1.01 | N/A | 25.19 | 090
69715 |  | A | Temple bne implnt w/stimulat | 18.25 | N/A | 12.72 | 1.32 | N/A | 32.29 | 090
69717 |  | A | Temple bone implant revision | 14.98 | N/A | 9.79 | 1.08 | N/A | 25.85 | 090
69718 |  | A | Revise temple bone implant | 18.50 | N/A | 12.61 | 1.34 | N/A | 32.45 | 090
69720 |  | A | Release facial nerve | 14.38 | N/A | 11.18 | 1.03 | N/A | 26.59 | 090
69725 |  | A | Release facial nerve | 25.38 | N/A | 17.37 | 1.78 | N/A | 44.53 | 090
69740 |  | A | Repair facial nerve | 15.96 | N/A | 10.68 | 1.13 | N/A | 27.77 | 090
69745 |  | A | Repair facial nerve | 16.69 | N/A | 11.71 | 1.00 | N/A | 29.40 | 090
69799 |  | C | Middle ear surgery procedure | 0.00 | 0.00 | 0.00 | 0.00 | 0.00 | 0.00 | YYY
69801 |  | A | Incise inner ear | 8.56 | N/A | 7.09 | 0.60 | N/A | 16.25 | 090
69802 |  | A | Incise inner ear | 13.10 | N/A | 9.96 | 0.91 | N/A | 23.97 | 090
69805 |  | A | Explore inner ear | 13.82 | N/A | 10.38 | 0.97 | N/A | 25.17 | 090
69806 |  | A | Explore inner ear | 12.35 | N/A | 9.52 | 0.86 | N/A | 22.73 | 090
69820 |  | A | Establish inner ear window | 10.34 | N/A | 8.08 | 0.66 | N/A | 19.08 | 090
69840 |  | A | Revise inner ear window | 10.26 | N/A | 7.05 | 0.64 | N/A | 17.95 | 090
69905 |  | A | Remove inner ear | 11.10 | N/A | 8.63 | 0.77 | N/A | 20.50 | 090
69910 |  | A | Remove inner ear & mastoid | 13.63 | N/A | 10.06 | 0.94 | N/A | 24.63 | 090
69915 |  | A | Incise inner ear nerve | 21.23 | N/A | 14.59 | 1.54 | N/A | 37.36 | 090
69930 |  | A | Implant cochlear device | 16.81 | N/A | 12.16 | 1.19 | N/A | 30.16 | 090
69949 |  | C | Inner ear surgery procedure | 0.00 | 0.00 | 0.00 | 0.00 | 0.00 | 0.00 | YYY
69950 |  | A | Incise inner ear nerve | 25.64 | N/A | 16.47 | 2.90 | N/A | 45.01 | 090
69955 |  | A | Release facial nerve | 27.04 | N/A | 18.10 | 1.89 | N/A | 47.03 | 090
69960 |  | A | Release inner ear canal | 27.04 | N/A | 17.53 | 2.43 | N/A | 47.00 | 090
69970 |  | A | Remove inner ear lesion | 30.04 | N/A | 18.82 | 2.34 | N/A | 51.20 | 090
69979 |  | C | Temporal bone surgery | 0.00 | 0.00 | 0.00 | 0.00 | 0.00 | 0.00 | YYY
69990 |  | R | Microsurgery add-on | 3.47 | N/A | 1.83 | 0.56 | N/A | 5.86 | ZZZ
70010 |  | A | Contrast x-ray of brain | 1.19 | 4.74 | N/A | 0.24 | 6.17 | N/A | XXX
70010 | 26 | A | Contrast x-ray of brain | 1.19 | 0.40 | 0.40 | 0.06 | 1.65 | 1.65 | XXX
70010 | TC | A | Contrast x-ray of brain | 0.00 | 4.33 | N/A | 0.18 | 4.51 | N/A | XXX
70015 |  | A | Contrast x-ray of brain | 1.19 | 1.76 | N/A | 0.12 | 3.07 | N/A | XXX
70015 | 26 | A | Contrast x-ray of brain | 1.19 | 0.40 | 0.40 | 0.05 | 1.64 | 1.64 | XXX
70015 | TC | A | Contrast x-ray of brain | 0.00 | 1.35 | N/A | 0.07 | 1.42 | N/A | XXX
70030 |  | A | X-ray eye for foreign body | 0.17 | 0.47 | N/A | 0.03 | 0.67 | N/A | XXX
70030 | 26 | A | X-ray eye for foreign body | 0.17 | 0.06 | 0.06 | 0.01 | 0.24 | 0.24 | XXX
70030 | TC | A | X-ray eye for foreign body | 0.00 | 0.42 | N/A | 0.02 | 0.44 | N/A | XXX
70100 |  | A | X-ray exam of jaw | 0.18 | 0.58 | N/A | 0.03 | 0.79 | N/A | XXX
70100 | 26 | A | X-ray exam of jaw | 0.18 | 0.06 | 0.06 | 0.01 | 0.25 | 0.25 | XXX
70100 | TC | A | X-ray exam of jaw | 0.00 | 0.52 | N/A | 0.02 | 0.54 | N/A | XXX
70110 |  | A | X-ray exam of jaw | 0.25 | 0.70 | N/A | 0.04 | 0.99 | N/A | XXX
70110 | 26 | A | X-ray exam of jaw | 0.25 | 0.08 | 0.08 | 0.01 | 0.34 | 0.34 | XXX
70110 | TC | A | X-ray exam of jaw | 0.00 | 0.62 | N/A | 0.03 | 0.65 | N/A | XXX
70120 |  | A | X-ray exam of mastoids | 0.18 | 0.68 | N/A | 0.04 | 0.90 | N/A | XXX
70120 | 26 | A | X-ray exam of mastoids | 0.18 | 0.06 | 0.06 | 0.01 | 0.25 | 0.25 | XXX
70120 | TC | A | X-ray exam of mastoids | 0.00 | 0.62 | N/A | 0.03 | 0.65 | N/A | XXX
70130 |  | A | X-ray exam of mastoids | 0.34 | 0.90 | N/A | 0.05 | 1.29 | N/A | XXX
70130 | 26 | A | X-ray exam of mastoids | 0.34 | 0.11 | 0.11 | 0.01 | 0.46 | 0.46 | XXX
70130 | TC | A | X-ray exam of mastoids | 0.00 | 0.78 | N/A | 0.04 | 0.82 | N/A | XXX
70134 |  | A | X-ray exam of middle ear | 0.34 | 0.85 | N/A | 0.05 | 1.24 | N/A | XXX
70134 | 26 | A | X-ray exam of middle ear | 0.34 | 0.11 | 0.11 | 0.01 | 0.46 | 0.46 | XXX
70134 | TC | A | X-ray exam of middle ear | 0.00 | 0.73 | N/A | 0.04 | 0.77 | N/A | XXX
70140 |  | A | X-ray exam of facial bones | 0.19 | 0.68 | N/A | 0.04 | 0.91 | N/A | XXX
70140 | 26 | A | X-ray exam of facial bones | 0.19 | 0.06 | 0.06 | 0.01 | 0.26 | 0.26 | XXX
70140 | TC | A | X-ray exam of facial bones | 0.00 | 0.62 | N/A | 0.03 | 0.65 | N/A | XXX
70150 |  | A | X-ray exam of facial bones | 0.26 | 0.87 | N/A | 0.05 | 1.18 | N/A | XXX
70150 | 26 | A | X-ray exam of facial bones | 0.26 | 0.09 | 0.09 | 0.01 | 0.36 | 0.36 | XXX
70150 | TC | A | X-ray exam of facial bones | 0.00 | 0.78 | N/A | 0.04 | 0.82 | N/A | XXX
70160 |  | A | X-ray exam of nasal bones | 0.17 | 0.58 | N/A | 0.03 | 0.78 | N/A | XXX
70160 | 26 | A | X-ray exam of nasal bones | 0.17 | 0.06 | 0.06 | 0.01 | 0.24 | 0.24 | XXX
70160 | TC | A | X-ray exam of nasal bones | 0.00 | 0.52 | N/A | 0.02 | 0.54 | N/A | XXX
70170 |  | A | X-ray exam of tear duct | 0.30 | 1.05 | N/A | 0.06 | 1.41 | N/A | XXX
70170 | 26 | A | X-ray exam of tear duct | 0.30 | 0.10 | 0.10 | 0.01 | 0.41 | 0.41 | XXX
70170 | TC | A | X-ray exam of tear duct | 0.00 | 0.95 | N/A | 0.05 | 1.00 | N/A | XXX
70190 |  | A | X-ray exam of eye sockets | 0.21 | 0.69 | N/A | 0.04 | 0.94 | N/A | XXX
70190 | 26 | A | X-ray exam of eye sockets | 0.21 | 0.07 | 0.07 | 0.01 | 0.29 | 0.29 | XXX
70190 | TC | A | X-ray exam of eye sockets | 0.00 | 0.62 | N/A | 0.03 | 0.65 | N/A | XXX
70200 |  | A | X-ray exam of eye sockets | 0.28 | 0.88 | N/A | 0.05 | 1.21 | N/A | XXX
70200 | 26 | A | X-ray exam of eye sockets | 0.28 | 0.09 | 0.09 | 0.01 | 0.38 | 0.38 | XXX
70200 | TC | A | X-ray exam of eye sockets | 0.00 | 0.78 | N/A | 0.04 | 0.82 | N/A | XXX
70210 |  | A | X-ray exam of sinuses | 0.17 | 0.68 | N/A | 0.04 | 0.89 | N/A | XXX
70210 | 26 | A | X-ray exam of sinuses | 0.17 | 0.06 | 0.06 | 0.01 | 0.24 | 0.24 | XXX
70210 | TC | A | X-ray exam of sinuses | 0.00 | 0.62 | N/A | 0.03 | 0.65 | N/A | XXX
70220 |  | A | X-ray exam of sinuses | 0.25 | 0.87 | N/A | 0.05 | 1.17 | N/A | XXX
70220 | 26 | A | X-ray exam of sinuses | 0.25 | 0.08 | 0.08 | 0.01 | 0.34 | 0.34 | XXX
70220 | TC | A | X-ray exam of sinuses | 0.00 | 0.78 | N/A | 0.04 | 0.82 | N/A | XXX
70240 |  | A | X-ray exam, pituitary saddle | 0.19 | 0.48 | N/A | 0.03 | 0.70 | N/A | XXX
70240 | 26 | A | X-ray exam, pituitary saddle | 0.19 | 0.06 | 0.06 | 0.01 | 0.26 | 0.26 | XXX
70240 | TC | A | X-ray exam, pituitary saddle | 0.00 | 0.42 | N/A | 0.02 | 0.44 | N/A | XXX
70250 |  | A | X-ray exam of skull | 0.24 | 0.70 | N/A | 0.04 | 0.98 | N/A | XXX
70250 | 26 | A | X-ray exam of skull | 0.24 | 0.08 | 0.08 | 0.01 | 0.33 | 0.33 | XXX
70250 | TC | A | X-ray exam of skull | 0.00 | 0.62 | N/A | 0.03 | 0.65 | N/A | XXX
70260 |  | A | X-ray exam of skull | 0.34 | 1.00 | N/A | 0.06 | 1.40 | N/A | XXX
70260 | 26 | A | X-ray exam of skull | 0.34 | 0.11 | 0.11 | 0.01 | 0.46 | 0.46 | XXX
70260 | TC | A | X-ray exam of skull | 0.00 | 0.89 | N/A | 0.05 | 0.94 | N/A | XXX
70300 |  | A | X-ray exam of teeth | 0.10 | 0.31 | N/A | 0.03 | 0.44 | N/A | XXX
70300 | 26 | A | X-ray exam of teeth | 0.10 | 0.05 | 0.05 | 0.01 | 0.16 | 0.16 | XXX
70300 | TC | A | X-ray exam of teeth | 0.00 | 0.26 | N/A | 0.02 | 0.28 | N/A | XXX
70310 |  | A | X-ray exam of teeth | 0.16 | 0.50 | N/A | 0.03 | 0.69 | N/A | XXX
70310 | 26 | A | X-ray exam of teeth | 0.16 | 0.08 | 0.08 | 0.01 | 0.25 | 0.25 | XXX
70310 | TC | A | X-ray exam of teeth | 0.00 | 0.42 | N/A | 0.02 | 0.44 | N/A | XXX
70320 |  | A | Full mouth x-ray of teeth | 0.22 | 0.86 | N/A | 0.05 | 1.13 | N/A | XXX
70320 | 26 | A | Full mouth x-ray of teeth | 0.22 | 0.08 | 0.08 | 0.01 | 0.31 | 0.31 | XXX
70320 | TC | A | Full mouth x-ray of teeth | 0.00 | 0.78 | N/A | 0.04 | 0.82 | N/A | XXX
70328 |  | A | X-ray exam of jaw joint | 0.18 | 0.55 | N/A | 0.03 | 0.76 | N/A | XXX
70328 | 26 | A | X-ray exam of jaw joint | 0.18 | 0.06 | 0.06 | 0.01 | 0.25 | 0.25 | XXX
70328 | TC | A | X-ray exam of jaw joint | 0.00 | 0.49 | N/A | 0.02 | 0.51 | N/A | XXX
70330 |  | A | X-ray exam of jaw joints | 0.24 | 0.92 | N/A | 0.05 | 1.21 | N/A | XXX
70330 | 26 | A | X-ray exam of jaw joints | 0.24 | 0.08 | 0.08 | 0.01 | 0.33 | 0.33 | XXX
70330 | TC | A | X-ray exam of jaw joints | 0.00 | 0.84 | N/A | 0.04 | 0.88 | N/A | XXX
70332 |  | A | X-ray exam of jaw joint | 0.54 | 2.30 | N/A | 0.12 | 2.96 | N/A | XXX
70332 | 26 | A | X-ray exam of jaw joint | 0.54 | 0.20 | 0.20 | 0.02 | 0.76 | 0.76 | XXX
70332 | TC | A | X-ray exam of jaw joint | 0.00 | 2.10 | N/A | 0.10 | 2.20 | N/A | XXX
70336 |  | A | Magnetic image, jaw joint | 1.48 | 11.71 | N/A | 0.56 | 13.75 | N/A | XXX
70336 | 26 | A | Magnetic image, jaw joint | 1.48 | 0.50 | 0.50 | 0.07 | 2.05 | 2.05 | XXX
70336 | TC | A | Magnetic image, jaw joint | 0.00 | 11.21 | N/A | 0.49 | 11.70 | N/A | XXX
70350 |  | A | X-ray head for orthodontia | 0.17 | 0.45 | N/A | 0.03 | 0.65 | N/A | XXX
70350 | 26 | A | X-ray head for orthodontia | 0.17 | 0.07 | 0.07 | 0.01 | 0.25 | 0.25 | XXX
70350 | TC | A | X-ray head for orthodontia | 0.00 | 0.38 | N/A | 0.02 | 0.40 | N/A | XXX
70355 |  | A | Panoramic x-ray of jaws | 0.20 | 0.65 | N/A | 0.04 | 0.89 | N/A | XXX
70355 | 26 | A | Panoramic x-ray of jaws | 0.20 | 0.08 | 0.08 | 0.01 | 0.29 | 0.29 | XXX
70355 | TC | A | Panoramic x-ray of jaws | 0.00 | 0.57 | N/A | 0.03 | 0.60 | N/A | XXX
70360 |  | A | X-ray exam of neck | 0.17 | 0.47 | N/A | 0.03 | 0.67 | N/A | XXX
70360 | 26 | A | X-ray exam of neck | 0.17 | 0.06 | 0.06 | 0.01 | 0.24 | 0.24 | XXX
70360 | TC | A | X-ray exam of neck | 0.00 | 0.42 | N/A | 0.02 | 0.44 | N/A | XXX
70370 |  | A | Throat x-ray & fluoroscopy | 0.32 | 1.41 | N/A | 0.07 | 1.80 | N/A | XXX
70370 | 26 | A | Throat x-ray & fluoroscopy | 0.32 | 0.11 | 0.11 | 0.01 | 0.44 | 0.44 | XXX
70370 | TC | A | Throat x-ray & fluoroscopy | 0.00 | 1.31 | N/A | 0.06 | 1.37 | N/A | XXX
70371 |  | A | Speech evaluation, complex | 0.84 | 2.38 | N/A | 0.14 | 3.36 | N/A | XXX
70371 | 26 | A | Speech evaluation, complex | 0.84 | 0.28 | 0.28 | 0.04 | 1.16 | 1.16 | XXX
70371 | TC | A | Speech evaluation, complex | 0.00 | 2.10 | N/A | 0.10 | 2.20 | N/A | XXX
70373 |  | A | Contrast x-ray of larynx | 0.44 | 1.93 | N/A | 0.11 | 2.48 | N/A | XXX
70373 | 26 | A | Contrast x-ray of larynx | 0.44 | 0.15 | 0.15 | 0.02 | 0.61 | 0.61 | XXX
70373 | TC | A | Contrast x-ray of larynx | 0.00 | 1.78 | N/A | 0.09 | 1.87 | N/A | XXX
70380 |  | A | X-ray exam of salivary gland | 0.17 | 0.72 | N/A | 0.04 | 0.93 | N/A | XXX
70380 | 26 | A | X-ray exam of salivary gland | 0.17 | 0.06 | 0.06 | 0.01 | 0.24 | 0.24 | XXX
70380 | TC | A | X-ray exam of salivary gland | 0.00 | 0.67 | N/A | 0.03 | 0.70 | N/A | XXX
70390 |  | A | X-ray exam of salivary duct | 0.38 | 1.91 | N/A | 0.11 | 2.40 | N/A | XXX
70390 | 26 | A | X-ray exam of salivary duct | 0.38 | 0.13 | 0.13 | 0.02 | 0.53 | 0.53 | XXX
70390 | TC | A | X-ray exam of salivary duct | 0.00 | 1.78 | N/A | 0.09 | 1.87 | N/A | XXX
70450 |  | A | Ct head/brain w/o dye | 0.85 | 5.00 | N/A | 0.25 | 6.10 | N/A | XXX
70450 | 26 | A | Ct head/brain w/o dye | 0.85 | 0.28 | 0.28 | 0.04 | 1.17 | 1.17 | XXX
70450 | TC | A | Ct head/brain w/o dye | 0.00 | 4.72 | N/A | 0.21 | 4.93 | N/A | XXX
70460 |  | A | Ct head/brain w/dye | 1.13 | 6.04 | N/A | 0.30 | 7.47 | N/A | XXX
70460 | 26 | A | Ct head/brain w/dye | 1.13 | 0.38 | 0.38 | 0.05 | 1.56 | 1.56 | XXX
70460 | TC | A | Ct head/brain w/dye | 0.00 | 5.66 | N/A | 0.25 | 5.91 | N/A | XXX
70470 |  | A | Ct head/brain w/o&w dye | 1.27 | 7.49 | N/A | 0.37 | 9.13 | N/A | XXX
70470 | 26 | A | Ct head/brain w/o&w dye | 1.27 | 0.43 | 0.43 | 0.06 | 1.76 | 1.76 | XXX
70470 | TC | A | Ct head/brain w/o&w dye | 0.00 | 7.07 | N/A | 0.31 | 7.38 | N/A | XXX
70480 |  | A | Ct orbit/ear/fossa w/o dye | 1.28 | 5.15 | N/A | 0.27 | 6.70 | N/A | XXX
70480 | 26 | A | Ct orbit/ear/fossa w/o dye | 1.28 | 0.43 | 0.43 | 0.06 | 1.77 | 1.77 | XXX
70480 | TC | A | Ct orbit/ear/fossa w/o dye | 0.00 | 4.72 | N/A | 0.21 | 4.93 | N/A | XXX
70481 |  | A | Ct orbit/ear/fossa w/dye | 1.38 | 6.12 | N/A | 0.31 | 7.81 | N/A | XXX
70481 | 26 | A | Ct orbit/ear/fossa w/dye | 1.38 | 0.46 | 0.46 | 0.06 | 1.90 | 1.90 | XXX
70481 | TC | A | Ct orbit/ear/fossa w/dye | 0.00 | 5.66 | N/A | 0.25 | 5.91 | N/A | XXX
70482 |  | A | Ct orbit/ear/fossa w/o&w dye | 1.45 | 7.56 | N/A | 0.37 | 9.38 | N/A | XXX
70482 | 26 | A | Ct orbit/ear/fossa w/o&w dye | 1.45 | 0.49 | 0.49 | 0.06 | 2.00 | 2.00 | XXX
70482 | TC | A | Ct orbit/ear/fossa w/o&w dye | 0.00 | 7.07 | N/A | 0.31 | 7.38 | N/A | XXX
70486 |  | A | Ct maxillofacial w/o dye | 1.14 | 5.10 | N/A | 0.26 | 6.50 | N/A | XXX
70486 | 26 | A | Ct maxillofacial w/o dye | 1.14 | 0.38 | 0.38 | 0.05 | 1.57 | 1.57 | XXX
70486 | TC | A | Ct maxillofacial w/o dye | 0.00 | 4.72 | N/A | 0.21 | 4.93 | N/A | XXX
70487 |  | A | Ct maxillofacial w/dye | 1.30 | 6.09 | N/A | 0.31 | 7.70 | N/A | XXX
70487 | 26 | A | Ct maxillofacial w/dye | 1.30 | 0.44 | 0.44 | 0.06 | 1.80 | 1.80 | XXX
70487 | TC | A | Ct maxillofacial w/dye | 0.00 | 5.66 | N/A | 0.25 | 5.91 | N/A | XXX
70488 |  | A | Ct maxillofacial w/o&w dye | 1.42 | 7.54 | N/A | 0.37 | 9.33 | N/A | XXX
70488 | 26 | A | Ct maxillofacial w/o&w dye | 1.42 | 0.48 | 0.48 | 0.06 | 1.96 | 1.96 | XXX
70488 | TC | A | Ct maxillofacial w/o&w dye | 0.00 | 7.07 | N/A | 0.31 | 7.38 | N/A | XXX
70490 |  | A | Ct soft tissue neck w/o dye | 1.28 | 5.15 | N/A | 0.27 | 6.70 | N/A | XXX
70490 | 26 | A | Ct soft tissue neck w/o dye | 1.28 | 0.43 | 0.43 | 0.06 | 1.77 | 1.77 | XXX
70490 | TC | A | Ct soft tissue neck w/o dye | 0.00 | 4.72 | N/A | 0.21 | 4.93 | N/A | XXX
70491 |  | A | Ct soft tissue neck w/dye | 1.38 | 6.12 | N/A | 0.31 | 7.81 | N/A | XXX
70491 | 26 | A | Ct soft tissue neck w/dye | 1.38 | 0.46 | 0.46 | 0.06 | 1.90 | 1.90 | XXX
70491 | TC | A | Ct soft tissue neck w/dye | 0.00 | 5.66 | N/A | 0.25 | 5.91 | N/A | XXX
70492 |  | A | Ct sft tsue nck w/o & w/dye | 1.45 | 7.55 | N/A | 0.37 | 9.37 | N/A | XXX
70492 | 26 | A | Ct sft tsue nck w/o & w/dye | 1.45 | 0.49 | 0.49 | 0.06 | 2.00 | 2.00 | XXX
70492 | TC | A | Ct sft tsue nck w/o & w/dye | 0.00 | 7.07 | N/A | 0.31 | 7.38 | N/A | XXX
70496 |  | A | Ct angiography, head | 1.75 | 11.19 | N/A | 0.56 | 13.50 | N/A | XXX
70496 | 26 | A | Ct angiography, head | 1.75 | 0.59 | 0.59 | 0.08 | 2.42 | 2.42 | XXX
70496 | TC | A | Ct angiography, head | 0.00 | 10.61 | N/A | 0.48 | 11.09 | N/A | XXX
70498 |  | A | Ct angiography, neck | 1.75 | 11.20 | N/A | 0.56 | 13.51 | N/A | XXX
70498 | 26 | A | Ct angiography, neck | 1.75 | 0.59 | 0.59 | 0.08 | 2.42 | 2.42 | XXX
70498 | TC | A | Ct angiography, neck | 0.00 | 10.61 | N/A | 0.48 | 11.09 | N/A | XXX
70540 |  | A | Mri orbit/face/neck w/o dye | 1.35 | 11.66 | N/A | 0.36 | 13.37 | N/A | XXX
70540 | 26 | A | Mri orbit/face/neck w/o dye | 1.35 | 0.45 | 0.45 | 0.04 | 1.84 | 1.84 | XXX
70540 | TC | A | Mri orbit/face/neck w/o dye | 0.00 | 11.21 | N/A | 0.32 | 11.53 | N/A | XXX
70542 |  | A | Mri orbit/face/neck w/dye | 1.62 | 13.99 | N/A | 0.44 | 16.05 | N/A | XXX
70542 | 26 | A | Mri orbit/face/neck w/dye | 1.62 | 0.55 | 0.55 | 0.05 | 2.22 | 2.22 | XXX
70542 | TC | A | Mri orbit/face/neck w/dye | 0.00 | 13.44 | N/A | 0.39 | 13.83 | N/A | XXX
70543 |  | A | Mri orbt/fac/nck w/o&w dye | 2.15 | 25.62 | N/A | 0.77 | 28.54 | N/A | XXX
70543 | 26 | A | Mri orbt/fac/nck w/o&w dye | 2.15 | 0.72 | 0.72 | 0.07 | 2.94 | 2.94 | XXX
70543 | TC | A | Mri orbt/fac/nck w/o&w dye | 0.00 | 24.89 | N/A | 0.70 | 25.59 | N/A | XXX
70544 |  | A | Mr angiography head w/o dye | 1.20 | 11.61 | N/A | 0.54 | 13.35 | N/A | XXX
70544 | 26 | A | Mr angiography head w/o dye | 1.20 | 0.40 | 0.40 | 0.05 | 1.65 | 1.65 | XXX
70544 | TC | A | Mr angiography head w/o dye | 0.00 | 11.21 | N/A | 0.49 | 11.70 | N/A | XXX
70545 |  | A | Mr angiography head w/dye | 1.20 | 11.61 | N/A | 0.54 | 13.35 | N/A | XXX
70545 | 26 | A | Mr angiography head w/dye | 1.20 | 0.40 | 0.40 | 0.05 | 1.65 | 1.65 | XXX
70545 | TC | A | Mr angiography head w/dye | 0.00 | 11.21 | N/A | 0.49 | 11.70 | N/A | XXX
70546 |  | A | Mr angiograph head w/o&w dye | 1.80 | 23.02 | N/A | 0.57 | 25.39 | N/A | XXX
70546 | 26 | A | Mr angiograph head w/o&w dye | 1.80 | 0.61 | 0.61 | 0.08 | 2.49 | 2.49 | XXX
70546 | TC | A | Mr angiograph head w/o&w dye | 0.00 | 22.42 | N/A | 0.49 | 22.91 | N/A | XXX
70547 |  | A | Mr angiography neck w/o dye | 1.20 | 11.61 | N/A | 0.54 | 13.35 | N/A | XXX
70547 | 26 | A | Mr angiography neck w/o dye | 1.20 | 0.40 | 0.40 | 0.05 | 1.65 | 1.65 | XXX
70547 | TC | A | Mr angiography neck w/o dye | 0.00 | 11.21 | N/A | 0.49 | 11.70 | N/A | XXX
70548 |  | A | Mr angiography neck w/dye | 1.20 | 11.61 | N/A | 0.54 | 13.35 | N/A | XXX
70548 | 26 | A | Mr angiography neck w/dye | 1.20 | 0.40 | 0.40 | 0.05 | 1.65 | 1.65 | XXX
70548 | TC | A | Mr angiography neck w/dye | 0.00 | 11.21 | N/A | 0.49 | 11.70 | N/A | XXX
70549 |  | A | Mr angiograph neck w/o&w dye | 1.80 | 23.03 | N/A | 0.57 | 25.40 | N/A | XXX
70549 | 26 | A | Mr angiograph neck w/o&w dye | 1.80 | 0.61 | 0.61 | 0.08 | 2.49 | 2.49 | XXX
70549 | TC | A | Mr angiograph neck w/o&w dye | 0.00 | 22.42 | N/A | 0.49 | 22.91 | N/A | XXX
70551 |  | A | Mri brain w/o dye | 1.48 | 11.71 | N/A | 0.56 | 13.75 | N/A | XXX
70551 | 26 | A | Mri brain w/o dye | 1.48 | 0.50 | 0.50 | 0.07 | 2.05 | 2.05 | XXX
70551 | TC | A | Mri brain w/o dye | 0.00 | 11.21 | N/A | 0.49 | 11.70 | N/A | XXX
70552 |  | A | Mri brain w/dye | 1.78 | 14.05 | N/A | 0.66 | 16.49 | N/A | XXX
70552 | 26 | A | Mri brain w/dye | 1.78 | 0.61 | 0.61 | 0.08 | 2.47 | 2.47 | XXX
70552 | TC | A | Mri brain w/dye | 0.00 | 13.44 | N/A | 0.58 | 14.02 | N/A | XXX
70553 |  | A | Mri brain w/o&w dye | 2.36 | 25.69 | N/A | 1.19 | 29.24 | N/A | XXX
70553 | 26 | A | Mri brain w/o&w dye | 2.36 | 0.79 | 0.79 | 0.10 | 3.25 | 3.25 | XXX
70553 | TC | A | Mri brain w/o&w dye | 0.00 | 24.89 | N/A | 1.09 | 25.98 | N/A | XXX
71010 |  | A | Chest x-ray | 0.18 | 0.53 | N/A | 0.03 | 0.74 | N/A | XXX
71010 | 26 | A | Chest x-ray | 0.18 | 0.06 | 0.06 | 0.01 | 0.25 | 0.25 | XXX
71010 | TC | A | Chest x-ray | 0.00 | 0.47 | N/A | 0.02 | 0.49 | N/A | XXX
71015 |  | A | Chest x-ray | 0.21 | 0.59 | N/A | 0.03 | 0.83 | N/A | XXX
71015 | 26 | A | Chest x-ray | 0.21 | 0.07 | 0.07 | 0.01 | 0.29 | 0.29 | XXX
71015 | TC | A | Chest x-ray | 0.00 | 0.52 | N/A | 0.02 | 0.54 | N/A | XXX
71020 |  | A | Chest x-ray | 0.22 | 0.69 | N/A | 0.04 | 0.95 | N/A | XXX
71020 | 26 | A | Chest x-ray | 0.22 | 0.07 | 0.07 | 0.01 | 0.30 | 0.30 | XXX
71020 | TC | A | Chest x-ray | 0.00 | 0.62 | N/A | 0.03 | 0.65 | N/A | XXX
71021 |  | A | Chest x-ray | 0.27 | 0.83 | N/A | 0.05 | 1.15 | N/A | XXX
71021 | 26 | A | Chest x-ray | 0.27 | 0.09 | 0.09 | 0.01 | 0.37 | 0.37 | XXX
71021 | TC | A | Chest x-ray | 0.00 | 0.73 | N/A | 0.04 | 0.77 | N/A | XXX
71022 |  | A | Chest x-ray | 0.31 | 0.84 | N/A | 0.06 | 1.21 | N/A | XXX
71022 | 26 | A | Chest x-ray | 0.31 | 0.10 | 0.10 | 0.02 | 0.43 | 0.43 | XXX
71022 | TC | A | Chest x-ray | 0.00 | 0.73 | N/A | 0.04 | 0.77 | N/A | XXX
71023 |  | A | Chest x-ray and fluoroscopy | 0.38 | 0.92 | N/A | 0.06 | 1.36 | N/A | XXX
71023 | 26 | A | Chest x-ray and fluoroscopy | 0.38 | 0.13 | 0.13 | 0.02 | 0.53 | 0.53 | XXX
71023 | TC | A | Chest x-ray and fluoroscopy | 0.00 | 0.78 | N/A | 0.04 | 0.82 | N/A | XXX
71030 |  | A | Chest x-ray | 0.31 | 0.89 | N/A | 0.05 | 1.25 | N/A | XXX
71030 | 26 | A | Chest x-ray | 0.31 | 0.10 | 0.10 | 0.01 | 0.42 | 0.42 | XXX
71030 | TC | A | Chest x-ray | 0.00 | 0.78 | N/A | 0.04 | 0.82 | N/A | XXX
71034 |  | A | Chest x-ray and fluoroscopy | 0.46 | 1.60 | N/A | 0.09 | 2.15 | N/A | XXX
71034 | 26 | A | Chest x-ray and fluoroscopy | 0.46 | 0.16 | 0.16 | 0.02 | 0.64 | 0.64 | XXX
71034 | TC | A | Chest x-ray and fluoroscopy | 0.00 | 1.44 | N/A | 0.07 | 1.51 | N/A | XXX
71035 |  | A | Chest x-ray | 0.18 | 0.58 | N/A | 0.03 | 0.79 | N/A | XXX
71035 | 26 | A | Chest x-ray | 0.18 | 0.06 | 0.06 | 0.01 | 0.25 | 0.25 | XXX
71035 | TC | A | Chest x-ray | 0.00 | 0.52 | N/A | 0.02 | 0.54 | N/A | XXX
71040 |  | A | Contrast x-ray of bronchi | 0.58 | 1.65 | N/A | 0.10 | 2.33 | N/A | XXX
71040 | 26 | A | Contrast x-ray of bronchi | 0.58 | 0.19 | 0.19 | 0.03 | 0.80 | 0.80 | XXX
71040 | TC | A | Contrast x-ray of bronchi | 0.00 | 1.46 | N/A | 0.07 | 1.53 | N/A | XXX
71060 |  | A | Contrast x-ray of bronchi | 0.74 | 2.45 | N/A | 0.14 | 3.33 | N/A | XXX
71060 | 26 | A | Contrast x-ray of bronchi | 0.74 | 0.25 | 0.25 | 0.03 | 1.02 | 1.02 | XXX
71060 | TC | A | Contrast x-ray of bronchi | 0.00 | 2.20 | N/A | 0.11 | 2.31 | N/A | XXX
71090 |  | A | X-ray & pacemaker insertion | 0.54 | 1.89 | N/A | 0.11 | 2.54 | N/A | XXX
71090 | 26 | A | X-ray & pacemaker insertion | 0.54 | 0.21 | 0.21 | 0.02 | 0.77 | 0.77 | XXX
71090 | TC | A | X-ray & pacemaker insertion | 0.00 | 1.68 | N/A | 0.09 | 1.77 | N/A | XXX
71100 |  | A | X-ray exam of ribs | 0.22 | 0.64 | N/A | 0.04 | 0.90 | N/A | XXX
71100 | 26 | A | X-ray exam of ribs | 0.22 | 0.07 | 0.07 | 0.01 | 0.30 | 0.30 | XXX
71100 | TC | A | X-ray exam of ribs | 0.00 | 0.57 | N/A | 0.03 | 0.60 | N/A | XXX
71101 |  | A | X-ray exam of ribs/chest | 0.27 | 0.76 | N/A | 0.04 | 1.07 | N/A | XXX
71101 | 26 | A | X-ray exam of ribs/chest | 0.27 | 0.09 | 0.09 | 0.01 | 0.37 | 0.37 | XXX
71101 | TC | A | X-ray exam of ribs/chest | 0.00 | 0.67 | N/A | 0.03 | 0.70 | N/A | XXX
71110 |  | A | X-ray exam of ribs | 0.27 | 0.87 | N/A | 0.05 | 1.19 | N/A | XXX
71110 | 26 | A | X-ray exam of ribs | 0.27 | 0.09 | 0.09 | 0.01 | 0.37 | 0.37 | XXX
71110 | TC | A | X-ray exam of ribs | 0.00 | 0.78 | N/A | 0.04 | 0.82 | N/A | XXX
71111 |  | A | X-ray exam of ribs/ chest | 0.32 | 1.00 | N/A | 0.06 | 1.38 | N/A | XXX
71111 | 26 | A | X-ray exam of ribs/ chest | 0.32 | 0.11 | 0.11 | 0.01 | 0.44 | 0.44 | XXX
71111 | TC | A | X-ray exam of ribs/ chest | 0.00 | 0.89 | N/A | 0.05 | 0.94 | N/A | XXX
71120 |  | A | X-ray exam of breastbone | 0.20 | 0.71 | N/A | 0.04 | 0.95 | N/A | XXX
71120 | 26 | A | X-ray exam of breastbone | 0.20 | 0.07 | 0.07 | 0.01 | 0.28 | 0.28 | XXX
71120 | TC | A | X-ray exam of breastbone | 0.00 | 0.65 | N/A | 0.03 | 0.68 | N/A | XXX
71130 |  | A | X-ray exam of breastbone | 0.22 | 0.78 | N/A | 0.04 | 1.04 | N/A | XXX
71130 | 26 | A | X-ray exam of breastbone | 0.22 | 0.07 | 0.07 | 0.01 | 0.30 | 0.30 | XXX
71130 | TC | A | X-ray exam of breastbone | 0.00 | 0.71 | N/A | 0.03 | 0.74 | N/A | XXX
71250 |  | A | Ct thorax w/o dye | 1.16 | 6.30 | N/A | 0.31 | 7.77 | N/A | XXX
71250 | 26 | A | Ct thorax w/o dye | 1.16 | 0.39 | 0.39 | 0.05 | 1.60 | 1.60 | XXX
71250 | TC | A | Ct thorax w/o dye | 0.00 | 5.91 | N/A | 0.26 | 6.17 | N/A | XXX
71260 |  | A | Ct thorax w/dye | 1.24 | 7.48 | N/A | 0.36 | 9.08 | N/A | XXX
71260 | 26 | A | Ct thorax w/dye | 1.24 | 0.41 | 0.41 | 0.05 | 1.70 | 1.70 | XXX
71260 | TC | A | Ct thorax w/dye | 0.00 | 7.07 | N/A | 0.31 | 7.38 | N/A | XXX
71270 |  | A | Ct thorax w/o&w dye | 1.38 | 9.31 | N/A | 0.44 | 11.13 | N/A | XXX
71270 | 26 | A | Ct thorax w/o&w dye | 1.38 | 0.46 | 0.46 | 0.06 | 1.90 | 1.90 | XXX
71270 | TC | A | Ct thorax w/o&w dye | 0.00 | 8.85 | N/A | 0.38 | 9.23 | N/A | XXX
71275 |  | A | Ct angiography, chest | 1.92 | 13.03 | N/A | 0.38 | 15.33 | N/A | XXX
71275 | 26 | A | Ct angiography, chest | 1.92 | 0.64 | 0.64 | 0.06 | 2.62 | 2.62 | XXX
71275 | TC | A | Ct angiography, chest | 0.00 | 12.39 | N/A | 0.32 | 12.71 | N/A | XXX
71550 |  | A | Mri chest w/o dye | 1.46 | 11.70 | N/A | 0.41 | 13.57 | N/A | XXX
71550 | 26 | A | Mri chest w/o dye | 1.46 | 0.49 | 0.49 | 0.04 | 1.99 | 1.99 | XXX
71550 | TC | A | Mri chest w/o dye | 0.00 | 11.21 | N/A | 0.37 | 11.58 | N/A | XXX
71551 |  | A | Mri chest w/dye | 1.73 | 14.02 | N/A | 0.49 | 16.24 | N/A | XXX
71551 | 26 | A | Mri chest w/dye | 1.73 | 0.58 | 0.58 | 0.06 | 2.37 | 2.37 | XXX
71551 | TC | A | Mri chest w/dye | 0.00 | 13.44 | N/A | 0.43 | 13.87 | N/A | XXX
71552 |  | A | Mri chest w/o&w/dye | 2.26 | 25.65 | N/A | 0.64 | 28.55 | N/A | XXX
71552 | 26 | A | Mri chest w/o&w/dye | 2.26 | 0.76 | 0.76 | 0.08 | 3.10 | 3.10 | XXX
71552 | TC | A | Mri chest w/o&w/dye | 0.00 | 24.89 | N/A | 0.56 | 25.45 | N/A | XXX
71555 |  | R | Mri angio chest w or w/o dye | 1.81 | 11.82 | N/A | 0.57 | 14.20 | N/A | XXX
71555 | 26 | R | Mri angio chest w or w/o dye | 1.81 | 0.61 | 0.61 | 0.08 | 2.50 | 2.50 | XXX
71555 | TC | R | Mri angio chest w or w/o dye | 0.00 | 11.21 | N/A | 0.49 | 11.70 | N/A | XXX
72010 |  | A | X-ray exam of spine | 0.45 | 1.18 | N/A | 0.08 | 1.71 | N/A | XXX
72010 | 26 | A | X-ray exam of spine | 0.45 | 0.15 | 0.15 | 0.03 | 0.63 | 0.63 | XXX
72010 | TC | A | X-ray exam of spine | 0.00 | 1.03 | N/A | 0.05 | 1.08 | N/A | XXX
72020 |  | A | X-ray exam of spine | 0.15 | 0.47 | N/A | 0.03 | 0.65 | N/A | XXX
72020 | 26 | A | X-ray exam of spine | 0.15 | 0.05 | 0.05 | 0.01 | 0.21 | 0.21 | XXX
72020 | TC | A | X-ray exam of spine | 0.00 | 0.42 | N/A | 0.02 | 0.44 | N/A | XXX
72040 |  | A | X-ray exam of neck spine | 0.22 | 0.67 | N/A | 0.04 | 0.93 | N/A | XXX
72040 | 26 | A | X-ray exam of neck spine | 0.22 | 0.07 | 0.07 | 0.01 | 0.30 | 0.30 | XXX
72040 | TC | A | X-ray exam of neck spine | 0.00 | 0.60 | N/A | 0.03 | 0.63 | N/A | XXX
72050 |  | A | X-ray exam of neck spine | 0.31 | 0.99 | N/A | 0.07 | 1.37 | N/A | XXX
72050 | 26 | A | X-ray exam of neck spine | 0.31 | 0.10 | 0.10 | 0.02 | 0.43 | 0.43 | XXX
72050 | TC | A | X-ray exam of neck spine | 0.00 | 0.89 | N/A | 0.05 | 0.94 | N/A | XXX
72052 |  | A | X-ray exam of neck spine | 0.36 | 1.25 | N/A | 0.07 | 1.68 | N/A | XXX
72052 | 26 | A | X-ray exam of neck spine | 0.36 | 0.12 | 0.12 | 0.02 | 0.50 | 0.50 | XXX
72052 | TC | A | X-ray exam of neck spine | 0.00 | 1.13 | N/A | 0.05 | 1.18 | N/A | XXX
72069 |  | A | X-ray exam of trunk spine | 0.22 | 0.57 | N/A | 0.04 | 0.83 | N/A | XXX
72069 | 26 | A | X-ray exam of trunk spine | 0.22 | 0.08 | 0.08 | 0.02 | 0.32 | 0.32 | XXX
72069 | TC | A | X-ray exam of trunk spine | 0.00 | 0.49 | N/A | 0.02 | 0.51 | N/A | XXX
72070 |  | A | X-ray exam of thoracic spine | 0.22 | 0.72 | N/A | 0.04 | 0.98 | N/A | XXX
72070 | 26 | A | X-ray exam of thoracic spine | 0.22 | 0.07 | 0.07 | 0.01 | 0.30 | 0.30 | XXX
72070 | TC | A | X-ray exam of thoracic spine | 0.00 | 0.65 | N/A | 0.03 | 0.68 | N/A | XXX
72072 |  | A | X-ray exam of thoracic spine | 0.22 | 0.81 | N/A | 0.05 | 1.08 | N/A | XXX
72072 | 26 | A | X-ray exam of thoracic spine | 0.22 | 0.07 | 0.07 | 0.01 | 0.30 | 0.30 | XXX
72072 | TC | A | X-ray exam of thoracic spine | 0.00 | 0.73 | N/A | 0.04 | 0.77 | N/A | XXX
72074 |  | A | X-ray exam of thoracic spine | 0.22 | 0.98 | N/A | 0.06 | 1.26 | N/A | XXX
72074 | 26 | A | X-ray exam of thoracic spine | 0.22 | 0.07 | 0.07 | 0.01 | 0.30 | 0.30 | XXX
72074 | TC | A | X-ray exam of thoracic spine | 0.00 | 0.91 | N/A | 0.05 | 0.96 | N/A | XXX
72080 |  | A | X-ray exam of trunk spine | 0.22 | 0.74 | N/A | 0.05 | 1.01 | N/A | XXX
72080 | 26 | A | X-ray exam of trunk spine | 0.22 | 0.07 | 0.07 | 0.02 | 0.31 | 0.31 | XXX
72080 | TC | A | X-ray exam of trunk spine | 0.00 | 0.67 | N/A | 0.03 | 0.70 | N/A | XXX
72090 |  | A | X-ray exam of trunk spine | 0.28 | 0.76 | N/A | 0.05 | 1.09 | N/A | XXX
72090 | 26 | A | X-ray exam of trunk spine | 0.28 | 0.10 | 0.10 | 0.02 | 0.40 | 0.40 | XXX
72090 | TC | A | X-ray exam of trunk spine | 0.00 | 0.67 | N/A | 0.03 | 0.70 | N/A | XXX
72100 |  | A | X-ray exam of lower spine | 0.22 | 0.74 | N/A | 0.05 | 1.01 | N/A | XXX
72100 | 26 | A | X-ray exam of lower spine | 0.22 | 0.07 | 0.07 | 0.02 | 0.31 | 0.31 | XXX
72100 | TC | A | X-ray exam of lower spine | 0.00 | 0.67 | N/A | 0.03 | 0.70 | N/A | XXX
72110 |  | A | X-ray exam of lower spine | 0.31 | 1.01 | N/A | 0.07 | 1.39 | N/A | XXX
72110 | 26 | A | X-ray exam of lower spine | 0.31 | 0.10 | 0.10 | 0.02 | 0.43 | 0.43 | XXX
72110 | TC | A | X-ray exam of lower spine | 0.00 | 0.91 | N/A | 0.05 | 0.96 | N/A | XXX
72114 |  | A | X-ray exam of lower spine | 0.36 | 1.31 | N/A | 0.08 | 1.75 | N/A | XXX
72114 | 26 | A | X-ray exam of lower spine | 0.36 | 0.12 | 0.12 | 0.03 | 0.51 | 0.51 | XXX
72114 | TC | A | X-ray exam of lower spine | 0.00 | 1.19 | N/A | 0.05 | 1.24 | N/A | XXX
72120 |  | A | X-ray exam of lower spine | 0.22 | 0.96 | N/A | 0.07 | 1.25 | N/A | XXX
72120 | 26 | A | X-ray exam of lower spine | 0.22 | 0.07 | 0.07 | 0.02 | 0.31 | 0.31 | XXX
72120 | TC | A | X-ray exam of lower spine | 0.00 | 0.89 | N/A | 0.05 | 0.94 | N/A | XXX
72125 |  | A | Ct neck spine w/o dye | 1.16 | 6.30 | N/A | 0.31 | 7.77 | N/A | XXX
72125 | 26 | A | Ct neck spine w/o dye | 1.16 | 0.39 | 0.39 | 0.05 | 1.60 | 1.60 | XXX
72125 | TC | A | Ct neck spine w/o dye | 0.00 | 5.91 | N/A | 0.26 | 6.17 | N/A | XXX
72126 |  | A | Ct neck spine w/dye | 1.22 | 7.48 | N/A | 0.36 | 9.06 | N/A | XXX
72126 | 26 | A | Ct neck spine w/dye | 1.22 | 0.41 | 0.41 | 0.05 | 1.68 | 1.68 | XXX
72126 | TC | A | Ct neck spine w/dye | 0.00 | 7.07 | N/A | 0.31 | 7.38 | N/A | XXX
72127 |  | A | Ct neck spine w/o&w/dye | 1.27 | 9.28 | N/A | 0.44 | 10.99 | N/A | XXX
72127 | 26 | A | Ct neck spine w/o&w/dye | 1.27 | 0.43 | 0.43 | 0.06 | 1.76 | 1.76 | XXX
72127 | TC | A | Ct neck spine w/o&w/dye | 0.00 | 8.85 | N/A | 0.38 | 9.23 | N/A | XXX
72128 |  | A | Ct chest spine w/o dye | 1.16 | 6.30 | N/A | 0.31 | 7.77 | N/A | XXX
72128 | 26 | A | Ct chest spine w/o dye | 1.16 | 0.39 | 0.39 | 0.05 | 1.60 | 1.60 | XXX
72128 | TC | A | Ct chest spine w/o dye | 0.00 | 5.91 | N/A | 0.26 | 6.17 | N/A | XXX
72129 |  | A | Ct chest spine w/dye | 1.22 | 7.48 | N/A | 0.36 | 9.06 | N/A | XXX
72129 | 26 | A | Ct chest spine w/dye | 1.22 | 0.41 | 0.41 | 0.05 | 1.68 | 1.68 | XXX
72129 | TC | A | Ct chest spine w/dye | 0.00 | 7.07 | N/A | 0.31 | 7.38 | N/A | XXX
72130 |  | A | Ct chest spine w/o&w/dye | 1.27 | 9.27 | N/A | 0.44 | 10.98 | N/A | XXX
72130 | 26 | A | Ct chest spine w/o&w/dye | 1.27 | 0.43 | 0.43 | 0.06 | 1.76 | 1.76 | XXX
72130 | TC | A | Ct chest spine w/o&w/dye | 0.00 | 8.85 | N/A | 0.38 | 9.23 | N/A | XXX
72131 |  | A | Ct lumbar spine w/o dye | 1.16 | 6.30 | N/A | 0.31 | 7.77 | N/A | XXX
72131 | 26 | A | Ct lumbar spine w/o dye | 1.16 | 0.39 | 0.39 | 0.05 | 1.60 | 1.60 | XXX
72131 | TC | A | Ct lumbar spine w/o dye | 0.00 | 5.91 | N/A | 0.26 | 6.17 | N/A | XXX
72132 |  | A | Ct lumbar spine w/dye | 1.22 | 7.48 | N/A | 0.37 | 9.07 | N/A | XXX
72132 | 26 | A | Ct lumbar spine w/dye | 1.22 | 0.41 | 0.41 | 0.06 | 1.69 | 1.69 | XXX
72132 | TC | A | Ct lumbar spine w/dye | 0.00 | 7.07 | N/A | 0.31 | 7.38 | N/A | XXX
72133 |  | A | Ct lumbar spine w/o&w/dye | 1.27 | 9.28 | N/A | 0.44 | 10.99 | N/A | XXX
72133 | 26 | A | Ct lumbar spine w/o&w/dye | 1.27 | 0.43 | 0.43 | 0.06 | 1.76 | 1.76 | XXX
72133 | TC | A | Ct lumbar spine w/o&w/dye | 0.00 | 8.85 | N/A | 0.38 | 9.23 | N/A | XXX
72141 |  | A | Mri neck spine w/o dye | 1.60 | 11.75 | N/A | 0.56 | 13.91 | N/A | XXX
72141 | 26 | A | Mri neck spine w/o dye | 1.60 | 0.54 | 0.54 | 0.07 | 2.21 | 2.21 | XXX
72141 | TC | A | Mri neck spine w/o dye | 0.00 | 11.21 | N/A | 0.49 | 11.70 | N/A | XXX
72142 |  | A | Mri neck spine w/dye | 1.92 | 14.10 | N/A | 0.67 | 16.69 | N/A | XXX
72142 | 26 | A | Mri neck spine w/dye | 1.92 | 0.66 | 0.66 | 0.09 | 2.67 | 2.67 | XXX
72142 | TC | A | Mri neck spine w/dye | 0.00 | 13.44 | N/A | 0.58 | 14.02 | N/A | XXX
72146 |  | A | Mri chest spine w/o dye | 1.60 | 12.98 | N/A | 0.60 | 15.18 | N/A | XXX
72146 | 26 | A | Mri chest spine w/o dye | 1.60 | 0.54 | 0.54 | 0.07 | 2.21 | 2.21 | XXX
72146 | TC | A | Mri chest spine w/o dye | 0.00 | 12.45 | N/A | 0.53 | 12.98 | N/A | XXX
72147 |  | A | Mri chest spine w/dye | 1.92 | 14.09 | N/A | 0.67 | 16.68 | N/A | XXX
72147 | 26 | A | Mri chest spine w/dye | 1.92 | 0.65 | 0.65 | 0.09 | 2.66 | 2.66 | XXX
72147 | TC | A | Mri chest spine w/dye | 0.00 | 13.44 | N/A | 0.58 | 14.02 | N/A | XXX
72148 |  | A | Mri lumbar spine w/o dye | 1.48 | 12.95 | N/A | 0.60 | 15.03 | N/A | XXX
72148 | 26 | A | Mri lumbar spine w/o dye | 1.48 | 0.50 | 0.50 | 0.07 | 2.05 | 2.05 | XXX
72148 | TC | A | Mri lumbar spine w/o dye | 0.00 | 12.45 | N/A | 0.53 | 12.98 | N/A | XXX
72149 |  | A | Mri lumbar spine w/dye | 1.78 | 14.05 | N/A | 0.67 | 16.50 | N/A | XXX
72149 | 26 | A | Mri lumbar spine w/dye | 1.78 | 0.61 | 0.61 | 0.09 | 2.48 | 2.48 | XXX
72149 | TC | A | Mri lumbar spine w/dye | 0.00 | 13.44 | N/A | 0.58 | 14.02 | N/A | XXX
72156 |  | A | Mri neck spine w/o&w/dye | 2.57 | 25.76 | N/A | 1.20 | 29.53 | N/A | XXX
72156 | 26 | A | Mri neck spine w/o&w/dye | 2.57 | 0.87 | 0.87 | 0.11 | 3.55 | 3.55 | XXX
72156 | TC | A | Mri neck spine w/o&w/dye | 0.00 | 24.89 | N/A | 1.09 | 25.98 | N/A | XXX
72157 |  | A | Mri chest spine w/o&w/dye | 2.57 | 25.76 | N/A | 1.20 | 29.53 | N/A | XXX
72157 | 26 | A | Mri chest spine w/o&w/dye | 2.57 | 0.86 | 0.86 | 0.11 | 3.54 | 3.54 | XXX
72157 | TC | A | Mri chest spine w/o&w/dye | 0.00 | 24.89 | N/A | 1.09 | 25.98 | N/A | XXX
72158 |  | A | Mri lumbar spine w/o&w/dye | 2.36 | 25.69 | N/A | 1.20 | 29.25 | N/A | XXX
72158 | 26 | A | Mri lumbar spine w/o&w/dye | 2.36 | 0.79 | 0.79 | 0.11 | 3.26 | 3.26 | XXX
72158 | TC | A | Mri lumbar spine w/o&w/dye | 0.00 | 24.89 | N/A | 1.09 | 25.98 | N/A | XXX
72159 |  | N | Mr angio spine w/o&w/dye | 1.80 | 13.14 | N/A | 0.61 | 15.55 | N/A | XXX
72159 | 26 | N | Mr angio spine w/o&w/dye | 1.80 | 0.70 | 0.70 | 0.08 | 2.58 | 2.58 | XXX
72159 | TC | N | Mr angio spine w/o&w/dye | 0.00 | 12.45 | N/A | 0.53 | 12.98 | N/A | XXX
72170 |  | A | X-ray exam of pelvis | 0.17 | 0.58 | N/A | 0.03 | 0.78 | N/A | XXX
72170 | 26 | A | X-ray exam of pelvis | 0.17 | 0.06 | 0.06 | 0.01 | 0.24 | 0.24 | XXX
72170 | TC | A | X-ray exam of pelvis | 0.00 | 0.52 | N/A | 0.02 | 0.54 | N/A | XXX
72190 |  | A | X-ray exam of pelvis | 0.21 | 0.74 | N/A | 0.04 | 0.99 | N/A | XXX
72190 | 26 | A | X-ray exam of pelvis | 0.21 | 0.07 | 0.07 | 0.01 | 0.29 | 0.29 | XXX
72190 | TC | A | X-ray exam of pelvis | 0.00 | 0.67 | N/A | 0.03 | 0.70 | N/A | XXX
72191 |  | A | Ct angiograph pelv w/o&w/dye | 1.81 | 12.64 | N/A | 0.38 | 14.83 | N/A | XXX
72191 | 26 | A | Ct angiograph pelv w/o&w/dye | 1.81 | 0.61 | 0.61 | 0.06 | 2.48 | 2.48 | XXX
72191 | TC | A | Ct angiograph pelv w/o&w/dye | 0.00 | 12.03 | N/A | 0.32 | 12.35 | N/A | XXX
72192 |  | A | Ct pelvis w/o dye | 1.09 | 6.27 | N/A | 0.31 | 7.67 | N/A | XXX
72192 | 26 | A | Ct pelvis w/o dye | 1.09 | 0.36 | 0.36 | 0.05 | 1.50 | 1.50 | XXX
72192 | TC | A | Ct pelvis w/o dye | 0.00 | 5.91 | N/A | 0.26 | 6.17 | N/A | XXX
72193 |  | A | Ct pelvis w/dye | 1.16 | 7.23 | N/A | 0.35 | 8.74 | N/A | XXX
72193 | 26 | A | Ct pelvis w/dye | 1.16 | 0.39 | 0.39 | 0.05 | 1.60 | 1.60 | XXX
72193 | TC | A | Ct pelvis w/dye | 0.00 | 6.85 | N/A | 0.30 | 7.15 | N/A | XXX
72194 |  | A | Ct pelvis w/o&w/dye | 1.22 | 8.90 | N/A | 0.41 | 10.53 | N/A | XXX
72194 | 26 | A | Ct pelvis w/o&w/dye | 1.22 | 0.41 | 0.41 | 0.05 | 1.68 | 1.68 | XXX
72194 | TC | A | Ct pelvis w/o&w/dye | 0.00 | 8.49 | N/A | 0.36 | 8.85 | N/A | XXX
72195 |  | A | Mri pelvis w/o dye | 1.46 | 11.70 | N/A | 0.42 | 13.58 | N/A | XXX
72195 | 26 | A | Mri pelvis w/o dye | 1.46 | 0.49 | 0.49 | 0.05 | 2.00 | 2.00 | XXX
72195 | TC | A | Mri pelvis w/o dye | 0.00 | 11.21 | N/A | 0.37 | 11.58 | N/A | XXX
72196 |  | A | Mri pelvis w/dye | 1.73 | 14.02 | N/A | 0.48 | 16.23 | N/A | XXX
72196 | 26 | A | Mri pelvis w/dye | 1.73 | 0.58 | 0.58 | 0.05 | 2.36 | 2.36 | XXX
72196 | TC | A | Mri pelvis w/dye | 0.00 | 13.44 | N/A | 0.43 | 13.87 | N/A | XXX
72197 |  | A | Mri pelvis w/o & w/dye | 2.26 | 25.65 | N/A | 0.84 | 28.75 | N/A | XXX
72197 | 26 | A | Mri pelvis w/o & w/dye | 2.26 | 0.76 | 0.76 | 0.08 | 3.10 | 3.10 | XXX
72197 | TC | A | Mri pelvis w/o & w/dye | 0.00 | 24.89 | N/A | 0.76 | 25.65 | N/A | XXX
72198 |  | A | Mr angio pelvis w/o&w/dye | 1.80 | 11.91 | N/A | 0.57 | 14.28 | N/A | XXX
72198 | 26 | A | Mr angio pelvis w/o&w/dye | 1.80 | 0.70 | 0.70 | 0.08 | 2.58 | 2.58 | XXX
72198 | TC | A | Mr angio pelvis w/o&w/dye | 0.00 | 11.21 | N/A | 0.49 | 11.70 | N/A | XXX
72200 |  | A | X-ray exam sacroiliac joints | 0.17 | 0.58 | N/A | 0.03 | 0.78 | N/A | XXX
72200 | 26 | A | X-ray exam sacroiliac joints | 0.17 | 0.06 | 0.06 | 0.01 | 0.24 | 0.24 | XXX
72200 | TC | A | X-ray exam sacroiliac joints | 0.00 | 0.52 | N/A | 0.02 | 0.54 | N/A | XXX
72202 |  | A | X-ray exam sacroiliac joints | 0.19 | 0.68 | N/A | 0.04 | 0.91 | N/A | XXX
72202 | 26 | A | X-ray exam sacroiliac joints | 0.19 | 0.06 | 0.06 | 0.01 | 0.26 | 0.26 | XXX
72202 | TC | A | X-ray exam sacroiliac joints | 0.00 | 0.62 | N/A | 0.03 | 0.65 | N/A | XXX
72220 |  | A | X-ray exam of tailbone | 0.17 | 0.63 | N/A | 0.04 | 0.84 | N/A | XXX
72220 | 26 | A | X-ray exam of tailbone | 0.17 | 0.06 | 0.06 | 0.01 | 0.24 | 0.24 | XXX
72220 | TC | A | X-ray exam of tailbone | 0.00 | 0.57 | N/A | 0.03 | 0.60 | N/A | XXX
72240 |  | A | Contrast x-ray of neck spine | 0.91 | 5.04 | N/A | 0.25 | 6.20 | N/A | XXX
72240 | 26 | A | Contrast x-ray of neck spine | 0.91 | 0.29 | 0.29 | 0.04 | 1.24 | 1.24 | XXX
72240 | TC | A | Contrast x-ray of neck spine | 0.00 | 4.75 | N/A | 0.21 | 4.96 | N/A | XXX
72255 |  | A | Contrast x-ray, thorax spine | 0.91 | 4.61 | N/A | 0.22 | 5.74 | N/A | XXX
72255 | 26 | A | Contrast x-ray, thorax spine | 0.91 | 0.28 | 0.28 | 0.04 | 1.23 | 1.23 | XXX
72255 | TC | A | Contrast x-ray, thorax spine | 0.00 | 4.33 | N/A | 0.18 | 4.51 | N/A | XXX
72265 |  | A | Contrast x-ray, lower spine | 0.83 | 4.33 | N/A | 0.22 | 5.38 | N/A | XXX
72265 | 26 | A | Contrast x-ray, lower spine | 0.83 | 0.26 | 0.26 | 0.04 | 1.13 | 1.13 | XXX
72265 | TC | A | Contrast x-ray, lower spine | 0.00 | 4.07 | N/A | 0.18 | 4.25 | N/A | XXX
72270 |  | A | Contrast x-ray of spine | 1.33 | 6.53 | N/A | 0.34 | 8.20 | N/A | XXX
72270 | 26 | A | Contrast x-ray of spine | 1.33 | 0.43 | 0.43 | 0.07 | 1.83 | 1.83 | XXX
72270 | TC | A | Contrast x-ray of spine | 0.00 | 6.10 | N/A | 0.27 | 6.37 | N/A | XXX
72275 |  | A | Epidurography | 0.76 | 2.30 | N/A | 0.21 | 3.27 | N/A | XXX
72275 | 26 | A | Epidurography | 0.76 | 0.20 | 0.20 | 0.03 | 0.99 | 0.99 | XXX
72275 | TC | A | Epidurography | 0.00 | 2.10 | N/A | 0.18 | 2.28 | N/A | XXX
72285 |  | A | X-ray c/t spine disk | 1.16 | 8.75 | N/A | 0.42 | 10.33 | N/A | XXX
72285 | 26 | A | X-ray c/t spine disk | 1.16 | 0.36 | 0.36 | 0.06 | 1.58 | 1.58 | XXX
72285 | TC | A | X-ray c/t spine disk | 0.00 | 8.38 | N/A | 0.36 | 8.74 | N/A | XXX
72295 |  | A | X-ray of lower spine disk | 0.83 | 8.14 | N/A | 0.37 | 9.34 | N/A | XXX
72295 | 26 | A | X-ray of lower spine disk | 0.83 | 0.27 | 0.27 | 0.04 | 1.14 | 1.14 | XXX
72295 | TC | A | X-ray of lower spine disk | 0.00 | 7.86 | N/A | 0.33 | 8.19 | N/A | XXX
73000 |  | A | X-ray exam of collar bone | 0.16 | 0.58 | N/A | 0.03 | 0.77 | N/A | XXX
73000 | 26 | A | X-ray exam of collar bone | 0.16 | 0.05 | 0.05 | 0.01 | 0.22 | 0.22 | XXX
73000 | TC | A | X-ray exam of collar bone | 0.00 | 0.52 | N/A | 0.02 | 0.54 | N/A | XXX
73010 |  | A | X-ray exam of shoulder blade | 0.17 | 0.58 | N/A | 0.03 | 0.78 | N/A | XXX
73010 | 26 | A | X-ray exam of shoulder blade | 0.17 | 0.06 | 0.06 | 0.01 | 0.24 | 0.24 | XXX
73010 | TC | A | X-ray exam of shoulder blade | 0.00 | 0.52 | N/A | 0.02 | 0.54 | N/A | XXX
73020 |  | A | X-ray exam of shoulder | 0.15 | 0.52 | N/A | 0.03 | 0.70 | N/A | XXX
73020 | 26 | A | X-ray exam of shoulder | 0.15 | 0.05 | 0.05 | 0.01 | 0.21 | 0.21 | XXX
73020 | TC | A | X-ray exam of shoulder | 0.00 | 0.47 | N/A | 0.02 | 0.49 | N/A | XXX
73030 |  | A | X-ray exam of shoulder | 0.18 | 0.63 | N/A | 0.04 | 0.85 | N/A | XXX
73030 | 26 | A | X-ray exam of shoulder | 0.18 | 0.06 | 0.06 | 0.01 | 0.25 | 0.25 | XXX
73030 | TC | A | X-ray exam of shoulder | 0.00 | 0.57 | N/A | 0.03 | 0.60 | N/A | XXX
73040 |  | A | Contrast x-ray of shoulder | 0.54 | 2.28 | N/A | 0.13 | 2.95 | N/A | XXX
73040 | 26 | A | Contrast x-ray of shoulder | 0.54 | 0.18 | 0.18 | 0.03 | 0.75 | 0.75 | XXX
73040 | TC | A | Contrast x-ray of shoulder | 0.00 | 2.10 | N/A | 0.10 | 2.20 | N/A | XXX
73050 |  | A | X-ray exam of shoulders | 0.20 | 0.74 | N/A | 0.05 | 0.99 | N/A | XXX
73050 | 26 | A | X-ray exam of shoulders | 0.20 | 0.07 | 0.07 | 0.02 | 0.29 | 0.29 | XXX
73050 | TC | A | X-ray exam of shoulders | 0.00 | 0.67 | N/A | 0.03 | 0.70 | N/A | XXX
73060 |  | A | X-ray exam of humerus | 0.17 | 0.63 | N/A | 0.04 | 0.84 | N/A | XXX
73060 | 26 | A | X-ray exam of humerus | 0.17 | 0.06 | 0.06 | 0.01 | 0.24 | 0.24 | XXX
73060 | TC | A | X-ray exam of humerus | 0.00 | 0.57 | N/A | 0.03 | 0.60 | N/A | XXX
73070 |  | A | X-ray exam of elbow | 0.15 | 0.57 | N/A | 0.03 | 0.75 | N/A | XXX
73070 | 26 | A | X-ray exam of elbow | 0.15 | 0.05 | 0.05 | 0.01 | 0.21 | 0.21 | XXX
73070 | TC | A | X-ray exam of elbow | 0.00 | 0.52 | N/A | 0.02 | 0.54 | N/A | XXX
73080 |  | A | X-ray exam of elbow | 0.17 | 0.63 | N/A | 0.04 | 0.84 | N/A | XXX
73080 | 26 | A | X-ray exam of elbow | 0.17 | 0.06 | 0.06 | 0.01 | 0.24 | 0.24 | XXX
73080 | TC | A | X-ray exam of elbow | 0.00 | 0.57 | N/A | 0.03 | 0.60 | N/A | XXX
73085 |  | A | Contrast x-ray of elbow | 0.54 | 2.29 | N/A | 0.13 | 2.96 | N/A | XXX
73085 | 26 | A | Contrast x-ray of elbow | 0.54 | 0.19 | 0.19 | 0.03 | 0.76 | 0.76 | XXX
73085 | TC | A | Contrast x-ray of elbow | 0.00 | 2.10 | N/A | 0.10 | 2.20 | N/A | XXX
73090 |  | A | X-ray exam of forearm | 0.16 | 0.58 | N/A | 0.03 | 0.77 | N/A | XXX
73090 | 26 | A | X-ray exam of forearm | 0.16 | 0.05 | 0.05 | 0.01 | 0.22 | 0.22 | XXX
73090 | TC | A | X-ray exam of forearm | 0.00 | 0.52 | N/A | 0.02 | 0.54 | N/A | XXX
73092 |  | A | X-ray exam of arm, infant | 0.16 | 0.55 | N/A | 0.03 | 0.74 | N/A | XXX
73092 | 26 | A | X-ray exam of arm, infant | 0.16 | 0.05 | 0.05 | 0.01 | 0.22 | 0.22 | XXX
73092 | TC | A | X-ray exam of arm, infant | 0.00 | 0.49 | N/A | 0.02 | 0.51 | N/A | XXX
73100 |  | A | X-ray exam of wrist | 0.16 | 0.55 | N/A | 0.04 | 0.75 | N/A | XXX
73100 | 26 | A | X-ray exam of wrist | 0.16 | 0.06 | 0.06 | 0.02 | 0.24 | 0.24 | XXX
73100 | TC | A | X-ray exam of wrist | 0.00 | 0.49 | N/A | 0.02 | 0.51 | N/A | XXX
73110 |  | A | X-ray exam of wrist | 0.17 | 0.59 | N/A | 0.03 | 0.79 | N/A | XXX
73110 | 26 | A | X-ray exam of wrist | 0.17 | 0.06 | 0.06 | 0.01 | 0.24 | 0.24 | XXX
73110 | TC | A | X-ray exam of wrist | 0.00 | 0.53 | N/A | 0.02 | 0.55 | N/A | XXX
73115 |  | A | Contrast x-ray of wrist | 0.54 | 1.76 | N/A | 0.11 | 2.41 | N/A | XXX
73115 | 26 | A | Contrast x-ray of wrist | 0.54 | 0.19 | 0.19 | 0.03 | 0.76 | 0.76 | XXX
73115 | TC | A | Contrast x-ray of wrist | 0.00 | 1.58 | N/A | 0.08 | 1.66 | N/A | XXX
73120 |  | A | X-ray exam of hand | 0.16 | 0.55 | N/A | 0.03 | 0.74 | N/A | XXX
73120 | 26 | A | X-ray exam of hand | 0.16 | 0.06 | 0.06 | 0.01 | 0.23 | 0.23 | XXX
73120 | TC | A | X-ray exam of hand | 0.00 | 0.49 | N/A | 0.02 | 0.51 | N/A | XXX
73130 |  | A | X-ray exam of hand | 0.17 | 0.59 | N/A | 0.03 | 0.79 | N/A | XXX
73130 | 26 | A | X-ray exam of hand | 0.17 | 0.06 | 0.06 | 0.01 | 0.24 | 0.24 | XXX
73130 | TC | A | X-ray exam of hand | 0.00 | 0.53 | N/A | 0.02 | 0.55 | N/A | XXX
73140 |  | A | X-ray exam of finger(s) | 0.13 | 0.46 | N/A | 0.03 | 0.62 | N/A | XXX
73140 | 26 | A | X-ray exam of finger(s) | 0.13 | 0.04 | 0.04 | 0.01 | 0.18 | 0.18 | XXX
73140 | TC | A | X-ray exam of finger(s) | 0.00 | 0.42 | N/A | 0.02 | 0.44 | N/A | XXX
73200 |  | A | Ct upper extremity w/o dye | 1.09 | 5.33 | N/A | 0.26 | 6.68 | N/A | XXX
73200 | 26 | A | Ct upper extremity w/o dye | 1.09 | 0.37 | 0.37 | 0.05 | 1.51 | 1.51 | XXX
73200 | TC | A | Ct upper extremity w/o dye | 0.00 | 4.96 | N/A | 0.21 | 5.17 | N/A | XXX
73201 |  | A | Ct upper extremity w/dye | 1.16 | 6.30 | N/A | 0.31 | 7.77 | N/A | XXX
73201 | 26 | A | Ct upper extremity w/dye | 1.16 | 0.39 | 0.39 | 0.05 | 1.60 | 1.60 | XXX
73201 | TC | A | Ct upper extremity w/dye | 0.00 | 5.91 | N/A | 0.26 | 6.17 | N/A | XXX
73202 |  | A | Ct uppr extremity w/o&w/dye | 1.22 | 7.84 | N/A | 0.38 | 9.44 | N/A | XXX
73202 | 26 | A | Ct uppr extremity w/o&w/dye | 1.22 | 0.41 | 0.41 | 0.06 | 1.69 | 1.69 | XXX
73202 | TC | A | Ct uppr extremity w/o&w/dye | 0.00 | 7.43 | N/A | 0.32 | 7.75 | N/A | XXX
73206 |  | A | Ct angio upr extrm w/o&w/dye | 1.81 | 11.57 | N/A | 0.38 | 13.76 | N/A | XXX
73206 | 26 | A | Ct angio upr extrm w/o&w/dye | 1.81 | 0.61 | 0.61 | 0.06 | 2.48 | 2.48 | XXX
73206 | TC | A | Ct angio upr extrm w/o&w/dye | 0.00 | 10.97 | N/A | 0.32 | 11.29 | N/A | XXX
73218 |  | A | Mri upper extremity w/o dye | 1.35 | 11.66 | N/A | 0.36 | 13.37 | N/A | XXX
73218 | 26 | A | Mri upper extremity w/o dye | 1.35 | 0.45 | 0.45 | 0.04 | 1.84 | 1.84 | XXX
73218 | TC | A | Mri upper extremity w/o dye | 0.00 | 11.21 | N/A | 0.32 | 11.53 | N/A | XXX
73219 |  | A | Mri upper extremity w/dye | 1.62 | 13.99 | N/A | 0.44 | 16.05 | N/A | XXX
73219 | 26 | A | Mri upper extremity w/dye | 1.62 | 0.55 | 0.55 | 0.05 | 2.22 | 2.22 | XXX
73219 | TC | A | Mri upper extremity w/dye | 0.00 | 13.44 | N/A | 0.39 | 13.83 | N/A | XXX
73220 |  | A | Mri uppr extremity w/o&w/dye | 2.15 | 25.62 | N/A | 0.78 | 28.55 | N/A | XXX
73220 | 26 | A | Mri uppr extremity w/o&w/dye | 2.15 | 0.73 | 0.73 | 0.08 | 2.96 | 2.96 | XXX
73220 | TC | A | Mri uppr extremity w/o&w/dye | 0.00 | 24.89 | N/A | 0.70 | 25.59 | N/A | XXX
73221 |  | A | Mri joint upr extrem w/o dye | 1.35 | 11.66 | N/A | 0.36 | 13.37 | N/A | XXX
73221 | 26 | A | Mri joint upr extrem w/o dye | 1.35 | 0.46 | 0.46 | 0.04 | 1.85 | 1.85 | XXX
73221 | TC | A | Mri joint upr extrem w/o dye | 0.00 | 11.21 | N/A | 0.32 | 11.53 | N/A | XXX
73222 |  | A | Mri joint upr extrem w/dye | 1.62 | 13.99 | N/A | 0.44 | 16.05 | N/A | XXX
73222 | 26 | A | Mri joint upr extrem w/dye | 1.62 | 0.54 | 0.54 | 0.05 | 2.21 | 2.21 | XXX
73222 | TC | A | Mri joint upr extrem w/dye | 0.00 | 13.44 | N/A | 0.39 | 13.83 | N/A | XXX
73223 |  | A | Mri joint upr extr w/o&w/dye | 2.15 | 25.62 | N/A | 0.77 | 28.54 | N/A | XXX
73223 | 26 | A | Mri joint upr extr w/o&w/dye | 2.15 | 0.73 | 0.73 | 0.07 | 2.95 | 2.95 | XXX
73223 | TC | A | Mri joint upr extr w/o&w/dye | 0.00 | 24.89 | N/A | 0.70 | 25.59 | N/A | XXX
73225 |  | N | Mr angio upr extr w/o&w/dye | 1.73 | 11.88 | N/A | 0.57 | 14.18 | N/A | XXX
73225 | 26 | N | Mr angio upr extr w/o&w/dye | 1.73 | 0.67 | 0.67 | 0.08 | 2.48 | 2.48 | XXX
73225 | TC | N | Mr angio upr extr w/o&w/dye | 0.00 | 11.21 | N/A | 0.49 | 11.70 | N/A | XXX
73500 |  | A | X-ray exam of hip | 0.17 | 0.53 | N/A | 0.03 | 0.73 | N/A | XXX
73500 | 26 | A | X-ray exam of hip | 0.17 | 0.06 | 0.06 | 0.01 | 0.24 | 0.24 | XXX
73500 | TC | A | X-ray exam of hip | 0.00 | 0.47 | N/A | 0.02 | 0.49 | N/A | XXX
73510 |  | A | X-ray exam of hip | 0.21 | 0.64 | N/A | 0.05 | 0.90 | N/A | XXX
73510 | 26 | A | X-ray exam of hip | 0.21 | 0.07 | 0.07 | 0.02 | 0.30 | 0.30 | XXX
73510 | TC | A | X-ray exam of hip | 0.00 | 0.57 | N/A | 0.03 | 0.60 | N/A | XXX
73520 |  | A | X-ray exam of hips | 0.26 | 0.76 | N/A | 0.05 | 1.07 | N/A | XXX
73520 | 26 | A | X-ray exam of hips | 0.26 | 0.09 | 0.09 | 0.02 | 0.37 | 0.37 | XXX
73520 | TC | A | X-ray exam of hips | 0.00 | 0.67 | N/A | 0.03 | 0.70 | N/A | XXX
73525 |  | A | Contrast x-ray of hip | 0.54 | 2.28 | N/A | 0.13 | 2.95 | N/A | XXX
73525 | 26 | A | Contrast x-ray of hip | 0.54 | 0.18 | 0.18 | 0.03 | 0.75 | 0.75 | XXX
73525 | TC | A | Contrast x-ray of hip | 0.00 | 2.10 | N/A | 0.10 | 2.20 | N/A | XXX
73530 |  | A | X-ray exam of hip | 0.29 | 0.62 | N/A | 0.03 | 0.94 | N/A | XXX
73530 | 26 | A | X-ray exam of hip | 0.29 | 0.10 | 0.10 | 0.01 | 0.40 | 0.40 | XXX
73530 | TC | A | X-ray exam of hip | 0.00 | 0.52 | N/A | 0.02 | 0.54 | N/A | XXX
73540 |  | A | X-ray exam of pelvis & hips | 0.20 | 0.64 | N/A | 0.05 | 0.89 | N/A | XXX
73540 | 26 | A | X-ray exam of pelvis & hips | 0.20 | 0.07 | 0.07 | 0.02 | 0.29 | 0.29 | XXX
73540 | TC | A | X-ray exam of pelvis & hips | 0.00 | 0.57 | N/A | 0.03 | 0.60 | N/A | XXX
73542 |  | A | X-ray exam, sacroiliac joint | 0.59 | 2.26 | N/A | 0.13 | 2.98 | N/A | XXX
73542 | 26 | A | X-ray exam, sacroiliac joint | 0.59 | 0.16 | 0.16 | 0.03 | 0.78 | 0.78 | XXX
73542 | TC | A | X-ray exam, sacroiliac joint | 0.00 | 2.10 | N/A | 0.10 | 2.20 | N/A | XXX
73550 |  | A | X-ray exam of thigh | 0.17 | 0.63 | N/A | 0.04 | 0.84 | N/A | XXX
73550 | 26 | A | X-ray exam of thigh | 0.17 | 0.06 | 0.06 | 0.01 | 0.24 | 0.24 | XXX
73550 | TC | A | X-ray exam of thigh | 0.00 | 0.57 | N/A | 0.03 | 0.60 | N/A | XXX
73560 |  | A | X-ray exam of knee, 1 or 2 | 0.17 | 0.58 | N/A | 0.04 | 0.79 | N/A | XXX
73560 | 26 | A | X-ray exam of knee, 1 or 2 | 0.17 | 0.06 | 0.06 | 0.02 | 0.25 | 0.25 | XXX
73560 | TC | A | X-ray exam of knee, 1 or 2 | 0.00 | 0.52 | N/A | 0.02 | 0.54 | N/A | XXX
73562 |  | A | X-ray exam of knee, 3 | 0.18 | 0.63 | N/A | 0.05 | 0.86 | N/A | XXX
73562 | 26 | A | X-ray exam of knee, 3 | 0.18 | 0.06 | 0.06 | 0.02 | 0.26 | 0.26 | XXX
73562 | TC | A | X-ray exam of knee, 3 | 0.00 | 0.57 | N/A | 0.03 | 0.60 | N/A | XXX
73564 |  | A | X-ray exam, knee, 4 or more | 0.22 | 0.70 | N/A | 0.05 | 0.97 | N/A | XXX
73564 | 26 | A | X-ray exam, knee, 4 or more | 0.22 | 0.08 | 0.08 | 0.02 | 0.32 | 0.32 | XXX
73564 | TC | A | X-ray exam, knee, 4 or more | 0.00 | 0.62 | N/A | 0.03 | 0.65 | N/A | XXX
73565 |  | A | X-ray exam of knees | 0.17 | 0.56 | N/A | 0.04 | 0.77 | N/A | XXX
73565 | 26 | A | X-ray exam of knees | 0.17 | 0.06 | 0.06 | 0.02 | 0.25 | 0.25 | XXX
73565 | TC | A | X-ray exam of knees | 0.00 | 0.49 | N/A | 0.02 | 0.51 | N/A | XXX
73580 |  | A | Contrast x-ray of knee joint | 0.54 | 2.80 | N/A | 0.15 | 3.49 | N/A | XXX
73580 | 26 | A | Contrast x-ray of knee joint | 0.54 | 0.18 | 0.18 | 0.03 | 0.75 | 0.75 | XXX
73580 | TC | A | Contrast x-ray of knee joint | 0.00 | 2.62 | N/A | 0.12 | 2.74 | N/A | XXX
73590 |  | A | X-ray exam of lower leg | 0.17 | 0.58 | N/A | 0.03 | 0.78 | N/A | XXX
73590 | 26 | A | X-ray exam of lower leg | 0.17 | 0.06 | 0.06 | 0.01 | 0.24 | 0.24 | XXX
73590 | TC | A | X-ray exam of lower leg | 0.00 | 0.52 | N/A | 0.02 | 0.54 | N/A | XXX
73592 |  | A | X-ray exam of leg, infant | 0.16 | 0.55 | N/A | 0.03 | 0.74 | N/A | XXX
73592 | 26 | A | X-ray exam of leg, infant | 0.16 | 0.06 | 0.06 | 0.01 | 0.23 | 0.23 | XXX
73592 | TC | A | X-ray exam of leg, infant | 0.00 | 0.49 | N/A | 0.02 | 0.51 | N/A | XXX
73600 |  | A | X-ray exam of ankle | 0.16 | 0.55 | N/A | 0.03 | 0.74 | N/A | XXX
73600 | 26 | A | X-ray exam of ankle | 0.16 | 0.06 | 0.06 | 0.01 | 0.23 | 0.23 | XXX
73600 | TC | A | X-ray exam of ankle | 0.00 | 0.49 | N/A | 0.02 | 0.51 | N/A | XXX
73610 |  | A | X-ray exam of ankle | 0.17 | 0.59 | N/A | 0.03 | 0.79 | N/A | XXX
73610 | 26 | A | X-ray exam of ankle | 0.17 | 0.06 | 0.06 | 0.01 | 0.24 | 0.24 | XXX
73610 | TC | A | X-ray exam of ankle | 0.00 | 0.53 | N/A | 0.02 | 0.55 | N/A | XXX
73615 |  | A | Contrast x-ray of ankle | 0.54 | 2.29 | N/A | 0.13 | 2.96 | N/A | XXX
73615 | 26 | A | Contrast x-ray of ankle | 0.54 | 0.19 | 0.19 | 0.03 | 0.76 | 0.76 | XXX
73615 | TC | A | Contrast x-ray of ankle | 0.00 | 2.10 | N/A | 0.10 | 2.20 | N/A | XXX
73620 |  | A | X-ray exam of foot | 0.16 | 0.55 | N/A | 0.03 | 0.74 | N/A | XXX
73620 | 26 | A | X-ray exam of foot | 0.16 | 0.05 | 0.05 | 0.01 | 0.22 | 0.22 | XXX
73620 | TC | A | X-ray exam of foot | 0.00 | 0.49 | N/A | 0.02 | 0.51 | N/A | XXX
73630 |  | A | X-ray exam of foot | 0.17 | 0.59 | N/A | 0.03 | 0.79 | N/A | XXX
73630 | 26 | A | X-ray exam of foot | 0.17 | 0.06 | 0.06 | 0.01 | 0.24 | 0.24 | XXX
73630 | TC | A | X-ray exam of foot | 0.00 | 0.53 | N/A | 0.02 | 0.55 | N/A | XXX
73650 |  | A | X-ray exam of heel | 0.16 | 0.53 | N/A | 0.03 | 0.72 | N/A | XXX
73650 | 26 | A | X-ray exam of heel | 0.16 | 0.05 | 0.05 | 0.01 | 0.22 | 0.22 | XXX
73650 | TC | A | X-ray exam of heel | 0.00 | 0.47 | N/A | 0.02 | 0.49 | N/A | XXX
73660 |  | A | X-ray exam of toe(s) | 0.13 | 0.46 | N/A | 0.03 | 0.62 | N/A | XXX
73660 | 26 | A | X-ray exam of toe(s) | 0.13 | 0.04 | 0.04 | 0.01 | 0.18 | 0.18 | XXX
73660 | TC | A | X-ray exam of toe(s) | 0.00 | 0.42 | N/A | 0.02 | 0.44 | N/A | XXX
73700 |  | A | Ct lower extremity w/o dye | 1.09 | 5.33 | N/A | 0.26 | 6.68 | N/A | XXX
73700 | 26 | A | Ct lower extremity w/o dye | 1.09 | 0.36 | 0.36 | 0.05 | 1.50 | 1.50 | XXX
73700 | TC | A | Ct lower extremity w/o dye | 0.00 | 4.96 | N/A | 0.21 | 5.17 | N/A | XXX
73701 |  | A | Ct lower extremity w/dye | 1.16 | 6.30 | N/A | 0.31 | 7.77 | N/A | XXX
73701 | 26 | A | Ct lower extremity w/dye | 1.16 | 0.39 | 0.39 | 0.05 | 1.60 | 1.60 | XXX
73701 | TC | A | Ct lower extremity w/dye | 0.00 | 5.91 | N/A | 0.26 | 6.17 | N/A | XXX
73702 |  | A | Ct lwr extremity w/o&w/dye | 1.22 | 7.84 | N/A | 0.37 | 9.43 | N/A | XXX
73702 | 26 | A | Ct lwr extremity w/o&w/dye | 1.22 | 0.41 | 0.41 | 0.05 | 1.68 | 1.68 | XXX
73702 | TC | A | Ct lwr extremity w/o&w/dye | 0.00 | 7.43 | N/A | 0.32 | 7.75 | N/A | XXX
73706 |  | A | Ct angio lwr extr w/o&w/dye | 1.90 | 11.60 | N/A | 0.38 | 13.88 | N/A | XXX
73706 | 26 | A | Ct angio lwr extr w/o&w/dye | 1.90 | 0.64 | 0.64 | 0.06 | 2.60 | 2.60 | XXX
73706 | TC | A | Ct angio lwr extr w/o&w/dye | 0.00 | 10.97 | N/A | 0.32 | 11.29 | N/A | XXX
73718 |  | A | Mri lower extremity w/o dye | 1.35 | 11.66 | N/A | 0.36 | 13.37 | N/A | XXX
73718 | 26 | A | Mri lower extremity w/o dye | 1.35 | 0.45 | 0.45 | 0.04 | 1.84 | 1.84 | XXX
73718 | TC | A | Mri lower extremity w/o dye | 0.00 | 11.21 | N/A | 0.32 | 11.53 | N/A | XXX
73719 |  | A | Mri lower extremity w/dye | 1.62 | 13.99 | N/A | 0.44 | 16.05 | N/A | XXX
73719 | 26 | A | Mri lower extremity w/dye | 1.62 | 0.54 | 0.54 | 0.05 | 2.21 | 2.21 | XXX
73719 | TC | A | Mri lower extremity w/dye | 0.00 | 13.44 | N/A | 0.39 | 13.83 | N/A | XXX
73720 |  | A | Mri lwr extremity w/o&w/dye | 2.15 | 25.61 | N/A | 0.78 | 28.54 | N/A | XXX
73720 | 26 | A | Mri lwr extremity w/o&w/dye | 2.15 | 0.72 | 0.72 | 0.08 | 2.95 | 2.95 | XXX
73720 | TC | A | Mri lwr extremity w/o&w/dye | 0.00 | 24.89 | N/A | 0.70 | 25.59 | N/A | XXX
73721 |  | A | Mri jnt of lwr extre w/o dye | 1.35 | 11.66 | N/A | 0.36 | 13.37 | N/A | XXX
73721 | 26 | A | Mri jnt of lwr extre w/o dye | 1.35 | 0.46 | 0.46 | 0.04 | 1.85 | 1.85 | XXX
73721 | TC | A | Mri jnt of lwr extre w/o dye | 0.00 | 11.21 | N/A | 0.32 | 11.53 | N/A | XXX
73722 |  | A | Mri joint of lwr extr w/dye | 1.62 | 13.99 | N/A | 0.45 | 16.06 | N/A | XXX
73722 | 26 | A | Mri joint of lwr extr w/dye | 1.62 | 0.55 | 0.55 | 0.06 | 2.23 | 2.23 | XXX
73722 | TC | A | Mri joint of lwr extr w/dye | 0.00 | 13.44 | N/A | 0.39 | 13.83 | N/A | XXX
73723 |  | A | Mri joint lwr extr w/o&w/dye | 2.15 | 25.62 | N/A | 0.77 | 28.54 | N/A | XXX
73723 | 26 | A | Mri joint lwr extr w/o&w/dye | 2.15 | 0.73 | 0.73 | 0.07 | 2.95 | 2.95 | XXX
73723 | TC | A | Mri joint lwr extr w/o&w/dye | 0.00 | 24.89 | N/A | 0.70 | 25.59 | N/A | XXX
73725 |  | R | Mr ang lwr ext w or w/o dye | 1.82 | 11.82 | N/A | 0.57 | 14.21 | N/A | XXX
73725 | 26 | R | Mr ang lwr ext w or w/o dye | 1.82 | 0.61 | 0.61 | 0.08 | 2.51 | 2.51 | XXX
73725 | TC | R | Mr ang lwr ext w or w/o dye | 0.00 | 11.21 | N/A | 0.49 | 11.70 | N/A | XXX
74000 |  | A | X-ray exam of abdomen | 0.18 | 0.58 | N/A | 0.03 | 0.79 | N/A | XXX
74000 | 26 | A | X-ray exam of abdomen | 0.18 | 0.06 | 0.06 | 0.01 | 0.25 | 0.25 | XXX
74000 | TC | A | X-ray exam of abdomen | 0.00 | 0.52 | N/A | 0.02 | 0.54 | N/A | XXX
74010 |  | A | X-ray exam of abdomen | 0.23 | 0.65 | N/A | 0.04 | 0.92 | N/A | XXX
74010 | 26 | A | X-ray exam of abdomen | 0.23 | 0.08 | 0.08 | 0.01 | 0.32 | 0.32 | XXX
74010 | TC | A | X-ray exam of abdomen | 0.00 | 0.57 | N/A | 0.03 | 0.60 | N/A | XXX
74020 |  | A | X-ray exam of abdomen | 0.27 | 0.71 | N/A | 0.04 | 1.02 | N/A | XXX
74020 | 26 | A | X-ray exam of abdomen | 0.27 | 0.09 | 0.09 | 0.01 | 0.37 | 0.37 | XXX
74020 | TC | A | X-ray exam of abdomen | 0.00 | 0.62 | N/A | 0.03 | 0.65 | N/A | XXX
74022 |  | A | X-ray exam series, abdomen | 0.32 | 0.84 | N/A | 0.05 | 1.21 | N/A | XXX
74022 | 26 | A | X-ray exam series, abdomen | 0.32 | 0.11 | 0.11 | 0.01 | 0.44 | 0.44 | XXX
74022 | TC | A | X-ray exam series, abdomen | 0.00 | 0.73 | N/A | 0.04 | 0.77 | N/A | XXX
74150 |  | A | Ct abdomen w/o dye | 1.19 | 6.06 | N/A | 0.30 | 7.55 | N/A | XXX
74150 | 26 | A | Ct abdomen w/o dye | 1.19 | 0.40 | 0.40 | 0.05 | 1.64 | 1.64 | XXX
74150 | TC | A | Ct abdomen w/o dye | 0.00 | 5.66 | N/A | 0.25 | 5.91 | N/A | XXX
74160 |  | A | Ct abdomen w/dye | 1.27 | 7.27 | N/A | 0.36 | 8.90 | N/A | XXX
74160 | 26 | A | Ct abdomen w/dye | 1.27 | 0.42 | 0.42 | 0.06 | 1.75 | 1.75 | XXX
74160 | TC | A | Ct abdomen w/dye | 0.00 | 6.85 | N/A | 0.30 | 7.15 | N/A | XXX
74170 |  | A | Ct abdomen w/o&w/dye | 1.40 | 8.96 | N/A | 0.42 | 10.78 | N/A | XXX
74170 | 26 | A | Ct abdomen w/o&w/dye | 1.40 | 0.47 | 0.47 | 0.06 | 1.93 | 1.93 | XXX
74170 | TC | A | Ct abdomen w/o&w/dye | 0.00 | 8.49 | N/A | 0.36 | 8.85 | N/A | XXX
74175 |  | A | Ct angio abdom w/o&w/dye | 1.90 | 12.67 | N/A | 0.38 | 14.95 | N/A | XXX
74175 | 26 | A | Ct angio abdom w/o&w/dye | 1.90 | 0.64 | 0.64 | 0.06 | 2.60 | 2.60 | XXX
74175 | TC | A | Ct angio abdom w/o&w/dye | 0.00 | 12.03 | N/A | 0.32 | 12.35 | N/A | XXX
74181 |  | A | Mri abdomen w/o dye | 1.46 | 11.70 | N/A | 0.43 | 13.59 | N/A | XXX
74181 | 26 | A | Mri abdomen w/o dye | 1.46 | 0.49 | 0.49 | 0.06 | 2.01 | 2.01 | XXX
74181 | TC | A | Mri abdomen w/o dye | 0.00 | 11.21 | N/A | 0.37 | 11.58 | N/A | XXX
74182 |  | A | Mri abdomen w/dye | 1.73 | 14.02 | N/A | 0.49 | 16.24 | N/A | XXX
74182 | 26 | A | Mri abdomen w/dye | 1.73 | 0.58 | 0.58 | 0.06 | 2.37 | 2.37 | XXX
74182 | TC | A | Mri abdomen w/dye | 0.00 | 13.44 | N/A | 0.43 | 13.87 | N/A | XXX
74183 |  | A | Mri abdomen w/o&w/dye | 2.26 | 25.65 | N/A | 0.84 | 28.75 | N/A | XXX
74183 | 26 | A | Mri abdomen w/o&w/dye | 2.26 | 0.76 | 0.76 | 0.08 | 3.10 | 3.10 | XXX
74183 | TC | A | Mri abdomen w/o&w/dye | 0.00 | 24.89 | N/A | 0.76 | 25.65 | N/A | XXX
74185 |  | R | Mri angio, abdom w or w/o dy | 1.80 | 11.81 | N/A | 0.57 | 14.18 | N/A | XXX
74185 | 26 | R | Mri angio, abdom w or w/o dy | 1.80 | 0.60 | 0.60 | 0.08 | 2.48 | 2.48 | XXX
74185 | TC | R | Mri angio, abdom w or w/o dy | 0.00 | 11.21 | N/A | 0.49 | 11.70 | N/A | XXX
74190 |  | A | X-ray exam of peritoneum | 0.48 | 1.47 | N/A | 0.08 | 2.03 | N/A | XXX
74190 | 26 | A | X-ray exam of peritoneum | 0.48 | 0.16 | 0.16 | 0.02 | 0.66 | 0.66 | XXX
74190 | TC | A | X-ray exam of peritoneum | 0.00 | 1.31 | N/A | 0.06 | 1.37 | N/A | XXX
74210 |  | A | Contrst x-ray exam of throat | 0.36 | 1.31 | N/A | 0.07 | 1.74 | N/A | XXX
74210 | 26 | A | Contrst x-ray exam of throat | 0.36 | 0.12 | 0.12 | 0.02 | 0.50 | 0.50 | XXX
74210 | TC | A | Contrst x-ray exam of throat | 0.00 | 1.19 | N/A | 0.05 | 1.24 | N/A | XXX
74220 |  | A | Contrast x-ray, esophagus | 0.46 | 1.34 | N/A | 0.07 | 1.87 | N/A | XXX
74220 | 26 | A | Contrast x-ray, esophagus | 0.46 | 0.15 | 0.15 | 0.02 | 0.63 | 0.63 | XXX
74220 | TC | A | Contrast x-ray, esophagus | 0.00 | 1.19 | N/A | 0.05 | 1.24 | N/A | XXX
74230 |  | A | Cine/vid x-ray, throat/esoph | 0.53 | 1.48 | N/A | 0.08 | 2.09 | N/A | XXX
74230 | 26 | A | Cine/vid x-ray, throat/esoph | 0.53 | 0.18 | 0.18 | 0.02 | 0.73 | 0.73 | XXX
74230 | TC | A | Cine/vid x-ray, throat/esoph | 0.00 | 1.31 | N/A | 0.06 | 1.37 | N/A | XXX
74235 |  | A | Remove esophagus obstruction | 1.19 | 3.02 | N/A | 0.17 | 4.38 | N/A | XXX
74235 | 26 | A | Remove esophagus obstruction | 1.19 | 0.40 | 0.40 | 0.05 | 1.64 | 1.64 | XXX
74235 | TC | A | Remove esophagus obstruction | 0.00 | 2.62 | N/A | 0.12 | 2.74 | N/A | XXX
74240 |  | A | X-ray exam, upper gi tract | 0.69 | 1.69 | N/A | 0.10 | 2.48 | N/A | XXX
74240 | 26 | A | X-ray exam, upper gi tract | 0.69 | 0.23 | 0.23 | 0.03 | 0.95 | 0.95 | XXX
74240 | TC | A | X-ray exam, upper gi tract | 0.00 | 1.46 | N/A | 0.07 | 1.53 | N/A | XXX
74241 |  | A | X-ray exam, upper gi tract | 0.69 | 1.72 | N/A | 0.10 | 2.51 | N/A | XXX
74241 | 26 | A | X-ray exam, upper gi tract | 0.69 | 0.23 | 0.23 | 0.03 | 0.95 | 0.95 | XXX
74241 | TC | A | X-ray exam, upper gi tract | 0.00 | 1.49 | N/A | 0.07 | 1.56 | N/A | XXX
74245 |  | A | X-ray exam, upper gi tract | 0.91 | 2.68 | N/A | 0.15 | 3.74 | N/A | XXX
74245 | 26 | A | X-ray exam, upper gi tract | 0.91 | 0.30 | 0.30 | 0.04 | 1.25 | 1.25 | XXX
74245 | TC | A | X-ray exam, upper gi tract | 0.00 | 2.38 | N/A | 0.11 | 2.49 | N/A | XXX
74246 |  | A | Contrst x-ray uppr gi tract | 0.69 | 1.87 | N/A | 0.11 | 2.67 | N/A | XXX
74246 | 26 | A | Contrst x-ray uppr gi tract | 0.69 | 0.23 | 0.23 | 0.03 | 0.95 | 0.95 | XXX
74246 | TC | A | Contrst x-ray uppr gi tract | 0.00 | 1.64 | N/A | 0.08 | 1.72 | N/A | XXX
74247 |  | A | Contrst x-ray uppr gi tract | 0.69 | 1.91 | N/A | 0.12 | 2.72 | N/A | XXX
74247 | 26 | A | Contrst x-ray uppr gi tract | 0.69 | 0.23 | 0.23 | 0.03 | 0.95 | 0.95 | XXX
74247 | TC | A | Contrst x-ray uppr gi tract | 0.00 | 1.68 | N/A | 0.09 | 1.77 | N/A | XXX
74249 |  | A | Contrst x-ray uppr gi tract | 0.91 | 2.88 | N/A | 0.16 | 3.95 | N/A | XXX
74249 | 26 | A | Contrst x-ray uppr gi tract | 0.91 | 0.30 | 0.30 | 0.04 | 1.25 | 1.25 | XXX
74249 | TC | A | Contrst x-ray uppr gi tract | 0.00 | 2.57 | N/A | 0.12 | 2.69 | N/A | XXX
74250 |  | A | X-ray exam of small bowel | 0.47 | 1.46 | N/A | 0.08 | 2.01 | N/A | XXX
74250 | 26 | A | X-ray exam of small bowel | 0.47 | 0.16 | 0.16 | 0.02 | 0.65 | 0.65 | XXX
74250 | TC | A | X-ray exam of small bowel | 0.00 | 1.31 | N/A | 0.06 | 1.37 | N/A | XXX
74251 |  | A | X-ray exam of small bowel | 0.69 | 1.54 | N/A | 0.09 | 2.32 | N/A | XXX
74251 | 26 | A | X-ray exam of small bowel | 0.69 | 0.23 | 0.23 | 0.03 | 0.95 | 0.95 | XXX
74251 | TC | A | X-ray exam of small bowel | 0.00 | 1.31 | N/A | 0.06 | 1.37 | N/A | XXX
74260 |  | A | X-ray exam of small bowel | 0.50 | 1.66 | N/A | 0.09 | 2.25 | N/A | XXX
74260 | 26 | A | X-ray exam of small bowel | 0.50 | 0.17 | 0.17 | 0.02 | 0.69 | 0.69 | XXX
74260 | TC | A | X-ray exam of small bowel | 0.00 | 1.49 | N/A | 0.07 | 1.56 | N/A | XXX
74270 |  | A | Contrast x-ray exam of colon | 0.69 | 1.93 | N/A | 0.12 | 2.74 | N/A | XXX
74270 | 26 | A | Contrast x-ray exam of colon | 0.69 | 0.23 | 0.23 | 0.03 | 0.95 | 0.95 | XXX
74270 | TC | A | Contrast x-ray exam of colon | 0.00 | 1.70 | N/A | 0.09 | 1.79 | N/A | XXX
74280 |  | A | Contrast x-ray exam of colon | 0.99 | 2.57 | N/A | 0.15 | 3.71 | N/A | XXX
74280 | 26 | A | Contrast x-ray exam of colon | 0.99 | 0.33 | 0.33 | 0.04 | 1.36 | 1.36 | XXX
74280 | TC | A | Contrast x-ray exam of colon | 0.00 | 2.23 | N/A | 0.11 | 2.34 | N/A | XXX
74283 |  | A | Contrast x-ray exam of colon | 2.02 | 3.24 | N/A | 0.21 | 5.47 | N/A | XXX
74283 | 26 | A | Contrast x-ray exam of colon | 2.02 | 0.68 | 0.68 | 0.09 | 2.79 | 2.79 | XXX
74283 | TC | A | Contrast x-ray exam of colon | 0.00 | 2.56 | N/A | 0.12 | 2.68 | N/A | XXX
74290 |  | A | Contrast x-ray, gallbladder | 0.32 | 0.84 | N/A | 0.05 | 1.21 | N/A | XXX
74290 | 26 | A | Contrast x-ray, gallbladder | 0.32 | 0.11 | 0.11 | 0.01 | 0.44 | 0.44 | XXX
74290 | TC | A | Contrast x-ray, gallbladder | 0.00 | 0.73 | N/A | 0.04 | 0.77 | N/A | XXX
74291 |  | A | Contrast x-rays, gallbladder | 0.20 | 0.48 | N/A | 0.03 | 0.71 | N/A | XXX
74291 | 26 | A | Contrast x-rays, gallbladder | 0.20 | 0.07 | 0.07 | 0.01 | 0.28 | 0.28 | XXX
74291 | TC | A | Contrast x-rays, gallbladder | 0.00 | 0.42 | N/A | 0.02 | 0.44 | N/A | XXX
74300 |  | C | X-ray bile ducts/pancreas | 0.00 | 0.00 | 0.00 | 0.00 | 0.00 | 0.00 | XXX
74300 | 26 | A | X-ray bile ducts/pancreas | 0.36 | 0.12 | 0.12 | 0.02 | 0.50 | 0.50 | XXX
74300 | TC | C | X-ray bile ducts/pancreas | 0.00 | 0.00 | 0.00 | 0.00 | 0.00 | 0.00 | XXX
74301 |  | C | X-rays at surgery add-on | 0.00 | 0.00 | 0.00 | 0.00 | 0.00 | 0.00 | ZZZ
74301 | 26 | A | X-rays at surgery add-on | 0.21 | 0.07 | 0.07 | 0.01 | 0.29 | 0.29 | ZZZ
74301 | TC | C | X-rays at surgery add-on | 0.00 | 0.00 | 0.00 | 0.00 | 0.00 | 0.00 | ZZZ
74305 |  | A | X-ray bile ducts/pancreas | 0.42 | 0.92 | N/A | 0.06 | 1.40 | N/A | XXX
74305 | 26 | A | X-ray bile ducts/pancreas | 0.42 | 0.14 | 0.14 | 0.02 | 0.58 | 0.58 | XXX
74305 | TC | A | X-ray bile ducts/pancreas | 0.00 | 0.78 | N/A | 0.04 | 0.82 | N/A | XXX
74320 |  | A | Contrast x-ray of bile ducts | 0.54 | 3.33 | N/A | 0.16 | 4.03 | N/A | XXX
74320 | 26 | A | Contrast x-ray of bile ducts | 0.54 | 0.18 | 0.18 | 0.02 | 0.74 | 0.74 | XXX
74320 | TC | A | Contrast x-ray of bile ducts | 0.00 | 3.15 | N/A | 0.14 | 3.29 | N/A | XXX
74327 |  | A | X-ray bile stone removal | 0.70 | 1.99 | N/A | 0.12 | 2.81 | N/A | XXX
74327 | 26 | A | X-ray bile stone removal | 0.70 | 0.23 | 0.23 | 0.03 | 0.96 | 0.96 | XXX
74327 | TC | A | X-ray bile stone removal | 0.00 | 1.76 | N/A | 0.09 | 1.85 | N/A | XXX
74328 |  | A | X-ray bile duct endoscopy | 0.70 | 3.39 | N/A | 0.17 | 4.26 | N/A | XXX
74328 | 26 | A | X-ray bile duct endoscopy | 0.70 | 0.24 | 0.24 | 0.03 | 0.97 | 0.97 | XXX
74328 | TC | A | X-ray bile duct endoscopy | 0.00 | 3.15 | N/A | 0.14 | 3.29 | N/A | XXX
74329 |  | A | X-ray for pancreas endoscopy | 0.70 | 3.39 | N/A | 0.17 | 4.26 | N/A | XXX
74329 | 26 | A | X-ray for pancreas endoscopy | 0.70 | 0.23 | 0.23 | 0.03 | 0.96 | 0.96 | XXX
74329 | TC | A | X-ray for pancreas endoscopy | 0.00 | 3.15 | N/A | 0.14 | 3.29 | N/A | XXX
74330 |  | A | X-ray bile/panc endoscopy | 0.90 | 3.45 | N/A | 0.18 | 4.53 | N/A | XXX
74330 | 26 | A | X-ray bile/panc endoscopy | 0.90 | 0.30 | 0.30 | 0.04 | 1.24 | 1.24 | XXX
74330 | TC | A | X-ray bile/panc endoscopy | 0.00 | 3.15 | N/A | 0.14 | 3.29 | N/A | XXX
74340 |  | A | X-ray guide for GI tube | 0.54 | 2.80 | N/A | 0.14 | 3.48 | N/A | XXX
74340 | 26 | A | X-ray guide for GI tube | 0.54 | 0.18 | 0.18 | 0.02 | 0.74 | 0.74 | XXX
74340 | TC | A | X-ray guide for GI tube | 0.00 | 2.62 | N/A | 0.12 | 2.74 | N/A | XXX
74350 |  | A | X-ray guide, stomach tube | 0.76 | 3.41 | N/A | 0.17 | 4.34 | N/A | XXX
74350 | 26 | A | X-ray guide, stomach tube | 0.76 | 0.25 | 0.25 | 0.03 | 1.04 | 1.04 | XXX
74350 | TC | A | X-ray guide, stomach tube | 0.00 | 3.15 | N/A | 0.14 | 3.29 | N/A | XXX
74355 |  | A | X-ray guide, intestinal tube | 0.76 | 2.87 | N/A | 0.15 | 3.78 | N/A | XXX
74355 | 26 | A | X-ray guide, intestinal tube | 0.76 | 0.25 | 0.25 | 0.03 | 1.04 | 1.04 | XXX
74355 | TC | A | X-ray guide, intestinal tube | 0.00 | 2.62 | N/A | 0.12 | 2.74 | N/A | XXX
74360 |  | A | X-ray guide, GI dilation | 0.54 | 3.34 | N/A | 0.16 | 4.04 | N/A | XXX
74360 | 26 | A | X-ray guide, GI dilation | 0.54 | 0.19 | 0.19 | 0.02 | 0.75 | 0.75 | XXX
74360 | TC | A | X-ray guide, GI dilation | 0.00 | 3.15 | N/A | 0.14 | 3.29 | N/A | XXX
74363 |  | A | X-ray, bile duct dilation | 0.88 | 6.39 | N/A | 0.31 | 7.58 | N/A | XXX
74363 | 26 | A | X-ray, bile duct dilation | 0.88 | 0.29 | 0.29 | 0.04 | 1.21 | 1.21 | XXX
74363 | TC | A | X-ray, bile duct dilation | 0.00 | 6.10 | N/A | 0.27 | 6.37 | N/A | XXX
74400 |  | A | Contrst x-ray, urinary tract | 0.49 | 1.85 | N/A | 0.11 | 2.45 | N/A | XXX
74400 | 26 | A | Contrst x-ray, urinary tract | 0.49 | 0.16 | 0.16 | 0.02 | 0.67 | 0.67 | XXX
74400 | TC | A | Contrst x-ray, urinary tract | 0.00 | 1.68 | N/A | 0.09 | 1.77 | N/A | XXX
74410 |  | A | Contrst x-ray, urinary tract | 0.49 | 2.12 | N/A | 0.11 | 2.72 | N/A | XXX
74410 | 26 | A | Contrst x-ray, urinary tract | 0.49 | 0.16 | 0.16 | 0.02 | 0.67 | 0.67 | XXX
74410 | TC | A | Contrst x-ray, urinary tract | 0.00 | 1.95 | N/A | 0.09 | 2.04 | N/A | XXX
74415 |  | A | Contrst x-ray, urinary tract | 0.49 | 2.28 | N/A | 0.12 | 2.89 | N/A | XXX
74415 | 26 | A | Contrst x-ray, urinary tract | 0.49 | 0.16 | 0.16 | 0.02 | 0.67 | 0.67 | XXX
74415 | TC | A | Contrst x-ray, urinary tract | 0.00 | 2.12 | N/A | 0.10 | 2.22 | N/A | XXX
74420 |  | A | Contrst x-ray, urinary tract | 0.36 | 2.74 | N/A | 0.14 | 3.24 | N/A | XXX
74420 | 26 | A | Contrst x-ray, urinary tract | 0.36 | 0.12 | 0.12 | 0.02 | 0.50 | 0.50 | XXX
74420 | TC | A | Contrst x-ray, urinary tract | 0.00 | 2.62 | N/A | 0.12 | 2.74 | N/A | XXX
74425 |  | A | Contrst x-ray, urinary tract | 0.36 | 1.43 | N/A | 0.08 | 1.87 | N/A | XXX
74425 | 26 | A | Contrst x-ray, urinary tract | 0.36 | 0.12 | 0.12 | 0.02 | 0.50 | 0.50 | XXX
74425 | TC | A | Contrst x-ray, urinary tract | 0.00 | 1.31 | N/A | 0.06 | 1.37 | N/A | XXX
74430 |  | A | Contrast x-ray, bladder | 0.32 | 1.16 | N/A | 0.07 | 1.55 | N/A | XXX
74430 | 26 | A | Contrast x-ray, bladder | 0.32 | 0.11 | 0.11 | 0.02 | 0.45 | 0.45 | XXX
74430 | TC | A | Contrast x-ray, bladder | 0.00 | 1.05 | N/A | 0.05 | 1.10 | N/A | XXX
74440 |  | A | X-ray, male genital tract | 0.38 | 1.26 | N/A | 0.07 | 1.71 | N/A | XXX
74440 | 26 | A | X-ray, male genital tract | 0.38 | 0.12 | 0.12 | 0.02 | 0.52 | 0.52 | XXX
74440 | TC | A | X-ray, male genital tract | 0.00 | 1.13 | N/A | 0.05 | 1.18 | N/A | XXX
74445 |  | A | X-ray exam of penis | 1.14 | 1.51 | N/A | 0.10 | 2.75 | N/A | XXX
74445 | 26 | A | X-ray exam of penis | 1.14 | 0.38 | 0.38 | 0.05 | 1.57 | 1.57 | XXX
74445 | TC | A | X-ray exam of penis | 0.00 | 1.13 | N/A | 0.05 | 1.18 | N/A | XXX
74450 |  | A | X-ray, urethra/bladder | 0.33 | 1.57 | N/A | 0.09 | 1.99 | N/A | XXX
74450 | 26 | A | X-ray, urethra/bladder | 0.33 | 0.11 | 0.11 | 0.02 | 0.46 | 0.46 | XXX
74450 | TC | A | X-ray, urethra/bladder | 0.00 | 1.46 | N/A | 0.07 | 1.53 | N/A | XXX
74455 |  | A | X-ray, urethra/bladder | 0.33 | 1.69 | N/A | 0.10 | 2.12 | N/A | XXX
74455 | 26 | A | X-ray, urethra/bladder | 0.33 | 0.11 | 0.11 | 0.02 | 0.46 | 0.46 | XXX
74455 | TC | A | X-ray, urethra/bladder | 0.00 | 1.58 | N/A | 0.08 | 1.66 | N/A | XXX
74470 |  | A | X-ray exam of kidney lesion | 0.54 | 1.43 | N/A | 0.08 | 2.05 | N/A | XXX
74470 | 26 | A | X-ray exam of kidney lesion | 0.54 | 0.18 | 0.18 | 0.02 | 0.74 | 0.74 | XXX
74470 | TC | A | X-ray exam of kidney lesion | 0.00 | 1.25 | N/A | 0.06 | 1.31 | N/A | XXX
74475 |  | A | X-ray control, cath insert | 0.54 | 4.25 | N/A | 0.20 | 4.99 | N/A | XXX
74475 | 26 | A | X-ray control, cath insert | 0.54 | 0.18 | 0.18 | 0.02 | 0.74 | 0.74 | XXX
74475 | TC | A | X-ray control, cath insert | 0.00 | 4.07 | N/A | 0.18 | 4.25 | N/A | XXX
74480 |  | A | X-ray control, cath insert | 0.54 | 4.25 | N/A | 0.20 | 4.99 | N/A | XXX
74480 | 26 | A | X-ray control, cath insert | 0.54 | 0.18 | 0.18 | 0.02 | 0.74 | 0.74 | XXX
74480 | TC | A | X-ray control, cath insert | 0.00 | 4.07 | N/A | 0.18 | 4.25 | N/A | XXX
74485 |  | A | X-ray guide, GU dilation | 0.54 | 3.33 | N/A | 0.17 | 4.04 | N/A | XXX
74485 | 26 | A | X-ray guide, GU dilation | 0.54 | 0.18 | 0.18 | 0.03 | 0.75 | 0.75 | XXX
74485 | TC | A | X-ray guide, GU dilation | 0.00 | 3.15 | N/A | 0.14 | 3.29 | N/A | XXX
74710 |  | A | X-ray measurement of pelvis | 0.34 | 1.17 | N/A | 0.07 | 1.58 | N/A | XXX
74710 | 26 | A | X-ray measurement of pelvis | 0.34 | 0.11 | 0.11 | 0.02 | 0.47 | 0.47 | XXX
74710 | TC | A | X-ray measurement of pelvis | 0.00 | 1.05 | N/A | 0.05 | 1.10 | N/A | XXX
74740 |  | A | X-ray, female genital tract | 0.38 | 1.43 | N/A | 0.08 | 1.89 | N/A | XXX
74740 | 26 | A | X-ray, female genital tract | 0.38 | 0.13 | 0.13 | 0.02 | 0.53 | 0.53 | XXX
74740 | TC | A | X-ray, female genital tract | 0.00 | 1.31 | N/A | 0.06 | 1.37 | N/A | XXX
74742 |  | A | X-ray, fallopian tube | 0.61 | 3.36 | N/A | 0.16 | 4.13 | N/A | XXX
74742 | 26 | A | X-ray, fallopian tube | 0.61 | 0.21 | 0.21 | 0.02 | 0.84 | 0.84 | XXX
74742 | TC | A | X-ray, fallopian tube | 0.00 | 3.15 | N/A | 0.14 | 3.29 | N/A | XXX
74775 |  | A | X-ray exam of perineum | 0.62 | 1.67 | N/A | 0.10 | 2.39 | N/A | XXX
74775 | 26 | A | X-ray exam of perineum | 0.62 | 0.21 | 0.21 | 0.03 | 0.86 | 0.86 | XXX
74775 | TC | A | X-ray exam of perineum | 0.00 | 1.46 | N/A | 0.07 | 1.53 | N/A | XXX
75552 |  | A | Heart mri for morph w/o dye | 1.60 | 11.75 | N/A | 0.56 | 13.91 | N/A | XXX
75552 | 26 | A | Heart mri for morph w/o dye | 1.60 | 0.54 | 0.54 | 0.07 | 2.21 | 2.21 | XXX
75552 | TC | A | Heart mri for morph w/o dye | 0.00 | 11.21 | N/A | 0.49 | 11.70 | N/A | XXX
75553 |  | A | Heart mri for morph w/dye | 2.00 | 11.88 | N/A | 0.58 | 14.46 | N/A | XXX
75553 | 26 | A | Heart mri for morph w/dye | 2.00 | 0.67 | 0.67 | 0.09 | 2.76 | 2.76 | XXX
75553 | TC | A | Heart mri for morph w/dye | 0.00 | 11.21 | N/A | 0.49 | 11.70 | N/A | XXX
75554 |  | A | Cardiac MRI/function | 1.83 | 11.87 | N/A | 0.56 | 14.26 | N/A | XXX
75554 | 26 | A | Cardiac MRI/function | 1.83 | 0.66 | 0.66 | 0.07 | 2.56 | 2.56 | XXX
75554 | TC | A | Cardiac MRI/function | 0.00 | 11.21 | N/A | 0.49 | 11.70 | N/A | XXX
75555 |  | A | Cardiac MRI/limited study | 1.74 | 11.86 | N/A | 0.56 | 14.16 | N/A | XXX
75555 | 26 | A | Cardiac MRI/limited study | 1.74 | 0.65 | 0.65 | 0.07 | 2.46 | 2.46 | XXX
75555 | TC | A | Cardiac MRI/limited study | 0.00 | 11.21 | N/A | 0.49 | 11.70 | N/A | XXX
75600 |  | A | Contrast x-ray exam of aorta | 0.49 | 12.79 | N/A | 0.56 | 13.84 | N/A | XXX
75600 | 26 | A | Contrast x-ray exam of aorta | 0.49 | 0.19 | 0.19 | 0.02 | 0.70 | 0.70 | XXX
75600 | TC | A | Contrast x-ray exam of aorta | 0.00 | 12.60 | N/A | 0.54 | 13.14 | N/A | XXX
75605 |  | A | Contrast x-ray exam of aorta | 1.14 | 13.01 | N/A | 0.59 | 14.74 | N/A | XXX
75605 | 26 | A | Contrast x-ray exam of aorta | 1.14 | 0.41 | 0.41 | 0.05 | 1.60 | 1.60 | XXX
75605 | TC | A | Contrast x-ray exam of aorta | 0.00 | 12.60 | N/A | 0.54 | 13.14 | N/A | XXX
75625 |  | A | Contrast x-ray exam of aorta | 1.14 | 12.99 | N/A | 0.59 | 14.72 | N/A | XXX
75625 | 26 | A | Contrast x-ray exam of aorta | 1.14 | 0.39 | 0.39 | 0.05 | 1.58 | 1.58 | XXX
75625 | TC | A | Contrast x-ray exam of aorta | 0.00 | 12.60 | N/A | 0.54 | 13.14 | N/A | XXX
75630 |  | A | X-ray aorta, leg arteries | 1.79 | 13.76 | N/A | 0.65 | 16.20 | N/A | XXX
75630 | 26 | A | X-ray aorta, leg arteries | 1.79 | 0.63 | 0.63 | 0.08 | 2.50 | 2.50 | XXX
75630 | TC | A | X-ray aorta, leg arteries | 0.00 | 13.13 | N/A | 0.57 | 13.70 | N/A | XXX
75635 |  | A | Ct angio abdominal arteries | 2.40 | 16.73 | N/A | 0.41 | 19.54 | N/A | XXX
75635 | 26 | A | Ct angio abdominal arteries | 2.40 | 0.81 | 0.81 | 0.09 | 3.30 | 3.30 | XXX
75635 | TC | A | Ct angio abdominal arteries | 0.00 | 15.92 | N/A | 0.32 | 16.24 | N/A | XXX
75650 |  | A | Artery x-rays, head & neck | 1.49 | 13.10 | N/A | 0.61 | 15.20 | N/A | XXX
75650 | 26 | A | Artery x-rays, head & neck | 1.49 | 0.50 | 0.50 | 0.07 | 2.06 | 2.06 | XXX
75650 | TC | A | Artery x-rays, head & neck | 0.00 | 12.60 | N/A | 0.54 | 13.14 | N/A | XXX
75658 |  | A | Artery x-rays, arm | 1.31 | 13.08 | N/A | 0.60 | 14.99 | N/A | XXX
75658 | 26 | A | Artery x-rays, arm | 1.31 | 0.48 | 0.48 | 0.06 | 1.85 | 1.85 | XXX
75658 | TC | A | Artery x-rays, arm | 0.00 | 12.60 | N/A | 0.54 | 13.14 | N/A | XXX
75660 |  | A | Artery x-rays, head & neck | 1.31 | 13.05 | N/A | 0.60 | 14.96 | N/A | XXX
75660 | 26 | A | Artery x-rays, head & neck | 1.31 | 0.45 | 0.45 | 0.06 | 1.82 | 1.82 | XXX
75660 | TC | A | Artery x-rays, head & neck | 0.00 | 12.60 | N/A | 0.54 | 13.14 | N/A | XXX
75662 |  | A | Artery x-rays, head & neck | 1.66 | 13.21 | N/A | 0.62 | 15.49 | N/A | XXX
75662 | 26 | A | Artery x-rays, head & neck | 1.66 | 0.61 | 0.61 | 0.08 | 2.35 | 2.35 | XXX
75662 | TC | A | Artery x-rays, head & neck | 0.00 | 12.60 | N/A | 0.54 | 13.14 | N/A | XXX
75665 |  | A | Artery x-rays, head & neck | 1.31 | 13.05 | N/A | 0.61 | 14.97 | N/A | XXX
75665 | 26 | A | Artery x-rays, head & neck | 1.31 | 0.45 | 0.45 | 0.07 | 1.83 | 1.83 | XXX
75665 | TC | A | Artery x-rays, head & neck | 0.00 | 12.60 | N/A | 0.54 | 13.14 | N/A | XXX
75671 |  | A | Artery x-rays, head & neck | 1.66 | 13.16 | N/A | 0.62 | 15.44 | N/A | XXX
75671 | 26 | A | Artery x-rays, head & neck | 1.66 | 0.56 | 0.56 | 0.08 | 2.30 | 2.30 | XXX
75671 | TC | A | Artery x-rays, head & neck | 0.00 | 12.60 | N/A | 0.54 | 13.14 | N/A | XXX
75676 |  | A | Artery x-rays, neck | 1.31 | 13.05 | N/A | 0.61 | 14.97 | N/A | XXX
75676 | 26 | A | Artery x-rays, neck | 1.31 | 0.45 | 0.45 | 0.07 | 1.83 | 1.83 | XXX
75676 | TC | A | Artery x-rays, neck | 0.00 | 12.60 | N/A | 0.54 | 13.14 | N/A | XXX
75680 |  | A | Artery x-rays, neck | 1.66 | 13.16 | N/A | 0.62 | 15.44 | N/A | XXX
75680 | 26 | A | Artery x-rays, neck | 1.66 | 0.56 | 0.56 | 0.08 | 2.30 | 2.30 | XXX
75680 | TC | A | Artery x-rays, neck | 0.00 | 12.60 | N/A | 0.54 | 13.14 | N/A | XXX
75685 |  | A | Artery x-rays, spine | 1.31 | 13.05 | N/A | 0.60 | 14.96 | N/A | XXX
75685 | 26 | A | Artery x-rays, spine | 1.31 | 0.44 | 0.44 | 0.06 | 1.81 | 1.81 | XXX
75685 | TC | A | Artery x-rays, spine | 0.00 | 12.60 | N/A | 0.54 | 13.14 | N/A | XXX
75705 |  | A | Artery x-rays, spine | 2.18 | 13.35 | N/A | 0.65 | 16.18 | N/A | XXX
75705 | 26 | A | Artery x-rays, spine | 2.18 | 0.75 | 0.75 | 0.11 | 3.04 | 3.04 | XXX
75705 | TC | A | Artery x-rays, spine | 0.00 | 12.60 | N/A | 0.54 | 13.14 | N/A | XXX
75710 |  | A | Artery x-rays, arm/leg | 1.14 | 13.00 | N/A | 0.60 | 14.74 | N/A | XXX
75710 | 26 | A | Artery x-rays, arm/leg | 1.14 | 0.39 | 0.39 | 0.06 | 1.59 | 1.59 | XXX
75710 | TC | A | Artery x-rays, arm/leg | 0.00 | 12.60 | N/A | 0.54 | 13.14 | N/A | XXX
75716 |  | A | Artery x-rays, arms/legs | 1.31 | 13.04 | N/A | 0.60 | 14.95 | N/A | XXX
75716 | 26 | A | Artery x-rays, arms/legs | 1.31 | 0.44 | 0.44 | 0.06 | 1.81 | 1.81 | XXX
75716 | TC | A | Artery x-rays, arms/legs | 0.00 | 12.60 | N/A | 0.54 | 13.14 | N/A | XXX
75722 |  | A | Artery x-rays, kidney | 1.14 | 13.01 | N/A | 0.59 | 14.74 | N/A | XXX
75722 | 26 | A | Artery x-rays, kidney | 1.14 | 0.41 | 0.41 | 0.05 | 1.60 | 1.60 | XXX
75722 | TC | A | Artery x-rays, kidney | 0.00 | 12.60 | N/A | 0.54 | 13.14 | N/A | XXX
75724 |  | A | Artery x-rays, kidneys | 1.49 | 13.17 | N/A | 0.59 | 15.25 | N/A | XXX
75724 | 26 | A | Artery x-rays, kidneys | 1.49 | 0.57 | 0.57 | 0.05 | 2.11 | 2.11 | XXX
75724 | TC | A | Artery x-rays, kidneys | 0.00 | 12.60 | N/A | 0.54 | 13.14 | N/A | XXX
75726 |  | A | Artery x-rays, abdomen | 1.14 | 12.98 | N/A | 0.59 | 14.71 | N/A | XXX
75726 | 26 | A | Artery x-rays, abdomen | 1.14 | 0.38 | 0.38 | 0.05 | 1.57 | 1.57 | XXX
75726 | TC | A | Artery x-rays, abdomen | 0.00 | 12.60 | N/A | 0.54 | 13.14 | N/A | XXX
75731 |  | A | Artery x-rays, adrenal gland | 1.14 | 12.98 | N/A | 0.59 | 14.71 | N/A | XXX
75731 | 26 | A | Artery x-rays, adrenal gland | 1.14 | 0.38 | 0.38 | 0.05 | 1.57 | 1.57 | XXX
75731 | TC | A | Artery x-rays, adrenal gland | 0.00 | 12.60 | N/A | 0.54 | 13.14 | N/A | XXX
75733 |  | A | Artery x-rays, adrenals | 1.31 | 13.05 | N/A | 0.60 | 14.96 | N/A | XXX
75733 | 26 | A | Artery x-rays, adrenals | 1.31 | 0.45 | 0.45 | 0.06 | 1.82 | 1.82 | XXX
75733 | TC | A | Artery x-rays, adrenals | 0.00 | 12.60 | N/A | 0.54 | 13.14 | N/A | XXX
75736 |  | A | Artery x-rays, pelvis | 1.14 | 12.99 | N/A | 0.59 | 14.72 | N/A | XXX
75736 | 26 | A | Artery x-rays, pelvis | 1.14 | 0.38 | 0.38 | 0.05 | 1.57 | 1.57 | XXX
75736 | TC | A | Artery x-rays, pelvis | 0.00 | 12.60 | N/A | 0.54 | 13.14 | N/A | XXX
75741 |  | A | Artery x-rays, lung | 1.31 | 13.04 | N/A | 0.60 | 14.95 | N/A | XXX
75741 | 26 | A | Artery x-rays, lung | 1.31 | 0.44 | 0.44 | 0.06 | 1.81 | 1.81 | XXX
75741 | TC | A | Artery x-rays, lung | 0.00 | 12.60 | N/A | 0.54 | 13.14 | N/A | XXX
75743 |  | A | Artery x-rays, lungs | 1.66 | 13.16 | N/A | 0.61 | 15.43 | N/A | XXX
75743 | 26 | A | Artery x-rays, lungs | 1.66 | 0.56 | 0.56 | 0.07 | 2.29 | 2.29 | XXX
75743 | TC | A | Artery x-rays, lungs | 0.00 | 12.60 | N/A | 0.54 | 13.14 | N/A | XXX
75746 |  | A | Artery x-rays, lung | 1.14 | 12.99 | N/A | 0.59 | 14.72 | N/A | XXX
75746 | 26 | A | Artery x-rays, lung | 1.14 | 0.39 | 0.39 | 0.05 | 1.58 | 1.58 | XXX
75746 | TC | A | Artery x-rays, lung | 0.00 | 12.60 | N/A | 0.54 | 13.14 | N/A | XXX
75756 |  | A | Artery x-rays, chest | 1.14 | 13.06 | N/A | 0.58 | 14.78 | N/A | XXX
75756 | 26 | A | Artery x-rays, chest | 1.14 | 0.46 | 0.46 | 0.04 | 1.64 | 1.64 | XXX
75756 | TC | A | Artery x-rays, chest | 0.00 | 12.60 | N/A | 0.54 | 13.14 | N/A | XXX
75774 |  | A | Artery x-ray, each vessel | 0.36 | 12.73 | N/A | 0.56 | 13.65 | N/A | ZZZ
75774 | 26 | A | Artery x-ray, each vessel | 0.36 | 0.13 | 0.13 | 0.02 | 0.51 | 0.51 | ZZZ
75774 | TC | A | Artery x-ray, each vessel | 0.00 | 12.60 | N/A | 0.54 | 13.14 | N/A | ZZZ
75790 |  | A | Visualize A-V shunt | 1.84 | 1.97 | N/A | 0.16 | 3.97 | N/A | XXX
75790 | 26 | A | Visualize A-V shunt | 1.84 | 0.62 | 0.62 | 0.09 | 2.55 | 2.55 | XXX
75790 | TC | A | Visualize A-V shunt | 0.00 | 1.35 | N/A | 0.07 | 1.42 | N/A | XXX
75801 |  | A | Lymph vessel x-ray, arm/leg | 0.81 | 5.69 | N/A | 0.29 | 6.79 | N/A | XXX
75801 | 26 | A | Lymph vessel x-ray, arm/leg | 0.81 | 0.27 | 0.27 | 0.05 | 1.13 | 1.13 | XXX
75801 | TC | A | Lymph vessel x-ray, arm/leg | 0.00 | 5.42 | N/A | 0.24 | 5.66 | N/A | XXX
75803 |  | A | Lymph vessel x-ray,arms/legs | 1.17 | 5.81 | N/A | 0.29 | 7.27 | N/A | XXX
75803 | 26 | A | Lymph vessel x-ray,arms/legs | 1.17 | 0.39 | 0.39 | 0.05 | 1.61 | 1.61 | XXX
75803 | TC | A | Lymph vessel x-ray,arms/legs | 0.00 | 5.42 | N/A | 0.24 | 5.66 | N/A | XXX
75805 |  | A | Lymph vessel x-ray, trunk | 0.81 | 6.38 | N/A | 0.31 | 7.50 | N/A | XXX
75805 | 26 | A | Lymph vessel x-ray, trunk | 0.81 | 0.27 | 0.27 | 0.04 | 1.12 | 1.12 | XXX
75805 | TC | A | Lymph vessel x-ray, trunk | 0.00 | 6.10 | N/A | 0.27 | 6.37 | N/A | XXX
75807 |  | A | Lymph vessel x-ray, trunk | 1.17 | 6.49 | N/A | 0.32 | 7.98 | N/A | XXX
75807 | 26 | A | Lymph vessel x-ray, trunk | 1.17 | 0.39 | 0.39 | 0.05 | 1.61 | 1.61 | XXX
75807 | TC | A | Lymph vessel x-ray, trunk | 0.00 | 6.10 | N/A | 0.27 | 6.37 | N/A | XXX
75809 |  | A | Nonvascular shunt, x-ray | 0.47 | 0.94 | N/A | 0.06 | 1.47 | N/A | XXX
75809 | 26 | A | Nonvascular shunt, x-ray | 0.47 | 0.16 | 0.16 | 0.02 | 0.65 | 0.65 | XXX
75809 | TC | A | Nonvascular shunt, x-ray | 0.00 | 0.78 | N/A | 0.04 | 0.82 | N/A | XXX
75810 |  | A | Vein x-ray, spleen/liver | 1.14 | 12.98 | N/A | 0.60 | 14.72 | N/A | XXX
75810 | 26 | A | Vein x-ray, spleen/liver | 1.14 | 0.38 | 0.38 | 0.06 | 1.58 | 1.58 | XXX
75810 | TC | A | Vein x-ray, spleen/liver | 0.00 | 12.60 | N/A | 0.54 | 13.14 | N/A | XXX
75820 |  | A | Vein x-ray, arm/leg | 0.70 | 1.18 | N/A | 0.08 | 1.96 | N/A | XXX
75820 | 26 | A | Vein x-ray, arm/leg | 0.70 | 0.23 | 0.23 | 0.03 | 0.96 | 0.96 | XXX
75820 | TC | A | Vein x-ray, arm/leg | 0.00 | 0.95 | N/A | 0.05 | 1.00 | N/A | XXX
75822 |  | A | Vein x-ray, arms/legs | 1.06 | 1.83 | N/A | 0.12 | 3.01 | N/A | XXX
75822 | 26 | A | Vein x-ray, arms/legs | 1.06 | 0.35 | 0.35 | 0.05 | 1.46 | 1.46 | XXX
75822 | TC | A | Vein x-ray, arms/legs | 0.00 | 1.48 | N/A | 0.07 | 1.55 | N/A | XXX
75825 |  | A | Vein x-ray, trunk | 1.14 | 12.98 | N/A | 0.60 | 14.72 | N/A | XXX
75825 | 26 | A | Vein x-ray, trunk | 1.14 | 0.38 | 0.38 | 0.06 | 1.58 | 1.58 | XXX
75825 | TC | A | Vein x-ray, trunk | 0.00 | 12.60 | N/A | 0.54 | 13.14 | N/A | XXX
75827 |  | A | Vein x-ray, chest | 1.14 | 12.98 | N/A | 0.59 | 14.71 | N/A | XXX
75827 | 26 | A | Vein x-ray, chest | 1.14 | 0.38 | 0.38 | 0.05 | 1.57 | 1.57 | XXX
75827 | TC | A | Vein x-ray, chest | 0.00 | 12.60 | N/A | 0.54 | 13.14 | N/A | XXX
75831 |  | A | Vein x-ray, kidney | 1.14 | 12.98 | N/A | 0.59 | 14.71 | N/A | XXX
75831 | 26 | A | Vein x-ray, kidney | 1.14 | 0.38 | 0.38 | 0.05 | 1.57 | 1.57 | XXX
75831 | TC | A | Vein x-ray, kidney | 0.00 | 12.60 | N/A | 0.54 | 13.14 | N/A | XXX
75833 |  | A | Vein x-ray, kidneys | 1.49 | 13.10 | N/A | 0.61 | 15.20 | N/A | XXX
75833 | 26 | A | Vein x-ray, kidneys | 1.49 | 0.50 | 0.50 | 0.07 | 2.06 | 2.06 | XXX
75833 | TC | A | Vein x-ray, kidneys | 0.00 | 12.60 | N/A | 0.54 | 13.14 | N/A | XXX
75840 |  | A | Vein x-ray, adrenal gland | 1.14 | 12.99 | N/A | 0.61 | 14.74 | N/A | XXX
75840 | 26 | A | Vein x-ray, adrenal gland | 1.14 | 0.39 | 0.39 | 0.07 | 1.60 | 1.60 | XXX
75840 | TC | A | Vein x-ray, adrenal gland | 0.00 | 12.60 | N/A | 0.54 | 13.14 | N/A | XXX
75842 |  | A | Vein x-ray, adrenal glands | 1.49 | 13.10 | N/A | 0.61 | 15.20 | N/A | XXX
75842 | 26 | A | Vein x-ray, adrenal glands | 1.49 | 0.50 | 0.50 | 0.07 | 2.06 | 2.06 | XXX
75842 | TC | A | Vein x-ray, adrenal glands | 0.00 | 12.60 | N/A | 0.54 | 13.14 | N/A | XXX
75860 |  | A | Vein x-ray, neck | 1.14 | 13.00 | N/A | 0.60 | 14.74 | N/A | XXX
75860 | 26 | A | Vein x-ray, neck | 1.14 | 0.40 | 0.40 | 0.06 | 1.60 | 1.60 | XXX
75860 | TC | A | Vein x-ray, neck | 0.00 | 12.60 | N/A | 0.54 | 13.14 | N/A | XXX
75870 |  | A | Vein x-ray, skull | 1.14 | 13.00 | N/A | 0.60 | 14.74 | N/A | XXX
75870 | 26 | A | Vein x-ray, skull | 1.14 | 0.40 | 0.40 | 0.06 | 1.60 | 1.60 | XXX
75870 | TC | A | Vein x-ray, skull | 0.00 | 12.60 | N/A | 0.54 | 13.14 | N/A | XXX
75872 |  | A | Vein x-ray, skull | 1.14 | 12.98 | N/A | 0.59 | 14.71 | N/A | XXX
75872 | 26 | A | Vein x-ray, skull | 1.14 | 0.38 | 0.38 | 0.05 | 1.57 | 1.57 | XXX
75872 | TC | A | Vein x-ray, skull | 0.00 | 12.60 | N/A | 0.54 | 13.14 | N/A | XXX
75880 |  | A | Vein x-ray, eye socket | 0.70 | 1.18 | N/A | 0.08 | 1.96 | N/A | XXX
75880 | 26 | A | Vein x-ray, eye socket | 0.70 | 0.24 | 0.24 | 0.03 | 0.97 | 0.97 | XXX
75880 | TC | A | Vein x-ray, eye socket | 0.00 | 0.95 | N/A | 0.05 | 1.00 | N/A | XXX
75885 |  | A | Vein x-ray, liver | 1.44 | 13.08 | N/A | 0.60 | 15.12 | N/A | XXX
75885 | 26 | A | Vein x-ray, liver | 1.44 | 0.48 | 0.48 | 0.06 | 1.98 | 1.98 | XXX
75885 | TC | A | Vein x-ray, liver | 0.00 | 12.60 | N/A | 0.54 | 13.14 | N/A | XXX
75887 |  | A | Vein x-ray, liver | 1.44 | 13.08 | N/A | 0.60 | 15.12 | N/A | XXX
75887 | 26 | A | Vein x-ray, liver | 1.44 | 0.48 | 0.48 | 0.06 | 1.98 | 1.98 | XXX
75887 | TC | A | Vein x-ray, liver | 0.00 | 12.60 | N/A | 0.54 | 13.14 | N/A | XXX
75889 |  | A | Vein x-ray, liver | 1.14 | 12.98 | N/A | 0.59 | 14.71 | N/A | XXX
75889 | 26 | A | Vein x-ray, liver | 1.14 | 0.38 | 0.38 | 0.05 | 1.57 | 1.57 | XXX
75889 | TC | A | Vein x-ray, liver | 0.00 | 12.60 | N/A | 0.54 | 13.14 | N/A | XXX
75891 |  | A | Vein x-ray, liver | 1.14 | 12.98 | N/A | 0.59 | 14.71 | N/A | XXX
75891 | 26 | A | Vein x-ray, liver | 1.14 | 0.38 | 0.38 | 0.05 | 1.57 | 1.57 | XXX
75891 | TC | A | Vein x-ray, liver | 0.00 | 12.60 | N/A | 0.54 | 13.14 | N/A | XXX
75893 |  | A | Venous sampling by catheter | 0.54 | 12.78 | N/A | 0.56 | 13.88 | N/A | XXX
75893 | 26 | A | Venous sampling by catheter | 0.54 | 0.18 | 0.18 | 0.02 | 0.74 | 0.74 | XXX
75893 | TC | A | Venous sampling by catheter | 0.00 | 12.60 | N/A | 0.54 | 13.14 | N/A | XXX
75894 |  | A | X-rays, transcath therapy | 1.31 | 24.58 | N/A | 1.12 | 27.01 | N/A | XXX
75894 | 26 | A | X-rays, transcath therapy | 1.31 | 0.44 | 0.44 | 0.07 | 1.82 | 1.82 | XXX
75894 | TC | A | X-rays, transcath therapy | 0.00 | 24.14 | N/A | 1.05 | 25.19 | N/A | XXX
75896 |  | A | X-rays, transcath therapy | 1.31 | 21.45 | N/A | 0.97 | 23.73 | N/A | XXX
75896 | 26 | A | X-rays, transcath therapy | 1.31 | 0.46 | 0.46 | 0.06 | 1.83 | 1.83 | XXX
75896 | TC | A | X-rays, transcath therapy | 0.00 | 20.99 | N/A | 0.91 | 21.90 | N/A | XXX
75898 |  | A | Follow-up angiography | 1.65 | 1.62 | N/A | 0.12 | 3.39 | N/A | XXX
75898 | 26 | A | Follow-up angiography | 1.65 | 0.56 | 0.56 | 0.07 | 2.28 | 2.28 | XXX
75898 | TC | A | Follow-up angiography | 0.00 | 1.05 | N/A | 0.05 | 1.10 | N/A | XXX
75900 |  | A | Arterial catheter exchange | 0.49 | 21.14 | N/A | 0.94 | 22.57 | N/A | XXX
75900 | 26 | A | Arterial catheter exchange | 0.49 | 0.16 | 0.16 | 0.02 | 0.67 | 0.67 | XXX
75900 | TC | A | Arterial catheter exchange | 0.00 | 20.98 | N/A | 0.92 | 21.90 | N/A | XXX
75901 |  | A | Remove cva device obstruct | 0.49 | 1.47 | N/A | 0.71 | 2.67 | N/A | XXX
75901 | 26 | A | Remove cva device obstruct | 0.49 | 0.16 | 0.16 | 0.02 | 0.67 | 0.67 | XXX
75901 | TC | A | Remove cva device obstruct | 0.00 | 1.31 | N/A | 0.69 | 2.00 | N/A | XXX
75902 |  | A | Remove cva lumen obstruct | 0.39 | 1.44 | N/A | 0.71 | 2.54 | N/A | XXX
75902 | 26 | A | Remove cva lumen obstruct | 0.39 | 0.13 | 0.13 | 0.02 | 0.54 | 0.54 | XXX
75902 | TC | A | Remove cva lumen obstruct | 0.00 | 1.31 | N/A | 0.69 | 2.00 | N/A | XXX
75940 |  | A | X-ray placement, vein filter | 0.54 | 12.78 | N/A | 0.57 | 13.89 | N/A | XXX
75940 | 26 | A | X-ray placement, vein filter | 0.54 | 0.18 | 0.18 | 0.03 | 0.75 | 0.75 | XXX
75940 | TC | A | X-ray placement, vein filter | 0.00 | 12.60 | N/A | 0.54 | 13.14 | N/A | XXX
75945 |  | A | Intravascular us | 0.40 | 4.71 | N/A | 0.23 | 5.34 | N/A | XXX
75945 | 26 | A | Intravascular us | 0.40 | 0.14 | 0.14 | 0.03 | 0.57 | 0.57 | XXX
75945 | TC | A | Intravascular us | 0.00 | 4.56 | N/A | 0.20 | 4.76 | N/A | XXX
75946 |  | A | Intravascular us add-on | 0.40 | 2.43 | N/A | 0.14 | 2.97 | N/A | ZZZ
75946 | 26 | A | Intravascular us add-on | 0.40 | 0.14 | 0.14 | 0.03 | 0.57 | 0.57 | ZZZ
75946 | TC | A | Intravascular us add-on | 0.00 | 2.29 | N/A | 0.11 | 2.40 | N/A | ZZZ
75952 |  | C | Endovasc repair abdom aorta | 0.00 | 0.00 | 0.00 | 0.00 | 0.00 | 0.00 | XXX
75952 | 26 | A | Endovasc repair abdom aorta | 4.50 | 1.52 | 1.52 | 0.68 | 6.70 | 6.70 | XXX
75952 | TC | C | Endovasc repair abdom aorta | 0.00 | 0.00 | 0.00 | 0.00 | 0.00 | 0.00 | XXX
75953 |  | C | Abdom aneurysm endovas rpr | 0.00 | 0.00 | 0.00 | 0.00 | 0.00 | 0.00 | XXX
75953 | 26 | A | Abdom aneurysm endovas rpr | 1.36 | 0.46 | 0.46 | 0.68 | 2.50 | 2.50 | XXX
75953 | TC | C | Abdom aneurysm endovas rpr | 0.00 | 0.00 | 0.00 | 0.00 | 0.00 | 0.00 | XXX
75954 |  | C | Iliac aneurysm endovas rpr | 0.00 | 0.00 | 0.00 | 0.00 | 0.00 | 0.00 | XXX
75954 | 26 | A | Iliac aneurysm endovas rpr | 1.36 | 0.48 | 0.48 | 0.68 | 2.52 | 2.52 | XXX
75954 | TC | C | Iliac aneurysm endovas rpr | 0.00 | 0.00 | 0.00 | 0.00 | 0.00 | 0.00 | XXX
75960 |  | A | Transcatheter intro, stent | 0.82 | 15.19 | N/A | 0.68 | 16.69 | N/A | XXX
75960 | 26 | A | Transcatheter intro, stent | 0.82 | 0.29 | 0.29 | 0.04 | 1.15 | 1.15 | XXX
75960 | TC | A | Transcatheter intro, stent | 0.00 | 14.90 | N/A | 0.64 | 15.54 | N/A | XXX
75961 |  | A | Retrieval, broken catheter | 4.25 | 11.93 | N/A | 0.64 | 16.82 | N/A | XXX
75961 | 26 | A | Retrieval, broken catheter | 4.25 | 1.43 | 1.43 | 0.18 | 5.86 | 5.86 | XXX
75961 | TC | A | Retrieval, broken catheter | 0.00 | 10.50 | N/A | 0.46 | 10.96 | N/A | XXX
75962 |  | A | Repair arterial blockage | 0.54 | 15.93 | N/A | 0.72 | 17.19 | N/A | XXX
75962 | 26 | A | Repair arterial blockage | 0.54 | 0.19 | 0.19 | 0.03 | 0.76 | 0.76 | XXX
75962 | TC | A | Repair arterial blockage | 0.00 | 15.74 | N/A | 0.69 | 16.43 | N/A | XXX
75964 |  | A | Repair artery blockage, each | 0.36 | 8.52 | N/A | 0.38 | 9.26 | N/A | ZZZ
75964 | 26 | A | Repair artery blockage, each | 0.36 | 0.12 | 0.12 | 0.02 | 0.50 | 0.50 | ZZZ
75964 | TC | A | Repair artery blockage, each | 0.00 | 8.39 | N/A | 0.36 | 8.75 | N/A | ZZZ
75966 |  | A | Repair arterial blockage | 1.31 | 16.22 | N/A | 0.75 | 18.28 | N/A | XXX
75966 | 26 | A | Repair arterial blockage | 1.31 | 0.47 | 0.47 | 0.06 | 1.84 | 1.84 | XXX
75966 | TC | A | Repair arterial blockage | 0.00 | 15.74 | N/A | 0.69 | 16.43 | N/A | XXX
75968 |  | A | Repair artery blockage, each | 0.36 | 8.53 | N/A | 0.37 | 9.26 | N/A | ZZZ
75968 | 26 | A | Repair artery blockage, each | 0.36 | 0.13 | 0.13 | 0.01 | 0.50 | 0.50 | ZZZ
75968 | TC | A | Repair artery blockage, each | 0.00 | 8.39 | N/A | 0.36 | 8.75 | N/A | ZZZ
75970 |  | A | Vascular biopsy | 0.83 | 11.83 | N/A | 0.54 | 13.20 | N/A | XXX
75970 | 26 | A | Vascular biopsy | 0.83 | 0.29 | 0.29 | 0.04 | 1.16 | 1.16 | XXX
75970 | TC | A | Vascular biopsy | 0.00 | 11.55 | N/A | 0.50 | 12.05 | N/A | XXX
75978 |  | A | Repair venous blockage | 0.54 | 15.92 | N/A | 0.71 | 17.17 | N/A | XXX
75978 | 26 | A | Repair venous blockage | 0.54 | 0.18 | 0.18 | 0.02 | 0.74 | 0.74 | XXX
75978 | TC | A | Repair venous blockage | 0.00 | 15.74 | N/A | 0.69 | 16.43 | N/A | XXX
75980 |  | A | Contrast xray exam bile duct | 1.44 | 5.89 | N/A | 0.30 | 7.63 | N/A | XXX
75980 | 26 | A | Contrast xray exam bile duct | 1.44 | 0.48 | 0.48 | 0.06 | 1.98 | 1.98 | XXX
75980 | TC | A | Contrast xray exam bile duct | 0.00 | 5.42 | N/A | 0.24 | 5.66 | N/A | XXX
75982 |  | A | Contrast xray exam bile duct | 1.44 | 6.58 | N/A | 0.33 | 8.35 | N/A | XXX
75982 | 26 | A | Contrast xray exam bile duct | 1.44 | 0.48 | 0.48 | 0.06 | 1.98 | 1.98 | XXX
75982 | TC | A | Contrast xray exam bile duct | 0.00 | 6.10 | N/A | 0.27 | 6.37 | N/A | XXX
75984 |  | A | Xray control catheter change | 0.72 | 2.19 | N/A | 0.12 | 3.03 | N/A | XXX
75984 | 26 | A | Xray control catheter change | 0.72 | 0.24 | 0.24 | 0.03 | 0.99 | 0.99 | XXX
75984 | TC | A | Xray control catheter change | 0.00 | 1.95 | N/A | 0.09 | 2.04 | N/A | XXX
75989 |  | A | Abscess drainage under x-ray | 1.19 | 3.55 | N/A | 0.19 | 4.93 | N/A | XXX
75989 | 26 | A | Abscess drainage under x-ray | 1.19 | 0.40 | 0.40 | 0.05 | 1.64 | 1.64 | XXX
75989 | TC | A | Abscess drainage under x-ray | 0.00 | 3.15 | N/A | 0.14 | 3.29 | N/A | XXX
75992 |  | A | Atherectomy, x-ray exam | 0.54 | 15.94 | N/A | 0.71 | 17.19 | N/A | XXX
75992 | 26 | A | Atherectomy, x-ray exam | 0.54 | 0.19 | 0.19 | 0.02 | 0.75 | 0.75 | XXX
75992 | TC | A | Atherectomy, x-ray exam | 0.00 | 15.74 | N/A | 0.69 | 16.43 | N/A | XXX
75993 |  | A | Atherectomy, x-ray exam | 0.36 | 8.53 | N/A | 0.37 | 9.26 | N/A | ZZZ
75993 | 26 | A | Atherectomy, x-ray exam | 0.36 | 0.14 | 0.14 | 0.01 | 0.51 | 0.51 | ZZZ
75993 | TC | A | Atherectomy, x-ray exam | 0.00 | 8.39 | N/A | 0.36 | 8.75 | N/A | ZZZ
75994 |  | A | Atherectomy, x-ray exam | 1.31 | 16.22 | N/A | 0.75 | 18.28 | N/A | XXX
75994 | 26 | A | Atherectomy, x-ray exam | 1.31 | 0.47 | 0.47 | 0.06 | 1.84 | 1.84 | XXX
75994 | TC | A | Atherectomy, x-ray exam | 0.00 | 15.74 | N/A | 0.69 | 16.43 | N/A | XXX
75995 |  | A | Atherectomy, x-ray exam | 1.31 | 16.23 | N/A | 0.75 | 18.29 | N/A | XXX
75995 | 26 | A | Atherectomy, x-ray exam | 1.31 | 0.48 | 0.48 | 0.06 | 1.85 | 1.85 | XXX
75995 | TC | A | Atherectomy, x-ray exam | 0.00 | 15.74 | N/A | 0.69 | 16.43 | N/A | XXX
75996 |  | A | Atherectomy, x-ray exam | 0.36 | 8.52 | N/A | 0.37 | 9.25 | N/A | ZZZ
75996 | 26 | A | Atherectomy, x-ray exam | 0.36 | 0.12 | 0.12 | 0.01 | 0.49 | 0.49 | ZZZ
75996 | TC | A | Atherectomy, x-ray exam | 0.00 | 8.39 | N/A | 0.36 | 8.75 | N/A | ZZZ
76000 |  | A | Fluoroscope examination | 0.17 | 1.36 | N/A | 0.07 | 1.60 | N/A | XXX
76000 | 26 | A | Fluoroscope examination | 0.17 | 0.05 | 0.05 | 0.01 | 0.23 | 0.23 | XXX
76000 | TC | A | Fluoroscope examination | 0.00 | 1.31 | N/A | 0.06 | 1.37 | N/A | XXX
76001 |  | A | Fluoroscope exam, extensive | 0.67 | 2.85 | N/A | 0.15 | 3.67 | N/A | XXX
76001 | 26 | A | Fluoroscope exam, extensive | 0.67 | 0.23 | 0.23 | 0.03 | 0.93 | 0.93 | XXX
76001 | TC | A | Fluoroscope exam, extensive | 0.00 | 2.62 | N/A | 0.12 | 2.74 | N/A | XXX
76003 |  | A | Needle localization by x-ray | 0.54 | 1.48 | N/A | 0.09 | 2.11 | N/A | XXX
76003 | 26 | A | Needle localization by x-ray | 0.54 | 0.17 | 0.17 | 0.03 | 0.74 | 0.74 | XXX
76003 | TC | A | Needle localization by x-ray | 0.00 | 1.31 | N/A | 0.06 | 1.37 | N/A | XXX
76005 |  | A | Fluoroguide for spine inject | 0.60 | 1.46 | N/A | 0.09 | 2.15 | N/A | XXX
76005 | 26 | A | Fluoroguide for spine inject | 0.60 | 0.16 | 0.16 | 0.03 | 0.79 | 0.79 | XXX
76005 | TC | A | Fluoroguide for spine inject | 0.00 | 1.31 | N/A | 0.06 | 1.37 | N/A | XXX
76006 |  | A | X-ray stress view | 0.41 | 0.19 | 0.19 | 0.04 | 0.64 | 0.64 | XXX
76010 |  | A | X-ray, nose to rectum | 0.18 | 0.58 | N/A | 0.03 | 0.79 | N/A | XXX
76010 | 26 | A | X-ray, nose to rectum | 0.18 | 0.06 | 0.06 | 0.01 | 0.25 | 0.25 | XXX
76010 | TC | A | X-ray, nose to rectum | 0.00 | 0.52 | N/A | 0.02 | 0.54 | N/A | XXX
76012 |  | C | Percut vertebroplasty fluor | 0.00 | 0.00 | 0.00 | 0.00 | 0.00 | 0.00 | XXX
76012 | 26 | A | Percut vertebroplasty fluor | 1.31 | 0.48 | 0.48 | 0.23 | 2.02 | 2.02 | XXX
76012 | TC | C | Percut vertebroplasty fluor | 0.00 | 0.00 | 0.00 | 0.00 | 0.00 | 0.00 | XXX
76013 |  | C | Percut vertebroplasty, ct | 0.00 | 0.00 | 0.00 | 0.00 | 0.00 | 0.00 | XXX
76013 | 26 | A | Percut vertebroplasty, ct | 1.38 | 0.49 | 0.49 | 0.48 | 2.35 | 2.35 | XXX
76013 | TC | C | Percut vertebroplasty, ct | 0.00 | 0.00 | 0.00 | 0.00 | 0.00 | 0.00 | XXX
76020 |  | A | X-rays for bone age | 0.19 | 0.59 | N/A | 0.03 | 0.81 | N/A | XXX
76020 | 26 | A | X-rays for bone age | 0.19 | 0.06 | 0.06 | 0.01 | 0.26 | 0.26 | XXX
76020 | TC | A | X-rays for bone age | 0.00 | 0.52 | N/A | 0.02 | 0.54 | N/A | XXX
76040 |  | A | X-rays, bone evaluation | 0.27 | 0.88 | N/A | 0.07 | 1.22 | N/A | XXX
76040 | 26 | A | X-rays, bone evaluation | 0.27 | 0.09 | 0.09 | 0.03 | 0.39 | 0.39 | XXX
76040 | TC | A | X-rays, bone evaluation | 0.00 | 0.78 | N/A | 0.04 | 0.82 | N/A | XXX
76061 |  | A | X-rays, bone survey | 0.45 | 1.15 | N/A | 0.07 | 1.67 | N/A | XXX
76061 | 26 | A | X-rays, bone survey | 0.45 | 0.15 | 0.15 | 0.02 | 0.62 | 0.62 | XXX
76061 | TC | A | X-rays, bone survey | 0.00 | 1.00 | N/A | 0.05 | 1.05 | N/A | XXX
76062 |  | A | X-rays, bone survey | 0.54 | 1.62 | N/A | 0.09 | 2.25 | N/A | XXX
76062 | 26 | A | X-rays, bone survey | 0.54 | 0.18 | 0.18 | 0.02 | 0.74 | 0.74 | XXX
76062 | TC | A | X-rays, bone survey | 0.00 | 1.44 | N/A | 0.07 | 1.51 | N/A | XXX
76065 |  | A | X-rays, bone evaluation | 0.70 | 0.97 | N/A | 0.05 | 1.72 | N/A | XXX
76065 | 26 | A | X-rays, bone evaluation | 0.70 | 0.24 | 0.24 | 0.01 | 0.95 | 0.95 | XXX
76065 | TC | A | X-rays, bone evaluation | 0.00 | 0.73 | N/A | 0.04 | 0.77 | N/A | XXX
76066 |  | A | Joint survey, single view | 0.31 | 1.22 | N/A | 0.07 | 1.60 | N/A | XXX
76066 | 26 | A | Joint survey, single view | 0.31 | 0.11 | 0.11 | 0.02 | 0.44 | 0.44 | XXX
76066 | TC | A | Joint survey, single view | 0.00 | 1.11 | N/A | 0.05 | 1.16 | N/A | XXX
76070 |  | A | Ct bone density, axial | 0.25 | 3.03 | N/A | 0.14 | 3.42 | N/A | XXX
76070 | 26 | A | Ct bone density, axial | 0.25 | 0.08 | 0.08 | 0.01 | 0.34 | 0.34 | XXX
76070 | TC | A | Ct bone density, axial | 0.00 | 2.95 | N/A | 0.13 | 3.08 | N/A | XXX
76071 |  | A | Ct bone density, peripheral | 0.22 | 3.02 | N/A | 0.05 | 3.29 | N/A | XXX
76071 | 26 | A | Ct bone density, peripheral | 0.22 | 0.07 | 0.07 | 0.01 | 0.30 | 0.30 | XXX
76071 | TC | A | Ct bone density, peripheral | 0.00 | 2.95 | N/A | 0.04 | 2.99 | N/A | XXX
76075 |  | A | Dexa, axial skeleton study | 0.30 | 3.20 | N/A | 0.15 | 3.65 | N/A | XXX
76075 | 26 | A | Dexa, axial skeleton study | 0.30 | 0.10 | 0.10 | 0.01 | 0.41 | 0.41 | XXX
76075 | TC | A | Dexa, axial skeleton study | 0.00 | 3.09 | N/A | 0.14 | 3.23 | N/A | XXX
76076 |  | A | Dexa, peripheral study | 0.22 | 0.83 | N/A | 0.05 | 1.10 | N/A | XXX
76076 | 26 | A | Dexa, peripheral study | 0.22 | 0.08 | 0.08 | 0.01 | 0.31 | 0.31 | XXX
76076 | TC | A | Dexa, peripheral study | 0.00 | 0.75 | N/A | 0.04 | 0.79 | N/A | XXX
76078 |  | A | Radiographic absorptiometry | 0.20 | 0.83 | N/A | 0.05 | 1.08 | N/A | XXX
76078 | 26 | A | Radiographic absorptiometry | 0.20 | 0.07 | 0.07 | 0.01 | 0.28 | 0.28 | XXX
76078 | TC | A | Radiographic absorptiometry | 0.00 | 0.75 | N/A | 0.04 | 0.79 | N/A | XXX
76080 |  | A | X-ray exam of fistula | 0.54 | 1.23 | N/A | 0.07 | 1.84 | N/A | XXX
76080 | 26 | A | X-ray exam of fistula | 0.54 | 0.18 | 0.18 | 0.02 | 0.74 | 0.74 | XXX
76080 | TC | A | X-ray exam of fistula | 0.00 | 1.05 | N/A | 0.05 | 1.10 | N/A | XXX
76085 |  | A | Computer mammogram add-on | 0.06 | 0.44 | N/A | 0.02 | 0.52 | N/A | ZZZ
76085 | 26 | A | Computer mammogram add-on | 0.06 | 0.02 | 0.02 | 0.01 | 0.09 | 0.09 | ZZZ
76085 | TC | A | Computer mammogram add-on | 0.00 | 0.42 | N/A | 0.01 | 0.43 | N/A | ZZZ
76086 |  | A | X-ray of mammary duct | 0.36 | 2.74 | N/A | 0.14 | 3.24 | N/A | XXX
76086 | 26 | A | X-ray of mammary duct | 0.36 | 0.12 | 0.12 | 0.02 | 0.50 | 0.50 | XXX
76086 | TC | A | X-ray of mammary duct | 0.00 | 2.62 | N/A | 0.12 | 2.74 | N/A | XXX
76088 |  | A | X-ray of mammary ducts | 0.45 | 3.82 | N/A | 0.18 | 4.45 | N/A | XXX
76088 | 26 | A | X-ray of mammary ducts | 0.45 | 0.15 | 0.15 | 0.02 | 0.62 | 0.62 | XXX
76088 | TC | A | X-ray of mammary ducts | 0.00 | 3.67 | N/A | 0.16 | 3.83 | N/A | XXX
76090 |  | A | Mammogram, one breast | 0.70 | 1.29 | N/A | 0.08 | 2.07 | N/A | XXX
76090 | 26 | A | Mammogram, one breast | 0.70 | 0.23 | 0.23 | 0.03 | 0.96 | 0.96 | XXX
76090 | TC | A | Mammogram, one breast | 0.00 | 1.05 | N/A | 0.05 | 1.10 | N/A | XXX
76091 |  | A | Mammogram, both breasts | 0.87 | 1.60 | N/A | 0.09 | 2.56 | N/A | XXX
76091 | 26 | A | Mammogram, both breasts | 0.87 | 0.29 | 0.29 | 0.03 | 1.19 | 1.19 | XXX
76091 | TC | A | Mammogram, both breasts | 0.00 | 1.31 | N/A | 0.06 | 1.37 | N/A | XXX
76092 |  | A | Mammogram, screening | 0.70 | 1.46 | N/A | 0.09 | 2.25 | N/A | XXX
76092 | 26 | A | Mammogram, screening | 0.70 | 0.23 | 0.23 | 0.03 | 0.96 | 0.96 | XXX
76092 | TC | A | Mammogram, screening | 0.00 | 1.23 | N/A | 0.06 | 1.29 | N/A | XXX
76093 |  | A | Magnetic image, breast | 1.63 | 18.18 | N/A | 0.83 | 20.64 | N/A | XXX
76093 | 26 | A | Magnetic image, breast | 1.63 | 0.55 | 0.55 | 0.07 | 2.25 | 2.25 | XXX
76093 | TC | A | Magnetic image, breast | 0.00 | 17.63 | N/A | 0.76 | 18.39 | N/A | XXX
76094 |  | A | Magnetic image, both breasts | 1.63 | 24.46 | N/A | 1.10 | 27.19 | N/A | XXX
76094 | 26 | A | Magnetic image, both breasts | 1.63 | 0.55 | 0.55 | 0.07 | 2.25 | 2.25 | XXX
76094 | TC | A | Magnetic image, both breasts | 0.00 | 23.92 | N/A | 1.03 | 24.95 | N/A | XXX
76095 |  | A | Stereotactic breast biopsy | 1.59 | 7.70 | N/A | 0.40 | 9.69 | N/A | XXX
76095 | 26 | A | Stereotactic breast biopsy | 1.59 | 0.54 | 0.54 | 0.09 | 2.22 | 2.22 | XXX
76095 | TC | A | Stereotactic breast biopsy | 0.00 | 7.17 | N/A | 0.31 | 7.48 | N/A | XXX
76096 |  | A | X-ray of needle wire, breast | 0.56 | 1.49 | N/A | 0.09 | 2.14 | N/A | XXX
76096 | 26 | A | X-ray of needle wire, breast | 0.56 | 0.19 | 0.19 | 0.03 | 0.78 | 0.78 | XXX
76096 | TC | A | X-ray of needle wire, breast | 0.00 | 1.31 | N/A | 0.06 | 1.37 | N/A | XXX
76098 |  | A | X-ray exam, breast specimen | 0.16 | 0.47 | N/A | 0.03 | 0.66 | N/A | XXX
76098 | 26 | A | X-ray exam, breast specimen | 0.16 | 0.05 | 0.05 | 0.01 | 0.22 | 0.22 | XXX
76098 | TC | A | X-ray exam, breast specimen | 0.00 | 0.42 | N/A | 0.02 | 0.44 | N/A | XXX
76100 |  | A | X-ray exam of body section | 0.58 | 1.44 | N/A | 0.09 | 2.11 | N/A | XXX
76100 | 26 | A | X-ray exam of body section | 0.58 | 0.19 | 0.19 | 0.03 | 0.80 | 0.80 | XXX
76100 | TC | A | X-ray exam of body section | 0.00 | 1.25 | N/A | 0.06 | 1.31 | N/A | XXX
76101 |  | A | Complex body section x-ray | 0.58 | 1.62 | N/A | 0.10 | 2.30 | N/A | XXX
76101 | 26 | A | Complex body section x-ray | 0.58 | 0.19 | 0.19 | 0.03 | 0.80 | 0.80 | XXX
76101 | TC | A | Complex body section x-ray | 0.00 | 1.42 | N/A | 0.07 | 1.49 | N/A | XXX
76102 |  | A | Complex body section x-rays | 0.58 | 1.93 | N/A | 0.12 | 2.63 | N/A | XXX
76102 | 26 | A | Complex body section x-rays | 0.58 | 0.20 | 0.20 | 0.03 | 0.81 | 0.81 | XXX
76102 | TC | A | Complex body section x-rays | 0.00 | 1.73 | N/A | 0.09 | 1.82 | N/A | XXX
76120 |  | A | Cine/video x-rays | 0.38 | 1.19 | N/A | 0.07 | 1.64 | N/A | XXX
76120 | 26 | A | Cine/video x-rays | 0.38 | 0.13 | 0.13 | 0.02 | 0.53 | 0.53 | XXX
76120 | TC | A | Cine/video x-rays | 0.00 | 1.05 | N/A | 0.05 | 1.10 | N/A | XXX
76125 |  | A | Cine/video x-rays add-on | 0.27 | 0.88 | N/A | 0.05 | 1.20 | N/A | ZZZ
76125 | 26 | A | Cine/video x-rays add-on | 0.27 | 0.09 | 0.09 | 0.01 | 0.37 | 0.37 | ZZZ
76125 | TC | A | Cine/video x-rays add-on | 0.00 | 0.78 | N/A | 0.04 | 0.82 | N/A | ZZZ
76140 |  | I | X-ray consultation | 0.00 | 0.00 | 0.00 | 0.00 | 0.00 | 0.00 | XXX
76150 |  | A | X-ray exam, dry process | 0.00 | 0.42 | N/A | 0.02 | 0.44 | N/A | XXX
76350 |  | C | Special x-ray contrast study | 0.00 | 0.00 | 0.00 | 0.00 | 0.00 | 0.00 | XXX
76355 |  | A | CAT scan for localization | 1.21 | 8.67 | N/A | 0.41 | 10.29 | N/A | XXX
76355 | 26 | A | CAT scan for localization | 1.21 | 0.41 | 0.41 | 0.06 | 1.68 | 1.68 | XXX
76355 | TC | A | CAT scan for localization | 0.00 | 8.26 | N/A | 0.35 | 8.61 | N/A | XXX
76360 |  | A | CAT scan for needle biopsy | 1.16 | 8.65 | N/A | 0.40 | 10.21 | N/A | XXX
76360 | 26 | A | CAT scan for needle biopsy | 1.16 | 0.39 | 0.39 | 0.05 | 1.60 | 1.60 | XXX
76360 | TC | A | CAT scan for needle biopsy | 0.00 | 8.26 | N/A | 0.35 | 8.61 | N/A | XXX
76362 |  | A | Cat scan for tissue ablation | 4.00 | 9.59 | N/A | 1.39 | 14.98 | N/A | XXX
76362 | 26 | A | Cat scan for tissue ablation | 4.00 | 1.33 | 1.33 | 0.18 | 5.51 | 5.51 | XXX
76362 | TC | A | Cat scan for tissue ablation | 0.00 | 8.26 | N/A | 1.21 | 9.47 | N/A | XXX
76370 |  | A | CAT scan for therapy guide | 0.85 | 3.23 | N/A | 0.17 | 4.25 | N/A | XXX
76370 | 26 | A | CAT scan for therapy guide | 0.85 | 0.28 | 0.28 | 0.04 | 1.17 | 1.17 | XXX
76370 | TC | A | CAT scan for therapy guide | 0.00 | 2.95 | N/A | 0.13 | 3.08 | N/A | XXX
76375 |  | A | 3d/holograph reconstr add-on | 0.16 | 3.59 | N/A | 0.16 | 3.91 | N/A | XXX
76375 | 26 | A | 3d/holograph reconstr add-on | 0.16 | 0.05 | 0.05 | 0.01 | 0.22 | 0.22 | XXX
76375 | TC | A | 3d/holograph reconstr add-on | 0.00 | 3.54 | N/A | 0.15 | 3.69 | N/A | XXX
76380 |  | A | CAT scan follow-up study | 0.98 | 3.83 | N/A | 0.19 | 5.00 | N/A | XXX
76380 | 26 | A | CAT scan follow-up study | 0.98 | 0.33 | 0.33 | 0.04 | 1.35 | 1.35 | XXX
76380 | TC | A | CAT scan follow-up study | 0.00 | 3.50 | N/A | 0.15 | 3.65 | N/A | XXX
76390 |  | N | Mr spectroscopy | 1.40 | 11.68 | N/A | 0.55 | 13.63 | N/A | XXX
76390 | 26 | N | Mr spectroscopy | 1.40 | 0.47 | 0.47 | 0.06 | 1.93 | 1.93 | XXX
76390 | TC | N | Mr spectroscopy | 0.00 | 11.21 | N/A | 0.49 | 11.70 | N/A | XXX
76393 |  | A | Mr guidance for needle place | 1.50 | 11.72 | N/A | 0.53 | 13.75 | N/A | XXX
76393 | 26 | A | Mr guidance for needle place | 1.50 | 0.51 | 0.51 | 0.07 | 2.08 | 2.08 | XXX
76393 | TC | A | Mr guidance for needle place | 0.00 | 11.21 | N/A | 0.46 | 11.67 | N/A | XXX
76394 |  | A | Mri for tissue ablation | 4.25 | 12.63 | N/A | 1.48 | 18.36 | N/A | XXX
76394 | 26 | A | Mri for tissue ablation | 4.25 | 1.42 | 1.42 | 0.19 | 5.86 | 5.86 | XXX
76394 | TC | A | Mri for tissue ablation | 0.00 | 11.21 | N/A | 1.29 | 12.50 | N/A | XXX
76400 |  | A | Magnetic image, bone marrow | 1.60 | 11.74 | N/A | 0.56 | 13.90 | N/A | XXX
76400 | 26 | A | Magnetic image, bone marrow | 1.60 | 0.54 | 0.54 | 0.07 | 2.21 | 2.21 | XXX
76400 | TC | A | Magnetic image, bone marrow | 0.00 | 11.21 | N/A | 0.49 | 11.70 | N/A | XXX
76490 |  | A | Us for tissue ablation | 4.00 | 2.85 | N/A | 0.35 | 7.20 | N/A | XXX
76490 | 26 | A | Us for tissue ablation | 4.00 | 1.33 | 1.33 | 0.11 | 5.44 | 5.44 | XXX
76490 | TC | A | Us for tissue ablation | 0.00 | 1.52 | N/A | 0.24 | 1.76 | N/A | XXX
76496 |  | C | Fluoroscopic procedure | 0.00 | 0.00 | 0.00 | 0.00 | 0.00 | 0.00 | XXX
76496 | 26 | C | Fluoroscopic procedure | 0.00 | 0.00 | 0.00 | 0.00 | 0.00 | 0.00 | XXX
76496 | TC | C | Fluoroscopic procedure | 0.00 | 0.00 | 0.00 | 0.00 | 0.00 | 0.00 | XXX
76497 |  | C | Ct procedure | 0.00 | 0.00 | 0.00 | 0.00 | 0.00 | 0.00 | XXX
76497 | 26 | C | Ct procedure | 0.00 | 0.00 | 0.00 | 0.00 | 0.00 | 0.00 | XXX
76497 | TC | C | Ct procedure | 0.00 | 0.00 | 0.00 | 0.00 | 0.00 | 0.00 | XXX
76498 |  | C | Mri procedure | 0.00 | 0.00 | 0.00 | 0.00 | 0.00 | 0.00 | XXX
76498 | 26 | C | Mri procedure | 0.00 | 0.00 | 0.00 | 0.00 | 0.00 | 0.00 | XXX
76498 | TC | C | Mri procedure | 0.00 | 0.00 | 0.00 | 0.00 | 0.00 | 0.00 | XXX
76499 |  | C | Radiographic procedure | 0.00 | 0.00 | 0.00 | 0.00 | 0.00 | 0.00 | XXX
76499 | 26 | C | Radiographic procedure | 0.00 | 0.00 | 0.00 | 0.00 | 0.00 | 0.00 | XXX
76499 | TC | C | Radiographic procedure | 0.00 | 0.00 | 0.00 | 0.00 | 0.00 | 0.00 | XXX
76506 |  | A | Echo exam of head | 0.63 | 1.67 | N/A | 0.10 | 2.40 | N/A | XXX
76506 | 26 | A | Echo exam of head | 0.63 | 0.25 | 0.25 | 0.03 | 0.91 | 0.91 | XXX
76506 | TC | A | Echo exam of head | 0.00 | 1.42 | N/A | 0.07 | 1.49 | N/A | XXX
76511 |  | A | Echo exam of eye | 0.94 | 1.12 | N/A | 0.08 | 2.14 | N/A | XXX
76511 | 26 | A | Echo exam of eye | 0.94 | 0.41 | 0.41 | 0.02 | 1.37 | 1.37 | XXX
76511 | TC | A | Echo exam of eye | 0.00 | 0.71 | N/A | 0.06 | 0.77 | N/A | XXX
76512 |  | A | Echo exam of eye | 0.66 | 1.04 | N/A | 0.09 | 1.79 | N/A | XXX
76512 | 26 | A | Echo exam of eye | 0.66 | 0.30 | 0.30 | 0.01 | 0.97 | 0.97 | XXX
76512 | TC | A | Echo exam of eye | 0.00 | 0.74 | N/A | 0.08 | 0.82 | N/A | XXX
76513 |  | A | Echo exam of eye, water bath | 0.66 | 1.12 | N/A | 0.09 | 1.87 | N/A | XXX
76513 | 26 | A | Echo exam of eye, water bath | 0.66 | 0.30 | 0.30 | 0.01 | 0.97 | 0.97 | XXX
76513 | TC | A | Echo exam of eye, water bath | 0.00 | 0.82 | N/A | 0.08 | 0.90 | N/A | XXX
76516 |  | A | Echo exam of eye | 0.54 | 0.74 | N/A | 0.07 | 1.35 | N/A | XXX
76516 | 26 | A | Echo exam of eye | 0.54 | 0.25 | 0.25 | 0.01 | 0.80 | 0.80 | XXX
76516 | TC | A | Echo exam of eye | 0.00 | 0.49 | N/A | 0.06 | 0.55 | N/A | XXX
76519 |  | A | Echo exam of eye | 0.54 | 0.83 | N/A | 0.07 | 1.44 | N/A | XXX
76519 | 26 | A | Echo exam of eye | 0.54 | 0.25 | 0.25 | 0.01 | 0.80 | 0.80 | XXX
76519 | TC | A | Echo exam of eye | 0.00 | 0.58 | N/A | 0.06 | 0.64 | N/A | XXX
76529 |  | A | Echo exam of eye | 0.57 | 0.78 | N/A | 0.08 | 1.43 | N/A | XXX
76529 | 26 | A | Echo exam of eye | 0.57 | 0.25 | 0.25 | 0.01 | 0.83 | 0.83 | XXX
76529 | TC | A | Echo exam of eye | 0.00 | 0.53 | N/A | 0.07 | 0.60 | N/A | XXX
76536 |  | A | Us exam of head and neck | 0.56 | 1.61 | N/A | 0.09 | 2.26 | N/A | XXX
76536 | 26 | A | Us exam of head and neck | 0.56 | 0.19 | 0.19 | 0.02 | 0.77 | 0.77 | XXX
76536 | TC | A | Us exam of head and neck | 0.00 | 1.42 | N/A | 0.07 | 1.49 | N/A | XXX
76604 |  | A | Us exam, chest, b-scan | 0.55 | 1.49 | N/A | 0.08 | 2.12 | N/A | XXX
76604 | 26 | A | Us exam, chest, b-scan | 0.55 | 0.18 | 0.18 | 0.02 | 0.75 | 0.75 | XXX
76604 | TC | A | Us exam, chest, b-scan | 0.00 | 1.31 | N/A | 0.06 | 1.37 | N/A | XXX
76645 |  | A | Us exam, breast(s) | 0.54 | 1.23 | N/A | 0.08 | 1.85 | N/A | XXX
76645 | 26 | A | Us exam, breast(s) | 0.54 | 0.18 | 0.18 | 0.03 | 0.75 | 0.75 | XXX
76645 | TC | A | Us exam, breast(s) | 0.00 | 1.05 | N/A | 0.05 | 1.10 | N/A | XXX
76700 |  | A | Us exam, abdom, complete | 0.81 | 2.24 | N/A | 0.13 | 3.18 | N/A | XXX
76700 | 26 | A | Us exam, abdom, complete | 0.81 | 0.27 | 0.27 | 0.04 | 1.12 | 1.12 | XXX
76700 | TC | A | Us exam, abdom, complete | 0.00 | 1.97 | N/A | 0.09 | 2.06 | N/A | XXX
76705 |  | A | Echo exam of abdomen | 0.59 | 1.62 | N/A | 0.10 | 2.31 | N/A | XXX
76705 | 26 | A | Echo exam of abdomen | 0.59 | 0.20 | 0.20 | 0.03 | 0.82 | 0.82 | XXX
76705 | TC | A | Echo exam of abdomen | 0.00 | 1.42 | N/A | 0.07 | 1.49 | N/A | XXX
76770 |  | A | Us exam abdo back wall, comp | 0.74 | 2.22 | N/A | 0.12 | 3.08 | N/A | XXX
76770 | 26 | A | Us exam abdo back wall, comp | 0.74 | 0.25 | 0.25 | 0.03 | 1.02 | 1.02 | XXX
76770 | TC | A | Us exam abdo back wall, comp | 0.00 | 1.97 | N/A | 0.09 | 2.06 | N/A | XXX
76775 |  | A | Us eam abdo back wall, lim | 0.58 | 1.62 | N/A | 0.10 | 2.30 | N/A | XXX
76775 | 26 | A | Us eam abdo back wall, lim | 0.58 | 0.19 | 0.19 | 0.03 | 0.80 | 0.80 | XXX
76775 | TC | A | Us eam abdo back wall, lim | 0.00 | 1.42 | N/A | 0.07 | 1.49 | N/A | XXX
76778 |  | A | Us exam kidney transplant | 0.74 | 2.22 | N/A | 0.12 | 3.08 | N/A | XXX
76778 | 26 | A | Us exam kidney transplant | 0.74 | 0.25 | 0.25 | 0.03 | 1.02 | 1.02 | XXX
76778 | TC | A | Us exam kidney transplant | 0.00 | 1.97 | N/A | 0.09 | 2.06 | N/A | XXX
76800 |  | A | Us exam, spinal canal | 1.13 | 1.77 | N/A | 0.11 | 3.01 | N/A | XXX
76800 | 26 | A | Us exam, spinal canal | 1.13 | 0.35 | 0.35 | 0.04 | 1.52 | 1.52 | XXX
76800 | TC | A | Us exam, spinal canal | 0.00 | 1.42 | N/A | 0.07 | 1.49 | N/A | XXX
76801 |  | A | Ob us < 14 wks, single fetus | 0.99 | 2.45 | N/A | 0.14 | 3.58 | N/A | XXX
76801 | 26 | A | Ob us < 14 wks, single fetus | 0.99 | 0.35 | 0.35 | 0.04 | 1.38 | 1.38 | XXX
76801 | TC | A | Ob us < 14 wks, single fetus | 0.00 | 2.10 | N/A | 0.10 | 2.20 | N/A | XXX
76802 |  | A | Ob us < 14 wks, addl fetus | 0.83 | 1.35 | N/A | 0.14 | 2.32 | N/A | ZZZ
76802 | 26 | A | Ob us < 14 wks, addl fetus | 0.83 | 0.29 | 0.29 | 0.04 | 1.16 | 1.16 | ZZZ
76802 | TC | A | Ob us < 14 wks, addl fetus | 0.00 | 1.05 | N/A | 0.10 | 1.15 | N/A | ZZZ
76805 |  | A | Ob us >/= 14 wks, sngl fetus | 0.99 | 2.45 | N/A | 0.14 | 3.58 | N/A | XXX
76805 | 26 | A | Ob us >/= 14 wks, sngl fetus | 0.99 | 0.35 | 0.35 | 0.04 | 1.38 | 1.38 | XXX
76805 | TC | A | Ob us >/= 14 wks, sngl fetus | 0.00 | 2.10 | N/A | 0.10 | 2.20 | N/A | XXX
76810 |  | A | Ob us >/= 14 wks, addl fetus | 0.98 | 1.41 | N/A | 0.25 | 2.64 | N/A | ZZZ
76810 | 26 | A | Ob us >/= 14 wks, addl fetus | 0.98 | 0.35 | 0.35 | 0.07 | 1.40 | 1.40 | ZZZ
76810 | TC | A | Ob us >/= 14 wks, addl fetus | 0.00 | 1.05 | N/A | 0.18 | 1.23 | N/A | ZZZ
76811 |  | A | Ob us, detailed, sngl fetus | 1.90 | 4.20 | N/A | 0.51 | 6.61 | N/A | XXX
76811 | 26 | A | Ob us, detailed, sngl fetus | 1.90 | 0.67 | 0.67 | 0.15 | 2.72 | 2.72 | XXX
76811 | TC | A | Ob us, detailed, sngl fetus | 0.00 | 3.53 | N/A | 0.36 | 3.89 | N/A | XXX
76812 |  | A | Ob us, detailed, addl fetus | 1.78 | 1.70 | N/A | 0.46 | 3.94 | N/A | ZZZ
76812 | 26 | A | Ob us, detailed, addl fetus | 1.78 | 0.64 | 0.64 | 0.12 | 2.54 | 2.54 | ZZZ
76812 | TC | A | Ob us, detailed, addl fetus | 0.00 | 1.05 | N/A | 0.34 | 1.39 | N/A | ZZZ
76815 |  | A | Ob us, limited, fetus(s) | 0.65 | 1.66 | N/A | 0.09 | 2.40 | N/A | XXX
76815 | 26 | A | Ob us, limited, fetus(s) | 0.65 | 0.24 | 0.24 | 0.02 | 0.91 | 0.91 | XXX
76815 | TC | A | Ob us, limited, fetus(s) | 0.00 | 1.42 | N/A | 0.07 | 1.49 | N/A | XXX
76816 |  | A | Ob us, follow-up, per fetus | 0.85 | 1.43 | N/A | 0.07 | 2.35 | N/A | XXX
76816 | 26 | A | Ob us, follow-up, per fetus | 0.85 | 0.32 | 0.32 | 0.02 | 1.19 | 1.19 | XXX
76816 | TC | A | Ob us, follow-up, per fetus | 0.00 | 1.11 | N/A | 0.05 | 1.16 | N/A | XXX
76817 |  | A | Transvaginal us, obstetric | 0.75 | 1.80 | N/A | 0.07 | 2.62 | N/A | XXX
76817 | 26 | A | Transvaginal us, obstetric | 0.75 | 0.28 | 0.28 | 0.02 | 1.05 | 1.05 | XXX
76817 | TC | A | Transvaginal us, obstetric | 0.00 | 1.52 | N/A | 0.05 | 1.57 | N/A | XXX
76818 |  | A | Fetal biophys profile w/nst | 1.05 | 2.01 | N/A | 0.12 | 3.18 | N/A | XXX
76818 | 26 | A | Fetal biophys profile w/nst | 1.05 | 0.40 | 0.40 | 0.04 | 1.49 | 1.49 | XXX
76818 | TC | A | Fetal biophys profile w/nst | 0.00 | 1.61 | N/A | 0.08 | 1.69 | N/A | XXX
76819 |  | A | Fetal biophys profil w/o nst | 0.77 | 1.90 | N/A | 0.10 | 2.77 | N/A | XXX
76819 | 26 | A | Fetal biophys profil w/o nst | 0.77 | 0.29 | 0.29 | 0.02 | 1.08 | 1.08 | XXX
76819 | TC | A | Fetal biophys profil w/o nst | 0.00 | 1.61 | N/A | 0.08 | 1.69 | N/A | XXX
76825 |  | A | Echo exam of fetal heart | 1.67 | 2.59 | N/A | 0.15 | 4.41 | N/A | XXX
76825 | 26 | A | Echo exam of fetal heart | 1.67 | 0.62 | 0.62 | 0.06 | 2.35 | 2.35 | XXX
76825 | TC | A | Echo exam of fetal heart | 0.00 | 1.97 | N/A | 0.09 | 2.06 | N/A | XXX
76826 |  | A | Echo exam of fetal heart | 0.83 | 1.00 | N/A | 0.07 | 1.90 | N/A | XXX
76826 | 26 | A | Echo exam of fetal heart | 0.83 | 0.30 | 0.30 | 0.03 | 1.16 | 1.16 | XXX
76826 | TC | A | Echo exam of fetal heart | 0.00 | 0.71 | N/A | 0.04 | 0.75 | N/A | XXX
76827 |  | A | Echo exam of fetal heart | 0.58 | 1.94 | N/A | 0.12 | 2.64 | N/A | XXX
76827 | 26 | A | Echo exam of fetal heart | 0.58 | 0.22 | 0.22 | 0.02 | 0.82 | 0.82 | XXX
76827 | TC | A | Echo exam of fetal heart | 0.00 | 1.72 | N/A | 0.10 | 1.82 | N/A | XXX
76828 |  | A | Echo exam of fetal heart | 0.56 | 1.33 | N/A | 0.09 | 1.98 | N/A | XXX
76828 | 26 | A | Echo exam of fetal heart | 0.56 | 0.22 | 0.22 | 0.02 | 0.80 | 0.80 | XXX
76828 | TC | A | Echo exam of fetal heart | 0.00 | 1.11 | N/A | 0.07 | 1.18 | N/A | XXX
76830 |  | A | Transvaginal us, non-ob | 0.69 | 1.75 | N/A | 0.11 | 2.55 | N/A | XXX
76830 | 26 | A | Transvaginal us, non-ob | 0.69 | 0.23 | 0.23 | 0.03 | 0.95 | 0.95 | XXX
76830 | TC | A | Transvaginal us, non-ob | 0.00 | 1.52 | N/A | 0.08 | 1.60 | N/A | XXX
76831 |  | A | Echo exam, uterus | 0.72 | 1.78 | N/A | 0.10 | 2.60 | N/A | XXX
76831 | 26 | A | Echo exam, uterus | 0.72 | 0.26 | 0.26 | 0.02 | 1.00 | 1.00 | XXX
76831 | TC | A | Echo exam, uterus | 0.00 | 1.52 | N/A | 0.08 | 1.60 | N/A | XXX
76856 |  | A | Us exam, pelvic, complete | 0.69 | 1.75 | N/A | 0.11 | 2.55 | N/A | XXX
76856 | 26 | A | Us exam, pelvic, complete | 0.69 | 0.23 | 0.23 | 0.03 | 0.95 | 0.95 | XXX
76856 | TC | A | Us exam, pelvic, complete | 0.00 | 1.52 | N/A | 0.08 | 1.60 | N/A | XXX
76857 |  | A | Us exam, pelvic, limited | 0.38 | 1.68 | N/A | 0.07 | 2.13 | N/A | XXX
76857 | 26 | A | Us exam, pelvic, limited | 0.38 | 0.13 | 0.13 | 0.02 | 0.53 | 0.53 | XXX
76857 | TC | A | Us exam, pelvic, limited | 0.00 | 1.55 | N/A | 0.05 | 1.60 | N/A | XXX
76870 |  | A | Us exam, scrotum | 0.64 | 1.73 | N/A | 0.11 | 2.48 | N/A | XXX
76870 | 26 | A | Us exam, scrotum | 0.64 | 0.21 | 0.21 | 0.03 | 0.88 | 0.88 | XXX
76870 | TC | A | Us exam, scrotum | 0.00 | 1.52 | N/A | 0.08 | 1.60 | N/A | XXX
76872 |  | A | Echo exam, transrectal | 0.69 | 1.97 | N/A | 0.12 | 2.78 | N/A | XXX
76872 | 26 | A | Echo exam, transrectal | 0.69 | 0.23 | 0.23 | 0.04 | 0.96 | 0.96 | XXX
76872 | TC | A | Echo exam, transrectal | 0.00 | 1.75 | N/A | 0.08 | 1.83 | N/A | XXX
76873 |  | A | Echograp trans r, pros study | 1.55 | 2.61 | N/A | 0.21 | 4.37 | N/A | XXX
76873 | 26 | A | Echograp trans r, pros study | 1.55 | 0.51 | 0.51 | 0.08 | 2.14 | 2.14 | XXX
76873 | TC | A | Echograp trans r, pros study | 0.00 | 2.10 | N/A | 0.13 | 2.23 | N/A | XXX
76880 |  | A | Us exam, extremity | 0.59 | 1.62 | N/A | 0.10 | 2.31 | N/A | XXX
76880 | 26 | A | Us exam, extremity | 0.59 | 0.20 | 0.20 | 0.03 | 0.82 | 0.82 | XXX
76880 | TC | A | Us exam, extremity | 0.00 | 1.42 | N/A | 0.07 | 1.49 | N/A | XXX
76885 |  | A | Us exam infant hips, dynamic | 0.74 | 1.77 | N/A | 0.11 | 2.62 | N/A | XXX
76885 | 26 | A | Us exam infant hips, dynamic | 0.74 | 0.25 | 0.25 | 0.03 | 1.02 | 1.02 | XXX
76885 | TC | A | Us exam infant hips, dynamic | 0.00 | 1.52 | N/A | 0.08 | 1.60 | N/A | XXX
76886 |  | A | Us exam infant hips, static | 0.62 | 1.63 | N/A | 0.10 | 2.35 | N/A | XXX
76886 | 26 | A | Us exam infant hips, static | 0.62 | 0.21 | 0.21 | 0.03 | 0.86 | 0.86 | XXX
76886 | TC | A | Us exam infant hips, static | 0.00 | 1.42 | N/A | 0.07 | 1.49 | N/A | XXX
76930 |  | A | Echo guide, cardiocentesis | 0.67 | 1.78 | N/A | 0.10 | 2.55 | N/A | XXX
76930 | 26 | A | Echo guide, cardiocentesis | 0.67 | 0.26 | 0.26 | 0.02 | 0.95 | 0.95 | XXX
76930 | TC | A | Echo guide, cardiocentesis | 0.00 | 1.52 | N/A | 0.08 | 1.60 | N/A | XXX
76932 |  | A | Echo guide for heart biopsy | 0.67 | 1.78 | N/A | 0.10 | 2.55 | N/A | XXX
76932 | 26 | A | Echo guide for heart biopsy | 0.67 | 0.26 | 0.26 | 0.02 | 0.95 | 0.95 | XXX
76932 | TC | A | Echo guide for heart biopsy | 0.00 | 1.52 | N/A | 0.08 | 1.60 | N/A | XXX
76936 |  | A | Echo guide for artery repair | 1.99 | 6.97 | N/A | 0.39 | 9.35 | N/A | XXX
76936 | 26 | A | Echo guide for artery repair | 1.99 | 0.68 | 0.68 | 0.11 | 2.78 | 2.78 | XXX
76936 | TC | A | Echo guide for artery repair | 0.00 | 6.30 | N/A | 0.28 | 6.58 | N/A | XXX
76941 |  | A | Echo guide for transfusion | 1.34 | 2.01 | N/A | 0.13 | 3.48 | N/A | XXX
76941 | 26 | A | Echo guide for transfusion | 1.34 | 0.49 | 0.49 | 0.06 | 1.89 | 1.89 | XXX
76941 | TC | A | Echo guide for transfusion | 0.00 | 1.53 | N/A | 0.07 | 1.60 | N/A | XXX
76942 |  | A | Echo guide for biopsy | 0.67 | 3.40 | N/A | 0.12 | 4.19 | N/A | XXX
76942 | 26 | A | Echo guide for biopsy | 0.67 | 0.22 | 0.22 | 0.04 | 0.93 | 0.93 | XXX
76942 | TC | A | Echo guide for biopsy | 0.00 | 3.18 | N/A | 0.08 | 3.26 | N/A | XXX
76945 |  | A | Echo guide, villus sampling | 0.67 | 1.76 | N/A | 0.10 | 2.53 | N/A | XXX
76945 | 26 | A | Echo guide, villus sampling | 0.67 | 0.23 | 0.23 | 0.03 | 0.93 | 0.93 | XXX
76945 | TC | A | Echo guide, villus sampling | 0.00 | 1.53 | N/A | 0.07 | 1.60 | N/A | XXX
76946 |  | A | Echo guide for amniocentesis | 0.38 | 1.66 | N/A | 0.09 | 2.13 | N/A | XXX
76946 | 26 | A | Echo guide for amniocentesis | 0.38 | 0.14 | 0.14 | 0.01 | 0.53 | 0.53 | XXX
76946 | TC | A | Echo guide for amniocentesis | 0.00 | 1.52 | N/A | 0.08 | 1.60 | N/A | XXX
76948 |  | A | Echo guide, ova aspiration | 0.38 | 1.65 | N/A | 0.10 | 2.13 | N/A | XXX
76948 | 26 | A | Echo guide, ova aspiration | 0.38 | 0.13 | 0.13 | 0.02 | 0.53 | 0.53 | XXX
76948 | TC | A | Echo guide, ova aspiration | 0.00 | 1.52 | N/A | 0.08 | 1.60 | N/A | XXX
76950 |  | A | Echo guidance radiotherapy | 0.58 | 1.49 | N/A | 0.09 | 2.16 | N/A | XXX
76950 | 26 | A | Echo guidance radiotherapy | 0.58 | 0.19 | 0.19 | 0.03 | 0.80 | 0.80 | XXX
76950 | TC | A | Echo guidance radiotherapy | 0.00 | 1.31 | N/A | 0.06 | 1.37 | N/A | XXX
76965 |  | A | Echo guidance radiotherapy | 1.34 | 6.01 | N/A | 0.31 | 7.66 | N/A | XXX
76965 | 26 | A | Echo guidance radiotherapy | 1.34 | 0.44 | 0.44 | 0.07 | 1.85 | 1.85 | XXX
76965 | TC | A | Echo guidance radiotherapy | 0.00 | 5.57 | N/A | 0.24 | 5.81 | N/A | XXX
76970 |  | A | Ultrasound exam follow-up | 0.40 | 1.19 | N/A | 0.07 | 1.66 | N/A | XXX
76970 | 26 | A | Ultrasound exam follow-up | 0.40 | 0.14 | 0.14 | 0.02 | 0.56 | 0.56 | XXX
76970 | TC | A | Ultrasound exam follow-up | 0.00 | 1.05 | N/A | 0.05 | 1.10 | N/A | XXX
76975 |  | A | GI endoscopic ultrasound | 0.81 | 1.80 | N/A | 0.11 | 2.72 | N/A | XXX
76975 | 26 | A | GI endoscopic ultrasound | 0.81 | 0.28 | 0.28 | 0.03 | 1.12 | 1.12 | XXX
76975 | TC | A | GI endoscopic ultrasound | 0.00 | 1.52 | N/A | 0.08 | 1.60 | N/A | XXX
76977 |  | A | Us bone density measure | 0.05 | 0.84 | N/A | 0.05 | 0.94 | N/A | XXX
76977 | 26 | A | Us bone density measure | 0.05 | 0.02 | 0.02 | 0.01 | 0.08 | 0.08 | XXX
76977 | TC | A | Us bone density measure | 0.00 | 0.82 | N/A | 0.04 | 0.86 | N/A | XXX
76986 |  | A | Ultrasound guide intraoper | 1.20 | 3.03 | N/A | 0.19 | 4.42 | N/A | XXX
76986 | 26 | A | Ultrasound guide intraoper | 1.20 | 0.41 | 0.41 | 0.07 | 1.68 | 1.68 | XXX
76986 | TC | A | Ultrasound guide intraoper | 0.00 | 2.62 | N/A | 0.12 | 2.74 | N/A | XXX
76999 |  | C | Echo examination procedure | 0.00 | 0.00 | 0.00 | 0.00 | 0.00 | 0.00 | XXX
76999 | 26 | C | Echo examination procedure | 0.00 | 0.00 | 0.00 | 0.00 | 0.00 | 0.00 | XXX
76999 | TC | C | Echo examination procedure | 0.00 | 0.00 | 0.00 | 0.00 | 0.00 | 0.00 | XXX
77261 |  | A | Radiation therapy planning | 1.39 | 0.52 | 0.52 | 0.06 | 1.97 | 1.97 | XXX
77262 |  | A | Radiation therapy planning | 2.11 | 0.77 | 0.77 | 0.09 | 2.97 | 2.97 | XXX
77263 |  | A | Radiation therapy planning | 3.14 | 1.13 | 1.13 | 0.13 | 4.40 | 4.40 | XXX
77280 |  | A | Set radiation therapy field | 0.70 | 3.70 | N/A | 0.18 | 4.58 | N/A | XXX
77280 | 26 | A | Set radiation therapy field | 0.70 | 0.23 | 0.23 | 0.03 | 0.96 | 0.96 | XXX
77280 | TC | A | Set radiation therapy field | 0.00 | 3.47 | N/A | 0.15 | 3.62 | N/A | XXX
77285 |  | A | Set radiation therapy field | 1.05 | 5.91 | N/A | 0.29 | 7.25 | N/A | XXX
77285 | 26 | A | Set radiation therapy field | 1.05 | 0.34 | 0.34 | 0.04 | 1.43 | 1.43 | XXX
77285 | TC | A | Set radiation therapy field | 0.00 | 5.57 | N/A | 0.25 | 5.82 | N/A | XXX
77290 |  | A | Set radiation therapy field | 1.56 | 7.01 | N/A | 0.35 | 8.92 | N/A | XXX
77290 | 26 | A | Set radiation therapy field | 1.56 | 0.50 | 0.50 | 0.06 | 2.12 | 2.12 | XXX
77290 | TC | A | Set radiation therapy field | 0.00 | 6.51 | N/A | 0.29 | 6.80 | N/A | XXX
77295 |  | A | Set radiation therapy field | 4.57 | 29.41 | N/A | 1.41 | 35.39 | N/A | XXX
77295 | 26 | A | Set radiation therapy field | 4.57 | 1.48 | 1.48 | 0.18 | 6.23 | 6.23 | XXX
77295 | TC | A | Set radiation therapy field | 0.00 | 27.94 | N/A | 1.23 | 29.17 | N/A | XXX
77299 |  | C | Radiation therapy planning | 0.00 | 0.00 | 0.00 | 0.00 | 0.00 | 0.00 | XXX
77299 | 26 | C | Radiation therapy planning | 0.00 | 0.00 | 0.00 | 0.00 | 0.00 | 0.00 | XXX
77299 | TC | C | Radiation therapy planning | 0.00 | 0.00 | 0.00 | 0.00 | 0.00 | 0.00 | XXX
77300 |  | A | Radiation therapy dose plan | 0.62 | 1.54 | N/A | 0.09 | 2.25 | N/A | XXX
77300 | 26 | A | Radiation therapy dose plan | 0.62 | 0.20 | 0.20 | 0.03 | 0.85 | 0.85 | XXX
77300 | TC | A | Radiation therapy dose plan | 0.00 | 1.34 | N/A | 0.06 | 1.40 | N/A | XXX
77301 |  | A | Radiotherapy dose plan, imrt | 8.00 | 30.52 | N/A | 1.41 | 39.93 | N/A | XXX
77301 | 26 | A | Radiotherapy dose plan, imrt | 8.00 | 2.59 | 2.59 | 0.18 | 10.77 | 10.77 | XXX
77301 | TC | A | Radiotherapy dose plan, imrt | 0.00 | 27.94 | N/A | 1.23 | 29.17 | N/A | XXX
77305 |  | A | Teletx isodose plan simple | 0.70 | 2.08 | N/A | 0.12 | 2.90 | N/A | XXX
77305 | 26 | A | Teletx isodose plan simple | 0.70 | 0.23 | 0.23 | 0.03 | 0.96 | 0.96 | XXX
77305 | TC | A | Teletx isodose plan simple | 0.00 | 1.86 | N/A | 0.09 | 1.95 | N/A | XXX
77310 |  | A | Teletx isodose plan intermed | 1.05 | 2.67 | N/A | 0.15 | 3.87 | N/A | XXX
77310 | 26 | A | Teletx isodose plan intermed | 1.05 | 0.34 | 0.34 | 0.04 | 1.43 | 1.43 | XXX
77310 | TC | A | Teletx isodose plan intermed | 0.00 | 2.33 | N/A | 0.11 | 2.44 | N/A | XXX
77315 |  | A | Teletx isodose plan complex | 1.56 | 3.16 | N/A | 0.18 | 4.90 | N/A | XXX
77315 | 26 | A | Teletx isodose plan complex | 1.56 | 0.50 | 0.50 | 0.06 | 2.12 | 2.12 | XXX
77315 | TC | A | Teletx isodose plan complex | 0.00 | 2.66 | N/A | 0.12 | 2.78 | N/A | XXX
77321 |  | A | Special teletx port plan | 0.95 | 4.35 | N/A | 0.21 | 5.51 | N/A | XXX
77321 | 26 | A | Special teletx port plan | 0.95 | 0.31 | 0.31 | 0.04 | 1.30 | 1.30 | XXX
77321 | TC | A | Special teletx port plan | 0.00 | 4.04 | N/A | 0.17 | 4.21 | N/A | XXX
77326 |  | A | Brachytx isodose calc simp | 0.93 | 2.66 | N/A | 0.15 | 3.74 | N/A | XXX
77326 | 26 | A | Brachytx isodose calc simp | 0.93 | 0.30 | 0.30 | 0.04 | 1.27 | 1.27 | XXX
77326 | TC | A | Brachytx isodose calc simp | 0.00 | 2.36 | N/A | 0.11 | 2.47 | N/A | XXX
77327 |  | A | Brachytx isodose calc interm | 1.39 | 3.92 | N/A | 0.21 | 5.52 | N/A | XXX
77327 | 26 | A | Brachytx isodose calc interm | 1.39 | 0.45 | 0.45 | 0.06 | 1.90 | 1.90 | XXX
77327 | TC | A | Brachytx isodose calc interm | 0.00 | 3.47 | N/A | 0.15 | 3.62 | N/A | XXX
77328 |  | A | Brachytx isodose plan compl | 2.09 | 5.64 | N/A | 0.30 | 8.03 | N/A | XXX
77328 | 26 | A | Brachytx isodose plan compl | 2.09 | 0.68 | 0.68 | 0.09 | 2.86 | 2.86 | XXX
77328 | TC | A | Brachytx isodose plan compl | 0.00 | 4.96 | N/A | 0.21 | 5.17 | N/A | XXX
77331 |  | A | Special radiation dosimetry | 0.87 | 0.78 | N/A | 0.06 | 1.71 | N/A | XXX
77331 | 26 | A | Special radiation dosimetry | 0.87 | 0.28 | 0.28 | 0.04 | 1.19 | 1.19 | XXX
77331 | TC | A | Special radiation dosimetry | 0.00 | 0.50 | N/A | 0.02 | 0.52 | N/A | XXX
77332 |  | A | Radiation treatment aid(s) | 0.54 | 1.52 | N/A | 0.08 | 2.14 | N/A | XXX
77332 | 26 | A | Radiation treatment aid(s) | 0.54 | 0.17 | 0.17 | 0.02 | 0.73 | 0.73 | XXX
77332 | TC | A | Radiation treatment aid(s) | 0.00 | 1.34 | N/A | 0.06 | 1.40 | N/A | XXX
77333 |  | A | Radiation treatment aid(s) | 0.84 | 2.17 | N/A | 0.13 | 3.14 | N/A | XXX
77333 | 26 | A | Radiation treatment aid(s) | 0.84 | 0.27 | 0.27 | 0.04 | 1.15 | 1.15 | XXX
77333 | TC | A | Radiation treatment aid(s) | 0.00 | 1.90 | N/A | 0.09 | 1.99 | N/A | XXX
77334 |  | A | Radiation treatment aid(s) | 1.24 | 3.65 | N/A | 0.19 | 5.08 | N/A | XXX
77334 | 26 | A | Radiation treatment aid(s) | 1.24 | 0.40 | 0.40 | 0.05 | 1.69 | 1.69 | XXX
77334 | TC | A | Radiation treatment aid(s) | 0.00 | 3.25 | N/A | 0.14 | 3.39 | N/A | XXX
77336 |  | A | Radiation physics consult | 0.00 | 2.98 | N/A | 0.13 | 3.11 | N/A | XXX
77370 |  | A | Radiation physics consult | 0.00 | 3.49 | N/A | 0.15 | 3.64 | N/A | XXX
77399 |  | C | External radiation dosimetry | 0.00 | 0.00 | 0.00 | 0.00 | 0.00 | 0.00 | XXX
77399 | 26 | C | External radiation dosimetry | 0.00 | 0.00 | 0.00 | 0.00 | 0.00 | 0.00 | XXX
77399 | TC | C | External radiation dosimetry | 0.00 | 0.00 | 0.00 | 0.00 | 0.00 | 0.00 | XXX
77401 |  | A | Radiation treatment delivery | 0.00 | 1.77 | N/A | 0.09 | 1.86 | N/A | XXX
77402 |  | A | Radiation treatment delivery | 0.00 | 1.77 | N/A | 0.09 | 1.86 | N/A | XXX
77403 |  | A | Radiation treatment delivery | 0.00 | 1.77 | N/A | 0.09 | 1.86 | N/A | XXX
77404 |  | A | Radiation treatment delivery | 0.00 | 1.77 | N/A | 0.09 | 1.86 | N/A | XXX
77406 |  | A | Radiation treatment delivery | 0.00 | 1.77 | N/A | 0.09 | 1.86 | N/A | XXX
77407 |  | A | Radiation treatment delivery | 0.00 | 2.09 | N/A | 0.10 | 2.19 | N/A | XXX
77408 |  | A | Radiation treatment delivery | 0.00 | 2.09 | N/A | 0.10 | 2.19 | N/A | XXX
77409 |  | A | Radiation treatment delivery | 0.00 | 2.09 | N/A | 0.10 | 2.19 | N/A | XXX
77411 |  | A | Radiation treatment delivery | 0.00 | 2.09 | N/A | 0.10 | 2.19 | N/A | XXX
77412 |  | A | Radiation treatment delivery | 0.00 | 2.33 | N/A | 0.11 | 2.44 | N/A | XXX
77413 |  | A | Radiation treatment delivery | 0.00 | 2.33 | N/A | 0.11 | 2.44 | N/A | XXX
77414 |  | A | Radiation treatment delivery | 0.00 | 2.33 | N/A | 0.11 | 2.44 | N/A | XXX
77416 |  | A | Radiation treatment delivery | 0.00 | 2.33 | N/A | 0.11 | 2.44 | N/A | XXX
77417 |  | A | Radiology port film(s) | 0.00 | 0.59 | N/A | 0.03 | 0.62 | N/A | XXX
77418 |  | A | Radiation tx delivery, imrt | 0.00 | 11.61 | N/A | 0.11 | 11.72 | N/A | XXX
77427 |  | A | Radiation tx management, x5 | 3.31 | 1.07 | 1.07 | 0.14 | 4.52 | 4.52 | XXX
77431 |  | A | Radiation therapy management | 1.81 | 0.69 | 0.69 | 0.07 | 2.57 | 2.57 | XXX
77432 |  | A | Stereotactic radiation trmt | 7.93 | 2.95 | 2.95 | 0.33 | 11.21 | 11.21 | XXX
77470 |  | A | Special radiation treatment | 2.09 | 11.82 | N/A | 0.58 | 14.49 | N/A | XXX
77470 | 26 | A | Special radiation treatment | 2.09 | 0.67 | 0.67 | 0.09 | 2.85 | 2.85 | XXX
77470 | TC | A | Special radiation treatment | 0.00 | 11.15 | N/A | 0.49 | 11.64 | N/A | XXX
77499 |  | C | Radiation therapy management | 0.00 | 0.00 | 0.00 | 0.00 | 0.00 | 0.00 | XXX
77499 | 26 | C | Radiation therapy management | 0.00 | 0.00 | 0.00 | 0.00 | 0.00 | 0.00 | XXX
77499 | TC | C | Radiation therapy management | 0.00 | 0.00 | 0.00 | 0.00 | 0.00 | 0.00 | XXX
77520 |  | C | Proton trmt, simple w/o comp | 0.00 | 0.00 | 0.00 | 0.00 | 0.00 | 0.00 | XXX
77522 |  | C | Proton trmt, simple w/comp | 0.00 | 0.00 | 0.00 | 0.00 | 0.00 | 0.00 | XXX
77523 |  | C | Proton trmt, intermediate | 0.00 | 0.00 | 0.00 | 0.00 | 0.00 | 0.00 | XXX
77525 |  | C | Proton treatment, complex | 0.00 | 0.00 | 0.00 | 0.00 | 0.00 | 0.00 | XXX
77600 |  | R | Hyperthermia treatment | 1.56 | 3.55 | N/A | 0.21 | 5.32 | N/A | XXX
77600 | 26 | R | Hyperthermia treatment | 1.56 | 0.50 | 0.50 | 0.08 | 2.14 | 2.14 | XXX
77600 | TC | R | Hyperthermia treatment | 0.00 | 3.05 | N/A | 0.13 | 3.18 | N/A | XXX
77605 |  | R | Hyperthermia treatment | 2.09 | 4.73 | N/A | 0.31 | 7.13 | N/A | XXX
77605 | 26 | R | Hyperthermia treatment | 2.09 | 0.67 | 0.67 | 0.13 | 2.89 | 2.89 | XXX
77605 | TC | R | Hyperthermia treatment | 0.00 | 4.06 | N/A | 0.18 | 4.24 | N/A | XXX
77610 |  | R | Hyperthermia treatment | 1.56 | 3.56 | N/A | 0.20 | 5.32 | N/A | XXX
77610 | 26 | R | Hyperthermia treatment | 1.56 | 0.52 | 0.52 | 0.07 | 2.15 | 2.15 | XXX
77610 | TC | R | Hyperthermia treatment | 0.00 | 3.05 | N/A | 0.13 | 3.18 | N/A | XXX
77615 |  | R | Hyperthermia treatment | 2.09 | 4.73 | N/A | 0.27 | 7.09 | N/A | XXX
77615 | 26 | R | Hyperthermia treatment | 2.09 | 0.67 | 0.67 | 0.09 | 2.85 | 2.85 | XXX
77615 | TC | R | Hyperthermia treatment | 0.00 | 4.06 | N/A | 0.18 | 4.24 | N/A | XXX
77620 |  | R | Hyperthermia treatment | 1.56 | 3.57 | N/A | 0.19 | 5.32 | N/A | XXX
77620 | 26 | R | Hyperthermia treatment | 1.56 | 0.53 | 0.53 | 0.06 | 2.15 | 2.15 | XXX
77620 | TC | R | Hyperthermia treatment | 0.00 | 3.05 | N/A | 0.13 | 3.18 | N/A | XXX
77750 |  | A | Infuse radioactive materials | 4.91 | 2.93 | N/A | 0.23 | 8.07 | N/A | 090
77750 | 26 | A | Infuse radioactive materials | 4.91 | 1.60 | 1.60 | 0.17 | 6.68 | 6.68 | 090
77750 | TC | A | Infuse radioactive materials | 0.00 | 1.33 | N/A | 0.06 | 1.39 | N/A | 090
77761 |  | A | Apply intrcav radiat simple | 3.81 | 3.62 | N/A | 0.28 | 7.71 | N/A | 090
77761 | 26 | A | Apply intrcav radiat simple | 3.81 | 1.11 | 1.11 | 0.16 | 5.08 | 5.08 | 090
77761 | TC | A | Apply intrcav radiat simple | 0.00 | 2.50 | N/A | 0.12 | 2.62 | N/A | 090
77762 |  | A | Apply intrcav radiat interm | 5.72 | 5.46 | N/A | 0.38 | 11.56 | N/A | 090
77762 | 26 | A | Apply intrcav radiat interm | 5.72 | 1.86 | 1.86 | 0.22 | 7.80 | 7.80 | 090
77762 | TC | A | Apply intrcav radiat interm | 0.00 | 3.61 | N/A | 0.16 | 3.77 | N/A | 090
77763 |  | A | Apply intrcav radiat compl | 8.57 | 7.26 | N/A | 0.53 | 16.36 | N/A | 090
77763 | 26 | A | Apply intrcav radiat compl | 8.57 | 2.77 | 2.77 | 0.34 | 11.68 | 11.68 | 090
77763 | TC | A | Apply intrcav radiat compl | 0.00 | 4.49 | N/A | 0.19 | 4.68 | N/A | 090
77776 |  | A | Apply interstit radiat simpl | 4.66 | 3.14 | N/A | 0.35 | 8.15 | N/A | 090
77776 | 26 | A | Apply interstit radiat simpl | 4.66 | 0.97 | 0.97 | 0.24 | 5.87 | 5.87 | 090
77776 | TC | A | Apply interstit radiat simpl | 0.00 | 2.18 | N/A | 0.11 | 2.29 | N/A | 090
77777 |  | A | Apply interstit radiat inter | 7.48 | 6.63 | N/A | 0.50 | 14.61 | N/A | 090
77777 | 26 | A | Apply interstit radiat inter | 7.48 | 2.39 | 2.39 | 0.32 | 10.19 | 10.19 | 090
77777 | TC | A | Apply interstit radiat inter | 0.00 | 4.24 | N/A | 0.18 | 4.42 | N/A | 090
77778 |  | A | Apply interstit radiat compl | 11.19 | 8.74 | N/A | 0.69 | 20.62 | N/A | 090
77778 | 26 | A | Apply interstit radiat compl | 11.19 | 3.61 | 3.61 | 0.47 | 15.27 | 15.27 | 090
77778 | TC | A | Apply interstit radiat compl | 0.00 | 5.14 | N/A | 0.22 | 5.36 | N/A | 090
77781 |  | A | High intensity brachytherapy | 1.66 | 20.85 | N/A | 0.95 | 23.46 | N/A | 090
77781 | 26 | A | High intensity brachytherapy | 1.66 | 0.54 | 0.54 | 0.07 | 2.27 | 2.27 | 090
77781 | TC | A | High intensity brachytherapy | 0.00 | 20.31 | N/A | 0.88 | 21.19 | N/A | 090
77782 |  | A | High intensity brachytherapy | 2.49 | 21.11 | N/A | 0.98 | 24.58 | N/A | 090
77782 | 26 | A | High intensity brachytherapy | 2.49 | 0.81 | 0.81 | 0.10 | 3.40 | 3.40 | 090
77782 | TC | A | High intensity brachytherapy | 0.00 | 20.31 | N/A | 0.88 | 21.19 | N/A | 090
77783 |  | A | High intensity brachytherapy | 3.73 | 21.51 | N/A | 1.03 | 26.27 | N/A | 090
77783 | 26 | A | High intensity brachytherapy | 3.73 | 1.20 | 1.20 | 0.15 | 5.08 | 5.08 | 090
77783 | TC | A | High intensity brachytherapy | 0.00 | 20.31 | N/A | 0.88 | 21.19 | N/A | 090
77784 |  | A | High intensity brachytherapy | 5.61 | 22.11 | N/A | 1.10 | 28.82 | N/A | 090
77784 | 26 | A | High intensity brachytherapy | 5.61 | 1.81 | 1.81 | 0.22 | 7.64 | 7.64 | 090
77784 | TC | A | High intensity brachytherapy | 0.00 | 20.31 | N/A | 0.88 | 21.19 | N/A | 090
77789 |  | A | Apply surface radiation | 1.12 | 0.83 | N/A | 0.05 | 2.00 | N/A | 000
77789 | 26 | A | Apply surface radiation | 1.12 | 0.37 | 0.37 | 0.03 | 1.52 | 1.52 | 000
77789 | TC | A | Apply surface radiation | 0.00 | 0.45 | N/A | 0.02 | 0.47 | N/A | 000
77790 |  | A | Radiation handling | 1.05 | 0.84 | N/A | 0.06 | 1.95 | N/A | XXX
77790 | 26 | A | Radiation handling | 1.05 | 0.34 | 0.34 | 0.04 | 1.43 | 1.43 | XXX
77790 | TC | A | Radiation handling | 0.00 | 0.50 | N/A | 0.02 | 0.52 | N/A | XXX
77799 |  | C | Radium/radioisotope therapy | 0.00 | 0.00 | 0.00 | 0.00 | 0.00 | 0.00 | XXX
77799 | 26 | C | Radium/radioisotope therapy | 0.00 | 0.00 | 0.00 | 0.00 | 0.00 | 0.00 | XXX
77799 | TC | C | Radium/radioisotope therapy | 0.00 | 0.00 | 0.00 | 0.00 | 0.00 | 0.00 | XXX
78000 |  | A | Thyroid, single uptake | 0.19 | 1.03 | N/A | 0.06 | 1.28 | N/A | XXX
78000 | 26 | A | Thyroid, single uptake | 0.19 | 0.07 | 0.07 | 0.01 | 0.27 | 0.27 | XXX
78000 | TC | A | Thyroid, single uptake | 0.00 | 0.97 | N/A | 0.05 | 1.02 | N/A | XXX
78001 |  | A | Thyroid, multiple uptakes | 0.26 | 1.40 | N/A | 0.07 | 1.73 | N/A | XXX
78001 | 26 | A | Thyroid, multiple uptakes | 0.26 | 0.09 | 0.09 | 0.01 | 0.36 | 0.36 | XXX
78001 | TC | A | Thyroid, multiple uptakes | 0.00 | 1.31 | N/A | 0.06 | 1.37 | N/A | XXX
78003 |  | A | Thyroid suppress/stimul | 0.33 | 1.08 | N/A | 0.06 | 1.47 | N/A | XXX
78003 | 26 | A | Thyroid suppress/stimul | 0.33 | 0.11 | 0.11 | 0.01 | 0.45 | 0.45 | XXX
78003 | TC | A | Thyroid suppress/stimul | 0.00 | 0.97 | N/A | 0.05 | 1.02 | N/A | XXX
78006 |  | A | Thyroid imaging with uptake | 0.49 | 2.55 | N/A | 0.13 | 3.17 | N/A | XXX
78006 | 26 | A | Thyroid imaging with uptake | 0.49 | 0.17 | 0.17 | 0.02 | 0.68 | 0.68 | XXX
78006 | TC | A | Thyroid imaging with uptake | 0.00 | 2.38 | N/A | 0.11 | 2.49 | N/A | XXX
78007 |  | A | Thyroid image, mult uptakes | 0.50 | 2.74 | N/A | 0.14 | 3.38 | N/A | XXX
78007 | 26 | A | Thyroid image, mult uptakes | 0.50 | 0.17 | 0.17 | 0.02 | 0.69 | 0.69 | XXX
78007 | TC | A | Thyroid image, mult uptakes | 0.00 | 2.57 | N/A | 0.12 | 2.69 | N/A | XXX
78010 |  | A | Thyroid imaging | 0.39 | 1.95 | N/A | 0.11 | 2.45 | N/A | XXX
78010 | 26 | A | Thyroid imaging | 0.39 | 0.13 | 0.13 | 0.02 | 0.54 | 0.54 | XXX
78010 | TC | A | Thyroid imaging | 0.00 | 1.82 | N/A | 0.09 | 1.91 | N/A | XXX
78011 |  | A | Thyroid imaging with flow | 0.45 | 2.56 | N/A | 0.13 | 3.14 | N/A | XXX
78011 | 26 | A | Thyroid imaging with flow | 0.45 | 0.16 | 0.16 | 0.02 | 0.63 | 0.63 | XXX
78011 | TC | A | Thyroid imaging with flow | 0.00 | 2.41 | N/A | 0.11 | 2.52 | N/A | XXX
78015 |  | A | Thyroid met imaging | 0.67 | 2.80 | N/A | 0.15 | 3.62 | N/A | XXX
78015 | 26 | A | Thyroid met imaging | 0.67 | 0.23 | 0.23 | 0.03 | 0.93 | 0.93 | XXX
78015 | TC | A | Thyroid met imaging | 0.00 | 2.57 | N/A | 0.12 | 2.69 | N/A | XXX
78016 |  | A | Thyroid met imaging/studies | 0.82 | 3.77 | N/A | 0.18 | 4.77 | N/A | XXX
78016 | 26 | A | Thyroid met imaging/studies | 0.82 | 0.29 | 0.29 | 0.03 | 1.14 | 1.14 | XXX
78016 | TC | A | Thyroid met imaging/studies | 0.00 | 3.48 | N/A | 0.15 | 3.63 | N/A | XXX
78018 |  | A | Thyroid met imaging, body | 0.86 | 5.73 | N/A | 0.27 | 6.86 | N/A | XXX
78018 | 26 | A | Thyroid met imaging, body | 0.86 | 0.30 | 0.30 | 0.03 | 1.19 | 1.19 | XXX
78018 | TC | A | Thyroid met imaging, body | 0.00 | 5.43 | N/A | 0.24 | 5.67 | N/A | XXX
78020 |  | A | Thyroid met uptake | 0.60 | 1.52 | N/A | 0.14 | 2.26 | N/A | ZZZ
78020 | 26 | A | Thyroid met uptake | 0.60 | 0.21 | 0.21 | 0.02 | 0.83 | 0.83 | ZZZ
78020 | TC | A | Thyroid met uptake | 0.00 | 1.31 | N/A | 0.12 | 1.43 | N/A | ZZZ
78070 |  | A | Parathyroid nuclear imaging | 0.82 | 2.10 | N/A | 0.12 | 3.04 | N/A | XXX
78070 | 26 | A | Parathyroid nuclear imaging | 0.82 | 0.28 | 0.28 | 0.03 | 1.13 | 1.13 | XXX
78070 | TC | A | Parathyroid nuclear imaging | 0.00 | 1.82 | N/A | 0.09 | 1.91 | N/A | XXX
78075 |  | A | Adrenal nuclear imaging | 0.74 | 5.69 | N/A | 0.27 | 6.70 | N/A | XXX
78075 | 26 | A | Adrenal nuclear imaging | 0.74 | 0.27 | 0.27 | 0.03 | 1.04 | 1.04 | XXX
78075 | TC | A | Adrenal nuclear imaging | 0.00 | 5.43 | N/A | 0.24 | 5.67 | N/A | XXX
78099 |  | C | Endocrine nuclear procedure | 0.00 | 0.00 | 0.00 | 0.00 | 0.00 | 0.00 | XXX
78099 | 26 | C | Endocrine nuclear procedure | 0.00 | 0.00 | 0.00 | 0.00 | 0.00 | 0.00 | XXX
78099 | TC | C | Endocrine nuclear procedure | 0.00 | 0.00 | 0.00 | 0.00 | 0.00 | 0.00 | XXX
78102 |  | A | Bone marrow imaging, ltd | 0.55 | 2.24 | N/A | 0.12 | 2.91 | N/A | XXX
78102 | 26 | A | Bone marrow imaging, ltd | 0.55 | 0.20 | 0.20 | 0.02 | 0.77 | 0.77 | XXX
78102 | TC | A | Bone marrow imaging, ltd | 0.00 | 2.04 | N/A | 0.10 | 2.14 | N/A | XXX
78103 |  | A | Bone marrow imaging, mult | 0.75 | 3.43 | N/A | 0.17 | 4.35 | N/A | XXX
78103 | 26 | A | Bone marrow imaging, mult | 0.75 | 0.26 | 0.26 | 0.03 | 1.04 | 1.04 | XXX
78103 | TC | A | Bone marrow imaging, mult | 0.00 | 3.17 | N/A | 0.14 | 3.31 | N/A | XXX
78104 |  | A | Bone marrow imaging, body | 0.80 | 4.35 | N/A | 0.21 | 5.36 | N/A | XXX
78104 | 26 | A | Bone marrow imaging, body | 0.80 | 0.28 | 0.28 | 0.03 | 1.11 | 1.11 | XXX
78104 | TC | A | Bone marrow imaging, body | 0.00 | 4.07 | N/A | 0.18 | 4.25 | N/A | XXX
78110 |  | A | Plasma volume, single | 0.19 | 1.02 | N/A | 0.06 | 1.27 | N/A | XXX
78110 | 26 | A | Plasma volume, single | 0.19 | 0.07 | 0.07 | 0.01 | 0.27 | 0.27 | XXX
78110 | TC | A | Plasma volume, single | 0.00 | 0.95 | N/A | 0.05 | 1.00 | N/A | XXX
78111 |  | A | Plasma volume, multiple | 0.22 | 2.65 | N/A | 0.13 | 3.00 | N/A | XXX
78111 | 26 | A | Plasma volume, multiple | 0.22 | 0.08 | 0.08 | 0.01 | 0.31 | 0.31 | XXX
78111 | TC | A | Plasma volume, multiple | 0.00 | 2.57 | N/A | 0.12 | 2.69 | N/A | XXX
78120 |  | A | Red cell mass, single | 0.23 | 1.81 | N/A | 0.10 | 2.14 | N/A | XXX
78120 | 26 | A | Red cell mass, single | 0.23 | 0.08 | 0.08 | 0.01 | 0.32 | 0.32 | XXX
78120 | TC | A | Red cell mass, single | 0.00 | 1.73 | N/A | 0.09 | 1.82 | N/A | XXX
78121 |  | A | Red cell mass, multiple | 0.32 | 3.03 | N/A | 0.13 | 3.48 | N/A | XXX
78121 | 26 | A | Red cell mass, multiple | 0.32 | 0.12 | 0.12 | 0.01 | 0.45 | 0.45 | XXX
78121 | TC | A | Red cell mass, multiple | 0.00 | 2.91 | N/A | 0.12 | 3.03 | N/A | XXX
78122 |  | A | Blood volume | 0.45 | 4.76 | N/A | 0.22 | 5.43 | N/A | XXX
78122 | 26 | A | Blood volume | 0.45 | 0.16 | 0.16 | 0.02 | 0.63 | 0.63 | XXX
78122 | TC | A | Blood volume | 0.00 | 4.60 | N/A | 0.20 | 4.80 | N/A | XXX
78130 |  | A | Red cell survival study | 0.61 | 3.07 | N/A | 0.15 | 3.83 | N/A | XXX
78130 | 26 | A | Red cell survival study | 0.61 | 0.21 | 0.21 | 0.03 | 0.85 | 0.85 | XXX
78130 | TC | A | Red cell survival study | 0.00 | 2.85 | N/A | 0.12 | 2.97 | N/A | XXX
78135 |  | A | Red cell survival kinetics | 0.64 | 5.10 | N/A | 0.24 | 5.98 | N/A | XXX
78135 | 26 | A | Red cell survival kinetics | 0.64 | 0.22 | 0.22 | 0.03 | 0.89 | 0.89 | XXX
78135 | TC | A | Red cell survival kinetics | 0.00 | 4.87 | N/A | 0.21 | 5.08 | N/A | XXX
78140 |  | A | Red cell sequestration | 0.61 | 4.14 | N/A | 0.20 | 4.95 | N/A | XXX
78140 | 26 | A | Red cell sequestration | 0.61 | 0.21 | 0.21 | 0.03 | 0.85 | 0.85 | XXX
78140 | TC | A | Red cell sequestration | 0.00 | 3.94 | N/A | 0.17 | 4.11 | N/A | XXX
78160 |  | A | Plasma iron turnover | 0.33 | 3.79 | N/A | 0.19 | 4.31 | N/A | XXX
78160 | 26 | A | Plasma iron turnover | 0.33 | 0.12 | 0.12 | 0.03 | 0.48 | 0.48 | XXX
78160 | TC | A | Plasma iron turnover | 0.00 | 3.67 | N/A | 0.16 | 3.83 | N/A | XXX
78162 |  | A | Radioiron absorption exam | 0.45 | 3.39 | N/A | 0.15 | 3.99 | N/A | XXX
78162 | 26 | A | Radioiron absorption exam | 0.45 | 0.19 | 0.19 | 0.01 | 0.65 | 0.65 | XXX
78162 | TC | A | Radioiron absorption exam | 0.00 | 3.20 | N/A | 0.14 | 3.34 | N/A | XXX
78170 |  | A | Red cell iron utilization | 0.41 | 5.45 | N/A | 0.27 | 6.13 | N/A | XXX
78170 | 26 | A | Red cell iron utilization | 0.41 | 0.14 | 0.14 | 0.04 | 0.59 | 0.59 | XXX
78170 | TC | A | Red cell iron utilization | 0.00 | 5.31 | N/A | 0.23 | 5.54 | N/A | XXX
78172 |  | C | Total body iron estimation | 0.00 | 0.00 | 0.00 | 0.00 | 0.00 | 0.00 | XXX
78172 | 26 | A | Total body iron estimation | 0.53 | 0.18 | 0.18 | 0.02 | 0.73 | 0.73 | XXX
78172 | TC | C | Total body iron estimation | 0.00 | 0.00 | 0.00 | 0.00 | 0.00 | 0.00 | XXX
78185 |  | A | Spleen imaging | 0.40 | 2.50 | N/A | 0.13 | 3.03 | N/A | XXX
78185 | 26 | A | Spleen imaging | 0.40 | 0.14 | 0.14 | 0.02 | 0.56 | 0.56 | XXX
78185 | TC | A | Spleen imaging | 0.00 | 2.36 | N/A | 0.11 | 2.47 | N/A | XXX
78190 |  | A | Platelet survival, kinetics | 1.09 | 6.10 | N/A | 0.31 | 7.50 | N/A | XXX
78190 | 26 | A | Platelet survival, kinetics | 1.09 | 0.39 | 0.39 | 0.06 | 1.54 | 1.54 | XXX
78190 | TC | A | Platelet survival, kinetics | 0.00 | 5.72 | N/A | 0.25 | 5.97 | N/A | XXX
78191 |  | A | Platelet survival | 0.61 | 7.55 | N/A | 0.34 | 8.50 | N/A | XXX
78191 | 26 | A | Platelet survival | 0.61 | 0.21 | 0.21 | 0.03 | 0.85 | 0.85 | XXX
78191 | TC | A | Platelet survival | 0.00 | 7.34 | N/A | 0.31 | 7.65 | N/A | XXX
78195 |  | A | Lymph system imaging | 1.20 | 4.49 | N/A | 0.23 | 5.92 | N/A | XXX
78195 | 26 | A | Lymph system imaging | 1.20 | 0.42 | 0.42 | 0.05 | 1.67 | 1.67 | XXX
78195 | TC | A | Lymph system imaging | 0.00 | 4.07 | N/A | 0.18 | 4.25 | N/A | XXX
78199 |  | C | Blood/lymph nuclear exam | 0.00 | 0.00 | 0.00 | 0.00 | 0.00 | 0.00 | XXX
78199 | 26 | C | Blood/lymph nuclear exam | 0.00 | 0.00 | 0.00 | 0.00 | 0.00 | 0.00 | XXX
78199 | TC | C | Blood/lymph nuclear exam | 0.00 | 0.00 | 0.00 | 0.00 | 0.00 | 0.00 | XXX
78201 |  | A | Liver imaging | 0.44 | 2.51 | N/A | 0.13 | 3.08 | N/A | XXX
78201 | 26 | A | Liver imaging | 0.44 | 0.15 | 0.15 | 0.02 | 0.61 | 0.61 | XXX
78201 | TC | A | Liver imaging | 0.00 | 2.36 | N/A | 0.11 | 2.47 | N/A | XXX
78202 |  | A | Liver imaging with flow | 0.51 | 3.06 | N/A | 0.14 | 3.71 | N/A | XXX
78202 | 26 | A | Liver imaging with flow | 0.51 | 0.18 | 0.18 | 0.02 | 0.71 | 0.71 | XXX
78202 | TC | A | Liver imaging with flow | 0.00 | 2.88 | N/A | 0.12 | 3.00 | N/A | XXX
78205 |  | A | Liver imaging (3D) | 0.71 | 6.16 | N/A | 0.29 | 7.16 | N/A | XXX
78205 | 26 | A | Liver imaging (3D) | 0.71 | 0.25 | 0.25 | 0.03 | 0.99 | 0.99 | XXX
78205 | TC | A | Liver imaging (3D) | 0.00 | 5.91 | N/A | 0.26 | 6.17 | N/A | XXX
78206 |  | A | Liver image (3d) with flow | 0.96 | 6.25 | N/A | 0.13 | 7.34 | N/A | XXX
78206 | 26 | A | Liver image (3d) with flow | 0.96 | 0.34 | 0.34 | 0.04 | 1.34 | 1.34 | XXX
78206 | TC | A | Liver image (3d) with flow | 0.00 | 5.91 | N/A | 0.09 | 6.00 | N/A | XXX
78215 |  | A | Liver and spleen imaging | 0.49 | 3.11 | N/A | 0.14 | 3.74 | N/A | XXX
78215 | 26 | A | Liver and spleen imaging | 0.49 | 0.17 | 0.17 | 0.02 | 0.68 | 0.68 | XXX
78215 | TC | A | Liver and spleen imaging | 0.00 | 2.94 | N/A | 0.12 | 3.06 | N/A | XXX
78216 |  | A | Liver & spleen image/flow | 0.57 | 3.68 | N/A | 0.17 | 4.42 | N/A | XXX
78216 | 26 | A | Liver & spleen image/flow | 0.57 | 0.20 | 0.20 | 0.02 | 0.79 | 0.79 | XXX
78216 | TC | A | Liver & spleen image/flow | 0.00 | 3.48 | N/A | 0.15 | 3.63 | N/A | XXX
78220 |  | A | Liver function study | 0.49 | 3.89 | N/A | 0.18 | 4.56 | N/A | XXX
78220 | 26 | A | Liver function study | 0.49 | 0.17 | 0.17 | 0.02 | 0.68 | 0.68 | XXX
78220 | TC | A | Liver function study | 0.00 | 3.72 | N/A | 0.16 | 3.88 | N/A | XXX
78223 |  | A | Hepatobiliary imaging | 0.84 | 3.95 | N/A | 0.20 | 4.99 | N/A | XXX
78223 | 26 | A | Hepatobiliary imaging | 0.84 | 0.29 | 0.29 | 0.04 | 1.17 | 1.17 | XXX
78223 | TC | A | Hepatobiliary imaging | 0.00 | 3.67 | N/A | 0.16 | 3.83 | N/A | XXX
78230 |  | A | Salivary gland imaging | 0.45 | 2.33 | N/A | 0.13 | 2.91 | N/A | XXX
78230 | 26 | A | Salivary gland imaging | 0.45 | 0.15 | 0.15 | 0.02 | 0.62 | 0.62 | XXX
78230 | TC | A | Salivary gland imaging | 0.00 | 2.18 | N/A | 0.11 | 2.29 | N/A | XXX
78231 |  | A | Serial salivary imaging | 0.52 | 3.36 | N/A | 0.16 | 4.04 | N/A | XXX
78231 | 26 | A | Serial salivary imaging | 0.52 | 0.19 | 0.19 | 0.02 | 0.73 | 0.73 | XXX
78231 | TC | A | Serial salivary imaging | 0.00 | 3.17 | N/A | 0.14 | 3.31 | N/A | XXX
78232 |  | A | Salivary gland function exam | 0.47 | 3.71 | N/A | 0.16 | 4.34 | N/A | XXX
78232 | 26 | A | Salivary gland function exam | 0.47 | 0.17 | 0.17 | 0.01 | 0.65 | 0.65 | XXX
78232 | TC | A | Salivary gland function exam | 0.00 | 3.54 | N/A | 0.15 | 3.69 | N/A | XXX
78258 |  | A | Esophageal motility study | 0.74 | 3.13 | N/A | 0.15 | 4.02 | N/A | XXX
78258 | 26 | A | Esophageal motility study | 0.74 | 0.25 | 0.25 | 0.03 | 1.02 | 1.02 | XXX
78258 | TC | A | Esophageal motility study | 0.00 | 2.88 | N/A | 0.12 | 3.00 | N/A | XXX
78261 |  | A | Gastric mucosa imaging | 0.69 | 4.35 | N/A | 0.21 | 5.25 | N/A | XXX
78261 | 26 | A | Gastric mucosa imaging | 0.69 | 0.25 | 0.25 | 0.03 | 0.97 | 0.97 | XXX
78261 | TC | A | Gastric mucosa imaging | 0.00 | 4.10 | N/A | 0.18 | 4.28 | N/A | XXX
78262 |  | A | Gastroesophageal reflux exam | 0.68 | 4.49 | N/A | 0.21 | 5.38 | N/A | XXX
78262 | 26 | A | Gastroesophageal reflux exam | 0.68 | 0.24 | 0.24 | 0.03 | 0.95 | 0.95 | XXX
78262 | TC | A | Gastroesophageal reflux exam | 0.00 | 4.26 | N/A | 0.18 | 4.44 | N/A | XXX
78264 |  | A | Gastric emptying study | 0.78 | 4.40 | N/A | 0.21 | 5.39 | N/A | XXX
78264 | 26 | A | Gastric emptying study | 0.78 | 0.27 | 0.27 | 0.03 | 1.08 | 1.08 | XXX
78264 | TC | A | Gastric emptying study | 0.00 | 4.13 | N/A | 0.18 | 4.31 | N/A | XXX
78270 |  | A | Vit B-12 absorption exam | 0.20 | 1.62 | N/A | 0.09 | 1.91 | N/A | XXX
78270 | 26 | A | Vit B-12 absorption exam | 0.20 | 0.07 | 0.07 | 0.01 | 0.28 | 0.28 | XXX
78270 | TC | A | Vit B-12 absorption exam | 0.00 | 1.55 | N/A | 0.08 | 1.63 | N/A | XXX
78271 |  | A | Vit b-12 absrp exam, int fac | 0.20 | 1.71 | N/A | 0.09 | 2.00 | N/A | XXX
78271 | 26 | A | Vit b-12 absrp exam, int fac | 0.20 | 0.07 | 0.07 | 0.01 | 0.28 | 0.28 | XXX
78271 | TC | A | Vit b-12 absrp exam, int fac | 0.00 | 1.64 | N/A | 0.08 | 1.72 | N/A | XXX
78272 |  | A | Vit B-12 absorp, combined | 0.27 | 2.42 | N/A | 0.12 | 2.81 | N/A | XXX
78272 | 26 | A | Vit B-12 absorp, combined | 0.27 | 0.10 | 0.10 | 0.01 | 0.38 | 0.38 | XXX
78272 | TC | A | Vit B-12 absorp, combined | 0.00 | 2.32 | N/A | 0.11 | 2.43 | N/A | XXX
78278 |  | A | Acute GI blood loss imaging | 0.99 | 5.21 | N/A | 0.25 | 6.45 | N/A | XXX
78278 | 26 | A | Acute GI blood loss imaging | 0.99 | 0.34 | 0.34 | 0.04 | 1.37 | 1.37 | XXX
78278 | TC | A | Acute GI blood loss imaging | 0.00 | 4.87 | N/A | 0.21 | 5.08 | N/A | XXX
78282 |  | C | GI protein loss exam | 0.00 | 0.00 | 0.00 | 0.00 | 0.00 | 0.00 | XXX
78282 | 26 | A | GI protein loss exam | 0.38 | 0.13 | 0.13 | 0.02 | 0.53 | 0.53 | XXX
78282 | TC | C | GI protein loss exam | 0.00 | 0.00 | 0.00 | 0.00 | 0.00 | 0.00 | XXX
78290 |  | A | Meckel's divert exam | 0.68 | 3.28 | N/A | 0.16 | 4.12 | N/A | XXX
78290 | 26 | A | Meckel's divert exam | 0.68 | 0.23 | 0.23 | 0.03 | 0.94 | 0.94 | XXX
78290 | TC | A | Meckel's divert exam | 0.00 | 3.05 | N/A | 0.13 | 3.18 | N/A | XXX
78291 |  | A | Leveen/shunt patency exam | 0.88 | 3.37 | N/A | 0.17 | 4.42 | N/A | XXX
78291 | 26 | A | Leveen/shunt patency exam | 0.88 | 0.31 | 0.31 | 0.04 | 1.23 | 1.23 | XXX
78291 | TC | A | Leveen/shunt patency exam | 0.00 | 3.07 | N/A | 0.13 | 3.20 | N/A | XXX
78299 |  | C | GI nuclear procedure | 0.00 | 0.00 | 0.00 | 0.00 | 0.00 | 0.00 | XXX
78299 | 26 | C | GI nuclear procedure | 0.00 | 0.00 | 0.00 | 0.00 | 0.00 | 0.00 | XXX
78299 | TC | C | GI nuclear procedure | 0.00 | 0.00 | 0.00 | 0.00 | 0.00 | 0.00 | XXX
78300 |  | A | Bone imaging, limited area | 0.62 | 2.70 | N/A | 0.15 | 3.47 | N/A | XXX
78300 | 26 | A | Bone imaging, limited area | 0.62 | 0.21 | 0.21 | 0.03 | 0.86 | 0.86 | XXX
78300 | TC | A | Bone imaging, limited area | 0.00 | 2.49 | N/A | 0.12 | 2.61 | N/A | XXX
78305 |  | A | Bone imaging, multiple areas | 0.83 | 3.95 | N/A | 0.19 | 4.97 | N/A | XXX
78305 | 26 | A | Bone imaging, multiple areas | 0.83 | 0.28 | 0.28 | 0.03 | 1.14 | 1.14 | XXX
78305 | TC | A | Bone imaging, multiple areas | 0.00 | 3.67 | N/A | 0.16 | 3.83 | N/A | XXX
78306 |  | A | Bone imaging, whole body | 0.86 | 4.57 | N/A | 0.22 | 5.65 | N/A | XXX
78306 | 26 | A | Bone imaging, whole body | 0.86 | 0.29 | 0.29 | 0.04 | 1.19 | 1.19 | XXX
78306 | TC | A | Bone imaging, whole body | 0.00 | 4.27 | N/A | 0.18 | 4.45 | N/A | XXX
78315 |  | A | Bone imaging, 3 phase | 1.02 | 5.13 | N/A | 0.25 | 6.40 | N/A | XXX
78315 | 26 | A | Bone imaging, 3 phase | 1.02 | 0.35 | 0.35 | 0.04 | 1.41 | 1.41 | XXX
78315 | TC | A | Bone imaging, 3 phase | 0.00 | 4.78 | N/A | 0.21 | 4.99 | N/A | XXX
78320 |  | A | Bone imaging (3D) | 1.04 | 6.28 | N/A | 0.30 | 7.62 | N/A | XXX
78320 | 26 | A | Bone imaging (3D) | 1.04 | 0.37 | 0.37 | 0.04 | 1.45 | 1.45 | XXX
78320 | TC | A | Bone imaging (3D) | 0.00 | 5.91 | N/A | 0.26 | 6.17 | N/A | XXX
78350 |  | A | Bone mineral, single photon | 0.22 | 0.83 | N/A | 0.05 | 1.10 | N/A | XXX
78350 | 26 | A | Bone mineral, single photon | 0.22 | 0.08 | 0.08 | 0.01 | 0.31 | 0.31 | XXX
78350 | TC | A | Bone mineral, single photon | 0.00 | 0.75 | N/A | 0.04 | 0.79 | N/A | XXX
78351 |  | N | Bone mineral, dual photon | 0.30 | 1.76 | 0.12 | 0.01 | 2.07 | 0.43 | XXX
78399 |  | C | Musculoskeletal nuclear exam | 0.00 | 0.00 | 0.00 | 0.00 | 0.00 | 0.00 | XXX
78399 | 26 | C | Musculoskeletal nuclear exam | 0.00 | 0.00 | 0.00 | 0.00 | 0.00 | 0.00 | XXX
78399 | TC | C | Musculoskeletal nuclear exam | 0.00 | 0.00 | 0.00 | 0.00 | 0.00 | 0.00 | XXX
78414 |  | C | Non-imaging heart function | 0.00 | 0.00 | 0.00 | 0.00 | 0.00 | 0.00 | XXX
78414 | 26 | A | Non-imaging heart function | 0.45 | 0.16 | 0.16 | 0.02 | 0.63 | 0.63 | XXX
78414 | TC | C | Non-imaging heart function | 0.00 | 0.00 | 0.00 | 0.00 | 0.00 | 0.00 | XXX
78428 |  | A | Cardiac shunt imaging | 0.78 | 2.55 | N/A | 0.14 | 3.47 | N/A | XXX
78428 | 26 | A | Cardiac shunt imaging | 0.78 | 0.30 | 0.30 | 0.03 | 1.11 | 1.11 | XXX
78428 | TC | A | Cardiac shunt imaging | 0.00 | 2.25 | N/A | 0.11 | 2.36 | N/A | XXX
78445 |  | A | Vascular flow imaging | 0.49 | 2.03 | N/A | 0.11 | 2.63 | N/A | XXX
78445 | 26 | A | Vascular flow imaging | 0.49 | 0.17 | 0.17 | 0.02 | 0.68 | 0.68 | XXX
78445 | TC | A | Vascular flow imaging | 0.00 | 1.86 | N/A | 0.09 | 1.95 | N/A | XXX
78455 |  | A | Venous thrombosis study | 0.73 | 4.24 | N/A | 0.20 | 5.17 | N/A | XXX
78455 | 26 | A | Venous thrombosis study | 0.73 | 0.25 | 0.25 | 0.03 | 1.01 | 1.01 | XXX
78455 | TC | A | Venous thrombosis study | 0.00 | 3.98 | N/A | 0.17 | 4.15 | N/A | XXX
78456 |  | A | Acute venous thrombus image | 1.00 | 4.34 | N/A | 0.28 | 5.62 | N/A | XXX
78456 | 26 | A | Acute venous thrombus image | 1.00 | 0.35 | 0.35 | 0.04 | 1.39 | 1.39 | XXX
78456 | TC | A | Acute venous thrombus image | 0.00 | 3.98 | N/A | 0.24 | 4.22 | N/A | XXX
78457 |  | A | Venous thrombosis imaging | 0.77 | 2.92 | N/A | 0.15 | 3.84 | N/A | XXX
78457 | 26 | A | Venous thrombosis imaging | 0.77 | 0.27 | 0.27 | 0.03 | 1.07 | 1.07 | XXX
78457 | TC | A | Venous thrombosis imaging | 0.00 | 2.66 | N/A | 0.12 | 2.78 | N/A | XXX
78458 |  | A | Ven thrombosis images, bilat | 0.90 | 4.35 | N/A | 0.20 | 5.45 | N/A | XXX
78458 | 26 | A | Ven thrombosis images, bilat | 0.90 | 0.33 | 0.33 | 0.03 | 1.26 | 1.26 | XXX
78458 | TC | A | Ven thrombosis images, bilat | 0.00 | 4.02 | N/A | 0.17 | 4.19 | N/A | XXX
78459 |  | C | Heart muscle imaging (PET) | 0.00 | 0.00 | 0.00 | 0.00 | 0.00 | 0.00 | XXX
78459 | 26 | R | Heart muscle imaging (PET) | 1.50 | 0.58 | 0.58 | 0.04 | 2.12 | 2.12 | XXX
78459 | TC | C | Heart muscle imaging (PET) | 0.00 | 0.00 | 0.00 | 0.00 | 0.00 | 0.00 | XXX
78460 |  | A | Heart muscle blood, single | 0.86 | 2.66 | N/A | 0.14 | 3.66 | N/A | XXX
78460 | 26 | A | Heart muscle blood, single | 0.86 | 0.30 | 0.30 | 0.03 | 1.19 | 1.19 | XXX
78460 | TC | A | Heart muscle blood, single | 0.00 | 2.36 | N/A | 0.11 | 2.47 | N/A | XXX
78461 |  | A | Heart muscle blood, multiple | 1.23 | 5.16 | N/A | 0.26 | 6.65 | N/A | XXX
78461 | 26 | A | Heart muscle blood, multiple | 1.23 | 0.44 | 0.44 | 0.05 | 1.72 | 1.72 | XXX
78461 | TC | A | Heart muscle blood, multiple | 0.00 | 4.72 | N/A | 0.21 | 4.93 | N/A | XXX
78464 |  | A | Heart image (3d), single | 1.09 | 7.46 | N/A | 0.35 | 8.90 | N/A | XXX
78464 | 26 | A | Heart image (3d), single | 1.09 | 0.39 | 0.39 | 0.04 | 1.52 | 1.52 | XXX
78464 | TC | A | Heart image (3d), single | 0.00 | 7.07 | N/A | 0.31 | 7.38 | N/A | XXX
78465 |  | A | Heart image (3d), multiple | 1.46 | 12.33 | N/A | 0.56 | 14.35 | N/A | XXX
78465 | 26 | A | Heart image (3d), multiple | 1.46 | 0.53 | 0.53 | 0.05 | 2.04 | 2.04 | XXX
78465 | TC | A | Heart image (3d), multiple | 0.00 | 11.80 | N/A | 0.51 | 12.31 | N/A | XXX
78466 |  | A | Heart infarct image | 0.69 | 2.87 | N/A | 0.15 | 3.71 | N/A | XXX
78466 | 26 | A | Heart infarct image | 0.69 | 0.25 | 0.25 | 0.03 | 0.97 | 0.97 | XXX
78466 | TC | A | Heart infarct image | 0.00 | 2.62 | N/A | 0.12 | 2.74 | N/A | XXX
78468 |  | A | Heart infarct image (ef) | 0.80 | 3.95 | N/A | 0.19 | 4.94 | N/A | XXX
78468 | 26 | A | Heart infarct image (ef) | 0.80 | 0.28 | 0.28 | 0.03 | 1.11 | 1.11 | XXX
78468 | TC | A | Heart infarct image (ef) | 0.00 | 3.67 | N/A | 0.16 | 3.83 | N/A | XXX
78469 |  | A | Heart infarct image (3D) | 0.92 | 5.54 | N/A | 0.26 | 6.72 | N/A | XXX
78469 | 26 | A | Heart infarct image (3D) | 0.92 | 0.32 | 0.32 | 0.03 | 1.27 | 1.27 | XXX
78469 | TC | A | Heart infarct image (3D) | 0.00 | 5.22 | N/A | 0.23 | 5.45 | N/A | XXX
78472 |  | A | Gated heart, planar, single | 0.98 | 5.86 | N/A | 0.29 | 7.13 | N/A | XXX
78472 | 26 | A | Gated heart, planar, single | 0.98 | 0.35 | 0.35 | 0.04 | 1.37 | 1.37 | XXX
78472 | TC | A | Gated heart, planar, single | 0.00 | 5.51 | N/A | 0.25 | 5.76 | N/A | XXX
78473 |  | A | Gated heart, multiple | 1.47 | 8.78 | N/A | 0.40 | 10.65 | N/A | XXX
78473 | 26 | A | Gated heart, multiple | 1.47 | 0.52 | 0.52 | 0.05 | 2.04 | 2.04 | XXX
78473 | TC | A | Gated heart, multiple | 0.00 | 8.26 | N/A | 0.35 | 8.61 | N/A | XXX
78478 |  | A | Heart wall motion add-on | 0.62 | 1.79 | N/A | 0.10 | 2.51 | N/A | XXX
78478 | 26 | A | Heart wall motion add-on | 0.62 | 0.23 | 0.23 | 0.02 | 0.87 | 0.87 | XXX
78478 | TC | A | Heart wall motion add-on | 0.00 | 1.56 | N/A | 0.08 | 1.64 | N/A | XXX
78480 |  | A | Heart function add-on | 0.62 | 1.79 | N/A | 0.10 | 2.51 | N/A | XXX
78480 | 26 | A | Heart function add-on | 0.62 | 0.23 | 0.23 | 0.02 | 0.87 | 0.87 | XXX
78480 | TC | A | Heart function add-on | 0.00 | 1.56 | N/A | 0.08 | 1.64 | N/A | XXX
78481 |  | A | Heart first pass, single | 0.98 | 5.59 | N/A | 0.26 | 6.83 | N/A | XXX
78481 | 26 | A | Heart first pass, single | 0.98 | 0.37 | 0.37 | 0.03 | 1.38 | 1.38 | XXX
78481 | TC | A | Heart first pass, single | 0.00 | 5.22 | N/A | 0.23 | 5.45 | N/A | XXX
78483 |  | A | Heart first pass, multiple | 1.47 | 8.42 | N/A | 0.39 | 10.28 | N/A | XXX
78483 | 26 | A | Heart first pass, multiple | 1.47 | 0.55 | 0.55 | 0.05 | 2.07 | 2.07 | XXX
78483 | TC | A | Heart first pass, multiple | 0.00 | 7.87 | N/A | 0.34 | 8.21 | N/A | XXX
78491 |  | I | Heart image (pet), single | 0.00 | 0.00 | 0.00 | 0.00 | 0.00 | 0.00 | XXX
78491 | 26 | I | Heart image (pet), single | 1.50 | 0.60 | 0.60 | 0.05 | 2.15 | 2.15 | XXX
78491 | TC | I | Heart image (pet), single | 0.00 | 0.00 | 0.00 | 0.00 | 0.00 | 0.00 | XXX
78492 |  | I | Heart image (pet), multiple | 0.00 | 0.00 | 0.00 | 0.00 | 0.00 | 0.00 | XXX
78492 | 26 | I | Heart image (pet), multiple | 1.87 | 0.75 | 0.75 | 0.06 | 2.68 | 2.68 | XXX
78492 | TC | I | Heart image (pet), multiple | 0.00 | 0.00 | 0.00 | 0.00 | 0.00 | 0.00 | XXX
78494 |  | A | Heart image, spect | 1.19 | 7.49 | N/A | 0.29 | 8.97 | N/A | XXX
78494 | 26 | A | Heart image, spect | 1.19 | 0.43 | 0.43 | 0.04 | 1.66 | 1.66 | XXX
78494 | TC | A | Heart image, spect | 0.00 | 7.07 | N/A | 0.25 | 7.32 | N/A | XXX
78496 |  | A | Heart first pass add-on | 0.50 | 7.25 | N/A | 0.27 | 8.02 | N/A | ZZZ
78496 | 26 | A | Heart first pass add-on | 0.50 | 0.19 | 0.19 | 0.02 | 0.71 | 0.71 | ZZZ
78496 | TC | A | Heart first pass add-on | 0.00 | 7.07 | N/A | 0.25 | 7.32 | N/A | ZZZ
78499 |  | C | Cardiovascular nuclear exam | 0.00 | 0.00 | 0.00 | 0.00 | 0.00 | 0.00 | XXX
78499 | 26 | C | Cardiovascular nuclear exam | 0.00 | 0.00 | 0.00 | 0.00 | 0.00 | 0.00 | XXX
78499 | TC | C | Cardiovascular nuclear exam | 0.00 | 0.00 | 0.00 | 0.00 | 0.00 | 0.00 | XXX
78580 |  | A | Lung perfusion imaging | 0.74 | 3.69 | N/A | 0.18 | 4.61 | N/A | XXX
78580 | 26 | A | Lung perfusion imaging | 0.74 | 0.25 | 0.25 | 0.03 | 1.02 | 1.02 | XXX
78580 | TC | A | Lung perfusion imaging | 0.00 | 3.43 | N/A | 0.15 | 3.58 | N/A | XXX
78584 |  | A | Lung V/Q image single breath | 0.99 | 3.53 | N/A | 0.18 | 4.70 | N/A | XXX
78584 | 26 | A | Lung V/Q image single breath | 0.99 | 0.33 | 0.33 | 0.04 | 1.36 | 1.36 | XXX
78584 | TC | A | Lung V/Q image single breath | 0.00 | 3.20 | N/A | 0.14 | 3.34 | N/A | XXX
78585 |  | A | Lung V/Q imaging | 1.09 | 6.01 | N/A | 0.30 | 7.40 | N/A | XXX
78585 | 26 | A | Lung V/Q imaging | 1.09 | 0.37 | 0.37 | 0.05 | 1.51 | 1.51 | XXX
78585 | TC | A | Lung V/Q imaging | 0.00 | 5.64 | N/A | 0.25 | 5.89 | N/A | XXX
78586 |  | A | Aerosol lung image, single | 0.40 | 2.73 | N/A | 0.14 | 3.27 | N/A | XXX
78586 | 26 | A | Aerosol lung image, single | 0.40 | 0.13 | 0.13 | 0.02 | 0.55 | 0.55 | XXX
78586 | TC | A | Aerosol lung image, single | 0.00 | 2.59 | N/A | 0.12 | 2.71 | N/A | XXX
78587 |  | A | Aerosol lung image, multiple | 0.49 | 2.97 | N/A | 0.14 | 3.60 | N/A | XXX
78587 | 26 | A | Aerosol lung image, multiple | 0.49 | 0.17 | 0.17 | 0.02 | 0.68 | 0.68 | XXX
78587 | TC | A | Aerosol lung image, multiple | 0.00 | 2.80 | N/A | 0.12 | 2.92 | N/A | XXX
78588 |  | A | Perfusion lung image | 1.09 | 3.57 | N/A | 0.20 | 4.86 | N/A | XXX
78588 | 26 | A | Perfusion lung image | 1.09 | 0.37 | 0.37 | 0.05 | 1.51 | 1.51 | XXX
78588 | TC | A | Perfusion lung image | 0.00 | 3.20 | N/A | 0.15 | 3.35 | N/A | XXX
78591 |  | A | Vent image, 1 breath, 1 proj | 0.40 | 2.99 | N/A | 0.14 | 3.53 | N/A | XXX
78591 | 26 | A | Vent image, 1 breath, 1 proj | 0.40 | 0.14 | 0.14 | 0.02 | 0.56 | 0.56 | XXX
78591 | TC | A | Vent image, 1 breath, 1 proj | 0.00 | 2.85 | N/A | 0.12 | 2.97 | N/A | XXX
78593 |  | A | Vent image, 1 proj, gas | 0.49 | 3.62 | N/A | 0.17 | 4.28 | N/A | XXX
78593 | 26 | A | Vent image, 1 proj, gas | 0.49 | 0.17 | 0.17 | 0.02 | 0.68 | 0.68 | XXX
78593 | TC | A | Vent image, 1 proj, gas | 0.00 | 3.45 | N/A | 0.15 | 3.60 | N/A | XXX
78594 |  | A | Vent image, mult proj, gas | 0.53 | 5.17 | N/A | 0.23 | 5.93 | N/A | XXX
78594 | 26 | A | Vent image, mult proj, gas | 0.53 | 0.18 | 0.18 | 0.02 | 0.73 | 0.73 | XXX
78594 | TC | A | Vent image, mult proj, gas | 0.00 | 4.98 | N/A | 0.21 | 5.19 | N/A | XXX
78596 |  | A | Lung differential function | 1.27 | 7.50 | N/A | 0.36 | 9.13 | N/A | XXX
78596 | 26 | A | Lung differential function | 1.27 | 0.43 | 0.43 | 0.05 | 1.75 | 1.75 | XXX
78596 | TC | A | Lung differential function | 0.00 | 7.07 | N/A | 0.31 | 7.38 | N/A | XXX
78599 |  | C | Respiratory nuclear exam | 0.00 | 0.00 | 0.00 | 0.00 | 0.00 | 0.00 | XXX
78599 | 26 | C | Respiratory nuclear exam | 0.00 | 0.00 | 0.00 | 0.00 | 0.00 | 0.00 | XXX
78599 | TC | C | Respiratory nuclear exam | 0.00 | 0.00 | 0.00 | 0.00 | 0.00 | 0.00 | XXX
78600 |  | A | Brain imaging, ltd static | 0.44 | 3.04 | N/A | 0.14 | 3.62 | N/A | XXX
78600 | 26 | A | Brain imaging, ltd static | 0.44 | 0.16 | 0.16 | 0.02 | 0.62 | 0.62 | XXX
78600 | TC | A | Brain imaging, ltd static | 0.00 | 2.88 | N/A | 0.12 | 3.00 | N/A | XXX
78601 |  | A | Brain imaging, ltd w/ flow | 0.51 | 3.58 | N/A | 0.17 | 4.26 | N/A | XXX
78601 | 26 | A | Brain imaging, ltd w/ flow | 0.51 | 0.18 | 0.18 | 0.02 | 0.71 | 0.71 | XXX
78601 | TC | A | Brain imaging, ltd w/ flow | 0.00 | 3.40 | N/A | 0.15 | 3.55 | N/A | XXX
78605 |  | A | Brain imaging, complete | 0.53 | 3.59 | N/A | 0.17 | 4.29 | N/A | XXX
78605 | 26 | A | Brain imaging, complete | 0.53 | 0.19 | 0.19 | 0.02 | 0.74 | 0.74 | XXX
78605 | TC | A | Brain imaging, complete | 0.00 | 3.40 | N/A | 0.15 | 3.55 | N/A | XXX
78606 |  | A | Brain imaging, compl w/flow | 0.64 | 4.09 | N/A | 0.20 | 4.93 | N/A | XXX
78606 | 26 | A | Brain imaging, compl w/flow | 0.64 | 0.22 | 0.22 | 0.03 | 0.89 | 0.89 | XXX
78606 | TC | A | Brain imaging, compl w/flow | 0.00 | 3.87 | N/A | 0.17 | 4.04 | N/A | XXX
78607 |  | A | Brain imaging (3D) | 1.23 | 7.00 | N/A | 0.34 | 8.57 | N/A | XXX
78607 | 26 | A | Brain imaging (3D) | 1.23 | 0.44 | 0.44 | 0.05 | 1.72 | 1.72 | XXX
78607 | TC | A | Brain imaging (3D) | 0.00 | 6.56 | N/A | 0.29 | 6.85 | N/A | XXX
78608 |  | N | Brain imaging (PET) | 0.00 | 0.00 | 0.00 | 0.00 | 0.00 | 0.00 | XXX
78610 |  | A | Brain flow imaging only | 0.30 | 1.69 | N/A | 0.09 | 2.08 | N/A | XXX
78610 | 26 | A | Brain flow imaging only | 0.30 | 0.11 | 0.11 | 0.01 | 0.42 | 0.42 | XXX
78610 | TC | A | Brain flow imaging only | 0.00 | 1.58 | N/A | 0.08 | 1.66 | N/A | XXX
78615 |  | A | Cerebral vascular flow image | 0.42 | 4.00 | N/A | 0.19 | 4.61 | N/A | XXX
78615 | 26 | A | Cerebral vascular flow image | 0.42 | 0.16 | 0.16 | 0.02 | 0.60 | 0.60 | XXX
78615 | TC | A | Cerebral vascular flow image | 0.00 | 3.85 | N/A | 0.17 | 4.02 | N/A | XXX
78630 |  | A | Cerebrospinal fluid scan | 0.68 | 5.27 | N/A | 0.25 | 6.20 | N/A | XXX
78630 | 26 | A | Cerebrospinal fluid scan | 0.68 | 0.23 | 0.23 | 0.03 | 0.94 | 0.94 | XXX
78630 | TC | A | Cerebrospinal fluid scan | 0.00 | 5.04 | N/A | 0.22 | 5.26 | N/A | XXX
78635 |  | A | CSF ventriculography | 0.61 | 2.78 | N/A | 0.14 | 3.53 | N/A | XXX
78635 | 26 | A | CSF ventriculography | 0.61 | 0.24 | 0.24 | 0.02 | 0.87 | 0.87 | XXX
78635 | TC | A | CSF ventriculography | 0.00 | 2.54 | N/A | 0.12 | 2.66 | N/A | XXX
78645 |  | A | CSF shunt evaluation | 0.57 | 3.63 | N/A | 0.17 | 4.37 | N/A | XXX
78645 | 26 | A | CSF shunt evaluation | 0.57 | 0.20 | 0.20 | 0.02 | 0.79 | 0.79 | XXX
78645 | TC | A | CSF shunt evaluation | 0.00 | 3.43 | N/A | 0.15 | 3.58 | N/A | XXX
78647 |  | A | Cerebrospinal fluid scan | 0.90 | 6.23 | N/A | 0.29 | 7.42 | N/A | XXX
78647 | 26 | A | Cerebrospinal fluid scan | 0.90 | 0.32 | 0.32 | 0.03 | 1.25 | 1.25 | XXX
78647 | TC | A | Cerebrospinal fluid scan | 0.00 | 5.91 | N/A | 0.26 | 6.17 | N/A | XXX
78650 |  | A | CSF leakage imaging | 0.61 | 4.86 | N/A | 0.22 | 5.69 | N/A | XXX
78650 | 26 | A | CSF leakage imaging | 0.61 | 0.21 | 0.21 | 0.02 | 0.84 | 0.84 | XXX
78650 | TC | A | CSF leakage imaging | 0.00 | 4.64 | N/A | 0.20 | 4.84 | N/A | XXX
78660 |  | A | Nuclear exam of tear flow | 0.53 | 2.30 | N/A | 0.12 | 2.95 | N/A | XXX
78660 | 26 | A | Nuclear exam of tear flow | 0.53 | 0.18 | 0.18 | 0.02 | 0.73 | 0.73 | XXX
78660 | TC | A | Nuclear exam of tear flow | 0.00 | 2.12 | N/A | 0.10 | 2.22 | N/A | XXX
78699 |  | C | Nervous system nuclear exam | 0.00 | 0.00 | 0.00 | 0.00 | 0.00 | 0.00 | XXX
78699 | 26 | C | Nervous system nuclear exam | 0.00 | 0.00 | 0.00 | 0.00 | 0.00 | 0.00 | XXX
78699 | TC | C | Nervous system nuclear exam | 0.00 | 0.00 | 0.00 | 0.00 | 0.00 | 0.00 | XXX
78700 |  | A | Kidney imaging, static | 0.45 | 3.20 | N/A | 0.15 | 3.80 | N/A | XXX
78700 | 26 | A | Kidney imaging, static | 0.45 | 0.15 | 0.15 | 0.02 | 0.62 | 0.62 | XXX
78700 | TC | A | Kidney imaging, static | 0.00 | 3.05 | N/A | 0.13 | 3.18 | N/A | XXX
78701 |  | A | Kidney imaging with flow | 0.49 | 3.73 | N/A | 0.17 | 4.39 | N/A | XXX
78701 | 26 | A | Kidney imaging with flow | 0.49 | 0.17 | 0.17 | 0.02 | 0.68 | 0.68 | XXX
78701 | TC | A | Kidney imaging with flow | 0.00 | 3.56 | N/A | 0.15 | 3.71 | N/A | XXX
78704 |  | A | Imaging renogram | 0.74 | 4.21 | N/A | 0.20 | 5.15 | N/A | XXX
78704 | 26 | A | Imaging renogram | 0.74 | 0.25 | 0.25 | 0.03 | 1.02 | 1.02 | XXX
78704 | TC | A | Imaging renogram | 0.00 | 3.96 | N/A | 0.17 | 4.13 | N/A | XXX
78707 |  | A | Kidney flow/function image | 0.96 | 4.80 | N/A | 0.23 | 5.99 | N/A | XXX
78707 | 26 | A | Kidney flow/function image | 0.96 | 0.33 | 0.33 | 0.04 | 1.33 | 1.33 | XXX
78707 | TC | A | Kidney flow/function image | 0.00 | 4.47 | N/A | 0.19 | 4.66 | N/A | XXX
78708 |  | A | Kidney flow/function image | 1.21 | 4.89 | N/A | 0.24 | 6.34 | N/A | XXX
78708 | 26 | A | Kidney flow/function image | 1.21 | 0.42 | 0.42 | 0.05 | 1.68 | 1.68 | XXX
78708 | TC | A | Kidney flow/function image | 0.00 | 4.47 | N/A | 0.19 | 4.66 | N/A | XXX
78709 |  | A | Kidney flow/function image | 1.41 | 4.95 | N/A | 0.25 | 6.61 | N/A | XXX
78709 | 26 | A | Kidney flow/function image | 1.41 | 0.48 | 0.48 | 0.06 | 1.95 | 1.95 | XXX
78709 | TC | A | Kidney flow/function image | 0.00 | 4.47 | N/A | 0.19 | 4.66 | N/A | XXX
78710 |  | A | Kidney imaging (3D) | 0.66 | 6.13 | N/A | 0.29 | 7.08 | N/A | XXX
78710 | 26 | A | Kidney imaging (3D) | 0.66 | 0.23 | 0.23 | 0.03 | 0.92 | 0.92 | XXX
78710 | TC | A | Kidney imaging (3D) | 0.00 | 5.91 | N/A | 0.26 | 6.17 | N/A | XXX
78715 |  | A | Renal vascular flow exam | 0.30 | 1.69 | N/A | 0.09 | 2.08 | N/A | XXX
78715 | 26 | A | Renal vascular flow exam | 0.30 | 0.11 | 0.11 | 0.01 | 0.42 | 0.42 | XXX
78715 | TC | A | Renal vascular flow exam | 0.00 | 1.58 | N/A | 0.08 | 1.66 | N/A | XXX
78725 |  | A | Kidney function study | 0.38 | 1.91 | N/A | 0.10 | 2.39 | N/A | XXX
78725 | 26 | A | Kidney function study | 0.38 | 0.13 | 0.13 | 0.01 | 0.52 | 0.52 | XXX
78725 | TC | A | Kidney function study | 0.00 | 1.78 | N/A | 0.09 | 1.87 | N/A | XXX
78730 |  | A | Urinary bladder retention | 0.36 | 1.59 | N/A | 0.09 | 2.04 | N/A | XXX
78730 | 26 | A | Urinary bladder retention | 0.36 | 0.13 | 0.13 | 0.02 | 0.51 | 0.51 | XXX
78730 | TC | A | Urinary bladder retention | 0.00 | 1.46 | N/A | 0.07 | 1.53 | N/A | XXX
78740 |  | A | Ureteral reflux study | 0.57 | 2.31 | N/A | 0.12 | 3.00 | N/A | XXX
78740 | 26 | A | Ureteral reflux study | 0.57 | 0.19 | 0.19 | 0.02 | 0.78 | 0.78 | XXX
78740 | TC | A | Ureteral reflux study | 0.00 | 2.12 | N/A | 0.10 | 2.22 | N/A | XXX
78760 |  | A | Testicular imaging | 0.66 | 2.90 | N/A | 0.15 | 3.71 | N/A | XXX
78760 | 26 | A | Testicular imaging | 0.66 | 0.22 | 0.22 | 0.03 | 0.91 | 0.91 | XXX
78760 | TC | A | Testicular imaging | 0.00 | 2.68 | N/A | 0.12 | 2.80 | N/A | XXX
78761 |  | A | Testicular imaging/flow | 0.71 | 3.44 | N/A | 0.17 | 4.32 | N/A | XXX
78761 | 26 | A | Testicular imaging/flow | 0.71 | 0.24 | 0.24 | 0.03 | 0.98 | 0.98 | XXX
78761 | TC | A | Testicular imaging/flow | 0.00 | 3.20 | N/A | 0.14 | 3.34 | N/A | XXX
78799 |  | C | Genitourinary nuclear exam | 0.00 | 0.00 | 0.00 | 0.00 | 0.00 | 0.00 | XXX
78799 | 26 | C | Genitourinary nuclear exam | 0.00 | 0.00 | 0.00 | 0.00 | 0.00 | 0.00 | XXX
78799 | TC | C | Genitourinary nuclear exam | 0.00 | 0.00 | 0.00 | 0.00 | 0.00 | 0.00 | XXX
78800 |  | A | Tumor imaging, limited area | 0.66 | 3.63 | N/A | 0.18 | 4.47 | N/A | XXX
78800 | 26 | A | Tumor imaging, limited area | 0.66 | 0.22 | 0.22 | 0.03 | 0.91 | 0.91 | XXX
78800 | TC | A | Tumor imaging, limited area | 0.00 | 3.40 | N/A | 0.15 | 3.55 | N/A | XXX
78801 |  | A | Tumor imaging, mult areas | 0.79 | 4.50 | N/A | 0.21 | 5.50 | N/A | XXX
78801 | 26 | A | Tumor imaging, mult areas | 0.79 | 0.27 | 0.27 | 0.03 | 1.09 | 1.09 | XXX
78801 | TC | A | Tumor imaging, mult areas | 0.00 | 4.23 | N/A | 0.18 | 4.41 | N/A | XXX
78802 |  | A | Tumor imaging, whole body | 0.86 | 5.83 | N/A | 0.28 | 6.97 | N/A | XXX
78802 | 26 | A | Tumor imaging, whole body | 0.86 | 0.30 | 0.30 | 0.03 | 1.19 | 1.19 | XXX
78802 | TC | A | Tumor imaging, whole body | 0.00 | 5.53 | N/A | 0.25 | 5.78 | N/A | XXX
78803 |  | A | Tumor imaging (3D) | 1.09 | 6.95 | N/A | 0.33 | 8.37 | N/A | XXX
78803 | 26 | A | Tumor imaging (3D) | 1.09 | 0.39 | 0.39 | 0.04 | 1.52 | 1.52 | XXX
78803 | TC | A | Tumor imaging (3D) | 0.00 | 6.56 | N/A | 0.29 | 6.85 | N/A | XXX
78805 |  | A | Abscess imaging, ltd area | 0.73 | 3.66 | N/A | 0.18 | 4.57 | N/A | XXX
78805 | 26 | A | Abscess imaging, ltd area | 0.73 | 0.26 | 0.26 | 0.03 | 1.02 | 1.02 | XXX
78805 | TC | A | Abscess imaging, ltd area | 0.00 | 3.40 | N/A | 0.15 | 3.55 | N/A | XXX
78806 |  | A | Abscess imaging, whole body | 0.86 | 6.73 | N/A | 0.32 | 7.91 | N/A | XXX
78806 | 26 | A | Abscess imaging, whole body | 0.86 | 0.30 | 0.30 | 0.03 | 1.19 | 1.19 | XXX
78806 | TC | A | Abscess imaging, whole body | 0.00 | 6.43 | N/A | 0.29 | 6.72 | N/A | XXX
78807 |  | A | Nuclear localization/abscess | 1.09 | 6.96 | N/A | 0.33 | 8.38 | N/A | XXX
78807 | 26 | A | Nuclear localization/abscess | 1.09 | 0.40 | 0.40 | 0.04 | 1.53 | 1.53 | XXX
78807 | TC | A | Nuclear localization/abscess | 0.00 | 6.56 | N/A | 0.29 | 6.85 | N/A | XXX
78810 | 26 | N | Tumor imaging (PET) | 1.93 | 0.75 | 0.75 | 0.09 | 2.77 | 2.77 | XXX
78890 |  | B | Nuclear medicine data proc | 0.05 | 1.32 | N/A | 0.06 | 1.43 | N/A | XXX
78890 | 26 | B | Nuclear medicine data proc | 0.05 | 0.02 | 0.02 | 0.01 | 0.08 | 0.08 | XXX
78890 | TC | B | Nuclear medicine data proc | 0.00 | 1.31 | N/A | 0.05 | 1.36 | N/A | XXX
78891 |  | B | Nuclear med data proc | 0.10 | 2.66 | N/A | 0.12 | 2.88 | N/A | XXX
78891 | 26 | B | Nuclear med data proc | 0.10 | 0.04 | 0.04 | 0.01 | 0.15 | 0.15 | XXX
78891 | TC | B | Nuclear med data proc | 0.00 | 2.62 | N/A | 0.11 | 2.73 | N/A | XXX
78990 |  | I | Provide diag radionuclide(s) | 0.00 | 0.00 | 0.00 | 0.00 | 0.00 | 0.00 | XXX
78999 |  | C | Nuclear diagnostic exam | 0.00 | 0.00 | 0.00 | 0.00 | 0.00 | 0.00 | XXX
78999 | 26 | C | Nuclear diagnostic exam | 0.00 | 0.00 | 0.00 | 0.00 | 0.00 | 0.00 | XXX
78999 | TC | C | Nuclear diagnostic exam | 0.00 | 0.00 | 0.00 | 0.00 | 0.00 | 0.00 | XXX
79000 |  | A | Init hyperthyroid therapy | 1.80 | 3.24 | N/A | 0.19 | 5.23 | N/A | XXX
79000 | 26 | A | Init hyperthyroid therapy | 1.80 | 0.62 | 0.62 | 0.07 | 2.49 | 2.49 | XXX
79000 | TC | A | Init hyperthyroid therapy | 0.00 | 2.62 | N/A | 0.12 | 2.74 | N/A | XXX
79001 |  | A | Repeat hyperthyroid therapy | 1.05 | 1.67 | N/A | 0.10 | 2.82 | N/A | XXX
79001 | 26 | A | Repeat hyperthyroid therapy | 1.05 | 0.36 | 0.36 | 0.04 | 1.45 | 1.45 | XXX
79001 | TC | A | Repeat hyperthyroid therapy | 0.00 | 1.31 | N/A | 0.06 | 1.37 | N/A | XXX
79020 |  | A | Thyroid ablation | 1.81 | 3.23 | N/A | 0.19 | 5.23 | N/A | XXX
79020 | 26 | A | Thyroid ablation | 1.81 | 0.61 | 0.61 | 0.07 | 2.49 | 2.49 | XXX
79020 | TC | A | Thyroid ablation | 0.00 | 2.62 | N/A | 0.12 | 2.74 | N/A | XXX
79030 |  | A | Thyroid ablation, carcinoma | 2.10 | 3.34 | N/A | 0.20 | 5.64 | N/A | XXX
79030 | 26 | A | Thyroid ablation, carcinoma | 2.10 | 0.72 | 0.72 | 0.08 | 2.90 | 2.90 | XXX
79030 | TC | A | Thyroid ablation, carcinoma | 0.00 | 2.62 | N/A | 0.12 | 2.74 | N/A | XXX
79035 |  | A | Thyroid metastatic therapy | 2.52 | 3.51 | N/A | 0.21 | 6.24 | N/A | XXX
79035 | 26 | A | Thyroid metastatic therapy | 2.52 | 0.89 | 0.89 | 0.09 | 3.50 | 3.50 | XXX
79035 | TC | A | Thyroid metastatic therapy | 0.00 | 2.62 | N/A | 0.12 | 2.74 | N/A | XXX
79100 |  | A | Hematopoetic nuclear therapy | 1.32 | 3.09 | N/A | 0.17 | 4.58 | N/A | XXX
79100 | 26 | A | Hematopoetic nuclear therapy | 1.32 | 0.47 | 0.47 | 0.05 | 1.84 | 1.84 | XXX
79100 | TC | A | Hematopoetic nuclear therapy | 0.00 | 2.62 | N/A | 0.12 | 2.74 | N/A | XXX
79200 |  | A | Intracavitary nuclear trmt | 1.99 | 3.33 | N/A | 0.19 | 5.51 | N/A | XXX
79200 | 26 | A | Intracavitary nuclear trmt | 1.99 | 0.71 | 0.71 | 0.07 | 2.77 | 2.77 | XXX
79200 | TC | A | Intracavitary nuclear trmt | 0.00 | 2.62 | N/A | 0.12 | 2.74 | N/A | XXX
79300 |  | C | Interstitial nuclear therapy | 0.00 | 0.00 | 0.00 | 0.00 | 0.00 | 0.00 | XXX
79300 | 26 | A | Interstitial nuclear therapy | 1.60 | 0.57 | 0.57 | 0.07 | 2.24 | 2.24 | XXX
79300 | TC | C | Interstitial nuclear therapy | 0.00 | 0.00 | 0.00 | 0.00 | 0.00 | 0.00 | XXX
79400 |  | A | Nonhemato nuclear therapy | 1.96 | 3.31 | N/A | 0.20 | 5.47 | N/A | XXX
79400 | 26 | A | Nonhemato nuclear therapy | 1.96 | 0.68 | 0.68 | 0.08 | 2.72 | 2.72 | XXX
79400 | TC | A | Nonhemato nuclear therapy | 0.00 | 2.62 | N/A | 0.12 | 2.74 | N/A | XXX
79420 |  | C | Intravascular nuclear ther | 0.00 | 0.00 | 0.00 | 0.00 | 0.00 | 0.00 | XXX
79420 | 26 | A | Intravascular nuclear ther | 1.51 | 0.50 | 0.50 | 0.06 | 2.07 | 2.07 | XXX
79420 | TC | C | Intravascular nuclear ther | 0.00 | 0.00 | 0.00 | 0.00 | 0.00 | 0.00 | XXX
79440 |  | A | Nuclear joint therapy | 1.99 | 3.36 | N/A | 0.20 | 5.55 | N/A | XXX
79440 | 26 | A | Nuclear joint therapy | 1.99 | 0.74 | 0.74 | 0.08 | 2.81 | 2.81 | XXX
79440 | TC | A | Nuclear joint therapy | 0.00 | 2.62 | N/A | 0.12 | 2.74 | N/A | XXX
79900 |  | C | Provide ther radiopharm(s) | 0.00 | 0.00 | 0.00 | 0.00 | 0.00 | 0.00 | XXX
79999 |  | C | Nuclear medicine therapy | 0.00 | 0.00 | 0.00 | 0.00 | 0.00 | 0.00 | XXX
79999 | 26 | C | Nuclear medicine therapy | 0.00 | 0.00 | 0.00 | 0.00 | 0.00 | 0.00 | XXX
79999 | TC | C | Nuclear medicine therapy | 0.00 | 0.00 | 0.00 | 0.00 | 0.00 | 0.00 | XXX
80055 |  | I | Obstetric panel | 0.00 | 0.00 | 0.00 | 0.00 | 0.00 | 0.00 | XXX
80500 |  | A | Lab pathology consultation | 0.37 | 0.22 | 0.16 | 0.01 | 0.60 | 0.54 | XXX
80502 |  | A | Lab pathology consultation | 1.33 | 0.64 | 0.59 | 0.05 | 2.02 | 1.97 | XXX
83020 | 26 | A | Hemoglobin electrophoresis | 0.37 | 0.16 | 0.16 | 0.01 | 0.54 | 0.54 | XXX
83912 | 26 | A | Genetic examination | 0.37 | 0.15 | 0.15 | 0.01 | 0.53 | 0.53 | XXX
84165 | 26 | A | Assay of serum proteins | 0.37 | 0.16 | 0.16 | 0.01 | 0.54 | 0.54 | XXX
84181 | 26 | A | Western blot test | 0.37 | 0.14 | 0.14 | 0.01 | 0.52 | 0.52 | XXX
84182 | 26 | A | Protein, western blot test | 0.37 | 0.17 | 0.17 | 0.01 | 0.55 | 0.55 | XXX
85060 |  | A | Blood smear interpretation | 0.45 | 0.19 | 0.19 | 0.02 | 0.66 | 0.66 | XXX
85097 |  | A | Bone marrow interpretation | 0.94 | 1.65 | 0.41 | 0.03 | 2.62 | 1.38 | XXX
85390 | 26 | A | Fibrinolysins screen | 0.37 | 0.12 | 0.12 | 0.01 | 0.50 | 0.50 | XXX
85576 | 26 | A | Blood platelet aggregation | 0.37 | 0.16 | 0.16 | 0.01 | 0.54 | 0.54 | XXX
86077 |  | A | Physician blood bank service | 0.94 | 0.47 | 0.41 | 0.03 | 1.44 | 1.38 | XXX
86078 |  | A | Physician blood bank service | 0.94 | 0.50 | 0.42 | 0.03 | 1.47 | 1.39 | XXX
86079 |  | A | Physician blood bank service | 0.94 | 0.50 | 0.42 | 0.03 | 1.47 | 1.39 | XXX
86255 | 26 | A | Fluorescent antibody, screen | 0.37 | 0.17 | 0.16 | 0.01 | 0.55 | 0.54 | XXX
86256 | 26 | A | Fluorescent antibody, titer | 0.37 | 0.16 | 0.16 | 0.01 | 0.54 | 0.54 | XXX
86320 | 26 | A | Serum immunoelectrophoresis | 0.37 | 0.16 | 0.16 | 0.01 | 0.54 | 0.54 | XXX
86325 | 26 | A | Other immunoelectrophoresis | 0.37 | 0.16 | 0.16 | 0.01 | 0.54 | 0.54 | XXX
86327 | 26 | A | Immunoelectrophoresis assay | 0.42 | 0.19 | 0.19 | 0.01 | 0.62 | 0.62 | XXX
86334 | 26 | A | Immunofixation procedure | 0.37 | 0.16 | 0.16 | 0.01 | 0.54 | 0.54 | XXX
86485 |  | C | Skin test, candida | 0.00 | 0.00 | 0.00 | 0.00 | 0.00 | 0.00 | XXX
86490 |  | A | Coccidioidomycosis skin test | 0.00 | 0.29 | N/A | 0.02 | 0.31 | N/A | XXX
86510 |  | A | Histoplasmosis skin test | 0.00 | 0.32 | N/A | 0.02 | 0.34 | N/A | XXX
86580 |  | A | TB intradermal test | 0.00 | 0.25 | N/A | 0.02 | 0.27 | N/A | XXX
86585 |  | A | TB tine test | 0.00 | 0.20 | N/A | 0.01 | 0.21 | N/A | XXX
86586 |  | C | Skin test, unlisted | 0.00 | 0.00 | 0.00 | 0.00 | 0.00 | 0.00 | XXX
87164 | 26 | A | Dark field examination | 0.37 | 0.12 | 0.12 | 0.01 | 0.50 | 0.50 | XXX
87207 | 26 | A | Smear, special stain | 0.37 | 0.17 | 0.16 | 0.01 | 0.55 | 0.54 | XXX
88104 |  | A | Cytopathology, fluids | 0.56 | 0.76 | N/A | 0.04 | 1.36 | N/A | XXX
88104 | 26 | A | Cytopathology, fluids | 0.56 | 0.25 | 0.25 | 0.02 | 0.83 | 0.83 | XXX
88104 | TC | A | Cytopathology, fluids | 0.00 | 0.51 | N/A | 0.02 | 0.53 | N/A | XXX
88106 |  | A | Cytopathology, fluids | 0.56 | 0.62 | N/A | 0.04 | 1.22 | N/A | XXX
88106 | 26 | A | Cytopathology, fluids | 0.56 | 0.25 | 0.25 | 0.02 | 0.83 | 0.83 | XXX
88106 | TC | A | Cytopathology, fluids | 0.00 | 0.37 | N/A | 0.02 | 0.39 | N/A | XXX
88107 |  | A | Cytopathology, fluids | 0.76 | 0.99 | N/A | 0.05 | 1.80 | N/A | XXX
88107 | 26 | A | Cytopathology, fluids | 0.76 | 0.34 | 0.34 | 0.03 | 1.13 | 1.13 | XXX
88107 | TC | A | Cytopathology, fluids | 0.00 | 0.65 | N/A | 0.02 | 0.67 | N/A | XXX
88108 |  | A | Cytopath, concentrate tech | 0.56 | 0.83 | N/A | 0.04 | 1.43 | N/A | XXX
88108 | 26 | A | Cytopath, concentrate tech | 0.56 | 0.25 | 0.25 | 0.02 | 0.83 | 0.83 | XXX
88108 | TC | A | Cytopath, concentrate tech | 0.00 | 0.58 | N/A | 0.02 | 0.60 | N/A | XXX
88125 |  | A | Forensic cytopathology | 0.26 | 0.26 | N/A | 0.02 | 0.54 | N/A | XXX
88125 | 26 | A | Forensic cytopathology | 0.26 | 0.12 | 0.12 | 0.01 | 0.39 | 0.39 | XXX
88125 | TC | A | Forensic cytopathology | 0.00 | 0.15 | N/A | 0.01 | 0.16 | N/A | XXX
88141 |  | A | Cytopath, c/v, interpret | 0.42 | 0.18 | 0.18 | 0.01 | 0.61 | 0.61 | XXX
88160 |  | A | Cytopath smear, other source | 0.50 | 0.94 | N/A | 0.04 | 1.48 | N/A | XXX
88160 | 26 | A | Cytopath smear, other source | 0.50 | 0.22 | 0.22 | 0.02 | 0.74 | 0.74 | XXX
88160 | TC | A | Cytopath smear, other source | 0.00 | 0.72 | N/A | 0.02 | 0.74 | N/A | XXX
88161 |  | A | Cytopath smear, other source | 0.50 | 0.89 | N/A | 0.04 | 1.43 | N/A | XXX
88161 | 26 | A | Cytopath smear, other source | 0.50 | 0.22 | 0.22 | 0.02 | 0.74 | 0.74 | XXX
88161 | TC | A | Cytopath smear, other source | 0.00 | 0.67 | N/A | 0.02 | 0.69 | N/A | XXX
88162 |  | A | Cytopath smear, other source | 0.76 | 0.69 | N/A | 0.05 | 1.50 | N/A | XXX
88162 | 26 | A | Cytopath smear, other source | 0.76 | 0.34 | 0.34 | 0.03 | 1.13 | 1.13 | XXX
88162 | TC | A | Cytopath smear, other source | 0.00 | 0.35 | N/A | 0.02 | 0.37 | N/A | XXX
88172 |  | A | Cytopathology eval of fna | 0.60 | 0.67 | N/A | 0.04 | 1.31 | N/A | XXX
88172 | 26 | A | Cytopathology eval of fna | 0.60 | 0.27 | 0.27 | 0.02 | 0.89 | 0.89 | XXX
88172 | TC | A | Cytopathology eval of fna | 0.00 | 0.40 | N/A | 0.02 | 0.42 | N/A | XXX
88173 |  | A | Cytopath eval, fna, report | 1.39 | 1.80 | N/A | 0.07 | 3.26 | N/A | XXX
88173 | 26 | A | Cytopath eval, fna, report | 1.39 | 0.62 | 0.62 | 0.05 | 2.06 | 2.06 | XXX
88173 | TC | A | Cytopath eval, fna, report | 0.00 | 1.18 | N/A | 0.02 | 1.20 | N/A | XXX
88180 |  | A | Cell marker study | 0.36 | 1.46 | N/A | 0.03 | 1.85 | N/A | XXX
88180 | 26 | A | Cell marker study | 0.36 | 0.16 | 0.16 | 0.01 | 0.53 | 0.53 | XXX
88180 | TC | A | Cell marker study | 0.00 | 1.30 | N/A | 0.02 | 1.32 | N/A | XXX
88182 |  | A | Cell marker study | 0.77 | 1.63 | N/A | 0.06 | 2.46 | N/A | XXX
88182 | 26 | A | Cell marker study | 0.77 | 0.34 | 0.34 | 0.03 | 1.14 | 1.14 | XXX
88182 | TC | A | Cell marker study | 0.00 | 1.28 | N/A | 0.03 | 1.31 | N/A | XXX
88199 |  | C | Cytopathology procedure | 0.00 | 0.00 | 0.00 | 0.00 | 0.00 | 0.00 | XXX
88199 | 26 | C | Cytopathology procedure | 0.00 | 0.00 | 0.00 | 0.00 | 0.00 | 0.00 | XXX
88199 | TC | C | Cytopathology procedure | 0.00 | 0.00 | 0.00 | 0.00 | 0.00 | 0.00 | XXX
88291 |  | A | Cyto/molecular report | 0.52 | 0.28 | 0.28 | 0.02 | 0.82 | 0.82 | XXX
88299 |  | C | Cytogenetic study | 0.00 | 0.00 | 0.00 | 0.00 | 0.00 | 0.00 | XXX
88300 |  | A | Surgical path, gross | 0.08 | 0.28 | N/A | 0.02 | 0.38 | N/A | XXX
88300 | 26 | A | Surgical path, gross | 0.08 | 0.04 | 0.04 | 0.01 | 0.13 | 0.13 | XXX
88300 | TC | A | Surgical path, gross | 0.00 | 0.25 | N/A | 0.01 | 0.26 | N/A | XXX
88302 |  | A | Tissue exam by pathologist | 0.13 | 0.71 | N/A | 0.03 | 0.87 | N/A | XXX
88302 | 26 | A | Tissue exam by pathologist | 0.13 | 0.06 | 0.06 | 0.01 | 0.20 | 0.20 | XXX
88302 | TC | A | Tissue exam by pathologist | 0.00 | 0.65 | N/A | 0.02 | 0.67 | N/A | XXX
88304 |  | A | Tissue exam by pathologist | 0.22 | 0.89 | N/A | 0.03 | 1.14 | N/A | XXX
88304 | 26 | A | Tissue exam by pathologist | 0.22 | 0.10 | 0.10 | 0.01 | 0.33 | 0.33 | XXX
88304 | TC | A | Tissue exam by pathologist | 0.00 | 0.79 | N/A | 0.02 | 0.81 | N/A | XXX
88305 |  | A | Tissue exam by pathologist | 0.75 | 1.77 | N/A | 0.05 | 2.57 | N/A | XXX
88305 | 26 | A | Tissue exam by pathologist | 0.75 | 0.34 | 0.34 | 0.02 | 1.11 | 1.11 | XXX
88305 | TC | A | Tissue exam by pathologist | 0.00 | 1.43 | N/A | 0.03 | 1.46 | N/A | XXX
88307 |  | A | Tissue exam by pathologist | 1.59 | 2.71 | N/A | 0.11 | 4.41 | N/A | XXX
88307 | 26 | A | Tissue exam by pathologist | 1.59 | 0.71 | 0.71 | 0.06 | 2.36 | 2.36 | XXX
88307 | TC | A | Tissue exam by pathologist | 0.00 | 2.00 | N/A | 0.05 | 2.05 | N/A | XXX
88309 |  | A | Tissue exam by pathologist | 2.28 | 3.32 | N/A | 0.13 | 5.73 | N/A | XXX
88309 | 26 | A | Tissue exam by pathologist | 2.28 | 1.01 | 1.01 | 0.08 | 3.37 | 3.37 | XXX
88309 | TC | A | Tissue exam by pathologist | 0.00 | 2.30 | N/A | 0.05 | 2.35 | N/A | XXX
88311 |  | A | Decalcify tissue | 0.24 | 0.19 | N/A | 0.02 | 0.45 | N/A | XXX
88311 | 26 | A | Decalcify tissue | 0.24 | 0.11 | 0.11 | 0.01 | 0.36 | 0.36 | XXX
88311 | TC | A | Decalcify tissue | 0.00 | 0.09 | N/A | 0.01 | 0.10 | N/A | XXX
88312 |  | A | Special stains | 0.54 | 1.37 | N/A | 0.03 | 1.94 | N/A | XXX
88312 | 26 | A | Special stains | 0.54 | 0.24 | 0.24 | 0.02 | 0.80 | 0.80 | XXX
88312 | TC | A | Special stains | 0.00 | 1.13 | N/A | 0.01 | 1.14 | N/A | XXX
88313 |  | A | Special stains | 0.24 | 1.11 | N/A | 0.02 | 1.37 | N/A | XXX
88313 | 26 | A | Special stains | 0.24 | 0.11 | 0.11 | 0.01 | 0.36 | 0.36 | XXX
88313 | TC | A | Special stains | 0.00 | 1.00 | N/A | 0.01 | 1.01 | N/A | XXX
88314 |  | A | Histochemical stain | 0.45 | 0.90 | N/A | 0.04 | 1.39 | N/A | XXX
88314 | 26 | A | Histochemical stain | 0.45 | 0.20 | 0.20 | 0.02 | 0.67 | 0.67 | XXX
88314 | TC | A | Histochemical stain | 0.00 | 0.71 | N/A | 0.02 | 0.73 | N/A | XXX
88318 |  | A | Chemical histochemistry | 0.42 | 0.82 | N/A | 0.02 | 1.26 | N/A | XXX
88318 | 26 | A | Chemical histochemistry | 0.42 | 0.19 | 0.19 | 0.01 | 0.62 | 0.62 | XXX
88318 | TC | A | Chemical histochemistry | 0.00 | 0.63 | N/A | 0.01 | 0.64 | N/A | XXX
88319 |  | A | Enzyme histochemistry | 0.53 | 1.92 | N/A | 0.04 | 2.49 | N/A | XXX
88319 | 26 | A | Enzyme histochemistry | 0.53 | 0.23 | 0.23 | 0.02 | 0.78 | 0.78 | XXX
88319 | TC | A | Enzyme histochemistry | 0.00 | 1.69 | N/A | 0.02 | 1.71 | N/A | XXX
88321 |  | A | Microslide consultation | 1.30 | 0.83 | 0.58 | 0.04 | 2.17 | 1.92 | XXX
88323 |  | A | Microslide consultation | 1.35 | 1.47 | N/A | 0.07 | 2.89 | N/A | XXX
88323 | 26 | A | Microslide consultation | 1.35 | 0.60 | 0.60 | 0.05 | 2.00 | 2.00 | XXX
88323 | TC | A | Microslide consultation | 0.00 | 0.86 | N/A | 0.02 | 0.88 | N/A | XXX
88325 |  | A | Comprehensive review of data | 2.22 | 3.02 | 0.98 | 0.08 | 5.32 | 3.28 | XXX
88329 |  | A | Path consult introp | 0.67 | 0.64 | 0.30 | 0.02 | 1.33 | 0.99 | XXX
88331 |  | A | Path consult intraop, 1 bloc | 1.19 | 1.01 | N/A | 0.07 | 2.27 | N/A | XXX
88331 | 26 | A | Path consult intraop, 1 bloc | 1.19 | 0.53 | 0.53 | 0.04 | 1.76 | 1.76 | XXX
88331 | TC | A | Path consult intraop, 1 bloc | 0.00 | 0.48 | N/A | 0.03 | 0.51 | N/A | XXX
88332 |  | A | Path consult intraop, addl | 0.59 | 0.51 | N/A | 0.04 | 1.14 | N/A | XXX
88332 | 26 | A | Path consult intraop, addl | 0.59 | 0.26 | 0.26 | 0.02 | 0.87 | 0.87 | XXX
88332 | TC | A | Path consult intraop, addl | 0.00 | 0.24 | N/A | 0.02 | 0.26 | N/A | XXX
88342 |  | A | Immunocytochemistry | 0.85 | 1.38 | N/A | 0.05 | 2.28 | N/A | XXX
88342 | 26 | A | Immunocytochemistry | 0.85 | 0.38 | 0.38 | 0.03 | 1.26 | 1.26 | XXX
88342 | TC | A | Immunocytochemistry | 0.00 | 1.00 | N/A | 0.02 | 1.02 | N/A | XXX
88346 |  | A | Immunofluorescent study | 0.86 | 1.47 | N/A | 0.05 | 2.38 | N/A | XXX
88346 | 26 | A | Immunofluorescent study | 0.86 | 0.38 | 0.38 | 0.03 | 1.27 | 1.27 | XXX
88346 | TC | A | Immunofluorescent study | 0.00 | 1.09 | N/A | 0.02 | 1.11 | N/A | XXX
88347 |  | A | Immunofluorescent study | 0.86 | 1.79 | N/A | 0.05 | 2.70 | N/A | XXX
88347 | 26 | A | Immunofluorescent study | 0.86 | 0.36 | 0.36 | 0.03 | 1.25 | 1.25 | XXX
88347 | TC | A | Immunofluorescent study | 0.00 | 1.43 | N/A | 0.02 | 1.45 | N/A | XXX
88348 |  | A | Electron microscopy | 1.51 | 8.66 | N/A | 0.11 | 10.28 | N/A | XXX
88348 | 26 | A | Electron microscopy | 1.51 | 0.67 | 0.67 | 0.05 | 2.23 | 2.23 | XXX
88348 | TC | A | Electron microscopy | 0.00 | 7.99 | N/A | 0.06 | 8.05 | N/A | XXX
88349 |  | A | Scanning electron microscopy | 0.76 | 10.02 | N/A | 0.08 | 10.86 | N/A | XXX
88349 | 26 | A | Scanning electron microscopy | 0.76 | 0.34 | 0.34 | 0.03 | 1.13 | 1.13 | XXX
88349 | TC | A | Scanning electron microscopy | 0.00 | 9.68 | N/A | 0.05 | 9.73 | N/A | XXX
88355 |  | A | Analysis, skeletal muscle | 1.85 | 2.66 | N/A | 0.12 | 4.63 | N/A | XXX
88355 | 26 | A | Analysis, skeletal muscle | 1.85 | 0.82 | 0.82 | 0.07 | 2.74 | 2.74 | XXX
88355 | TC | A | Analysis, skeletal muscle | 0.00 | 1.84 | N/A | 0.05 | 1.89 | N/A | XXX
88356 |  | A | Analysis, nerve | 3.02 | 2.93 | N/A | 0.16 | 6.11 | N/A | XXX
88356 | 26 | A | Analysis, nerve | 3.02 | 1.30 | 1.30 | 0.10 | 4.42 | 4.42 | XXX
88356 | TC | A | Analysis, nerve | 0.00 | 1.63 | N/A | 0.06 | 1.69 | N/A | XXX
88358 |  | A | Analysis, tumor | 2.82 | 1.76 | N/A | 0.16 | 4.74 | N/A | XXX
88358 | 26 | A | Analysis, tumor | 2.82 | 1.25 | 1.25 | 0.10 | 4.17 | 4.17 | XXX
88358 | TC | A | Analysis, tumor | 0.00 | 0.50 | N/A | 0.06 | 0.56 | N/A | XXX
88362 |  | A | Nerve teasing preparations | 2.17 | 4.49 | N/A | 0.12 | 6.78 | N/A | XXX
88362 | 26 | A | Nerve teasing preparations | 2.17 | 0.95 | 0.95 | 0.07 | 3.19 | 3.19 | XXX
88362 | TC | A | Nerve teasing preparations | 0.00 | 3.54 | N/A | 0.05 | 3.59 | N/A | XXX
88365 |  | A | Tissue hybridization | 0.93 | 2.25 | N/A | 0.05 | 3.23 | N/A | XXX
88365 | 26 | A | Tissue hybridization | 0.93 | 0.41 | 0.41 | 0.03 | 1.37 | 1.37 | XXX
88365 | TC | A | Tissue hybridization | 0.00 | 1.84 | N/A | 0.02 | 1.86 | N/A | XXX
88371 | 26 | A | Protein, western blot tissue | 0.37 | 0.13 | 0.13 | 0.01 | 0.51 | 0.51 | XXX
88372 | 26 | A | Protein analysis w/probe | 0.37 | 0.17 | 0.17 | 0.01 | 0.55 | 0.55 | XXX
88380 |  | C | Microdissection | 0.00 | 0.00 | 0.00 | 0.00 | 0.00 | 0.00 | XXX
88380 | 26 | C | Microdissection | 0.00 | 0.00 | 0.00 | 0.00 | 0.00 | 0.00 | XXX
88380 | TC | C | Microdissection | 0.00 | 0.00 | 0.00 | 0.00 | 0.00 | 0.00 | XXX
88399 |  | C | Surgical pathology procedure | 0.00 | 0.00 | 0.00 | 0.00 | 0.00 | 0.00 | XXX
88399 | 26 | C | Surgical pathology procedure | 0.00 | 0.00 | 0.00 | 0.00 | 0.00 | 0.00 | XXX
88399 | TC | C | Surgical pathology procedure | 0.00 | 0.00 | 0.00 | 0.00 | 0.00 | 0.00 | XXX
89060 | 26 | A | Exam,synovial fluid crystals | 0.37 | 0.17 | 0.17 | 0.01 | 0.55 | 0.55 | XXX
89100 |  | A | Sample intestinal contents | 0.60 | 1.64 | 0.22 | 0.02 | 2.26 | 0.84 | XXX
89105 |  | A | Sample intestinal contents | 0.50 | 2.28 | 0.17 | 0.02 | 2.80 | 0.69 | XXX
89130 |  | A | Sample stomach contents | 0.45 | 1.78 | 0.13 | 0.02 | 2.25 | 0.60 | XXX
89132 |  | A | Sample stomach contents | 0.19 | 1.53 | 0.06 | 0.01 | 1.73 | 0.26 | XXX
89135 |  | A | Sample stomach contents | 0.79 | 1.62 | 0.25 | 0.03 | 2.44 | 1.07 | XXX
89136 |  | A | Sample stomach contents | 0.21 | 1.68 | 0.09 | 0.01 | 1.90 | 0.31 | XXX
89140 |  | A | Sample stomach contents | 0.94 | 2.13 | 0.28 | 0.03 | 3.10 | 1.25 | XXX
89141 |  | A | Sample stomach contents | 0.85 | 2.78 | 0.34 | 0.03 | 3.66 | 1.22 | XXX
89350 |  | A | Sputum specimen collection | 0.00 | 0.41 | N/A | 0.02 | 0.43 | N/A | XXX
89360 |  | A | Collect sweat for test | 0.00 | 0.45 | N/A | 0.02 | 0.47 | N/A | XXX
89399 |  | C | Pathology lab procedure | 0.00 | 0.00 | 0.00 | 0.00 | 0.00 | 0.00 | XXX
89399 | 26 | C | Pathology lab procedure | 0.00 | 0.00 | 0.00 | 0.00 | 0.00 | 0.00 | XXX
89399 | TC | C | Pathology lab procedure | 0.00 | 0.00 | 0.00 | 0.00 | 0.00 | 0.00 | XXX
90281 |  | I | Human ig, im | 0.00 | 0.00 | 0.00 | 0.00 | 0.00 | 0.00 | XXX
90283 |  | I | Human ig, iv | 0.00 | 0.00 | 0.00 | 0.00 | 0.00 | 0.00 | XXX
90287 |  | I | Botulinum antitoxin | 0.00 | 0.00 | 0.00 | 0.00 | 0.00 | 0.00 | XXX
90288 |  | I | Botulism ig, iv | 0.00 | 0.00 | 0.00 | 0.00 | 0.00 | 0.00 | XXX
90291 |  | I | Cmv ig, iv | 0.00 | 0.00 | 0.00 | 0.00 | 0.00 | 0.00 | XXX
90379 |  | I | Rsv ig, iv | 0.00 | 0.00 | 0.00 | 0.00 | 0.00 | 0.00 | XXX
90384 |  | I | Rh ig, full-dose, im | 0.00 | 0.00 | 0.00 | 0.00 | 0.00 | 0.00 | XXX
90386 |  | I | Rh ig, iv | 0.00 | 0.00 | 0.00 | 0.00 | 0.00 | 0.00 | XXX
90389 |  | I | Tetanus ig, im | 0.00 | 0.00 | 0.00 | 0.00 | 0.00 | 0.00 | XXX
90399 |  | I | Immune globulin | 0.00 | 0.00 | 0.00 | 0.00 | 0.00 | 0.00 | XXX
90471 |  | A | Immunization admin | 0.00 | 0.13 | N/A | 0.01 | 0.14 | N/A | XXX
90472 |  | A | Immunization admin, each add | 0.00 | 0.08 | N/A | 0.01 | 0.09 | N/A | ZZZ
90723 |  | I | Dtap-hep b-ipv vaccine, im | 0.00 | 0.00 | 0.00 | 0.00 | 0.00 | 0.00 | XXX
90748 |  | I | Hep b/hib vaccine, im | 0.00 | 0.00 | 0.00 | 0.00 | 0.00 | 0.00 | XXX
90780 |  | A | IV infusion therapy, 1 hour | 0.00 | 1.11 | N/A | 0.06 | 1.17 | N/A | XXX
90781 |  | A | IV infusion, additional hour | 0.00 | 0.56 | N/A | 0.03 | 0.59 | N/A | ZZZ
90782 |  | T | Injection, sc/im | 0.00 | 0.11 | N/A | 0.01 | 0.12 | N/A | XXX
90783 |  | T | Injection, ia | 0.00 | 0.41 | N/A | 0.02 | 0.43 | N/A | XXX
90784 |  | T | Injection, iv | 0.00 | 0.47 | N/A | 0.03 | 0.50 | N/A | XXX
90788 |  | T | Injection of antibiotic | 0.00 | 0.12 | N/A | 0.01 | 0.13 | N/A | XXX
90799 |  | C | Ther/prophylactic/dx inject | 0.00 | 0.00 | 0.00 | 0.00 | 0.00 | 0.00 | XXX
90801 |  | A | Psy dx interview | 2.80 | 1.20 | 0.95 | 0.06 | 4.06 | 3.81 | XXX
90802 |  | A | Intac psy dx interview | 3.01 | 1.23 | 1.00 | 0.07 | 4.31 | 4.08 | XXX
90804 |  | A | Psytx, office, 20-30 min | 1.21 | 0.51 | 0.39 | 0.03 | 1.75 | 1.63 | XXX
90805 |  | A | Psytx, off, 20-30 min w/e&m | 1.37 | 0.51 | 0.43 | 0.03 | 1.91 | 1.83 | XXX
90806 |  | A | Psytx, off, 45-50 min | 1.86 | 0.72 | 0.62 | 0.04 | 2.62 | 2.52 | XXX
90807 |  | A | Psytx, off, 45-50 min w/e&m | 2.02 | 0.71 | 0.65 | 0.05 | 2.78 | 2.72 | XXX
90808 |  | A | Psytx, office, 75-80 min | 2.79 | 1.05 | 0.92 | 0.07 | 3.91 | 3.78 | XXX
90809 |  | A | Psytx, off, 75-80, w/e&m | 2.95 | 1.02 | 0.94 | 0.07 | 4.04 | 3.96 | XXX
90810 |  | A | Intac psytx, off, 20-30 min | 1.32 | 0.52 | 0.43 | 0.03 | 1.87 | 1.78 | XXX
90811 |  | A | Intac psytx, 20-30, w/e&m | 1.48 | 0.58 | 0.47 | 0.03 | 2.09 | 1.98 | XXX
90812 |  | A | Intac psytx, off, 45-50 min | 1.97 | 0.81 | 0.66 | 0.05 | 2.83 | 2.68 | XXX
90813 |  | A | Intac psytx, 45-50 min w/e&m | 2.13 | 0.79 | 0.68 | 0.05 | 2.97 | 2.86 | XXX
90814 |  | A | Intac psytx, off, 75-80 min | 2.90 | 1.12 | 1.01 | 0.07 | 4.09 | 3.98 | XXX
90815 |  | A | Intac psytx, 75-80 w/e&m | 3.06 | 1.07 | 0.97 | 0.07 | 4.20 | 4.10 | XXX
90816 |  | A | Psytx, hosp, 20-30 min | 1.25 | N/A | 0.47 | 0.03 | N/A | 1.75 | XXX
90817 |  | A | Psytx, hosp, 20-30 min w/e&m | 1.41 | N/A | 0.47 | 0.03 | N/A | 1.91 | XXX
90818 |  | A | Psytx, hosp, 45-50 min | 1.89 | N/A | 0.70 | 0.04 | N/A | 2.63 | XXX
90819 |  | A | Psytx, hosp, 45-50 min w/e&m | 2.05 | N/A | 0.67 | 0.05 | N/A | 2.77 | XXX
90821 |  | A | Psytx, hosp, 75-80 min | 2.83 | N/A | 1.03 | 0.06 | N/A | 3.92 | XXX
90822 |  | A | Psytx, hosp, 75-80 min w/e&m | 2.99 | N/A | 0.97 | 0.07 | N/A | 4.03 | XXX
90823 |  | A | Intac psytx, hosp, 20-30 min | 1.36 | N/A | 0.49 | 0.03 | N/A | 1.88 | XXX
90824 |  | A | Intac psytx, hsp 20-30 w/e&m | 1.52 | N/A | 0.50 | 0.03 | N/A | 2.05 | XXX
90826 |  | A | Intac psytx, hosp, 45-50 min | 2.01 | N/A | 0.74 | 0.04 | N/A | 2.79 | XXX
90827 |  | A | Intac psytx, hsp 45-50 w/e&m | 2.16 | N/A | 0.70 | 0.05 | N/A | 2.91 | XXX
90828 |  | A | Intac psytx, hosp, 75-80 min | 2.94 | N/A | 1.09 | 0.07 | N/A | 4.10 | XXX
90829 |  | A | Intac psytx, hsp 75-80 w/e&m | 3.10 | N/A | 1.00 | 0.07 | N/A | 4.17 | XXX
90845 |  | A | Psychoanalysis | 1.79 | 0.59 | 0.57 | 0.04 | 2.42 | 2.40 | XXX
90846 |  | R | Family psytx w/o patient | 1.83 | 0.67 | 0.66 | 0.04 | 2.54 | 2.53 | XXX
90847 |  | R | Family psytx w/patient | 2.21 | 0.83 | 0.78 | 0.05 | 3.09 | 3.04 | XXX
90849 |  | R | Multiple family group psytx | 0.59 | 0.28 | 0.24 | 0.01 | 0.88 | 0.84 | XXX
90853 |  | A | Group psychotherapy | 0.59 | 0.25 | 0.24 | 0.01 | 0.85 | 0.84 | XXX
90857 |  | A | Intac group psytx | 0.63 | 0.30 | 0.26 | 0.02 | 0.95 | 0.91 | XXX
90862 |  | A | Medication management | 0.95 | 0.41 | 0.33 | 0.02 | 1.38 | 1.30 | XXX
90865 |  | A | Narcosynthesis | 2.84 | 1.64 | 0.91 | 0.07 | 4.55 | 3.82 | XXX
90870 |  | A | Electroconvulsive therapy | 1.88 | 0.80 | 0.80 | 0.04 | 2.72 | 2.72 | 000
90871 |  | N | Electroconvulsive therapy | 2.72 | N/A | 1.08 | 0.06 | N/A | 3.86 | 000
90875 |  | N | Psychophysiological therapy | 1.20 | 0.92 | 0.46 | 0.03 | 2.15 | 1.69 | XXX
90876 |  | N | Psychophysiological therapy | 1.90 | 1.20 | 0.74 | 0.04 | 3.14 | 2.68 | XXX
90880 |  | A | Hypnotherapy | 2.19 | 1.06 | 0.70 | 0.05 | 3.30 | 2.94 | XXX
90885 |  | B | Psy evaluation of records | 0.97 | 0.38 | 0.38 | 0.02 | 1.37 | 1.37 | XXX
90887 |  | B | Consultation with family | 1.48 | 0.84 | 0.57 | 0.03 | 2.35 | 2.08 | XXX
90899 |  | C | Psychiatric service/therapy | 0.00 | 0.00 | 0.00 | 0.00 | 0.00 | 0.00 | XXX
90901 |  | A | Biofeedback train, any meth | 0.41 | 0.60 | 0.14 | 0.02 | 1.03 | 0.57 | 000
90911 |  | A | Biofeedback peri/uro/rectal | 0.89 | 3.95 | 0.32 | 0.04 | 4.88 | 1.25 | 000
90918 |  | I | ESRD related services, month | 11.18 | 7.52 | 7.52 | 0.30 | 19.00 | 19.00 | XXX
90919 |  | I | ESRD related services, month | 8.54 | 4.15 | 4.15 | 0.24 | 12.93 | 12.93 | XXX
90920 |  | I | ESRD related services, month | 7.27 | 3.89 | 3.89 | 0.19 | 11.35 | 11.35 | XXX
90921 |  | I | ESRD related services, month | 4.47 | 2.52 | 2.52 | 0.12 | 7.11 | 7.11 | XXX
90922 |  | A | ESRD related services, day | 0.37 | 0.22 | 0.22 | 0.01 | 0.60 | 0.60 | XXX
90923 |  | A | Esrd related services, day | 0.28 | 0.13 | 0.13 | 0.01 | 0.42 | 0.42 | XXX
90924 |  | A | Esrd related services, day | 0.24 | 0.12 | 0.12 | 0.01 | 0.37 | 0.37 | XXX
90925 |  | A | Esrd related services, day | 0.15 | 0.08 | 0.08 | 0.01 | 0.24 | 0.24 | XXX
90935 |  | A | Hemodialysis, one evaluation | 1.22 | N/A | 0.69 | 0.03 | N/A | 1.94 | 000
90937 |  | A | Hemodialysis, repeated eval | 2.11 | N/A | 1.00 | 0.06 | N/A | 3.17 | 000
90945 |  | A | Dialysis, one evaluation | 1.28 | N/A | 0.71 | 0.04 | N/A | 2.03 | 000
90947 |  | A | Dialysis, repeated eval | 2.16 | N/A | 1.02 | 0.06 | N/A | 3.24 | 000
90997 |  | A | Hemoperfusion | 1.84 | N/A | 1.43 | 0.05 | N/A | 3.32 | 000
90999 |  | C | Dialysis procedure | 0.00 | 0.00 | 0.00 | 0.00 | 0.00 | 0.00 | XXX
91000 |  | A | Esophageal intubation | 0.73 | 0.33 | N/A | 0.04 | 1.10 | N/A | 000
91000 | 26 | A | Esophageal intubation | 0.73 | 0.25 | 0.25 | 0.03 | 1.01 | 1.01 | 000
91000 | TC | A | Esophageal intubation | 0.00 | 0.08 | N/A | 0.01 | 0.09 | N/A | 000
91010 |  | A | Esophagus motility study | 1.25 | 2.78 | N/A | 0.10 | 4.13 | N/A | 000
91010 | 26 | A | Esophagus motility study | 1.25 | 0.45 | 0.45 | 0.05 | 1.75 | 1.75 | 000
91010 | TC | A | Esophagus motility study | 0.00 | 2.33 | N/A | 0.05 | 2.38 | N/A | 000
91011 |  | A | Esophagus motility study | 1.50 | 3.28 | N/A | 0.10 | 4.88 | N/A | 000
91011 | 26 | A | Esophagus motility study | 1.50 | 0.54 | 0.54 | 0.05 | 2.09 | 2.09 | 000
91011 | TC | A | Esophagus motility study | 0.00 | 2.74 | N/A | 0.05 | 2.79 | N/A | 000
91012 |  | A | Esophagus motility study | 1.46 | 3.42 | N/A | 0.12 | 5.00 | N/A | 000
91012 | 26 | A | Esophagus motility study | 1.46 | 0.52 | 0.52 | 0.06 | 2.04 | 2.04 | 000
91012 | TC | A | Esophagus motility study | 0.00 | 2.89 | N/A | 0.06 | 2.95 | N/A | 000
91020 |  | A | Gastric motility | 1.44 | 3.03 | N/A | 0.11 | 4.58 | N/A | 000
91020 | 26 | A | Gastric motility | 1.44 | 0.50 | 0.50 | 0.06 | 2.00 | 2.00 | 000
91020 | TC | A | Gastric motility | 0.00 | 2.53 | N/A | 0.05 | 2.58 | N/A | 000
91030 |  | A | Acid perfusion of esophagus | 0.91 | 2.45 | N/A | 0.05 | 3.41 | N/A | 000
91030 | 26 | A | Acid perfusion of esophagus | 0.91 | 0.33 | 0.33 | 0.03 | 1.27 | 1.27 | 000
91030 | TC | A | Acid perfusion of esophagus | 0.00 | 2.12 | N/A | 0.02 | 2.14 | N/A | 000
91032 |  | A | Esophagus, acid reflux test | 1.21 | 4.24 | N/A | 0.10 | 5.55 | N/A | 000
91032 | 26 | A | Esophagus, acid reflux test | 1.21 | 0.43 | 0.43 | 0.05 | 1.69 | 1.69 | 000
91032 | TC | A | Esophagus, acid reflux test | 0.00 | 3.82 | N/A | 0.05 | 3.87 | N/A | 000
91033 |  | A | Prolonged acid reflux test | 1.30 | 4.27 | N/A | 0.14 | 5.71 | N/A | 000
91033 | 26 | A | Prolonged acid reflux test | 1.30 | 0.46 | 0.46 | 0.05 | 1.81 | 1.81 | 000
91033 | TC | A | Prolonged acid reflux test | 0.00 | 3.81 | N/A | 0.09 | 3.90 | N/A | 000
91052 |  | A | Gastric analysis test | 0.79 | 2.24 | N/A | 0.05 | 3.08 | N/A | 000
91052 | 26 | A | Gastric analysis test | 0.79 | 0.28 | 0.28 | 0.03 | 1.10 | 1.10 | 000
91052 | TC | A | Gastric analysis test | 0.00 | 1.96 | N/A | 0.02 | 1.98 | N/A | 000
91055 |  | A | Gastric intubation for smear | 0.94 | 2.42 | N/A | 0.06 | 3.42 | N/A | 000
91055 | 26 | A | Gastric intubation for smear | 0.94 | 0.27 | 0.27 | 0.04 | 1.25 | 1.25 | 000
91055 | TC | A | Gastric intubation for smear | 0.00 | 2.15 | N/A | 0.02 | 2.17 | N/A | 000
91060 |  | A | Gastric saline load test | 0.45 | 0.30 | N/A | 0.04 | 0.79 | N/A | 000
91060 | 26 | A | Gastric saline load test | 0.45 | 0.14 | 0.14 | 0.02 | 0.61 | 0.61 | 000
91060 | TC | A | Gastric saline load test | 0.00 | 0.16 | N/A | 0.02 | 0.18 | N/A | 000
91065 |  | A | Breath hydrogen test | 0.20 | 2.02 | N/A | 0.03 | 2.25 | N/A | 000
91065 | 26 | A | Breath hydrogen test | 0.20 | 0.07 | 0.07 | 0.01 | 0.28 | 0.28 | 000
91065 | TC | A | Breath hydrogen test | 0.00 | 1.95 | N/A | 0.02 | 1.97 | N/A | 000
91100 |  | A | Pass intestine bleeding tube | 1.08 | N/A | 0.29 | 0.06 | N/A | 1.43 | 000
91105 |  | A | Gastric intubation treatment | 0.37 | N/A | 0.09 | 0.02 | N/A | 0.48 | 000
91122 |  | A | Anal pressure record | 1.77 | 6.20 | N/A | 0.17 | 8.14 | N/A | 000
91122 | 26 | A | Anal pressure record | 1.77 | 0.62 | 0.62 | 0.10 | 2.49 | 2.49 | 000
91122 | TC | A | Anal pressure record | 0.00 | 5.58 | N/A | 0.07 | 5.65 | N/A | 000
91132 |  | C | Electrogastrography | 0.00 | 0.00 | 0.00 | 0.00 | 0.00 | 0.00 | XXX
91132 | 26 | A | Electrogastrography | 0.52 | 0.19 | N/A | 0.03 | 0.74 | N/A | XXX
91132 | TC | C | Electrogastrography | 0.00 | 0.00 | 0.00 | 0.00 | 0.00 | 0.00 | XXX
91133 |  | C | Electrogastrography w/test | 0.00 | 0.00 | 0.00 | 0.00 | 0.00 | 0.00 | XXX
91133 | 26 | A | Electrogastrography w/test | 0.66 | 0.24 | N/A | 0.03 | 0.93 | N/A | XXX
91133 | TC | C | Electrogastrography w/test | 0.00 | 0.00 | 0.00 | 0.00 | 0.00 | 0.00 | XXX
91299 |  | C | Gastroenterology procedure | 0.00 | 0.00 | 0.00 | 0.00 | 0.00 | 0.00 | XXX
91299 | 26 | C | Gastroenterology procedure | 0.00 | 0.00 | 0.00 | 0.00 | 0.00 | 0.00 | XXX
91299 | TC | C | Gastroenterology procedure | 0.00 | 0.00 | 0.00 | 0.00 | 0.00 | 0.00 | XXX
92002 |  | A | Eye exam, new patient | 0.88 | 0.98 | 0.35 | 0.02 | 1.88 | 1.25 | XXX
92004 |  | A | Eye exam, new patient | 1.67 | 1.71 | 0.69 | 0.03 | 3.41 | 2.39 | XXX
92012 |  | A | Eye exam established pat | 0.67 | 1.04 | 0.29 | 0.01 | 1.72 | 0.97 | XXX
92014 |  | A | Eye exam & treatment | 1.10 | 1.41 | 0.48 | 0.02 | 2.53 | 1.60 | XXX
92015 |  | N | Refraction | 0.38 | 1.19 | 0.15 | 0.01 | 1.58 | 0.54 | XXX
92018 |  | A | New eye exam & treatment | 2.50 | N/A | 1.10 | 0.03 | N/A | 3.63 | XXX
92019 |  | A | Eye exam & treatment | 1.31 | N/A | 0.58 | 0.03 | N/A | 1.92 | XXX
92020 |  | A | Special eye evaluation | 0.37 | 0.33 | 0.16 | 0.01 | 0.71 | 0.54 | XXX
92060 |  | A | Special eye evaluation | 0.69 | 0.74 | N/A | 0.02 | 1.45 | N/A | XXX
92060 | 26 | A | Special eye evaluation | 0.69 | 0.29 | 0.29 | 0.01 | 0.99 | 0.99 | XXX
92060 | TC | A | Special eye evaluation | 0.00 | 0.44 | N/A | 0.01 | 0.45 | N/A | XXX
92065 |  | A | Orthoptic/pleoptic training | 0.37 | 0.56 | N/A | 0.02 | 0.95 | N/A | XXX
92065 | 26 | A | Orthoptic/pleoptic training | 0.37 | 0.15 | 0.15 | 0.01 | 0.53 | 0.53 | XXX
92065 | TC | A | Orthoptic/pleoptic training | 0.00 | 0.40 | N/A | 0.01 | 0.41 | N/A | XXX
92070 |  | A | Fitting of contact lens | 0.70 | 1.09 | 0.32 | 0.01 | 1.80 | 1.03 | XXX
92081 |  | A | Visual field examination(s) | 0.36 | 0.87 | N/A | 0.02 | 1.25 | N/A | XXX
92081 | 26 | A | Visual field examination(s) | 0.36 | 0.16 | 0.16 | 0.01 | 0.53 | 0.53 | XXX
92081 | TC | A | Visual field examination(s) | 0.00 | 0.72 | N/A | 0.01 | 0.73 | N/A | XXX
92082 |  | A | Visual field examination(s) | 0.44 | 1.16 | N/A | 0.02 | 1.62 | N/A | XXX
92082 | 26 | A | Visual field examination(s) | 0.44 | 0.19 | 0.19 | 0.01 | 0.64 | 0.64 | XXX
92082 | TC | A | Visual field examination(s) | 0.00 | 0.97 | N/A | 0.01 | 0.98 | N/A | XXX
92083 |  | A | Visual field examination(s) | 0.50 | 1.35 | N/A | 0.02 | 1.87 | N/A | XXX
92083 | 26 | A | Visual field examination(s) | 0.50 | 0.22 | 0.22 | 0.01 | 0.73 | 0.73 | XXX
92083 | TC | A | Visual field examination(s) | 0.00 | 1.13 | N/A | 0.01 | 1.14 | N/A | XXX
92100 |  | A | Serial tonometry exam(s) | 0.92 | 1.28 | 0.37 | 0.02 | 2.22 | 1.31 | XXX
92120 |  | A | Tonography & eye evaluation | 0.81 | 1.06 | 0.32 | 0.02 | 1.89 | 1.15 | XXX
92130 |  | A | Water provocation tonography | 0.81 | 1.26 | 0.38 | 0.02 | 2.09 | 1.21 | XXX
92135 |  | A | Opthalmic dx imaging | 0.35 | 0.80 | N/A | 0.02 | 1.17 | N/A | XXX
92135 | 26 | A | Opthalmic dx imaging | 0.35 | 0.16 | 0.16 | 0.01 | 0.52 | 0.52 | XXX
92135 | TC | A | Opthalmic dx imaging | 0.00 | 0.64 | N/A | 0.01 | 0.65 | N/A | XXX
92136 |  | A | Ophthalmic biometry | 0.54 | 1.78 | N/A | 0.07 | 2.39 | N/A | XXX
92136 | 26 | A | Ophthalmic biometry | 0.54 | 0.25 | 0.25 | 0.01 | 0.80 | 0.80 | XXX
92136 | TC | A | Ophthalmic biometry | 0.00 | 1.53 | N/A | 0.06 | 1.59 | N/A | XXX
92140 |  | A | Glaucoma provocative tests | 0.50 | 0.95 | 0.22 | 0.01 | 1.46 | 0.73 | XXX
92225 |  | A | Special eye exam, initial | 0.38 | 0.22 | 0.16 | 0.01 | 0.61 | 0.55 | XXX
92226 |  | A | Special eye exam, subsequent | 0.33 | 0.21 | 0.15 | 0.01 | 0.55 | 0.49 | XXX
92230 |  | A | Eye exam with photos | 0.60 | 1.70 | 0.20 | 0.02 | 2.32 | 0.82 | XXX
92235 |  | A | Eye exam with photos | 0.81 | 2.97 | N/A | 0.07 | 3.85 | N/A | XXX
92235 | 26 | A | Eye exam with photos | 0.81 | 0.37 | 0.37 | 0.02 | 1.20 | 1.20 | XXX
92235 | TC | A | Eye exam with photos | 0.00 | 2.60 | N/A | 0.05 | 2.65 | N/A | XXX
92240 |  | A | Icg angiography | 1.10 | 7.13 | N/A | 0.07 | 8.30 | N/A | XXX
92240 | 26 | A | Icg angiography | 1.10 | 0.51 | 0.51 | 0.02 | 1.63 | 1.63 | XXX
92240 | TC | A | Icg angiography | 0.00 | 6.63 | N/A | 0.05 | 6.68 | N/A | XXX
92250 |  | A | Eye exam with photos | 0.44 | 1.75 | N/A | 0.02 | 2.21 | N/A | XXX
92250 | 26 | A | Eye exam with photos | 0.44 | 0.20 | 0.20 | 0.01 | 0.65 | 0.65 | XXX
92250 | TC | A | Eye exam with photos | 0.00 | 1.55 | N/A | 0.01 | 1.56 | N/A | XXX
92260 |  | A | Ophthalmoscopy/dynamometry | 0.20 | 0.29 | 0.09 | 0.01 | 0.50 | 0.30 | XXX
92265 |  | A | Eye muscle evaluation | 0.81 | 1.89 | N/A | 0.04 | 2.74 | N/A | XXX
92265 | 26 | A | Eye muscle evaluation | 0.81 | 0.29 | 0.29 | 0.02 | 1.12 | 1.12 | XXX
92265 | TC | A | Eye muscle evaluation | 0.00 | 1.61 | N/A | 0.02 | 1.63 | N/A | XXX
92270 |  | A | Electro-oculography | 0.81 | 1.72 | N/A | 0.05 | 2.58 | N/A | XXX
92270 | 26 | A | Electro-oculography | 0.81 | 0.34 | 0.34 | 0.03 | 1.18 | 1.18 | XXX
92270 | TC | A | Electro-oculography | 0.00 | 1.37 | N/A | 0.02 | 1.39 | N/A | XXX
92275 |  | A | Electroretinography | 1.01 | 1.98 | N/A | 0.04 | 3.03 | N/A | XXX
92275 | 26 | A | Electroretinography | 1.01 | 0.44 | 0.44 | 0.02 | 1.47 | 1.47 | XXX
92275 | TC | A | Electroretinography | 0.00 | 1.54 | N/A | 0.02 | 1.56 | N/A | XXX
92283 |  | A | Color vision examination | 0.17 | 0.85 | N/A | 0.02 | 1.04 | N/A | XXX
92283 | 26 | A | Color vision examination | 0.17 | 0.07 | 0.07 | 0.01 | 0.25 | 0.25 | XXX
92283 | TC | A | Color vision examination | 0.00 | 0.78 | N/A | 0.01 | 0.79 | N/A | XXX
92284 |  | A | Dark adaptation eye exam | 0.24 | 2.35 | N/A | 0.02 | 2.61 | N/A | XXX
92284 | 26 | A | Dark adaptation eye exam | 0.24 | 0.09 | 0.09 | 0.01 | 0.34 | 0.34 | XXX
92284 | TC | A | Dark adaptation eye exam | 0.00 | 2.26 | N/A | 0.01 | 2.27 | N/A | XXX
92285 |  | A | Eye photography | 0.20 | 1.07 | N/A | 0.02 | 1.29 | N/A | XXX
92285 | 26 | A | Eye photography | 0.20 | 0.09 | 0.09 | 0.01 | 0.30 | 0.30 | XXX
92285 | TC | A | Eye photography | 0.00 | 0.99 | N/A | 0.01 | 1.00 | N/A | XXX
92286 |  | A | Internal eye photography | 0.66 | 3.40 | N/A | 0.03 | 4.09 | N/A | XXX
92286 | 26 | A | Internal eye photography | 0.66 | 0.30 | 0.30 | 0.01 | 0.97 | 0.97 | XXX
92286 | TC | A | Internal eye photography | 0.00 | 3.10 | N/A | 0.02 | 3.12 | N/A | XXX
92287 |  | A | Internal eye photography | 0.81 | 2.74 | 0.31 | 0.02 | 3.57 | 1.14 | XXX
92310 |  | N | Contact lens fitting | 1.17 | 1.17 | 0.45 | 0.03 | 2.37 | 1.65 | XXX
92311 |  | A | Contact lens fitting | 1.08 | 1.21 | 0.35 | 0.03 | 2.32 | 1.46 | XXX
92312 |  | A | Contact lens fitting | 1.26 | 1.18 | 0.50 | 0.03 | 2.47 | 1.79 | XXX
92313 |  | A | Contact lens fitting | 0.92 | 1.18 | 0.29 | 0.02 | 2.12 | 1.23 | XXX
92314 |  | N | Prescription of contact lens | 0.69 | 0.98 | 0.27 | 0.01 | 1.68 | 0.97 | XXX
92315 |  | A | Prescription of contact lens | 0.45 | 0.96 | 0.16 | 0.01 | 1.42 | 0.62 | XXX
92316 |  | A | Prescription of contact lens | 0.68 | 1.01 | 0.30 | 0.01 | 1.70 | 0.99 | XXX
92317 |  | A | Prescription of contact lens | 0.45 | 1.07 | 0.14 | 0.01 | 1.53 | 0.60 | XXX
92325 |  | A | Modification of contact lens | 0.00 | 0.40 | N/A | 0.01 | 0.41 | N/A | XXX
92326 |  | A | Replacement of contact lens | 0.00 | 1.63 | N/A | 0.05 | 1.68 | N/A | XXX
92330 |  | A | Fitting of artificial eye | 1.08 | 1.09 | 0.33 | 0.04 | 2.21 | 1.45 | XXX
92335 |  | A | Fitting of artificial eye | 0.45 | 1.02 | 0.17 | 0.01 | 1.48 | 0.63 | XXX
92340 |  | N | Fitting of spectacles | 0.37 | 0.74 | 0.14 | 0.01 | 1.12 | 0.52 | XXX
92341 |  | N | Fitting of spectacles | 0.47 | 0.78 | 0.18 | 0.01 | 1.26 | 0.66 | XXX
92342 |  | N | Fitting of spectacles | 0.53 | 0.80 | 0.21 | 0.01 | 1.34 | 0.75 | XXX
92352 |  | B | Special spectacles fitting | 0.37 | 0.74 | 0.14 | 0.01 | 1.12 | 0.52 | XXX
92353 |  | B | Special spectacles fitting | 0.50 | 0.79 | 0.19 | 0.02 | 1.31 | 0.71 | XXX
92354 |  | B | Special spectacles fitting | 0.00 | 8.86 | N/A | 0.08 | 8.94 | N/A | XXX
92355 |  | B | Special spectacles fitting | 0.00 | 4.33 | N/A | 0.01 | 4.34 | N/A | XXX
92358 |  | B | Eye prosthesis service | 0.00 | 0.97 | N/A | 0.04 | 1.01 | N/A | XXX
92370 |  | N | Repair & adjust spectacles | 0.32 | 0.60 | 0.12 | 0.02 | 0.94 | 0.46 | XXX
92371 |  | B | Repair & adjust spectacles | 0.00 | 0.62 | N/A | 0.02 | 0.64 | N/A | XXX
92392 |  | I | Supply of low vision aids | 0.00 | 3.84 | 3.84 | 0.02 | 3.86 | 3.86 | XXX
92393 |  | I | Supply of artificial eye | 0.00 | 11.92 | 11.92 | 0.47 | 12.39 | 12.39 | XXX
92395 |  | I | Supply of spectacles | 0.00 | 1.30 | 1.30 | 0.08 | 1.38 | 1.38 | XXX
92396 |  | I | Supply of contact lenses | 0.00 | 2.19 | 2.19 | 0.06 | 2.25 | 2.25 | XXX
92499 |  | C | Eye service or procedure | 0.00 | 0.00 | 0.00 | 0.00 | 0.00 | 0.00 | XXX
92499 | 26 | C | Eye service or procedure | 0.00 | 0.00 | 0.00 | 0.00 | 0.00 | 0.00 | XXX
92499 | TC | C | Eye service or procedure | 0.00 | 0.00 | 0.00 | 0.00 | 0.00 | 0.00 | XXX
92502 |  | A | Ear and throat examination | 1.51 | N/A | 1.16 | 0.06 | N/A | 2.73 | 000
92504 |  | A | Ear microscopy examination | 0.18 | 0.53 | 0.09 | 0.01 | 0.72 | 0.28 | XXX
92506 |  | A | Speech/hearing evaluation | 0.86 | 2.65 | 0.41 | 0.04 | 3.55 | 1.31 | XXX
92507 |  | A | Speech/hearing therapy | 0.52 | 0.97 | 0.24 | 0.02 | 1.51 | 0.78 | XXX
92508 |  | A | Speech/hearing therapy | 0.26 | 0.53 | 0.12 | 0.01 | 0.80 | 0.39 | XXX
92510 |  | I | Rehab for ear implant | 1.50 | 2.11 | 0.83 | 0.06 | 3.67 | 2.39 | XXX
92511 |  | A | Nasopharyngoscopy | 0.84 | 2.50 | 0.79 | 0.03 | 3.37 | 1.66 | 000
92512 |  | A | Nasal function studies | 0.55 | 1.13 | 0.18 | 0.02 | 1.70 | 0.75 | XXX
92516 |  | A | Facial nerve function test | 0.43 | 0.95 | 0.22 | 0.02 | 1.40 | 0.67 | XXX
92520 |  | A | Laryngeal function studies | 0.76 | 0.52 | 0.40 | 0.03 | 1.31 | 1.19 | XXX
92526 |  | A | Oral function therapy | 0.55 | 1.67 | 0.20 | 0.02 | 2.24 | 0.77 | XXX
92541 |  | A | Spontaneous nystagmus test | 0.40 | 1.05 | N/A | 0.04 | 1.49 | N/A | XXX
92541 | 26 | A | Spontaneous nystagmus test | 0.40 | 0.19 | 0.19 | 0.02 | 0.61 | 0.61 | XXX
92541 | TC | A | Spontaneous nystagmus test | 0.00 | 0.86 | N/A | 0.02 | 0.88 | N/A | XXX
92542 |  | A | Positional nystagmus test | 0.33 | 1.16 | N/A | 0.03 | 1.52 | N/A | XXX
92542 | 26 | A | Positional nystagmus test | 0.33 | 0.16 | 0.16 | 0.01 | 0.50 | 0.50 | XXX
92542 | TC | A | Positional nystagmus test | 0.00 | 1.00 | N/A | 0.02 | 1.02 | N/A | XXX
92543 |  | A | Caloric vestibular test | 0.10 | 0.59 | N/A | 0.02 | 0.71 | N/A | XXX
92543 | 26 | A | Caloric vestibular test | 0.10 | 0.05 | 0.05 | 0.01 | 0.16 | 0.16 | XXX
92543 | TC | A | Caloric vestibular test | 0.00 | 0.54 | N/A | 0.01 | 0.55 | N/A | XXX
92544 |  | A | Optokinetic nystagmus test | 0.26 | 0.92 | N/A | 0.03 | 1.21 | N/A | XXX
92544 | 26 | A | Optokinetic nystagmus test | 0.26 | 0.13 | 0.13 | 0.01 | 0.40 | 0.40 | XXX
92544 | TC | A | Optokinetic nystagmus test | 0.00 | 0.79 | N/A | 0.02 | 0.81 | N/A | XXX
92545 |  | A | Oscillating tracking test | 0.23 | 0.86 | N/A | 0.03 | 1.12 | N/A | XXX
92545 | 26 | A | Oscillating tracking test | 0.23 | 0.11 | 0.11 | 0.01 | 0.35 | 0.35 | XXX
92545 | TC | A | Oscillating tracking test | 0.00 | 0.74 | N/A | 0.02 | 0.76 | N/A | XXX
92546 |  | A | Sinusoidal rotational test | 0.29 | 2.14 | N/A | 0.03 | 2.46 | N/A | XXX
92546 | 26 | A | Sinusoidal rotational test | 0.29 | 0.13 | 0.13 | 0.01 | 0.43 | 0.43 | XXX
92546 | TC | A | Sinusoidal rotational test | 0.00 | 2.01 | N/A | 0.02 | 2.03 | N/A | XXX
92547 |  | A | Supplemental electrical test | 0.00 | 1.30 | N/A | 0.05 | 1.35 | N/A | ZZZ
92548 |  | A | Posturography | 0.50 | 3.83 | N/A | 0.13 | 4.46 | N/A | XXX
92548 | 26 | A | Posturography | 0.50 | 0.26 | 0.26 | 0.02 | 0.78 | 0.78 | XXX
92548 | TC | A | Posturography | 0.00 | 3.56 | N/A | 0.11 | 3.67 | N/A | XXX
92552 |  | A | Pure tone audiometry, air | 0.00 | 0.44 | N/A | 0.03 | 0.47 | N/A | XXX
92553 |  | A | Audiometry, air & bone | 0.00 | 0.66 | N/A | 0.05 | 0.71 | N/A | XXX
92555 |  | A | Speech threshold audiometry | 0.00 | 0.38 | N/A | 0.03 | 0.41 | N/A | XXX
92556 |  | A | Speech audiometry, complete | 0.00 | 0.57 | N/A | 0.05 | 0.62 | N/A | XXX
92557 |  | A | Comprehensive hearing test | 0.00 | 1.19 | N/A | 0.10 | 1.29 | N/A | XXX
92561 |  | A | Bekesy audiometry, diagnosis | 0.00 | 0.72 | N/A | 0.05 | 0.77 | N/A | XXX
92562 |  | A | Loudness balance test | 0.00 | 0.41 | N/A | 0.03 | 0.44 | N/A | XXX
92563 |  | A | Tone decay hearing test | 0.00 | 0.38 | N/A | 0.03 | 0.41 | N/A | XXX
92564 |  | A | Sisi hearing test | 0.00 | 0.47 | N/A | 0.04 | 0.51 | N/A | XXX
92565 |  | A | Stenger test, pure tone | 0.00 | 0.40 | N/A | 0.03 | 0.43 | N/A | XXX
92567 |  | A | Tympanometry | 0.00 | 0.52 | N/A | 0.05 | 0.57 | N/A | XXX
92568 |  | A | Acoustic reflex testing | 0.00 | 0.38 | N/A | 0.03 | 0.41 | N/A | XXX
92569 |  | A | Acoustic reflex decay test | 0.00 | 0.41 | N/A | 0.03 | 0.44 | N/A | XXX
92571 |  | A | Filtered speech hearing test | 0.00 | 0.39 | N/A | 0.03 | 0.42 | N/A | XXX
92572 |  | A | Staggered spondaic word test | 0.00 | 0.09 | N/A | 0.01 | 0.10 | N/A | XXX
92573 |  | A | Lombard test | 0.00 | 0.35 | N/A | 0.03 | 0.38 | N/A | XXX
92575 |  | A | Sensorineural acuity test | 0.00 | 0.30 | N/A | 0.02 | 0.32 | N/A | XXX
92576 |  | A | Synthetic sentence test | 0.00 | 0.44 | N/A | 0.04 | 0.48 | N/A | XXX
92577 |  | A | Stenger test, speech | 0.00 | 0.72 | N/A | 0.06 | 0.78 | N/A | XXX
92579 |  | A | Visual audiometry (vra) | 0.00 | 0.73 | N/A | 0.05 | 0.78 | N/A | XXX
92582 |  | A | Conditioning play audiometry | 0.00 | 0.73 | N/A | 0.05 | 0.78 | N/A | XXX
92583 |  | A | Select picture audiometry | 0.00 | 0.89 | N/A | 0.07 | 0.96 | N/A | XXX
92584 |  | A | Electrocochleography | 0.00 | 2.48 | N/A | 0.17 | 2.65 | N/A | XXX
92585 |  | A | Auditor evoke potent, compre | 0.50 | 2.07 | N/A | 0.14 | 2.71 | N/A | XXX
92585 | 26 | A | Auditor evoke potent, compre | 0.50 | 0.22 | 0.22 | 0.02 | 0.74 | 0.74 | XXX
92585 | TC | A | Auditor evoke potent, compre | 0.00 | 1.85 | N/A | 0.12 | 1.97 | N/A | XXX
92586 |  | A | Auditor evoke potent, limit | 0.00 | 1.85 | N/A | 0.12 | 1.97 | N/A | XXX
92587 |  | A | Evoked auditory test | 0.13 | 1.37 | N/A | 0.10 | 1.60 | N/A | XXX
92587 | 26 | A | Evoked auditory test | 0.13 | 0.07 | 0.07 | 0.01 | 0.21 | 0.21 | XXX
92587 | TC | A | Evoked auditory test | 0.00 | 1.31 | N/A | 0.09 | 1.40 | N/A | XXX
92588 |  | A | Evoked auditory test | 0.36 | 1.64 | N/A | 0.12 | 2.12 | N/A | XXX
92588 | 26 | A | Evoked auditory test | 0.36 | 0.17 | 0.17 | 0.01 | 0.54 | 0.54 | XXX
92588 | TC | A | Evoked auditory test | 0.00 | 1.47 | N/A | 0.11 | 1.58 | N/A | XXX
92589 |  | A | Auditory function test(s) | 0.00 | 0.53 | N/A | 0.05 | 0.58 | N/A | XXX
92596 |  | A | Ear protector evaluation | 0.00 | 0.59 | N/A | 0.05 | 0.64 | N/A | XXX
92597 |  | A | Oral speech device eval | 0.86 | 1.77 | 0.46 | 0.04 | 2.67 | 1.36 | XXX
92601 |  | A | Cochlear implt f/up exam < 7 | 0.00 | 3.64 | N/A | 0.06 | 3.70 | N/A | XXX
92602 |  | A | Reprogram cochlear implt < 7 | 0.00 | 2.52 | N/A | 0.06 | 2.58 | N/A | XXX
92603 |  | A | Cochlear implt f/up exam 7 > | 0.00 | 2.38 | N/A | 0.06 | 2.44 | N/A | XXX
92604 |  | A | Reprogram cochlear implt 7 > | 0.00 | 1.57 | N/A | 0.06 | 1.63 | N/A | XXX
92607 |  | A | Ex for speech device rx, 1hr | 0.00 | 3.10 | N/A | 0.04 | 3.14 | N/A | XXX
92608 |  | A | Ex for speech device rx addl | 0.00 | 0.72 | N/A | 0.04 | 0.76 | N/A | XXX
92609 |  | A | Use of speech device service | 0.00 | 1.67 | N/A | 0.03 | 1.70 | N/A | XXX
92610 |  | A | Evaluate swallowing function | 0.00 | 1.27 | N/A | 0.07 | 1.34 | N/A | XXX
92611 |  | A | Motion fluoroscopy/swallow | 0.00 | 1.80 | N/A | 0.07 | 1.87 | N/A | XXX
92612 |  | A | Endoscopy swallow tst (fees) | 1.27 | 3.16 | 0.68 | 0.07 | 4.50 | 2.02 | XXX
92614 |  | A | Laryngoscopic sensory test | 1.27 | 2.87 | 0.62 | 0.07 | 4.21 | 1.96 | XXX
92616 |  | A | Fees w/laryngeal sense test | 1.88 | 3.96 | 0.98 | 0.07 | 5.91 | 2.93 | XXX
92700 |  | C | Ent procedure/service | 0.00 | 0.00 | 0.00 | 0.00 | 0.00 | 0.00 | XXX
92950 |  | A | Heart/lung resuscitation cpr | 3.80 | N/A | 1.00 | 0.21 | N/A | 5.01 | 000
92953 |  | A | Temporary external pacing | 0.23 | N/A | 0.23 | 0.01 | N/A | 0.47 | 000
92960 |  | A | Cardioversion electric, ext | 2.25 | 6.82 | 1.20 | 0.08 | 9.15 | 3.53 | 000
92961 |  | A | Cardioversion, electric, int | 4.60 | N/A | 2.12 | 0.17 | N/A | 6.89 | 000
92970 |  | A | Cardioassist, internal | 3.52 | N/A | 1.08 | 0.17 | N/A | 4.77 | 000
92971 |  | A | Cardioassist, external | 1.77 | N/A | 0.87 | 0.06 | N/A | 2.70 | 000
92973 |  | A | Percut coronary thrombectomy | 3.28 | N/A | 1.32 | 0.12 | N/A | 4.72 | ZZZ
92974 |  | A | Cath place, cardio brachytx | 3.00 | N/A | 1.21 | 0.14 | N/A | 4.35 | ZZZ
92975 |  | A | Dissolve clot, heart vessel | 7.25 | N/A | 2.87 | 0.22 | N/A | 10.34 | 000
92977 |  | A | Dissolve clot, heart vessel | 0.00 | 8.06 | N/A | 0.38 | 8.44 | N/A | XXX
92978 |  | A | Intravasc us, heart add-on | 1.80 | 5.29 | N/A | 0.26 | 7.35 | N/A | ZZZ
92978 | 26 | A | Intravasc us, heart add-on | 1.80 | 0.72 | 0.72 | 0.06 | 2.58 | 2.58 | ZZZ
92978 | TC | A | Intravasc us, heart add-on | 0.00 | 4.56 | N/A | 0.20 | 4.76 | N/A | ZZZ
92979 |  | A | Intravasc us, heart add-on | 1.44 | 2.86 | N/A | 0.15 | 4.45 | N/A | ZZZ
92979 | 26 | A | Intravasc us, heart add-on | 1.44 | 0.57 | 0.57 | 0.04 | 2.05 | 2.05 | ZZZ
92979 | TC | A | Intravasc us, heart add-on | 0.00 | 2.29 | N/A | 0.11 | 2.40 | N/A | ZZZ
92980 |  | A | Insert intracoronary stent | 14.84 | N/A | 6.19 | 0.71 | N/A | 21.74 | 000
92981 |  | A | Insert intracoronary stent | 4.17 | N/A | 1.67 | 0.20 | N/A | 6.04 | ZZZ
92982 |  | A | Coronary artery dilation | 10.98 | N/A | 4.64 | 0.52 | N/A | 16.14 | 000
92984 |  | A | Coronary artery dilation | 2.97 | N/A | 1.19 | 0.14 | N/A | 4.30 | ZZZ
92986 |  | A | Revision of aortic valve | 21.80 | N/A | 12.00 | 1.14 | N/A | 34.94 | 090
92987 |  | A | Revision of mitral valve | 22.70 | N/A | 12.40 | 1.18 | N/A | 36.28 | 090
92990 |  | A | Revision of pulmonary valve | 17.34 | N/A | 9.95 | 0.90 | N/A | 28.19 | 090
92992 |  | C | Revision of heart chamber | 0.00 | 0.00 | 0.00 | 0.00 | 0.00 | 0.00 | 090
92993 |  | C | Revision of heart chamber | 0.00 | 0.00 | 0.00 | 0.00 | 0.00 | 0.00 | 090
92995 |  | A | Coronary atherectomy | 12.09 | N/A | 5.08 | 0.58 | N/A | 17.75 | 000
92996 |  | A | Coronary atherectomy add-on | 3.26 | N/A | 1.30 | 0.16 | N/A | 4.72 | ZZZ
92997 |  | A | Pul art balloon repr, percut | 12.00 | N/A | 4.93 | 0.63 | N/A | 17.56 | 000
92998 |  | A | Pul art balloon repr, percut | 6.00 | N/A | 2.25 | 0.31 | N/A | 8.56 | ZZZ
93000 |  | A | Electrocardiogram, complete | 0.17 | 0.52 | N/A | 0.03 | 0.72 | N/A | XXX
93005 |  | A | Electrocardiogram, tracing | 0.00 | 0.45 | N/A | 0.02 | 0.47 | N/A | XXX
93010 |  | A | Electrocardiogram report | 0.17 | 0.06 | 0.06 | 0.01 | 0.24 | 0.24 | XXX
93012 |  | A | Transmission of ecg | 0.00 | 6.02 | N/A | 0.15 | 6.17 | N/A | XXX
93014 |  | A | Report on transmitted ecg | 0.52 | 0.19 | 0.19 | 0.02 | 0.73 | 0.73 | XXX
93015 |  | A | Cardiovascular stress test | 0.75 | 1.97 | N/A | 0.11 | 2.83 | N/A | XXX
93016 |  | A | Cardiovascular stress test | 0.45 | 0.17 | 0.17 | 0.01 | 0.63 | 0.63 | XXX
93017 |  | A | Cardiovascular stress test | 0.00 | 1.68 | N/A | 0.09 | 1.77 | N/A | XXX
93018 |  | A | Cardiovascular stress test | 0.30 | 0.12 | 0.12 | 0.01 | 0.43 | 0.43 | XXX
93024 |  | A | Cardiac drug stress test | 1.17 | 1.58 | N/A | 0.11 | 2.86 | N/A | XXX
93024 | 26 | A | Cardiac drug stress test | 1.17 | 0.46 | 0.46 | 0.04 | 1.67 | 1.67 | XXX
93024 | TC | A | Cardiac drug stress test | 0.00 | 1.12 | N/A | 0.07 | 1.19 | N/A | XXX
93025 |  | A | Microvolt t-wave assess | 0.75 | 8.37 | N/A | 0.11 | 9.23 | N/A | XXX
93025 | 26 | A | Microvolt t-wave assess | 0.75 | 0.30 | 0.30 | 0.02 | 1.07 | 1.07 | XXX
93025 | TC | A | Microvolt t-wave assess | 0.00 | 8.08 | N/A | 0.09 | 8.17 | N/A | XXX
93040 |  | A | Rhythm ECG with report | 0.16 | 0.20 | N/A | 0.02 | 0.38 | N/A | XXX
93041 |  | A | Rhythm ECG, tracing | 0.00 | 0.15 | N/A | 0.01 | 0.16 | N/A | XXX
93042 |  | A | Rhythm ECG, report | 0.16 | 0.05 | 0.05 | 0.01 | 0.22 | 0.22 | XXX
93224 |  | A | ECG monitor/report, 24 hrs | 0.52 | 3.62 | N/A | 0.21 | 4.35 | N/A | XXX
93225 |  | A | ECG monitor/record, 24 hrs | 0.00 | 1.24 | N/A | 0.07 | 1.31 | N/A | XXX
93226 |  | A | ECG monitor/report, 24 hrs | 0.00 | 2.19 | N/A | 0.12 | 2.31 | N/A | XXX
93227 |  | A | ECG monitor/review, 24 hrs | 0.52 | 0.20 | 0.20 | 0.02 | 0.74 | 0.74 | XXX
93230 |  | A | ECG monitor/report, 24 hrs | 0.52 | 3.89 | N/A | 0.22 | 4.63 | N/A | XXX
93231 |  | A | Ecg monitor/record, 24 hrs | 0.00 | 1.52 | N/A | 0.09 | 1.61 | N/A | XXX
93232 |  | A | ECG monitor/report, 24 hrs | 0.00 | 2.18 | N/A | 0.11 | 2.29 | N/A | XXX
93233 |  | A | ECG monitor/review, 24 hrs | 0.52 | 0.20 | 0.20 | 0.02 | 0.74 | 0.74 | XXX
93235 |  | A | ECG monitor/report, 24 hrs | 0.45 | 2.79 | N/A | 0.13 | 3.37 | N/A | XXX
93236 |  | A | ECG monitor/report, 24 hrs | 0.00 | 2.62 | N/A | 0.12 | 2.74 | N/A | XXX
93237 |  | A | ECG monitor/review, 24 hrs | 0.45 | 0.17 | 0.17 | 0.01 | 0.63 | 0.63 | XXX
93268 |  | A | ECG record/review | 0.52 | 7.45 | N/A | 0.24 | 8.21 | N/A | XXX
93270 |  | A | ECG recording | 0.00 | 1.24 | N/A | 0.07 | 1.31 | N/A | XXX
93271 |  | A | Ecg/monitoring and analysis | 0.00 | 6.02 | N/A | 0.15 | 6.17 | N/A | XXX
93272 |  | A | Ecg/review, interpret only | 0.52 | 0.19 | 0.19 | 0.02 | 0.73 | 0.73 | XXX
93278 |  | A | ECG/signal-averaged | 0.25 | 1.25 | N/A | 0.10 | 1.60 | N/A | XXX
93278 | 26 | A | ECG/signal-averaged | 0.25 | 0.10 | 0.10 | 0.01 | 0.36 | 0.36 | XXX
93278 | TC | A | ECG/signal-averaged | 0.00 | 1.15 | N/A | 0.09 | 1.24 | N/A | XXX
93303 |  | A | Echo transthoracic | 1.30 | 4.35 | N/A | 0.23 | 5.88 | N/A | XXX
93303 | 26 | A | Echo transthoracic | 1.30 | 0.49 | 0.49 | 0.04 | 1.83 | 1.83 | XXX
93303 | TC | A | Echo transthoracic | 0.00 | 3.86 | N/A | 0.19 | 4.05 | N/A | XXX
93304 |  | A | Echo transthoracic | 0.75 | 2.23 | N/A | 0.13 | 3.11 | N/A | XXX
93304 | 26 | A | Echo transthoracic | 0.75 | 0.29 | 0.29 | 0.02 | 1.06 | 1.06 | XXX
93304 | TC | A | Echo transthoracic | 0.00 | 1.94 | N/A | 0.11 | 2.05 | N/A | XXX
93307 |  | A | Echo exam of heart | 0.92 | 4.22 | N/A | 0.22 | 5.36 | N/A | XXX
93307 | 26 | A | Echo exam of heart | 0.92 | 0.36 | 0.36 | 0.03 | 1.31 | 1.31 | XXX
93307 | TC | A | Echo exam of heart | 0.00 | 3.86 | N/A | 0.19 | 4.05 | N/A | XXX
93308 |  | A | Echo exam of heart | 0.53 | 2.15 | N/A | 0.13 | 2.81 | N/A | XXX
93308 | 26 | A | Echo exam of heart | 0.53 | 0.21 | 0.21 | 0.02 | 0.76 | 0.76 | XXX
93308 | TC | A | Echo exam of heart | 0.00 | 1.94 | N/A | 0.11 | 2.05 | N/A | XXX
93312 |  | A | Echo transesophageal | 2.20 | 4.58 | N/A | 0.32 | 7.10 | N/A | XXX
93312 | 26 | A | Echo transesophageal | 2.20 | 0.80 | 0.80 | 0.08 | 3.08 | 3.08 | XXX
93312 | TC | A | Echo transesophageal | 0.00 | 3.78 | N/A | 0.24 | 4.02 | N/A | XXX
93313 |  | A | Echo transesophageal | 0.95 | N/A | 0.21 | 0.05 | N/A | 1.21 | XXX
93314 |  | A | Echo transesophageal | 1.25 | 4.26 | N/A | 0.28 | 5.79 | N/A | XXX
93314 | 26 | A | Echo transesophageal | 1.25 | 0.48 | 0.48 | 0.04 | 1.77 | 1.77 | XXX
93314 | TC | A | Echo transesophageal | 0.00 | 3.78 | N/A | 0.24 | 4.02 | N/A | XXX
93315 |  | C | Echo transesophageal | 0.00 | 0.00 | 0.00 | 0.00 | 0.00 | 0.00 | XXX
93315 | 26 | A | Echo transesophageal | 2.78 | 1.03 | 1.03 | 0.10 | 3.91 | 3.91 | XXX
93315 | TC | C | Echo transesophageal | 0.00 | 0.00 | 0.00 | 0.00 | 0.00 | 0.00 | XXX
93316 |  | A | Echo transesophageal | 0.95 | N/A | 0.24 | 0.05 | N/A | 1.24 | XXX
93317 |  | C | Echo transesophageal | 0.00 | 0.00 | 0.00 | 0.00 | 0.00 | 0.00 | XXX
93317 | 26 | A | Echo transesophageal | 1.83 | 0.68 | 0.68 | 0.06 | 2.57 | 2.57 | XXX
93317 | TC | C | Echo transesophageal | 0.00 | 0.00 | 0.00 | 0.00 | 0.00 | 0.00 | XXX
93318 |  | C | Echo transesophageal intraop | 0.00 | 0.00 | 0.00 | 0.00 | 0.00 | 0.00 | XXX
93318 | 26 | A | Echo transesophageal intraop | 2.20 | 0.48 | N/A | 0.06 | 2.74 | N/A | XXX
93318 | TC | C | Echo transesophageal intraop | 0.00 | 0.00 | 0.00 | 0.00 | 0.00 | 0.00 | XXX
93320 |  | A | Doppler echo exam, heart | 0.38 | 1.86 | N/A | 0.11 | 2.35 | N/A | ZZZ
93320 | 26 | A | Doppler echo exam, heart | 0.38 | 0.15 | 0.15 | 0.01 | 0.54 | 0.54 | ZZZ
93320 | TC | A | Doppler echo exam, heart | 0.00 | 1.71 | N/A | 0.10 | 1.81 | N/A | ZZZ
93321 |  | A | Doppler echo exam, heart | 0.15 | 1.17 | N/A | 0.08 | 1.40 | N/A | ZZZ
93321 | 26 | A | Doppler echo exam, heart | 0.15 | 0.06 | 0.06 | 0.01 | 0.22 | 0.22 | ZZZ
93321 | TC | A | Doppler echo exam, heart | 0.00 | 1.11 | N/A | 0.07 | 1.18 | N/A | ZZZ
93325 |  | A | Doppler color flow add-on | 0.07 | 2.93 | N/A | 0.18 | 3.18 | N/A | ZZZ
93325 | 26 | A | Doppler color flow add-on | 0.07 | 0.03 | 0.03 | 0.01 | 0.11 | 0.11 | ZZZ
93325 | TC | A | Doppler color flow add-on | 0.00 | 2.90 | N/A | 0.17 | 3.07 | N/A | ZZZ
93350 |  | A | Echo transthoracic | 1.48 | 2.34 | N/A | 0.13 | 3.95 | N/A | XXX
93350 | 26 | A | Echo transthoracic | 1.48 | 0.58 | 0.58 | 0.02 | 2.08 | 2.08 | XXX
93350 | TC | A | Echo transthoracic | 0.00 | 1.76 | N/A | 0.11 | 1.87 | N/A | XXX
93501 |  | A | Right heart catheterization | 3.02 | 18.08 | N/A | 1.03 | 22.13 | N/A | 000
93501 | 26 | A | Right heart catheterization | 3.02 | 1.18 | 1.18 | 0.16 | 4.36 | 4.36 | 000
93501 | TC | A | Right heart catheterization | 0.00 | 16.90 | N/A | 0.87 | 17.77 | N/A | 000
93503 |  | A | Insert/place heart catheter | 2.91 | N/A | 0.69 | 0.16 | N/A | 3.76 | 000
93505 |  | A | Biopsy of heart lining | 4.38 | 3.70 | N/A | 0.36 | 8.44 | N/A | 000
93505 | 26 | A | Biopsy of heart lining | 4.38 | 1.72 | 1.72 | 0.23 | 6.33 | 6.33 | 000
93505 | TC | A | Biopsy of heart lining | 0.00 | 1.98 | N/A | 0.13 | 2.11 | N/A | 000
93508 |  | A | Cath placement, angiography | 4.10 | 14.73 | N/A | 0.75 | 19.58 | N/A | 000
93508 | 26 | A | Cath placement, angiography | 4.10 | 2.13 | 2.13 | 0.21 | 6.44 | 6.44 | 000
93508 | TC | A | Cath placement, angiography | 0.00 | 12.60 | N/A | 0.54 | 13.14 | N/A | 000
93510 |  | A | Left heart catheterization | 4.33 | 39.18 | N/A | 2.13 | 45.64 | N/A | 000
93510 | 26 | A | Left heart catheterization | 4.33 | 2.22 | 2.22 | 0.22 | 6.77 | 6.77 | 000
93510 | TC | A | Left heart catheterization | 0.00 | 36.96 | N/A | 1.91 | 38.87 | N/A | 000
93511 |  | A | Left heart catheterization | 5.03 | 38.48 | N/A | 2.11 | 45.62 | N/A | 000
93511 | 26 | A | Left heart catheterization | 5.03 | 2.50 | 2.50 | 0.26 | 7.79 | 7.79 | 000
93511 | TC | A | Left heart catheterization | 0.00 | 35.98 | N/A | 1.85 | 37.83 | N/A | 000
93514 |  | A | Left heart catheterization | 7.05 | 39.18 | N/A | 2.22 | 48.45 | N/A | 000
93514 | 26 | A | Left heart catheterization | 7.05 | 3.20 | 3.20 | 0.37 | 10.62 | 10.62 | 000
93514 | TC | A | Left heart catheterization | 0.00 | 35.98 | N/A | 1.85 | 37.83 | N/A | 000
93524 |  | A | Left heart catheterization | 6.95 | 50.27 | N/A | 2.79 | 60.01 | N/A | 000
93524 | 26 | A | Left heart catheterization | 6.95 | 3.25 | 3.25 | 0.36 | 10.56 | 10.56 | 000
93524 | TC | A | Left heart catheterization | 0.00 | 47.02 | N/A | 2.43 | 49.45 | N/A | 000
93526 |  | A | Rt & Lt heart catheters | 5.99 | 51.18 | N/A | 2.81 | 59.98 | N/A | 000
93526 | 26 | A | Rt & Lt heart catheters | 5.99 | 2.88 | 2.88 | 0.31 | 9.18 | 9.18 | 000
93526 | TC | A | Rt & Lt heart catheters | 0.00 | 48.30 | N/A | 2.50 | 50.80 | N/A | 000
93527 |  | A | Rt & Lt heart catheters | 7.28 | 50.41 | N/A | 2.81 | 60.50 | N/A | 000
93527 | 26 | A | Rt & Lt heart catheters | 7.28 | 3.39 | 3.39 | 0.38 | 11.05 | 11.05 | 000
93527 | TC | A | Rt & Lt heart catheters | 0.00 | 47.02 | N/A | 2.43 | 49.45 | N/A | 000
93528 |  | A | Rt & Lt heart catheters | 9.00 | 51.14 | N/A | 2.90 | 63.04 | N/A | 000
93528 | 26 | A | Rt & Lt heart catheters | 9.00 | 4.12 | 4.12 | 0.47 | 13.59 | 13.59 | 000
93528 | TC | A | Rt & Lt heart catheters | 0.00 | 47.02 | N/A | 2.43 | 49.45 | N/A | 000
93529 |  | A | Rt, lt heart catheterization | 4.80 | 49.35 | N/A | 2.68 | 56.83 | N/A | 000
93529 | 26 | A | Rt, lt heart catheterization | 4.80 | 2.33 | 2.33 | 0.25 | 7.38 | 7.38 | 000
93529 | TC | A | Rt, lt heart catheterization | 0.00 | 47.02 | N/A | 2.43 | 49.45 | N/A | 000
93530 |  | A | Rt heart cath, congenital | 4.23 | 18.89 | N/A | 1.11 | 24.23 | N/A | 000
93530 | 26 | A | Rt heart cath, congenital | 4.23 | 1.98 | 1.98 | 0.24 | 6.45 | 6.45 | 000
93530 | TC | A | Rt heart cath, congenital | 0.00 | 16.90 | N/A | 0.87 | 17.77 | N/A | 000
93531 |  | A | R & l heart cath, congenital | 8.35 | 51.97 | N/A | 2.96 | 63.28 | N/A | 000
93531 | 26 | A | R & l heart cath, congenital | 8.35 | 3.67 | 3.67 | 0.46 | 12.48 | 12.48 | 000
93531 | TC | A | R & l heart cath, congenital | 0.00 | 48.30 | N/A | 2.50 | 50.80 | N/A | 000
93532 |  | A | R & l heart cath, congenital | 10.00 | 51.37 | N/A | 2.95 | 64.32 | N/A | 000
93532 | 26 | A | R & l heart cath, congenital | 10.00 | 4.36 | 4.36 | 0.52 | 14.88 | 14.88 | 000
93532 | TC | A | R & l heart cath, congenital | 0.00 | 47.02 | N/A | 2.43 | 49.45 | N/A | 000
93533 |  | A | R & l heart cath, congenital | 6.70 | 49.89 | N/A | 2.86 | 59.45 | N/A | 000
93533 | 26 | A | R & l heart cath, congenital | 6.70 | 2.87 | 2.87 | 0.43 | 10.00 | 10.00 | 000
93533 | TC | A | R & l heart cath, congenital | 0.00 | 47.02 | N/A | 2.43 | 49.45 | N/A | 000
93539 |  | A | Injection, cardiac cath | 0.40 | N/A | 0.16 | 0.01 | N/A | 0.57 | 000
93540 |  | A | Injection, cardiac cath | 0.43 | N/A | 0.17 | 0.01 | N/A | 0.61 | 000
93541 |  | A | Injection for lung angiogram | 0.29 | N/A | 0.12 | 0.01 | N/A | 0.42 | 000
93542 |  | A | Injection for heart x-rays | 0.29 | N/A | 0.11 | 0.01 | N/A | 0.41 | 000
93543 |  | A | Injection for heart x-rays | 0.29 | N/A | 0.12 | 0.01 | N/A | 0.42 | 000
93544 |  | A | Injection for aortography | 0.25 | N/A | 0.10 | 0.01 | N/A | 0.36 | 000
93545 |  | A | Inject for coronary x-rays | 0.40 | N/A | 0.16 | 0.01 | N/A | 0.57 | 000
93555 |  | A | Imaging, cardiac cath | 0.81 | 6.60 | N/A | 0.31 | 7.72 | N/A | XXX
93555 | 26 | A | Imaging, cardiac cath | 0.81 | 0.32 | 0.32 | 0.03 | 1.16 | 1.16 | XXX
93555 | TC | A | Imaging, cardiac cath | 0.00 | 6.28 | N/A | 0.28 | 6.56 | N/A | XXX
93556 |  | A | Imaging, cardiac cath | 0.83 | 10.22 | N/A | 0.45 | 11.50 | N/A | XXX
93556 | 26 | A | Imaging, cardiac cath | 0.83 | 0.33 | 0.33 | 0.03 | 1.19 | 1.19 | XXX
93556 | TC | A | Imaging, cardiac cath | 0.00 | 9.89 | N/A | 0.42 | 10.31 | N/A | XXX
93561 |  | A | Cardiac output measurement | 0.50 | 0.69 | N/A | 0.07 | 1.26 | N/A | 000
93561 | 26 | A | Cardiac output measurement | 0.50 | 0.16 | 0.16 | 0.02 | 0.68 | 0.68 | 000
93561 | TC | A | Cardiac output measurement | 0.00 | 0.52 | N/A | 0.05 | 0.57 | N/A | 000
93562 |  | A | Cardiac output measurement | 0.16 | 0.37 | N/A | 0.04 | 0.57 | N/A | 000
93562 | 26 | A | Cardiac output measurement | 0.16 | 0.05 | 0.05 | 0.01 | 0.22 | 0.22 | 000
93562 | TC | A | Cardiac output measurement | 0.00 | 0.32 | N/A | 0.03 | 0.35 | N/A | 000
93571 |  | A | Heart flow reserve measure | 1.80 | 5.26 | N/A | 0.31 | 7.37 | N/A | ZZZ
93571 | 26 | A | Heart flow reserve measure | 1.80 | 0.69 | 0.69 | 0.11 | 2.60 | 2.60 | ZZZ
93571 | TC | A | Heart flow reserve measure | 0.00 | 4.56 | N/A | 0.20 | 4.76 | N/A | ZZZ
93572 |  | A | Heart flow reserve measure | 1.44 | 2.79 | N/A | 0.28 | 4.51 | N/A | ZZZ
93572 | 26 | A | Heart flow reserve measure | 1.44 | 0.50 | 0.50 | 0.17 | 2.11 | 2.11 | ZZZ
93572 | TC | A | Heart flow reserve measure | 0.00 | 2.29 | N/A | 0.11 | 2.40 | N/A | ZZZ
93580 |  | A | Transcath closure of asd | 18.00 | N/A | 7.33 | 1.14 | N/A | 26.47 | 000
93581 |  | A | Transcath closure of vsd | 24.43 | N/A | 9.82 | 1.14 | N/A | 35.39 | 000
93600 |  | A | Bundle of His recording | 2.12 | 2.80 | N/A | 0.22 | 5.14 | N/A | 000
93600 | 26 | A | Bundle of His recording | 2.12 | 0.85 | 0.85 | 0.11 | 3.08 | 3.08 | 000
93600 | TC | A | Bundle of His recording | 0.00 | 1.95 | N/A | 0.11 | 2.06 | N/A | 000
93602 |  | A | Intra-atrial recording | 2.12 | 1.95 | N/A | 0.18 | 4.25 | N/A | 000
93602 | 26 | A | Intra-atrial recording | 2.12 | 0.84 | 0.84 | 0.12 | 3.08 | 3.08 | 000
93602 | TC | A | Intra-atrial recording | 0.00 | 1.11 | N/A | 0.06 | 1.17 | N/A | 000
93603 |  | A | Right ventricular recording | 2.12 | 2.51 | N/A | 0.20 | 4.83 | N/A | 000
93603 | 26 | A | Right ventricular recording | 2.12 | 0.83 | 0.83 | 0.11 | 3.06 | 3.06 | 000
93603 | TC | A | Right ventricular recording | 0.00 | 1.68 | N/A | 0.09 | 1.77 | N/A | 000
93609 |  | A | Map tachycardia, add-on | 5.00 | 4.71 | N/A | 0.66 | 10.37 | N/A | ZZZ
93609 | 26 | A | Map tachycardia, add-on | 5.00 | 1.99 | 1.99 | 0.52 | 7.51 | 7.51 | ZZZ
93609 | TC | A | Map tachycardia, add-on | 0.00 | 2.72 | N/A | 0.14 | 2.86 | N/A | ZZZ
93610 |  | A | Intra-atrial pacing | 3.02 | 2.54 | N/A | 0.25 | 5.81 | N/A | 000
93610 | 26 | A | Intra-atrial pacing | 3.02 | 1.18 | 1.18 | 0.17 | 4.37 | 4.37 | 000
93610 | TC | A | Intra-atrial pacing | 0.00 | 1.35 | N/A | 0.08 | 1.43 | N/A | 000
93612 |  | A | Intraventricular pacing | 3.02 | 2.79 | N/A | 0.26 | 6.07 | N/A | 000
93612 | 26 | A | Intraventricular pacing | 3.02 | 1.18 | 1.18 | 0.17 | 4.37 | 4.37 | 000
93612 | TC | A | Intraventricular pacing | 0.00 | 1.61 | N/A | 0.09 | 1.70 | N/A | 000
93613 |  | A | Electrophys map 3d, add-on | 7.00 | N/A | 2.82 | 0.52 | N/A | 10.34 | ZZZ
93615 |  | A | Esophageal recording | 0.99 | 0.59 | N/A | 0.05 | 1.63 | N/A | 000
93615 | 26 | A | Esophageal recording | 0.99 | 0.27 | 0.27 | 0.03 | 1.29 | 1.29 | 000
93615 | TC | A | Esophageal recording | 0.00 | 0.32 | N/A | 0.02 | 0.34 | N/A | 000
93616 |  | A | Esophageal recording | 1.49 | 0.75 | N/A | 0.08 | 2.32 | N/A | 000
93616 | 26 | A | Esophageal recording | 1.49 | 0.43 | 0.43 | 0.06 | 1.98 | 1.98 | 000
93616 | TC | A | Esophageal recording | 0.00 | 0.32 | N/A | 0.02 | 0.34 | N/A | 000
93618 |  | A | Heart rhythm pacing | 4.26 | 5.67 | N/A | 0.42 | 10.35 | N/A | 000
93618 | 26 | A | Heart rhythm pacing | 4.26 | 1.71 | 1.71 | 0.22 | 6.19 | 6.19 | 000
93618 | TC | A | Heart rhythm pacing | 0.00 | 3.96 | N/A | 0.20 | 4.16 | N/A | 000
93619 |  | A | Electrophysiology evaluation | 7.32 | 10.61 | N/A | 0.77 | 18.70 | N/A | 000
93619 | 26 | A | Electrophysiology evaluation | 7.32 | 2.91 | 2.91 | 0.38 | 10.61 | 10.61 | 000
93619 | TC | A | Electrophysiology evaluation | 0.00 | 7.71 | N/A | 0.39 | 8.10 | N/A | 000
93620 |  | C | Electrophysiology evaluation | 0.00 | 0.00 | 0.00 | 0.00 | 0.00 | 0.00 | 000
93620 | 26 | A | Electrophysiology evaluation | 11.59 | 4.61 | 4.61 | 0.60 | 16.80 | 16.80 | 000
93620 | TC | C | Electrophysiology evaluation | 0.00 | 0.00 | 0.00 | 0.00 | 0.00 | 0.00 | 000
93621 |  | C | Electrophysiology evaluation | 0.00 | 0.00 | 0.00 | 0.00 | 0.00 | 0.00 | ZZZ
93621 | 26 | A | Electrophysiology evaluation | 2.10 | 0.84 | 0.84 | 0.15 | 3.09 | 3.09 | ZZZ
93621 | TC | C | Electrophysiology evaluation | 0.00 | 0.00 | 0.00 | 0.00 | 0.00 | 0.00 | ZZZ
93622 |  | C | Electrophysiology evaluation | 0.00 | 0.00 | 0.00 | 0.00 | 0.00 | 0.00 | ZZZ
93622 | 26 | A | Electrophysiology evaluation | 3.10 | 1.23 | 1.23 | 0.67 | 5.00 | 5.00 | ZZZ
93622 | TC | C | Electrophysiology evaluation | 0.00 | 0.00 | 0.00 | 0.00 | 0.00 | 0.00 | ZZZ
93623 |  | C | Stimulation, pacing heart | 0.00 | 0.00 | 0.00 | 0.00 | 0.00 | 0.00 | ZZZ
93623 | 26 | A | Stimulation, pacing heart | 2.85 | 1.13 | 1.13 | 0.15 | 4.13 | 4.13 | ZZZ
93623 | TC | C | Stimulation, pacing heart | 0.00 | 0.00 | 0.00 | 0.00 | 0.00 | 0.00 | ZZZ
93624 |  | A | Electrophysiologic study | 4.81 | 4.23 | N/A | 0.36 | 9.40 | N/A | 000
93624 | 26 | A | Electrophysiologic study | 4.81 | 2.25 | 2.25 | 0.25 | 7.31 | 7.31 | 000
93624 | TC | A | Electrophysiologic study | 0.00 | 1.98 | N/A | 0.11 | 2.09 | N/A | 000
93631 |  | A | Heart pacing, mapping | 7.60 | 8.95 | N/A | 1.17 | 17.72 | N/A | 000
93631 | 26 | A | Heart pacing, mapping | 7.60 | 2.80 | 2.80 | 0.66 | 11.06 | 11.06 | 000
93631 | TC | A | Heart pacing, mapping | 0.00 | 6.15 | N/A | 0.51 | 6.66 | N/A | 000
93640 |  | A | Evaluation heart device | 3.52 | 8.57 | N/A | 0.53 | 12.62 | N/A | 000
93640 | 26 | A | Evaluation heart device | 3.52 | 1.39 | 1.39 | 0.18 | 5.09 | 5.09 | 000
93640 | TC | A | Evaluation heart device | 0.00 | 7.18 | N/A | 0.35 | 7.53 | N/A | 000
93641 |  | A | Electrophysiology evaluation | 5.93 | 9.54 | N/A | 0.66 | 16.13 | N/A | 000
93641 | 26 | A | Electrophysiology evaluation | 5.93 | 2.36 | 2.36 | 0.31 | 8.60 | 8.60 | 000
93641 | TC | A | Electrophysiology evaluation | 0.00 | 7.18 | N/A | 0.35 | 7.53 | N/A | 000
93642 |  | A | Electrophysiology evaluation | 4.89 | 9.10 | N/A | 0.51 | 14.50 | N/A | 000
93642 | 26 | A | Electrophysiology evaluation | 4.89 | 1.92 | 1.92 | 0.16 | 6.97 | 6.97 | 000
93642 | TC | A | Electrophysiology evaluation | 0.00 | 7.18 | N/A | 0.35 | 7.53 | N/A | 000
93650 |  | A | Ablate heart dysrhythm focus | 10.51 | N/A | 4.53 | 0.55 | N/A | 15.59 | 000
93651 |  | A | Ablate heart dysrhythm focus | 16.25 | N/A | 6.47 | 0.85 | N/A | 23.57 | 000
93652 |  | A | Ablate heart dysrhythm focus | 17.68 | N/A | 7.04 | 0.92 | N/A | 25.64 | 000
93660 |  | A | Tilt table evaluation | 1.89 | 2.44 | N/A | 0.08 | 4.41 | N/A | 000
93660 | 26 | A | Tilt table evaluation | 1.89 | 0.76 | 0.76 | 0.06 | 2.71 | 2.71 | 000
93660 | TC | A | Tilt table evaluation | 0.00 | 1.68 | N/A | 0.02 | 1.70 | N/A | 000
93662 |  | C | Intracardiac ecg (ice) | 0.00 | 0.00 | 0.00 | 0.00 | 0.00 | 0.00 | ZZZ
93662 | 26 | A | Intracardiac ecg (ice) | 2.80 | 1.13 | 1.13 | 0.41 | 4.34 | 4.34 | ZZZ
93662 | TC | C | Intracardiac ecg (ice) | 0.00 | 0.00 | 0.00 | 0.00 | 0.00 | 0.00 | ZZZ
93701 |  | A | Bioimpedance, thoracic | 0.17 | 1.04 | N/A | 0.02 | 1.23 | N/A | XXX
93701 | 26 | A | Bioimpedance, thoracic | 0.17 | 0.07 | 0.07 | 0.01 | 0.25 | 0.25 | XXX
93701 | TC | A | Bioimpedance, thoracic | 0.00 | 0.97 | N/A | 0.01 | 0.98 | N/A | XXX
93720 |  | A | Total body plethysmography | 0.17 | 1.14 | N/A | 0.06 | 1.37 | N/A | XXX
93721 |  | A | Plethysmography tracing | 0.00 | 0.71 | N/A | 0.05 | 0.76 | N/A | XXX
93722 |  | A | Plethysmography report | 0.17 | 0.05 | 0.05 | 0.01 | 0.23 | 0.23 | XXX
93724 |  | A | Analyze pacemaker system | 4.89 | 5.92 | N/A | 0.38 | 11.19 | N/A | 000
93724 | 26 | A | Analyze pacemaker system | 4.89 | 1.95 | 1.95 | 0.18 | 7.02 | 7.02 | 000
93724 | TC | A | Analyze pacemaker system | 0.00 | 3.96 | N/A | 0.20 | 4.16 | N/A | 000
93727 |  | A | Analyze ilr system | 0.52 | 0.20 | 0.20 | 0.05 | 0.77 | 0.77 | XXX
93731 |  | A | Analyze pacemaker system | 0.45 | 0.67 | N/A | 0.05 | 1.17 | N/A | XXX
93731 | 26 | A | Analyze pacemaker system | 0.45 | 0.18 | 0.18 | 0.02 | 0.65 | 0.65 | XXX
93731 | TC | A | Analyze pacemaker system | 0.00 | 0.49 | N/A | 0.03 | 0.52 | N/A | XXX
93732 |  | A | Analyze pacemaker system | 0.92 | 0.87 | N/A | 0.06 | 1.85 | N/A | XXX
93732 | 26 | A | Analyze pacemaker system | 0.92 | 0.36 | 0.36 | 0.03 | 1.31 | 1.31 | XXX
93732 | TC | A | Analyze pacemaker system | 0.00 | 0.51 | N/A | 0.03 | 0.54 | N/A | XXX
93733 |  | A | Telephone analy, pacemaker | 0.17 | 0.79 | N/A | 0.06 | 1.02 | N/A | XXX
93733 | 26 | A | Telephone analy, pacemaker | 0.17 | 0.07 | 0.07 | 0.01 | 0.25 | 0.25 | XXX
93733 | TC | A | Telephone analy, pacemaker | 0.00 | 0.73 | N/A | 0.05 | 0.78 | N/A | XXX
93734 |  | A | Analyze pacemaker system | 0.38 | 0.50 | N/A | 0.03 | 0.91 | N/A | XXX
93734 | 26 | A | Analyze pacemaker system | 0.38 | 0.15 | 0.15 | 0.01 | 0.54 | 0.54 | XXX
93734 | TC | A | Analyze pacemaker system | 0.00 | 0.35 | N/A | 0.02 | 0.37 | N/A | XXX
93735 |  | A | Analyze pacemaker system | 0.74 | 0.74 | N/A | 0.06 | 1.54 | N/A | XXX
93735 | 26 | A | Analyze pacemaker system | 0.74 | 0.29 | 0.29 | 0.03 | 1.06 | 1.06 | XXX
93735 | TC | A | Analyze pacemaker system | 0.00 | 0.44 | N/A | 0.03 | 0.47 | N/A | XXX
93736 |  | A | Telephone analy, pacemaker | 0.15 | 0.69 | N/A | 0.06 | 0.90 | N/A | XXX
93736 | 26 | A | Telephone analy, pacemaker | 0.15 | 0.06 | 0.06 | 0.01 | 0.22 | 0.22 | XXX
93736 | TC | A | Telephone analy, pacemaker | 0.00 | 0.63 | N/A | 0.05 | 0.68 | N/A | XXX
93740 |  | B | Temperature gradient studies | 0.16 | 0.20 | N/A | 0.02 | 0.38 | N/A | XXX
93740 | 26 | B | Temperature gradient studies | 0.16 | 0.04 | 0.04 | 0.01 | 0.21 | 0.21 | XXX
93740 | TC | B | Temperature gradient studies | 0.00 | 0.15 | N/A | 0.01 | 0.16 | N/A | XXX
93741 |  | A | Analyze ht pace device sngl | 0.80 | 0.99 | N/A | 0.05 | 1.84 | N/A | XXX
93741 | 26 | A | Analyze ht pace device sngl | 0.80 | 0.32 | 0.32 | 0.02 | 1.14 | 1.14 | XXX
93741 | TC | A | Analyze ht pace device sngl | 0.00 | 0.67 | N/A | 0.03 | 0.70 | N/A | XXX
93742 |  | A | Analyze ht pace device sngl | 0.91 | 1.03 | N/A | 0.05 | 1.99 | N/A | XXX
93742 | 26 | A | Analyze ht pace device sngl | 0.91 | 0.36 | 0.36 | 0.02 | 1.29 | 1.29 | XXX
93742 | TC | A | Analyze ht pace device sngl | 0.00 | 0.67 | N/A | 0.03 | 0.70 | N/A | XXX
93743 |  | A | Analyze ht pace device dual | 1.03 | 1.14 | N/A | 0.06 | 2.23 | N/A | XXX
93743 | 26 | A | Analyze ht pace device dual | 1.03 | 0.41 | 0.41 | 0.03 | 1.47 | 1.47 | XXX
93743 | TC | A | Analyze ht pace device dual | 0.00 | 0.73 | N/A | 0.03 | 0.76 | N/A | XXX
93744 |  | A | Analyze ht pace device dual | 1.18 | 1.14 | N/A | 0.06 | 2.38 | N/A | XXX
93744 | 26 | A | Analyze ht pace device dual | 1.18 | 0.47 | 0.47 | 0.03 | 1.68 | 1.68 | XXX
93744 | TC | A | Analyze ht pace device dual | 0.00 | 0.67 | N/A | 0.03 | 0.70 | N/A | XXX
93770 |  | B | Measure venous pressure | 0.16 | 0.08 | N/A | 0.02 | 0.26 | N/A | XXX
93770 | 26 | B | Measure venous pressure | 0.16 | 0.05 | 0.05 | 0.01 | 0.22 | 0.22 | XXX
93770 | TC | B | Measure venous pressure | 0.00 | 0.03 | N/A | 0.01 | 0.04 | N/A | XXX
93784 |  | A | Ambulatory BP monitoring | 0.17 | 0.97 | N/A | 0.02 | 1.16 | N/A | XXX
93786 |  | A | Ambulatory BP recording | 0.00 | 0.91 | N/A | 0.01 | 0.92 | N/A | XXX
93790 |  | A | Review/report BP recording | 0.17 | 0.06 | 0.06 | 0.01 | 0.24 | 0.24 | XXX
93797 |  | A | Cardiac rehab | 0.18 | 0.39 | 0.07 | 0.01 | 0.58 | 0.26 | 000
93798 |  | A | Cardiac rehab/monitor | 0.28 | 0.51 | 0.11 | 0.01 | 0.80 | 0.40 | 000
93799 |  | C | Cardiovascular procedure | 0.00 | 0.00 | 0.00 | 0.00 | 0.00 | 0.00 | XXX
93799 | 26 | C | Cardiovascular procedure | 0.00 | 0.00 | 0.00 | 0.00 | 0.00 | 0.00 | XXX
93799 | TC | C | Cardiovascular procedure | 0.00 | 0.00 | 0.00 | 0.00 | 0.00 | 0.00 | XXX
93875 |  | A | Extracranial study | 0.22 | 1.67 | N/A | 0.10 | 1.99 | N/A | XXX
93875 | 26 | A | Extracranial study | 0.22 | 0.08 | 0.08 | 0.01 | 0.31 | 0.31 | XXX
93875 | TC | A | Extracranial study | 0.00 | 1.59 | N/A | 0.09 | 1.68 | N/A | XXX
93880 |  | A | Extracranial study | 0.60 | 4.20 | N/A | 0.33 | 5.13 | N/A | XXX
93880 | 26 | A | Extracranial study | 0.60 | 0.21 | 0.21 | 0.04 | 0.85 | 0.85 | XXX
93880 | TC | A | Extracranial study | 0.00 | 3.99 | N/A | 0.29 | 4.28 | N/A | XXX
93882 |  | A | Extracranial study | 0.40 | 3.03 | N/A | 0.22 | 3.65 | N/A | XXX
93882 | 26 | A | Extracranial study | 0.40 | 0.14 | 0.14 | 0.04 | 0.58 | 0.58 | XXX
93882 | TC | A | Extracranial study | 0.00 | 2.88 | N/A | 0.18 | 3.06 | N/A | XXX
93886 |  | A | Intracranial study | 0.94 | 4.54 | N/A | 0.37 | 5.85 | N/A | XXX
93886 | 26 | A | Intracranial study | 0.94 | 0.38 | 0.38 | 0.05 | 1.37 | 1.37 | XXX
93886 | TC | A | Intracranial study | 0.00 | 4.17 | N/A | 0.32 | 4.49 | N/A | XXX
93888 |  | A | Intracranial study | 0.62 | 3.07 | N/A | 0.26 | 3.95 | N/A | XXX
93888 | 26 | A | Intracranial study | 0.62 | 0.23 | 0.23 | 0.04 | 0.89 | 0.89 | XXX
93888 | TC | A | Intracranial study | 0.00 | 2.84 | N/A | 0.22 | 3.06 | N/A | XXX
93922 |  | A | Extremity study | 0.25 | 1.94 | N/A | 0.13 | 2.32 | N/A | XXX
93922 | 26 | A | Extremity study | 0.25 | 0.09 | 0.09 | 0.02 | 0.36 | 0.36 | XXX
93922 | TC | A | Extremity study | 0.00 | 1.85 | N/A | 0.11 | 1.96 | N/A | XXX
93923 |  | A | Extremity study | 0.45 | 3.04 | N/A | 0.22 | 3.71 | N/A | XXX
93923 | 26 | A | Extremity study | 0.45 | 0.16 | 0.16 | 0.04 | 0.65 | 0.65 | XXX
93923 | TC | A | Extremity study | 0.00 | 2.88 | N/A | 0.18 | 3.06 | N/A | XXX
93924 |  | A | Extremity study | 0.50 | 3.79 | N/A | 0.26 | 4.55 | N/A | XXX
93924 | 26 | A | Extremity study | 0.50 | 0.17 | 0.17 | 0.05 | 0.72 | 0.72 | XXX
93924 | TC | A | Extremity study | 0.00 | 3.62 | N/A | 0.21 | 3.83 | N/A | XXX
93925 |  | A | Lower extremity study | 0.58 | 4.91 | N/A | 0.33 | 5.82 | N/A | XXX
93925 | 26 | A | Lower extremity study | 0.58 | 0.20 | 0.20 | 0.04 | 0.82 | 0.82 | XXX
93925 | TC | A | Lower extremity study | 0.00 | 4.71 | N/A | 0.29 | 5.00 | N/A | XXX
93926 |  | A | Lower extremity study | 0.39 | 3.51 | N/A | 0.22 | 4.12 | N/A | XXX
93926 | 26 | A | Lower extremity study | 0.39 | 0.13 | 0.13 | 0.03 | 0.55 | 0.55 | XXX
93926 | TC | A | Lower extremity study | 0.00 | 3.37 | N/A | 0.19 | 3.56 | N/A | XXX
93930 |  | A | Upper extremity study | 0.46 | 3.90 | N/A | 0.34 | 4.70 | N/A | XXX
93930 | 26 | A | Upper extremity study | 0.46 | 0.16 | 0.16 | 0.03 | 0.65 | 0.65 | XXX
93930 | TC | A | Upper extremity study | 0.00 | 3.74 | N/A | 0.31 | 4.05 | N/A | XXX
93931 |  | A | Upper extremity study | 0.31 | 2.84 | N/A | 0.22 | 3.37 | N/A | XXX
93931 | 26 | A | Upper extremity study | 0.31 | 0.11 | 0.11 | 0.02 | 0.44 | 0.44 | XXX
93931 | TC | A | Upper extremity study | 0.00 | 2.74 | N/A | 0.20 | 2.94 | N/A | XXX
93965 |  | A | Extremity study | 0.35 | 1.88 | N/A | 0.12 | 2.35 | N/A | XXX
93965 | 26 | A | Extremity study | 0.35 | 0.12 | 0.12 | 0.02 | 0.49 | 0.49 | XXX
93965 | TC | A | Extremity study | 0.00 | 1.76 | N/A | 0.10 | 1.86 | N/A | XXX
93970 |  | A | Extremity study | 0.68 | 4.00 | N/A | 0.38 | 5.06 | N/A | XXX
93970 | 26 | A | Extremity study | 0.68 | 0.23 | 0.23 | 0.05 | 0.96 | 0.96 | XXX
93970 | TC | A | Extremity study | 0.00 | 3.77 | N/A | 0.33 | 4.10 | N/A | XXX
93971 |  | A | Extremity study | 0.45 | 2.88 | N/A | 0.25 | 3.58 | N/A | XXX
93971 | 26 | A | Extremity study | 0.45 | 0.15 | 0.15 | 0.03 | 0.63 | 0.63 | XXX
93971 | TC | A | Extremity study | 0.00 | 2.73 | N/A | 0.22 | 2.95 | N/A | XXX
93975 |  | A | Vascular study | 1.80 | 5.86 | N/A | 0.47 | 8.13 | N/A | XXX
93975 | 26 | A | Vascular study | 1.80 | 0.61 | 0.61 | 0.11 | 2.52 | 2.52 | XXX
93975 | TC | A | Vascular study | 0.00 | 5.25 | N/A | 0.36 | 5.61 | N/A | XXX
93976 |  | A | Vascular study | 1.21 | 3.48 | N/A | 0.31 | 5.00 | N/A | XXX
93976 | 26 | A | Vascular study | 1.21 | 0.41 | 0.41 | 0.06 | 1.68 | 1.68 | XXX
93976 | TC | A | Vascular study | 0.00 | 3.08 | N/A | 0.25 | 3.33 | N/A | XXX
93978 |  | A | Vascular study | 0.65 | 3.62 | N/A | 0.36 | 4.63 | N/A | XXX
93978 | 26 | A | Vascular study | 0.65 | 0.22 | 0.22 | 0.05 | 0.92 | 0.92 | XXX
93978 | TC | A | Vascular study | 0.00 | 3.39 | N/A | 0.31 | 3.70 | N/A | XXX
93979 |  | A | Vascular study | 0.44 | 2.67 | N/A | 0.24 | 3.35 | N/A | XXX
93979 | 26 | A | Vascular study | 0.44 | 0.16 | 0.16 | 0.04 | 0.64 | 0.64 | XXX
93979 | TC | A | Vascular study | 0.00 | 2.51 | N/A | 0.20 | 2.71 | N/A | XXX
93980 |  | A | Penile vascular study | 1.25 | 4.77 | N/A | 0.35 | 6.37 | N/A | XXX
93980 | 26 | A | Penile vascular study | 1.25 | 0.42 | 0.42 | 0.07 | 1.74 | 1.74 | XXX
93980 | TC | A | Penile vascular study | 0.00 | 4.35 | N/A | 0.28 | 4.63 | N/A | XXX
93981 |  | A | Penile vascular study | 0.44 | 4.65 | N/A | 0.28 | 5.37 | N/A | XXX
93981 | 26 | A | Penile vascular study | 0.44 | 0.15 | 0.15 | 0.02 | 0.61 | 0.61 | XXX
93981 | TC | A | Penile vascular study | 0.00 | 4.51 | N/A | 0.26 | 4.77 | N/A | XXX
93990 |  | A | Doppler flow testing | 0.25 | 3.44 | N/A | 0.21 | 3.90 | N/A | XXX
93990 | 26 | A | Doppler flow testing | 0.25 | 0.09 | 0.09 | 0.02 | 0.36 | 0.36 | XXX
93990 | TC | A | Doppler flow testing | 0.00 | 3.35 | N/A | 0.19 | 3.54 | N/A | XXX
94010 |  | A | Breathing capacity test | 0.17 | 0.69 | N/A | 0.03 | 0.89 | N/A | XXX
94010 | 26 | A | Breathing capacity test | 0.17 | 0.05 | 0.05 | 0.01 | 0.23 | 0.23 | XXX
94010 | TC | A | Breathing capacity test | 0.00 | 0.64 | N/A | 0.02 | 0.66 | N/A | XXX
94014 |  | A | Patient recorded spirometry | 0.52 | 0.78 | N/A | 0.03 | 1.33 | N/A | XXX
94015 |  | A | Patient recorded spirometry | 0.00 | 0.61 | N/A | 0.01 | 0.62 | N/A | XXX
94016 |  | A | Review patient spirometry | 0.52 | 0.17 | 0.17 | 0.02 | 0.71 | 0.71 | XXX
94060 |  | A | Evaluation of wheezing | 0.31 | 1.14 | N/A | 0.06 | 1.51 | N/A | XXX
94060 | 26 | A | Evaluation of wheezing | 0.31 | 0.10 | 0.10 | 0.01 | 0.42 | 0.42 | XXX
94060 | TC | A | Evaluation of wheezing | 0.00 | 1.05 | N/A | 0.05 | 1.10 | N/A | XXX
94070 |  | A | Evaluation of wheezing | 0.60 | 1.25 | N/A | 0.10 | 1.95 | N/A | XXX
94070 | 26 | A | Evaluation of wheezing | 0.60 | 0.19 | 0.19 | 0.02 | 0.81 | 0.81 | XXX
94070 | TC | A | Evaluation of wheezing | 0.00 | 1.06 | N/A | 0.08 | 1.14 | N/A | XXX
94150 |  | B | Vital capacity test | 0.07 | 0.48 | N/A | 0.02 | 0.57 | N/A | XXX
94150 | 26 | B | Vital capacity test | 0.07 | 0.03 | 0.03 | 0.01 | 0.11 | 0.11 | XXX
94150 | TC | B | Vital capacity test | 0.00 | 0.46 | N/A | 0.01 | 0.47 | N/A | XXX
94200 |  | A | Lung function test (MBC/MVV) | 0.11 | 0.46 | N/A | 0.03 | 0.60 | N/A | XXX
94200 | 26 | A | Lung function test (MBC/MVV) | 0.11 | 0.03 | 0.03 | 0.01 | 0.15 | 0.15 | XXX
94200 | TC | A | Lung function test (MBC/MVV) | 0.00 | 0.43 | N/A | 0.02 | 0.45 | N/A | XXX
94240 |  | A | Residual lung capacity | 0.26 | 0.59 | N/A | 0.05 | 0.90 | N/A | XXX
94240 | 26 | A | Residual lung capacity | 0.26 | 0.08 | 0.08 | 0.01 | 0.35 | 0.35 | XXX
94240 | TC | A | Residual lung capacity | 0.00 | 0.51 | N/A | 0.04 | 0.55 | N/A | XXX
94250 |  | A | Expired gas collection | 0.11 | 0.68 | N/A | 0.02 | 0.81 | N/A | XXX
94250 | 26 | A | Expired gas collection | 0.11 | 0.03 | 0.03 | 0.01 | 0.15 | 0.15 | XXX
94250 | TC | A | Expired gas collection | 0.00 | 0.64 | N/A | 0.01 | 0.65 | N/A | XXX
94260 |  | A | Thoracic gas volume | 0.13 | 0.51 | N/A | 0.04 | 0.68 | N/A | XXX
94260 | 26 | A | Thoracic gas volume | 0.13 | 0.04 | 0.04 | 0.01 | 0.18 | 0.18 | XXX
94260 | TC | A | Thoracic gas volume | 0.00 | 0.47 | N/A | 0.03 | 0.50 | N/A | XXX
94350 |  | A | Lung nitrogen washout curve | 0.26 | 0.77 | N/A | 0.04 | 1.07 | N/A | XXX
94350 | 26 | A | Lung nitrogen washout curve | 0.26 | 0.08 | 0.08 | 0.01 | 0.35 | 0.35 | XXX
94350 | TC | A | Lung nitrogen washout curve | 0.00 | 0.69 | N/A | 0.03 | 0.72 | N/A | XXX
94360 |  | A | Measure airflow resistance | 0.26 | 0.61 | N/A | 0.06 | 0.93 | N/A | XXX
94360 | 26 | A | Measure airflow resistance | 0.26 | 0.08 | 0.08 | 0.01 | 0.35 | 0.35 | XXX
94360 | TC | A | Measure airflow resistance | 0.00 | 0.53 | N/A | 0.05 | 0.58 | N/A | XXX
94370 |  | A | Breath airway closing volume | 0.26 | 0.74 | N/A | 0.03 | 1.03 | N/A | XXX
94370 | 26 | A | Breath airway closing volume | 0.26 | 0.08 | 0.08 | 0.01 | 0.35 | 0.35 | XXX
94370 | TC | A | Breath airway closing volume | 0.00 | 0.66 | N/A | 0.02 | 0.68 | N/A | XXX
94375 |  | A | Respiratory flow volume loop | 0.31 | 0.56 | N/A | 0.03 | 0.90 | N/A | XXX
94375 | 26 | A | Respiratory flow volume loop | 0.31 | 0.10 | 0.10 | 0.01 | 0.42 | 0.42 | XXX
94375 | TC | A | Respiratory flow volume loop | 0.00 | 0.47 | N/A | 0.02 | 0.49 | N/A | XXX
94400 |  | A | CO2 breathing response curve | 0.40 | 0.86 | N/A | 0.06 | 1.32 | N/A | XXX
94400 | 26 | A | CO2 breathing response curve | 0.40 | 0.13 | 0.13 | 0.01 | 0.54 | 0.54 | XXX
94400 | TC | A | CO2 breathing response curve | 0.00 | 0.74 | N/A | 0.05 | 0.79 | N/A | XXX
94450 |  | A | Hypoxia response curve | 0.40 | 0.69 | N/A | 0.04 | 1.13 | N/A | XXX
94450 | 26 | A | Hypoxia response curve | 0.40 | 0.12 | 0.12 | 0.02 | 0.54 | 0.54 | XXX
94450 | TC | A | Hypoxia response curve | 0.00 | 0.57 | N/A | 0.02 | 0.59 | N/A | XXX
94620 |  | A | Pulmonary stress test/simple | 0.64 | 2.49 | N/A | 0.10 | 3.23 | N/A | XXX
94620 | 26 | A | Pulmonary stress test/simple | 0.64 | 0.20 | 0.20 | 0.02 | 0.86 | 0.86 | XXX
94620 | TC | A | Pulmonary stress test/simple | 0.00 | 2.29 | N/A | 0.08 | 2.37 | N/A | XXX
94621 |  | A | Pulm stress test/complex | 1.42 | 2.11 | N/A | 0.13 | 3.66 | N/A | XXX
94621 | 26 | A | Pulm stress test/complex | 1.42 | 0.44 | 0.44 | 0.05 | 1.91 | 1.91 | XXX
94621 | TC | A | Pulm stress test/complex | 0.00 | 1.67 | N/A | 0.08 | 1.75 | N/A | XXX
94640 |  | A | Airway inhalation treatment | 0.00 | 0.35 | N/A | 0.02 | 0.37 | N/A | XXX
94642 |  | C | Aerosol inhalation treatment | 0.00 | 0.00 | 0.00 | 0.00 | 0.00 | 0.00 | XXX
94656 |  | A | Initial ventilator mgmt | 1.22 | 1.23 | 0.32 | 0.06 | 2.51 | 1.60 | XXX
94657 |  | A | Continued ventilator mgmt | 0.83 | 1.04 | 0.25 | 0.03 | 1.90 | 1.11 | XXX
94660 |  | A | Pos airway pressure, CPAP | 0.76 | 0.67 | 0.24 | 0.03 | 1.46 | 1.03 | XXX
94662 |  | A | Neg press ventilation, cnp | 0.76 | N/A | 0.24 | 0.02 | N/A | 1.02 | XXX
94664 |  | A | Evaluate pt use of inhaler | 0.00 | 0.34 | N/A | 0.03 | 0.37 | N/A | XXX
94667 |  | A | Chest wall manipulation | 0.00 | 0.56 | N/A | 0.04 | 0.60 | N/A | XXX
94668 |  | A | Chest wall manipulation | 0.00 | 0.48 | N/A | 0.02 | 0.50 | N/A | XXX
94680 |  | A | Exhaled air analysis, o2 | 0.26 | 1.97 | N/A | 0.06 | 2.29 | N/A | XXX
94680 | 26 | A | Exhaled air analysis, o2 | 0.26 | 0.08 | 0.08 | 0.01 | 0.35 | 0.35 | XXX
94680 | TC | A | Exhaled air analysis, o2 | 0.00 | 1.89 | N/A | 0.05 | 1.94 | N/A | XXX
94681 |  | A | Exhaled air analysis, o2/co2 | 0.20 | 2.69 | N/A | 0.11 | 3.00 | N/A | XXX
94681 | 26 | A | Exhaled air analysis, o2/co2 | 0.20 | 0.07 | 0.07 | 0.01 | 0.28 | 0.28 | XXX
94681 | TC | A | Exhaled air analysis, o2/co2 | 0.00 | 2.62 | N/A | 0.10 | 2.72 | N/A | XXX
94690 |  | A | Exhaled air analysis | 0.07 | 2.06 | N/A | 0.04 | 2.17 | N/A | XXX
94690 | 26 | A | Exhaled air analysis | 0.07 | 0.02 | 0.02 | 0.01 | 0.10 | 0.10 | XXX
94690 | TC | A | Exhaled air analysis | 0.00 | 2.04 | N/A | 0.03 | 2.07 | N/A | XXX
94720 |  | A | Monoxide diffusing capacity | 0.26 | 1.02 | N/A | 0.06 | 1.34 | N/A | XXX
94720 | 26 | A | Monoxide diffusing capacity | 0.26 | 0.08 | 0.08 | 0.01 | 0.35 | 0.35 | XXX
94720 | TC | A | Monoxide diffusing capacity | 0.00 | 0.94 | N/A | 0.05 | 0.99 | N/A | XXX
94725 |  | A | Membrane diffusion capacity | 0.26 | 3.07 | N/A | 0.11 | 3.44 | N/A | XXX
94725 | 26 | A | Membrane diffusion capacity | 0.26 | 0.08 | 0.08 | 0.01 | 0.35 | 0.35 | XXX
94725 | TC | A | Membrane diffusion capacity | 0.00 | 2.99 | N/A | 0.10 | 3.09 | N/A | XXX
94750 |  | A | Pulmonary compliance study | 0.23 | 1.41 | N/A | 0.04 | 1.68 | N/A | XXX
94750 | 26 | A | Pulmonary compliance study | 0.23 | 0.07 | 0.07 | 0.01 | 0.31 | 0.31 | XXX
94750 | TC | A | Pulmonary compliance study | 0.00 | 1.33 | N/A | 0.03 | 1.36 | N/A | XXX
94760 |  | T | Measure blood oxygen level | 0.00 | 0.09 | N/A | 0.02 | 0.11 | N/A | XXX
94761 |  | T | Measure blood oxygen level | 0.00 | 0.12 | N/A | 0.05 | 0.17 | N/A | XXX
94762 |  | A | Measure blood oxygen level | 0.00 | 0.41 | N/A | 0.08 | 0.49 | N/A | XXX
94770 |  | A | Exhaled carbon dioxide test | 0.15 | 1.72 | N/A | 0.07 | 1.94 | N/A | XXX
94770 | 26 | A | Exhaled carbon dioxide test | 0.15 | 0.04 | 0.04 | 0.01 | 0.20 | 0.20 | XXX
94770 | TC | A | Exhaled carbon dioxide test | 0.00 | 1.68 | N/A | 0.06 | 1.74 | N/A | XXX
94772 |  | C | Breath recording, infant | 0.00 | 0.00 | 0.00 | 0.00 | 0.00 | 0.00 | XXX
94772 | 26 | C | Breath recording, infant | 0.00 | 0.00 | 0.00 | 0.00 | 0.00 | 0.00 | XXX
94772 | TC | C | Breath recording, infant | 0.00 | 0.00 | 0.00 | 0.00 | 0.00 | 0.00 | XXX
94799 |  | C | Pulmonary service/procedure | 0.00 | 0.00 | 0.00 | 0.00 | 0.00 | 0.00 | XXX
94799 | 26 | C | Pulmonary service/procedure | 0.00 | 0.00 | 0.00 | 0.00 | 0.00 | 0.00 | XXX
94799 | TC | C | Pulmonary service/procedure | 0.00 | 0.00 | 0.00 | 0.00 | 0.00 | 0.00 | XXX
95004 |  | A | Percut allergy skin tests | 0.00 | 0.10 | N/A | 0.01 | 0.11 | N/A | XXX
95010 |  | A | Percut allergy titrate test | 0.15 | 0.33 | 0.06 | 0.01 | 0.49 | 0.22 | XXX
95015 |  | A | Id allergy titrate-drug/bug | 0.15 | 0.15 | 0.06 | 0.01 | 0.31 | 0.22 | XXX
95024 |  | A | Id allergy test, drug/bug | 0.00 | 0.15 | N/A | 0.01 | 0.16 | N/A | XXX
95027 |  | A | Id allergy titrate-airborne | 0.00 | 0.15 | N/A | 0.01 | 0.16 | N/A | XXX
95028 |  | A | Id allergy test-delayed type | 0.00 | 0.23 | N/A | 0.01 | 0.24 | N/A | XXX
95044 |  | A | Allergy patch tests | 0.00 | 0.20 | N/A | 0.01 | 0.21 | N/A | XXX
95052 |  | A | Photo patch test | 0.00 | 0.25 | N/A | 0.01 | 0.26 | N/A | XXX
95056 |  | A | Photosensitivity tests | 0.00 | 0.17 | N/A | 0.01 | 0.18 | N/A | XXX
95060 |  | A | Eye allergy tests | 0.00 | 0.35 | N/A | 0.02 | 0.37 | N/A | XXX
95065 |  | A | Nose allergy test | 0.00 | 0.20 | N/A | 0.01 | 0.21 | N/A | XXX
95070 |  | A | Bronchial allergy tests | 0.00 | 2.28 | N/A | 0.02 | 2.30 | N/A | XXX
95071 |  | A | Bronchial allergy tests | 0.00 | 2.92 | N/A | 0.02 | 2.94 | N/A | XXX
95075 |  | A | Ingestion challenge test | 0.95 | 0.84 | 0.39 | 0.03 | 1.82 | 1.37 | XXX
95078 |  | A | Provocative testing | 0.00 | 0.25 | N/A | 0.02 | 0.27 | N/A | XXX
95115 |  | A | Immunotherapy, one injection | 0.00 | 0.39 | N/A | 0.02 | 0.41 | N/A | 000
95117 |  | A | Immunotherapy injections | 0.00 | 0.50 | N/A | 0.02 | 0.52 | N/A | 000
95120 |  | I | Immunotherapy, one injection | 0.00 | 0.00 | 0.00 | 0.00 | 0.00 | 0.00 | XXX
95125 |  | I | Immunotherapy, many antigens | 0.00 | 0.00 | 0.00 | 0.00 | 0.00 | 0.00 | XXX
95130 |  | I | Immunotherapy, insect venom | 0.00 | 0.00 | 0.00 | 0.00 | 0.00 | 0.00 | XXX
95131 |  | I | Immunotherapy, insect venoms | 0.00 | 0.00 | 0.00 | 0.00 | 0.00 | 0.00 | XXX
95132 |  | I | Immunotherapy, insect venoms | 0.00 | 0.00 | 0.00 | 0.00 | 0.00 | 0.00 | XXX
95133 |  | I | Immunotherapy, insect venoms | 0.00 | 0.00 | 0.00 | 0.00 | 0.00 | 0.00 | XXX
95134 |  | I | Immunotherapy, insect venoms | 0.00 | 0.00 | 0.00 | 0.00 | 0.00 | 0.00 | XXX
95144 |  | A | Antigen therapy services | 0.06 | 0.16 | 0.02 | 0.01 | 0.23 | 0.09 | 000
95145 |  | A | Antigen therapy services | 0.06 | 0.20 | 0.02 | 0.01 | 0.27 | 0.09 | 000
95146 |  | A | Antigen therapy services | 0.06 | 0.27 | 0.03 | 0.01 | 0.34 | 0.10 | 000
95147 |  | A | Antigen therapy services | 0.06 | 0.34 | 0.02 | 0.01 | 0.41 | 0.09 | 000
95148 |  | A | Antigen therapy services | 0.06 | 0.42 | 0.03 | 0.01 | 0.49 | 0.10 | 000
95149 |  | A | Antigen therapy services | 0.06 | 0.56 | 0.03 | 0.01 | 0.63 | 0.10 | 000
95165 |  | A | Antigen therapy services | 0.06 | 0.21 | 0.02 | 0.01 | 0.28 | 0.09 | 000
95170 |  | A | Antigen therapy services | 0.06 | 0.14 | 0.02 | 0.01 | 0.21 | 0.09 | 000
95180 |  | A | Rapid desensitization | 2.01 | 1.56 | 0.84 | 0.04 | 3.61 | 2.89 | 000
95199 |  | C | Allergy immunology services | 0.00 | 0.00 | 0.00 | 0.00 | 0.00 | 0.00 | 000
95250 |  | A | Glucose monitoring, cont | 0.00 | 3.93 | N/A | 0.01 | 3.94 | N/A | XXX
95805 |  | A | Multiple sleep latency test | 1.88 | 16.80 | N/A | 0.34 | 19.02 | N/A | XXX
95805 | 26 | A | Multiple sleep latency test | 1.88 | 0.67 | 0.67 | 0.06 | 2.61 | 2.61 | XXX
95805 | TC | A | Multiple sleep latency test | 0.00 | 16.12 | N/A | 0.28 | 16.40 | N/A | XXX
95806 |  | A | Sleep study, unattended | 1.66 | 3.94 | N/A | 0.32 | 5.92 | N/A | XXX
95806 | 26 | A | Sleep study, unattended | 1.66 | 0.55 | 0.55 | 0.06 | 2.27 | 2.27 | XXX
95806 | TC | A | Sleep study, unattended | 0.00 | 3.40 | N/A | 0.26 | 3.66 | N/A | XXX
95807 |  | A | Sleep study, attended | 1.66 | 12.35 | N/A | 0.40 | 14.41 | N/A | XXX
95807 | 26 | A | Sleep study, attended | 1.66 | 0.54 | 0.54 | 0.05 | 2.25 | 2.25 | XXX
95807 | TC | A | Sleep study, attended | 0.00 | 11.81 | N/A | 0.35 | 12.16 | N/A | XXX
95808 |  | A | Polysomnography, 1-3 | 2.65 | 13.34 | N/A | 0.44 | 16.43 | N/A | XXX
95808 | 26 | A | Polysomnography, 1-3 | 2.65 | 0.94 | 0.94 | 0.09 | 3.68 | 3.68 | XXX
95808 | TC | A | Polysomnography, 1-3 | 0.00 | 12.39 | N/A | 0.35 | 12.74 | N/A | XXX
95810 |  | A | Polysomnography, 4 or more | 3.53 | 17.59 | N/A | 0.47 | 21.59 | N/A | XXX
95810 | 26 | A | Polysomnography, 4 or more | 3.53 | 1.21 | 1.21 | 0.12 | 4.86 | 4.86 | XXX
95810 | TC | A | Polysomnography, 4 or more | 0.00 | 16.38 | N/A | 0.35 | 16.73 | N/A | XXX
95811 |  | A | Polysomnography w/cpap | 3.80 | 19.01 | N/A | 0.49 | 23.30 | N/A | XXX
95811 | 26 | A | Polysomnography w/cpap | 3.80 | 1.30 | 1.30 | 0.13 | 5.23 | 5.23 | XXX
95811 | TC | A | Polysomnography w/cpap | 0.00 | 17.72 | N/A | 0.36 | 18.08 | N/A | XXX
95812 |  | A | Eeg, 41-60 minutes | 1.08 | 3.96 | N/A | 0.13 | 5.17 | N/A | XXX
95812 | 26 | A | Eeg, 41-60 minutes | 1.08 | 0.46 | 0.46 | 0.04 | 1.58 | 1.58 | XXX
95812 | TC | A | Eeg, 41-60 minutes | 0.00 | 3.50 | N/A | 0.09 | 3.59 | N/A | XXX
95813 |  | A | Eeg, over 1 hour | 1.73 | 5.00 | N/A | 0.15 | 6.88 | N/A | XXX
95813 | 26 | A | Eeg, over 1 hour | 1.73 | 0.71 | 0.71 | 0.06 | 2.50 | 2.50 | XXX
95813 | TC | A | Eeg, over 1 hour | 0.00 | 4.28 | N/A | 0.09 | 4.37 | N/A | XXX
95816 |  | A | Eeg, awake and drowsy | 1.08 | 3.16 | N/A | 0.12 | 4.36 | N/A | XXX
95816 | 26 | A | Eeg, awake and drowsy | 1.08 | 0.47 | 0.47 | 0.04 | 1.59 | 1.59 | XXX
95816 | TC | A | Eeg, awake and drowsy | 0.00 | 2.70 | N/A | 0.08 | 2.78 | N/A | XXX
95819 |  | A | Eeg, awake and asleep | 1.08 | 3.71 | N/A | 0.12 | 4.91 | N/A | XXX
95819 | 26 | A | Eeg, awake and asleep | 1.08 | 0.47 | 0.47 | 0.04 | 1.59 | 1.59 | XXX
95819 | TC | A | Eeg, awake and asleep | 0.00 | 3.24 | N/A | 0.08 | 3.32 | N/A | XXX
95822 |  | A | Eeg, coma or sleep only | 1.08 | 4.40 | N/A | 0.15 | 5.63 | N/A | XXX
95822 | 26 | A | Eeg, coma or sleep only | 1.08 | 0.47 | 0.47 | 0.04 | 1.59 | 1.59 | XXX
95822 | TC | A | Eeg, coma or sleep only | 0.00 | 3.93 | N/A | 0.11 | 4.04 | N/A | XXX
95824 |  | C | Eeg, cerebral death only | 0.00 | 0.00 | 0.00 | 0.00 | 0.00 | 0.00 | XXX
95824 | 26 | A | Eeg, cerebral death only | 0.74 | 0.32 | 0.32 | 0.05 | 1.11 | 1.11 | XXX
95824 | TC | C | Eeg, cerebral death only | 0.00 | 0.00 | 0.00 | 0.00 | 0.00 | 0.00 | XXX
95827 |  | A | Eeg, all night recording | 1.08 | 2.71 | N/A | 0.15 | 3.94 | N/A | XXX
95827 | 26 | A | Eeg, all night recording | 1.08 | 0.42 | 0.42 | 0.03 | 1.53 | 1.53 | XXX
95827 | TC | A | Eeg, all night recording | 0.00 | 2.29 | N/A | 0.12 | 2.41 | N/A | XXX
95829 |  | A | Surgery electrocorticogram | 6.21 | 32.94 | N/A | 0.33 | 39.48 | N/A | XXX
95829 | 26 | A | Surgery electrocorticogram | 6.21 | 2.37 | 2.37 | 0.31 | 8.89 | 8.89 | XXX
95829 | TC | A | Surgery electrocorticogram | 0.00 | 30.57 | N/A | 0.02 | 30.59 | N/A | XXX
95830 |  | A | Insert electrodes for EEG | 1.70 | 3.50 | 0.75 | 0.07 | 5.27 | 2.52 | XXX
95831 |  | A | Limb muscle testing, manual | 0.28 | 0.33 | 0.13 | 0.01 | 0.62 | 0.42 | XXX
95832 |  | A | Hand muscle testing, manual | 0.29 | 0.25 | 0.12 | 0.01 | 0.55 | 0.42 | XXX
95833 |  | A | Body muscle testing, manual | 0.47 | 0.44 | 0.23 | 0.01 | 0.92 | 0.71 | XXX
95834 |  | A | Body muscle testing, manual | 0.60 | 0.50 | 0.28 | 0.02 | 1.12 | 0.90 | XXX
95851 |  | A | Range of motion measurements | 0.16 | 0.34 | 0.08 | 0.01 | 0.51 | 0.25 | XXX
95852 |  | A | Range of motion measurements | 0.11 | 0.24 | 0.05 | 0.01 | 0.36 | 0.17 | XXX
95857 |  | A | Tensilon test | 0.53 | 0.62 | 0.23 | 0.02 | 1.17 | 0.78 | XXX
95858 |  | A | Tensilon test & myogram | 1.56 | 1.08 | N/A | 0.07 | 2.71 | N/A | XXX
95858 | 26 | A | Tensilon test & myogram | 1.56 | 0.68 | 0.68 | 0.04 | 2.28 | 2.28 | XXX
95858 | TC | A | Tensilon test & myogram | 0.00 | 0.40 | N/A | 0.03 | 0.43 | N/A | XXX
95860 |  | A | Muscle test, one limb | 0.96 | 1.47 | N/A | 0.05 | 2.48 | N/A | XXX
95860 | 26 | A | Muscle test, one limb | 0.96 | 0.43 | 0.43 | 0.03 | 1.42 | 1.42 | XXX
95860 | TC | A | Muscle test, one limb | 0.00 | 1.04 | N/A | 0.02 | 1.06 | N/A | XXX
95861 |  | A | Muscle test, 2 limbs | 1.54 | 1.43 | N/A | 0.10 | 3.07 | N/A | XXX
95861 | 26 | A | Muscle test, 2 limbs | 1.54 | 0.69 | 0.69 | 0.05 | 2.28 | 2.28 | XXX
95861 | TC | A | Muscle test, 2 limbs | 0.00 | 0.73 | N/A | 0.05 | 0.78 | N/A | XXX
95863 |  | A | Muscle test, 3 limbs | 1.87 | 1.76 | N/A | 0.11 | 3.74 | N/A | XXX
95863 | 26 | A | Muscle test, 3 limbs | 1.87 | 0.82 | 0.82 | 0.06 | 2.75 | 2.75 | XXX
95863 | TC | A | Muscle test, 3 limbs | 0.00 | 0.94 | N/A | 0.05 | 0.99 | N/A | XXX
95864 |  | A | Muscle test, 4 limbs | 1.99 | 2.67 | N/A | 0.16 | 4.82 | N/A | XXX
95864 | 26 | A | Muscle test, 4 limbs | 1.99 | 0.89 | 0.89 | 0.06 | 2.94 | 2.94 | XXX
95864 | TC | A | Muscle test, 4 limbs | 0.00 | 1.78 | N/A | 0.10 | 1.88 | N/A | XXX
95867 |  | A | Muscle test cran nerv unilat | 0.79 | 0.93 | N/A | 0.06 | 1.78 | N/A | XXX
95867 | 26 | A | Muscle test cran nerv unilat | 0.79 | 0.35 | 0.35 | 0.03 | 1.17 | 1.17 | XXX
95867 | TC | A | Muscle test cran nerv unilat | 0.00 | 0.58 | N/A | 0.03 | 0.61 | N/A | XXX
95868 |  | A | Muscle test cran nerve bilat | 1.18 | 1.22 | N/A | 0.08 | 2.48 | N/A | XXX
95868 | 26 | A | Muscle test cran nerve bilat | 1.18 | 0.52 | 0.52 | 0.04 | 1.74 | 1.74 | XXX
95868 | TC | A | Muscle test cran nerve bilat | 0.00 | 0.70 | N/A | 0.04 | 0.74 | N/A | XXX
95869 |  | A | Muscle test, thor paraspinal | 0.37 | 0.38 | N/A | 0.03 | 0.78 | N/A | XXX
95869 | 26 | A | Muscle test, thor paraspinal | 0.37 | 0.17 | 0.17 | 0.01 | 0.55 | 0.55 | XXX
95869 | TC | A | Muscle test, thor paraspinal | 0.00 | 0.21 | N/A | 0.02 | 0.23 | N/A | XXX
95870 |  | A | Muscle test, nonparaspinal | 0.37 | 0.37 | N/A | 0.03 | 0.77 | N/A | XXX
95870 | 26 | A | Muscle test, nonparaspinal | 0.37 | 0.16 | 0.16 | 0.01 | 0.54 | 0.54 | XXX
95870 | TC | A | Muscle test, nonparaspinal | 0.00 | 0.21 | N/A | 0.02 | 0.23 | N/A | XXX
95872 |  | A | Muscle test, one fiber | 1.50 | 1.25 | N/A | 0.08 | 2.83 | N/A | XXX
95872 | 26 | A | Muscle test, one fiber | 1.50 | 0.65 | 0.65 | 0.04 | 2.19 | 2.19 | XXX
95872 | TC | A | Muscle test, one fiber | 0.00 | 0.60 | N/A | 0.04 | 0.64 | N/A | XXX
95875 |  | A | Limb exercise test | 1.10 | 1.50 | N/A | 0.09 | 2.69 | N/A | XXX
95875 | 26 | A | Limb exercise test | 1.10 | 0.48 | 0.48 | 0.04 | 1.62 | 1.62 | XXX
95875 | TC | A | Limb exercise test | 0.00 | 1.02 | N/A | 0.05 | 1.07 | N/A | XXX
95900 |  | A | Motor nerve conduction test | 0.42 | 1.30 | N/A | 0.03 | 1.75 | N/A | XXX
95900 | 26 | A | Motor nerve conduction test | 0.42 | 0.19 | 0.19 | 0.01 | 0.62 | 0.62 | XXX
95900 | TC | A | Motor nerve conduction test | 0.00 | 1.12 | N/A | 0.02 | 1.14 | N/A | XXX
95903 |  | A | Motor nerve conduction test | 0.60 | 1.23 | N/A | 0.04 | 1.87 | N/A | XXX
95903 | 26 | A | Motor nerve conduction test | 0.60 | 0.26 | 0.26 | 0.02 | 0.88 | 0.88 | XXX
95903 | TC | A | Motor nerve conduction test | 0.00 | 0.97 | N/A | 0.02 | 0.99 | N/A | XXX
95904 |  | A | Sense nerve conduction test | 0.34 | 1.13 | N/A | 0.03 | 1.50 | N/A | XXX
95904 | 26 | A | Sense nerve conduction test | 0.34 | 0.15 | 0.15 | 0.01 | 0.50 | 0.50 | XXX
95904 | TC | A | Sense nerve conduction test | 0.00 | 0.98 | N/A | 0.02 | 1.00 | N/A | XXX
95920 |  | A | Intraop nerve test add-on | 2.11 | 2.26 | N/A | 0.20 | 4.57 | N/A | ZZZ
95920 | 26 | A | Intraop nerve test add-on | 2.11 | 0.95 | 0.95 | 0.14 | 3.20 | 3.20 | ZZZ
95920 | TC | A | Intraop nerve test add-on | 0.00 | 1.31 | N/A | 0.06 | 1.37 | N/A | ZZZ
95921 |  | A | Autonomic nerv function test | 0.90 | 0.71 | N/A | 0.05 | 1.66 | N/A | XXX
95921 | 26 | A | Autonomic nerv function test | 0.90 | 0.33 | 0.33 | 0.03 | 1.26 | 1.26 | XXX
95921 | TC | A | Autonomic nerv function test | 0.00 | 0.38 | N/A | 0.02 | 0.40 | N/A | XXX
95922 |  | A | Autonomic nerv function test | 0.96 | 0.79 | N/A | 0.05 | 1.80 | N/A | XXX
95922 | 26 | A | Autonomic nerv function test | 0.96 | 0.41 | 0.41 | 0.03 | 1.40 | 1.40 | XXX
95922 | TC | A | Autonomic nerv function test | 0.00 | 0.38 | N/A | 0.02 | 0.40 | N/A | XXX
95923 |  | A | Autonomic nerv function test | 0.90 | 2.14 | N/A | 0.05 | 3.09 | N/A | XXX
95923 | 26 | A | Autonomic nerv function test | 0.90 | 0.39 | 0.39 | 0.03 | 1.32 | 1.32 | XXX
95923 | TC | A | Autonomic nerv function test | 0.00 | 1.76 | N/A | 0.02 | 1.78 | N/A | XXX
95925 |  | A | Somatosensory testing | 0.54 | 1.14 | N/A | 0.07 | 1.75 | N/A | XXX
95925 | 26 | A | Somatosensory testing | 0.54 | 0.23 | 0.23 | 0.02 | 0.79 | 0.79 | XXX
95925 | TC | A | Somatosensory testing | 0.00 | 0.91 | N/A | 0.05 | 0.96 | N/A | XXX
95926 |  | A | Somatosensory testing | 0.54 | 1.15 | N/A | 0.07 | 1.76 | N/A | XXX
95926 | 26 | A | Somatosensory testing | 0.54 | 0.24 | 0.24 | 0.02 | 0.80 | 0.80 | XXX
95926 | TC | A | Somatosensory testing | 0.00 | 0.91 | N/A | 0.05 | 0.96 | N/A | XXX
95927 |  | A | Somatosensory testing | 0.54 | 1.16 | N/A | 0.08 | 1.78 | N/A | XXX
95927 | 26 | A | Somatosensory testing | 0.54 | 0.25 | 0.25 | 0.03 | 0.82 | 0.82 | XXX
95927 | TC | A | Somatosensory testing | 0.00 | 0.91 | N/A | 0.05 | 0.96 | N/A | XXX
95930 |  | A | Visual evoked potential test | 0.35 | 1.44 | N/A | 0.02 | 1.81 | N/A | XXX
95930 | 26 | A | Visual evoked potential test | 0.35 | 0.15 | 0.15 | 0.01 | 0.51 | 0.51 | XXX
95930 | TC | A | Visual evoked potential test | 0.00 | 1.29 | N/A | 0.01 | 1.30 | N/A | XXX
95933 |  | A | Blink reflex test | 0.59 | 1.03 | N/A | 0.07 | 1.69 | N/A | XXX
95933 | 26 | A | Blink reflex test | 0.59 | 0.25 | 0.25 | 0.02 | 0.86 | 0.86 | XXX
95933 | TC | A | Blink reflex test | 0.00 | 0.78 | N/A | 0.05 | 0.83 | N/A | XXX
95934 |  | A | H-reflex test | 0.51 | 0.44 | N/A | 0.04 | 0.99 | N/A | XXX
95934 | 26 | A | H-reflex test | 0.51 | 0.23 | 0.23 | 0.02 | 0.76 | 0.76 | XXX
95934 | TC | A | H-reflex test | 0.00 | 0.21 | N/A | 0.02 | 0.23 | N/A | XXX
95936 |  | A | H-reflex test | 0.55 | 0.46 | N/A | 0.04 | 1.05 | N/A | XXX
95936 | 26 | A | H-reflex test | 0.55 | 0.25 | 0.25 | 0.02 | 0.82 | 0.82 | XXX
95936 | TC | A | H-reflex test | 0.00 | 0.21 | N/A | 0.02 | 0.23 | N/A | XXX
95937 |  | A | Neuromuscular junction test | 0.65 | 0.61 | N/A | 0.04 | 1.30 | N/A | XXX
95937 | 26 | A | Neuromuscular junction test | 0.65 | 0.27 | 0.27 | 0.02 | 0.94 | 0.94 | XXX
95937 | TC | A | Neuromuscular junction test | 0.00 | 0.34 | N/A | 0.02 | 0.36 | N/A | XXX
95950 |  | A | Ambulatory eeg monitoring | 1.51 | 4.57 | N/A | 0.44 | 6.52 | N/A | XXX
95950 | 26 | A | Ambulatory eeg monitoring | 1.51 | 0.65 | 0.65 | 0.08 | 2.24 | 2.24 | XXX
95950 | TC | A | Ambulatory eeg monitoring | 0.00 | 3.93 | N/A | 0.36 | 4.29 | N/A | XXX
95951 |  | C | EEG monitoring/videorecord | 0.00 | 0.00 | 0.00 | 0.00 | 0.00 | 0.00 | XXX
95951 | 26 | A | EEG monitoring/videorecord | 6.00 | 2.61 | 2.61 | 0.20 | 8.81 | 8.81 | XXX
95951 | TC | C | EEG monitoring/videorecord | 0.00 | 0.00 | 0.00 | 0.00 | 0.00 | 0.00 | XXX
95953 |  | A | EEG monitoring/computer | 3.08 | 7.65 | N/A | 0.46 | 11.19 | N/A | XXX
95953 | 26 | A | EEG monitoring/computer | 3.08 | 1.32 | 1.32 | 0.10 | 4.50 | 4.50 | XXX
95953 | TC | A | EEG monitoring/computer | 0.00 | 6.33 | N/A | 0.36 | 6.69 | N/A | XXX
95954 |  | A | EEG monitoring/giving drugs | 2.45 | 4.39 | N/A | 0.15 | 6.99 | N/A | XXX
95954 | 26 | A | EEG monitoring/giving drugs | 2.45 | 1.07 | 1.07 | 0.10 | 3.62 | 3.62 | XXX
95954 | TC | A | EEG monitoring/giving drugs | 0.00 | 3.33 | N/A | 0.05 | 3.38 | N/A | XXX
95955 |  | A | EEG during surgery | 1.01 | 2.33 | N/A | 0.19 | 3.53 | N/A | XXX
95955 | 26 | A | EEG during surgery | 1.01 | 0.37 | 0.37 | 0.05 | 1.43 | 1.43 | XXX
95955 | TC | A | EEG during surgery | 0.00 | 1.96 | N/A | 0.14 | 2.10 | N/A | XXX
95956 |  | A | Eeg monitoring, cable/radio | 3.08 | 14.44 | N/A | 0.47 | 17.99 | N/A | XXX
95956 | 26 | A | Eeg monitoring, cable/radio | 3.08 | 1.33 | 1.33 | 0.11 | 4.52 | 4.52 | XXX
95956 | TC | A | Eeg monitoring, cable/radio | 0.00 | 13.11 | N/A | 0.36 | 13.47 | N/A | XXX
95957 |  | A | EEG digital analysis | 1.98 | 2.57 | N/A | 0.17 | 4.72 | N/A | XXX
95957 | 26 | A | EEG digital analysis | 1.98 | 0.87 | 0.87 | 0.07 | 2.92 | 2.92 | XXX
95957 | TC | A | EEG digital analysis | 0.00 | 1.70 | N/A | 0.10 | 1.80 | N/A | XXX
95958 |  | A | EEG monitoring/function test | 4.25 | 3.52 | N/A | 0.29 | 8.06 | N/A | XXX
95958 | 26 | A | EEG monitoring/function test | 4.25 | 1.78 | 1.78 | 0.18 | 6.21 | 6.21 | XXX
95958 | TC | A | EEG monitoring/function test | 0.00 | 1.74 | N/A | 0.11 | 1.85 | N/A | XXX
95961 |  | A | Electrode stimulation, brain | 2.97 | 2.65 | N/A | 0.24 | 5.86 | N/A | XXX
95961 | 26 | A | Electrode stimulation, brain | 2.97 | 1.35 | 1.35 | 0.18 | 4.50 | 4.50 | XXX
95961 | TC | A | Electrode stimulation, brain | 0.00 | 1.31 | N/A | 0.06 | 1.37 | N/A | XXX
95962 |  | A | Electrode stim, brain add-on | 3.21 | 2.72 | N/A | 0.23 | 6.16 | N/A | ZZZ
95962 | 26 | A | Electrode stim, brain add-on | 3.21 | 1.42 | 1.42 | 0.17 | 4.80 | 4.80 | ZZZ
95962 | TC | A | Electrode stim, brain add-on | 0.00 | 1.31 | N/A | 0.06 | 1.37 | N/A | ZZZ
95965 |  | C | Meg, spontaneous | 0.00 | 0.00 | 0.00 | 0.00 | 0.00 | 0.00 | XXX
95965 | 26 | A | Meg, spontaneous | 8.00 | 3.49 | 3.49 | 0.31 | 11.80 | 11.80 | XXX
95965 | TC | C | Meg, spontaneous | 0.00 | 0.00 | 0.00 | 0.00 | 0.00 | 0.00 | XXX
95966 |  | C | Meg, evoked, single | 0.00 | 0.00 | 0.00 | 0.00 | 0.00 | 0.00 | XXX
95966 | 26 | A | Meg, evoked, single | 4.00 | 1.76 | 1.76 | 0.15 | 5.91 | 5.91 | XXX
95966 | TC | C | Meg, evoked, single | 0.00 | 0.00 | 0.00 | 0.00 | 0.00 | 0.00 | XXX
95967 |  | C | Meg, evoked, each addl | 0.00 | 0.00 | 0.00 | 0.00 | 0.00 | 0.00 | ZZZ
95967 | 26 | A | Meg, evoked, each addl | 3.50 | 1.36 | 1.36 | 0.13 | 4.99 | 4.99 | ZZZ
95967 | TC | C | Meg, evoked, each addl | 0.00 | 0.00 | 0.00 | 0.00 | 0.00 | 0.00 | ZZZ
95970 |  | A | Analyze neurostim, no prog | 0.45 | 0.17 | 0.15 | 0.03 | 0.65 | 0.63 | XXX
95971 |  | A | Analyze neurostim, simple | 0.78 | 0.28 | 0.23 | 0.06 | 1.12 | 1.07 | XXX
95972 |  | A | Analyze neurostim, complex | 1.50 | 0.60 | 0.50 | 0.17 | 2.27 | 2.17 | XXX
95973 |  | A | Analyze neurostim, complex | 0.92 | 0.40 | 0.35 | 0.07 | 1.39 | 1.34 | ZZZ
95974 |  | A | Cranial neurostim, complex | 3.00 | 1.32 | 1.32 | 0.15 | 4.47 | 4.47 | XXX
95975 |  | A | Cranial neurostim, complex | 1.70 | 0.74 | 0.74 | 0.07 | 2.51 | 2.51 | ZZZ
95990 |  | A | Spin/brain pump refil & main | 0.00 | 1.50 | N/A | 0.05 | 1.55 | N/A | XXX
95999 |  | C | Neurological procedure | 0.00 | 0.00 | 0.00 | 0.00 | 0.00 | 0.00 | XXX
96000 |  | A | Motion analysis, video/3d | 1.80 | N/A | 0.57 | 0.02 | N/A | 2.39 | XXX
96001 |  | A | Motion test w/ft press meas | 2.15 | N/A | 0.83 | 0.02 | N/A | 3.00 | XXX
96002 |  | A | Dynamic surface emg | 0.41 | N/A | 0.16 | 0.02 | N/A | 0.59 | XXX
96003 |  | A | Dynamic fine wire emg | 0.37 | N/A | 0.14 | 0.03 | N/A | 0.54 | XXX
96004 |  | A | Phys review of motion tests | 2.14 | 0.97 | 0.97 | 0.08 | 3.19 | 3.19 | XXX
96100 |  | A | Psychological testing | 0.00 | 1.76 | N/A | 0.15 | 1.91 | N/A | XXX
96105 |  | A | Assessment of aphasia | 0.00 | 1.76 | N/A | 0.15 | 1.91 | N/A | XXX
96110 |  | C | Developmental test, lim | 0.00 | 0.00 | 0.00 | 0.00 | 0.00 | 0.00 | XXX
96111 |  | A | Developmental test, extend | 0.00 | 1.76 | N/A | 0.15 | 1.91 | N/A | XXX
96115 |  | A | Neurobehavior status exam | 0.00 | 1.76 | N/A | 0.15 | 1.91 | N/A | XXX
96117 |  | A | Neuropsych test battery | 0.00 | 1.76 | N/A | 0.15 | 1.91 | N/A | XXX
96150 |  | A | Assess lth/behave, init | 0.50 | 0.19 | 0.18 | 0.02 | 0.71 | 0.70 | XXX
96151 |  | A | Assess hlth/behave, subseq | 0.48 | 0.18 | 0.17 | 0.02 | 0.68 | 0.67 | XXX
96152 |  | A | Intervene hlth/behave, indiv | 0.46 | 0.18 | 0.17 | 0.02 | 0.66 | 0.65 | XXX
96153 |  | A | Intervene hlth/behave, group | 0.10 | 0.04 | 0.04 | 0.01 | 0.15 | 0.15 | XXX
96154 |  | A | Interv hlth/behav, fam w/pt | 0.45 | 0.17 | 0.16 | 0.02 | 0.64 | 0.63 | XXX
96155 |  | N | Interv hlth/behav fam no pt | 0.44 | 0.16 | 0.16 | 0.02 | 0.62 | 0.62 | XXX
96400 |  | A | Chemotherapy, sc/im | 0.00 | 0.89 | N/A | 0.01 | 0.90 | N/A | XXX
96405 |  | A | Intralesional chemo admin | 0.52 | 1.96 | 0.23 | 0.02 | 2.50 | 0.77 | 000
96406 |  | A | Intralesional chemo admin | 0.80 | 2.60 | 0.30 | 0.02 | 3.42 | 1.12 | 000
96408 |  | A | Chemotherapy, push technique | 0.00 | 0.97 | N/A | 0.05 | 1.02 | N/A | XXX
96410 |  | A | Chemotherapy,infusion method | 0.00 | 1.55 | N/A | 0.07 | 1.62 | N/A | XXX
96412 |  | A | Chemo, infuse method add-on | 0.00 | 1.15 | N/A | 0.06 | 1.21 | N/A | ZZZ
96414 |  | A | Chemo, infuse method add-on | 0.00 | 1.33 | N/A | 0.07 | 1.40 | N/A | XXX
96420 |  | A | Chemotherapy, push technique | 0.00 | 1.25 | N/A | 0.07 | 1.32 | N/A | XXX
96422 |  | A | Chemotherapy,infusion method | 0.00 | 1.23 | N/A | 0.07 | 1.30 | N/A | XXX
96423 |  | A | Chemo, infuse method add-on | 0.00 | 0.48 | N/A | 0.02 | 0.50 | N/A | ZZZ
96425 |  | A | Chemotherapy,infusion method | 0.00 | 1.43 | N/A | 0.07 | 1.50 | N/A | XXX
96440 |  | A | Chemotherapy, intracavitary | 2.37 | 7.46 | 1.05 | 0.12 | 9.95 | 3.54 | 000
96445 |  | A | Chemotherapy, intracavitary | 2.20 | 7.43 | 1.03 | 0.07 | 9.70 | 3.30 | 000
96450 |  | A | Chemotherapy, into CNS | 1.89 | 6.30 | 0.92 | 0.06 | 8.25 | 2.87 | 000
96520 |  | A | Port pump refill & main | 0.00 | 0.89 | N/A | 0.05 | 0.94 | N/A | XXX
96530 |  | A | Syst pump refill & main | 0.00 | 1.06 | N/A | 0.05 | 1.11 | N/A | XXX
96542 |  | A | Chemotherapy injection | 1.42 | 3.83 | 0.55 | 0.05 | 5.30 | 2.02 | XXX
96549 |  | C | Chemotherapy, unspecified | 0.00 | 0.00 | 0.00 | 0.00 | 0.00 | 0.00 | XXX
96567 |  | A | Photodynamic tx, skin | 0.00 | 2.79 | N/A | 0.03 | 2.82 | N/A | XXX
96570 |  | A | Photodynamic tx, 30 min | 1.10 | N/A | 0.37 | 0.04 | N/A | 1.51 | ZZZ
96571 |  | A | Photodynamic tx, addl 15 min | 0.55 | N/A | 0.20 | 0.02 | N/A | 0.77 | ZZZ
96900 |  | A | Ultraviolet light therapy | 0.00 | 0.49 | N/A | 0.02 | 0.51 | N/A | XXX
96902 |  | B | Trichogram | 0.41 | 0.25 | 0.16 | 0.01 | 0.67 | 0.58 | XXX
96910 |  | A | Photochemotherapy with UV-B | 0.00 | 1.09 | N/A | 0.03 | 1.12 | N/A | XXX
96912 |  | A | Photochemotherapy with UV-A | 0.00 | 1.38 | N/A | 0.04 | 1.42 | N/A | XXX
96913 |  | A | Photochemotherapy, UV-A or B | 0.00 | 1.82 | N/A | 0.08 | 1.90 | N/A | XXX
96920 |  | A | Laser tx, skin < 250 sq cm | 1.15 | 14.89 | 0.45 | 0.09 | 16.13 | 1.69 | 000
96921 |  | A | Laser tx, skin 250-500 sq cm | 1.17 | 14.96 | 0.45 | 0.09 | 16.22 | 1.71 | 000
96922 |  | A | Laser tx, skin > 500 sq cm | 2.10 | 15.58 | 0.81 | 0.16 | 17.84 | 3.07 | 000
96999 |  | C | Dermatological procedure | 0.00 | 0.00 | 0.00 | 0.00 | 0.00 | 0.00 | XXX
97001 |  | A | Pt evaluation | 1.20 | 0.75 | 0.46 | 0.05 | 2.00 | 1.71 | XXX
97002 |  | A | Pt re-evaluation | 0.60 | 0.45 | 0.24 | 0.02 | 1.07 | 0.86 | XXX
97003 |  | A | Ot evaluation | 1.20 | 0.88 | 0.41 | 0.05 | 2.13 | 1.66 | XXX
97004 |  | A | Ot re-evaluation | 0.60 | 0.63 | 0.20 | 0.02 | 1.25 | 0.82 | XXX
97005 |  | I | Athletic train eval | 0.00 | 0.00 | 0.00 | 0.00 | 0.00 | 0.00 | XXX
97006 |  | I | Athletic train reeval | 0.00 | 0.00 | 0.00 | 0.00 | 0.00 | 0.00 | XXX
97010 |  | B | Hot or cold packs therapy | 0.06 | 0.05 | N/A | 0.01 | 0.12 | N/A | XXX
97012 |  | A | Mechanical traction therapy | 0.25 | 0.14 | N/A | 0.01 | 0.40 | N/A | XXX
97014 |  | I | Electric stimulation therapy | 0.18 | 0.14 | N/A | 0.01 | 0.33 | N/A | XXX
97016 |  | A | Vasopneumatic device therapy | 0.18 | 0.19 | N/A | 0.01 | 0.38 | N/A | XXX
97018 |  | A | Paraffin bath therapy | 0.06 | 0.11 | N/A | 0.01 | 0.18 | N/A | XXX
97020 |  | A | Microwave therapy | 0.06 | 0.06 | N/A | 0.01 | 0.13 | N/A | XXX
97022 |  | A | Whirlpool therapy | 0.17 | 0.22 | N/A | 0.01 | 0.40 | N/A | XXX
97024 |  | A | Diathermy treatment | 0.06 | 0.06 | N/A | 0.01 | 0.13 | N/A | XXX
97026 |  | A | Infrared therapy | 0.06 | 0.06 | N/A | 0.01 | 0.13 | N/A | XXX
97028 |  | A | Ultraviolet therapy | 0.08 | 0.07 | N/A | 0.01 | 0.16 | N/A | XXX
97032 |  | A | Electrical stimulation | 0.25 | 0.16 | N/A | 0.01 | 0.42 | N/A | XXX
97033 |  | A | Electric current therapy | 0.26 | 0.41 | N/A | 0.02 | 0.69 | N/A | XXX
97034 |  | A | Contrast bath therapy | 0.21 | 0.16 | N/A | 0.01 | 0.38 | N/A | XXX
97035 |  | A | Ultrasound therapy | 0.21 | 0.11 | N/A | 0.01 | 0.33 | N/A | XXX
97036 |  | A | Hydrotherapy | 0.28 | 0.33 | N/A | 0.01 | 0.62 | N/A | XXX
97039 |  | A | Physical therapy treatment | 0.20 | 0.11 | N/A | 0.01 | 0.32 | N/A | XXX
97110 |  | A | Therapeutic exercises | 0.45 | 0.28 | N/A | 0.03 | 0.76 | N/A | XXX
97112 |  | A | Neuromuscular reeducation | 0.45 | 0.31 | N/A | 0.02 | 0.78 | N/A | XXX
97113 |  | A | Aquatic therapy/exercises | 0.44 | 0.41 | N/A | 0.03 | 0.88 | N/A | XXX
97116 |  | A | Gait training therapy | 0.40 | 0.24 | N/A | 0.02 | 0.66 | N/A | XXX
97124 |  | A | Massage therapy | 0.35 | 0.23 | N/A | 0.01 | 0.59 | N/A | XXX
97139 |  | A | Physical medicine procedure | 0.21 | 0.21 | N/A | 0.01 | 0.43 | N/A | XXX
97140 |  | A | Manual therapy | 0.43 | 0.26 | N/A | 0.02 | 0.71 | N/A | XXX
97150 |  | A | Group therapeutic procedures | 0.27 | 0.16 | N/A | 0.02 | 0.45 | N/A | XXX
97504 |  | A | Orthotic training | 0.45 | 0.33 | N/A | 0.03 | 0.81 | N/A | XXX
97520 |  | A | Prosthetic training | 0.45 | 0.28 | N/A | 0.02 | 0.75 | N/A | XXX
97530 |  | A | Therapeutic activities | 0.44 | 0.32 | N/A | 0.02 | 0.78 | N/A | XXX
97532 |  | A | Cognitive skills development | 0.44 | 0.21 | N/A | 0.01 | 0.66 | N/A | XXX
97533 |  | A | Sensory integration | 0.44 | 0.24 | N/A | 0.01 | 0.69 | N/A | XXX
97535 |  | A | Self care mngment training | 0.45 | 0.34 | N/A | 0.02 | 0.81 | N/A | XXX
97537 |  | A | Community/work reintegration | 0.45 | 0.27 | N/A | 0.01 | 0.73 | N/A | XXX
97542 |  | A | Wheelchair mngment training | 0.45 | 0.28 | N/A | 0.01 | 0.74 | N/A | XXX
97545 |  | R | Work hardening | 0.00 | 0.00 | 0.00 | 0.00 | 0.00 | 0.00 | XXX
97546 |  | R | Work hardening add-on | 0.00 | 0.00 | 0.00 | 0.00 | 0.00 | 0.00 | ZZZ
97601 |  | A | Wound(s) care, selective | 0.50 | 0.50 | N/A | 0.04 | 1.04 | N/A | XXX
97703 |  | A | Prosthetic checkout | 0.25 | 0.42 | N/A | 0.02 | 0.69 | N/A | XXX
97750 |  | A | Physical performance test | 0.45 | 0.30 | N/A | 0.02 | 0.77 | N/A | XXX
97799 |  | C | Physical medicine procedure | 0.00 | 0.00 | 0.00 | 0.00 | 0.00 | 0.00 | XXX
97802 |  | A | Medical nutrition, indiv, in | 0.00 | 0.47 | N/A | 0.01 | 0.48 | N/A | XXX
97803 |  | A | Med nutrition, indiv, subseq | 0.00 | 0.47 | N/A | 0.01 | 0.48 | N/A | XXX
97804 |  | A | Medical nutrition, group | 0.00 | 0.18 | N/A | 0.01 | 0.19 | N/A | XXX
98925 |  | A | Osteopathic manipulation | 0.45 | 0.33 | 0.14 | 0.01 | 0.79 | 0.60 | 000
98926 |  | A | Osteopathic manipulation | 0.65 | 0.43 | 0.25 | 0.02 | 1.10 | 0.92 | 000
98927 |  | A | Osteopathic manipulation | 0.87 | 0.52 | 0.30 | 0.03 | 1.42 | 1.20 | 000
98928 |  | A | Osteopathic manipulation | 1.03 | 0.61 | 0.35 | 0.03 | 1.67 | 1.41 | 000
98929 |  | A | Osteopathic manipulation | 1.19 | 0.69 | 0.37 | 0.04 | 1.92 | 1.60 | 000
98940 |  | A | Chiropractic manipulation | 0.45 | 0.24 | 0.12 | 0.01 | 0.70 | 0.58 | 000
98941 |  | A | Chiropractic manipulation | 0.65 | 0.30 | 0.18 | 0.02 | 0.97 | 0.85 | 000
98942 |  | A | Chiropractic manipulation | 0.87 | 0.37 | 0.24 | 0.03 | 1.27 | 1.14 | 000
98943 |  | N | Chiropractic manipulation | 0.40 | 0.25 | 0.15 | 0.01 | 0.66 | 0.56 | XXX
99082 |  | C | Unusual physician travel | 0.00 | 0.00 | 0.00 | 0.00 | 0.00 | 0.00 | XXX
99141 |  | B | Sedation, iv/im or inhalant | 0.80 | 1.99 | 0.39 | 0.04 | 2.83 | 1.23 | XXX
99142 |  | B | Sedation, oral/rectal/nasal | 0.60 | 1.03 | 0.31 | 0.03 | 1.66 | 0.94 | XXX
99170 |  | A | Anogenital exam, child | 1.75 | 1.72 | 0.53 | 0.07 | 3.54 | 2.35 | 000
99175 |  | A | Induction of vomiting | 0.00 | 1.39 | N/A | 0.08 | 1.47 | N/A | XXX
99183 |  | A | Hyperbaric oxygen therapy | 2.34 | 4.83 | 0.74 | 0.12 | 7.29 | 3.20 | XXX
99185 |  | A | Regional hypothermia | 0.00 | 0.64 | N/A | 0.03 | 0.67 | N/A | XXX
99186 |  | A | Total body hypothermia | 0.00 | 1.78 | N/A | 0.37 | 2.15 | N/A | XXX
99195 |  | A | Phlebotomy | 0.00 | 0.44 | N/A | 0.02 | 0.46 | N/A | XXX
99199 |  | C | Special service/proc/report | 0.00 | 0.00 | 0.00 | 0.00 | 0.00 | 0.00 | XXX
99201 |  | A | Office/outpatient visit, new | 0.45 | 0.51 | 0.16 | 0.02 | 0.98 | 0.63 | XXX
99202 |  | A | Office/outpatient visit, new | 0.88 | 0.81 | 0.32 | 0.05 | 1.74 | 1.25 | XXX
99203 |  | A | Office/outpatient visit, new | 1.34 | 1.16 | 0.49 | 0.08 | 2.58 | 1.91 | XXX
99204 |  | A | Office/outpatient visit, new | 2.00 | 1.54 | 0.72 | 0.10 | 3.64 | 2.82 | XXX
99205 |  | A | Office/outpatient visit, new | 2.67 | 1.83 | 0.94 | 0.12 | 4.62 | 3.73 | XXX
99211 |  | A | Office/outpatient visit, est | 0.17 | 0.41 | 0.06 | 0.01 | 0.59 | 0.24 | XXX
99212 |  | A | Office/outpatient visit, est | 0.45 | 0.56 | 0.16 | 0.02 | 1.03 | 0.63 | XXX
99213 |  | A | Office/outpatient visit, est | 0.67 | 0.72 | 0.23 | 0.03 | 1.42 | 0.93 | XXX
99214 |  | A | Office/outpatient visit, est | 1.10 | 1.07 | 0.39 | 0.04 | 2.21 | 1.53 | XXX
99215 |  | A | Office/outpatient visit, est | 1.77 | 1.37 | 0.63 | 0.07 | 3.21 | 2.47 | XXX
99217 |  | A | Observation care discharge | 1.28 | N/A | 0.54 | 0.05 | N/A | 1.87 | XXX
99218 |  | A | Observation care | 1.28 | N/A | 0.44 | 0.05 | N/A | 1.77 | XXX
99219 |  | A | Observation care | 2.14 | N/A | 0.72 | 0.08 | N/A | 2.94 | XXX
99220 |  | A | Observation care | 2.99 | N/A | 1.03 | 0.11 | N/A | 4.13 | XXX
99221 |  | A | Initial hospital care | 1.28 | N/A | 0.45 | 0.05 | N/A | 1.78 | XXX
99222 |  | A | Initial hospital care | 2.14 | N/A | 0.75 | 0.08 | N/A | 2.97 | XXX
99223 |  | A | Initial hospital care | 2.99 | N/A | 1.04 | 0.10 | N/A | 4.13 | XXX
99231 |  | A | Subsequent hospital care | 0.64 | N/A | 0.23 | 0.02 | N/A | 0.89 | XXX
99232 |  | A | Subsequent hospital care | 1.06 | N/A | 0.37 | 0.03 | N/A | 1.46 | XXX
99233 |  | A | Subsequent hospital care | 1.51 | N/A | 0.53 | 0.05 | N/A | 2.09 | XXX
99234 |  | A | Observ/hosp same date | 2.56 | N/A | 1.00 | 0.11 | N/A | 3.67 | XXX
99235 |  | A | Observ/hosp same date | 3.42 | N/A | 1.30 | 0.13 | N/A | 4.85 | XXX
99236 |  | A | Observ/hosp same date | 4.27 | N/A | 1.59 | 0.17 | N/A | 6.03 | XXX
99238 |  | A | Hospital discharge day | 1.28 | N/A | 0.55 | 0.04 | N/A | 1.87 | XXX
99239 |  | A | Hospital discharge day | 1.75 | N/A | 0.74 | 0.05 | N/A | 2.54 | XXX
99241 |  | A | Office consultation | 0.64 | 0.66 | 0.22 | 0.04 | 1.34 | 0.90 | XXX
99242 |  | A | Office consultation | 1.29 | 1.07 | 0.47 | 0.09 | 2.45 | 1.85 | XXX
99243 |  | A | Office consultation | 1.72 | 1.42 | 0.63 | 0.10 | 3.24 | 2.45 | XXX
99244 |  | A | Office consultation | 2.58 | 1.85 | 0.92 | 0.13 | 4.56 | 3.63 | XXX
99245 |  | A | Office consultation | 3.43 | 2.30 | 1.23 | 0.16 | 5.89 | 4.82 | XXX
99251 |  | A | Initial inpatient consult | 0.66 | N/A | 0.25 | 0.04 | N/A | 0.95 | XXX
99252 |  | A | Initial inpatient consult | 1.32 | N/A | 0.51 | 0.08 | N/A | 1.91 | XXX
99253 |  | A | Initial inpatient consult | 1.82 | N/A | 0.69 | 0.09 | N/A | 2.60 | XXX
99254 |  | A | Initial inpatient consult | 2.64 | N/A | 0.99 | 0.11 | N/A | 3.74 | XXX
99255 |  | A | Initial inpatient consult | 3.65 | N/A | 1.36 | 0.15 | N/A | 5.16 | XXX
99261 |  | A | Follow-up inpatient consult | 0.42 | N/A | 0.15 | 0.02 | N/A | 0.59 | XXX
99262 |  | A | Follow-up inpatient consult | 0.85 | N/A | 0.31 | 0.03 | N/A | 1.19 | XXX
99263 |  | A | Follow-up inpatient consult | 1.27 | N/A | 0.46 | 0.04 | N/A | 1.77 | XXX
99271 |  | A | Confirmatory consultation | 0.45 | 0.56 | 0.16 | 0.03 | 1.04 | 0.64 | XXX
99272 |  | A | Confirmatory consultation | 0.84 | 0.83 | 0.31 | 0.06 | 1.73 | 1.21 | XXX
99273 |  | A | Confirmatory consultation | 1.19 | 1.12 | 0.45 | 0.07 | 2.38 | 1.71 | XXX
99274 |  | A | Confirmatory consultation | 1.73 | 1.38 | 0.65 | 0.09 | 3.20 | 2.47 | XXX
99275 |  | A | Confirmatory consultation | 2.31 | 1.65 | 0.83 | 0.10 | 4.06 | 3.24 | XXX
99281 |  | A | Emergency dept visit | 0.33 | N/A | 0.09 | 0.02 | N/A | 0.44 | XXX
99282 |  | A | Emergency dept visit | 0.55 | N/A | 0.15 | 0.03 | N/A | 0.73 | XXX
99283 |  | A | Emergency dept visit | 1.24 | N/A | 0.31 | 0.08 | N/A | 1.63 | XXX
99284 |  | A | Emergency dept visit | 1.95 | N/A | 0.48 | 0.12 | N/A | 2.55 | XXX
99285 |  | A | Emergency dept visit | 3.06 | N/A | 0.73 | 0.19 | N/A | 3.98 | XXX
99289 |  | A | Ped crit care transport | 4.80 | N/A | 1.70 | 0.14 | N/A | 6.64 | XXX
99290 |  | A | Ped crit care transport addl | 2.40 | N/A | 0.84 | 0.07 | N/A | 3.31 | ZZZ
99291 |  | A | Critical care, first hour | 4.00 | 2.39 | 1.30 | 0.14 | 6.53 | 5.44 | XXX
99292 |  | A | Critical care, addl 30 min | 2.00 | 0.82 | 0.65 | 0.07 | 2.89 | 2.72 | ZZZ
99293 |  | A | Ped critical care, initial | 16.00 | N/A | 5.04 | 0.70 | N/A | 21.74 | XXX
99294 |  | A | Ped critical care, subseq | 8.00 | N/A | 2.52 | 0.23 | N/A | 10.75 | XXX
99295 |  | A | Neonate crit care, initial | 18.49 | N/A | 5.47 | 0.70 | N/A | 24.66 | XXX
99296 |  | A | Neonate critical care subseq | 8.00 | N/A | 2.60 | 0.23 | N/A | 10.83 | XXX
99298 |  | A | Ic for lbw infant < 1500 gm | 2.75 | N/A | 0.95 | 0.10 | N/A | 3.80 | XXX
99299 |  | A | Ic, lbw infant 1500-2500 gm | 2.50 | N/A | 0.97 | 0.10 | N/A | 3.57 | XXX
99301 |  | A | Nursing facility care | 1.20 | 0.43 | 0.43 | 0.04 | 1.67 | 1.67 | XXX
99302 |  | A | Nursing facility care | 1.61 | 0.59 | 0.59 | 0.05 | 2.25 | 2.25 | XXX
99303 |  | A | Nursing facility care | 2.01 | 0.72 | 0.72 | 0.06 | 2.79 | 2.79 | XXX
99311 |  | A | Nursing fac care, subseq | 0.60 | 0.29 | 0.29 | 0.02 | 0.91 | 0.91 | XXX
99312 |  | A | Nursing fac care, subseq | 1.00 | 0.47 | 0.47 | 0.03 | 1.50 | 1.50 | XXX
99313 |  | A | Nursing fac care, subseq | 1.42 | 0.61 | 0.61 | 0.04 | 2.07 | 2.07 | XXX
99315 |  | A | Nursing fac discharge day | 1.13 | 0.47 | 0.38 | 0.04 | 1.64 | 1.55 | XXX
99316 |  | A | Nursing fac discharge day | 1.50 | 0.63 | 0.52 | 0.05 | 2.18 | 2.07 | XXX
99321 |  | A | Rest home visit, new patient | 0.71 | 0.35 | N/A | 0.02 | 1.08 | N/A | XXX
99322 |  | A | Rest home visit, new patient | 1.01 | 0.47 | N/A | 0.03 | 1.51 | N/A | XXX
99323 |  | A | Rest home visit, new patient | 1.28 | 0.57 | N/A | 0.04 | 1.89 | N/A | XXX
99331 |  | A | Rest home visit, est pat | 0.60 | 0.33 | N/A | 0.02 | 0.95 | N/A | XXX
99332 |  | A | Rest home visit, est pat | 0.80 | 0.40 | N/A | 0.03 | 1.23 | N/A | XXX
99333 |  | A | Rest home visit, est pat | 1.00 | 0.47 | N/A | 0.03 | 1.50 | N/A | XXX
99341 |  | A | Home visit, new patient | 1.01 | 0.49 | N/A | 0.05 | 1.55 | N/A | XXX
99342 |  | A | Home visit, new patient | 1.52 | 0.69 | N/A | 0.05 | 2.26 | N/A | XXX
99343 |  | A | Home visit, new patient | 2.27 | 0.96 | N/A | 0.07 | 3.30 | N/A | XXX
99344 |  | A | Home visit, new patient | 3.03 | 1.21 | N/A | 0.10 | 4.34 | N/A | XXX
99345 |  | A | Home visit, new patient | 3.79 | 1.47 | N/A | 0.12 | 5.38 | N/A | XXX
99347 |  | A | Home visit, est patient | 0.76 | 0.41 | N/A | 0.03 | 1.20 | N/A | XXX
99348 |  | A | Home visit, est patient | 1.26 | 0.59 | N/A | 0.04 | 1.89 | N/A | XXX
99349 |  | A | Home visit, est patient | 2.02 | 0.86 | N/A | 0.06 | 2.94 | N/A | XXX
99350 |  | A | Home visit, est patient | 3.03 | 1.21 | N/A | 0.10 | 4.34 | N/A | XXX
99354 |  | A | Prolonged service, office | 1.77 | 0.75 | 0.61 | 0.06 | 2.58 | 2.44 | ZZZ
99355 |  | A | Prolonged service, office | 1.77 | 0.73 | 0.58 | 0.06 | 2.56 | 2.41 | ZZZ
99356 |  | A | Prolonged service, inpatient | 1.71 | N/A | 0.62 | 0.06 | N/A | 2.39 | ZZZ
99357 |  | A | Prolonged service, inpatient | 1.71 | N/A | 0.64 | 0.06 | N/A | 2.41 | ZZZ
99374 |  | B | Home health care supervision | 1.10 | 0.71 | 0.43 | 0.04 | 1.85 | 1.57 | XXX
99375 |  | I | Home health care supervision | 1.73 | 1.57 | 1.57 | 0.06 | 3.36 | 3.36 | XXX
99377 |  | B | Hospice care supervision | 1.10 | 0.71 | 0.43 | 0.04 | 1.85 | 1.57 | XXX
99378 |  | I | Hospice care supervision | 1.73 | 1.97 | 1.97 | 0.06 | 3.76 | 3.76 | XXX
99379 |  | B | Nursing fac care supervision | 1.10 | 0.71 | 0.71 | 0.03 | 1.84 | 1.84 | XXX
99380 |  | B | Nursing fac care supervision | 1.73 | 1.01 | 1.01 | 0.05 | 2.79 | 2.79 | XXX
99381 |  | N | Prev visit, new, infant | 1.19 | 1.19 | 0.46 | 0.04 | 2.42 | 1.69 | XXX
99382 |  | N | Prev visit, new, age 1-4 | 1.36 | 1.25 | 0.53 | 0.04 | 2.65 | 1.93 | XXX
99383 |  | N | Prev visit, new, age 5-11 | 1.36 | 1.25 | 0.53 | 0.04 | 2.65 | 1.93 | XXX
99384 |  | N | Prev visit, new, age 12-17 | 1.53 | 1.31 | 0.59 | 0.05 | 2.89 | 2.17 | XXX
99385 |  | N | Prev visit, new, age 18-39 | 1.53 | 1.31 | 0.59 | 0.05 | 2.89 | 2.17 | XXX
99386 |  | N | Prev visit, new, age 40-64 | 1.88 | 1.45 | 0.73 | 0.06 | 3.39 | 2.67 | XXX
99387 |  | N | Prev visit, new, 65 & over | 2.06 | 1.61 | 0.80 | 0.06 | 3.73 | 2.92 | XXX
99391 |  | N | Prev visit, est, infant | 1.02 | 1.03 | 0.40 | 0.03 | 2.08 | 1.45 | XXX
99392 |  | N | Prev visit, est, age 1-4 | 1.19 | 1.10 | 0.46 | 0.04 | 2.33 | 1.69 | XXX
99393 |  | N | Prev visit, est, age 5-11 | 1.19 | 1.10 | 0.46 | 0.04 | 2.33 | 1.69 | XXX
99394 |  | N | Prev visit, est, age 12-17 | 1.36 | 1.16 | 0.53 | 0.04 | 2.56 | 1.93 | XXX
99395 |  | N | Prev visit, est, age 18-39 | 1.36 | 1.16 | 0.53 | 0.04 | 2.56 | 1.93 | XXX
99396 |  | N | Prev visit, est, age 40-64 | 1.53 | 1.23 | 0.59 | 0.05 | 2.81 | 2.17 | XXX
99397 |  | N | Prev visit, est, 65 & over | 1.71 | 1.27 | 0.66 | 0.05 | 3.03 | 2.42 | XXX
99401 |  | N | Preventive counseling, indiv | 0.48 | 0.41 | 0.19 | 0.01 | 0.90 | 0.68 | XXX
99402 |  | N | Preventive counseling, indiv | 0.98 | 0.60 | 0.38 | 0.02 | 1.60 | 1.38 | XXX
99403 |  | N | Preventive counseling, indiv | 1.46 | 0.79 | 0.57 | 0.03 | 2.28 | 2.06 | XXX
99404 |  | N | Preventive counseling, indiv | 1.95 | 0.98 | 0.76 | 0.04 | 2.97 | 2.75 | XXX
99411 |  | N | Preventive counseling, group | 0.15 | 0.19 | 0.06 | 0.01 | 0.35 | 0.22 | XXX
99412 |  | N | Preventive counseling, group | 0.25 | 0.22 | 0.10 | 0.01 | 0.48 | 0.36 | XXX
99431 |  | A | Initial care, normal newborn | 1.17 | N/A | 0.39 | 0.04 | N/A | 1.60 | XXX
99432 |  | A | Newborn care, not in hosp | 1.26 | 0.92 | 0.41 | 0.06 | 2.24 | 1.73 | XXX
99433 |  | A | Normal newborn care/hospital | 0.62 | N/A | 0.20 | 0.02 | N/A | 0.84 | XXX
99435 |  | A | Newborn discharge day hosp | 1.50 | N/A | 0.51 | 0.05 | N/A | 2.06 | XXX
99436 |  | A | Attendance, birth | 1.50 | N/A | 0.48 | 0.05 | N/A | 2.03 | XXX
99440 |  | A | Newborn resuscitation | 2.93 | N/A | 0.94 | 0.11 | N/A | 3.98 | XXX
99455 |  | R | Disability examination | 0.00 | 0.00 | 0.00 | 0.00 | 0.00 | 0.00 | XXX
99456 |  | R | Disability examination | 0.00 | 0.00 | 0.00 | 0.00 | 0.00 | 0.00 | XXX
99499 |  | C | Unlisted e&m service | 0.00 | 0.00 | 0.00 | 0.00 | 0.00 | 0.00 | XXX
99500 |  | I | Home visit, prenatal | 0.00 | 0.00 | 0.00 | 0.00 | 0.00 | 0.00 | XXX
99501 |  | I | Home visit, postnatal | 0.00 | 0.00 | 0.00 | 0.00 | 0.00 | 0.00 | XXX
99502 |  | I | Home visit, nb care | 0.00 | 0.00 | 0.00 | 0.00 | 0.00 | 0.00 | XXX
99503 |  | I | Home visit, resp therapy | 0.00 | 0.00 | 0.00 | 0.00 | 0.00 | 0.00 | XXX
99504 |  | I | Home visit mech ventilator | 0.00 | 0.00 | 0.00 | 0.00 | 0.00 | 0.00 | XXX
99505 |  | I | Home visit, stoma care | 0.00 | 0.00 | 0.00 | 0.00 | 0.00 | 0.00 | XXX
99506 |  | I | Home visit, im injection | 0.00 | 0.00 | 0.00 | 0.00 | 0.00 | 0.00 | XXX
99507 |  | I | Home visit, cath maintain | 0.00 | 0.00 | 0.00 | 0.00 | 0.00 | 0.00 | XXX
99509 |  | I | Home visit day life activity | 0.00 | 0.00 | 0.00 | 0.00 | 0.00 | 0.00 | XXX
99510 |  | I | Home visit, sing/m/fam couns | 0.00 | 0.00 | 0.00 | 0.00 | 0.00 | 0.00 | XXX
99511 |  | I | Home visit, fecal/enema mgmt | 0.00 | 0.00 | 0.00 | 0.00 | 0.00 | 0.00 | XXX
99512 |  | I | Home visit, hemodialysis | 0.00 | 0.00 | 0.00 | 0.00 | 0.00 | 0.00 | XXX
99551 |  | I | Home infus, pain mgmt, iv/sc | 0.00 | 0.00 | 0.00 | 0.00 | 0.00 | 0.00 | XXX
99552 |  | I | Hm infus pain mgmt, epid/ith | 0.00 | 0.00 | 0.00 | 0.00 | 0.00 | 0.00 | XXX
99553 |  | I | Home infuse, tocolytic tx | 0.00 | 0.00 | 0.00 | 0.00 | 0.00 | 0.00 | XXX
99554 |  | I | Home infus, hormone/platelet | 0.00 | 0.00 | 0.00 | 0.00 | 0.00 | 0.00 | XXX
99555 |  | I | Home infuse, chemotheraphy | 0.00 | 0.00 | 0.00 | 0.00 | 0.00 | 0.00 | XXX
99556 |  | I | Home infus, antibio/fung/vir | 0.00 | 0.00 | 0.00 | 0.00 | 0.00 | 0.00 | XXX
99557 |  | I | Home infuse, anticoagulant | 0.00 | 0.00 | 0.00 | 0.00 | 0.00 | 0.00 | XXX
99558 |  | I | Home infuse, immunotherapy | 0.00 | 0.00 | 0.00 | 0.00 | 0.00 | 0.00 | XXX
99559 |  | I | Home infus, periton dialysis | 0.00 | 0.00 | 0.00 | 0.00 | 0.00 | 0.00 | XXX
99560 |  | I | Home infus, entero nutrition | 0.00 | 0.00 | 0.00 | 0.00 | 0.00 | 0.00 | XXX
99561 |  | I | Home infuse, hydration tx | 0.00 | 0.00 | 0.00 | 0.00 | 0.00 | 0.00 | XXX
99562 |  | I | Home infus, parent nutrition | 0.00 | 0.00 | 0.00 | 0.00 | 0.00 | 0.00 | XXX
99563 |  | I | Home admin, pentamidine | 0.00 | 0.00 | 0.00 | 0.00 | 0.00 | 0.00 | XXX
99564 |  | I | Hme infus, antihemophil agnt | 0.00 | 0.00 | 0.00 | 0.00 | 0.00 | 0.00 | XXX
99565 |  | I | Home infus, proteinase inhib | 0.00 | 0.00 | 0.00 | 0.00 | 0.00 | 0.00 | XXX
99566 |  | I | Home infuse, iv therapy | 0.00 | 0.00 | 0.00 | 0.00 | 0.00 | 0.00 | XXX
99567 |  | I | Home infuse, sympath agent | 0.00 | 0.00 | 0.00 | 0.00 | 0.00 | 0.00 | XXX
99568 |  | I | Home infus, misc drug, daily | 0.00 | 0.00 | 0.00 | 0.00 | 0.00 | 0.00 | XXX
99569 |  | I | Home infuse, each addl tx | 0.00 | 0.00 | 0.00 | 0.00 | 0.00 | 0.00 | XXX
99600 |  | I | Home visit nos | 0.00 | 0.00 | 0.00 | 0.00 | 0.00 | 0.00 | XXX
A4890 |  | R | Repair/maint cont hemo equip | 0.00 | 0.00 | 0.00 | 0.00 | 0.00 | 0.00 | XXX
D0120 |  | N | Periodic oral evaluation | 0.00 | 0.00 | 0.00 | 0.00 | 0.00 | 0.00 | XXX
D0140 |  | N | Limit oral eval problm focus | 0.00 | 0.00 | 0.00 | 0.00 | 0.00 | 0.00 | XXX
D0150 |  | R | Comprehensve oral evaluation | 0.00 | 0.00 | 0.00 | 0.00 | 0.00 | 0.00 | YYY
D0160 |  | N | Extensv oral eval prob focus | 0.00 | 0.00 | 0.00 | 0.00 | 0.00 | 0.00 | XXX
D0170 |  | N | Re-eval,est pt,problem focus | 0.00 | 0.00 | 0.00 | 0.00 | 0.00 | 0.00 | XXX
D0180 |  | N | Comp periodontal evaluation | 0.00 | 0.00 | 0.00 | 0.00 | 0.00 | 0.00 | XXX
D0210 |  | I | Intraor complete film series | 0.00 | 0.00 | 0.00 | 0.00 | 0.00 | 0.00 | XXX
D0220 |  | I | Intraoral periapical first f | 0.00 | 0.00 | 0.00 | 0.00 | 0.00 | 0.00 | XXX
D0230 |  | I | Intraoral periapical ea add | 0.00 | 0.00 | 0.00 | 0.00 | 0.00 | 0.00 | XXX
D0240 |  | R | Intraoral occlusal film | 0.00 | 0.00 | 0.00 | 0.00 | 0.00 | 0.00 | YYY
D0250 |  | R | Extraoral first film | 0.00 | 0.00 | 0.00 | 0.00 | 0.00 | 0.00 | YYY
D0260 |  | R | Extraoral ea additional film | 0.00 | 0.00 | 0.00 | 0.00 | 0.00 | 0.00 | YYY
D0270 |  | R | Dental bitewing single film | 0.00 | 0.00 | 0.00 | 0.00 | 0.00 | 0.00 | YYY
D0272 |  | R | Dental bitewings two films | 0.00 | 0.00 | 0.00 | 0.00 | 0.00 | 0.00 | YYY
D0274 |  | R | Dental bitewings four films | 0.00 | 0.00 | 0.00 | 0.00 | 0.00 | 0.00 | YYY
D0277 |  | R | Vert bitewings-sev to eight | 0.00 | 0.00 | 0.00 | 0.00 | 0.00 | 0.00 | XXX
D0290 |  | I | Dental film skull/facial bon | 0.00 | 0.00 | 0.00 | 0.00 | 0.00 | 0.00 | XXX
D0310 |  | I | Dental saliography | 0.00 | 0.00 | 0.00 | 0.00 | 0.00 | 0.00 | XXX
D0320 |  | I | Dental tmj arthrogram incl i | 0.00 | 0.00 | 0.00 | 0.00 | 0.00 | 0.00 | XXX
D0321 |  | I | Dental other tmj films | 0.00 | 0.00 | 0.00 | 0.00 | 0.00 | 0.00 | XXX
D0322 |  | I | Dental tomographic survey | 0.00 | 0.00 | 0.00 | 0.00 | 0.00 | 0.00 | XXX
D0330 |  | I | Dental panoramic film | 0.00 | 0.00 | 0.00 | 0.00 | 0.00 | 0.00 | XXX
D0340 |  | I | Dental cephalometric film | 0.00 | 0.00 | 0.00 | 0.00 | 0.00 | 0.00 | XXX
D0350 |  | I | Oral/facial images | 0.00 | 0.00 | 0.00 | 0.00 | 0.00 | 0.00 | XXX
D0415 |  | N | Bacteriologic study | 0.00 | 0.00 | 0.00 | 0.00 | 0.00 | 0.00 | XXX
D0425 |  | N | Caries susceptibility test | 0.00 | 0.00 | 0.00 | 0.00 | 0.00 | 0.00 | XXX
D0460 |  | R | Pulp vitality test | 0.00 | 0.00 | 0.00 | 0.00 | 0.00 | 0.00 | YYY
D0470 |  | N | Diagnostic casts | 0.00 | 0.00 | 0.00 | 0.00 | 0.00 | 0.00 | XXX
D0472 |  | R | Gross exam, prep & report | 0.00 | 0.00 | 0.00 | 0.00 | 0.00 | 0.00 | XXX
D0473 |  | R | Micro exam, prep & report | 0.00 | 0.00 | 0.00 | 0.00 | 0.00 | 0.00 | XXX
D0474 |  | R | Micro w exam of surg margins | 0.00 | 0.00 | 0.00 | 0.00 | 0.00 | 0.00 | XXX
D0480 |  | R | Cytopath smear prep & report | 0.00 | 0.00 | 0.00 | 0.00 | 0.00 | 0.00 | XXX
D0502 |  | R | Other oral pathology procedu | 0.00 | 0.00 | 0.00 | 0.00 | 0.00 | 0.00 | YYY
D0999 |  | R | Unspecified diagnostic proce | 0.00 | 0.00 | 0.00 | 0.00 | 0.00 | 0.00 | YYY
D1110 |  | N | Dental prophylaxis adult | 0.00 | 0.00 | 0.00 | 0.00 | 0.00 | 0.00 | XXX
D1120 |  | N | Dental prophylaxis child | 0.00 | 0.00 | 0.00 | 0.00 | 0.00 | 0.00 | XXX
D1201 |  | N | Topical fluor w prophy child | 0.00 | 0.00 | 0.00 | 0.00 | 0.00 | 0.00 | XXX
D1203 |  | N | Topical fluor w/o prophy chi | 0.00 | 0.00 | 0.00 | 0.00 | 0.00 | 0.00 | XXX
D1204 |  | N | Topical fluor w/o prophy adu | 0.00 | 0.00 | 0.00 | 0.00 | 0.00 | 0.00 | XXX
D1205 |  | N | Topical fluoride w/ prophy a | 0.00 | 0.00 | 0.00 | 0.00 | 0.00 | 0.00 | XXX
D1310 |  | N | Nutri counsel-control caries | 0.00 | 0.00 | 0.00 | 0.00 | 0.00 | 0.00 | XXX
D1320 |  | N | Tobacco counseling | 0.00 | 0.00 | 0.00 | 0.00 | 0.00 | 0.00 | XXX
D1330 |  | N | Oral hygiene instruction | 0.00 | 0.00 | 0.00 | 0.00 | 0.00 | 0.00 | XXX
D1351 |  | N | Dental sealant per tooth | 0.00 | 0.00 | 0.00 | 0.00 | 0.00 | 0.00 | XXX
D1510 |  | R | Space maintainer fxd unilat | 0.00 | 0.00 | 0.00 | 0.00 | 0.00 | 0.00 | YYY
D1515 |  | R | Fixed bilat space maintainer | 0.00 | 0.00 | 0.00 | 0.00 | 0.00 | 0.00 | YYY
D1520 |  | R | Remove unilat space maintain | 0.00 | 0.00 | 0.00 | 0.00 | 0.00 | 0.00 | YYY
D1525 |  | R | Remove bilat space maintain | 0.00 | 0.00 | 0.00 | 0.00 | 0.00 | 0.00 | YYY
D1550 |  | R | Recement space maintainer | 0.00 | 0.00 | 0.00 | 0.00 | 0.00 | 0.00 | YYY
D2140 |  | N | Amalgam one surface permanen | 0.00 | 0.00 | 0.00 | 0.00 | 0.00 | 0.00 | XXX
D2150 |  | N | Amalgam two surfaces permane | 0.00 | 0.00 | 0.00 | 0.00 | 0.00 | 0.00 | XXX
D2160 |  | N | Amalgam three surfaces perma | 0.00 | 0.00 | 0.00 | 0.00 | 0.00 | 0.00 | XXX
D2161 |  | N | Amalgam 4 or > surfaces perm | 0.00 | 0.00 | 0.00 | 0.00 | 0.00 | 0.00 | XXX
D2330 |  | N | Resin one surface-anterior | 0.00 | 0.00 | 0.00 | 0.00 | 0.00 | 0.00 | XXX
D2331 |  | N | Resin two surfaces-anterior | 0.00 | 0.00 | 0.00 | 0.00 | 0.00 | 0.00 | XXX
D2332 |  | N | Resin three surfaces-anterio | 0.00 | 0.00 | 0.00 | 0.00 | 0.00 | 0.00 | XXX
D2335 |  | N | Resin 4/> surf or w incis an | 0.00 | 0.00 | 0.00 | 0.00 | 0.00 | 0.00 | XXX
D2390 |  | N | Ant resin-based cmpst crown | 0.00 | 0.00 | 0.00 | 0.00 | 0.00 | 0.00 | XXX
D2391 |  | N | Post 1 srfc resinbased cmpst | 0.00 | 0.00 | 0.00 | 0.00 | 0.00 | 0.00 | XXX
D2392 |  | N | Post 2 srfc resinbased cmpst | 0.00 | 0.00 | 0.00 | 0.00 | 0.00 | 0.00 | XXX
D2393 |  | N | Post 3 srfc resinbased cmpst | 0.00 | 0.00 | 0.00 | 0.00 | 0.00 | 0.00 | XXX
D2394 |  | N | Post >=4srfc resinbase cmpst | 0.00 | 0.00 | 0.00 | 0.00 | 0.00 | 0.00 | XXX
D2410 |  | N | Dental gold foil one surface | 0.00 | 0.00 | 0.00 | 0.00 | 0.00 | 0.00 | XXX
D2420 |  | N | Dental gold foil two surface | 0.00 | 0.00 | 0.00 | 0.00 | 0.00 | 0.00 | XXX
D2430 |  | N | Dental gold foil three surfa | 0.00 | 0.00 | 0.00 | 0.00 | 0.00 | 0.00 | XXX
D2510 |  | N | Dental inlay metalic 1 surf | 0.00 | 0.00 | 0.00 | 0.00 | 0.00 | 0.00 | XXX
D2520 |  | N | Dental inlay metallic 2 surf | 0.00 | 0.00 | 0.00 | 0.00 | 0.00 | 0.00 | XXX
D2530 |  | N | Dental inlay metl 3/more sur | 0.00 | 0.00 | 0.00 | 0.00 | 0.00 | 0.00 | XXX
D2542 |  | N | Dental onlay metallic 2 surf | 0.00 | 0.00 | 0.00 | 0.00 | 0.00 | 0.00 | XXX
D2543 |  | N | Dental onlay metallic 3 surf | 0.00 | 0.00 | 0.00 | 0.00 | 0.00 | 0.00 | XXX
D2544 |  | N | Dental onlay metl 4/more sur | 0.00 | 0.00 | 0.00 | 0.00 | 0.00 | 0.00 | XXX
D2610 |  | N | Inlay porcelain/ceramic 1 su | 0.00 | 0.00 | 0.00 | 0.00 | 0.00 | 0.00 | XXX
D2620 |  | N | Inlay porcelain/ceramic 2 su | 0.00 | 0.00 | 0.00 | 0.00 | 0.00 | 0.00 | XXX
D2630 |  | N | Dental onlay porc 3/more sur | 0.00 | 0.00 | 0.00 | 0.00 | 0.00 | 0.00 | XXX
D2642 |  | N | Dental onlay porcelin 2 surf | 0.00 | 0.00 | 0.00 | 0.00 | 0.00 | 0.00 | XXX
D2643 |  | N | Dental onlay porcelin 3 surf | 0.00 | 0.00 | 0.00 | 0.00 | 0.00 | 0.00 | XXX
D2644 |  | N | Dental onlay porc 4/more sur | 0.00 | 0.00 | 0.00 | 0.00 | 0.00 | 0.00 | XXX
D2650 |  | N | Inlay composite/resin one su | 0.00 | 0.00 | 0.00 | 0.00 | 0.00 | 0.00 | XXX
D2651 |  | N | Inlay composite/resin two su | 0.00 | 0.00 | 0.00 | 0.00 | 0.00 | 0.00 | XXX
D2652 |  | N | Dental inlay resin 3/mre sur | 0.00 | 0.00 | 0.00 | 0.00 | 0.00 | 0.00 | XXX
D2662 |  | N | Dental onlay resin 2 surface | 0.00 | 0.00 | 0.00 | 0.00 | 0.00 | 0.00 | XXX
D2663 |  | N | Dental onlay resin 3 surface | 0.00 | 0.00 | 0.00 | 0.00 | 0.00 | 0.00 | XXX
D2664 |  | N | Dental onlay resin 4/mre sur | 0.00 | 0.00 | 0.00 | 0.00 | 0.00 | 0.00 | XXX
D2710 |  | N | Crown resin laboratory | 0.00 | 0.00 | 0.00 | 0.00 | 0.00 | 0.00 | XXX
D2720 |  | N | Crown resin w/ high noble me | 0.00 | 0.00 | 0.00 | 0.00 | 0.00 | 0.00 | XXX
D2721 |  | N | Crown resin w/ base metal | 0.00 | 0.00 | 0.00 | 0.00 | 0.00 | 0.00 | XXX
D2722 |  | N | Crown resin w/ noble metal | 0.00 | 0.00 | 0.00 | 0.00 | 0.00 | 0.00 | XXX
D2740 |  | N | Crown porcelain/ceramic subs | 0.00 | 0.00 | 0.00 | 0.00 | 0.00 | 0.00 | XXX
D2750 |  | N | Crown porcelain w/ h noble m | 0.00 | 0.00 | 0.00 | 0.00 | 0.00 | 0.00 | XXX
D2751 |  | N | Crown porcelain fused base m | 0.00 | 0.00 | 0.00 | 0.00 | 0.00 | 0.00 | XXX
D2752 |  | N | Crown porcelain w/ noble met | 0.00 | 0.00 | 0.00 | 0.00 | 0.00 | 0.00 | XXX
D2780 |  | N | Crown 3/4 cast hi noble met | 0.00 | 0.00 | 0.00 | 0.00 | 0.00 | 0.00 | XXX
D2781 |  | N | Crown 3/4 cast base metal | 0.00 | 0.00 | 0.00 | 0.00 | 0.00 | 0.00 | XXX
D2782 |  | N | Crown 3/4 cast noble metal | 0.00 | 0.00 | 0.00 | 0.00 | 0.00 | 0.00 | XXX
D2783 |  | N | Crown 3/4 porcelain/ceramic | 0.00 | 0.00 | 0.00 | 0.00 | 0.00 | 0.00 | XXX
D2790 |  | N | Crown full cast high noble m | 0.00 | 0.00 | 0.00 | 0.00 | 0.00 | 0.00 | XXX
D2791 |  | N | Crown full cast base metal | 0.00 | 0.00 | 0.00 | 0.00 | 0.00 | 0.00 | XXX
D2792 |  | N | Crown full cast noble metal | 0.00 | 0.00 | 0.00 | 0.00 | 0.00 | 0.00 | XXX
D2799 |  | N | Provisional crown | 0.00 | 0.00 | 0.00 | 0.00 | 0.00 | 0.00 | XXX
D2910 |  | N | Dental recement inlay | 0.00 | 0.00 | 0.00 | 0.00 | 0.00 | 0.00 | XXX
D2920 |  | N | Dental recement crown | 0.00 | 0.00 | 0.00 | 0.00 | 0.00 | 0.00 | XXX
D2930 |  | N | Prefab stnlss steel crwn pri | 0.00 | 0.00 | 0.00 | 0.00 | 0.00 | 0.00 | XXX
D2931 |  | N | Prefab stnlss steel crown pe | 0.00 | 0.00 | 0.00 | 0.00 | 0.00 | 0.00 | XXX
D2932 |  | N | Prefabricated resin crown | 0.00 | 0.00 | 0.00 | 0.00 | 0.00 | 0.00 | XXX
D2933 |  | N | Prefab stainless steel crown | 0.00 | 0.00 | 0.00 | 0.00 | 0.00 | 0.00 | XXX
D2940 |  | N | Dental sedative filling | 0.00 | 0.00 | 0.00 | 0.00 | 0.00 | 0.00 | XXX
D2950 |  | N | Core build-up incl any pins | 0.00 | 0.00 | 0.00 | 0.00 | 0.00 | 0.00 | XXX
D2951 |  | N | Tooth pin retention | 0.00 | 0.00 | 0.00 | 0.00 | 0.00 | 0.00 | XXX
D2952 |  | N | Post and core cast + crown | 0.00 | 0.00 | 0.00 | 0.00 | 0.00 | 0.00 | XXX
D2953 |  | N | Each addtnl cast post | 0.00 | 0.00 | 0.00 | 0.00 | 0.00 | 0.00 | XXX
D2954 |  | N | Prefab post/core + crown | 0.00 | 0.00 | 0.00 | 0.00 | 0.00 | 0.00 | XXX
D2955 |  | N | Post removal | 0.00 | 0.00 | 0.00 | 0.00 | 0.00 | 0.00 | XXX
D2957 |  | N | Each addtnl prefab post | 0.00 | 0.00 | 0.00 | 0.00 | 0.00 | 0.00 | XXX
D2960 |  | N | Laminate labial veneer | 0.00 | 0.00 | 0.00 | 0.00 | 0.00 | 0.00 | XXX
D2961 |  | N | Lab labial veneer resin | 0.00 | 0.00 | 0.00 | 0.00 | 0.00 | 0.00 | XXX
D2962 |  | N | Lab labial veneer porcelain | 0.00 | 0.00 | 0.00 | 0.00 | 0.00 | 0.00 | XXX
D2970 |  | R | Temporary- fractured tooth | 0.00 | 0.00 | 0.00 | 0.00 | 0.00 | 0.00 | YYY
D2980 |  | N | Crown repair | 0.00 | 0.00 | 0.00 | 0.00 | 0.00 | 0.00 | XXX
D2999 |  | R | Dental unspec restorative pr | 0.00 | 0.00 | 0.00 | 0.00 | 0.00 | 0.00 | YYY
D3110 |  | N | Pulp cap direct | 0.00 | 0.00 | 0.00 | 0.00 | 0.00 | 0.00 | XXX
D3120 |  | N | Pulp cap indirect | 0.00 | 0.00 | 0.00 | 0.00 | 0.00 | 0.00 | XXX
D3220 |  | N | Therapeutic pulpotomy | 0.00 | 0.00 | 0.00 | 0.00 | 0.00 | 0.00 | XXX
D3221 |  | N | Gross pulpal debridement | 0.00 | 0.00 | 0.00 | 0.00 | 0.00 | 0.00 | XXX
D3230 |  | N | Pulpal therapy anterior prim | 0.00 | 0.00 | 0.00 | 0.00 | 0.00 | 0.00 | XXX
D3240 |  | N | Pulpal therapy posterior pri | 0.00 | 0.00 | 0.00 | 0.00 | 0.00 | 0.00 | XXX
D3310 |  | N | Anterior | 0.00 | 0.00 | 0.00 | 0.00 | 0.00 | 0.00 | XXX
D3320 |  | N | Root canal therapy 2 canals | 0.00 | 0.00 | 0.00 | 0.00 | 0.00 | 0.00 | XXX
D3330 |  | N | Root canal therapy 3 canals | 0.00 | 0.00 | 0.00 | 0.00 | 0.00 | 0.00 | XXX
D3331 |  | N | Non-surg tx root canal obs | 0.00 | 0.00 | 0.00 | 0.00 | 0.00 | 0.00 | XXX
D3332 |  | N | Incomplete endodontic tx | 0.00 | 0.00 | 0.00 | 0.00 | 0.00 | 0.00 | XXX
D3333 |  | N | Internal root repair | 0.00 | 0.00 | 0.00 | 0.00 | 0.00 | 0.00 | XXX
D3346 |  | N | Retreat root canal anterior | 0.00 | 0.00 | 0.00 | 0.00 | 0.00 | 0.00 | XXX
D3347 |  | N | Retreat root canal bicuspid | 0.00 | 0.00 | 0.00 | 0.00 | 0.00 | 0.00 | XXX
D3348 |  | N | Retreat root canal molar | 0.00 | 0.00 | 0.00 | 0.00 | 0.00 | 0.00 | XXX
D3351 |  | N | Apexification/recalc initial | 0.00 | 0.00 | 0.00 | 0.00 | 0.00 | 0.00 | XXX
D3352 |  | N | Apexification/recalc interim | 0.00 | 0.00 | 0.00 | 0.00 | 0.00 | 0.00 | XXX
D3353 |  | N | Apexification/recalc final | 0.00 | 0.00 | 0.00 | 0.00 | 0.00 | 0.00 | XXX
D3410 |  | N | Apicoect/perirad surg anter | 0.00 | 0.00 | 0.00 | 0.00 | 0.00 | 0.00 | XXX
D3421 |  | N | Root surgery bicuspid | 0.00 | 0.00 | 0.00 | 0.00 | 0.00 | 0.00 | XXX
D3425 |  | N | Root surgery molar | 0.00 | 0.00 | 0.00 | 0.00 | 0.00 | 0.00 | XXX
D3426 |  | N | Root surgery ea add root | 0.00 | 0.00 | 0.00 | 0.00 | 0.00 | 0.00 | XXX
D3430 |  | N | Retrograde filling | 0.00 | 0.00 | 0.00 | 0.00 | 0.00 | 0.00 | XXX
D3450 |  | N | Root amputation | 0.00 | 0.00 | 0.00 | 0.00 | 0.00 | 0.00 | XXX
D3460 |  | R | Endodontic endosseous implan | 0.00 | 0.00 | 0.00 | 0.00 | 0.00 | 0.00 | YYY
D3470 |  | N | Intentional replantation | 0.00 | 0.00 | 0.00 | 0.00 | 0.00 | 0.00 | XXX
D3910 |  | N | Isolation- tooth w rubb dam | 0.00 | 0.00 | 0.00 | 0.00 | 0.00 | 0.00 | XXX
D3920 |  | N | Tooth splitting | 0.00 | 0.00 | 0.00 | 0.00 | 0.00 | 0.00 | XXX
D3950 |  | N | Canal prep/fitting of dowel | 0.00 | 0.00 | 0.00 | 0.00 | 0.00 | 0.00 | XXX
D3999 |  | R | Endodontic procedure | 0.00 | 0.00 | 0.00 | 0.00 | 0.00 | 0.00 | YYY
D4210 |  | I | Gingivectomy/plasty per quad | 0.00 | 0.00 | 0.00 | 0.00 | 0.00 | 0.00 | XXX
D4211 |  | I | Gingivectomy/plasty per toot | 0.00 | 0.00 | 0.00 | 0.00 | 0.00 | 0.00 | XXX
D4240 |  | N | Gingival flap proc w/ planin | 0.00 | 0.00 | 0.00 | 0.00 | 0.00 | 0.00 | XXX
D4241 |  | N | Gngvl flap w rootplan 1-3 th | 0.00 | 0.00 | 0.00 | 0.00 | 0.00 | 0.00 | XXX
D4245 |  | N | Apically positioned flap | 0.00 | 0.00 | 0.00 | 0.00 | 0.00 | 0.00 | XXX
D4249 |  | N | Crown lengthen hard tissue | 0.00 | 0.00 | 0.00 | 0.00 | 0.00 | 0.00 | XXX
D4260 |  | R | Osseous surgery per quadrant | 0.00 | 0.00 | 0.00 | 0.00 | 0.00 | 0.00 | YYY
D4261 |  | N | Osseous surgl-3teethperquad | 0.00 | 0.00 | 0.00 | 0.00 | 0.00 | 0.00 | XXX
D4263 |  | R | Bone replce graft first site | 0.00 | 0.00 | 0.00 | 0.00 | 0.00 | 0.00 | YYY
D4264 |  | R | Bone replce graft each add | 0.00 | 0.00 | 0.00 | 0.00 | 0.00 | 0.00 | YYY
D4265 |  | N | Bio mtrls to aid soft/os reg | 0.00 | 0.00 | 0.00 | 0.00 | 0.00 | 0.00 | XXX
D4266 |  | N | Guided tiss regen resorble | 0.00 | 0.00 | 0.00 | 0.00 | 0.00 | 0.00 | XXX
D4267 |  | N | Guided tiss regen nonresorb | 0.00 | 0.00 | 0.00 | 0.00 | 0.00 | 0.00 | XXX
D4268 |  | R | Surgical revision procedure | 0.00 | 0.00 | 0.00 | 0.00 | 0.00 | 0.00 | XXX
D4270 |  | R | Pedicle soft tissue graft pr | 0.00 | 0.00 | 0.00 | 0.00 | 0.00 | 0.00 | YYY
D4271 |  | R | Free soft tissue graft proc | 0.00 | 0.00 | 0.00 | 0.00 | 0.00 | 0.00 | YYY
D4273 |  | R | Subepithelial tissue graft | 0.00 | 0.00 | 0.00 | 0.00 | 0.00 | 0.00 | YYY
D4274 |  | N | Distal/proximal wedge proc | 0.00 | 0.00 | 0.00 | 0.00 | 0.00 | 0.00 | XXX
D4275 |  | N | Soft tissue allograft | 0.00 | 0.00 | 0.00 | 0.00 | 0.00 | 0.00 | XXX
D4276 |  | N | Con tissue w dble ped graft | 0.00 | 0.00 | 0.00 | 0.00 | 0.00 | 0.00 | XXX
D4320 |  | N | Provision splnt intracoronal | 0.00 | 0.00 | 0.00 | 0.00 | 0.00 | 0.00 | XXX
D4321 |  | N | Provisional splint extracoro | 0.00 | 0.00 | 0.00 | 0.00 | 0.00 | 0.00 | XXX
D4341 |  | N | Periodontal scaling & root | 0.00 | 0.00 | 0.00 | 0.00 | 0.00 | 0.00 | XXX
D4342 |  | N | Periodontal scaling 1-3teeth | 0.00 | 0.00 | 0.00 | 0.00 | 0.00 | 0.00 | XXX
D4355 |  | R | Full mouth debridement | 0.00 | 0.00 | 0.00 | 0.00 | 0.00 | 0.00 | YYY
D4381 |  | R | Localized chemo delivery | 0.00 | 0.00 | 0.00 | 0.00 | 0.00 | 0.00 | YYY
D4910 |  | N | Periodontal maint procedures | 0.00 | 0.00 | 0.00 | 0.00 | 0.00 | 0.00 | XXX
D4920 |  | N | Unscheduled dressing change | 0.00 | 0.00 | 0.00 | 0.00 | 0.00 | 0.00 | XXX
D4999 |  | N | Unspecified periodontal proc | 0.00 | 0.00 | 0.00 | 0.00 | 0.00 | 0.00 | XXX
D5110 |  | N | Dentures complete maxillary | 0.00 | 0.00 | 0.00 | 0.00 | 0.00 | 0.00 | XXX
D5120 |  | N | Dentures complete mandible | 0.00 | 0.00 | 0.00 | 0.00 | 0.00 | 0.00 | XXX
D5130 |  | N | Dentures immediat maxillary | 0.00 | 0.00 | 0.00 | 0.00 | 0.00 | 0.00 | XXX
D5140 |  | N | Dentures immediat mandible | 0.00 | 0.00 | 0.00 | 0.00 | 0.00 | 0.00 | XXX
D5211 |  | N | Dentures maxill part resin | 0.00 | 0.00 | 0.00 | 0.00 | 0.00 | 0.00 | XXX
D5212 |  | N | Dentures mand part resin | 0.00 | 0.00 | 0.00 | 0.00 | 0.00 | 0.00 | XXX
D5213 |  | N | Dentures maxill part metal | 0.00 | 0.00 | 0.00 | 0.00 | 0.00 | 0.00 | XXX
D5214 |  | N | Dentures mandibl part metal | 0.00 | 0.00 | 0.00 | 0.00 | 0.00 | 0.00 | XXX
D5281 |  | N | Removable partial denture | 0.00 | 0.00 | 0.00 | 0.00 | 0.00 | 0.00 | XXX
D5410 |  | N | Dentures adjust cmplt maxil | 0.00 | 0.00 | 0.00 | 0.00 | 0.00 | 0.00 | XXX
D5411 |  | N | Dentures adjust cmplt mand | 0.00 | 0.00 | 0.00 | 0.00 | 0.00 | 0.00 | XXX
D5421 |  | N | Dentures adjust part maxill | 0.00 | 0.00 | 0.00 | 0.00 | 0.00 | 0.00 | XXX
D5422 |  | N | Dentures adjust part mandbl | 0.00 | 0.00 | 0.00 | 0.00 | 0.00 | 0.00 | XXX
D5510 |  | N | Dentur repr broken compl bas | 0.00 | 0.00 | 0.00 | 0.00 | 0.00 | 0.00 | XXX
D5520 |  | N | Replace denture teeth complt | 0.00 | 0.00 | 0.00 | 0.00 | 0.00 | 0.00 | XXX
D5610 |  | N | Dentures repair resin base | 0.00 | 0.00 | 0.00 | 0.00 | 0.00 | 0.00 | XXX
D5620 |  | N | Rep part denture cast frame | 0.00 | 0.00 | 0.00 | 0.00 | 0.00 | 0.00 | XXX
D5630 |  | N | Rep partial denture clasp | 0.00 | 0.00 | 0.00 | 0.00 | 0.00 | 0.00 | XXX
D5640 |  | N | Replace part denture teeth | 0.00 | 0.00 | 0.00 | 0.00 | 0.00 | 0.00 | XXX
D5650 |  | N | Add tooth to partial denture | 0.00 | 0.00 | 0.00 | 0.00 | 0.00 | 0.00 | XXX
D5660 |  | N | Add clasp to partial denture | 0.00 | 0.00 | 0.00 | 0.00 | 0.00 | 0.00 | XXX
D5670 |  | N | Replc tth&acrlc on mtl frmwk | 0.00 | 0.00 | 0.00 | 0.00 | 0.00 | 0.00 | XXX
D5671 |  | N | Replc tth&acrlc mandibular | 0.00 | 0.00 | 0.00 | 0.00 | 0.00 | 0.00 | XXX
D5710 |  | N | Dentures rebase cmplt maxil | 0.00 | 0.00 | 0.00 | 0.00 | 0.00 | 0.00 | XXX
D5711 |  | N | Dentures rebase cmplt mand | 0.00 | 0.00 | 0.00 | 0.00 | 0.00 | 0.00 | XXX
D5720 |  | N | Dentures rebase part maxill | 0.00 | 0.00 | 0.00 | 0.00 | 0.00 | 0.00 | XXX
D5721 |  | N | Dentures rebase part mandbl | 0.00 | 0.00 | 0.00 | 0.00 | 0.00 | 0.00 | XXX
D5730 |  | N | Denture reln cmplt maxil ch | 0.00 | 0.00 | 0.00 | 0.00 | 0.00 | 0.00 | XXX
D5731 |  | N | Denture reln cmplt mand chr | 0.00 | 0.00 | 0.00 | 0.00 | 0.00 | 0.00 | XXX
D5740 |  | N | Denture reln part maxil chr | 0.00 | 0.00 | 0.00 | 0.00 | 0.00 | 0.00 | XXX
D5741 |  | N | Denture reln part mand chr | 0.00 | 0.00 | 0.00 | 0.00 | 0.00 | 0.00 | XXX
D5750 |  | N | Denture reln cmplt max lab | 0.00 | 0.00 | 0.00 | 0.00 | 0.00 | 0.00 | XXX
D5751 |  | N | Denture reln cmplt mand lab | 0.00 | 0.00 | 0.00 | 0.00 | 0.00 | 0.00 | XXX
D5760 |  | N | Denture reln part maxil lab | 0.00 | 0.00 | 0.00 | 0.00 | 0.00 | 0.00 | XXX
D5761 |  | N | Denture reln part mand lab | 0.00 | 0.00 | 0.00 | 0.00 | 0.00 | 0.00 | XXX
D5810 |  | N | Denture interm cmplt maxill | 0.00 | 0.00 | 0.00 | 0.00 | 0.00 | 0.00 | XXX
D5811 |  | N | Denture interm cmplt mandbl | 0.00 | 0.00 | 0.00 | 0.00 | 0.00 | 0.00 | XXX
D5820 |  | N | Denture interm part maxill | 0.00 | 0.00 | 0.00 | 0.00 | 0.00 | 0.00 | XXX
D5821 |  | N | Denture interm part mandbl | 0.00 | 0.00 | 0.00 | 0.00 | 0.00 | 0.00 | XXX
D5850 |  | N | Denture tiss conditn maxill | 0.00 | 0.00 | 0.00 | 0.00 | 0.00 | 0.00 | XXX
D5851 |  | N | Denture tiss condtin mandbl | 0.00 | 0.00 | 0.00 | 0.00 | 0.00 | 0.00 | XXX
D5860 |  | N | Overdenture complete | 0.00 | 0.00 | 0.00 | 0.00 | 0.00 | 0.00 | XXX
D5861 |  | N | Overdenture partial | 0.00 | 0.00 | 0.00 | 0.00 | 0.00 | 0.00 | XXX
D5862 |  | N | Precision attachment | 0.00 | 0.00 | 0.00 | 0.00 | 0.00 | 0.00 | XXX
D5867 |  | N | Replacement of precision att | 0.00 | 0.00 | 0.00 | 0.00 | 0.00 | 0.00 | XXX
D5875 |  | N | Prosthesis modification | 0.00 | 0.00 | 0.00 | 0.00 | 0.00 | 0.00 | XXX
D5899 |  | N | Removable prosthodontic proc | 0.00 | 0.00 | 0.00 | 0.00 | 0.00 | 0.00 | XXX
D5911 |  | R | Facial moulage sectional | 0.00 | 0.00 | 0.00 | 0.00 | 0.00 | 0.00 | YYY
D5912 |  | R | Facial moulage complete | 0.00 | 0.00 | 0.00 | 0.00 | 0.00 | 0.00 | YYY
D5913 |  | I | Nasal prosthesis | 0.00 | 0.00 | 0.00 | 0.00 | 0.00 | 0.00 | XXX
D5914 |  | I | Auricular prosthesis | 0.00 | 0.00 | 0.00 | 0.00 | 0.00 | 0.00 | XXX
D5915 |  | I | Orbital prosthesis | 0.00 | 0.00 | 0.00 | 0.00 | 0.00 | 0.00 | XXX
D5916 |  | I | Ocular prosthesis | 0.00 | 0.00 | 0.00 | 0.00 | 0.00 | 0.00 | XXX
D5919 |  | I | Facial prosthesis | 0.00 | 0.00 | 0.00 | 0.00 | 0.00 | 0.00 | XXX
D5922 |  | I | Nasal septal prosthesis | 0.00 | 0.00 | 0.00 | 0.00 | 0.00 | 0.00 | XXX
D5923 |  | I | Ocular prosthesis interim | 0.00 | 0.00 | 0.00 | 0.00 | 0.00 | 0.00 | XXX
D5924 |  | I | Cranial prosthesis | 0.00 | 0.00 | 0.00 | 0.00 | 0.00 | 0.00 | XXX
D5925 |  | I | Facial augmentation implant | 0.00 | 0.00 | 0.00 | 0.00 | 0.00 | 0.00 | XXX
D5926 |  | I | Replacement nasal prosthesis | 0.00 | 0.00 | 0.00 | 0.00 | 0.00 | 0.00 | XXX
D5927 |  | I | Auricular replacement | 0.00 | 0.00 | 0.00 | 0.00 | 0.00 | 0.00 | XXX
D5928 |  | I | Orbital replacement | 0.00 | 0.00 | 0.00 | 0.00 | 0.00 | 0.00 | XXX
D5929 |  | I | Facial replacement | 0.00 | 0.00 | 0.00 | 0.00 | 0.00 | 0.00 | XXX
D5931 |  | I | Surgical obturator | 0.00 | 0.00 | 0.00 | 0.00 | 0.00 | 0.00 | XXX
D5932 |  | I | Postsurgical obturator | 0.00 | 0.00 | 0.00 | 0.00 | 0.00 | 0.00 | XXX
D5933 |  | I | Refitting of obturator | 0.00 | 0.00 | 0.00 | 0.00 | 0.00 | 0.00 | XXX
D5934 |  | I | Mandibular flange prosthesis | 0.00 | 0.00 | 0.00 | 0.00 | 0.00 | 0.00 | XXX
D5935 |  | I | Mandibular denture prosth | 0.00 | 0.00 | 0.00 | 0.00 | 0.00 | 0.00 | XXX
D5936 |  | I | Temp obturator prosthesis | 0.00 | 0.00 | 0.00 | 0.00 | 0.00 | 0.00 | XXX
D5937 |  | I | Trismus appliance | 0.00 | 0.00 | 0.00 | 0.00 | 0.00 | 0.00 | XXX
D5951 |  | R | Feeding aid | 0.00 | 0.00 | 0.00 | 0.00 | 0.00 | 0.00 | YYY
D5952 |  | I | Pediatric speech aid | 0.00 | 0.00 | 0.00 | 0.00 | 0.00 | 0.00 | XXX
D5953 |  | I | Adult speech aid | 0.00 | 0.00 | 0.00 | 0.00 | 0.00 | 0.00 | XXX
D5954 |  | I | Superimposed prosthesis | 0.00 | 0.00 | 0.00 | 0.00 | 0.00 | 0.00 | XXX
D5955 |  | I | Palatal lift prosthesis | 0.00 | 0.00 | 0.00 | 0.00 | 0.00 | 0.00 | XXX
D5958 |  | I | Intraoral con def inter plt | 0.00 | 0.00 | 0.00 | 0.00 | 0.00 | 0.00 | XXX
D5959 |  | I | Intraoral con def mod palat | 0.00 | 0.00 | 0.00 | 0.00 | 0.00 | 0.00 | XXX
D5960 |  | I | Modify speech aid prosthesis | 0.00 | 0.00 | 0.00 | 0.00 | 0.00 | 0.00 | XXX
D5982 |  | I | Surgical stent | 0.00 | 0.00 | 0.00 | 0.00 | 0.00 | 0.00 | XXX
D5983 |  | R | Radiation applicator | 0.00 | 0.00 | 0.00 | 0.00 | 0.00 | 0.00 | YYY
D5984 |  | R | Radiation shield | 0.00 | 0.00 | 0.00 | 0.00 | 0.00 | 0.00 | YYY
D5985 |  | R | Radiation cone locator | 0.00 | 0.00 | 0.00 | 0.00 | 0.00 | 0.00 | YYY
D5986 |  | N | Fluoride applicator | 0.00 | 0.00 | 0.00 | 0.00 | 0.00 | 0.00 | XXX
D5987 |  | R | Commissure splint | 0.00 | 0.00 | 0.00 | 0.00 | 0.00 | 0.00 | YYY
D5988 |  | I | Surgical splint | 0.00 | 0.00 | 0.00 | 0.00 | 0.00 | 0.00 | XXX
D5999 |  | I | Maxillofacial prosthesis | 0.00 | 0.00 | 0.00 | 0.00 | 0.00 | 0.00 | XXX
D6010 |  | I | Odontics endosteal implant | 0.00 | 0.00 | 0.00 | 0.00 | 0.00 | 0.00 | XXX
D6020 |  | I | Odontics abutment placement | 0.00 | 0.00 | 0.00 | 0.00 | 0.00 | 0.00 | XXX
D6040 |  | I | Odontics eposteal implant | 0.00 | 0.00 | 0.00 | 0.00 | 0.00 | 0.00 | XXX
D6050 |  | I | Odontics transosteal implnt | 0.00 | 0.00 | 0.00 | 0.00 | 0.00 | 0.00 | XXX
D6053 |  | N | Implnt/abtmnt spprt remv dnt | 0.00 | 0.00 | 0.00 | 0.00 | 0.00 | 0.00 | XXX
D6054 |  | N | Implnt/abtmnt spprt remvprtl | 0.00 | 0.00 | 0.00 | 0.00 | 0.00 | 0.00 | XXX
D6055 |  | I | Implant connecting bar | 0.00 | 0.00 | 0.00 | 0.00 | 0.00 | 0.00 | XXX
D6056 |  | N | Prefabricated abutment | 0.00 | 0.00 | 0.00 | 0.00 | 0.00 | 0.00 | XXX
D6057 |  | N | Custom abutment | 0.00 | 0.00 | 0.00 | 0.00 | 0.00 | 0.00 | XXX
D6058 |  | N | Abutment supported crown | 0.00 | 0.00 | 0.00 | 0.00 | 0.00 | 0.00 | XXX
D6059 |  | N | Abutment supported mtl crown | 0.00 | 0.00 | 0.00 | 0.00 | 0.00 | 0.00 | XXX
D6060 |  | N | Abutment supported mtl crown | 0.00 | 0.00 | 0.00 | 0.00 | 0.00 | 0.00 | XXX
D6061 |  | N | Abutment supported mtl crown | 0.00 | 0.00 | 0.00 | 0.00 | 0.00 | 0.00 | XXX
D6062 |  | N | Abutment supported mtl crown | 0.00 | 0.00 | 0.00 | 0.00 | 0.00 | 0.00 | XXX
D6063 |  | N | Abutment supported mtl crown | 0.00 | 0.00 | 0.00 | 0.00 | 0.00 | 0.00 | XXX
D6064 |  | N | Abutment supported mtl crown | 0.00 | 0.00 | 0.00 | 0.00 | 0.00 | 0.00 | XXX
D6065 |  | N | Implant supported crown | 0.00 | 0.00 | 0.00 | 0.00 | 0.00 | 0.00 | XXX
D6066 |  | N | Implant supported mtl crown | 0.00 | 0.00 | 0.00 | 0.00 | 0.00 | 0.00 | XXX
D6067 |  | N | Implant supported mtl crown | 0.00 | 0.00 | 0.00 | 0.00 | 0.00 | 0.00 | XXX
D6068 |  | N | Abutment supported retainer | 0.00 | 0.00 | 0.00 | 0.00 | 0.00 | 0.00 | XXX
D6069 |  | N | Abutment supported retainer | 0.00 | 0.00 | 0.00 | 0.00 | 0.00 | 0.00 | XXX
D6070 |  | N | Abutment supported retainer | 0.00 | 0.00 | 0.00 | 0.00 | 0.00 | 0.00 | XXX
D6071 |  | N | Abutment supported retainer | 0.00 | 0.00 | 0.00 | 0.00 | 0.00 | 0.00 | XXX
D6072 |  | N | Abutment supported retainer | 0.00 | 0.00 | 0.00 | 0.00 | 0.00 | 0.00 | XXX
D6073 |  | N | Abutment supported retainer | 0.00 | 0.00 | 0.00 | 0.00 | 0.00 | 0.00 | XXX
D6074 |  | N | Abutment supported retainer | 0.00 | 0.00 | 0.00 | 0.00 | 0.00 | 0.00 | XXX
D6075 |  | N | Implant supported retainer | 0.00 | 0.00 | 0.00 | 0.00 | 0.00 | 0.00 | XXX
D6076 |  | N | Implant supported retainer | 0.00 | 0.00 | 0.00 | 0.00 | 0.00 | 0.00 | XXX
D6077 |  | N | Implant supported retainer | 0.00 | 0.00 | 0.00 | 0.00 | 0.00 | 0.00 | XXX
D6078 |  | N | Implnt/abut suprtd fixd dent | 0.00 | 0.00 | 0.00 | 0.00 | 0.00 | 0.00 | XXX
D6079 |  | N | Implnt/abut suprtd fixd dent | 0.00 | 0.00 | 0.00 | 0.00 | 0.00 | 0.00 | XXX
D6080 |  | I | Implant maintenance | 0.00 | 0.00 | 0.00 | 0.00 | 0.00 | 0.00 | XXX
D6090 |  | I | Repair implant | 0.00 | 0.00 | 0.00 | 0.00 | 0.00 | 0.00 | XXX
D6095 |  | I | Odontics repr abutment | 0.00 | 0.00 | 0.00 | 0.00 | 0.00 | 0.00 | XXX
D6100 |  | I | Removal of implant | 0.00 | 0.00 | 0.00 | 0.00 | 0.00 | 0.00 | XXX
D6199 |  | I | Implant procedure | 0.00 | 0.00 | 0.00 | 0.00 | 0.00 | 0.00 | XXX
D6210 |  | N | Prosthodont high noble metal | 0.00 | 0.00 | 0.00 | 0.00 | 0.00 | 0.00 | XXX
D6211 |  | N | Bridge base metal cast | 0.00 | 0.00 | 0.00 | 0.00 | 0.00 | 0.00 | XXX
D6212 |  | N | Bridge noble metal cast | 0.00 | 0.00 | 0.00 | 0.00 | 0.00 | 0.00 | XXX
D6240 |  | N | Bridge porcelain high noble | 0.00 | 0.00 | 0.00 | 0.00 | 0.00 | 0.00 | XXX
D6241 |  | N | Bridge porcelain base metal | 0.00 | 0.00 | 0.00 | 0.00 | 0.00 | 0.00 | XXX
D6242 |  | N | Bridge porcelain nobel metal | 0.00 | 0.00 | 0.00 | 0.00 | 0.00 | 0.00 | XXX
D6245 |  | N | Bridge porcelain/ceramic | 0.00 | 0.00 | 0.00 | 0.00 | 0.00 | 0.00 | XXX
D6250 |  | N | Bridge resin w/high noble | 0.00 | 0.00 | 0.00 | 0.00 | 0.00 | 0.00 | XXX
D6251 |  | N | Bridge resin base metal | 0.00 | 0.00 | 0.00 | 0.00 | 0.00 | 0.00 | XXX
D6252 |  | N | Bridge resin w/noble metal | 0.00 | 0.00 | 0.00 | 0.00 | 0.00 | 0.00 | XXX
D6253 |  | N | Provisional pontic | 0.00 | 0.00 | 0.00 | 0.00 | 0.00 | 0.00 | XXX
D6545 |  | N | Dental retainr cast metl | 0.00 | 0.00 | 0.00 | 0.00 | 0.00 | 0.00 | XXX
D6548 |  | N | Porcelain/ceramic retainer | 0.00 | 0.00 | 0.00 | 0.00 | 0.00 | 0.00 | XXX
D6600 |  | N | Porcelain/ceramic inlay 2srf | 0.00 | 0.00 | 0.00 | 0.00 | 0.00 | 0.00 | XXX
D6601 |  | N | Porc/ceram inlay >= 3 surfac | 0.00 | 0.00 | 0.00 | 0.00 | 0.00 | 0.00 | XXX
D6602 |  | N | Cst hgh nble mtl inlay 2 srf | 0.00 | 0.00 | 0.00 | 0.00 | 0.00 | 0.00 | XXX
D6603 |  | N | Cst hgh nble mtl inlay >=3sr | 0.00 | 0.00 | 0.00 | 0.00 | 0.00 | 0.00 | XXX
D6604 |  | N | Cst bse mtl inlay 2 surfaces | 0.00 | 0.00 | 0.00 | 0.00 | 0.00 | 0.00 | XXX
D6605 |  | N | Cst bse mtl inlay >= 3 surfa | 0.00 | 0.00 | 0.00 | 0.00 | 0.00 | 0.00 | XXX
D6606 |  | N | Cast noble metal inlay 2 sur | 0.00 | 0.00 | 0.00 | 0.00 | 0.00 | 0.00 | XXX
D6607 |  | N | Cst noble mtl inlay >=3 surf | 0.00 | 0.00 | 0.00 | 0.00 | 0.00 | 0.00 | XXX
D6608 |  | N | Onlay porc/crmc 2 surfaces | 0.00 | 0.00 | 0.00 | 0.00 | 0.00 | 0.00 | XXX
D6609 |  | N | Onlay porc/crmc >=3 surfaces | 0.00 | 0.00 | 0.00 | 0.00 | 0.00 | 0.00 | XXX
D6610 |  | N | Onlay cst hgh nbl mtl 2 srfc | 0.00 | 0.00 | 0.00 | 0.00 | 0.00 | 0.00 | XXX
D6611 |  | N | Onlay cst hgh nbl mtl >=3srf | 0.00 | 0.00 | 0.00 | 0.00 | 0.00 | 0.00 | XXX
D6612 |  | N | Onlay cst base mtl 2 surface | 0.00 | 0.00 | 0.00 | 0.00 | 0.00 | 0.00 | XXX
D6613 |  | N | Onlay cst base mtl >=3 surfa | 0.00 | 0.00 | 0.00 | 0.00 | 0.00 | 0.00 | XXX
D6614 |  | N | Onlay cst nbl mtl 2 surfaces | 0.00 | 0.00 | 0.00 | 0.00 | 0.00 | 0.00 | XXX
D6615 |  | N | Onlay cst nbl mtl >=3 surfac | 0.00 | 0.00 | 0.00 | 0.00 | 0.00 | 0.00 | XXX
D6720 |  | N | Retain crown resin w hi nble | 0.00 | 0.00 | 0.00 | 0.00 | 0.00 | 0.00 | XXX
D6721 |  | N | Crown resin w/base metal | 0.00 | 0.00 | 0.00 | 0.00 | 0.00 | 0.00 | XXX
D6722 |  | N | Crown resin w/noble metal | 0.00 | 0.00 | 0.00 | 0.00 | 0.00 | 0.00 | XXX
D6740 |  | N | Crown porcelain/ceramic | 0.00 | 0.00 | 0.00 | 0.00 | 0.00 | 0.00 | XXX
D6750 |  | N | Crown porcelain high noble | 0.00 | 0.00 | 0.00 | 0.00 | 0.00 | 0.00 | XXX
D6751 |  | N | Crown porcelain base metal | 0.00 | 0.00 | 0.00 | 0.00 | 0.00 | 0.00 | XXX
D6752 |  | N | Crown porcelain noble metal | 0.00 | 0.00 | 0.00 | 0.00 | 0.00 | 0.00 | XXX
D6780 |  | N | Crown 3/4 high noble metal | 0.00 | 0.00 | 0.00 | 0.00 | 0.00 | 0.00 | XXX
D6781 |  | N | Crown 3/4 cast based metal | 0.00 | 0.00 | 0.00 | 0.00 | 0.00 | 0.00 | XXX
D6782 |  | N | Crown 3/4 cast noble metal | 0.00 | 0.00 | 0.00 | 0.00 | 0.00 | 0.00 | XXX
D6783 |  | N | Crown 3/4 porcelain/ceramic | 0.00 | 0.00 | 0.00 | 0.00 | 0.00 | 0.00 | XXX
D6790 |  | N | Crown full high noble metal | 0.00 | 0.00 | 0.00 | 0.00 | 0.00 | 0.00 | XXX
D6791 |  | N | Crown full base metal cast | 0.00 | 0.00 | 0.00 | 0.00 | 0.00 | 0.00 | XXX
D6792 |  | N | Crown full noble metal cast | 0.00 | 0.00 | 0.00 | 0.00 | 0.00 | 0.00 | XXX
D6793 |  | N | Provisional retainer crown | 0.00 | 0.00 | 0.00 | 0.00 | 0.00 | 0.00 | XXX
D6920 |  | R | Dental connector bar | 0.00 | 0.00 | 0.00 | 0.00 | 0.00 | 0.00 | YYY
D6930 |  | N | Dental recement bridge | 0.00 | 0.00 | 0.00 | 0.00 | 0.00 | 0.00 | XXX
D6940 |  | N | Stress breaker | 0.00 | 0.00 | 0.00 | 0.00 | 0.00 | 0.00 | XXX
D6950 |  | N | Precision attachment | 0.00 | 0.00 | 0.00 | 0.00 | 0.00 | 0.00 | XXX
D6970 |  | N | Post & core plus retainer | 0.00 | 0.00 | 0.00 | 0.00 | 0.00 | 0.00 | XXX
D6971 |  | N | Cast post bridge retainer | 0.00 | 0.00 | 0.00 | 0.00 | 0.00 | 0.00 | XXX
D6972 |  | N | Prefab post & core plus reta | 0.00 | 0.00 | 0.00 | 0.00 | 0.00 | 0.00 | XXX
D6973 |  | N | Core build up for retainer | 0.00 | 0.00 | 0.00 | 0.00 | 0.00 | 0.00 | XXX
D6975 |  | N | Coping metal | 0.00 | 0.00 | 0.00 | 0.00 | 0.00 | 0.00 | XXX
D6976 |  | N | Each addtnl cast post | 0.00 | 0.00 | 0.00 | 0.00 | 0.00 | 0.00 | XXX
D6977 |  | N | Each addtl prefab post | 0.00 | 0.00 | 0.00 | 0.00 | 0.00 | 0.00 | XXX
D6980 |  | N | Bridge repair | 0.00 | 0.00 | 0.00 | 0.00 | 0.00 | 0.00 | XXX
D6985 |  | N | Pediatric partial denture fx | 0.00 | 0.00 | 0.00 | 0.00 | 0.00 | 0.00 | XXX
D6999 |  | N | Fixed prosthodontic proc | 0.00 | 0.00 | 0.00 | 0.00 | 0.00 | 0.00 | XXX
D7111 |  | R | Coronal remnants deciduous t | 0.00 | 0.00 | 0.00 | 0.00 | 0.00 | 0.00 | XXX
D7140 |  | R | Extraction erupted tooth/exr | 0.00 | 0.00 | 0.00 | 0.00 | 0.00 | 0.00 | XXX
D7210 |  | R | Rem imp tooth w mucoper flp | 0.00 | 0.00 | 0.00 | 0.00 | 0.00 | 0.00 | YYY
D7220 |  | R | Impact tooth remov soft tiss | 0.00 | 0.00 | 0.00 | 0.00 | 0.00 | 0.00 | YYY
D7230 |  | R | Impact tooth remov part bony | 0.00 | 0.00 | 0.00 | 0.00 | 0.00 | 0.00 | YYY
D7240 |  | R | Impact tooth remov comp bony | 0.00 | 0.00 | 0.00 | 0.00 | 0.00 | 0.00 | YYY
D7241 |  | R | Impact tooth rem bony w/comp | 0.00 | 0.00 | 0.00 | 0.00 | 0.00 | 0.00 | YYY
D7250 |  | R | Tooth root removal | 0.00 | 0.00 | 0.00 | 0.00 | 0.00 | 0.00 | YYY
D7260 |  | R | Oral antral fistula closure | 0.00 | 0.00 | 0.00 | 0.00 | 0.00 | 0.00 | YYY
D7261 |  | R | Primary closure sinus perf | 0.00 | 0.00 | 0.00 | 0.00 | 0.00 | 0.00 | XXX
D7270 |  | N | Tooth reimplantation | 0.00 | 0.00 | 0.00 | 0.00 | 0.00 | 0.00 | XXX
D7272 |  | N | Tooth transplantation | 0.00 | 0.00 | 0.00 | 0.00 | 0.00 | 0.00 | XXX
D7280 |  | N | Exposure impact tooth orthod | 0.00 | 0.00 | 0.00 | 0.00 | 0.00 | 0.00 | XXX
D7281 |  | N | Exposure tooth aid eruption | 0.00 | 0.00 | 0.00 | 0.00 | 0.00 | 0.00 | XXX
D7282 |  | N | Mobilize erupted/malpos toot | 0.00 | 0.00 | 0.00 | 0.00 | 0.00 | 0.00 | XXX
D7285 |  | I | Biopsy of oral tissue hard | 0.00 | 0.00 | 0.00 | 0.00 | 0.00 | 0.00 | XXX
D7286 |  | I | Biopsy of oral tissue soft | 0.00 | 0.00 | 0.00 | 0.00 | 0.00 | 0.00 | XXX
D7287 |  | I | Cytology sample collection | 0.00 | 0.00 | 0.00 | 0.00 | 0.00 | 0.00 | XXX
D7290 |  | N | Repositioning of teeth | 0.00 | 0.00 | 0.00 | 0.00 | 0.00 | 0.00 | XXX
D7291 |  | R | Transseptal fiberotomy | 0.00 | 0.00 | 0.00 | 0.00 | 0.00 | 0.00 | YYY
D7310 |  | I | Alveoplasty w/ extraction | 0.00 | 0.00 | 0.00 | 0.00 | 0.00 | 0.00 | XXX
D7320 |  | I | Alveoplasty w/o extraction | 0.00 | 0.00 | 0.00 | 0.00 | 0.00 | 0.00 | XXX
D7340 |  | I | Vestibuloplasty ridge extens | 0.00 | 0.00 | 0.00 | 0.00 | 0.00 | 0.00 | XXX
D7350 |  | I | Vestibuloplasty exten graft | 0.00 | 0.00 | 0.00 | 0.00 | 0.00 | 0.00 | XXX
D7410 |  | I | Rad exc lesion up to 1.25 cm | 0.00 | 0.00 | 0.00 | 0.00 | 0.00 | 0.00 | XXX
D7411 |  | I | Excision benign lesion>1.25c | 0.00 | 0.00 | 0.00 | 0.00 | 0.00 | 0.00 | XXX
D7412 |  | I | Excision benign lesion compl | 0.00 | 0.00 | 0.00 | 0.00 | 0.00 | 0.00 | XXX
D7413 |  | I | Excision malig lesion<=1.25c | 0.00 | 0.00 | 0.00 | 0.00 | 0.00 | 0.00 | XXX
D7414 |  | I | Excision malig lesion>1.25cm | 0.00 | 0.00 | 0.00 | 0.00 | 0.00 | 0.00 | XXX
D7415 |  | I | Excision malig les complicat | 0.00 | 0.00 | 0.00 | 0.00 | 0.00 | 0.00 | XXX
D7440 |  | I | Malig tumor exc to 1.25 cm | 0.00 | 0.00 | 0.00 | 0.00 | 0.00 | 0.00 | XXX
D7441 |  | I | Malig tumor > 1.25 cm | 0.00 | 0.00 | 0.00 | 0.00 | 0.00 | 0.00 | XXX
D7450 |  | I | Rem odontogen cyst to 1.25cm | 0.00 | 0.00 | 0.00 | 0.00 | 0.00 | 0.00 | XXX
D7451 |  | I | Rem odontogen cyst > 1.25 cm | 0.00 | 0.00 | 0.00 | 0.00 | 0.00 | 0.00 | XXX
D7460 |  | I | Rem nonodonto cyst to 1.25cm | 0.00 | 0.00 | 0.00 | 0.00 | 0.00 | 0.00 | XXX
D7461 |  | I | Rem nonodonto cyst > 1.25 cm | 0.00 | 0.00 | 0.00 | 0.00 | 0.00 | 0.00 | XXX
D7465 |  | I | Lesion destruction | 0.00 | 0.00 | 0.00 | 0.00 | 0.00 | 0.00 | XXX
D7471 |  | I | Rem exostosis any site | 0.00 | 0.00 | 0.00 | 0.00 | 0.00 | 0.00 | XXX
D7472 |  | I | Removal of torus palatinus | 0.00 | 0.00 | 0.00 | 0.00 | 0.00 | 0.00 | XXX
D7473 |  | I | Remove torus mandibularis | 0.00 | 0.00 | 0.00 | 0.00 | 0.00 | 0.00 | XXX
D7485 |  | I | Surg reduct osseoustuberosit | 0.00 | 0.00 | 0.00 | 0.00 | 0.00 | 0.00 | XXX
D7490 |  | I | Mandible resection | 0.00 | 0.00 | 0.00 | 0.00 | 0.00 | 0.00 | XXX
D7510 |  | I | I&d absc intraoral soft tiss | 0.00 | 0.00 | 0.00 | 0.00 | 0.00 | 0.00 | XXX
D7520 |  | I | I&d abscess extraoral | 0.00 | 0.00 | 0.00 | 0.00 | 0.00 | 0.00 | XXX
D7530 |  | I | Removal fb skin/areolar tiss | 0.00 | 0.00 | 0.00 | 0.00 | 0.00 | 0.00 | XXX
D7540 |  | I | Removal of fb reaction | 0.00 | 0.00 | 0.00 | 0.00 | 0.00 | 0.00 | XXX
D7550 |  | I | Removal of sloughed off bone | 0.00 | 0.00 | 0.00 | 0.00 | 0.00 | 0.00 | XXX
D7560 |  | I | Maxillary sinusotomy | 0.00 | 0.00 | 0.00 | 0.00 | 0.00 | 0.00 | XXX
D7610 |  | I | Maxilla open reduct simple | 0.00 | 0.00 | 0.00 | 0.00 | 0.00 | 0.00 | XXX
D7620 |  | I | Clsd reduct simpl maxilla fx | 0.00 | 0.00 | 0.00 | 0.00 | 0.00 | 0.00 | XXX
D7630 |  | I | Open red simpl mandible fx | 0.00 | 0.00 | 0.00 | 0.00 | 0.00 | 0.00 | XXX
D7640 |  | I | Clsd red simpl mandible fx | 0.00 | 0.00 | 0.00 | 0.00 | 0.00 | 0.00 | XXX
D7650 |  | I | Open red simp malar/zygom fx | 0.00 | 0.00 | 0.00 | 0.00 | 0.00 | 0.00 | XXX
D7660 |  | I | Clsd red simp malar/zygom fx | 0.00 | 0.00 | 0.00 | 0.00 | 0.00 | 0.00 | XXX
D7670 |  | I | Closd rductn splint alveolus | 0.00 | 0.00 | 0.00 | 0.00 | 0.00 | 0.00 | XXX
D7671 |  | I | Alveolus open reduction | 0.00 | 0.00 | 0.00 | 0.00 | 0.00 | 0.00 | XXX
D7680 |  | I | Reduct simple facial bone fx | 0.00 | 0.00 | 0.00 | 0.00 | 0.00 | 0.00 | XXX
D7710 |  | I | Maxilla open reduct compound | 0.00 | 0.00 | 0.00 | 0.00 | 0.00 | 0.00 | XXX
D7720 |  | I | Clsd reduct compd maxilla fx | 0.00 | 0.00 | 0.00 | 0.00 | 0.00 | 0.00 | XXX
D7730 |  | I | Open reduct compd mandble fx | 0.00 | 0.00 | 0.00 | 0.00 | 0.00 | 0.00 | XXX
D7740 |  | I | Clsd reduct compd mandble fx | 0.00 | 0.00 | 0.00 | 0.00 | 0.00 | 0.00 | XXX
D7750 |  | I | Open red comp malar/zygma fx | 0.00 | 0.00 | 0.00 | 0.00 | 0.00 | 0.00 | XXX
D7760 |  | I | Clsd red comp malar/zygma fx | 0.00 | 0.00 | 0.00 | 0.00 | 0.00 | 0.00 | XXX
D7770 |  | I | Open reduc compd alveolus fx | 0.00 | 0.00 | 0.00 | 0.00 | 0.00 | 0.00 | XXX
D7771 |  | I | Alveolus clsd reduc stblz te | 0.00 | 0.00 | 0.00 | 0.00 | 0.00 | 0.00 | XXX
D7780 |  | I | Reduct compnd facial bone fx | 0.00 | 0.00 | 0.00 | 0.00 | 0.00 | 0.00 | XXX
D7810 |  | I | Tmj open reduct-dislocation | 0.00 | 0.00 | 0.00 | 0.00 | 0.00 | 0.00 | XXX
D7820 |  | I | Closed tmp manipulation | 0.00 | 0.00 | 0.00 | 0.00 | 0.00 | 0.00 | XXX
D7830 |  | I | Tmj manipulation under anest | 0.00 | 0.00 | 0.00 | 0.00 | 0.00 | 0.00 | XXX
D7840 |  | I | Removal of tmj condyle | 0.00 | 0.00 | 0.00 | 0.00 | 0.00 | 0.00 | XXX
D7850 |  | I | Tmj meniscectomy | 0.00 | 0.00 | 0.00 | 0.00 | 0.00 | 0.00 | XXX
D7852 |  | I | Tmj repair of joint disc | 0.00 | 0.00 | 0.00 | 0.00 | 0.00 | 0.00 | XXX
D7854 |  | I | Tmj excisn of joint membrane | 0.00 | 0.00 | 0.00 | 0.00 | 0.00 | 0.00 | XXX
D7856 |  | I | Tmj cutting of a muscle | 0.00 | 0.00 | 0.00 | 0.00 | 0.00 | 0.00 | XXX
D7858 |  | I | Tmj reconstruction | 0.00 | 0.00 | 0.00 | 0.00 | 0.00 | 0.00 | XXX
D7860 |  | I | Tmj cutting into joint | 0.00 | 0.00 | 0.00 | 0.00 | 0.00 | 0.00 | XXX
D7865 |  | I | Tmj reshaping components | 0.00 | 0.00 | 0.00 | 0.00 | 0.00 | 0.00 | XXX
D7870 |  | I | Tmj aspiration joint fluid | 0.00 | 0.00 | 0.00 | 0.00 | 0.00 | 0.00 | XXX
D7871 |  | N | Lysis + lavage w catheters | 0.00 | 0.00 | 0.00 | 0.00 | 0.00 | 0.00 | XXX
D7872 |  | I | Tmj diagnostic arthroscopy | 0.00 | 0.00 | 0.00 | 0.00 | 0.00 | 0.00 | XXX
D7873 |  | I | Tmj arthroscopy lysis adhesn | 0.00 | 0.00 | 0.00 | 0.00 | 0.00 | 0.00 | XXX
D7874 |  | I | Tmj arthroscopy disc reposit | 0.00 | 0.00 | 0.00 | 0.00 | 0.00 | 0.00 | XXX
D7875 |  | I | Tmj arthroscopy synovectomy | 0.00 | 0.00 | 0.00 | 0.00 | 0.00 | 0.00 | XXX
D7876 |  | I | Tmj arthroscopy discectomy | 0.00 | 0.00 | 0.00 | 0.00 | 0.00 | 0.00 | XXX
D7877 |  | I | Tmj arthroscopy debridement | 0.00 | 0.00 | 0.00 | 0.00 | 0.00 | 0.00 | XXX
D7880 |  | I | Occlusal orthotic appliance | 0.00 | 0.00 | 0.00 | 0.00 | 0.00 | 0.00 | XXX
D7899 |  | I | Tmj unspecified therapy | 0.00 | 0.00 | 0.00 | 0.00 | 0.00 | 0.00 | XXX
D7910 |  | I | Dent sutur recent wnd to 5cm | 0.00 | 0.00 | 0.00 | 0.00 | 0.00 | 0.00 | XXX
D7911 |  | I | Dental suture wound to 5 cm | 0.00 | 0.00 | 0.00 | 0.00 | 0.00 | 0.00 | XXX
D7912 |  | I | Suture complicate wnd > 5 cm | 0.00 | 0.00 | 0.00 | 0.00 | 0.00 | 0.00 | XXX
D7920 |  | I | Dental skin graft | 0.00 | 0.00 | 0.00 | 0.00 | 0.00 | 0.00 | XXX
D7940 |  | R | Reshaping bone orthognathic | 0.00 | 0.00 | 0.00 | 0.00 | 0.00 | 0.00 | YYY
D7941 |  | I | Bone cutting ramus closed | 0.00 | 0.00 | 0.00 | 0.00 | 0.00 | 0.00 | XXX
D7943 |  | I | Cutting ramus open w/graft | 0.00 | 0.00 | 0.00 | 0.00 | 0.00 | 0.00 | XXX
D7944 |  | I | Bone cutting segmented | 0.00 | 0.00 | 0.00 | 0.00 | 0.00 | 0.00 | XXX
D7945 |  | I | Bone cutting body mandible | 0.00 | 0.00 | 0.00 | 0.00 | 0.00 | 0.00 | XXX
D7946 |  | I | Reconstruction maxilla total | 0.00 | 0.00 | 0.00 | 0.00 | 0.00 | 0.00 | XXX
D7947 |  | I | Reconstruct maxilla segment | 0.00 | 0.00 | 0.00 | 0.00 | 0.00 | 0.00 | XXX
D7948 |  | I | Reconstruct midface no graft | 0.00 | 0.00 | 0.00 | 0.00 | 0.00 | 0.00 | XXX
D7949 |  | I | Reconstruct midface w/graft | 0.00 | 0.00 | 0.00 | 0.00 | 0.00 | 0.00 | XXX
D7950 |  | I | Mandible graft | 0.00 | 0.00 | 0.00 | 0.00 | 0.00 | 0.00 | XXX
D7955 |  | I | Repair maxillofacial defects | 0.00 | 0.00 | 0.00 | 0.00 | 0.00 | 0.00 | XXX
D7960 |  | I | Frenulectomy/frenulotomy | 0.00 | 0.00 | 0.00 | 0.00 | 0.00 | 0.00 | XXX
D7970 |  | I | Excision hyperplastic tissue | 0.00 | 0.00 | 0.00 | 0.00 | 0.00 | 0.00 | XXX
D7971 |  | I | Excision pericoronal gingiva | 0.00 | 0.00 | 0.00 | 0.00 | 0.00 | 0.00 | XXX
D7972 |  | I | Surg redct fibrous tuberosit | 0.00 | 0.00 | 0.00 | 0.00 | 0.00 | 0.00 | XXX
D7980 |  | I | Sialolithotomy | 0.00 | 0.00 | 0.00 | 0.00 | 0.00 | 0.00 | XXX
D7981 |  | I | Excision of salivary gland | 0.00 | 0.00 | 0.00 | 0.00 | 0.00 | 0.00 | XXX
D7982 |  | I | Sialodochoplasty | 0.00 | 0.00 | 0.00 | 0.00 | 0.00 | 0.00 | XXX
D7983 |  | I | Closure of salivary fistula | 0.00 | 0.00 | 0.00 | 0.00 | 0.00 | 0.00 | XXX
D7990 |  | I | Emergency tracheotomy | 0.00 | 0.00 | 0.00 | 0.00 | 0.00 | 0.00 | XXX
D7991 |  | I | Dental coronoidectomy | 0.00 | 0.00 | 0.00 | 0.00 | 0.00 | 0.00 | XXX
D7995 |  | I | Synthetic graft facial bones | 0.00 | 0.00 | 0.00 | 0.00 | 0.00 | 0.00 | XXX
D7996 |  | I | Implant mandible for augment | 0.00 | 0.00 | 0.00 | 0.00 | 0.00 | 0.00 | XXX
D7997 |  | N | Appliance removal | 0.00 | 0.00 | 0.00 | 0.00 | 0.00 | 0.00 | XXX
D7999 |  | I | Oral surgery procedure | 0.00 | 0.00 | 0.00 | 0.00 | 0.00 | 0.00 | XXX
D8010 |  | N | Limited dental tx primary | 0.00 | 0.00 | 0.00 | 0.00 | 0.00 | 0.00 | XXX
D8020 |  | N | Limited dental tx transition | 0.00 | 0.00 | 0.00 | 0.00 | 0.00 | 0.00 | XXX
D8030 |  | N | Limited dental tx adolescent | 0.00 | 0.00 | 0.00 | 0.00 | 0.00 | 0.00 | XXX
D8040 |  | N | Limited dental tx adult | 0.00 | 0.00 | 0.00 | 0.00 | 0.00 | 0.00 | XXX
D8050 |  | N | Intercep dental tx primary | 0.00 | 0.00 | 0.00 | 0.00 | 0.00 | 0.00 | XXX
D8060 |  | N | Intercep dental tx transitn | 0.00 | 0.00 | 0.00 | 0.00 | 0.00 | 0.00 | XXX
D8070 |  | N | Compre dental tx transition | 0.00 | 0.00 | 0.00 | 0.00 | 0.00 | 0.00 | XXX
D8080 |  | N | Compre dental tx adolescent | 0.00 | 0.00 | 0.00 | 0.00 | 0.00 | 0.00 | XXX
D8090 |  | N | Compre dental tx adult | 0.00 | 0.00 | 0.00 | 0.00 | 0.00 | 0.00 | XXX
D8210 |  | N | Orthodontic rem appliance tx | 0.00 | 0.00 | 0.00 | 0.00 | 0.00 | 0.00 | XXX
D8220 |  | N | Fixed appliance therapy habt | 0.00 | 0.00 | 0.00 | 0.00 | 0.00 | 0.00 | XXX
D8660 |  | N | Preorthodontic tx visit | 0.00 | 0.00 | 0.00 | 0.00 | 0.00 | 0.00 | XXX
D8670 |  | N | Periodic orthodontc tx visit | 0.00 | 0.00 | 0.00 | 0.00 | 0.00 | 0.00 | XXX
D8680 |  | N | Orthodontic retention | 0.00 | 0.00 | 0.00 | 0.00 | 0.00 | 0.00 | XXX
D8690 |  | N | Orthodontic treatment | 0.00 | 0.00 | 0.00 | 0.00 | 0.00 | 0.00 | XXX
D8691 |  | N | Repair ortho appliance | 0.00 | 0.00 | 0.00 | 0.00 | 0.00 | 0.00 | XXX
D8692 |  | N | Replacement retainer | 0.00 | 0.00 | 0.00 | 0.00 | 0.00 | 0.00 | XXX
D8999 |  | N | Orthodontic procedure | 0.00 | 0.00 | 0.00 | 0.00 | 0.00 | 0.00 | XXX
D9110 |  | R | Tx dental pain minor proc | 0.00 | 0.00 | 0.00 | 0.00 | 0.00 | 0.00 | YYY
D9210 |  | I | Dent anesthesia w/o surgery | 0.00 | 0.00 | 0.00 | 0.00 | 0.00 | 0.00 | XXX
D9211 |  | I | Regional block anesthesia | 0.00 | 0.00 | 0.00 | 0.00 | 0.00 | 0.00 | XXX
D9212 |  | I | Trigeminal block anesthesia | 0.00 | 0.00 | 0.00 | 0.00 | 0.00 | 0.00 | XXX
D9215 |  | I | Local anesthesia | 0.00 | 0.00 | 0.00 | 0.00 | 0.00 | 0.00 | XXX
D9220 |  | I | General anesthesia | 0.00 | 0.00 | 0.00 | 0.00 | 0.00 | 0.00 | XXX
D9221 |  | I | General anesthesia ea ad 15m | 0.00 | 0.00 | 0.00 | 0.00 | 0.00 | 0.00 | XXX
D9230 |  | R | Analgesia | 0.00 | 0.00 | 0.00 | 0.00 | 0.00 | 0.00 | YYY
D9241 |  | I | Intravenous sedation | 0.00 | 0.00 | 0.00 | 0.00 | 0.00 | 0.00 | XXX
D9242 |  | I | IV sedation ea ad 30 m | 0.00 | 0.00 | 0.00 | 0.00 | 0.00 | 0.00 | XXX
D9248 |  | R | Sedation (non-iv) | 0.00 | 0.00 | 0.00 | 0.00 | 0.00 | 0.00 | XXX
D9310 |  | I | Dental consultation | 0.00 | 0.00 | 0.00 | 0.00 | 0.00 | 0.00 | XXX
D9410 |  | I | Dental house call | 0.00 | 0.00 | 0.00 | 0.00 | 0.00 | 0.00 | XXX
D9420 |  | I | Hospital call | 0.00 | 0.00 | 0.00 | 0.00 | 0.00 | 0.00 | XXX
D9430 |  | I | Office visit during hours | 0.00 | 0.00 | 0.00 | 0.00 | 0.00 | 0.00 | XXX
D9440 |  | I | Office visit after hours | 0.00 | 0.00 | 0.00 | 0.00 | 0.00 | 0.00 | XXX
D9450 |  | I | Case presentation tx plan | 0.00 | 0.00 | 0.00 | 0.00 | 0.00 | 0.00 | XXX
D9610 |  | I | Dent therapeutic drug inject | 0.00 | 0.00 | 0.00 | 0.00 | 0.00 | 0.00 | XXX
D9630 |  | R | Other drugs/medicaments | 0.00 | 0.00 | 0.00 | 0.00 | 0.00 | 0.00 | YYY
D9910 |  | N | Dent appl desensitizing med | 0.00 | 0.00 | 0.00 | 0.00 | 0.00 | 0.00 | XXX
D9911 |  | N | Appl desensitizing resin | 0.00 | 0.00 | 0.00 | 0.00 | 0.00 | 0.00 | XXX
D9920 |  | N | Behavior management | 0.00 | 0.00 | 0.00 | 0.00 | 0.00 | 0.00 | XXX
D9930 |  | R | Treatment of complications | 0.00 | 0.00 | 0.00 | 0.00 | 0.00 | 0.00 | YYY
D9940 |  | R | Dental occlusal guard | 0.00 | 0.00 | 0.00 | 0.00 | 0.00 | 0.00 | YYY
D9941 |  | N | Fabrication athletic guard | 0.00 | 0.00 | 0.00 | 0.00 | 0.00 | 0.00 | XXX
D9950 |  | R | Occlusion analysis | 0.00 | 0.00 | 0.00 | 0.00 | 0.00 | 0.00 | YYY
D9951 |  | R | Limited occlusal adjustment | 0.00 | 0.00 | 0.00 | 0.00 | 0.00 | 0.00 | YYY
D9952 |  | R | Complete occlusal adjustment | 0.00 | 0.00 | 0.00 | 0.00 | 0.00 | 0.00 | YYY
D9970 |  | N | Enamel microabrasion | 0.00 | 0.00 | 0.00 | 0.00 | 0.00 | 0.00 | XXX
D9971 |  | N | Odontoplasty 1-2 teeth | 0.00 | 0.00 | 0.00 | 0.00 | 0.00 | 0.00 | XXX
D9972 |  | N | Extrnl bleaching per arch | 0.00 | 0.00 | 0.00 | 0.00 | 0.00 | 0.00 | XXX
D9973 |  | N | Extrnl bleaching per tooth | 0.00 | 0.00 | 0.00 | 0.00 | 0.00 | 0.00 | XXX
D9974 |  | N | Intrnl bleaching per tooth | 0.00 | 0.00 | 0.00 | 0.00 | 0.00 | 0.00 | XXX
D9999 |  | I | Adjunctive procedure | 0.00 | 0.00 | 0.00 | 0.00 | 0.00 | 0.00 | XXX
G0001 |  | X | Drawing blood for specimen | 0.00 | 0.00 | 0.00 | 0.00 | 0.00 | 0.00 | XXX
G0008 |  | X | Admin influenza virus vac | 0.00 | 0.00 | 0.00 | 0.00 | 0.00 | 0.00 | XXX
G0009 |  | X | Admin pneumococcal vaccine | 0.00 | 0.00 | 0.00 | 0.00 | 0.00 | 0.00 | XXX
G0010 |  | X | Admin hepatitis b vaccine | 0.00 | 0.00 | 0.00 | 0.00 | 0.00 | 0.00 | XXX
G0030 |  | C | PET imaging prev PET single | 0.00 | 0.00 | 0.00 | 0.00 | 0.00 | 0.00 | XXX
G0030 | 26 | A | PET imaging prev PET single | 1.50 | 0.60 | 0.60 | 0.04 | 2.14 | 2.14 | XXX
G0030 | TC | C | PET imaging prev PET single | 0.00 | 0.00 | 0.00 | 0.00 | 0.00 | 0.00 | XXX
G0031 |  | C | PET imaging prev PET multple | 0.00 | 0.00 | 0.00 | 0.00 | 0.00 | 0.00 | XXX
G0031 | 26 | A | PET imaging prev PET multple | 1.87 | 0.74 | 0.74 | 0.06 | 2.67 | 2.67 | XXX
G0031 | TC | C | PET imaging prev PET multple | 0.00 | 0.00 | 0.00 | 0.00 | 0.00 | 0.00 | XXX
G0032 |  | C | PET follow SPECT 78464 singl | 0.00 | 0.00 | 0.00 | 0.00 | 0.00 | 0.00 | XXX
G0032 | 26 | A | PET follow SPECT 78464 singl | 1.50 | 0.56 | 0.56 | 0.05 | 2.11 | 2.11 | XXX
G0032 | TC | C | PET follow SPECT 78464 singl | 0.00 | 0.00 | 0.00 | 0.00 | 0.00 | 0.00 | XXX
G0033 |  | C | PET follow SPECT 78464 mult | 0.00 | 0.00 | 0.00 | 0.00 | 0.00 | 0.00 | XXX
G0033 | 26 | A | PET follow SPECT 78464 mult | 1.87 | 0.75 | 0.75 | 0.06 | 2.68 | 2.68 | XXX
G0033 | TC | C | PET follow SPECT 78464 mult | 0.00 | 0.00 | 0.00 | 0.00 | 0.00 | 0.00 | XXX
G0034 |  | C | PET follow SPECT 76865 singl | 0.00 | 0.00 | 0.00 | 0.00 | 0.00 | 0.00 | XXX
G0034 | 26 | A | PET follow SPECT 76865 singl | 1.50 | 0.58 | 0.58 | 0.05 | 2.13 | 2.13 | XXX
G0034 | TC | C | PET follow SPECT 76865 singl | 0.00 | 0.00 | 0.00 | 0.00 | 0.00 | 0.00 | XXX
G0035 |  | C | PET follow SPECT 78465 mult | 0.00 | 0.00 | 0.00 | 0.00 | 0.00 | 0.00 | XXX
G0035 | 26 | A | PET follow SPECT 78465 mult | 1.87 | 0.74 | 0.74 | 0.06 | 2.67 | 2.67 | XXX
G0035 | TC | C | PET follow SPECT 78465 mult | 0.00 | 0.00 | 0.00 | 0.00 | 0.00 | 0.00 | XXX
G0036 |  | C | PET follow cornry angio sing | 0.00 | 0.00 | 0.00 | 0.00 | 0.00 | 0.00 | XXX
G0036 | 26 | A | PET follow cornry angio sing | 1.50 | 0.58 | 0.58 | 0.04 | 2.12 | 2.12 | XXX
G0036 | TC | C | PET follow cornry angio sing | 0.00 | 0.00 | 0.00 | 0.00 | 0.00 | 0.00 | XXX
G0037 |  | C | PET follow cornry angio mult | 0.00 | 0.00 | 0.00 | 0.00 | 0.00 | 0.00 | XXX
G0037 | 26 | A | PET follow cornry angio mult | 1.87 | 0.73 | 0.73 | 0.06 | 2.66 | 2.66 | XXX
G0037 | TC | C | PET follow cornry angio mult | 0.00 | 0.00 | 0.00 | 0.00 | 0.00 | 0.00 | XXX
G0038 |  | C | PET follow myocard perf sing | 0.00 | 0.00 | 0.00 | 0.00 | 0.00 | 0.00 | XXX
G0038 | 26 | A | PET follow myocard perf sing | 1.50 | 0.54 | 0.54 | 0.04 | 2.08 | 2.08 | XXX
G0038 | TC | C | PET follow myocard perf sing | 0.00 | 0.00 | 0.00 | 0.00 | 0.00 | 0.00 | XXX
G0039 |  | C | PET follow myocard perf mult | 0.00 | 0.00 | 0.00 | 0.00 | 0.00 | 0.00 | XXX
G0039 | 26 | A | PET follow myocard perf mult | 1.87 | 0.73 | 0.73 | 0.07 | 2.67 | 2.67 | XXX
G0039 | TC | C | PET follow myocard perf mult | 0.00 | 0.00 | 0.00 | 0.00 | 0.00 | 0.00 | XXX
G0040 |  | C | PET follow stress echo singl | 0.00 | 0.00 | 0.00 | 0.00 | 0.00 | 0.00 | XXX
G0040 | 26 | A | PET follow stress echo singl | 1.50 | 0.61 | 0.61 | 0.04 | 2.15 | 2.15 | XXX
G0040 | TC | C | PET follow stress echo singl | 0.00 | 0.00 | 0.00 | 0.00 | 0.00 | 0.00 | XXX
G0041 |  | C | PET follow stress echo mult | 0.00 | 0.00 | 0.00 | 0.00 | 0.00 | 0.00 | XXX
G0041 | 26 | A | PET follow stress echo mult | 1.87 | 0.75 | 0.75 | 0.05 | 2.67 | 2.67 | XXX
G0041 | TC | C | PET follow stress echo mult | 0.00 | 0.00 | 0.00 | 0.00 | 0.00 | 0.00 | XXX
G0042 |  | C | PET follow ventriculogm sing | 0.00 | 0.00 | 0.00 | 0.00 | 0.00 | 0.00 | XXX
G0042 | 26 | A | PET follow ventriculogm sing | 1.50 | 0.62 | 0.62 | 0.04 | 2.16 | 2.16 | XXX
G0042 | TC | C | PET follow ventriculogm sing | 0.00 | 0.00 | 0.00 | 0.00 | 0.00 | 0.00 | XXX
G0043 |  | C | PET follow ventriculogm mult | 0.00 | 0.00 | 0.00 | 0.00 | 0.00 | 0.00 | XXX
G0043 | 26 | A | PET follow ventriculogm mult | 1.87 | 0.76 | 0.76 | 0.06 | 2.69 | 2.69 | XXX
G0043 | TC | C | PET follow ventriculogm mult | 0.00 | 0.00 | 0.00 | 0.00 | 0.00 | 0.00 | XXX
G0044 |  | C | PET following rest ECG singl | 0.00 | 0.00 | 0.00 | 0.00 | 0.00 | 0.00 | XXX
G0044 | 26 | A | PET following rest ECG singl | 1.50 | 0.61 | 0.61 | 0.04 | 2.15 | 2.15 | XXX
G0044 | TC | C | PET following rest ECG singl | 0.00 | 0.00 | 0.00 | 0.00 | 0.00 | 0.00 | XXX
G0045 |  | C | PET following rest ECG mult | 0.00 | 0.00 | 0.00 | 0.00 | 0.00 | 0.00 | XXX
G0045 | 26 | A | PET following rest ECG mult | 1.87 | 0.74 | 0.74 | 0.06 | 2.67 | 2.67 | XXX
G0045 | TC | C | PET following rest ECG mult | 0.00 | 0.00 | 0.00 | 0.00 | 0.00 | 0.00 | XXX
G0046 |  | C | PET follow stress ECG singl | 0.00 | 0.00 | 0.00 | 0.00 | 0.00 | 0.00 | XXX
G0046 | 26 | A | PET follow stress ECG singl | 1.50 | 0.61 | 0.61 | 0.04 | 2.15 | 2.15 | XXX
G0046 | TC | C | PET follow stress ECG singl | 0.00 | 0.00 | 0.00 | 0.00 | 0.00 | 0.00 | XXX
G0047 |  | C | PET follow stress ECG mult | 0.00 | 0.00 | 0.00 | 0.00 | 0.00 | 0.00 | XXX
G0047 | 26 | A | PET follow stress ECG mult | 1.87 | 0.75 | 0.75 | 0.06 | 2.68 | 2.68 | XXX
G0047 | TC | C | PET follow stress ECG mult | 0.00 | 0.00 | 0.00 | 0.00 | 0.00 | 0.00 | XXX
G0101 |  | A | CA screen;pelvic/breast exam | 0.45 | 0.54 | 0.17 | 0.01 | 1.00 | 0.63 | XXX
G0102 |  | A | Prostate ca screening; dre | 0.17 | 0.41 | 0.06 | 0.01 | 0.59 | 0.24 | XXX
G0104 |  | A | CA screen;flexi sigmoidscope | 0.96 | 2.25 | 0.53 | 0.05 | 3.26 | 1.54 | 000
G0105 |  | A | Colorectal scrn; hi risk ind | 3.70 | 6.30 | 1.68 | 0.20 | 10.20 | 5.58 | 000
G0106 |  | A | Colon CA screen;barium enema | 0.99 | 2.57 | N/A | 0.15 | 3.71 | N/A | XXX
G0106 | 26 | A | Colon CA screen;barium enema | 0.99 | 0.33 | 0.33 | 0.04 | 1.36 | 1.36 | XXX
G0106 | TC | A | Colon CA screen;barium enema | 0.00 | 2.23 | N/A | 0.11 | 2.34 | N/A | XXX
G0108 |  | A | Diab manage trn per indiv | 0.00 | 0.83 | N/A | 0.01 | 0.84 | N/A | XXX
G0109 |  | A | Diab manage trn ind/group | 0.00 | 0.48 | N/A | 0.01 | 0.49 | N/A | XXX
G0110 |  | R | Nett pulm-rehab educ; ind | 0.90 | 0.72 | 0.29 | 0.03 | 1.65 | 1.22 | XXX
G0111 |  | R | Nett pulm-rehab educ; group | 0.27 | 0.30 | 0.14 | 0.01 | 0.58 | 0.42 | XXX
G0112 |  | R | Nett;nutrition guid, initial | 1.72 | 1.25 | 0.67 | 0.05 | 3.02 | 2.44 | XXX
G0113 |  | R | Nett;nutrition guid,subseqnt | 1.29 | 0.85 | 0.42 | 0.04 | 2.18 | 1.75 | XXX
G0114 |  | R | Nett; psychosocial consult | 1.20 | 0.49 | 0.38 | 0.03 | 1.72 | 1.61 | XXX
G0115 |  | R | Nett; psychological testing | 1.20 | 0.64 | 0.38 | 0.04 | 1.88 | 1.62 | XXX
G0116 |  | R | Nett; psychosocial counsel | 1.11 | 1.02 | 0.34 | 0.04 | 2.17 | 1.49 | XXX
G0117 |  | T | Glaucoma scrn hgh risk direc | 0.45 | 0.72 | 0.19 | 0.02 | 1.19 | 0.66 | XXX
G0118 |  | T | Glaucoma scrn hgh risk direc | 0.17 | 0.53 | 0.07 | 0.01 | 0.71 | 0.25 | XXX
G0120 |  | A | Colon ca scrn; barium enema | 0.99 | 2.57 | N/A | 0.15 | 3.71 | N/A | XXX
G0120 | 26 | A | Colon ca scrn; barium enema | 0.99 | 0.33 | 0.33 | 0.04 | 1.36 | 1.36 | XXX
G0120 | TC | A | Colon ca scrn; barium enema | 0.00 | 2.23 | N/A | 0.11 | 2.34 | N/A | XXX
G0121 |  | A | Colon ca scrn not hi rsk ind | 3.70 | 6.30 | 1.68 | 0.20 | 10.20 | 5.58 | 000
G0122 |  | N | Colon ca scrn; barium enema | 0.99 | 2.62 | N/A | 0.15 | 3.76 | N/A | XXX
G0122 | 26 | N | Colon ca scrn; barium enema | 0.99 | 0.38 | 0.38 | 0.04 | 1.41 | 1.41 | XXX
G0122 | TC | N | Colon ca scrn; barium enema | 0.00 | 2.23 | N/A | 0.11 | 2.34 | N/A | XXX
G0124 |  | A | Screen c/v thin layer by MD | 0.42 | 0.18 | 0.18 | 0.01 | 0.61 | 0.61 | XXX
G0125 |  | C | PET image pulmonary nodule | 0.00 | 0.00 | 0.00 | 0.00 | 0.00 | 0.00 | XXX
G0125 | 26 | A | PET image pulmonary nodule | 1.50 | 0.54 | 0.54 | 0.05 | 2.09 | 2.09 | XXX
G0125 | TC | C | PET image pulmonary nodule | 0.00 | 0.00 | 0.00 | 0.00 | 0.00 | 0.00 | XXX
G0127 |  | R | Trim nail(s) | 0.17 | 0.26 | 0.07 | 0.01 | 0.44 | 0.25 | 000
G0128 |  | R | CORF skilled nursing service | 0.08 | 0.03 | 0.03 | 0.01 | 0.12 | 0.12 | XXX
G0130 |  | A | Single energy x-ray study | 0.22 | 0.88 | N/A | 0.05 | 1.15 | N/A | XXX
G0130 | 26 | A | Single energy x-ray study | 0.22 | 0.07 | 0.07 | 0.01 | 0.30 | 0.30 | XXX
G0130 | TC | A | Single energy x-ray study | 0.00 | 0.80 | N/A | 0.04 | 0.84 | N/A | XXX
G0141 |  | A | Scr c/v cyto,autosys and md | 0.42 | 0.18 | 0.18 | 0.01 | 0.61 | 0.61 | XXX
G0166 |  | A | Extrnl counterpulse, per tx | 0.07 | 2.93 | 0.03 | 0.01 | 3.01 | 0.11 | XXX
G0167 |  | C | Hyperbaric oz tx;no md reqrd | 0.00 | 0.00 | 0.00 | 0.00 | 0.00 | 0.00 | XXX
G0168 |  | A | Wound closure by adhesive | 0.45 | 2.03 | 0.16 | 0.01 | 2.49 | 0.62 | 000
G0179 |  | A | MD recertification HHA PT | 0.45 | 1.09 | N/A | 0.01 | 1.55 | N/A | XXX
G0180 |  | A | MD certification HHA patient | 0.67 | 1.32 | N/A | 0.02 | 2.01 | N/A | XXX
G0181 |  | A | Home health care supervision | 1.73 | 1.56 | N/A | 0.06 | 3.35 | N/A | XXX
G0182 |  | A | Hospice care supervision | 1.73 | 1.75 | N/A | 0.06 | 3.54 | N/A | XXX
G0186 |  | C | Dstry eye lesn,fdr vssl tech | 0.00 | 0.00 | 0.00 | 0.00 | 0.00 | 0.00 | YYY
G0202 |  | A | Screeningmammographydigital | 0.70 | 2.78 | N/A | 0.09 | 3.57 | N/A | XXX
G0202 | 26 | A | Screeningmammographydigital | 0.70 | 0.23 | 0.23 | 0.03 | 0.96 | 0.96 | XXX
G0202 | TC | A | Screeningmammographydigital | 0.00 | 2.54 | N/A | 0.06 | 2.60 | N/A | XXX
G0204 |  | A | Diagnosticmammographydigital | 0.87 | 2.80 | N/A | 0.10 | 3.77 | N/A | XXX
G0204 | 26 | A | Diagnosticmammographydigital | 0.87 | 0.29 | 0.29 | 0.04 | 1.20 | 1.20 | XXX
G0204 | TC | A | Diagnosticmammographydigital | 0.00 | 2.50 | N/A | 0.06 | 2.56 | N/A | XXX
G0206 |  | A | Diagnosticmammographydigital | 0.70 | 2.26 | N/A | 0.09 | 3.05 | N/A | XXX
G0206 | 26 | A | Diagnosticmammographydigital | 0.70 | 0.23 | 0.23 | 0.04 | 0.97 | 0.97 | XXX
G0206 | TC | A | Diagnosticmammographydigital | 0.00 | 2.02 | N/A | 0.05 | 2.07 | N/A | XXX
G0210 |  | C | PET img wholebody dxlung | 0.00 | 0.00 | 0.00 | 0.00 | 0.00 | 0.00 | XXX
G0210 | 26 | A | PET img wholebody dxlung | 1.50 | 0.52 | 0.52 | 0.04 | 2.06 | 2.06 | XXX
G0210 | TC | C | PET img wholebody dxlung | 0.00 | 0.00 | 0.00 | 0.00 | 0.00 | 0.00 | XXX
G0211 |  | C | PET img wholbody init lung | 0.00 | 0.00 | 0.00 | 0.00 | 0.00 | 0.00 | XXX
G0211 | 26 | A | PET img wholbody init lung | 1.50 | 0.52 | 0.52 | 0.04 | 2.06 | 2.06 | XXX
G0211 | TC | C | PET img wholbody init lung | 0.00 | 0.00 | 0.00 | 0.00 | 0.00 | 0.00 | XXX
G0212 |  | C | PET img wholebod restag lung | 0.00 | 0.00 | 0.00 | 0.00 | 0.00 | 0.00 | XXX
G0212 | 26 | A | PET img wholebod restag lung | 1.50 | 0.53 | 0.53 | 0.04 | 2.07 | 2.07 | XXX
G0212 | TC | C | PET img wholebod restag lung | 0.00 | 0.00 | 0.00 | 0.00 | 0.00 | 0.00 | XXX
G0213 |  | C | PET img wholbody dx | 0.00 | 0.00 | 0.00 | 0.00 | 0.00 | 0.00 | XXX
G0213 | 26 | A | PET img wholbody dx | 1.50 | 0.52 | 0.52 | 0.04 | 2.06 | 2.06 | XXX
G0213 | TC | C | PET img wholbody dx | 0.00 | 0.00 | 0.00 | 0.00 | 0.00 | 0.00 | XXX
G0214 |  | C | PET img wholebod init | 0.00 | 0.00 | 0.00 | 0.00 | 0.00 | 0.00 | XXX
G0214 | 26 | A | PET img wholebod init | 1.50 | 0.52 | 0.52 | 0.04 | 2.06 | 2.06 | XXX
G0214 | TC | C | PET img wholebod init | 0.00 | 0.00 | 0.00 | 0.00 | 0.00 | 0.00 | XXX
G0215 |  | C | PETimg wholebod restag | 0.00 | 0.00 | 0.00 | 0.00 | 0.00 | 0.00 | XXX
G0215 | 26 | A | PETimg wholebod restag | 1.50 | 0.53 | 0.53 | 0.04 | 2.07 | 2.07 | XXX
G0215 | TC | C | PETimg wholebod restag | 0.00 | 0.00 | 0.00 | 0.00 | 0.00 | 0.00 | XXX
G0216 |  | C | PET img wholebod dx melanoma | 0.00 | 0.00 | 0.00 | 0.00 | 0.00 | 0.00 | XXX
G0216 | 26 | A | PET img wholebod dx melanoma | 1.50 | 0.52 | 0.52 | 0.04 | 2.06 | 2.06 | XXX
G0216 | TC | C | PET img wholebod dx melanoma | 0.00 | 0.00 | 0.00 | 0.00 | 0.00 | 0.00 | XXX
G0217 |  | C | PET img wholebod init melan | 0.00 | 0.00 | 0.00 | 0.00 | 0.00 | 0.00 | XXX
G0217 | 26 | A | PET img wholebod init melan | 1.50 | 0.53 | 0.53 | 0.04 | 2.07 | 2.07 | XXX
G0217 | TC | C | PET img wholebod init melan | 0.00 | 0.00 | 0.00 | 0.00 | 0.00 | 0.00 | XXX
G0218 |  | C | PET img wholebod restag mela | 0.00 | 0.00 | 0.00 | 0.00 | 0.00 | 0.00 | XXX
G0218 | 26 | A | PET img wholebod restag mela | 1.50 | 0.53 | 0.53 | 0.04 | 2.07 | 2.07 | XXX
G0218 | TC | C | PET img wholebod restag mela | 0.00 | 0.00 | 0.00 | 0.00 | 0.00 | 0.00 | XXX
G0220 |  | C | PET img wholebod dx lymphoma | 0.00 | 0.00 | 0.00 | 0.00 | 0.00 | 0.00 | XXX
G0220 | 26 | A | PET img wholebod dx lymphoma | 1.50 | 0.52 | 0.52 | 0.04 | 2.06 | 2.06 | XXX
G0220 | TC | C | PET img wholebod dx lymphoma | 0.00 | 0.00 | 0.00 | 0.00 | 0.00 | 0.00 | XXX
G0221 |  | C | PET imag wholbod init lympho | 0.00 | 0.00 | 0.00 | 0.00 | 0.00 | 0.00 | XXX
G0221 | 26 | A | PET imag wholbod init lympho | 1.50 | 0.52 | 0.52 | 0.04 | 2.06 | 2.06 | XXX
G0221 | TC | C | PET imag wholbod init lympho | 0.00 | 0.00 | 0.00 | 0.00 | 0.00 | 0.00 | XXX
G0222 |  | C | PET imag wholbod resta lymph | 0.00 | 0.00 | 0.00 | 0.00 | 0.00 | 0.00 | XXX
G0222 | 26 | A | PET imag wholbod resta lymph | 1.50 | 0.53 | 0.53 | 0.04 | 2.07 | 2.07 | XXX
G0222 | TC | C | PET imag wholbod resta lymph | 0.00 | 0.00 | 0.00 | 0.00 | 0.00 | 0.00 | XXX
G0223 |  | C | PET imag wholbod reg dx head | 0.00 | 0.00 | 0.00 | 0.00 | 0.00 | 0.00 | XXX
G0223 | 26 | A | PET imag wholbod reg dx head | 1.50 | 0.53 | 0.53 | 0.04 | 2.07 | 2.07 | XXX
G0223 | TC | C | PET imag wholbod reg dx head | 0.00 | 0.00 | 0.00 | 0.00 | 0.00 | 0.00 | XXX
G0224 |  | C | PET imag wholbod reg ini hea | 0.00 | 0.00 | 0.00 | 0.00 | 0.00 | 0.00 | XXX
G0224 | 26 | A | PET imag wholbod reg ini hea | 1.50 | 0.52 | 0.52 | 0.04 | 2.06 | 2.06 | XXX
G0224 | TC | C | PET imag wholbod reg ini hea | 0.00 | 0.00 | 0.00 | 0.00 | 0.00 | 0.00 | XXX
G0225 |  | C | PET whol restag headneckonly | 0.00 | 0.00 | 0.00 | 0.00 | 0.00 | 0.00 | XXX
G0225 | 26 | A | PET whol restag headneckonly | 1.50 | 0.53 | 0.53 | 0.04 | 2.07 | 2.07 | XXX
G0225 | TC | C | PET whol restag headneckonly | 0.00 | 0.00 | 0.00 | 0.00 | 0.00 | 0.00 | XXX
G0226 |  | C | PET img wholbody dx esophagl | 0.00 | 0.00 | 0.00 | 0.00 | 0.00 | 0.00 | XXX
G0226 | 26 | A | PET img wholbody dx esophagl | 1.50 | 0.54 | 0.54 | 0.04 | 2.08 | 2.08 | XXX
G0226 | TC | C | PET img wholbody dx esophagl | 0.00 | 0.00 | 0.00 | 0.00 | 0.00 | 0.00 | XXX
G0227 |  | C | PET img wholbod ini esophage | 0.00 | 0.00 | 0.00 | 0.00 | 0.00 | 0.00 | XXX
G0227 | 26 | A | PET img wholbod ini esophage | 1.50 | 0.54 | 0.54 | 0.04 | 2.08 | 2.08 | XXX
G0227 | TC | C | PET img wholbod ini esophage | 0.00 | 0.00 | 0.00 | 0.00 | 0.00 | 0.00 | XXX
G0228 |  | C | PET img wholbod restg esopha | 0.00 | 0.00 | 0.00 | 0.00 | 0.00 | 0.00 | XXX
G0228 | 26 | A | PET img wholbod restg esopha | 1.50 | 0.53 | 0.53 | 0.04 | 2.07 | 2.07 | XXX
G0228 | TC | C | PET img wholbod restg esopha | 0.00 | 0.00 | 0.00 | 0.00 | 0.00 | 0.00 | XXX
G0229 |  | C | PET img metaboloc brain pres | 0.00 | 0.00 | 0.00 | 0.00 | 0.00 | 0.00 | XXX
G0229 | 26 | A | PET img metaboloc brain pres | 1.50 | 0.53 | 0.53 | 0.04 | 2.07 | 2.07 | XXX
G0229 | TC | C | PET img metaboloc brain pres | 0.00 | 0.00 | 0.00 | 0.00 | 0.00 | 0.00 | XXX
G0230 |  | C | PET myocard viability post | 0.00 | 0.00 | 0.00 | 0.00 | 0.00 | 0.00 | XXX
G0230 | 26 | A | PET myocard viability post | 1.50 | 0.55 | 0.55 | 0.04 | 2.09 | 2.09 | XXX
G0230 | TC | C | PET myocard viability post | 0.00 | 0.00 | 0.00 | 0.00 | 0.00 | 0.00 | XXX
G0231 |  | C | PET WhBD colorec; gamma cam | 0.00 | 0.00 | 0.00 | 0.00 | 0.00 | 0.00 | XXX
G0231 | 26 | A | PET WhBD colorec; gamma cam | 1.50 | 0.53 | 0.53 | 0.04 | 2.07 | 2.07 | XXX
G0231 | TC | C | PET WhBD colorec; gamma cam | 0.00 | 0.00 | 0.00 | 0.00 | 0.00 | 0.00 | XXX
G0232 |  | C | PET whbd lymphoma; gamma cam | 0.00 | 0.00 | 0.00 | 0.00 | 0.00 | 0.00 | XXX
G0232 | 26 | A | PET whbd lymphoma; gamma cam | 1.50 | 0.53 | 0.53 | 0.04 | 2.07 | 2.07 | XXX
G0232 | TC | C | PET whbd lymphoma; gamma cam | 0.00 | 0.00 | 0.00 | 0.00 | 0.00 | 0.00 | XXX
G0233 |  | C | PET whbd melanoma; gamma cam | 0.00 | 0.00 | 0.00 | 0.00 | 0.00 | 0.00 | XXX
G0233 | 26 | A | PET whbd melanoma; gamma cam | 1.50 | 0.53 | 0.53 | 0.04 | 2.07 | 2.07 | XXX
G0233 | TC | C | PET whbd melanoma; gamma cam | 0.00 | 0.00 | 0.00 | 0.00 | 0.00 | 0.00 | XXX
G0234 |  | C | PET WhBD pulm nod; gamma cam | 0.00 | 0.00 | 0.00 | 0.00 | 0.00 | 0.00 | XXX
G0234 | 26 | A | PET WhBD pulm nod; gamma cam | 1.50 | 0.53 | 0.53 | 0.04 | 2.07 | 2.07 | XXX
G0234 | TC | C | PET WhBD pulm nod; gamma cam | 0.00 | 0.00 | 0.00 | 0.00 | 0.00 | 0.00 | XXX
G0236 |  | A | Digital film convert diag ma | 0.06 | 0.44 | N/A | 0.02 | 0.52 | N/A | ZZZ
G0236 | 26 | A | Digital film convert diag ma | 0.06 | 0.02 | 0.02 | 0.01 | 0.09 | 0.09 | ZZZ
G0236 | TC | A | Digital film convert diag ma | 0.00 | 0.42 | N/A | 0.01 | 0.43 | N/A | ZZZ
G0237 |  | A | Therapeutic procd strg endur | 0.00 | 0.47 | N/A | 0.02 | 0.49 | N/A | XXX
G0238 |  | C | Oth resp proc, indiv | 0.00 | 0.00 | 0.00 | 0.00 | 0.00 | 0.00 | XXX
G0239 |  | C | Oth resp proc, group | 0.00 | 0.00 | 0.00 | 0.00 | 0.00 | 0.00 | XXX
G0245 |  | R | Initial foot exam pt lops | 0.88 | 0.81 | 0.32 | 0.05 | 1.74 | 1.25 | XXX
G0246 |  | R | Followup eval of foot pt lop | 0.45 | 0.56 | 0.16 | 0.02 | 1.03 | 0.63 | XXX
G0247 |  | R | Routine footcare pt w lops | 0.50 | 0.54 | 0.21 | 0.05 | 1.09 | 0.76 | ZZZ
G0248 |  | R | Demonstrate use home inr mon | 0.00 | 6.92 | N/A | 0.01 | 6.93 | N/A | XXX
G0249 |  | R | Provide test material,equipm | 0.00 | 4.12 | N/A | 0.01 | 4.13 | N/A | XXX
G0250 |  | R | MD review interpret of test | 0.18 | 0.06 | 0.06 | 0.01 | 0.25 | 0.25 | XXX
G0252 | 26 | N | PET imaging initial dx | 1.50 | 0.58 | 0.58 | 0.04 | 2.12 | 2.12 | XXX
G0253 |  | C | PET image brst dection recur | 0.00 | 0.00 | 0.00 | 0.00 | 0.00 | 0.00 | XXX
G0253 | 26 | A | PET image brst dection recur | 1.87 | 0.72 | 0.72 | 0.07 | 2.66 | 2.66 | XXX
G0253 | TC | C | PET image brst dection recur | 0.00 | 0.00 | 0.00 | 0.00 | 0.00 | 0.00 | XXX
G0254 |  | C | PET image brst eval to tx | 0.00 | 0.00 | 0.00 | 0.00 | 0.00 | 0.00 | XXX
G0254 | 26 | A | PET image brst eval to tx | 1.87 | 0.72 | 0.72 | 0.07 | 2.66 | 2.66 | XXX
G0254 | TC | C | PET image brst eval to tx | 0.00 | 0.00 | 0.00 | 0.00 | 0.00 | 0.00 | XXX
G0262 |  | A | Sm intestinal image capsule | 2.12 | 20.88 | N/A | 0.08 | 23.08 | N/A | XXX
G0262 | 26 | A | Sm intestinal image capsule | 2.12 | 0.82 | 0.82 | 0.02 | 2.96 | 2.96 | XXX
G0262 | TC | A | Sm intestinal image capsule | 0.00 | 20.06 | N/A | 0.06 | 20.12 | N/A | XXX
G0268 |  | A | Removal of impacted wax md | 0.61 | 0.66 | 0.25 | 0.04 | 1.31 | 0.90 | 000
G0270 |  | A | MNT subs tx for change dx | 0.00 | 0.47 | N/A | 0.01 | 0.48 | N/A | XXX
G0271 |  | A | Group MNT 2 or more 30 mins | 0.00 | 0.18 | N/A | 0.01 | 0.19 | N/A | XXX
G0272 |  | A | Naso/oro gastric tube pl MD | 0.32 | N/A | 0.12 | 0.02 | N/A | 0.46 | 000
G0273 |  | A | Pretx planning, non-Hodgkins | 0.86 | 11.40 | N/A | 0.28 | 12.54 | N/A | XXX
G0273 | 26 | A | Pretx planning, non-Hodgkins | 0.86 | 0.33 | 0.33 | 0.03 | 1.22 | 1.22 | XXX
G0273 | TC | A | Pretx planning, non-Hodgkins | 0.00 | 11.06 | N/A | 0.25 | 11.31 | N/A | XXX
G0274 |  | A | Radiopharm tx, non-Hodgkins | 2.07 | 3.42 | N/A | 0.20 | 5.69 | N/A | XXX
G0274 | 26 | A | Radiopharm tx, non-Hodgkins | 2.07 | 0.80 | 0.80 | 0.08 | 2.95 | 2.95 | XXX
G0274 | TC | A | Radiopharm tx, non-Hodgkins | 0.00 | 2.62 | N/A | 0.12 | 2.74 | N/A | XXX
G0275 |  | A | Renal angio, cardiac cath | 0.25 | N/A | 0.10 | 0.01 | N/A | 0.36 | ZZZ
G0278 |  | A | Iliac art angio,cardiac cath | 0.25 | N/A | 0.10 | 0.01 | N/A | 0.36 | ZZZ
G0279 |  | C | Excorp shock tx, elbow epi | 0.00 | 0.00 | 0.00 | 0.00 | 0.00 | 0.00 | XXX
G0280 |  | C | Excorp shock tx other than | 0.00 | 0.00 | 0.00 | 0.00 | 0.00 | 0.00 | XXX
G0281 |  | A | Elec stim unattend for press | 0.18 | 0.11 | N/A | 0.01 | 0.30 | N/A | XXX
G0283 |  | A | Elec stim other than wound | 0.18 | 0.11 | N/A | 0.01 | 0.30 | N/A | XXX
G0288 |  | A | Recon, CTA for surg plan | 0.00 | 10.62 | N/A | 0.15 | 10.77 | N/A | XXX
G0289 |  | A | Arthro, loose body + chondro | 1.48 | N/A | 0.57 | 0.27 | N/A | 2.32 | ZZZ
Gxx10 |  | A | ESRDrelsvc 1/mo; 2-11yr | 2.32 | 1.14 | 1.14 | 0.10 | 3.56 | 3.56 | XXX
Gxx11 |  | A | ESRDrelsvc 4+/mo; 12-19yr | 8.47 | 4.54 | 4.54 | 0.35 | 13.36 | 13.36 | XXX
Gxx12 |  | A | ESRDrelsvc 2-3/mo; 12-19yr | 3.14 | 1.68 | 1.68 | 0.13 | 4.95 | 4.95 | XXX
Gxx13 |  | A | ESRDrelsvc 1/mo; 12-19yr | 2.05 | 1.10 | 1.10 | 0.08 | 3.23 | 3.23 | XXX
Gxx14 |  | A | ESRDrelsvc 4+/mo; 20+yr | 5.16 | 2.94 | 2.94 | 0.22 | 8.32 | 8.32 | XXX
Gxx15 |  | A | ESRDrelsvc 2-3/mo; 20+yr | 1.94 | 1.10 | 1.10 | 0.08 | 3.12 | 3.12 | XXX
Gxx16 |  | A | ESRDrelsvc 1/mo; 20+yr | 1.27 | 0.73 | 0.73 | 0.06 | 2.06 | 2.06 | XXX
Gxxx1 |  | A | Monitor arrhyth/30day | 0.52 | 7.45 | N/A | 0.24 | 8.21 | N/A | XXX
Gxxx2 |  | A | Monitor arrhyth/30day;rec | 0.00 | 1.24 | N/A | 0.07 | 1.31 | N/A | XXX
Gxxx3 |  | A | Monitor arrhyth/30day;analy | 0.00 | 6.02 | N/A | 0.15 | 6.17 | N/A | XXX
Gxxx4 |  | A | Monitor arrhyth/30day;interp | 0.52 | 0.19 | 0.19 | 0.02 | 0.73 | 0.73 | XXX
Gxxx5 |  | A | ESRDrelsvc 4+/mo; undr2 | 12.92 | 8.70 | 8.70 | 0.60 | 22.22 | 22.22 | XXX
Gxxx6 |  | A | ESRDrelsvc 2-3/mo; undr2 | 5.19 | 3.49 | 3.49 | 0.24 | 8.92 | 8.92 | XXX
Gxxx7 |  | A | ESRDrelsvc 1/mo; undr2 | 3.39 | 2.29 | 2.29 | 0.16 | 5.84 | 5.84 | XXX
Gxxx8 |  | A | ESRDrelsvc 4+/mo; 2-11yr | 9.91 | 4.86 | 4.86 | 0.43 | 15.20 | 15.20 | XXX
Gxxx9 |  | A | ESRDrelsvc 2-3/mo; 2-11yr | 3.55 | 1.74 | 1.74 | 0.15 | 5.44 | 5.44 | XXX
M0064 |  | A | Visit for drug monitoring | 0.37 | 0.34 | 0.12 | 0.01 | 0.72 | 0.50 | XXX
P3001 |  | A | Screening pap smear by phys | 0.42 | 0.18 | 0.18 | 0.01 | 0.61 | 0.61 | XXX
Q0035 |  | A | Cardiokymography | 0.17 | 0.45 | N/A | 0.03 | 0.65 | N/A | XXX
Q0035 | 26 | A | Cardiokymography | 0.17 | 0.07 | 0.07 | 0.01 | 0.25 | 0.25 | XXX
Q0035 | TC | A | Cardiokymography | 0.00 | 0.39 | N/A | 0.02 | 0.41 | N/A | XXX
Q0091 |  | A | Obtaining screen pap smear | 0.37 | 0.68 | 0.14 | 0.01 | 1.06 | 0.52 | XXX
Q0092 |  | A | Set up port xray equipment | 0.00 | 0.32 | N/A | 0.01 | 0.33 | N/A | XXX
R0070 |  | C | Transport portable x-ray | 0.00 | 0.00 | 0.00 | 0.00 | 0.00 | 0.00 | XXX
R0075 |  | C | Transport port x-ray multipl | 0.00 | 0.00 | 0.00 | 0.00 | 0.00 | 0.00 | XXX
V5299 |  | R | Hearing service | 0.00 | 0.00 | 0.00 | 0.00 | 0.00 | 0.00 | XXX
V5362 |  | R | Speech screening | 0.00 | 0.00 | 0.00 | 0.00 | 0.00 | 0.00 | XXX
V5363 |  | R | Language screening | 0.00 | 0.00 | 0.00 | 0.00 | 0.00 | 0.00 | XXX
V5364 |  | R | Dysphagia screening | 0.00 | 0.00 | 0.00 | 0.00 | 0.00 | 0.00 | XXX
¹ CPT codes and descriptions only are copyright American Medical Association. All Right Reserved. Applicable FARS/DFARS Apply.
² Copyright American Dental Association. All right reserved.

BILLING CODE 4120-01-P

[FR Doc. 03-20662 Filed 8-8-03; 3:56 pm]

BILLING CODE 4120-01-C